DEPARTMENT OF HOUSING AND URBAN DEVELOPMENT

[Docket No. FR-5030-N-01A]

Fiscal Year 2006 SuperNOFA for HUD's Discretionary Programs

AGENCY: Office of the Secretary, HUD.

ACTION: Notice of HUD's Fiscal Year (FY) 2006 Notice of Funding Availability (NOFA) for HUD's Discretionary Programs (SuperNOFA).

SUMMARY: On January 20, 2006, HUD published its Notice of Fiscal Year 2006 Notice of Funding Availability Policy Requirements and General Section to the SuperNOFA (General Section). In that publication, HUD announced it was publishing the General Section of the FY2006 SuperNOFA in advance of the individual NOFAs in order to give prospective applicants sufficient time to begin preparing their applications, and to register early with Grants.gov to facilitate their application submission process. This publication contains the 39 funding opportunities that constitute HUD's FY2006 SuperNOFA.

DATES: The key dates that apply to all HUD federal financial assistance made available through HUD's FY2006 SuperNOFA are found in each individual program NOFA and in Appendix A to this notice.

FOR FURTHER INFORMATION CONTACT: The individual program NOFAs will identify the applicable agency contacts for each program. Questions regarding this Introduction should be directed to the NOFA Information Center between the hours 10 a.m. and 6:30 p.m. Eastern Time at 800-HUD-8929. Hearing-impaired persons may call 800-HUD-2209. Questions regarding specific program requirements should be directed to the agency contacts identified in each program NOFA.

SUPPLEMENTARY INFORMATION:

Introduction (Supplemental General Section)

This publication follows HUD's publication of the General Section of the FY2006 SuperNOFA on January 20, 2006 (71 FR 3382), and presents the 39 individual funding opportunities that constitute HUD's FY2006 SuperNOFA. HUD makes available through today's FY2006 SuperNOFA publication approximately $2.2 billion in assistance.

While each program NOFA provides the statutory and regulatory requirements, threshold requirements, and rating factors applicable to funding made available through the individual NOFA, applicants must also refer to the January 20, 2006, General Section of the FY2006 SuperNOFA for important application information and requirements, including submission requirements, which have changed this year.

Appendix A to the January 20, 2006, General Section identified the funding opportunities anticipated to be included in the FY2006 SuperNOFA. HUD is revising and republishing Appendix A (Revised Appendix A) as part of today's FY2006 SuperNOFA publication. Revised Appendix A provides an up-to-date funding chart that lists the funding opportunities included in today's FY2006 SuperNOFA publication, along with the application deadline for receipt of applications. In reviewing Revised Appendix A, applicants should note that the HOPE VI Main Street Program NOFA is not part of today's FY2006 SuperNOFA publication. This NOFA will be published separately, together with the HOPE VI Revitalization NOFA. In addition, the Self Help Homeownership Opportunity Program (SHOP) is part of today's FY2006 SuperNOFA publication and is included in Revised Appendix A.

In addition to Revised Appendix A, this notice makes one clarification regarding the discussion of the Logic Model in Section VI.C. entitled “Reporting” of the January 20, 2006, General Section (see 71 FR 3398). Although the Logic Model is to be completed by applicants, the Return on Investment (ROI) Statement referenced in the discussion of the Logic Model only applies to grantees, i.e., applicants selected for funding under the NOFAs. Applicants are not to complete the ROI statement. Additionally, for FY2006, the ROI concept is a new concept for the Logic Model. HUD is considering this new concept and will issue a separate notice within the next few weeks that further addresses the ROI concept.

HUD published the General Section of the FY2006 SuperNOFA early to provide its applicant community with the opportunity to become familiar with cross cutting requirements, and to remind prospective applicants to register or renew their registration in order to successfully submit an application via Grants.gov.

Applicants are required to complete a five-step registration process in order to submit their applications electronically. The registration process is outlined in HUD's Notice of Opportunity to Register Early for Electronic Submission of Grant Applications for Funding Opportunities, published in the Federal Register on December 9, 2006 (70 FR 73332), and the brochure entitled “STEP BY STEP: Your Guide to Registering for Grant Opportunities,” located at http://www.hud.gov/offices/adm/grants/fundsavail.cfm. HUD also has a new brochure titled, “Finding and Applying for Grant Opportunities,” dated February 2006, which walks you through the process of finding and applying for grant opportunities. This brochure also contains Registration Tips that will help applicants who successfully submitted a grant application last year to determine if their registration is active and if they are ready to submit a grant application to Grants.gov.

HUD has received a number of questions regarding what to do if an Authorized Organization Representative (AOR) has left the organization. An excerpt from the “Finding and Applying for Grant Opportunities Brochure,” dated February 2006 and describes the steps that are needed in such situations and also provides other pertinent registration information. This excerpt can be found on HUD's Web site at http://www.hud.gov/offices/adm/grants/fundsavail.cfm under the title “Registration Tips.”

In FY2006, HUD intends to continue to require its applicants to submit their applications electronically through Grants.gov. For FY2006, only the Continuum of Care program will remain a paper application process. It is HUD's intent, however, to move the Continuum of Care program to electronic application submission in FY2007. As a result, HUD continues to encourage Continuum of Care agencies to become familiar with Grants.gov requirements to facilitate this transition.

If you have questions concerning the registration process, registration renewal, assigning a new AOR, or have a question about a NOFA requirement, please feel free to contact HUD staff listed in the NOFA. HUD staff cannot help you write your application, but can clarify requirements that are contained in this Notice and HUD's registration materials.

Applicants are also encouraged to participate in HUD's satellite training and web cast sessions designed to provide a detailed explanation of the general section and program section requirements for each of the SuperNOFA programs. The interactive broadcasts provide you an opportunity to ask questions of HUD staff. These broadcasts are also achieved and accessible from HUD's Grants page at http://www.hud.gov/offices/adm/grants/fundsavail.cfm. Applicants should bookmark the Grants page as it provides a wealth of information including responses to frequently asked questions that arise during the funding application period.

Modifications to any of the NOFAs or the application are posted to www.Grants.gov as soon as they are available. Applicants should subscribe to the Grants.gov free notification service. By doing so, you will receive an e-mail notification as soon as items are posted to Grants.gov. The address to subscribe to this service is http://www.grants.gov/search/email.do.

HUD reiterates the statement made in the publication of the General Section on January 20, 2006, and that is, HUD hopes the steps that it has taken to provide information early on the FY2006 funding process and SuperNOFA requirements are of benefit to applicants.

Dated: February 22, 2006.
Roy A. Bernardi,
Deputy Secretary.

BILLING CODE 4210-01-P

Community Development Technical Assistance

Overview Information

A. Federal Agency Name. Department of Housing and Urban Development, Office of Community Planning and Development.

B. Funding Opportunity Title. Community Development Technical Assistance (CD-TA).

C. Announcement Type. Initial Announcement.

D. Funding Opportunity Number. The Federal Register number for this NOFA is FR-5030-N-08. The OMB approval numbers are: 2506-0166 for HOME Investment Partnerships Program (HOME), HOME Investment Partnerships Program for Community Housing Development Organizations [CHDO (HOME)], and McKinney-Vento Homeless Assistance (Homeless), 2506-0133 for Housing Opportunities for Persons With AIDS (HOPWA), and 2506-0142 for Youthbuild.

E. Catalog of Federal Domestic Assistance (CFDA) Numbers. The HOME and CHDO (HOME) CFDA number is 14.239; Homeless is 14.235; HOPWA is 14.241; Youthbuild is 14.243.

F. Dates. The application submission date is May 18, 2006.

G. Additional Overview and Content Information. Applicants interested in providing technical assistance to entities participating in HUD's community development programs should carefully review the General Section and the information listed in this CD-TA NOFA. Funds are available to provide technical assistance for five separate program areas: HOME, CHDO (HOME), Homeless, HOPWA, and Youthbuild. Applicants may apply for one, two, three, four, or all five CD-TA program areas. The application submission information is contained in this CD-TA NOFA at Section IV.B. Approximately $19.7 million is available. No cost sharing is required. Grants will be administered under cooperative agreements with significant HUD involvement (see Section II.C of this NOFA).

Full Text of Announcement

I. Funding Opportunity Description

A. CD-TA Purpose. The purpose of the CD-TA program is to provide assistance to achieve the highest level of performance and results for five separate community development program areas: (1) HOME; (2) CHDO (HOME); (3) Homeless; (4) HOPWA; and (5) Youthbuild. Information about the five community development programs and their missions, goals, and activities can be found on the HUD Web site at http://www.hud.gov.

B. Description of National TA and Local TA. There are two types of technical assistance (TA) funding available in this NOFA: National TA and Local TA.

National TA activities are those that address, at a nationwide level, one or more of the CD-TA program activities and/or priorities identified in Section III.C of this NOFA. National TA activities may include the development of written products, development of on-line materials, development of training courses, delivery of training courses previously approved by HUD, organization and delivery of workshops and conferences, and delivery of direct TA as part of a national program. Applicants for National TA must also be willing to work in any HUD field office area, although work in the field office areas is likely to be a negligible portion of National TA activities. National TA activities are administered by a Government Technical Representative (GTR) and Government Technical Monitor (GTM) at HUD Headquarters.

Local TA activities also must address the CD-TA program activities and/or priorities identified in this NOFA, however the Local TA is targeted to the specific needs of the HUD community development program recipients in the field office area in which the TA is proposed. Local TA activities are limited to the development of need assessments, direct TA to HUD community development program recipients, organization and delivery of workshops and conferences, and customization and delivery of previously HUD-approved trainings. Local TA will be administered by a GTR and GTM in the respective HUD field office.

C. Authority. HOME TA is authorized by the HOME Investment Partnerships Act (42 U.S.C. 12781-12783); 24 CFR part 92. CHDO (HOME) TA is authorized by the HOME Investment Partnerships Act (42 U.S.C. 12773); 24 CFR part 92. For the McKinney-Vento Act Homeless Assistance Programs TA, the Supportive Housing Program is authorized under 42 U.S.C. 11381 et seq.; 24 CFR 583.140; Emergency Shelter Grants, Section 8 Moderate Rehabilitation Single Room Occupancy Program, and Shelter Plus Care TA are authorized by the FY2006 HUD Appropriations Act. HOPWA TA is authorized under the FY2006 HUD Appropriations Act. Youthbuild TA is authorized under Title IV of the Cranston-Gonzalez National Affordable Housing Act, as amended by the Housing and Community Development Act of 1992 (42 U.S.C. 12899g); 24 CFR part 585.

II. Award Information

A. Available Funds. Approximately $19.7 million is available for the CD-TA program. Additional funds may become available as a result of recapturing unused funds. This chart shows how the funds are divided among National TA and Local TA activities:

Program | National TA | Local TA
HOME | $1,980,000 | $0
CHDO (HOME) | 2,920,000 | 5,000,000
Homeless | 3,501,085 | 3,000,000
HOPWA | 900,000 | 0
Youthbuild | 2,475,000 | 0

The Local TA funds are divided among HUD's field office jurisdictions for the CHDO (HOME) and Homeless programs. No Local TA funds are available for HOPWA, Youthbuild, or HOME. In the case of the national CHDO (HOME) program, if less than the total amount of available funds is awarded, the balance may be used to make awards under the national HOME TA program.

The chart below shows the amounts available in dollars for Local TA by CD-TA program:

Local TA area | CHDO (HOME) | Homeless
Alabama | $75,000 | $40,000
Alaska | 30,000 | 30,000
Arkansas | 30,000 | 40,000
California—Northern and Arizona, Nevada | 300,000 | 300,000
California—Southern | 400,000 | 275,000
Caribbean | 75,000 | 40,000
Colorado and Montana, North Dakota, South Dakota, Utah, Wyoming | 170,000 | 60,000
Connecticut | 55,000 | 40,000
District of Columbia area | 50,000 | 50,000
Florida—Southern | 60,000 | 50,000
Florida—Northern | 100,000 | 70,000
Georgia | 75,000 | 50,000
Hawaii |  | 40,000
Illinois | 125,000 | 145,000
Indiana | 50,000 | 25,000
Kansas and Missouri—Western | 75,000 | 50,000
Missouri—Eastern | 55,000 | 40,000
Kentucky | 150,000 | 40,000
Louisiana | 50,000 | 40,000
Maryland, except District of Columbia area | 50,000 | 40,000
Massachusetts, Maine, New Hampshire, Rhode Island, Vermont | 250,000 | 200,000
Michigan | 225,000 | 138,000
Minnesota | 140,000 | 52,000
Mississippi | 125,000 | 50,000
Nebraska and Iowa | 40,000 | 40,000
New Jersey | 25,000 | 25,000
New Mexico | 225,000 | 50,000
New York—Downstate | 482,000 | 250,000
New York—Upstate | 60,000 | 35,000
North Carolina | 150,000 | 40,000
Ohio | 116,000 | 125,000
Oklahoma | 40,000 | 40,000
Oregon and Idaho | 130,000 | 30,000
Pennsylvania—Eastern and Delaware | 75,000 | 50,000
Pennsylvania—Western and West Virginia | 158,000 | 57,000
South Carolina | 34,000 | 40,000
Tennessee | 150,000 | 40,000
Texas—Northern | 250,000 | 88,000
Texas—Southern | 20,000 | 40,000
Virginia, except District of Columbia area | 80,000 | 40,000
Washington | 50,000 | 50,000
Wisconsin | 200,000 | 55,000

B. Performance Period. Awards will be for a period of up to 36 months. HUD, however, reserves the right to withdraw funds from a specific TA provider if HUD determines that the urgency of need for the assistance is greater in other field office jurisdictions or the need for assistance is not commensurate with the award.

C. Terms of Award. HUD will enter into a cooperative agreement with selected applicants for the performance period. Because CD-TA awards are made as cooperative agreements, implementation entails significant HUD involvement. Significant HUD involvement is required in all aspects of TA planning, delivery, and follow-up.

In addition to the requirements listed in the General Section, selected applicants are subject to the following requirements:

1. Demand-Response System

All CD-TA awardees must operate within the structure of the demand-response system. Under the demand-response system, TA providers are required to:

a. When requested by a GTR, market the availability of their services to existing and potential recipients within the jurisdictions in which the assistance will be delivered;

b. Respond to requests for assistance from the GTR;

c. When requested by a GTR, conduct a needs assessment to identify the type and nature of the assistance needed by the recipient of the assistance;

d. Obtain the local HUD field office's approval before responding to direct requests for technical assistance from HOME Participating Jurisdictions (PJs), Community Housing Development Organizations (CHDOs), and McKinney-Vento Act Homeless Assistance and HOPWA grantees; and

e. For CHDO (HOME) TA providers, secure a letter from a PJ stating that a CHDO, or prospective CHDO to be assisted by the provider, is a recipient or intended recipient of HOME funds and indicating, at its option, subject areas of assistance that are most important to the PJ.

2. Training

When conducting training sessions as part of its CD-TA activities, CD-TA providers are required to:

a. Design the course materials as “step-in” packages so that HUD or other CD-TA providers may independently conduct the course on their own;

b. Make the course materials available to the GTR in sufficient time for review (minimum of three weeks) and receive concurrence from the GTR on the content and quality prior to delivery;

c. Provide all course materials in an electronic format that will permit wide distribution among TA providers, field offices, and HUD grantees;

d. Arrange for joint delivery of the training with HUD participation when requested by the GTR;

e. Deliver HUD-approved training courses that have been designed and developed by others on a “step-in” basis when requested; and

f. Send trainers to approved “train-the-trainers” sessions.

3. Field Office Involvement Under National TA Awards

When National TA providers are undertaking activities in field office jurisdictions, the National TA providers must work cooperatively with HUD field offices. Providers must notify the applicable HUD field office of the planned activities; consider the views or recommendations of that office, if any; follow those recommendations, to the degree practicable; and report to the applicable field office on the accomplishments of the assistance.

III. Eligibility Information

A. Eligible Applicants

The eligible applicants for each of the five CD-TA programs are listed in the chart below. In accordance with the President's faith-based initiative, HUD welcomes the participation of eligible faith-based and other community organizations in the CD-TA programs.

Program | Eligible applicants
HOME | A for-profit or nonprofit professional and technical services company or firm that has demonstrated knowledge of the HOME program and the capacity to provide technical assistance services;
| A HOME Participating Jurisdiction (PJ);
| A public purpose organization, established pursuant to state or local legislation, responsible to the chief elected officer of a PJ;
| An agency or authority established by two or more PJs to carry out activities consistent with the purposes of the HOME program; or
| A national or regional nonprofit organization that has membership comprised predominantly of entities or officials of entities of PJs or PJs' agencies or established organizations.
CHDO (HOME) | A public or private nonprofit intermediary organization that customarily provides services, in more than one community, related to the provision of decent housing that is affordable to low-income and moderate-income persons or related to the revitalization of deteriorating neighborhoods; has demonstrated experience in providing a range of assistance (such as financing, technical assistance, construction and property management assistance) to CHDOs or similar organizations that engage in community revitalization; and has demonstrated the ability to provide technical assistance and training for community-based developers of affordable housing.
| Note: Any organization funded to assist CHDOs under CD-TA may not undertake CHDO set-aside activities itself within its service area while under cooperative agreement with HUD.
Homeless | A state;
| A unit of general local government;
| A public housing authority; or
| A public or private nonprofit or for-profit organization, including educational institutions and area-wide planning organizations.
HOPWA | A for-profit or nonprofit organization;
| A state; or
| A unit of general local government.
Youthbuild | A public or private nonprofit agency that has significant prior experience in the operation of projects similar to the Youthbuild program and that has the capacity to provide effective technical assistance.

Applicants must also meet the threshold requirements of the General Section, including the Civil Rights threshold in Section III (C).

A consortium of organizations may apply for one or more CD-TA programs, but one organization must be designated as the applicant.

Applicants may propose assistance using in-house staff, sub-contractors, sub-recipients, and local organizations with the requisite experience and capabilities. Where appropriate, applicants should make use of TA providers located in the field office jurisdiction receiving services.

B. Cost Sharing or Matching

None.

C. Other

1. Eligible Activities and Priorities

Funds may be used to provide TA to grantees, prospective applicants, and project sponsors of the HOME, CHDO (HOME), Homeless, HOPWA, and Youthbuild programs. The TA activities may include but are not limited to written information such as papers, manuals, guides, and brochures; assistance to individual communities; needs assessments; and training. The priority TA areas for each of the five program areas are:

a. HOME TA. HUD has identified four HOME program technical assistance priorities. These priorities that result in measurable performance outputs and outcomes are:

(1) Improve the ability of PJs to design and implement housing programs that reflect sound underwriting, management, and fiscal controls; demonstrate measurable outcomes in the use of public funds; and provide accurate and timely reporting of HOME program accomplishments.

(2) Encourage public-private partnerships that yield an increase in the amount of private dollars leveraged for HOME-assisted projects and result in an increase in the commitment and production of HOME-assisted units.

(3) Assist PJs in developing strategies that ameliorate the affordability gap between rapidly increasing housing costs and the less rapid growth in incomes among low-income households, especially among underserved populations (e.g., residents of the Colonias, homeless persons, persons with disabilities, and residents of an empowerment zone (EZ) designated by HUD or the United States Department of Agriculture (USDA), an urban or rural renewal community designated by HUD (RC), or an enterprise community designated in round II by USDA (EC-II).

(4) Assist PJs in developing strategies that increase and help sustain homeownership opportunities for low-income households—particularly low-income, minority households—and directly result in the commitment and completion of HOME-assisted units.

Some examples of measurable performance outputs and outcomes are given in Rating Factor 4.

b. CHDO (HOME) TA (1) HUD has identified three CHDO-specific technical assistance priorities. These priorities that result in measurable performance outputs and outcomes are:

(a) Assist new CHDOs and potential CHDOs in developing the organizational capacity to own, develop, and sponsor HOME-assisted projects. A new CHDO is defined as a nonprofit organization that within three years of the publication of this NOFA was determined by a PJ to qualify as a CHDO. A potential CHDO is defined as a nonprofit organization that is expected by the PJ to qualify as a CHDO and is expected to enter into a written agreement with that PJ to own, develop, or sponsor HOME-assisted housing within 24 months of the PJ determining the organization qualifies as a CHDO.

(b) Improve the HOME program production and performance of existing CHDOs in the areas of:

(i) Program design and management, including underwriting, project financing, property management, and compliance; and

(ii) Organizational management and capacity, including fiscal controls, board development, contract administration, and compliance systems.

(c) Provide organizational support, technical assistance, and training to community groups for the establishment of community land trusts, as defined in section 233(f) of the Cranston-Gonzales National Affordable Housing Act.

(2) Additional CHDO (HOME) eligible activities are:

(a) Under the “Pass-Through” provision, CD-TA providers may propose to fund various operating expenses for eligible CHDOs that own, develop, or sponsor HOME-assisted housing. Such operating expenses may include reasonable and necessary costs for the operation of the CHDO including salaries, wages, and other employee compensation and benefits; employee education, training and travel; rent; utilities; communication costs; taxes; insurance; equipment, materials, and supplies.

(b) CD-TA providers must establish written criteria for selection of CHDOs receiving pass-through funds. PJs must designate the organizations as CHDOs; and, generally, the organizations should not have been in existence more than three years.

CD-TA providers must enter into an agreement with the CHDO that the agreement and pass-through funding may be terminated at the discretion of HUD if no written legally binding agreement to provide assistance for a specific housing project (for acquisition, rehabilitation, new construction, or tenant-based rental assistance) has been made by the PJ with the CHDO within 24 months of initially receiving pass-through funding. The pass-through amount, when combined with other capacity building and operating support available through the HOME program, cannot exceed the greater of 50 percent of the CHDO's operating budget for the year in which it receives funds, or $50,000 annually.

c. Homeless TA. Homeless TA funds are available to provide McKinney-Vento Homeless Assistance Act, HUD-funded grantees, project sponsors, and potential recipients with skills and knowledge needed to develop and operate projects and activities. The assistance may include, but is not limited to, developing and disseminating written information such as papers, monographs, manuals, curriculums, guides, and brochures; and person-to-person exchanges, conferences, training and use of technology. TA activities are focused on these priorities that result in measurable performance outputs and outcomes:

(1) Continue the integration of the Technical Assistance Catalog and the Homelessness Resource Exchange through the development of new materials and dissemination of curriculums for defined audiences including existing technical assistance materials and newly created technical assistance materials. All curriculum dissemination may include training, conferences, and use of technology, as well as written materials.

(2) Develop curriculums to improve Continuum of Care (CoC) governance, development, organizational capacity, planning, and five-year renewal burden assessment, and to assist in developing strategies to eliminate chronic homelessness and increase access to mainstream services for homeless persons.

(3) Assist CoCs with Homeless Management Information System (HMIS) implementation. National technical assistance will relate to data collection, data quality, data analysis, provider participation, reporting, performance measurement, data warehousing, and HMIS Data and Technical Standards.

(4) Maintain and enhance the HMIS website portal as the vehicle for collection and dissemination of HMIS information. (5) Support collaboration between metropolitan, regional and statewide HMISs. Assistance may include providing state and/or regional HMIS technical assistance coordinators and/or technology to promote effectuating long-distance meeting, conferencing and networking. (6) Support collaboration between metropolitan, regional, and statewide HMISs for use in disaster preparedness and recovery efforts, utilizing the experience of communities that experienced Hurricanes Katrina and Rita.

(7) Improve participation in the Annual Homeless Assessment Report (AHAR) by CoCs and providers in their geographic areas through outreach and capacity building. Develop materials and training for: Reporting bed coverage; extrapolation and data analysis methodologies and documents; data integration; data quality assessments; utilization of AHAR data at the program and/or CoC level; and the collection and analysis of CoC data for Congressionally-directed HMIS-related reports to Congress.

(8) Develop curriculums for grantees and project sponsors on implementing and achieving long-term performance outcome measures that promote housing stability, reduce the risk of homelessness, and improve access to mainstream systems of care.

(9) Develop curriculums on program requirements and monitoring standards for McKinney-Vento Act funded grant recipients, including sound fiscal and financial management practices, assessment of sub-recipients and activities, and reporting in IDIS and via Annual Progress Reports.

(10) Develop curriculums to improve the ability of grantees to establish comprehensive housing development strategies for homeless persons through collaborative public and private partnerships. Such curriculums may include educational components on the availability and use of tax incentive programs that increase access to private capital (e.g., Low Income Housing Tax Credit, the Historic Preservation Investment Tax Credit, Renewal Communities and Empowerment Zones tax incentives, and New Markets Tax Credit).

(11) Develop curriculums for homelessness prevention strategies, including discharge planning.

(12) Assist CoC applicants with understanding the Grants.gov registration and application submission process so they are prepared to submit electronic applications in 2007 and assist HUD in increasing the number of McKinney Vento applicants fully registered at Grants.gov.

(A person experiencing chronic homelessness is defined as an unaccompanied individual with a disabling condition who has been continuously homeless for a year or more or has experienced four or more sustained episodes of homelessness over the last three years.)

d. HOPWA TA. HOPWA funds are available for technical assistance, training, and oversight activities which can be used to provide grantees, project sponsors, and potential recipients with the skills and knowledge to effectively develop, operate, and support HOPWA-eligible project activities that result in measurable performance outputs and outcomes. TA activities are focused on these priorities:

(1) Improve the ability of state and local governments to develop comprehensive and coordinated housing strategies in identifying and addressing the housing needs of low income persons living with HIV/AIDS that promote housing stability which reduces the risk of homelessness and improves access to healthcare and other needed support.

(2) Develop national models that effectively integrate AIDS housing strategies into consolidated planning and Continuum of Care planning processes.

(3) Facilitate the development of collaborative endeavors that coordinate mainstream resources including federal HOPWA and Ryan White CARE Act resources, state, local, private, and philanthropic grant resources that promote the sustainability of permanent supportive housing, and develop regional training sessions that educate and instruct AIDS housing providers in implementing these collaborative efforts.

(4) Develop creative housing models that address the housing and supportive service needs of chronically homeless individuals and those who are multiple diagnosed living with HIV/AIDS, and that provide emergency and transitional housing that results in the provision of permanent supportive housing.

(5) Develop written materials that promote the utilization and coordination of Homeless Management Information Systems in the provision of HOPWA-assisted housing and supportive services for homeless persons.

(6) Develop technical assistance plans in collaboration with HUD field office oversight for local HOPWA-assisted housing programs. It is estimated that up to 40 percent of HOPWA TA funds will be made available for this purpose.

(7) Develop a strategy to facilitate implementation of the HUD-IRS agreement that promotes the Earned Income Tax Credit. Disseminate information that will enable HOPWA grantees and AIDS housing and service organizations to assist low-income persons in receiving the financial savings on their annual taxes.

e. Youthbuild TA. Youthbuild TA funds are available to provide appropriate training, information, and technical assistance to federally funded Youthbuild programs and to assist HUD in the management, supervision, and coordination of such Youthbuild programs. If the youth population includes persons who are limited English proficient, instructional materials for distribution may need to be translated in other languages than English. If translated documents are unavailable, oral interpreters should be provided during on-site and telephone assistance and while conducting training. TA activities that result in measurable performance outputs and outcomes are focused on the following priorities:

(1) Improve the management and implementation of Youthbuild programs by providing on-site and telephone assistance, preparing appropriate instruction materials, and conducting training workshops on key aspects of the Youthbuild program.

(2) Improve Youthbuild program applications by providing assistance to eligible applicants in the preparation of their grant applications, giving priority to community-based organizations in the provision of this assistance.

(3) Strengthen Youthbuild program design by facilitating peer-to-peer assistance for Youthbuild grantee staff and disseminating best program practices that are identified through training workshops, peer-to-peer assistance, and on-site TA.

(4) Assist HUD in the management, supervision, and coordination of Youthbuild programs by preparing handbooks or printed materials to provide guidance to Youthbuild grantees and by collecting and analyzing performance evaluation data from Youthbuild grantees.

(5) Assist Youthbuild applicants with understanding the Grants.gov registration and application submission process so they are prepared to submit electronic applications and assist HUD in increasing the number of applicants fully registered at Grants.gov.

2. DUNS Requirement

Refer to the General Section for information regarding the DUNS requirement. Applicants need to obtain a DUNS number to receive an award from HUD.

3. Other Eligibility Requirements

All applicants requesting funding from programs under this NOFA must be in compliance with the applicable threshold requirements found in the General Section. Applicants that do not meet these requirements will be ineligible for funding.

4. False Statements

An applicant's false statement in an application is grounds for denial or termination of an award and grounds for possible punishment as provided in 18 U.S.C. 1001.

5. Environmental Review

Most activities under the CD-TA program are categorically excluded and not subject to environmental review under 24 CFR 50.19(b)(9) or (13), but in the case of CHDO (HOME) TA eligible activities, a proposal for payment of rent as part of CHDO operational costs will be subject to environmental review by HUD under 24 CFR part 50. If an applicant proposes to assist CHDO operating expenses that include rent, the application constitutes an assurance that the applicant and CHDO will assist HUD to comply with 24 CFR part 50; will supply HUD with all available and relevant information to perform an environmental review for the proposed property to be rented; will carry out mitigating measures required by HUD or select an alternate property; and will not lease or rent, construct, rehabilitate, convert or repair the property, or commit or expend HUD or non-HUD funds for these activities on the property to be rented, until HUD has completed an environmental review to the extent required by 24 CFR part 50. The results of the environmental review may require that the proposed property be rejected.

IV. Application and Submission Information

A. Addresses to Request Application Package. Applications must be received and validated by Grants.gov no later than 11:59:59 PM Eastern time on the application due date of May 18, 2006. HUD must receive paper copy applications from applicants that received a waiver no later than 11:59:59 PM on the application deadline date. See the General Section for application submission and timely receipt procedures and for instructions on how to request a waiver. Paper applications will not be accepted unless the applicant has received a waiver of the electronic submission requirement.

B. Content and Form of Application Submission. Applicants must submit a separate application for each National TA and Local TA area program for which they are applying. For example, an applicant for National TA for HOME and for Local TA in three field office jurisdictions would submit four separate and distinct applications.

A completed application consists of an application submitted by an authorized official of the organization and contains all relevant sections of the application, as shown in the checklist below in Section IV.B.4.

1. Number of Copies

See General Section. This information will be included in approval letters to applicants submitting a waiver request.

2. Page Limitation

Narratives addressing Factors 1-5 are limited to no more than 25 typed pages. That is, reviewers will not review more than 25 pages for all five factors combined, except that the page limit does not include the Form HUD-96010, Logic Model.

3. Prohibition on Materials Not Required

Materials other than what is requested in this NOFA are prohibited. Reviewers will not consider resumes, charts, letters, or any other documents attached to the application.

4. Checklist for Application Submission

Applicants submitting electronic copies should follow the procedures in Section IV.F. of the General Section. The following checklist is provided as a guide to help ensure that you submit all the required elements. For applicants receiving a waiver of the electronic submission, the paper submission must be in the order provided below. All applicants should enter the applicant name, DUNS number, and page numbers on the narrative pages of the application.

—SF-424, Application for Federal Assistance (from General Section)

—An Application Cover Page indicating in bold (a) the type of TA proposed in the application whether HOME National, CHDO National, CHDO Local, Homeless National, Homeless Local, HOPWA National, or Youthbuild National; (b) the amount of funds requested; and (c) for Local TA, the jurisdiction proposed in the application.

—A one-page Summary describing (a) each major component of the proposed TA approach; (b) the proposed cost of each major component; and (c) whether the component is integrally related to another component in order to be successful.

—Narrative addressing Factors 1-5

—HUD-96010, Logic Model

—HUD-424-CB, Grant Application Detailed Budget Form (from General Section)

—HUD-424-CBW, Detailed Budget Worksheet for Non-Construction Projects (from General Section)

—If applying for CHDO (HOME) TA, statement as to whether the organization proposes to pass through funds to new CHDOs.

—If applying for the CHDO (HOME) TA, a certification as to whether the organization qualifies as a primarily single-state provider under section 233(e) of the Cranston-Gonzales Affordable Housing Act.

—SF-LLL, Disclosure of Lobbying Activities (from General Section)

—HUD-2880, Applicant/Recipient Disclosure/Update Report (from General Section)

—SF-424, Supplement, Survey on Equal Opportunity for Applicants

—HUD-96011, FacsimileTransmittal (required for electronic submissions of third party documents)

C. Submission Dates and Times. The application submission date is May 18, 2006.

D. Intergovernmental Review. Intergovernmental review is not applicable to CD-TA applications.

E. Funding Restrictions. An organization may not provide assistance to itself. An organization may not provide assistance to another organization with which it contracts or sub-awards funds to carry out activities under the TA award.

Funding from HOME and from CHDO (HOME) TA to any single eligible organization (excluding funds for organizational support and housing education “passed through” to CHDOs), whether as an applicant or sub-recipient is limited to not more than 20 percent of the operating budget of the recipient organization for any one-year period of each cooperative agreement. In addition, funding under either HOME or CHDO (HOME) TA to any single organization is limited to 20 percent of the $9,900,000 made available for HOME and CHDO (HOME) TA in FY2006.

Not less than 40 percent of the approximately $7,920,000 for CHDO (HOME) shall be made available for eligible TA providers that have worked primarily in one state. HUD will consider an applicant as a primarily single state TA provider if it can document that more than 50 percent of its past activities in working with CHDOs or similar nonprofit and other organizations (on the production of affordable housing, revitalization of deteriorating neighborhoods, and /or the delivery of technical assistance to these groups) was confined to the geographic limits of a single state.

No fee or profit may be paid to any recipient or sub-recipient of an award under this CD-TA NOFA.

F. Other Submission Requirements. The General Section describes application submission procedures and how applicants may obtain proof of timely submission.

V. Application Review Information

A. Criteria. The maximum number of points to be awarded for a CD-TA application is 100. The minimum score for an application to be considered for funding is 75 with a minimum of 20 points on Factor 5. The CD-TA program is not subject to bonus points, as described in the General Section.

Points are assigned on five factors. When addressing Factors 1-4, applicants should discuss the specific TA activities that will be carried out during the term of the cooperative agreement. Applicants should provide relevant examples to support the proposal, where appropriate. Applicants should also be specific when describing the communities, populations, and organizations that they propose to serve and the specific outcomes expected as a result of the TA.

Factor 5 relates to the capacity of the applicant and its relevant organizational experience. Rating of the “applicant” or the “applicant's organization and staff” includes in-house staff and any sub-contractors and sub-recipients which are firmly committed to the project. In responding to Factor 5, applicants should specify the experience, knowledge, skills, and abilities of the applicant's organization and staff, and any persons and organizations firmly committed to the project.

1. Rating Factor 1: Need/Extent of the Problem (10 Points)

a. For National TA applications: Sound and extensive understanding of need for TA in relation to the priorities listed in Section III C of this NOFA as demonstrated by objective information and/or data, such as information from HOME Snapshots, current census data, the American Housing Survey, or other relevant data sources.

b. For Local TA applications: Sound and extensive understanding of high priority needs for TA in the jurisdiction as demonstrated by objective information and/or data, such as information from HOME Snapshots, current census data, the American Housing Survey, or other relevant data sources.

In rating this factor, HUD will evaluate the extent to which the application demonstrates an understanding of the specific needs for TA and supports the description of need with reliable, program-specific, quantitative information. Applicants for HOME should, at a minimum, draw on HOME Snapshot information to demonstrate PJs' needs, in an area or nationwide, for additional training and capacity building. See http://www.hud.gov/offices/cpd/affordablehousing/programs/home/snapshot/index.cfm.

2. Rating Factor 2: Soundness of Approach (40 Points)

a. (25 points) (1) For National TA applications: A sound approach for addressing the need for eligible TA activities in relation to the priorities listed in Section III C of this NOFA that will result in positive outcomes.

(2) For Local TA applications: A sound approach for addressing high priority needs for TA in the jurisdiction that will result in positive outcomes.

In rating this factor, HUD will evaluate the extent to which the application presents and supports a detailed, feasible, practical approach for addressing TA needs (Local TA applications) or CD-TA program priorities (National TA applications), including techniques, timeframes, goals, and intended beneficiaries, and the likelihood that these activities will result in positive outcomes.

b. (10 points) A feasible work plan for designing, organizing, managing, and carrying out the proposed TA activities under the demand-response system.

In rating this factor, HUD will evaluate the applicant's understanding of the demand-response system and the extent to which the application demonstrates the efficiency of proposed activities.

c. (5 points) An effective assistance program to specific disadvantaged communities, populations, and/or organizations which previously have been underserved and have the potential to participate in the CD-TA program (such as the Colonias, an empowerment zone (EZ) designated by HUD or the United States Department of Agriculture (USDA), an urban or rural renewal community designated by HUD (RC), an enterprise community designated in round II by USDA (EC-II), or homeless persons and persons with disabilities).

In rating this factor, HUD will evaluate the extent to which the applicant has identified specific disadvantaged or previously underserved communities, populations, and organizations and has developed an effective strategy for engaging their participation in the HOME, CHDO (HOME), Homeless, HOPWA, or Youthbuild program, as applicable.

3. Rating Factor 3: Leveraging Resources (10 Points)

An efficient practical method to transfer manuals, guides, assessment forms, other work products, models, and lessons learned in its CD-TA activities to other CD-TA grantees and/or HOME, CHDO (HOME), Homeless, HOPWA, or Youthbuild program beneficiaries.

In rating this factor, HUD will evaluate the extent to which the application demonstrates a cost-effective means of sharing resources developed under the CD-TA activities with a wide audience, including sharing information with other TA providers in the CD-TA program.

4. Rating Factor 4: Achieving Results and Program Evaluation (10 Points)

a. (5 points) An effective, quantifiable evaluation plan for measuring performance using the Logic Model with specific outcome measures and benchmarks, including—for HOME applicants—performance improvements as measured by the HOME Snapshot indicators.

In rating this factor, HUD will evaluate the extent to which the application has an evaluation plan that includes outcomes and is specific, measurable, and appropriate in relation to the activities proposed.

b. (5 points) Successful past performance in administering HUD CD-TA programs or, for applicants new to HUD's CD-TA Programs, successful past performance in providing TA in other community development programs. Applicants should include, as applicable, increases in CPD or community development program accomplishments as a result of TA (e.g., number of homeless people or persons with HIV/AIDS receiving housing and services, efficiency or effectiveness of administration of CPD or community development programs, number of affordable housing units, HOME Snapshot indicators, timeliness of use of CPD or community development program funds).

In rating this factor, HUD will evaluate the extent to which the application demonstrates successful past performance that was timely and resulted in positive outcomes in the delivery of community development TA. HUD will also consider past performance of current CD-TA providers, including financial and other information in HUD's files.

5. Rating Factor 5: Capacity of the Applicant and Relevant Organizational Experience (30 Points) (Minimum for Funding Eligibility—20 Points)

a. (10 points) Recent and successful experience of the applicant's organization in providing TA in eligible activities and to eligible entities for the HOME, CHDO (HOME), Homeless, HOPWA, or Youthbuild CD-TA programs, as applicable.

In rating this factor, HUD will consider the extent to which the application demonstrates successful experience within the last four years of providing TA related to the applicable CD-TA program.

b. (10 points) Depth of experience in managing multiple TA tasks, to multiple entities, and in more than one geographic area.

In rating this factor, HUD will consider the extent to which the application demonstrates ability to manage TA assignments effectively.

c. (10 points) Knowledgeable key personnel skilled in providing TA in one or more of the eligible activities for HOME, CHDO (HOME), Homeless, HOPWA, and/or Youthbuild programs, as applicable; a sufficient number of staff or ability to procure qualified experts or professionals with the knowledge, skills, and abilities to deliver the proposed level of TA in the proposed service area in a timely and effective fashion; and an ability to provide CD-TA in a geographic area larger than a single city or county.

In rating this factor, HUD will consider the extent to which the application demonstrates the organization has an adequate number of key staff or ability to procure individuals with the knowledge of effective TA approaches and knowledge of HOME, CHDO (HOME), Homeless, HOPWA, or Youthbuild program, as applicable.

B. Review and Selection Process

1. Review Types

Two types of reviews will be conducted. First, HUD will review each application to determine whether it meets threshold eligibility requirements.

Second, HUD will review and assign scores to applications using the Factors for Award noted in Section V.A.

2. Rank Order

a. Once rating scores are assigned, rated applications submitted for each National TA program and for each Local TA program will be listed in rank order. Applications within the fundable range (score of 75+ points with 20+ points for Factor 1) may then be funded in rank order under the CD-TA program and service area for which they applied.

b. For purposes of coordinating activities on a national basis, HUD reserves the right to select a single national provider to carry out activities, as follows:

(1) One for HOPWA technical assistance activities, including national products and local support;

(2) One for Continuum of Care technical assistance activities that primarily focus on HMIS support;

(3) One for HOME and one for CHDO technical assistance activities.

3. Threshold Eligibility Requirements

All applicants requesting CD-TA must be in compliance with the applicable threshold requirements found in the General Section and the eligibility requirements listed in Section III of this NOFA in order to be reviewed, scored, and ranked. Applications that do not meet these requirements and applications that were received after the submission deadline (see Section IV.F of the General Section) will be considered ineligible for funding.

4. Award Adjustment

In addition to the funding adjustment authority provided for in the General Section, HUD reserves the right to adjust funding amounts for each CD-TA selectee. The amounts listed in the charts in Section II.A are provided to assist applicants to develop Local TA or National TA budgets and do not represent the exact amounts to be awarded. Once TA applicants are selected for award, HUD will determine the total amount to be awarded to any selected applicant based upon the size and needs of each of the selected applicant's service areas, the funds available for that area and CD-TA program, the number of other CD-TA applicants selected in that area or CD-TA program, and the scope of the TA to be provided.

Additionally, HUD may reduce the amount of funds allocated for field office jurisdictions to fund National CD-TA providers and other CD-TA providers for activities that cannot be fully budgeted for or estimated by HUD Headquarters or field offices at the time this NOFA was published. HUD may also require selected applicants, as a condition of funding, to provide coverage on a geographically broader basis than proposed in order to supplement or strengthen the CD-TA network in terms of the size of the area covered and types and scope of TA proposed.

If funds remain after all selections have been made, the remaining funds may be distributed among field offices for Local TA and/or used for National TA, or made available for other CD-TA program competitions.

VI. Award Administration Information

A. Award Notices. HUD will send written notifications to both successful and unsuccessful applicants. A notification sent to a successful applicant is not an authorization to begin performance.

After selection, HUD requires that all selected applicants participate in negotiations to determine the specific terms of the cooperative agreement, including the budget. Costs may be denied or modified if HUD determines that they are not allowable, allocable, and/or reasonable. In cases where HUD cannot successfully conclude negotiations with a selected applicant or a selected applicant fails to provide HUD with requested information, an award will not be made to that applicant. In this instance, HUD may offer an award, and proceed with negotiations with the next highest-ranking applicant.

After selection for funding but prior to executing the cooperative agreement, the selected applicant must develop in consultation with the GTR, a Technical Assistance Delivery Plan (TADP) for each National TA award. The TADP must be approved by the GTR and delineate the tasks for each CD-TA program the applicant will undertake during the performance period. For Local TA awards and generally for National TA awards, prior to undertaking individual tasks, the selected applicant must develop in consultation with the GTR a Work Plan for specific activities. The TADP and the Work Plans must specify the location of the proposed CD-TA activities, the amount of CD-TA funding and proposed activities by location, the improved program performance or other results expected from the CD-TA activities, and the methodology to be used for measuring the success of the CD-TA. A detailed time schedule for delivery of the activities, budget summary, budget-by-task, and staffing plan must be included in the TADP and Work Plans.

After selection, but prior to award, applicants selected for funding will be required to provide HUD with their written Code of Conduct if they have not previously done so and it is recorded on the HUD Web site at http://www.hud.gov/offices/adm/grants/codeofconduct/sconduct.cfm.

B. Administrative and National Policy Requirements. After selection for funding but prior to award, applicants must submit financial and administrative information to comply with applicable requirements. These requirements are found in 24 CFR part 84 for all organizations except states and local governments whose requirements are found in 24 CFR Part 85. Cost principles requirements are found at OMB Circular A-122 for nonprofit organizations, OMB Circular A-21 for institutions of higher education, OMB Circular A-87 for states and local governments, and at 48 CFR 31.2 for commercial organizations. Applicants must submit a certification from an Independent Public Accountant or the cognizant government auditor, stating that the applicant's financial management system meets prescribed standards for fund control and accountability.

See the General Section for requirements for Procurement of Recovered Materials.

The requirements to Affirmatively Further Fair Housing do not apply.

C. Reporting. CD-TA awardees will be required to report to the GTR on, at a minimum, a quarterly basis unless otherwise specified in the cooperative agreement. As part of the required report to HUD, grant recipients must include a completed Logic Model (HUD 96010), which identifies output and outcome achievements.

VII. Agency Contacts

A. For Assistance. Applicants may contact HUD Headquarters at 202-708-3176, or they may contact the HUD field office serving their area shown in Section VII.C. Persons with hearing and speech challenges may access the above numbers via TTY (text telephone) by calling the Federal Relay Service at 800-877-8339 (this is a toll-free number). Information may also be obtained through the HUD website on the Internet at http://www.hud.gov.

B. List of Field Office Addresses. Applicants that receive a waiver of the electronic application submission requirements and need to submit copies of their application to HUD field offices should consult the following website for a listing of the HUD field office addresses to send Local TA applications: http://www.hud.gov/offices/cpd/about/staff/fodirectors/index.cfm.

At the site, the map allows the user to click on an area to obtain the field office address and other contact information.

VIII. Other Information

A. Paperwork Reduction Act. The information collection requirements contained in this document have been approved by the Office of Management and Budget (OMB) under the Paperwork Reduction Act of 1995 (44 U.S.C. 3501-3520) and assigned OMB control numbers 2506-0166 and 2506-0133. In accordance with the Paperwork Reduction Act, HUD may not conduct or sponsor, and a person is not required to respond to, a collection of information unless the collection displays a currently valid OMB control number. Public reporting burden for the collection of information is estimated to average 60 hours for the application and grant administration. This includes the time for collecting, reviewing, and reporting the data. The information will be used for grantee selection and monitoring the administration of funds. Response to this request for information is required in order to receive the benefits to be derived.

B. HUD Reform Act. The provisions of the HUD Reform Act of 1989 that apply to the CD-TA program are explained in the General Section.

BILLING CODE 4210-01-P

Community Development Block Grant Program for Indian Tribes and Alaska Native Villages

Overview Information

A. Federal Agency Name: Department of Housing and Urban Development, Office of the Assistant Secretary for Public and Indian Housing, Office of Native American Programs.

B. Funding Opportunity Title: Community Development Block Grant (ICDBG) Program for Indian Tribes and Alaska Native Villages.

C. Announcement Type: Initial Announcement.

D. Funding Opportunity Number: The Federal Register number is FR 5030-N-02. The OMB approval number is 2577-0191.

E. Catalog of Federal Domestic Assistance (CFDA) Number(s): The Catalog of Federal Assistance (CFDA) Number for the Indian Community Development Block Grant program is 14.862.

F. Dates: Application Deadline: The application submission date is May 31, 2006.

G. Optional, Additional Overview Content Information:

1. Applicants for funding should carefully review the requirements identified in this NOFA and the General Section. Unless otherwise stated in this NOFA, the requirements of the General Section apply.

2. The total approximate amount of funding available for the ICDBG program for FY2006 is $59,400,000 less $3,960,000 retained to fund Imminent Threat Grants, for a total of $55,440,000. Funds that are carried over from previous fiscal years or are recaptured may also be used for grant awards under this NOFA.

3. Eligible applicants are Indian tribes or tribal organizations on behalf of Indian tribes. Specific information on eligibility is located in Section III.A. of this NOFA.

Full Text of Announcement

I. Funding Opportunity Description

A. General. Title I of the Housing and Community Development Act of 1974, which authorizes Community Development Block Grants, requires that grants for Indian tribes be awarded on a competitive basis. All grant funds awarded in accordance with this NOFA are subject to the requirements of 24 CFR part 1003. Applicants within an Area Office of Native American Program's (ONAP) geographic jurisdiction compete only against each other for that Area ONAP's allocation of funds.

B. Authority. The authority for this program is Title I of the Housing and Community Development Act of 1974 (42 U.S.C. 5301 et seq.) and the program regulations in 24 CFR part 1003.

C. Program Description. The purpose of the Community Development Block Grant Program for Indian Tribes and Alaska Native Villages (ICDBG) is the development of viable Indian and Alaska Native communities, including the creation of decent housing, suitable living environments, and economic opportunities primarily for persons with low- and moderate-incomes as defined in 24 CFR 1003.4. The ONAP in HUD's Office of Public and Indian Housing administers the program.

Projects funded by the ICDBG program must meet the primary objective, defined at 24 CFR 1003.2, to principally benefit low- and moderate-income persons. Consistent with this objective, not less than 70 percent of the expenditures of each single purpose grant shall be for activities which meet the regulatory criteria at 24 CFR 1003.208 for:

1. Area Benefit Activities.

2. Limited Clientele Activities.

3. Housing Activities.

4. Job Creation or Retention Activities.

ICDBG funds may be used to improve housing stock, provide community facilities, improve infrastructure, and expand job opportunities by supporting the economic development of the communities, especially by nonprofit tribal organizations or local development corporations.

ICDBG single-purpose grants are distributed as annual competitive grants, in response to this NOFA.

ICDBG imminent threat grants are intended to alleviate or remove threats to health or safety that require an immediate solution as described at 24 CFR part 1003, subpart E. The problem to be addressed must be such that an emergency situation exists or would exist if the problem were not addressed.

You do not have to submit a request for imminent threat funds by the deadline established in this NOFA. The deadline applies only to applications submitted for assistance under 24 CFR part 1003, subpart D, single purpose grants. Imminent threat requests may be submitted at any time after NOFA publication, and if the following criteria are met, the request may be funded until the amount set aside for this purpose is expended:

1. Independent verification from a third party (i.e., Indian Health Service, Bureau of Indian Affairs) of the existence, immediacy and urgency of the threat must be provided;

2. The threat must not be recurring in nature, i.e., it must represent a unique and unusual circumstance that has been clearly identified by the tribe or village;

3. The threat must affect or impact an entire service area and not solely an individual family or household; and

4. It must be established that funds are not available from other local, state, or Federal sources to address the problem. The tribe or village must verify that Federal or local agencies that would normally provide assistance for such improvements have no funds available by providing a written statement to that effect. The tribe or village must also verify in the form of a tribal council resolution (or equivalent) that it has no available funds, including Indian Housing Block Grant Funds, for this purpose.

If, in response to a request for assistance, an Area ONAP issues you a letter to proceed under the authority of 24 CFR 1003.401(a), then your application must be submitted to and approved by the Area ONAP before a grant agreement may be executed. Contact your Area ONAP office for more information on imminent threat.

D. Definitions Used in this NOFA.

1. Adopt. To approve by formal tribal resolution.

2. Document. To supply supporting written information and/or data in the application that satisfies the NOFA requirement. Documentation should clearly and concisely support your response to the rating factor.

3. Entity Other than Tribe. A distinction is made between the requirements for point award under Rating Factor 3 if a tribe or an entity other than the tribe will assume maintenance and related responsibilities for projects other than economic development and land acquisition to support new housing. Entities other than the tribe must have the following characteristics: (a) Must be legally distinct from the tribal government; (b) their assets and liabilities cannot be considered to be assets and liabilities of the tribal government; (c) claims against such entities cannot be made against the tribal government; and (d) must have governing boards, boards of directors, or groups or individuals similar in function and responsibility to such boards which are separate from the tribe's general council, tribal council, or business council, as applicable.

4. Homeownership Assistance Programs. Tribes may apply for assistance to provide direct homeownership assistance to low- and moderate-income households to: (a) Subsidize interest rates and mortgage principal amounts for low- and moderate-income homebuyers; (b) finance the acquisition by low- and moderate-income homebuyers of housing that is occupied by the homebuyers; (c) acquire guarantees for mortgage financing obtained by low- and moderate-income homebuyers from private lenders (except that ICDBG funds may not be used to guarantee such mortgage financing directly, and grantees may not provide such guarantees directly); (d) provide up to 50 percent of any down payment required from a low- and moderate-income homebuyer; or (e) pay reasonable closing costs (normally associated with the purchase of a home) incurred by a low-or moderate-income homebuyer.

5. Leveraged Resources. Leveraged resources are resources that you will use in conjunction with ICDBG funds to achieve the objectives of the project. Leveraged resources include, but are not limited to: tribal trust funds; loans from individuals or organizations; business investments; private foundations; state or federal loans or guarantees; other grants; and non-cash contributions and donated services. (See Rating Factor 4 for documentation requirements for leveraged resources.)

6. Microenterprise Programs. Tribes may apply for assistance to operate programs to fund the development, expansion, and stabilization of microenterprises. Microenterprises are defined as commercial entities with five or fewer employees, including the owner. Microenterprise program activities may entail the following assistance to eligible businesses: (a) Providing credit, including, but not limited to, grants, loans, loan guarantees, and other forms of financial support for the establishment, stabilization, and expansion of microenterprises; (b) providing technical assistance, advice, and business support services to owners of microenterprises and persons developing microenterprises; and (c) providing general support, including, but not limited to, peer support programs, counseling, child care, transportation, and other similar services to owners of microenterprises and persons developing microenterprises.

7. Operations and Maintenance (O&M) for Public Facilities and Improvements. While various items of cost will vary in importance and significance depending on the type of facility proposed, there are items of expense related to the operation of the physical plant which must be addressed in a O&M plan (tribe assumes responsibility) or in a letter of commitment (entity other than tribe will assume these responsibilities). Although the tribe no longer has to submit the O&M plan with the application, it must provide a written statement that it has adopted an O&M plan and that the plan addresses several items. These items include daily or other periodic maintenance activities; repairs such as replacing broken windows; capital improvements or replacement reserves for repairs such as replacing the roof; fire and liability insurance (may not be applicable to most types of infrastructure projects such as water and sewer lines); and security (may not be applicable to many types of infrastructure projects such as roads). (Please note that while it is possible that the service provider may, in its agreement with a tribe, commit itself to cover certain or all facility O&M costs, these costs do not include the program service provision costs related to the delivery of services (social, health, recreational, educational or other) which may be provided in a facility).

8. Outcomes. The ultimate impact you hope to achieve with the proposed project. Outcomes should be quantifiable measures or indicators and identified in terms of the change in the community, people's lives, changes in economic status, etc. Common outcomes could include increases in percent of housing units in standard condition, homeownership rates, or employment rates.

9. Outputs. Outputs are the direct products of a program's activities. They are usually measured in terms of the volume of work accomplished, such as the number of low-income households served, number of units constructed or rehabilitated, linear feet of curbs and gutters installed, or number of jobs created or retained. Outputs should be clear enough to allow HUD to monitor and assess your proposed project's progress if funded.

10. Project Cost. The total cost to implement the project. Project costs may be covered by both ICDBG and non-ICDBG funds and resources.

11. Standard Housing/Standard Condition. Housing that meets the housing quality standards (HQS) adopted by the applicant. The HQS adopted by the applicant must be at least as stringent as the Section 8 HQS contained in 24 CFR 982.401 (Section 8 Tenant-Based Assistance: Housing Choice Voucher program) unless the ONAPs approve less stringent standards based on a determination that local conditions make the use of Section 8 HQS unfeasible. You may submit, before the application submission deadline, a request for the approval of standards less stringent than Section 8 HQS. If you submit the request with your application, you should not assume automatic approval by the ONAPs. The adopted standards must provide for (a) a safe house, in physically sound condition with all systems performing their intended design functions; (b) a livable home environment and an energy efficient building and systems that incorporate energy conservation measures; and (c) an adequate space and privacy for all intended household members.

12. Statement. When a “written statement” is requested for any threshold, program requirement, or rating factor, the applicant must address in writing the specific item cited.

13. Tribe. The word “tribe” means an Indian tribe, band, group or nation, including Alaska Indians, Aleuts, Eskimos, Alaska Native Villages, Alaska Native Claims Settlement Act (ANCSA) Village Corporations, and ANCSA Regional Corporations.

II. Award Information

A. Available Funds. The FY2006 appropriation for the ICDBG program is $59,400,000, less $3,960,000 retained to fund Imminent Threat Grants, for a total of $55,440,000. Funds that are carried over from previous fiscal years or are recaptured may also be used for grant awards under this NOFA. In accordance with the provisions of 24 CFR part 1003, subpart E, we have retained $3,960,000 of the FY 2006 appropriation to meet the funding needs of imminent threat requests submitted to any of the Area ONAPs. The grant ceiling for imminent threat requests for FY 2006 is $425,000. This ceiling has been established pursuant to the provisions of 24 CFR 1003.400(c).

B. Allocations to Area ONAPs. The requirements for allocating funds to Area ONAPs responsible for program administration are found at 24 CFR 1003.101. Following these requirements, based on an appropriation of $59,400,000 less $3,960,000 for Imminent Threat grants, the allocations for FY2006 are approximately as follows:

Eastern/Woodlands | $6,325,737
Southern Plains | 11,864,746
Northern Plains | 7,917,788
Southwest | 20,525,637
Northwest | 2,891,489
Alaska | 5,914,603
Total | 55,440,000

C. Compliance with regulations, guidelines, and requirements: Applicants awarded a grant under this NOFA are required to comply with the regulations, guidelines, and requirements with respect to the acceptance and use of Federal funds for this Federally-assisted program. Also, the grantee, by accepting the grant, provides assurance with respect to the grant that:

1. It possesses the legal authority to apply for the grant and execute the proposed program.

2. The governing body has duly authorized the filing of the application, including all understandings and assurances contained in the application and has directed and authorized the person identified as the official representative of the applicant to act in connection with the application and to provide such additional information as may be required.

3. It will comply with HUD general administration requirements in 24 CFR Part 85.

4. It will comply with the requirements of Title II of Public Law 90-284 (25 U.S.C. 1301), the Indian Civil Rights Act. Federally recognized Indian tribes and their instrumentalities are subject to the requirements of: Title II of the Civil Rights Act of 1964, known as the Indian Civil Rights Act; Section 109 prohibitions against discrimination based on age, sex, religion and disability; the Age Discrimination Act of 1975; and Section 504 of the Rehabilitation Act of 1973.

5. It will comply with the Indian preference provisions required in 24 CFR 1003.510.

6. It will establish written safeguards to prevent employees from using positions funded under the ICDBG programs for a purpose that is, or gives the appearance of being, motivated by private gain for themselves, their immediate family, or business associates. Employees are not otherwise limited from benefiting from program activities for which they are otherwise eligible.

7. Neither the applicant nor its principals are presently excluded from participation in any HUD programs, as required by 24 CFR part 24.

8. The chief executive officer or other official of the applicant approved by HUD:

a. Consents to assume the status of a responsible Federal official under the National Environmental Policy Act of 1969 insofar as the provisions of the Act apply to the applicant's proposed program pursuant to 24 CFR 1003.605.

b. Is authorized and consents on behalf of the applicant and him/herself to accept the jurisdiction of the Federal courts for the purpose of enforcement of his/her responsibilities as such an official.

Note: Applicants for whom HUD has approved a claim of incapacity to accept the responsibilities of the Federal government for purposes of complying with the environmental review requirements of 24 CFR part 58 pursuant to 24 CFR 1003.605 are not subject to the provision of paragraph 8.

9. It will comply with the requirements of Section 3 of the Housing and Urban Development Act of 1968 and the regulations in 24 CFR part 135 (Economic Opportunities for Low and Very Low Income Persons) to the maximum extent consistent with, but not in derogation of, compliance with Section 7(b) of the Indian Self-Determination and Education Assistance Act (25 U.S.C. 450e(b)). Two points will be awarded under Rating Factor 3 in FY2006 for applicants who demonstrate how they will incorporate Section 3 principles into their proposed projects.

10. It will comply with the requirements of the Fire Authorization Administration Act of 1992 (Pub. L. 102-522).

11. It will comply with 24 CFR, part 4, subpart A, showing full disclosure of all benefits of the project as collected by Form HUD-2880, Applicant/Recipient Disclosure Report.

12. Prior to submission of its application to HUD, the grantee has met the citizen participation requirements which includes following traditional means of member involvement, as required in 24 CFR 1003.604.

13. It will administer and enforce the labor standards requirements prescribed in 24 CFR 1003.603.

14. The project has been developed so that not less than 70 percent of the funds received under this grant will be used for activities that benefit low- and moderate-income persons.

15. Executive Order 13202, “Preservation of Open Competition and Government Neutrality Towards Government Contractors' Labor Relations on Federal and Federally Funded Construction Projects” applies to projects funded under this NOFA. See the General Section for more information.

D. Period of Performance. The period of performance for any grant awarded under this NOFA must be included in the Implementation Schedule, HUD-4125, and approved by HUD.

III. Eligibility Information

A. Eligible Applicants. Eligible applicants are Indian tribes or tribal organizations on behalf of Indian tribes. To apply for funding you must be eligible as an Indian tribe (or as a tribal organization), as required by 24 CFR 1003.5, by the application submission date.

Tribal organizations are permitted to submit applications under 24 CFR 1003.5(b) on behalf of eligible tribes when one or more eligible tribe(s) authorize the organization to do so under concurring resolutions. The tribal organization must itself be eligible under Title I of the Indian Self-Determination and Education Assistance Act. The Bureau of Indian Affairs (BIA) or the Indian Health Service, as appropriate, must make a determination of such eligibility. This determination must be provided to the Area ONAP by the application submission date.

If a tribe or tribal organization claims that it is a successor to an eligible entity, the Area ONAP must review the documentation to determine whether it is in fact the successor entity.

Applicants from within Alaska: Due to the unique structure of tribal entities eligible to submit ICDBG applications in Alaska, and as only one ICDBG application may be submitted for each area within the jurisdiction of an entity eligible under 24 CFR 1003.5, a tribal organization that submits an application for activities in the jurisdiction of one or more eligible tribes or villages must include a concurring resolution from each such tribe or village authorizing the submission of the application. Each such resolution must also indicate that the tribe or village does not itself intend to submit an ICDBG application for that funding round. The hierarchy for funding priority continues to be the IRA Council, the Traditional Village Council, the ANCSA Village Corporation, and the ANCSA Regional Corporation.

On November 25, 2005 (70 FR 71194), the BIA published a Federal Register notice entitled, “Indian Entities Recognized and Eligible to Receive Services From the United States Bureau of Indian Affairs.” This notice provides a listing of Indian Tribal Entities in Alaska found to be Indian tribes as the term is defined and used in 25 CFR part 83. Additionally, pursuant to Title I of the Indian Self-Determination and Education Assistance Act, ANCSA Village Corporations and Regional Corporations are also considered tribes and therefore eligible applicants for the ICDBG program.

Any questions regarding eligibility determinations and related documentation requirements for entities in Alaska should be referred to the Alaska Area ONAP prior to the application submission date. (See 24 CFR 1003.5 for a complete description of eligible applicants.)

B. Cost Sharing or Matching. Cost sharing or matching is not required under this grant; however, applicants who leverage this grant with other funds receive points. See Section V, (A) Rating Factor 4.

C. Other.

1. HUD Requirement

Applicants for single purpose grants must comply with the HUD Threshold Requirements listed in the General Section, Section III, C. in order to receive an award of funds.

2. Program and Project Specific Requirements

a. Low- and Moderate-Income Status for Rehabilitation Projects. Your application must contain information that shows that all households that receive ICDBG grant assistance under a housing rehabilitation project are of low- and moderate-income status.

b. Housing Rehabilitation Cost Limits. Grant funds spent on rehabilitation per unit must fall within the following limits for each Area ONAP jurisdiction:

Eastern/Woodland: | $35,000
Southern Plains: | $35,000
Northern Plains: | $50,000
Southwest: | $40,000
Northwest: | $40,000
Alaska: | $55,000

c. Commitment to Housing for Land Acquisition to Support New Housing Projects. For land acquisition to support new housing projects, your application must include evidence of a financial commitment and an ability to construct at least 25 percent of the housing units on the land proposed for acquisition. This evidence must consist of one (or more) of the following: a firm or conditional commitment to construct (or to finance the construction of) the units; documentation that an approvable application for the construction of these units has been submitted to a funding source or entity; or, documentation that these units are specifically identified in the Indian Housing Plan (IHP), (one-Year Financial Resources Narrative; Table 2, Financial Resources, Part I., Line 1E; and Table 2, Financial Resources, Part II) submitted by or on behalf of the applicant as an affordable housing resource with a commensurate commitment of Indian Housing Block Grant (IHBG) (also known as NAHBG) resources. If the IHP for the IHBG (also known as NAHBG) program year that coincides with the implementation of the ICDBG proposed project has not been submitted, you must provide an assurance that the IHP will specifically reference the proposed project. The IHP submission must occur within three years from the date the land is acquired and ready for development.

d. Health Care Facilities. If you propose a facility that would provide health care services funded by the Indian Health Service (IHS), you must assure that the facility meets all applicable IHS facility requirements. We recognize that tribes that are contracting services from the IHS may establish other facility standards. These tribes must assure that these standards at least compare to nationally accepted minimum standards.

3. Program Related Threshold Requirements

a. Outstanding ICDBG Obligation. According to 24 CFR 1003.301(a), an applicant who has an outstanding ICDBG obligation to HUD that is in arrears, or one that has not agreed to a repayment schedule will be disqualified from the competition.

b. Compliance with Fair Housing and Civil Rights Laws. Applicants and subrecipients that are not federally recognized Indian tribes or their instrumentalities are subject to the Civil Rights threshold requirements found in the General Section. Federally recognized Indian tribes and their instrumentalities are subject to the requirements of: Title II of the Civil Rights Act of 1964, known as the Indian Civil Rights Act; Section 109 prohibitions against discrimination based on age, sex, religion and disability; the Age Discrimination Act of 1975; and Section 504 of the Rehabilitation Act of 1973. To be eligible to apply, there must be no outstanding violations of these civil rights provisions at the time of application.

4. Project Specific Threshold Requirements

Applicants must meet all parts of the project specific threshold applicable to the proposed project. The thresholds are:

a. Housing Rehabilitation Project Thresholds. In accordance with 24 CFR 1003.302(a), for housing rehabilitation projects, you must adopt rehabilitation standards and rehabilitation policies before you submit an application. You must state that you have in place rehabilitation policies and standards that have been adopted in accordance with tribal law or practice. Do not submit your policies or standards with the application. You must also provide a written statement that project funds will be used to rehabilitate HUD-assisted houses only when the homebuyer's payments are current or the homebuyer is current in a repayment agreement except in emergency situation. For purposes of meeting this threshold, HUD-assisted houses are houses that are owned and managed by the tribe or tribally designated housing entity. The ONAP Administrator on a case-by-case basis may approve exceptions to this requirement.

b. New Housing Construction Project Thresholds.

1. In accordance with 24 CFR 1003.302(b), new housing construction can only be implemented when necessary through a Community Based Development Organization (CBDO). Eligible CBDOs are described in 24 CFR 1003.204(c). You must provide documentation establishing that the entity implementing your new housing construction project qualifies as a CBDO.

2. In accordance with 24 CFR 1003.302, you must have a current, in effect, tribal resolution adopting and identifying construction standards.

3. In accordance with 24 CFR 1003.302, you must also include in your application documentation supporting the following:

(a) All households to be assisted under a new housing construction project must be of low-or moderate-income status;

(b) No other housing is available in the immediate reservation area that is suitable for the households to be assisted;

(c) No other sources including an IHBG (also known as NAHBG) can meet the needs of the household(s) to be served; and

(d) Rehabilitation of the unit occupied by the household(s) to be assisted is not economically feasible, or the household(s) to be housed currently is in an overcrowded house (more than one household per house), or the household to be assisted has no current residence.

c. Economic Development Project Thresholds. In accordance with 24 CFR 1003.302, for economic development assistance projects, you must provide a financial analysis. The financial analysis must demonstrate that the project is financially feasible and the project has a reasonable chance of success. The analysis must also demonstrate the public benefit resulting from the ICDBG assistance. The more funds you request, the greater public benefit you must demonstrate. The analysis must also establish that to the extent practicable, reasonable financial support will be committed from non-federal sources prior to disbursement of federal funds; any grant amount provided will not substantially reduce the amount of non-federal financial support for the activity; not more than a reasonable rate of return on investment is provided to the owner; and that grant funds used for the project will be disbursed on a pro-rata basis with amounts from other sources.

d. There are no project specific thresholds for Land Acquisition to Support New Housing, Homeownership Assistance, Public Facilities and Improvements, and Microenterprise Projects.

5. Public Service Projects

Because there is a regulatory 15 percent cap on the amount of grant funds that may be used for public service activities, you may not receive a single purpose grant solely to fund public service activities. Your application, however, may contain a public service component for up to 15 percent of the total grant. This component may be unrelated to the other project(s) included in your application. If your application does not receive full funding, we will reduce the public service allocation proportionately so that it comprises no more than 15 percent of the total grant award. In making such reductions, the feasibility of the proposed project will be taken into consideration. If a proportionate reduction of the public service allocation renders such a project infeasible, the project will not be funded. A complete description of Public Service Projects is located at 24 CFR part 1003.201.

6. Restrictions on Eligible Activities

A complete description of activities that are eligible for ICDBG funding are identified at 24 CFR part 1003, subpart C. Please note that although this subpart has not yet been revised to include the restrictions on activity eligibility that were added to Section 105 of the CDBG statute by Section 588 of the Quality Housing and Work Responsibility Act of 1998, these restrictions apply. Specifically, ICDBG funds may not be used to assist directly in the relocation of any industrial or commercial plant, facility, or operation, from one area to another, if the relocation is likely to result in a significant loss of employment in the labor market area from which the relocation occurs. Rating Factors 2 and 3 included under Section V. specify many of the activities listed as eligible under part 1003, subpart C. Those listed include new housing construction (in certain circumstances as described in Rating Factors 2 and 3 in Section V.), housing rehabilitation, land acquisition to support new housing, homeownership assistance, public facilities and improvements, economic development, and microenterprise programs. However, the following eligible activities not clearly identified by the rating factors may be proposed and rated as described below. During the past few years, many tribes have experienced high incidences of mold growth in tribal homes and buildings. Renovation of affected buildings is eligible under housing rehabilitation or public facility improvement projects.

a. Acquisition of property. This activity can be proposed as Land to Support New Housing or as part of New Housing Construction, Public Facilities and Improvements, or Economic Development depending on the purpose of the land acquisition to support new construction.

b. Assistance to Institutions of Higher Learning. If such entities have the capacity, they can help the ICDBG grantees to implement eligible projects.

c. Assistance to Community Based Development Organizations (CBDOs). Grantees may provide assistance to these organizations to undertake activities related to neighborhood revitalization, community economic development, or energy conservation.

d. Clearance, Demolition. These activities can be proposed as part of Housing Rehabilitation, New Housing Construction, Public Facilities and Improvements, Economic Development, or Land to Support New Housing. § 1003.201(d) states “Demolition of HUD-assisted housing units may be undertaken only with the prior approval of HUD.”

e. Code Enforcement. This activity can be proposed as Housing Rehabilitation. The activity must comply with the requirements at 24 CFR 1003.202.

f. Comprehensive Planning. This activity is eligible, and can be proposed, as part of any otherwise eligible project to the extent allowed by the 20 percent cap on the grant for planning/administration.

g. Energy Efficiency. Associated activities can be proposed under Housing Rehabilitation or Public Facilities and Improvements depending upon the type of energy efficiency activity.

h. Lead-Based Paint Evaluation and Abatement. These activities can be proposed under Housing Rehabilitation.

i. Non-Federal Share. ICDBG funds can be used as a match for any non-ICDBG funding to the extent allowed by such funding and the activity is eligible under 24 CFR part 1003, subpart C.

j. Privately and Publicly Owned Commercial or Industrial Buildings (real property improvements). These activities can be proposed under Economic Development. Privately owned commercial rehabilitation is subject to the requirements at 24 CFR 1003.202.

k. Privately Owned Utilities. Assistance to privately owned utilities can be proposed under Public Facilities and Improvements.

l. Removal of Architectural Barriers. This includes removing barriers that restrict mobility and access for elderly and persons with disabilities. In addition, accommodation should be made for persons with all varieties of disabilities to enable them to benefit from these activities. This activity can be proposed under Housing Rehabilitation or Public Facilities and Improvements depending upon the type of structure where the barrier will be removed.

7. Application Screening

The Area ONAP will screen applications for single purpose grants. The Area ONAP will reject an application that fails this screening and will return the application unrated. The Area ONAP will accept your application if it meets all the criteria listed below as items a through f.

a. Your application is received or submitted in accordance with the requirements set forth under Application and Submission Procedures in Section IV of this NOFA;

b. You are eligible;

c. The proposed project is eligible;

d. Your application contains substantially all the components specified in Section IV. B. of this NOFA;

e. Your application shows that at least 70 percent of the grant funds are to be used for activities that benefit low- and moderate-income persons, in accordance with the requirements of 24 CFR 1003.208. For screening purposes only, HUD will use the 2000 census data if the data you submitted does not meet this screening requirement; and

f. Only one ICDBG application may be submitted for each area within the jurisdiction of an entity eligible under 24 CFR 1003. An application may include more than one project, but it cannot exceed the grant ceilings listed in Section IV.

IV. Application and Submission Information

A. Addresses To Request Application Package

Applicants are required to submit an electronic application unless they receive a waiver of the requirement. See the General Section for information on electronic application submission, procedures for requesting a waiver, and timely submission and receipt requirements. All information required to complete a valid application is included in the General Section and this NOFA. Before preparing an application, applicants should carefully review the program description, ineligible activities, program and threshold requirements, and the General Section. Applicants should carefully review each rating factor listed in Section V of this NOFA, before writing a narrative response.

Copies of the General Section and ICDBG NOFA may be downloaded from the grants.gov Web site at http://www.grants.gov/Apply. If you experience any problems with downloading the General Section or the ICDBG NOFA, call the Grants.gov help desk at 800-518-GRANTS.

B. Content and Form of Application Submission.

1. Application Information

Indicate on the first page of each project submission, the type of project(s) being proposed: Economic Development, Homeownership Assistance, Housing Rehabilitation, Land Acquisition to Support New Housing, Microenterprise Programs, New Housing Construction or Public Facilities and Improvements. This will help to ensure that the appropriate project specific thresholds and rating subfactors will be applied. Narrative statements submitted to support your application should be individually labeled to reflect the item the narrative is responding to, e.g. Factor 1, Factor 2, etc. Applicants should not submit third party documents, such as audits, resolutions, policies, unless specifically asked to submit them. Additional information regarding electronic submissions can be found in the General Section.

If you received a waiver to the electronic application submission requirements and are submitting a paper application, please use separate tabs for each rating factor and rating subfactor. In order to be rated, make sure the response is beneath the appropriate heading. Keep the responses in the same order as the NOFA. It is recommended that you limit your narrative explanations to 200 words or less and provide the necessary data such as a market analysis, a pro forma, housing survey data, etc., that support the response. Include all relevant material to a response under the same tab. Only include documentation that will clearly and concisely support your response to the rating criteria.

HUD suggests that you do a preliminary rating for your project, providing a score according to the point system in Section V of this NOFA. This will show you how reviewers might score your project, and identify its strengths and weaknesses. This will help determine where improvements can be made prior to its submission. An application checklist has been posted at http://www.hud.gov/offices/adm/grants/fundsavail.cfm under the ICDBG program for your use in verifying that you have completed all required components.

2. Content of Application, Forms, and Required Elements

The applicant must respond in narrative form to all five of the rating factors listed in Section V.A. of this NOFA. In addition, the applicant must submit all of the forms required in this section, along with other data listed below.

a. Demographic data. You may submit data that are unpublished and not generally available in order to meet the requirements of this section. Your application must contain a statement that the following criteria have been met:

(1) Generally available published data are substantially inaccurate or incomplete;

(2) Data that you submit have been collected systematically and are statistically reliable;

(3) Data are, to the greatest extent feasible, independently verifiable; and

(4) Data differentiate between reservation and BIA service area populations, when applicable.

b. Publication of Community Development Statement. You must prepare and publish or post the community development statement portion of your application according to the citizen participation requirements of 24 CFR 1003.604. You may post or publish a statement that indicates that the entire Community Development Statement is available for public viewing and include the location, dates, and time it will be available for review.

c. Application Submission. Your application must contain the items listed below.

(1) Application for Federal Assistance (SF-424);

(2) SF-424 SUPP, Supplement Survey on Ensuring Equal Opportunity for Applicants;

(3) Applicant/Recipient Disclosure/Update Report (HUD-2880); and

(4) Acknowledgement of Application Receipt (HUD-2993). (Only for applicants granted a waiver of the electronic submission requirements and who are submitting a paper application)

If the application has been submitted by a tribal organization as defined in 24 CFR 1003.5(b), on behalf of an Indian tribe, you must submit concurring resolutions from the Indian tribe stating that the tribal organization is applying on the tribe's behalf. Applicants must submit the resolution by attaching it as a file to your electronic application submission, or sending it via facsimile transmittal.

The other required items are as follows:

(5) Community Development Statement that includes:

(a) Components that address the general threshold requirement and the relevant project specific thresholds and rating factors;

(b) A schedule for implementing the project (Form HUD-4125, Implementation Schedule); and

(c) Cost information for each separate project, including specific activity costs, administration, planning, technical assistance, and total HUD share (Form HUD-4123, Cost Summary).

(6) A map showing project location, if appropriate.

(7) If the proposed project will result in displacement or temporary relocation, a statement that identifies:

(a) The number of persons (families, individuals, businesses, and nonprofit organizations) occupying the property on the date of the submission of the application (or date of initial site control, if later);

(b) The number to be displaced or temporarily relocated;

(c) The estimated cost of relocation payments and other services;

(d) The source of funds for relocation; and

(e) The organization that will carry out the relocation activities.

(8) If applicable, evidence of the disclosure required by 24 CFR 1003.606(e) regarding conflict of interest.

(9) If applicable, the demographic data statement described in Section IV.B. and Section V.A., Rating Factor 2 of this NOFA. The data accompanying the statement must identify the total number of persons benefiting from the project and the total number of low- and moderate-income persons benefiting from the project. To be considered, supporting documentation must include all of the following: a sample copy of a completed survey form, an explanation of the methods used to collect the data, and a listing of incomes by household.

(10) Optional submissions are:

(a) You Are Our Client Grant Applicant Survey (HUD 2994-A) (Optional); and

(b) Logic Model, HUD-96010.

3. Planning and Administrative Costs

Applicants must report project planning and administration costs on Form HUD-4123, Cost Summary. Planning and administrative costs cannot exceed 20 percent of the grant. The following criteria applies to planning and administrative costs:

a. Planning and administrative activities may only be funded in conjunction with a physical development activity.

b. If you are submitting an application for more than one project, costs must be broken down by project. Submit one Form HUD-4123 for each proposed project in addition to a consolidated Form HUD-4123 that includes costs for all proposed projects.

c. Do not include project costs (i.e. architectural/engineering, environmental, technical assistance, staff/overhead costs) directly related to project.

C. Submission Dates and Times

1. Application Submission Deadline

The application deadline date is May 31, 2006. Applications submitted through http://www.Grants.gov/Apply must be received and validated by Grants.gov no later than 11:59:59 PM Eastern time on the application deadline date. Upon submission, Grants.gov will provide the applicant a confirmation of receipt and then validate the application. Within 24-48 hours of receipt, the application will be validated by Grants.gov. If the application does not pass validation, it will be rejected by Grants.gov and the application will be eliminated from further funding consideration. The General Section provides details of a validation check. HUD advises applicants to submit early so that if an application is rejected during the validation process, applicants can correct the errors and resubmit the application prior to the deadline date and time. If you are granted a waiver of the electronic submission requirements, and are submitting a paper application, your completed application (one original and two copies) must be received by HUD no later than 11:59:59 PM on the application deadline date. HUD will not accept any applications sent by e-mail or on a diskette, CD, or by facsimile unless HUD specifically requests an applicant to do so. Please carefully follow the instructions in Section IV F. of the General Section for detailed information regarding application submission, delivery, and timely receipt requirements.

D. Intergovernmental Review

Indian tribes are not subject to the Intergovernmental Review process.

E. Funding Restrictions

1. Ineligible Activities

In general, any activity that is not authorized under the provisions of 24 CFR 1003.201-1003.206 is ineligible to be assisted with ICDBG grant funds. The regulations at 24 CFR 1003.207 govern ineligible activities and should be referred to for details. The following guidance is provided for determining the eligibility of other activities frequently associated with ICDBG projects.

a. Government Office Space. Buildings, or portions thereof, used predominantly for the general conduct of government cannot be assisted with ICDBG funds. Those buildings include, but are not limited to, local government office buildings, courthouses, and other headquarters of government where the governing body meets regularly. Buildings that contain both governmental and non-governmental services can be assisted as long as the ICDBG funds are used only for the non-governmental sections. An example of an ineligible building is a building to house the community development division or a tribal administration building. Your Area ONAP office should be consulted for projects of this nature.

b. General Government Expenses. Except as authorized in the regulations or under OMB Circular A-87, expenses required to carry out the regular responsibilities of the unit of general local government are not eligible for assistance with ICDBG funds.

c. Maintenance and Operation Expenses. In general, any expenses associated with repairing, operating, or maintaining public facilities and services are not eligible for assistance. Specific exceptions to this general rule are operating and maintenance expenses associated with public service activities [24 CFR 1003.201(e)], office space for program staff employed in carrying out the ICDBG program [24 CFR 1003.206(a)(4)], and interim assistance [24 CFR 1003.201(f)]. For example, where a public service is being assisted with CDBG funds, the cost of operating and maintaining that portion of the facility in which the service is located is eligible as part of the public service. Examples of ineligible operating and maintenance expenses are routine and non-routine maintenance and repair of streets, parks, playgrounds, water and sewer facilities, neighborhood facilities, senior centers, centers for persons with disabilities, parking facilities, and similar public facilities and, payment of salaries for staff, utility costs, and similar expenses necessary for the operation of public works and facilities.

d. New Housing Construction. The construction of new permanent residential structures and any program to subsidize or finance such new construction is ineligible unless carried out by a Community-Based Development Organization (CBDO) pursuant to 24 CFR 1003.204(a).

e. Furnishings and Personal Property. In general, the purchase of equipment, fixtures, motor vehicles, furnishings, or other personal property not an integral structural fixture is ineligible. Exceptions include when such purchases are necessary for use in grant administration (24 CFR 1003.206); necessary and appropriate for use in a project carried out by a CBDO (24 CFR 1003.204); used in providing a public service (24 CFR 1003.201(e)); or used as fire fighting equipment (24 CFR 1003.201(c)(1)(ii)). However, ICDBG funds may be used to pay depreciation or use allowances (in accordance with OMB Circular A-87 or A-122 as applicable).

f. Construction Tools and Equipment. The purchase of construction tools and equipment is generally ineligible. However, compensation for the use of such tools and equipment through leasing, depreciation, or use allowances pursuant to OMB Circulars A-87 and A-122, as applicable, for an otherwise eligible activity is eligible. Exceptions include construction tools and equipment purchased for use as part of a solid waste facility (24 CFR 1003.201(c)(1)(ii)) and construction tools only (not equipment) purchased for use in a housing rehabilitation project being administered by the recipient using the force account construction method (24 CFR 1003.202(b)(8)).

g. Income Payments. In general, assistance shall not be used for income payments for housing or any other purpose. Income payments mean a series of subsistence-type grant payments made to an individual/family for items such as food, clothing, housing (rent/mortgage) or utilities, but excludes emergency payments made over a period of up to three months to the provider of such items or services on behalf of an individual/family. Examples of ineligible income payments include the payments for income maintenance and housing allowances.

2. Grant Ceilings. The authority to establish grant ceilings is found at 24 CFR 1003.100(b)(1). Grant ceilings are established for FY2006 funding at the following levels:

Area ONAP | Population | Ceiling
Eastern Woodlands | ALL | $600,000
Southern Plains | ALL | 800,000
Northern Plains | 6,001+ | 1,100,000
| 0-6,000 | 900,000
Southwest | 50,001+ | 5,500,000
| 10,501-50,000 | 2,750,000
| 7,501-10,500 | 2,200,000
| 6,001-7,500 | 1,100,000
| 1,501-6,000 | 825,000
| 0-1,500 | 605,000
Northwest | ALL | 500,000
Alaska | ALL | 500,000

For the Southwest Area ONAP jurisdiction, the population used to determine ceiling amounts is the Native American population that resides on a reservation or rancheria.

Applicants from the Southwest or the Northern Plains ONAP jurisdictions should contact that office before submitting an application if they are unsure of the population level to use to determine the ceiling amount. The Southwest or Northern Plains Area ONAP, as appropriate, must approve any corrections or revisions to Native American population data before you submit your application.

F. Other Submission Requirements

1. Applications shall be submitted via www.Grants.gov/Apply by no later than the application deadline date and time stated in the NOFA.

2. Mailing and Receipt Procedures. Applicants granted a waiver of the electronic submission requirement will receive specific mailing instructions with approval of the waiver. See 24 CFR Part 5.

3. Addresses for Submitting Applications. HUD will only accept mailed applications if a waiver of the electronic delivery process has been approved by HUD. Information regarding electronic submission and waivers from the electronic submission requirement is located in the General Section. If a waiver of the electronic submission requirement is granted, submit the original signed application and two copies to the appropriate Area ONAP for your jurisdiction. A list identifying each Area ONAP jurisdiction is provided at http://www.hud.gov/offices/adm/grants/fundsavail.cfm under the ICDBG program.

V. Application Review Information

A. Criteria

1. RC/EZ/EC-II: Bonus points described in the General Section for projects located in RC/EZ/EC-II will not be awarded under this NOFA.

2. Rating Factors to Evaluate and Rate Applications: The factors for rating and ranking applications and the points for each factor are provided below. A maximum of 100 points may be awarded under Rating Factors 1 through 5. To be considered for funding, your application must receive a minimum of 20 points under rating factor 1 and an application score of at least 70 points. The following summarizes the points assigned to each rating factor and each rating subfactor and lists which rating subfactors apply to which project types. Please use this table to ensure you are addressing the appropriate rating subfactor for your project.

Rating factor | Rating sub- factor | Points | Project type
1 | Total | 40 | Minimum of 20 Points Required.
| 1.a. | 10 | All Project Types.
| 1.b. | 5 or 7* | All Project Types.
| 1.c. | 3 or 8* | All Project Types.
| 1.d. | 2 or 5* | All Project Types.
| 2.a. | 4 or 0* | All Project Types.
| 2.b. | 4 or 0* | All Project Types.
| 2.c. | 4 or 0* | All Project Types.
| 2.d. | 4 or 0* | All Project Types.
| 2.e. | 4 or 0* | All Project Types.
2 | Total | 16.
| 1 | 4 | All Project Types.
| 2.a. | 12 | Public Facilities and Improvements and Economic Development Projects.
| 2.b. | 12 | New Housing Construction, Housing Rehabilitation, Land Acquisition to Support New Housing, and Homeownership Assistance Projects.
| 2.c. | 12 | Microenterprise Programs.
3 | Total | 30.
| 1 | 10 | All Project Types.
| 2 | 5 | All Project Types.
| 3 | 1 | All Project Types.
| 4 | 2 | All Project Types.
| 4.a. | 12 | Public Facilities and Improvements.
| 4.b. | 12 | New Housing Construction, Housing Rehabilitation, and Homeownership Assistance Projects.
| 4.c. | 12 | Economic Development Projects.
| 4.d. | 12 | Microenterprise Programs.
| 4.e. | 12 | Land Acquisition to Support New Housing.
4 | Total | 8 | All Project Types.
5 | Total | 6 | All Project Types.
| 1 | 2 | All Project Types.
| 2 | 4 | All Project Types.
Total |  | 100 | Minimum of 70 Points Required.
* The first number listed indicates the maximum number of points available to current ICDBG grantees under this subfactor. The second number indicates the maximum number of points available to new applicants.

Rating Factor 1: Capacity of the Applicant (40 Points)

This factor addresses the extent to which you have the organizational resources necessary to successfully implement the proposed activities in accordance with your implementation schedule. If applicable, past performance in administering previous ICDBG grants will be taken into consideration. You must address the existence or availability of these resources for the specific type of activity for which you are applying. You must receive a minimum of 20 points under this factor for your proposed activity to be eligible for funding. HUD will not rate any projects further that do not receive a minimum of 20 points under this factor. The implementation schedule and/or the Logic Model, Form HUD 96010, you submit for this factor will be measured against actual progress if you are funded.

1. (20 points for current ICDBG grantees) (30 points for new applicants) Managerial, Technical, and Administrative Capability

Your application must include a description demonstrating that you possess or can obtain managerial, technical, and/or administrative capability necessary to carry out the proposed project. Your application must address who will administer the project and how you plan to handle the technical aspects of executing the project in accordance with your implementation schedule. Typical documents that may be submitted include, but are not limited to, written summaries of qualifications and past experience of proposed staff, descriptions of staff responsibilities, and references or letters of endorsement from others who have worked with the proposed staff. Do not submit job descriptions or resumes.

a. (10 points) Managerial and Technical Staff.

The extent to which your application describes the roles/responsibilities and the knowledge/experience of your overall proposed project director and staff, including the day-to-day program manager, consultants, and contractors in planning, managing, and implementing projects in accordance with the implementation schedule for which funding is being requested. Experience will be judged in terms of recent, relevant, and successful experience of your staff to undertake eligible program activities. In rating this factor, HUD will consider experience within the last 5 years to be recent; experience pertaining to the specific activities being proposed to be relevant; and experience producing specific accomplishments to be successful. The more recent the experience and the more experience your own staff members who work on the project have in successfully conducting and completing similar activities, the greater the number of points you will receive for this rating factor.

(10 Points). The applicant adequately describes the roles/responsibilities and the knowledge/experience of its overall project director and staff, including the day-to-day program manager, consultants, and contractors in planning, managing, and implementing projects for which funding is being requested. Staff experience as described in the application is recent (within 5 years), relevant (pertains to the specific activities being proposed) and successful (has produced specific accomplishments).

(5 Points). The applicant adequately describes the roles/responsibilities and the knowledge/experience of its overall project director and staff, including the day-to-day program manager, consultants, and contractors in planning, managing and implementing projects for which funding is being requested. However, one of the following applies: staff experience as described in the application is not recent (not within 5 years), is not relevant (does not pertain to the specific activities being proposed), or is not successful (did not produce specific accomplishments).

(0 Points). The applicant failed to adequately describe the roles/responsibilities and the knowledge/experience of its overall project director and staff, including the day-to-day program manager, consultants, and contractors in planning, managing, and implementing projects for which funding is being requested or more than one of the following applies: staff experience as described in the application is not recent (not within 5 years), is not relevant (does not pertain to the specific activity being proposed), or is not successful (did not produce specific accomplishments).

b. (5 points for current ICDBG grantees) (7 points for new applicants) Project Implementation Plan and Program Evaluation.

The extent to which your project implementation plan identifies the specific tasks and timelines that you and your partner contractors and/or sub grantees will undertake to complete your proposed project on time and within budget. The Project Implementation Schedule, Form HUD-4125, may serve as this required schedule, provided that it is sufficiently detailed to demonstrate that you have clearly thought out your project implementation. The extent to which your project identifies, measures, and evaluates the specific benchmarks, outputs, outcomes, and/or goals of your project that enhance community viability. The Logic Model, Form HUD-96010, may serve as the format to address this information or you may provide a different format that provides the same information.

(5 points for current ICDBG grantees) (7 points for new applicants). The applicant submitted a project implementation plan that clearly specifies project tasks and timelines. The documentation identifies the steps in place to make adjustments to the work plan if tasks are not completed within established time frames. The applicant submitted clear project benchmarks, outputs, outcomes, and/or targets and identified objectively quantifiable program measures and/or evaluation process.

(3 points for current ICDBG grantees) (4 points for new applicants). The applicant submitted a project implementation plan that specifies project tasks and timelines. The applicant submitted project benchmarks, outputs, outcomes, and/or targets for each; however, did not clearly identify objectively quantifiable program measures and/or the evaluation process.

(0 points for current ICDBG grantees or new applicants). The applicant submitted a project implementation schedule that does not address all project tasks and timelines associated with the project. Project benchmarks, outputs, outcomes, and/or goals were not submitted, or if submitted, did not address either the quantifiable program measures and/or the evaluation process.

c. (3 points for current ICDBG grantees) (8 points for new applicants) Financial Management.

This subfactor evaluates the extent to which your application describes how your financial management systems will facilitate effective fiscal control over your proposed project and meet the requirements of 24 CFR part 85 and 24 CFR part 1003. You must also describe how you will apply your financial management systems to the specific project for which you are applying. The application will also be rated on the seriousness/significance of the findings related to your financial management system identified in your current audit. If you are required to have an audit but do not have a current audit, you must submit a letter from your Independent Public Accountant that is dated within the past 12 months stating that your financial management system complies with all applicable regulatory requirements. If you are not required to have an audit, you will automatically receive points for this portion of the subfactor if you provide the other information required by this subfactor. For purposes of this subfactor, a current audit is one which has been submitted to the Federal Audit Clearinghouse within 9 months of the end of the applicant's last fiscal year, or 30 days after receipt of the audit report from the auditor, whichever comes first. Do not submit financial management and/or internal control policies and procedures or your audit with the application.

(3 points for current ICDBG grantees) (8 points for new applicants). The applicant clearly described how it will apply its financial management systems to the proposed project. The applicant's current audit does not contain any serious or significant findings related to its financial management system, or if there is no current audit, the applicant submitted a letter from its Independent Public Accountant stating that its financial management system complies with all applicable regulatory requirements.

(2 points for current ICDBG grantees) (4 points for new applicants). The applicant's current audit does not contain any serious or significant findings related to its financial management system, or if there is no current audit, the applicant submitted a letter from its Independent Public Accountant stating that its financial management system complies with all applicable regulatory requirements. The applicant did not describe how it would apply its financial management systems to the proposed project.

(1 point for current ICDBG grantees) (2 points for new applicants). The applicant's current audit does not contain any serious or significant findings related to its financial management system, or if there is no current audit, the applicant submitted a letter from its Independent Public Accountant stating that its financial management system complies with all applicable regulatory requirements. The applicant did not describe how it would apply its financial management systems to the proposed project.

(0 points for current ICDBG grantees or new applicants). The applicant's current audit included serious or significant findings related to its financial management systems or if there is no current audit, the applicant did not submit a letter from its IPA stating its financial management systems comply with all regulatory requirements. The applicant did not describe how it would apply its financial management systems to the proposed project.

d. (2 points for current ICDBG grantees) (5 points for new applicants) Procurement and Contract Management.

This subfactor evaluates the extent to which your application describes how your procurement and contract management policies and procedures will facilitate effective procurement and contract control over your proposed project and meet the requirements of 24 CFR part 85 and 24 CFR part 1003. You must also describe how you will apply your procurement and contract management systems to the specific project for which you are applying. The application will also be rated on the seriousness of the findings related to procurement and contract management identified in your current financial audit. If you are required to have an audit but do not have a current audit, you must submit a letter from your Independent Public Accountant stating that your procurement and contract management system complies with all applicable regulatory requirements. If you are not required to have an audit, you will automatically receive points for this portion of the subfactor if you provide the other information required by this subfactor. Do not submit procurement and contract management policies and procedures or your audit with the application.

(2 points for current ICDBG grantees) (5 points for new applicants). The applicant clearly described how its procurement and contract management policies and procedures will facilitate effective procurement and contract control over the proposed project, and meet the requirements of 24 CFR part 85 and 24 CFR part 1003. The applicant's current audit does not contain any serious or significant findings related to its procurement and contract management system, or if there is no current audit, the applicant submitted a letter from its Independent Public Accountant stating that its procurement and contract management system complies with all applicable regulatory requirements.

(1 point for current ICDBG grantees) (4 points for new applicants). The applicant's current audit does not contain any serious or significant findings related to its procurement or contract management system, or if there is no current audit, the applicant submitted a letter from its Independent Public Accountant stating that its procurement and contract management system complies with all applicable regulatory requirements. The applicant did not describe how it would apply its procurement and contract management systems to the proposed project.

(0 points for current ICDBG grantees or new applicants). The applicant's current audit included serious or significant findings related to its procurement and contract management systems or if there is no current audit, the applicant did not submit a letter from its IPA stating its procurement and contract management systems comply with all regulatory requirements. The applicant did not describe how it would apply its procurement and contract management systems to the proposed project.

2. (20 Points for Current ICDBG Grantees) (0 Points for New Applicants) Past Performance

HUD will evaluate your experience in producing products and reports in accordance with regulatory timelines for any previous grant programs undertaken with HUD funds for the following performance measures. HUD reserves the right to take into account your past performance in meeting performance and reporting goals on any previous HUD awards. Applicants are not required to respond to the subfactors related to past performance. HUD will rely on information on file.

a. (4 points for current ICDBG grantees) (0 points for new applicants). You are not more than 90 days behind schedule in meeting the time frames established in the HUD-approved Implementation Schedule for the ICDBG program.

(1) (4 points). The applicant is not more than 90 days behind schedule in meeting the timeframes established in the HUD-approved implementation schedule.

(2) (2 points). The applicant is not more than 120 days behind schedule in meeting the timeframes established in the HUD-approved implementation schedule.

(3) (0 points). The applicant is more than 120 days behind schedule in meeting timeframes established in the HUD-approved implementation schedule.

b. (4 points for current ICDBG grantees) (0 points for new applicants). Annual Status Reports (ASER) and Federal Cash Transaction Reports are submitted by the report submission deadlines. The ASER is due 45 days after the end of the Federal fiscal year on November 15. Federal Cash Transaction Reports are due quarterly on April 21, July 21, October 20, and January 22.

(1) (4 points). The applicant has submitted both the Annual Status and Evaluation Reports (ASER) and Federal Cash Transaction Reports for ICDBG programs by the report submission deadlines.

(2) (2 points). The applicant has submitted either the Federal Cash Transaction Reports or the Annual Status and Evaluation Reports for ICDBG programs by the report submission deadline.

(3) (0 points). The applicant has submitted neither of the required reports by the report submission deadline.

c. (4 points for current ICDBG grantees) (0 points for new applicants). You have submitted close-out documents to HUD by the submission deadline. Close-out documents are required for the ICDBG program within 90 days of the date it is determined that the criteria for close-out at 24 CFR 1003.508 have been met.

(1) (4 points). The applicant submitted close-out documents to HUD in accordance with the timeframe and criteria at § 1003.508.

(2) (0 points). The applicant has not submitted close-out documents to HUD as required by § 1003.508.

d. (4 points for current ICDBG grantees) (0 points for new applicants). You have submitted annual audits in accordance with OMB Circular A-133 and its compliance supplements. Do not submit your audit with the application.

(1) (4 points). The applicant has submitted annual audits in accordance with OMB Circular A-133 and its compliance supplements, or if the applicant has not been required to submit an audit, it will receive 4 points.

(2) (0 points). The applicant has not submitted annual audits in accordance with OMB Circular A-133 and its compliance supplements.

e. (4 points for current ICDBG grantees) (0 points for new applicants). You have resolved ICDBG monitoring findings and controlled audit findings by the established target date or there are no findings in current reports. Do not submit responses to open monitoring or audit findings with the application.

(1) (4 points). The applicant resolved open ICDBG monitoring findings and controlled audit findings by the established target date. If there were no open audit or ICDBG monitoring findings (current grantees only), the applicant will receive 2 points.

(2) (0 points). The applicant has not resolved open ICDBG monitoring findings and controlled audit findings by the established target date.

Rating Factor 2: Need/Extent of the Problem (16 Points)

This factor addresses the extent to which there is a need for the proposed project to address a documented problem among the intended beneficiaries.

1. (Up to 4 points). Your application includes quantitative information demonstrating that the proposed project meets an essential community development need by providing outcomes that are critical to the viability of the community.

2. (12 points). Your project benefits the neediest segment of the population, in accordance with the Program's primary objective defined at 24 CFR 1003.2. The criteria for this sub-factor vary according to the type of project for which you are applying. Please note that you may submit data that are unpublished and not generally available in order to meet the requirements of this section. However, to do so, you must submit a demographic data statement along with supporting documentation as described in Section IV.B. of this NOFA. For documenting persons employed by the project, you do not need to submit a demographic data statement and corresponding documentation. However, you do need to submit information that describes the nature of the jobs created or retained. Such information includes but is not limited to descriptions of proposed job responsibilities, salaries and the number of full-time equivalent positions. If you believe jobs will be retained as a result of the ICDBG project, include information that shows clearly and objectively, that jobs will be lost without the ICDBG project. Jobs that are retained only for the period of the grant will not count under this rating factor.

a. Public Facilities and Improvements and Economic Development Projects. The proposed activities benefit the neediest segment of the population, as identified below. For economic development projects, you may consider beneficiaries of the project as persons served by the project and/or persons employed by the project, and jobs created or retained by the project.

(1) (12 points). 85 percent or more of the beneficiaries are low- or moderate-income.

(2) (8 points). At least 75 percent but less than 85 percent of the beneficiaries are low- or moderate-income.

(3) (4 points). At least 55 percent but less than 75 percent of the beneficiaries are low- or moderate-income.

(4) (0 points). Less than 55 percent of the beneficiaries are low- or moderate-income.

b. New Housing Construction, Housing Rehabilitation, Land Acquisition to Support New Housing, and Homeownership Assistance Projects. The need for the proposed project is determined by utilizing data from the tribe's 2005 IHBG formula information. The ratio is based on the dollars allocated to a tribe under the IHBG program for Need divided by the sum of the number of AIAN households in the following categories:

—Annual income less than 30 percent of median income;

—Annual income between 30 percent and 50 percent of median income;

—Annual income between 50 percent and 80 percent of median income;

—Overcrowded or without kitchen or plumbing;

—Housing cost burden greater than 50 percent of annual income;

—Housing shortage (Number of low-income AIAN households less total number of NAHASDA and Formula Current Assisted Stock).

This ratio is computed for each tribe and posted in the “Factor 2 Needs Table” that is available at http://www.hud.gov/offices/adm/grants/fundsavail.cfm under the ICDBG program.

(1) (12 points). The dollar amount for the Indian tribe is $354-$675 or the tribe's total FY2005 IHBG amount was $100,000 or less and the Needs Table indicates that the Indian tribe has no AIAN households experiencing income or housing problems.

(2) (8 points). The dollar amount for the Indian tribe is $676-$1,200.

(3) (4 points). The dollar amount for the Indian tribe is $1,201-$1,999.

(4) (0 points). The dollar amount for the Indian tribe is $2,000 or higher, or the Needs Table indicates that the Indian tribe has no AIAN households experiencing income or housing problems.

c. Microenterprise Programs. A microenterprise is a business that has five or fewer employees, one or more of whom owns the enterprise. The owner(s) of the microenterprise must be low-or moderate-income and the majority of the jobs created or retained will be for low-or moderate-income persons. To evaluate need, the nature of the jobs created or retained will be evaluated. The owners of the microenterprises are low- and moderate-income and:

(1) (12 points). All employees are low-or moderate-income.

(2) (8 points). At least 75 percent but less than 100 percent of the employees are low-or moderate-income.

(3) (4 points). At least 50 percent but less than 75 percent of the employees are low-or moderate-income.

(4) (0 points). Less than 50 percent of the employees are low- and moderate-income.

Rating Factor 3: Soundness of Approach (30 Points)

This factor addresses the quality and anticipated effectiveness of your proposed project's outcomes in enhancing community viability and in meeting the needs you have identified in Rating Factor 2 and the commitment to sustain your proposed project. The populations that were described in demographics that documented need should be the same populations that will receive the primary benefit of the proposed project.

1. (10 points). Description of and Rationale for Proposed Project.

a. (10 points). The proposed project is a viable and cost effective approach to address the needs outlined under Rating Factor 2 of your application. The proposed project is described in detail and indicates why you believe the proposed project will be most effective in addressing the identified need. In order for an application to receive full credit under this factor, the application must include clear and sound measures of the proposed outputs and outcomes for how the community's viability will be enhanced, as presented in Rating Factor 5. The application includes a description of the size, type and location of the project and a rationale for project design. If your application is for construction or rehabilitation projects, the application must also include anticipated cost savings due to innovative program design or construction methods. For land acquisition to support new housing projects, you must establish that there is a reasonable ratio between the number of net usable acres to be acquired and the number of low- and moderate-income households to benefit from the project.

b. (5 points). The proposed project is a viable and cost effective approach to address the needs outlined under Rating Factor 2 of the application. The project is described in detail and indicates why you believe the project will be most effective in addressing the identified need. Proposed outcomes that will enhance the community's viability are included. The application includes a description of the size, type and location of the project as well as a rationale for project design. For land acquisition to support new housing projects, the applicant has established that there is a reasonable ratio between the number of net usable acres to be acquired and the number of low- and moderate-income households to benefit from this project. The application (for construction or rehabilitation projects) does not include anticipated cost savings due to innovative program design and/or construction methods.

c. (3 points). The proposed project is a viable and cost effective approach to address the needs outlined under Rating Factor 2 of the application. The project is described and indicates why you believe the project will be most effective in addressing the identified need. Proposed outcomes are included but do not describe how the project will enhance community viability. The application includes a description of the size, type, and location of the project. For land acquisition to support new housing projects, the applicant has established that there is a reasonable ratio between the number of net usable acres to be acquired and the number of low- and moderate-income households to benefit from the project. The application (for construction or rehabilitation activities) does not include anticipated cost savings due to innovative program design and/or construction methods.

d. (0 points). The proposed project is not a viable and cost effective approach to address the needs outlined under Rating Factor 2 of the application. The proposed project is not described in detail with an indication of why the applicant believes the project will be most effective in addressing the identified need. Proposed outcomes describing how the project will enhance community viability are not included. For land acquisition to support new housing projects, the applicant has not established that there is a reasonable ratio between the number of net usable acres to be acquired and the number of low- and moderate-income households to benefit from the project. The application (for construction and rehabilitation activities) does not include anticipated cost savings due to innovative program design and/or construction methods.

2. (5 points). Budget and Cost Estimates.

The quality, thoroughness, and reasonableness of the proposed project budget are documented. Cost estimates must be broken down by line item for each proposed activity, including planning and administration costs, and documented. You must provide a description of the qualifications of the person who prepared the cost estimate.

3. (1 point). HUD Policy Priorities.

Your application addresses the goals for “Improving Our Nation's Communities”, or “Energy Star”, two of HUD's 2006 Policy Priorities, as described in Section V. B. of the General Section. You must describe which one of these two Policy Priorities you select and describe how your activity will meet the applicable goals.

4. (2 points). Intent to Meet Section 3 Requirements.

Your application demonstrates how you will apply the Section 3 requirements of the Housing and Urban Development Act of 1968 and the regulations in 24 CFR part 135 (Economic Opportunities for Low and Very Low Income Persons) to the proposed project. You must demonstrate how you will incorporate Section 3 principles, with goals for expanding opportunities for Section 3 residents and business concerns, to your proposed project. The purpose of Section 3 is to ensure that employment and other economic opportunities generated by federal financial assistance for housing and community development programs, shall, to the extent feasible, be directed toward low and very-low income persons (but not in derogation of compliance with Section 7(b) of the Indian Self-Determination and Education Assistance Act (25 U.S.C. 4503(b))).

5. (12 points). Commitment to Sustain Activities.

Your application demonstrates your commitment to your community's viability by sustaining your proposed activities. The information provided is sufficient to determine that the project will proceed effectively.

The criteria for this sub-factor vary according to the type of project for which you are applying.

a. Public Facilities and Improvement Projects.

(1) (12 points). If a tribe assumes operation and maintenance responsibilities for the public facilities and improvements, provide a written statement that the tribe has adopted the operation and maintenance plan and commits the necessary funds to provide for these responsibilities. In addition, describe how the operation and maintenance plan addresses maintenance, repairs, insurance, security, and replacement reserves and include a cost breakdown for annual expenses. If an entity other than the tribe commits to pay for operation and maintenance for the public facilities, a letter of commitment from the entity is included in the application that identifies the maintenance responsibilities and, if applicable, responsibilities for operations the entity will assume as well as necessary funds to provide for these responsibilities. A description of how the operation and maintenance plan addresses maintenance, repairs, insurance, security, and replacement reserves is not required when an entity other then the tribe assumes operation and maintenance responsibilities. For public facility buildings only, a commitment is included in the application that identifies the source of and commits the necessary operating funds for any recreation, social or other services to be provided. In addition, letters of commitment from service providers are included which address both operating expenses and space needs.

(2) (8 points). If a tribe assumes operation and maintenance responsibilities for the public facilities and improvements, provide a written statement that the tribe has adopted the operation and maintenance plan and commits the necessary funds to provide for these responsibilities. In addition, a description was included that shows that the operation and maintenance plan addresses at least 4 of the following items (maintenance, repairs, insurance, security, and replacement reserves) but a satisfactory cost breakdown for annual expenses was not included. If an entity other than the tribe commits to pay for operation and maintenance for the public facilities and maintenance, a letter of commitment from the entity is included in the application that identifies the maintenance responsibilities and, if applicable, responsibilities for operations the entity will assume but no information committing the necessary funds to provide for these responsibilities is included. A description of how the operation and maintenance plan addresses maintenance, repairs, insurance, security, and replacement reserves is not required when an entity other than the tribe assumes operation and maintenance responsibilities. For community buildings only, a commitment is included in the application that identifies the source of and commits the necessary operating funds for any recreation, social or other services to be provided. In addition, letters of commitment from service providers are included which address both operating expenses and space needs. Information provided is sufficient to determine that the project will proceed effectively.

(3) (4 points). If a tribe assumes operation and maintenance responsibilities for the public facilities and improvements, the application includes a written statement that the tribe has adopted the operation and maintenance plan and commits the necessary funds to provide for these responsibilities, or a description of the operation and maintenance plan is included that shows that the plan addresses at least 3 of the following items (maintenance, repairs, insurance, security, and replacement reserves). If an entity other than the tribe commits to pay for operation and maintenance for the public facilities and maintenance, the maintenance provider is identified and, if applicable, responsibilities for operations the entity will assume, but no letter of commitment is included. For public facility buildings only, no commitment is included in the application that identifies the source of and commits the necessary operating funds for any recreation, social or other services to be provided. However, letters of commitment to provide services are included but they do not address operating expenses and space needs. Information provided is sufficient to determine that the project will proceed effectively

(4) (0 points). None of the above criteria is met.

b. New Housing Construction, Housing Rehabilitation, and Homeownership Assistance Projects.

(1) (12 points). The ongoing maintenance responsibilities are clearly identified for the tribe and/or the participants, as applicable. If the tribe or another entity is assuming maintenance responsibilities, then the applicant must describe the maintenance responsibilities and provide a commitment to that effect.

(2) (8 points). Maintenance responsibilities for the tribe and/or participants are identified and described, but lacking in detail, and the commitment regarding maintenance responsibilities is submitted.

(3) (4 points). Tribal maintenance responsibilities are identified but participant responsibilities are either not addressed or do not exist, or there is no commitment regarding maintenance responsibilities.

(4) (0 points). None of the above criteria is met.

c. Economic Development Projects.

You must include information or documentation which addresses or provides all of the following in the application: a description of the organizational system and capacity of the entity that will operate the business; documents which show that formal provisions exist for separation of government functions from business operating decisions, an operating plan for the project, and the feasibility and market analysis of the proposed business activity and the financial viability of the project.

(1) Appropriate documents to include in the application to address these items include:

(a) Articles of incorporation, by-laws, resumes of key management positions and board members for the entity who will operate the business.

(b) Business operating plan.

(c) Market study no more than two years old and which has been conducted by an independent entity.

(d) Feasibility study no more than two years old which indicates how the proposed business will capture a fair share of the market, and which has been conducted by an independent entity.

(e) Detailed cost summary for the development of the project.

(f) For the expansion of an existing business, copies of financial statements for the most recent three years (or the life of the business, if less than three years).

(2) The submitted documentation will be evaluated to determine the project's financial chance for success. The following questions must be addressed to meet this requirement:

(a) Does the business plan seem thorough and does the organization structure have quality control and responsibilities built in?

(b) Does the business plan or market analysis indicate that a substantial market share is likely within five years?

(c) Do the costs appear to be reasonable given projected income and information about inputs?

(d) Does the business plan or cash flow analysis indicate that cash flow will be positive within the first year?

(e) Is the financial statement clean with no indications of concern by the auditor?

(12 points). All above documents applicable to the proposed project are included in your application and provide evidence that the project's chance for financial success is excellent.

(6 points). All or most of the above documents applicable to the proposed project are included and provide evidence that the project's chance for financial success is reasonable.

(0 points). Neither of the above criteria is met.

d. Microenterprise Programs.

(1) You must include the following information or documentation in the application that addresses or provides a description of how your microenterprise program will operate. Appropriate information to include in the application to address program operations includes:

(a) Program description. A description of your microenterprise program including the types of assistance offered to microenterprise applicants and the types of entities eligible to apply for such assistance.

(b) Processes for selecting applicants. A description of your processes for analyzing microenterprise applicants' business plans, market studies and financial feasibility. For credit programs, you must describe your process for determining the loan terms (i.e., interest rate, maximum loan amount, duration, loan servicing provisions) to be offered to individual microenterprise applicants.

(2) (12 points). All of the above information or documentation applicable to the proposed project are thoroughly addressed in the application and the chances for success are excellent.

(3) (6 points). All or most of the above information or documentation applicable to the proposed project are addressed in the application and the chances for success are reasonable.

(4) (0 points). Neither of the above criteria is met.

e. Land Acquisition Projects to Support New Housing.

Submissions must include the results of a preliminary investigation conducted by a qualified independent entity demonstrating that the proposed site has suitable soil conditions for housing and related infrastructure, potable drinking water is accessible for a reasonable cost, access to utilities, vehicular access, drainage, nearby social and community services, and no known environmental problems.

(1) (12 points). The submissions include all of the above-mentioned items and all necessary infrastructure is in place.

(2) (6 points). The submissions demonstrate that the proposed site(s) is/are suitable for housing but that not all necessary infrastructure is in place. A detailed description of resources to be used and a detailed implementation schedule for development of all necessary infrastructure demonstrates that such infrastructure, as needed for proposed housing development, will be developed in time for such development, but no later than two years after site purchase.

(3) (0 points). Neither of the above criteria is met.

Rating Factor 4: Leveraging Resources (8 Points)

HUD believes that ICDBG funds can be used more effectively to benefit a larger number of Native American and Alaska Native persons and communities if projects are developed that use tribal resources and resources from other entities in conjunction with ICDBG funds. To encourage this, we will award points based on the percentage of non-ICDBG resources provided relative to project costs as follows:

Non-ICDBG resources to project costs | Points
Less than 4 percent | 0
At least 4 percent but less than 11 percent | 2
At least 11 percent but less than 18 percent | 4
At least 18 percent but less than 25 percent | 6
25 percent or more | 8

Contributions which could be considered as leveraged resources for point award include, but are not limited to: Tribal trust funds; loans from individuals or organizations; private foundations; businesses; state or federal loans or guarantees; other grants including IHBG (also known as NAHBG) funds; donated goods and services needed for the project; land needed for the project; and, direct administrative costs. With the exception of land acquisition, funds that have been expended on the project prior to application submission will not be counted as leverage. Applicants are reminded that environmental review requirements under 24 CFR part 58 apply to the commitment or use of both ICDBG and non-ICDBG funds in a leveraged project. See Section VI.B. of this NOFA for information related to this requirement.

Contributions that will not be considered include, but are not limited to: Indirect administrative costs as identified in OMB Circular A-87, attachment A, section F; contributions of resources to pay for anticipated operations and maintenance costs of the proposed project; and, in the cases of expansions to existing facilities, the value of the existing facility.

To be considered for point award, letters of firm or projected commitments, memoranda of understanding, or agreements to participate from any entity, including the tribe, which will be providing a contribution to the project, must accompany the application. The documentation must be received by HUD in the paper application package (if you have received a waiver of the electronic submission requirement) or for electronically submitted applications, the documentation must be scanned and submitted as part of the application documents or sent by facsimile transmittal (see the General Section). All documents submitted must be received by the application deadline dates and meet the timely receipt requirements to receive funding consideration.

To demonstrate the commitment of tribal resources, the application must contain a written statement that identifies and commits the tribal resources to the project, subject to approval of the ICDBG assistance. In the case of IHBG funds, whether the tribe or a TDHE administers them, an approved IHP must identify and commit the IHBG resources to the project. Do not submit the IHP with your application. ONAP will rely on the most recently approved IHP on file. If the tribe/TDHE intends to include the leveraged commitment in a future IHP, the application must contain a written statement that identifies and commits the IHBG resources to the project subject to the same requirements as above.

To demonstrate the commitment of a public agency, foundation, or other private party resources, a letter of commitment, memorandum of understanding, and/or agreement to participate, including any conditions to which the contribution may be subject, must be submitted with the application. All letters of commitment must include the donor organization's name, the specific resource proposed, the dollar amount of the financial or in-kind resource and method for valuation, and the purpose of that resource within the proposed project. An official of the organization legally authorized to make commitments on behalf of the organization must sign the commitment.

HUD recognizes that in some cases, firm commitments of non-tribal resources may not be obtainable by your tribe by the application submission deadline. For such projected resources, your application must include a statement from the contributing entity that describes why the firm commitment cannot be made at the current time and affirms that your tribe and the proposed project meets eligibility criteria for receiving the resource. In addition, a date by which the funding decisions will be made must be included. This date cannot be more than six months from the anticipated date of grant approval by HUD. Should HUD not receive notification of the firm commitment within 6 months of the date of grant approval, HUD will recapture the grant funds approved and will use them in accordance with the requirements of 24 CFR 1003.102.

In addition to the above requirements, for all contributions of goods, services and land, you must demonstrate that the donated items are necessary to the actual development of the project and include comparable costs that support the donation. Land valuation must be established using one of the following methods and the documentation must be contained in the application: A site specific appraisal no more than two years old; an appraisal of a nearby comparable site also no more than two years old; a reasonable extrapolation of land value based on current area realtor value guides; or, a reasonable extrapolation of land value based on recent sales of similar properties in the same area.

Rating Factor 5: Comprehensiveness and Coordination (6 Points)

This factor addresses the extent to which your project planning and proposed implementation reflect a coordinated, community-based process of identifying and addressing needs including assisting beneficiaries and the program to achieve self-sufficiency/sustainability. The Logic Model, HUD Form 96010, is not required for Rating Factor 5 under the ICDBG program. However, applicants are encouraged to use this form to address program evaluation requirements under Rating Factor 1.(1).(b) of this NOFA, and measurable outputs and outcomes in Section (2) of this factor.

1. (Up to 2 points). The application addresses the extent to which you have coordinated your proposed ICDBG activities with other organizations and/or tribal departments that are not providing direct financial support to your proposed work activities, but with which you share common goals and objectives and are working toward meeting these objectives in a holistic and comprehensive manner. For example, your project is consistent with and, to the extent possible, identified in the IHP (One-Year Financial Resources Narrative; Table 2, Financial Resources, Part I., Line 1E; and, Table 2, Financial Resources, Part II) submitted by you or on your behalf for the IHBG (also known as NAHBG) program. If the IHP for the IHBG (also known as NAHBG) program year that coincides with the implementation of the ICDBG proposed project has not been submitted, you must provide a written statement that when submitted, the IHP will specifically reference the proposed project.

2. (Up to 4 points). Your proposed project will have measurable outputs and outcomes that will enhance community viability.

Outputs must include, where applicable:

• Number of houses rehabilitated;

• Number of jobs created;

• Square feet for any public facility;

• Number of education or job training opportunities provided;

• Number of homeownership units constructed or financed;

• Number of businesses assisted (including number of minority/Native American);

• Number of families proposed to be assisted with a drug-elimination program, or with a program to reduce or eliminate health related hazards.

Outcomes must include, where appropriate:

• Reduction in the number of families living in substandard housing;

• Increased income resulting from employment generated by project;

• Increased quality of life due to services provided by the public facility;

• Increased economic self-sufficiency of recipients of program beneficiaries;

• Increase in homeownership rates;

• Reduction of drug-related crime or health related hazards.

This year HUD is providing a Master Logic Model which is a Microsoft Excel ™ file which features dropdown listings from which applicants may elect the items in each column that reflect their activity outputs and outcomes and copy. The Master Logic Model listing also identifies the unit of measure that HUD is interested in collecting for the output and outcome selected. In making the selections, applicants are to identify the appropriate estimated number of units of measure to be accomplished and identified for each output and outcome. The space next to the output and outcome is intended to capture the anticipated units of measure. Multiple outputs and outcomes may be selected per project. For FY2006, HUD is considering a new concept for the Logic Model. The new concept is a Return on Investment statement. HUD will be publishing a separate notice on the ROI concept. The Master Logic Model pick is incorporated into the form available as part of the ICDBG Instructions download from Grants.gov. Training on use of the dropdown form will be provided via Webcast. The schedule for Webcast training can be found at http://www.hud.gov/offices/adm/grants/fundsavail.cfm.

B. Reviews and Selection Process

1. Application Selection Process

You must meet all of the applicable threshold requirements listed in Section III.C. Your application must meet all screening for acceptance requirements and all identified applicant and project specific thresholds. HUD will review each application and assign points in accordance with the selection factors described in this section.

2. Threshold Compliance

The Area ONAP will review each application that passes the screening process to ensure that each applicant and each proposed project meets the applicant threshold requirements set forth in 24 CFR 1003.301(a) and the project specific threshold requirements set forth in 24 CFR 1003.302 and III.C. of this NOFA.

3. Past Performance

An applicant's past performance is evaluated under Rating Factor 1. Applicants are encouraged to address all performance-related criteria prior to submission of an application. An applicant must score a minimum of 20 points under Rating Factor 1 in order to meet the minimum point requirements outlined below in this NOFA.

4. Rating

The Area ONAP will review and rate each project that meets the acceptance criteria and threshold requirements. After the applications are rated, a summary review of all applications will be conducted to ensure consistency in the application rating. The summary review will be performed by either the Grants Management Director (or designee) or by a panel composed of up to three staff members.

The total points for all rating factors are 100. A maximum of 100 points may be awarded under Rating Factors 1 through 5.

5. Minimum Points

To be considered for funding, your application must receive a minimum of 20 points under Rating Factor 1 and an application score of 70 points.

6. Ranking

All projects will be ranked against each other according to the point totals they receive, regardless of the type of project or component under which the points were awarded. Projects will be selected for funding based on the final ranking to the extent that funds are available. The Area ONAP will determine individual grant amounts in a manner consistent with the considerations set forth in 24 CFR 1003.100(b)(2). Specifically, the Area ONAP may approve a grant amount less than the amount requested. In doing so, the Area ONAP may take into account the size of the applicant, the level of demand, the scale of the activity proposed relative to need and operational capacity, the number of persons to be served, the amount of funds required to achieve project objectives, and the reasonableness of the project costs. If the Area ONAP determines that there are not enough funds available to fund a project as proposed by the applicant, it may decline to fund that project and may fund the next highest-ranking project or projects for which adequate funds are available. The Area ONAP shall select, in rank order, additional projects for funding if one of the higher-ranking projects is not funded or if additional funds become available.

7. Tiebreakers

When rating results in a tie among projects and insufficient resources remain to fund all tied projects, the Area ONAP will approve projects that can be fully funded over those that cannot be fully funded. When that does not resolve the tie, the Area ONAP will use the following factors in the order listed to resolve the tie:

(a) The applicant that has not received an ICDBG over the longest period of time.

(b) The applicant with the fewest active ICDBGs.

(c) The project that would benefit the highest percentage of low- and moderate-income persons.

8. Technical Deficiencies and Pre-Award Requirements

a. Technical Deficiencies: If there are technical deficiencies in successful applications, you must satisfactorily address these deficiencies before HUD can make a grant award. See the General Section at V.B.4. for information on curing deficiencies.

b. Pre-award Requirements. Successful applicants may be required to provide supporting documentation concerning the management, maintenance, operation, or financing of proposed projects before a grant agreement can be executed. Such documentation may include additional specifications on the scope, magnitude, timing or method of implementing the project; or information to verify the commitment of other resources required to complete, operate, or maintain the proposed project. Applicants will be provided thirty (30) calendar days to respond to these requirements. No extensions will be provided. If you do not respond within the prescribed time period or you make an insufficient response, the Area ONAP will determine that you have not met the requirements and will withdraw the grant offer. You may not substitute new projects for those originally proposed in your application and any new information will not affect your project's rating and ranking. The Area ONAP will award, in accordance with the provisions of this NOFA, grant amounts that had been allocated for applicants unable to meet pre-award requirements.

9. Error and Appeals

Judgments made within the provisions of this NOFA and the program regulations (24 CFR part 1003) are not subject to claims of error. You may bring arithmetic errors in the rating and ranking of applications to the attention of the Area ONAPs within 30 days of being informed of your score. Please see Section VI.A. of the General Section for further information regarding errors.

10. Performance and Compliance Actions of Funding Recipients

HUD will measure and address the performance of and order compliance actions by funding recipients in accordance with the applicable standards and sanctions of their respective programs.

VI. Award Administration Information

A. Award Notices

Awards are expected to be announced by October 31, 2006. As soon as rating and ranking are completed, the applicant has complied with any pre-award requirements, and Congressional Release has been obtained, a grant award letter, a grant agreement, and other forms and certifications will be mailed to the recipient for signature and return to the Area ONAP. The grant agreement, which is signed by HUD and the recipient, establishes the conditions by which both the Area ONAP and the recipient must abide during the life of the grant. All grants are conditioned upon the completion of all environmental obligations and approval of release of funds by the Area ONAP in accordance with the requirements of 24 CFR part 58. HUD may impose other grant conditions if additional actions or approvals are required before the use of funds.

B. Administrative and National Policy Requirements

1. Statutory and Regulatory Requirements

a. Environmental Requirements. As required by 24 CFR 1003.605, ICDBG grantees must perform environmental reviews of ICDBG activities in accordance with 24 CFR part 58 (as amended 9/29/03). Grantees and other participants in the development process may not commit or expend any ICDBG or nonfederal funds on project activities (other than those listed in 24 CFR 58.22(f), 58.34 or 58.35(b)) until HUD has approved a Request for Release of Funds and environmental certification submitted by the grantee. The expenditure or commitment of ICDBG or nonfederal funds for such activities prior to HUD approval may result in the denial of assistance for the project or activities under consideration.

b. Indian Preference. HUD has determined that the ICDBG program is subject to Section 7(b) of the Indian Self-Determination and Education Assistance Act (25 U.S.C. 450e(b)). The provisions and requirements for implementing this section are in 24 CFR 1003.510.

c. Anti-discrimination Provisions. Under the authority of Section 107(e)(2) of the CDBG statute, HUD waived the requirement that recipients comply with the anti-discrimination provisions in Section 109 of the CDBG statute with respect to race, color, and national origin. You must comply with the other prohibitions against discrimination in Section 109 (HUD's regulations for Section 109 are in 24 CFR part 6) and with the Indian Civil Rights Act.

d. Conflict of Interest. In addition to the conflict of interest requirements with respect to procurement transactions found in 24 CFR 85.36 and 84.42, as applicable, the provisions of 24 CFR 1003.606 apply to such activities as the provision of assistance by the recipient or sub-recipients to businesses, individuals, and other private entities under eligible activities that authorize such assistance.

e. Economic Opportunities for Low- and Very Low-Income Persons (Section 3). Section 3 requirements apply to the ICDBG program, but as stated in 24 CFR 135.3(c), the procedures and requirements of 24 CFR part 135 apply to the maximum extent consistent with, but not in derogation of, compliance with Indian Preference.

2. OMB Circulars and Government-Wide Regulations Applicable to Financial Assistance Programs

The policies, guidance and requirements of OMB Circular A-87, Cost Principles Applicable to Grants, Contracts and other Agreements with State and Local Governments; and OMB Circular A-122, Cost Principles for Nonprofit Organizations; and OMB Circular A-133, Audits of State and Local Governments, and Nonprofit Organizations; and the regulations at 24 CFR part 85, Administrative Requirements for Grants and Cooperative Agreements to State, Local and Federally Recognized Indian Tribal Governments apply to the award, acceptance, and use of assistance under the ICDBG program and to the remedies for noncompliance, except when inconsistent with the provisions of the Consolidated Appropriations Act, 2006 (Pub L. 109-115; approved November 30, 2005) or the ICDBG program regulations at 24 CFR part 1003. Copies of the OMB Circulars may be obtained from EOP publications. Room 22000, New Executive Office Building, Washington, DC 20503, telephone (202) 395-3080 (this is not a toll-free number) or (800) 877-8339 (TTY Federal Information Relay Service). Information may also be obtained from the OMB Web site at http://www.whitehouse.gov/omb/circulars/index.html.

C. Reporting

1. Post Award Reporting Requirements

a. Quarterly Financial Reports. Grant recipients must submit quarterly to the Area ONAP a SF-272, Federal Cash Transaction Report. The report accounts for funds received and disbursed by the recipient.

b. Annual Status and Evaluation Report. Recipients are required to submit this report in narrative form annually. The report is due 45 days after the end of the Federal fiscal year and at the time of grant close-out. The report must include:

(1) The narrative report must address the progress made in completing approved activities and include a list of work remaining, along with a revised implementation schedule if necessary. This should include progress on any outputs or outcomes specified in Rating Factor 5 and incorporated into the final award document (applicants can use the logic model to address all or some of the narrative requirements). Further information regarding the Return on Investment(s) will be issued in a subsequent notice by HUD (see section V.A.2., Rating Factor 5 of this NOFA for further information);

(2) A breakdown of funds spent on each major project activity or category; and

(3) If the project has been completed, an evaluation of the effectiveness of the project in meeting the community development needs of the grantee, as well as the final outputs and outcomes.

c. Minority Business Enterprise Report. Recipients must submit this report on contract and subcontract activity during the first half of the fiscal year by April 10 and, by October 10 for the second half of the fiscal year.

d. A close-out report must be submitted by the recipient within 90 days of completion of grant activities. The report consists of the final Financial Status Report (forms SF 269 or 269A), the final Status and Evaluation Report including outposts and outcomes agreed upon in the final award document relating to Rating Factor 5 and the Close-Out Agreement. Further information regarding the Return on Investment(s) will be issued in a subsequent notice by HUD (see section V.A.2., Rating Factor 5 of this NOFA for further information).

More information regarding these requirements may be found at 24 CFR 1003.506 and 1003.508.

VII. Agency Contact(s)

A. General Questions

You should direct general program questions to the Area ONAP serving your area or to Barbara Gallegos, at 602-379-7215. Persons with speech or hearing impairments may call HUD's TTY number (202) 708-0770, or 1-800-877-8339 (the Federal Information Relay Service TTY). Other than the “800” numbers, these numbers are not toll-free. You should direct questions concerning downloading the electronic application, registering with Grants.gov, or other questions regarding the electronic application to the Grants.gov support desk at 800-518-GRANTS. You may also send an email to Support@Grants.gov.

B. Technical Assistance

Before the application submission deadline, HUD staff will be available to provide you with general guidance and technical assistance about the requirements in the General Section and this NOFA. However, HUD staff is not permitted to assist in preparing your application. Following selection of applicants, but before awards are made, HUD staff is available to assist in clarifying or confirming information that is a prerequisite to the offer of an award.

VIII. Other Information

A. NOFA Training

Training for potential applicants on the requirements of the General Section, this NOFA, the Logic Model, and Grants.gov registration, will be provided by HUD via broadcast and webcast. Information on the training can be found in the General Section. The training schedule can be found on HUD's Web site at http://www.hud.gov/offices/adm/grants/fundsavail.cfm.

B. Paperwork Reduction Act Statement

The information collection requirements in this NOFA have been approved by the Office of Management and Budget (OMB) under the Paperwork Reduction Act of 1995 (44 U.S.C. 3501-3520) and assigned OMB control number 2577-0191. In accordance with the Paperwork Reduction Act, HUD may not conduct or sponsor, and a person is not required to respond to, a collection of information unless the collection displays a valid OMB control number. Public reporting burden for the collection of information is estimated to average 43 hours per annum for the application and grant administration. This includes the time for collecting, reviewing, and reporting the data. The information will be used for grantee selection and monitoring the administration of funds. Response to this request for information is required in order to receive the benefits to be derived.

BILLING CODE 4210-01-P

Historically Black Colleges and Universities (HBCU) Program

Overview Information

A. Federal Agency Name: Department of Housing and Urban Development, Office of Policy Development and Research, Office of University Partnerships.

B. Funding Opportunity Title: Historically Black Colleges and Universities (HBCU) Program.

C. Announcement Type: Initial announcement.

D. Funding Opportunity Numbers: The Federal Register Number is FR-5030-N-28. The OMB Approval Number is 2528-0235.

E. Catalog of Federal Domestic Assistance (CFDA) Number: The CFDA Number for is program is 14.520.

F. Dates: The application deadline date is May 19, 2006. Please be sure to read the General Section for electronic application submission and receipt requirements.

G. Additional Overview Content Information:

1. Purpose of the Program: To assist Historically Black Colleges and Universities (HBCU) to expand their role and effectiveness in addressing community development needs in their localities, including neighborhood revitalization, housing and economic development, principally for persons of low- and moderate-income consistent with the purposes of Title I of the Housing and Community Development Act of 1974, as amended.

2. Award Information: In Fiscal Year (FY) 2006, approximately $8.9 million has been made available by the Department of Housing and Urban Development Appropriations Act, 2006 (Pub. L. 109-115; approved Nov. 30, 2005) of which up to $1,000,000 has been allocated to provide technical assistance. In addition, $2.5 million in previously unobligated funds are available for this program. HUD will award two types of grants under this program: Category I and Category II.

a. Category I Grants will be awarded to provide critical resources and assistance to institutions that sustained in excess of $50 million in damage and destruction from hurricanes Katrina or Rita in FY 2005. No assistance may be provided for any expenses compensated through insurance or otherwise provided or paid by any other program, persons, and/or entity. Applicants can request up to $2,000,000 for a three-year (36 months) grant performance period.

b. Category II Grants will be awarded to institutions to expand their role and effectiveness in addressing community development needs in their localities, or a designated disaster area including neighborhood revitalization, housing and economic development. Applicants can request up to $600,000 for a three-year (36 months) grant performance period.

Approximately $6 million will be made available to fund Category I applicants. In addition, approximately $4.4 million will be made available to fund Category II applicants. If funding designated for Category I Applicants remains after all eligible applicants are awarded, the remaining funds will be made available to fund eligible Category II Applicants.

Only one application can be submitted per institution. In addition, an applicant can only apply under one category. If multiple applications are submitted under one category, all will be disqualified. If an applicant submits applications under both funding categories, all applications will be disqualified.

3. Eligible Applicants: Historically Black Colleges and Universities that meet the definition of Historically Black Colleges and Universities as determined by the Department of Education in 34 CFR 608.2 in accordance with that Department's responsibilities under Executive Order 13256, dated February 12, 2002. Applicants must be institutions of higher education accredited by a national or regional accrediting agency recognized by the U.S. Department of Education.

Full Text of Announcement

I. Funding Opportunity Description

The purpose of the Historically Black Colleges and Universities (HBCU) Program is to expand their role and effectiveness in addressing community development needs in their localities, including neighborhood revitalization, housing, and economic development, principally for persons of low- and moderate-income, consistent with the purpose of the Title I of Housing and Community Development Act of 1974, as amended.

For the purposes of Category II Applicants applying under this program NOFA, the term “locality” includes any city, county, township, parish, village, or other general political subdivision of a state, or the U.S. Virgin Islands where the institution is located and the term “target area” is the area within the locality in which the institution will implement its proposed HBCU grant. If an institution wants to provide services/activities in a location other than the target area of that institution an applicant must provide justification for why they want to do so.

A. Authority

HUD's authority for making funding available under this NOFA is the Department of Housing and Urban Development Appropriations Act, 2006 (Pub. L. 109-115; approved Nov. 30, 2005). This program is being implemented through this NOFA and the policies governing its operation are contained herein.

B. Modifications

Listed below are major modifications from the Fiscal Year (FY) 2005 program-funding announcement:

1. The 15 percent cap on the total grant amount that can be used on public service activities that benefit low- and moderate-income persons can now be waived. Institutions seeking to devote more than 15 percent of the grant funds to public service activities must include a written request in their application addressed to Darlene F. Williams, Assistant Secretary for Policy Development and Research. The written request must include the following information: (1) The basis for the request; (2) a description of the proposed public service activities; (3) the dollar amount dedicated to the proposed public service activities; and (4) a statement describing how the proposed activities meet the Community Development Block Grant eligibility requirements and at least one national objective. This letter must be included in the applicant's application.

2. Commitment letters, memoranda of understanding and/or agreements are not required at the time of application submission but must be on file. Applicants selected for award will be required to submit the signed commitment letters, memoranda of understanding and/or agreements outlined in the application, within twenty (20) calendar days after initial contact from the Office of University Partnerships (OUP). OUP will provide specific instructions on how these documents must be submitted at that time. HUD will only request and consider the resources/organizations outlined in the application. If OUP does not receive those documents in the required format and allotted timeframe, an applicant will not receive points under this factor and the application will be rated and ranked to address this point change.

3. Current HBCU grantees that have two or more active HBCU grants are no longer required to have drawn down 50 percent or more prior to this application deadline date to be eligible to apply for funding under this NOFA.

4. All applicants submitting electronic applications must attach their narrative responses to Rating Factors 1-5 as one attachment. PLEASE DO NOT ATTACH YOUR RESPONSE TO EACH FACTOR SEPARATELY.

II. Award Information

In Fiscal Year (FY) 2006, approximately $8.9 million is made available for this program, of which up to $1,000,000 has been allocated to provide technical assistance. In addition $2.4 million in previously unobligated funds. HUD will award two types of grants under this program: Category I and Category II.

A. Category I Grants will be awarded to provide critical resources and assistance to institutions that sustained in excess of $50 million in damage and destruction from hurricanes Katrina or Rita in FY2005. No assistance may by provided for any expenses compensated through insurance or otherwise provided or paid by any other program, persons, and/or entity. Applicants can request up to $2,000,000 for a three-year (36 months) grant performance period.

B. Category II Grants will be awarded to expand institutions to their role and effectiveness in addressing community development needs in their localities, or a designated disaster area including neighborhood revitalization, housing and economic development. Applicants can request up to $600,000 for a three-year (36 months) grant performance period.

Approximately $6 million will be made available to fund Category I applicants. In addition, approximately $4.4 million will be made available to fund Category II applicants. If funding designated for Category I Applicants remains after all eligible applicants are awarded, the remaining funds will be made available to fund eligible Category II Applicants.

Only one application can be submitted per institution. In addition, an applicant can only apply under one category. If multiple applications are submitted under one category, all will be disqualified. If an applicant submits applications under both funding categories, all applications will be disqualified.

III. Eligibility Information

A. Eligible Applicants

Historically Black Colleges and Universities as determined by the U.S. Department of Education in 34 CFR 608.2 in accordance with that Department's responsibilities under Executive Order 13256, dated February 12, 2002. All applicants must be institutions of higher education accredited by a national or regional accrediting agency recognized by the U.S. Department of Education.

B. Cost Sharing or Matching

None Required.

C. Other

1. Eligible Activities

Eligible activities are listed in 24 CFR part 570, subpart C, particularly §§ 570.201 through 570.206. Information regarding these activities can be found at: www.hudclips.org (click on the Code of Federal Regulations for detailed information). a. Examples of eligible activities include, but are not limited to:

(1) Acquisition of real property;

(2) Clearance and demolition (Applicants applying for Category I funding may undertake eligible activities such as clearance and demolition or rehabilitation on their own campuses/facilities);

(3) Rehabilitation of residential structures including lead-based paint hazard evaluation and reduction and making accessibility and visitability modifications in accordance with the requirements of Section 504 of the Rehabilitation Act of 1973;

(4) Public facilities and improvements, such as water and sewer facilities and streets compliance with accessibility requirements including Section 504 of the Rehabilitation Act of 1973, the Fair Housing Act, and the American with Disabilities Act of 1990;

(5) Special economic development activities described at 24 CFR 570.203 and assistance to facilitate economic development by providing technical or financial assistance for the establishment, stabilization, and expansion of microenterprises, including minority enterprises;

(6) Assistance to community-based development organizations (CBDO) to carry out a CDBG neighborhood revitalization, community economic development, or energy conservation projects, in accordance with 24 CFR 570.204. This could include activities in support of a HUD-approved local entitlement grantee, CDBG Neighborhood Revitalization Strategy (NRS) or HUD-approved State CDBG Community Revitalization Strategy (CRS);

(7) Public service activities such as those general support activities that can help to stabilize a neighborhood and contribute to sustainable redevelopment of the area, including but not limited to such activities as those concerned with employment, crime prevention, child care, health care services, drug abuse, education, fair housing counseling, energy conservation, homebuyer down payment assistance, establishment and maintenance of Neighborhood Network centers in federally assisted or insured housing, job training and placement, and recreational needs;

(8) Payments of reasonable grant administrative costs related to planning and execution of the project (e.g., preparation/submission of HUD reports). Detailed explanations of these costs are provided in the OMB circular (A-21 Cost Principals for Educational Institutions) that can be accessed at the White House Web site, www.whitehouse.gov/omb/circulars/index.html; and

(9) Fair housing services designed to further the civil rights objectives of the Fair Housing Act (42 U.S.C. 3601-20) by making all persons, without regard to race, color, religion, sex, national origin, familial status and/or disability aware of the range of housing opportunities available to them.

b. Eligible activities funded under this program meet both the Community Development Block Grant (CDBG) Program eligibility requirements and at least one of the national objectives.

c. The three national objectives of the Community Development Block Grant program are:

(1) Benefit to low-or moderate-income persons;

(2) Aid in the prevention or elimination of slums or blight; and

(3) Meet other community development needs having a particular urgency because existing conditions pose a serious and immediate threat to the health and welfare of the community, and other financial resources are not available to meet such needs.

Criteria for determining whether an activity addresses one or more national objective are provided at 24 CFR 570.208.

d. The CDBG publication entitled “Community Development Block Grant Program Guide to National Objectives and Eligible Activities for Entitlement Communities” describes the CDBG regulations, and a copy can be obtained from HUD's NOFA Information Center at 800-HUD-8929 or 800-HUD-2209 for the hearing-impaired.

2. Audit Requirements

See Section III.C. of the General Section.

3. Threshold Requirements Applicable to All Applicants

All applicants must comply with the threshold requirements as defined in the General Section and the requirements listed below. Applications that do not meet these requirements will be considered ineligible for funding and will be disqualified:

a. The applicant must meet the eligibility requirements as defined in Section III.A.

b. The maximum amount of funding an applicant can request under Category I Grants is $2,000,000 for a three-year (36 months) grant performance period. The maximum amount of funding an applicant can request for funding under Category II Grants is $600,000 for a three-year (36 months) grant performance period.

c. Only one application can be submitted per institution. In addition, an applicant can only apply under one category. If multiple applications are submitted under one category, all will be disqualified. If an applicant submits applications under both funding categories, all applications will be disqualified.

d. Applicants must receive a minimum score of 75 points to be considered for funding.

e. An applicant must have a DUNS number to receive HUD grant funds. (See the General Section).

f. Electronic applications must be received and validated by grants.gov no later than 11:59:59 p.m. eastern time on the application deadline date of May 19, 2006.

4. Program Requirements

In addition to the program requirements listed in Section III.C of the General Section, applicants must meet the following program requirements:

a. All funds awarded are for a three-year (36 months) grant performance period.

b. Applicants must ensure that not less than 51 percent of the aggregated expenditures of the grant benefit low- and moderate-income persons under the criteria specified in 24 CFR 570.208(a) or 570.208(d)(5) or (6).

c. Site Control. Where grant funds will be used for acquisition, rehabilitation, or new construction an applicant must demonstrate site control. Funds may be recaptured or deobligated from applicants that cannot demonstrate control of a suitable site within one year after the initial notification of award.

d. Environmental Requirements. Selection for award does not constitute approval of any proposed sites. Following selection for award, HUD will perform an environmental review of properties proposed for assistance in accordance with 24 CFR part 50. The results of the environmental review may require that proposed activities be modified or proposed sites be rejected. Applicants are particularly cautioned not to undertake or commit funds for acquisition or development of proposed properties prior to HUD approval of specific properties or areas. An application constitutes an assurance that the institution will assist HUD to comply with part 50; Will supply HUD with all available and relevant information to perform an environmental review for each proposed property; will carry out mitigating measures required by HUD or select alternate property; and will not acquire, rehabilitate, convert, demolish, lease, repair, or construct property, and not commit or expend HUD or local funds for these program activities with respect to any eligible property until HUD's written approval of the property is received. In supplying HUD with environmental information, applicants should use the same guidance as provided in the HUD Notice CPD-05-07 entitled, “Field Environmental Review Processing for Rural Housing and Economic Development (RHED) Grants” issued August 30, 2005.

Further information and assistance on HUD's environmental requirements is available at: http://www.hud.gov/utilities/intercept.cfm?/offices/cpd/lawsregs/notices/2005/05-07.pdf.

e. Labor Standards. Institutions and their sub-grantees, contractors and subcontractors must comply with the labor standards (Davis-Bacon) requirements referenced in 24 CFR 570.603.

f. Economic Opportunities for Low-and Very-Low Income Persons (Section 3). The provisions of Section 3 of the Housing and Urban Development Act of 1968 (12 U.S.C. 1701u) apply to this NOFA and requires that, to the greatest extent feasible, opportunities for training and employment be given to lower-income residents of the project and contracts for work in connection with the project be awarded in substantial part to persons residing in the area of the project. Regulations are located at 24 CFR part 135.

IV. Application and Submission Information

A. Addresses to Request Application Package

Applicants may download the instructions to the application found on the Grants.gov Web site at http://www.grants.gov/Apply. If you have difficulty accessing the information you may call the Grants.gov Support Desk toll free at 800-518-GRANTS or e-mail your questions to Support@Grants.gov. See the General Section for information regarding the registration process or ask for registration information from the Grants.gov Support Desk.

B. Content and Form of Application Submission

1. Forms

The following forms are required for submission. Copies of these forms are available on line at http://www.hud.gov/offices/adm/grants/nofa06/snofaforms.cfm.

a. Application for Federal Assistance (SF-424);

b. Survey on Ensuring Equal Opportunity for Applicants (SF-424 Supplement);

c. Grant Application Detailed Budget (HUD-424-CB);

d. Disclosure of Lobbying Activities (SF-LLL), if applicable;

e. America's Affordable Communities Initiative (HUD-27300), if applicable;

f. Applicant/Recipient Disclosure/Update Report (HUD-2880);

g. Program Logic Model (HUD-96010);

h. Budget-By-Activity (HUD-40076);

i. Acknowledgement of Applicant Receipt (HUD-2993). Complete this form if you have received a waiver to the electronic application submission requirement. Applicants are not required to include this form;

j. You Are Our Client Grant Applicant Survey (HUD-2994-A). Applicants are not required to complete this form; and

k. Facsimile Transmittal Cover Page (HUD-96011). This form must be used as the cover page to transmit third party documents and other information. Applicants are advised to download the application package, complete the SF-424 first and it will pre-populate the Transmittal Cover page. The Transmittal Cover page will contain a unique identifier embedded in the page that will help HUD associate your faxed materials to your application. Please do not use your own fax sheet. HUD will not read any faxes that are sent without the HUD-96011 fax transmittal cover page.

2. Certifications and Assurances

Please read the General Section for detailed information on all Certifications and Assurances. All applications submitted through Grants.gov constitute an acknowledgement and agreement to all required certifications and assurances. Please include in your application each item listed below. Applicants submitting paper copy applications should submit the application in the following order:

a. SF-424, Application for Federal Assistance. Please remember the following:

(1) The full grant amount requested from HUD (entire three-years) should be entered, not the amount for just one year;

(2) Include the name, title, address, telephone number, facsimile number, and e-mail address of the designated contact. This is the person who will receive all correspondence, therefore, please ensure the accuracy of the information;

(3) The Employer Identification/Tax ID number;

(4) The DUNS Number;

(5) The Catalog of Federal Domestic Assistance Number for this program is 14.520;

(6) The project's proposed start date and completion date. For the purpose of this application, the program start date should be December 1, 2006; and

(7) The signature of the Authorized Organization Representative (AOR) who by virtue of submitting an application via Grants.gov has been authenticated by the credential provider to submit applications on behalf of the Institution and approved by the eBusiness Point of Contact to submit an application via Grants.gov. The AOR must be able to make a legally binding agreement with HUD. For details on the Grants.gov registration process see HUD's Notice on Early Registration published in the Federal Register on December 9, 2005.

b. Application Checklist. Applicants should use the checklist to ensure that they have all the required components of their application. Applicants that receive a waiver of the electronic application submission requirement must include a copy of the checklist in their application submission. Applicants submitting an electronic application should not submit the checklist. The checklist can be located in Appendix A.

c. Abstract. Applicants must include no more than a two-page summary of the proposed project. Please include the following:

(1) A clear description of the proposed project activities, where they will take place (be located), the target population that will be assisted, and the impact this project is expected to have on the community and institution;

(2) A statement that the institution is an eligible institution because it is a fully accredited institution, the name of the accrediting agency and an assurance that the accrediting agency is recognized by the U.S. Department of Education;

(3) The designated contact person, including phone number, facsimile number, and e-mail address (This is the person who will receive all correspondence; therefore, please ensure the accuracy of the information);

(4) The principal director, if different from the designated contact person, for the project, including phone number, facsimile number, and e-mail address.

d. Narrative statement addressing the Factors. HUD will use the narrative response to the “Rating Factors” to evaluate, rate, and rank applications. The narrative statement is the main source of information. Applicants are advised to review each factor carefully for program specific requirements. The response to each factor should be concise and contain only information relevant to the factor, yet detailed enough to address each factor fully. Please do not repeat material in response to the five factors; instead, focus on how well the proposal responds to each of the factors. Where there are subfactors each subfactor must be presented separately, with the short title of the subfactor presented. Make sure to address each subfactor and provide sufficient information about every element of the subfactor. The narrative section of an application must not exceed 50 pages in length (excluding forms, budget narrative, assurances, and abstract) and must be submitted on 8½ by 11-inch paper, double-spaced on one side of the paper, with one inch margins (from the top, bottom, and left to right side of the document) and printed in standard Times New Roman 12-point font. Each page of the narrative must include the applicant's name and be should be numbered. Note that although submitting pages in excess of the page limit will not disqualify an applicant, HUD will not consider the information on any excess pages. This exclusion may result in a lower score or failure to meet a threshold requirement. All applicants submitting electronic applications must attach their narrative responses to Rating Factors 1-5 as one attachment. PLEASE DO NOT ATTACH YOUR RESPONSE TO EACH FACTOR SEPARATELY.

e. Budget. The budget submission must include the following:

(1) HUD-424-CB, “Grant Application Detailed Budget.” This form shows the total budget by year and by line item for the program activities to be carried out with the proposed HUD grant. Each year of the program should be presented separately. Applicants must also submit this form to reflect the total cost (summary) for the entire grant performance period (Grand Total).

(2) HUD-40076-HBCU, “Response Sheet, Budget-By-Activity” This form must be used to document the entire three-year grant performance period. The form should include a listing of tasks to be completed for each activity necessary to be performed to implement the program, the overall costs for each activity, and the cost from each funding source. The budget-by-activity should clearly indicate the HUD grant amount and identify the source and dollar amount of the leveraged resources, if any.

Make sure that the amounts shown on the SF-424, HUD-424-CB, HUD-40076-HBCU and all other required program forms are consistent and the budget totals are correct. Remember to check addition in totaling the categories on all forms so that all items are included in the total. If there is an inconsistency between any of the required budget forms, the HUD-424-CB will be used. All budget forms must be completed fully. If an application is selected for award, the applicant may be required to provide greater specificity to the budget during grant agreement negotiations.

(3) Budget Narrative. A narrative must be submitted that explains how the applicant arrived at the cost estimates for any line item over $5,000 cumulative. For example, an applicant proposes to construct a building using HUD funding totaling $200,000. The following costs estimate reflects this total. Foundation cost $75,000, electrical work $40,000, plumbing work $40,000, finishing work $35,000, and landscaping $10,000. The proposed cost estimates should be reasonable for the work to be performed and consistent with rates established for the level of expertise required to perform the work proposed in the geographical area. When necessary, quotes from various vendors or historical data should be used (please make sure they are kept on file and are available for review by HUD at any time). When an applicant proposes to use a consultant, the applicant must indicate whether there is a formal written agreement. For each consultant, please provide the name, if known, hourly or daily rate, and the estimated time on the project. Applicants must use a cost estimate based on historical data from the institution, and/or from a qualified firm (e.g., Architectural or Engineering firm), vendor, and/or qualified individual (e.g., independent architect or contractor) other than the institution for projects that involve rehabilitation of residential, commercial and/or industrial structures, and/or acquisition, construction, or installation of public facilities and improvements. Such an entity must be involved in the business of housing rehabilitation, construction and/or management. Equipment and contracts cannot be presented as a total estimated costs. For equipment, applicants must provide a list by type and cost for each item. Applicants using contracts must provide an individual description and cost estimate for each contract. Construction costs must be broken down to indicate how funds will be utilized (e.g., demolition, foundation, exterior walls, roofing, electrical work, plumbing, finishing work, etc.)

(4) Indirect costs. Indirect costs, if applicable, are allowable based on an established approved indirect cost rate. Applicants must have on file and submit to HUD if selected for funding a copy of their indirect cost rate agreement. Applicants who are selected for funding that do not have an approved indirect cost rate agreement, established by the cognizant federal agency), will be required to establish a rate. In such cases, HUD will issue an award with a provisional rate and assist applicants in having a rate established.

f. Appendix. Applicants receiving a waiver of the electronic submission requirements and submitting a paper copy of the application must place all required forms in this section. An applicant SHOULD NOT submit resumes, or other back-up materials. If this information is included, it will not be considered during the review process.

C. Submission Dates and Times

A complete application package must be received and validated electronically by the Grants.gov portal no later than 11:59:59 p.m. eastern time on or before the applications deadline date of May 19, 2006. In an effort to address any issues with transmission of your application, applicants are strongly encouraged to submit their applications prior to the application deadline. This will allow an applicant enough time to make the necessary adjustments to meet the submission deadline. Please see the General Section for further instructions. Electronic faxes using the Facsimile Transmittal cover sheet (Form HUD-96011) contained in the electronic application must be received no later than 11:59:59 p.m. eastern time on the application submission deadline date.

D. Intergovernmental Review

This program is excluded from an Intergovernmental Review.

E. Funding Restrictions

Ineligible CDBG Activities are listed at 24 CFR 570.207. Ineligible activities include but are not limited to:

1. Curriculum development and/or expansion of an institution's existing curriculum;

2. General government expenses; and

3. Political activities.

F. Other Submission Requirements

1. Application Submission and Receipt Procedure

Please read the General Section carefully and completely for the submission and receipt procedures for all applications because failure to comply may disqualify your application.

2. Waiver of Electronic Submission Requirements

Please refer to the General Section for further discussion. Paper applications will not be accepted from applicants that have not been granted a waiver. If an applicant is granted a waiver, the Office of University Partnerships will provide instructions for submission. Applicants that submit a paper application must be received by or before the application deadline date.

V. Application Review Information

A. Criteria

1. Rating Factor 1: Capacity of the Applicant and Relevant Experience (25 Points)

This factor addresses the extent to which the institution has the resources necessary to successfully implement the proposed activities in a timely manner.

a. Knowledge and Experience For Category I and First Time Category II Applicants (25 Points) For Previously Funded Category II Applicants (10 Points). In rating this subfactor, HUD will consider the extent to which the applicant clearly addresses the following:

(1) Describe the knowledge and experience of the proposed project director and staff, including the day-to-day program manager, consultants (including technical assistance providers), and contractors in planning and managing the type of project for which funding is being requested; and

(2) Clearly identify the following: key project team members, titles (e.g., project manager/coordinator, etc.), respective roles for the project staff, and a brief description of their relevant experience.

If key personnel have not been hired, applicants must identify the position title, provide a description of duties and responsibilities, and describe the qualifications to be considered in the selection of personnel, including subcontractors and consultants.

Experience will be judged in terms of recent and relevant knowledge and skills of the staff to undertake the proposed eligible program activities. HUD will consider experience within the last five (5) years to be recent and experience pertaining to similar activities to be relevant.

b. Past Performance (15 points) For Previously Funded Category II Applicants. This subfactor will evaluate how well an applicant has performed successfully under HUD/HBCU grants. Applicants must demonstrate this by addressing the following information on the HUD-40076-HBCU “Response Sheet: (Performance Narrative) for all previously completed and open HBCU grants:

(1) A list of all HUD/HBCU grants received, including the dollar amount awarded and the amount expended as of the date of this application. The HUD-40076-HBCU “Response Sheet” (Performance Narrative) form is located at the following Web site: http://www.hud.gov/offices/adm/grants/fundsavail.cfmin. The form should be filled out completely;

(2) A description of the achievement of specific tasks, measurable objectives, and specific outcomes consistent with the approved timeline/work plan;

(3) A comparison of the amount of proposed leveraged funds and/or resources to the amount that was actually leveraged;

(4) A detailed description of compliance with all reporting requirements, including timeliness of submission, whether reports were complete and addressed all information (both narrative and financial) as required by the grant agreement; and

(5) A list detailing the date the project(s) was completed, was it completed in the original three-year grant performance period; if not completed why (including when it was or will be completed);

HUD will also review an applicant's past performance in managing funds, including, but not limited to: The ability to account for funding appropriately; timely use of funds received from HUD; meeting performance targets for completion of activities; timely submission of required progress reports and receipt of promised leveraged resources. In evaluating past performance, HUD reserves the right to deduct up to five (5) points from this rating score as a result of the information obtained from HUD's records (i.e., progress and financial reports, monitoring reports, Logic Model submissions, and amendments).

2. Rating Factor 2: Need/Extent of the Problem (15 Points)

This factor addresses the extent to which there is a need for funding the proposed program activities and an indication of the importance of meeting the need(s). In addressing this factor, applicants should provide, at a minimum, the following and must cite statistics and/or analyses contained in one or more current data sources that are sound and reliable.

(1) Describe the need(s); and

(2) Describe the importance of meeting the proposed needs. In rating this factor, HUD will consider only current data that is specific to the area where the proposed project activities will be carried out. Sources for localized data can be found at: www.ffiec.gov.

HUD will also consider data collected within the last five (5) years to be current. To the extent that the targeted community's Five Year Consolidated Plan and Analysis of Impediments to Fair Housing Choice (AI) identify the level of the problem and the urgency in meeting the need, applicants should include references to these documents in response to this factor (this is applicable only to applicants applying for funding under Category II).

Other reliable data sources include, but are not limited to, Census reports, HUD Continuum of Care gap analysis and its E-MAP (To find additional information go to HUD's Web site: http://www.hud.gov/emaps), law enforcement agency crime reports, Public Housing Agencies' Comprehensive Plans, community needs analyses such as provided by the United Way, the applicant's institution, and other sound, reliable an appropriate sources. Needs in terms of fulfilling court orders or consent decrees, settlements, conciliation agreements, and voluntary compliance agreements may also be addressed.

3. Rating Factor 3: Soundness of Approach (40 Points)

This factor addresses the quality and effectiveness of the proposed work plan and the commitment of the institution to sustain the proposed activities.

This factor will be evaluated based on the extent to which the proposed work plan demonstrates the following:

a. Quality of the Work Plan. This subfactor will be evaluated on the extent to which an applicant provides a clear detailed description of the proposed project and anticipated accomplishments.

(1) Specific Activities. For Category I Applicants (28 Points). For Category II Applicants (25 Points). The work plan must describe all proposed activities and major tasks required to successfully implement the proposed project and anticipated accomplishments. In addressing this subfactor, applicants must provide a clear description of the proposed activities and address the following:

(a) Describe each activity required to successfully implement and complete the proposed project in measurable terms (e.g., the number of persons to be trained and employed; houses to be rehabilitated; or minority-owned businesses to be started, etc.);

(b) List and describe how each activity meets one of the following Community Development Block Grant (CDBG) Program national objectives:

• Benefit low- and moderate-income persons;

• Aid in the prevention or elimination of slums or blight; or

• Meet other community development needs having a particular urgency because existing conditions pose a serious and immediate threat to the health and welfare of the community, and other financial resources are not available to meet such needs.

Criteria for determining whether an activity addresses one or more objective are provided at 24 CFR 570.208;

(c) Describe the major tasks required (in sequential order) to successfully implement and complete each activity. Include target completion dates for each task (in 6 month intervals, up to thirty-six (36) months);

(d) Identify the key staff, as described in Factor 1, who will be responsible and accountable for completing each activity; and

(e) Describe how the project director will work with the partners and citizens to accomplish the proposed activities.

(2) (8 Points) Describe clearly how each proposed activity will:

(a) Expands the role of the institution in the community (applicable only to Category II Applicants);

(b) Address the needs identified in Factor 2;

(c) Relate to and not duplicate other activities in the target area. Duplicative effort will be acceptable only if an applicant can demonstrate through documentation that there is a population in need that is not being served; and

(d) Involve and empower citizens of the target area in the proposed project particularly through a committee that is representative of the target community (applicable only to Category II Applicants).

b. (3 Points) Involvement of the Faculty and Students (For Category II Applicants Only). The applicant must describe how it proposes to integrate the institution's students and faculty into proposed project activities

c. (2 Points) HUD Policy Priorities. To earn points under this subfactor, HUD requires applicants to undertake specific activities that will assist the Department in implementing its policy priorities that help the Department achieve its goals and objectives in FY 2007, when the majority of grant recipients will be reporting programmatic results and achievements. In addressing this subfactor, HUD will evaluate the extent to which a program will further and support HUD's priorities. The quality of the responses provided to one or more of HUD's priorities will determine the score an applicant can receive. Applicants must describe how each policy priority selected will be addressed. Applicants that just list a priority will receive no points. Please refer to the General Section for additional information about HUD's policy priorities.

The total number of points an applicant can receive under this subfactor is two (2). Each policy priority addressed has a point value of one (1) point with the exception of the policy priority to remove regulatory barriers to affordable housing, which has a point value of up to two (2) points. To receive these two (2) points an applicant must indicate how this priority will be addressed and an applicant must indicate how this priority will be addressed and submit the completed questionnaire (HUD-27300) “HUD's Initiative on Removal of Regulatory Barriers” found in the General Section along with required documentation. It is up to the applicant to determine which of the policy priorities they elect to address to receive the available two (2) points.

d. (2 Points) Economic Opportunities for Low- and Very-Low Income Persons (Provision of Section 3). This subfactor will be evaluated on the extent to which an applicant describes how it proposes to:

(1) Provide opportunities to train and employ lower-income residents of the project area; and

(2) Award substantial contracts to persons residing in the project area.

Regulations regarding the provision of Section 3 of the Housing and Urban Development Act of 1968 (12 U.S.C. 1701u) can be located at 24 CFR part 135.

4. Rating Factor 4: Leveraging Resources (8 Points)

This factor addresses the ability of the applicant to secure resources that can be combined with HUD's grant funds to achieve the program's purpose.

In evaluating this factor, HUD will consider how well the applicant has established partnerships with other entities to secure additional resources to increase the effectiveness of the proposed project activities. Resources may include funding or in-kind contributions, such as services or equipment, allocated for the purpose(s) of the proposed project activities. Resources may be provided by governmental entities, public or private nonprofit organizations, for-profit private organizations, or other entities. Applicants may also establish partnerships with other program funding recipients to coordinate the use of resources in the target area. Overhead and other institutional costs (e.g., salaries, indirect costs, etc.) that the institution has waived may be counted. Examples of potential sources for outside assistance include:

• Federal, state, and local governments;

• Local or national nonprofit organizations;

• Financial institutions and/or private businesses;

• Foundations;

• Faith-based and other community-based organizations;

To address this factor, an applicant must provide an outline in the application and have on file written commitment letters, memoranda of understanding and/or agreements that show the extent and firm commitment of all proposed leveraged resources (including any commitment of resources from the applicant's own institution) that address the following information for each leveraged resource/fund:

(1) The name of the organization and the executive officer authorizing the funds/goods and/or services (Only applicable to the narrative section);

(2) The cash amount contributed or dollar value of the in-kind goods and/or services committed (If a dollar amount and its use is not shown, the funding will not be counted);

(3) A specific description of how each contribution is to be used toward the proposed activities;

(4) The date the contribution will be made available and a statement that describes the duration of the contribution;

(5) Any terms or conditions affecting the commitment, other than receipt of a HUD Grant; and

(6) The signature of the appropriate executive officer authorized to commit the funds and/or goods and/or services. (Only applicable to the written documentation) Please remember that only items eligible for funding under this program can be counted.

Commitment letters, memoranda of understanding and/or agreements are not required at the time of application submission but you must have them on file. Applicants selected for award will be required to submit the signed commitment letters, memoranda of understanding and/or agreements outlined in the application, within twenty (20) calendar days after initial contact from the Office of University Partnerships (OUP). Letters, memoranda of understanding, or agreements must be submitted on the provider's letterhead and should be addressed to Sherone Ivey, Acting Associate Deputy Assistant Secretary for University Partnerships. The date of the letter, memorandum of understanding, or agreement from the CEO of the provider organization must be dated no earlier than nine months prior to this published NOFA. OUP will provide specific instructions on how these documents must be submitted when contact is made with the applicant. HUD will only request and consider the resources/organizations that are listed in the outline submitted in the application. If OUP does not receive those documents in the required format and allotted timeframe, an applicant will not receive points under this factor and the application will be rated and ranked to address this point change.

5. Rating Factor 5: Achieving Results and Program Evaluation (12 Points)

This factor reflects HUD's goal to embrace high standards of management and accountability. It measures the applicant's commitment to assess their performance to achieve the program's proposed objectives and goals. Applicants are required to develop an effective, quantifiable, outcome oriented evaluation plan for measuring performance and determining that objectives and goals have been achieved. The Logic Model is a summary of the narrative statements presented in Factors 1-4. Therefore, it should be consistent with the information contained in the narrative statements.

“Outcomes” are benefits accruing to the community during or after participation in the HBCU program. Applicants must clearly identify the outcomes to be measured and achieved. Examples of outcomes include increased employment opportunities in the target community by a certain percentage, increased incomes/wages or other assets for persons trained, or enhanced family stability through the creation of affordable housing opportunities (e.g., increased assets to families and communities through the development of affordable housing).

In addition, applicants must establish interim benchmarks and outputs that lead to the ultimate achievement of outcomes. “Outputs” are the direct products of the program's activities. Examples of outputs are the number of new affordable housing units, the number of homes that have been renovated, and the number of facilities that have been constructed or rehabilitated. Outputs should produce outcomes for the program. At a minimum, an applicant must address the following activities in the evaluation plan:

a. Measurable objectives to be accomplished (e.g., the number of persons to be trained and employed; houses to be built pursuant to 24 CFR 570.207 or rehabilitated; minority-owned businesses to be started);

b. Measurable impacts the grant will have on the community in general and the target area or population; and

c. The impact the grant will have on assisting the university to obtain additional resources to continue this type of work at the end of the grant performance period.

The information must be placed on a HUD-96010, Program Outcome Logic Model form. HUD has developed a new approach to completing this form. Please carefully read the General Section for instructions; training is available. A narrative is not required. However, if a narrative is provided, those pages will be included in the page count. (Form HUD-96010 will be excluded from the page count.)

B. Review and Selection Process

1. Application Selection Process.

Two types of reviews will be conducted:

a. A threshold review to determine an applicant's basic eligibility; and

b. A technical review for all applications that pass the threshold review to rate and rank the application based on the “Rating Factors” listed in Section V.A.

Only those applications that pass the threshold review will receive a technical review.

2. Rating Panels

To review and rate applications HUD may establish panels, which may include experts or consultants not currently employed by HUD to obtain certain expertise.

3. Ranking

HUD will fund applications in rank order, until all available program funds are awarded. In order to be funded, an applicant must receive a minimum score of 75 points out of a possible 100 points. The RC/EZ/EC-II, as described in the General Section does not apply to this program. If two or more applications have the same number of points, the application with the most points for Factor 3 shall be selected. If there is still a tie, the application with the most points for Factor 1 shall be selected. If there is still a tie, the application with the most points for Factor 2, 4 and then 5 shall be selected in that order until the tie is broken. HUD reserves the right to make selections out of rank order to provide for geographic distribution of grantees. HUD also reserves the right to reduce the amount of funding requested in order to fund as many highly ranked applications as possible. Additionally, if funds remain after funding the highest ranked applications, HUD may fund part of the next highest-ranking application. If an applicant turns down an award offer, HUD will make an award to the next highest-ranking application. If funds remain after all selections have been made, the remaining funds will be carried over to the next funding cycle's competition.

4. Correction to Deficient Applications

See the General Section.

C. Anticipated Announcement and Award Dates

Announcements of awards are anticipated on or before September 30, 2006.

VI. Award Administration Information

A. Award Notice

After all selections have been made, HUD will notify all winning applications in writing. HUD may require winning applicants to participate in additional negotiations before receiving an official award. For further discussion on this matter, please refer to the General Section.

B. Administrative and National Policy Requirements

Refer to Section VI.B. in the General Section.

1. Debriefing. The General Section provides the procedures for requesting a debriefing. All requests for debriefings must be made in writing and submitted within thirty (30) calendar days of receipt of written notification to: Ophelia Wilson, Office of University Partnerships, Robert C. Weaver Federal Building, 451 Seventh Street, SW., Room 8130, Washington, DC 20410-6000.

2. Administrative. Grants awarded under this NOFA will be governed by the provisions of 24 CFR part 84 (Grants and Agreements with Institutions of Higher Education, Hospitals and Other Non-Profit Organizations), A-21 (Cost Principles for Educational Institutions) and A-133 (Audits of States, Local Governments, and Non-Profit Organizations). Applicants can access the OMB circulars at the White House Web site at www.whitehouse.gov/omb/circulars/index.html.

3. OMB Circulars and Governmentwide Regulations Applicable to Financial Assistance Programs. The General Section provides further discussion on this matter.

4. Executive Order 13202, Preservation of Open Competition and Government Neutrality Towards Government Contractors' Labor Relations on Federal and Federally Funded Construction Projects. See the General Section for further discussion.

5. Procurement of Recovered Materials. The General Section provides further discussion on the matter.

6. Code of Conduct. See the General Section for further discussion.

C. Reporting

All grant recipients under this NOFA are required to submit quarterly progress reports. The progress reports shall consist of two components, a narrative that must reflect the activities undertaken during the reporting period and a financial report that reflects costs incurred by budget line item, as well as a cumulative summary of costs incurred during the reporting.

For each reporting period, as part of the required report to HUD, grant recipients must include a completed Logic Model form (HUD-96010), which identifies output and outcome achievements.

For FY2006, HUD is considering a new concept for the Logic Model. The new concept is a Return on Investment (ROI) statement. HUD will be publishing a separate notice on the ROI concept.

VII. Agency Contacts

Applicants may contact Ophelia Wilson at (202) 708-3061, extension 4390 or Susan Brunson at (202) 708-3061, extension 3852. Persons with speech or hearing impairments may call the Federal Information Relay Service (TTY) at (800) 877-8339. Except for the “800” number, these numbers are not toll-free. Applicants may also reach Ms. Wilson via e-mail at Ophelia_Wilson@hud.gov, and/or Ms. Brunson at Susan_S._Brunson@hud.gov.

VIII. Other Information

Paperwork Reduction Act

The information collection requirements contained in this document have been approved by the Office of Management and Budget (OMB) under the Paperwork Reduction Act of 1995 (44 U.S.C. 3501-3520) and assigned OMB control number 2528-0235. In accordance with the Paperwork Reduction Act, HUD may not conduct or sponsor, and a person is not required to respond to, a collection of information unless the collection displays a currently valid OMB control number. Public reporting burden for the collection of information is estimated to average 356 hours per annum per respondent for the application and grant administration. This includes the time for collecting, reviewing, and reporting the data for the application, quarterly, semi-annual and final reports. The information will be used for grantee selection and monitoring the administration of funds. Response to this request for information is required in order to receive the benefits to be derived.

Appendix A—Application Checklist—HBCU

This checklist identifies application submission requirements. Applicants are requested to use this checklist when preparing an application to ensure submission of all required elements. Applicants submitting an electronic application do not have to submit the checklist. Applicants that receive a waiver of the electronic application submission requirement must include a copy of the checklist in their application.

Check off to ensure these items have been included in the application:

__SF-424 “Application For Federal Assistance”

__Application Checklist (Applicants that submit paper applications must include the checklist in their applications)

__Abstract (must include no more than a two-page summary of the proposed project)

Indicate the page number where each of the Factors are located:

Narrative Statement Addressing the Rating Factors.

The narrative section of an application must not exceed 50 pages in length (excluding forms, budget narrative and abstract). This information must be submitted on 8½ by 11-inch paper, double-spaced on one side of the paper, with one-inch margins (from the top, bottom, left, and right sides of the documents) and printed in standard Times New-Roman 12-point font.

__Factor I

__Factor II

__HUD-40076, “Response Sheet Performance Narrative” (If applicable)

__Factor III

__Factor IV

__Factor V

__HUD-96010 “Logic Model”

Check off to ensure these items have been included in the application:

Appendix

__Budget

__HUD 424-CB” Grant Application Detailed Budget.”

__HUD-40076-HBCU “Budget-By-Activity”

__Budget Narrative (No form provided and must be submitted for the total three-year grant period)

Appendix B (All Required Forms)

The following forms are required for submission. All required forms are contained in the electronic application package.

__Application for Federal Assistance (SF-424);

__Survey on Ensuring Equal Opportunity for Applicants (SF-424 Supplement);

__Grant Application Detailed Budget (HUD-424-CB);

__Disclosure of Lobbying Activities (SF-LLL), if applicable;

__America's Affordable Communities Initiative (HUD-27300), if applicable;

__Applicant/Recipient Disclosure/Update Report (HUD-2880);

__HUD-2993, Acknowledgement of Applicant Receipt (Only applicants that submit paper applications);

__You Are Our Client Grant Applicant Survey (HUD-2994-A);

__Response Sheet Performance Narrative (HUD-40076) if applicable;

__Program Logic Model (HUD-96010); and

__Facsimile Transmittal (HUD-96011) required as the cover page to third party documents transmitted by facsimile to HUD. See the General Section.

BILLING CODE 4210-01-P

Hispanic-Serving Institutions Assisting Communities (HSIAC) Program

Overview Information

A. Federal Agency Name: Department of Housing and Urban Development, Office of Policy Development and Research, Office of University Partnerships.

B. Funding Opportunity Title: Hispanic-Serving Institutions Assisting Communities (HSIAC) Program.

C. Announcement Type: Initial announcement.

D. Funding Opportunity Numbers: The Federal Register Number is FR-5030-N-19. The OMB Approval Number is 2528-0198.

E. Catalog of Federal Domestic Assistance (CFDA) Number: The CDFA Number for this program is 14.514.

F. Dates: The application deadline date is May 22, 2006. Please be sure to read the General Section for electronic application submission and receipt requirements.

G. Additional Overview Content Information;

1. Purpose of the Program: To assist Hispanic-Serving Institutions (HSI) expand their role and effectiveness in addressing community development needs in their localities, including neighborhood revitalization, housing, and economic development, principally for persons of low- and moderate-income, consistent with the purposes of Title I of the Housing and Community Development Act of 1974, as amended.

2. Award Information: In Fiscal Year (FY) 2006, approximately $5.94 million has been made available for this program by the Department of Housing and Urban Development Appropriations Act, 2006 (Pub. L. 109-115; approved Nov. 30, 2005) and an additional $78,000 in carryover funds. An applicant can request up to $600,000 for a three-year (36 months) grant performance period.

3. Eligible Applicants: Nonprofit Hispanic-Serving Institutions that meet the definition of an HSI established in Title V of the 1998 Amendments to the Higher Education Act of 1965 (Pub. L. 105-244; enacted October 7, 1998). In order to meet this definition, at least 25 percent of the full-time undergraduate students enrolled in an institution must be Hispanic and not less than 50 percent of these Hispanic students must be low-income individuals. Institutions are not required to be on the list of eligible HSIs prepared by the U.S. Department of Education. However, an institution that is not on the list is required to provide a statement in the application that the institution meets the U.S. Department of Education's statutory definition of an HSI. In addition, all applicants must be institutions of higher education granting two-or four-year degrees that are fully accredited by a national or regional accrediting agency recognized by the U.S. Department of Education. If an applicant is one of several campuses of the same institution, the applicant may apply separately from the other campuses as long as the campus has a separate administrative structure and budget and meets the enrollment test outlined above.

Full Text of Announcement

I. Funding Opportunity Description

The purpose of the Hispanic Serving Institutions Assisting Communities (HSIAC) Program is to assist Hispanic Serving Institutions (HSI) of higher education expand their role and effectiveness in addressing community development needs in their localities, including neighborhood revitalization, housing and economic development, principally for persons of low- and moderate-income consistent with the purpose of the Title I of the Housing and Community Development Act of 1974, as amended.

For the purpose of this program, the term “locality” includes any city, county, township, parish, village, or other general political subdivision of a state, Puerto Rico, or the U.S. Virgin Islands where the institution is located.

A “target area” is the area within the locality in which the institution will implement its proposed HSIAC grant.

A. Authority

HUD's authority for making this funding available under this NOFA is Department of Housing and Urban Development Appropriations Act, 2006 (Pub. L. 109-115; approved Nov. 30, 2005). This program is being implemented through this NOFA and the policies governing its operation are contained herein.

B. Modifications

Listed below are major modifications from the Fiscal Year (FY) 2005 program-funding announcement:

1. Commitment letters, memoranda of understandings and/or agreements are not required at the time of application submission but must be on file. Applicants selected for award will be required to submit the signed commitment letters, memoranda of understandings and/or agreements outlined in the application, within twenty (20) calendar days after initial contact from the Office of University Partnerships (OUP). OUP will provide specific instructions on how these documents must be submitted at that time. HUD will only request and consider the resources/organizations outlined in the application. If OUP does not receive those documents in the required format and allotted timeframe, an applicant will not receive points under this factor and the application will be rated and ranked to address this point change.

In scoring this factor, HUD will rate an applicant that provides leveraging resources that are 15 percent or more of the amount requested under this program and that are properly documented, as listed, below will be awarded nine (9) points; applicants that provide leveraging resources that are 10-14 percent of the amount requested under this program and that are properly documented, as listed below, will be awarded six (6) points; applicants that provide leveraging resources that are 5-9 percent of the amount requested under this program and that are properly documented, as listed below, will be awarded three (3) points; applicants that provide leveraging resources that are less than 5 percent of the amount requested or resources are not properly documented will receive zero points.

2. Current HSIAC grantees no longer have to draw down at least 75% of the funding awarded under past grants prior to this application deadline date to be eligible to apply for funding under this NOFA.

3. All applicants must be institutions of higher education granting two-or four-year degrees that are accredited by a national or regional accrediting agency recognized by the U.S. Department of Education.

4. All applicants submitting electronic applications must attach their narrative responses to Rating Factors 1-5 as one attachment. PLEASE DO NOT ATTACH YOUR RESPONSE TO EACH FACTOR SEPARATELY.

II. Award Information

In Fiscal Year (FY) 2006, approximately $5.94 million is made available for this program and an additional $78,000 in carryover funds. An applicant can request up to $600,000 for a three-year (36 months) grant performance period.

III. Eligibility Information

A. Eligible Applicants

Nonprofit Hispanic-serving institutions that meet the definition of an HSI of higher education established in Title V of the 1998 Amendments to the Higher Education Act of 1965 (Pub. L. 105-244; enacted October 7, 1998). In order to meet this definition, at least 25 percent of the full-time undergraduate students enrolled in an institution must be Hispanic and not less than 50 percent of these Hispanic students must be low-income individuals. Institutions are not required to be on the list of eligible HSIs prepared by the U.S. Department of Education. However, an institution that is not on the list is required to provide a statement in the application that the institution meets the U.S. Department of Education's statutory definition of an HSI as cited above. In addition, all applicants must be institutions of higher education granting two-or four-year degrees that are fully accredited by a national or regional accrediting agency recognized by the U.S. Department of Education. If an applicant is one of several campuses of the same institution, the applicant may apply separately from the other campuses as long as the campus has a separate administrative structure and budget and meets the enrollment test outlined above.

B. Cost Sharing or Matching

None Required.

C. Other

1. Eligible Activities. Eligible activities are listed in 24 CFR Part 570, subpart C, particularly § 570.201 through 570.206. Information regarding these activities can be found at: www.hudclips.org (click on the Code of Federal Regulations for detailed information).

a. Examples of eligible activities include, but are not limited to:

(1) Acquisition of real property;

(2) Clearance and demolition;

(3) Rehabilitation of residential structures including lead-based paint hazard evaluation and reduction and making accessibility and visitabilty modifications in accordance with the requirements of Section 504 of the Rehabilitation Act of 1973;

(4) Public facilities and improvements, such as water and sewer facilities and streets compliance with accessibility requirements, including Section 504 of the Rehabilitation Act of 1973, the Fair Housing Act, and the American with Disabilities Act of 1990;

(5) Relocation payments and other assistance for permanently and temporarily relocated individuals, families, businesses, nonprofit organizations, and farm operations where the assistance is:

(a) Required under the provisions of 24 CFR 570.606(b) or (c); or

(b) Determined by the grantee to be appropriate under the provisions of 24 CFR 570.606(d);

(6) Direct homeownership assistance to low- and moderate-income persons, as provided in section 105(a) (25) of the Housing and Community Development Act of 1974;

(7) Special economic development activities described at 24 CFR 570.203 and assistance to facilitate economic development by providing technical or financial assistance for the establishment, stabilization, and expansion of microenterprises, including minority enterprises;

(8) Assistance to community-based development organizations (CBDO) to carry out a CDBG neighborhood revitalization, community economic development, or energy conservation project, in accordance with 24 CFR 570.204. This could include activities in support of a HUD-approved local entitlement grantee, CDBG Neighborhood Revitalization Strategy (NRS) or HUD-approved State CDBG Community Revitalization Strategy (CRS);

(9) Public service activities such as general support activities that can help to stabilize a neighborhood and contribute to sustainable redevelopment of the area, including but not limited to such activities as those concerned with employment, crime prevention, child care, health care services, drug abuse, education, housing counseling, energy conservation, homebuyer down payment assistance, establish and maintain Neighborhood Network centers in federally assisted or insured housing, job training and placement and recreational needs;

(10) Up to 20 percent of the grant may be used for payments of reasonable grant administrative costs related to planning and execution of the project (e.g., preparation/submission of HUD reports). Detailed explanations of these costs are provided in OMB circular A-21 Cost Principals for Educational Institutions that can be accessed at the White House Web site at: www.whitehouse.gov/omb/circulars/index.html;

(11) Fair housing services designed to further civil rights objectives of the Fair Housing Act (42 U.S.C. 3601-20) by making all persons, without regard to race, color, religion, sex, national origin, familial status and/or disability aware of the range of housing opportunities available to them; and

b. Each activity proposed for funding must meet the Community Development Block Grant (CDBG) Program eligibility requirements and at least one national objective.

c. The three national objectives of the Community Development Block Grant program are:

(1) Benefit to low-or moderate-income persons;

(2) Aid in the prevention or elimination of slums or blight; and

(3) Meet other community development needs having a particular urgency because existing conditions pose a serious and immediate threat to the health and welfare of the community, and other financial resources are not available to meet such needs.

Criteria for determining whether an activity addresses one or more national objectives are provided at 24 CFR 570.208.

d. The CDBG publication entitled “Community Development Block Grant Program Guide to National Objectives and Eligible Activities for Entitlement Communities” describes the CDBG regulations, and a copy can be obtained from HUD's NOFA Information Center at 800-HUD-8929 or 800-HUD-2209 for the hearing-impaired.

2. Audit Requirements. See Section III.C. of the General Section.

3. Threshold Requirements Applicable to all Applicants. All applicants must comply with the threshold requirements as defined in the General Section and the requirements listed below. Applications that do not meet these requirements will be considered ineligible for funding and will be disqualified.

a. The applicant must meet the eligibility requirements as defined in Section III.A.

b. The applicant may request up to $600,000.

c. Only one application can be submitted per campus. If multiple applications are submitted, all will be disqualified. However, different campuses of the same university system are eligible to apply as long as they have an administrative and budgeting structure independent of the other campuses in the system.

d. Institutions that received an HSIAC grant in FY2005 are not eligible to submit an application under this NOFA. If an institution received an HSIAC grant in FY2002, FY2003, or FY2004, the institution may apply under this NOFA as long as it proposes a different activity (activities) in their current project location, or proposes replicating their current project in a new location.

e. Applicants must receive a minimum score of 75 points to be considered for funding.

f. An applicant must have a DUNS number to receive HUD grant funds (See the General Section).

g. Electronic applications must be received and validated by Grants.gov no later than 11:59:59 p.m. eastern time on the application deadline date of May 22, 2006.

4. Program Requirements. In addition to the program requirements listed in Section III.C of the General Section, applicants must meet the following program requirements:

a. All funds awarded are for a three-year (36 months) grant performance period.

b. Applicants must ensure that not less than 51 percent of the aggregated expenditures of a grant award are use to benefit low- and moderate-income persons under the criteria specified in 24 CFR 570.208(a) or 570.208(d)(5) or (6).

c. Site Control. Where grant funds will be used for acquisition, rehabilitation, or new construction an applicant must demonstrate site control. Funds may be recaptured or deobligated from applicants that cannot demonstrate control of a suitable site within one year after the initial notification of award.

d. Environmental Requirements. Selection for award does not constitute approval of any proposed sites. Following selection for award, HUD will perform an environmental review of properties proposed for assistance in accordance with 24 CFR Part 50. The results of the environmental review may require that proposed activities be modified or proposed sites be rejected. Applicants are particularly cautioned not to undertake or commit funds for acquisition or development of proposed properties prior to HUD approval of specific properties or areas. An application constitutes an assurance that the institution will assist HUD to comply with part 50; will supply HUD with all available and relevant information to perform an environmental review for each proposed property; will carry out mitigating measures required by HUD or select alternate property; and will not acquire, rehabilitate, convert, demolish, lease, repair, or construct property, and not commit or expend HUD or local funds for these program activities with respect to any eligible property until HUD's written approval of the property is received. In supplying HUD with environmental information, applicants should use the same guidance as provided in the HUD Notice CPD-05-07 entitled, “Field Environmental Review Processing for Rural Housing and Economic Development (RHED) grants” issued August 30, 2005. The General Section provides further discussion of the environmental requirements. Further information and assistance on HUD's environmental requirements is available at: http://hudstage.hud.gov/utilities/intercept.cfm?/offices/cpd/lawsregs/notices/2005/05-07.pdf.

e. Labor Standards. Institutions and their sub-grantees, contractors, and subcontractors must comply with the labor standards (Davis-Bacon) requirements referenced in 24 CFR 570.603.

f. Economic Opportunities for Low- and Very-Low Income Persons (Section 3). The provisions of Section 3 of the Housing and Urban Development Act of 1968 (12 U.S.C. 1701u) apply to this NOFA and requires that to the greatest extent feasible opportunities for training and employment be given to lower-income residents of the project and contracts for work in connection with the project be awarded in substantial part to person residing in the area of the project. Regulations are located at 24 CFR Part 135.

IV. Application and Submission Information

A. Addresses to Request Application Package

Applicants may download the instructions to the application found on the Grants.gov Web site at http://www.Grants.gov./Apply. If you have difficulty accessing the information you may call the Grants.gov Support Desk toll free 800-518-GRANTS or e-mail your questions to Support@Grants.gov. See the General Section for information regarding the registration process or ask for registration information from the Grants.gov Support Desk.

B. Content and Form of Application Submission

1. Forms

The following forms are required for submission. Copies of these forms are available online at http://www.hud.gov/offices/adm/grants/nofa06/snofaforms.cfm.

a. Application for Federal Assistance (SF-424);

b. Survey on Ensuring Equal Opportunity for Applicants (SF-424 Supplement);

c. Grant Application Detailed Budget (HUD-424-CB);

d. Disclosure of Lobbying Activities (SF-LLL), if applicable;

e. America's Affordable Communities Initiative (HUD-27300), if applicable;

f. Applicant/Recipient Disclosure/Update Report (HUD-2880);

g. Program Logic Model (HUD-96010);

h. Certification of Consistency with RC/EZ/EC-II Strategic Plan (HUD-2990), if applicable;

i. Certification of Consistency with the Consolidated Plan (HUD-2991), if applicable;

j. Acknowledgement of Applicant Receipt (HUD-2993). Complete this form only if you have received a waiver to the electronic application submission requirement. Applicants submitting electronically are not required to include this form;

k. Facsimile Transmittal Cover Page (HUD-96011). This form must be used as the cover page to transmit third party documents and other information. Applicants are advised to download the application package, complete the SF-424 first and it will pre-populate the Transmittal Cover page. The Transmittal Cover page will contain a unique identifier embedded in the page that will help HUD associate your faxed materials to your application. Please download the cover page and then make multiple copies to provide to any of the entities responsible for submitting faxed materials to HUD on your behalf. Please do not use your own fax sheet. HUD will not read any faxes that are sent without the HUD-96011 fax transmittal cover page; and

l. You Are Our Client Grant Applicant Survey (HUD-2994-A). Applicants are not required to complete this form.

2. Certifications and Assurances. Please read the General Section for detailed information on all Certifications and Assurances. All applications submitted through Grants.gov constitute an acknowledgement and agreement to all required certifications and assurances. Please include in your application each item listed below. Applicants submitting paper copy applications should submit the application in the following order:

a. SF-424, Application for Federal Assistance. Please remember the following:

(1) The full grant amount requested from HUD (entire three years) should be entered, not the amount for just one year;

(2) Include the name, title, address, telephone number, facsimile number, and e-mail address of the designated contact. This is the person who will receive all correspondence; therefore, please ensure the accuracy of the information;

(3) The Employer Identification/Tax ID;

(4) The DUNS Number;

(5) The Catalog of Federal Domestic Assistance Number for this program is 14.514;

(6) The project's proposed start date and completion date. For the purpose of this application, the program start date should be December 1, 2006; and

(7) The signature of the Authorized Organization Representative (AOR) who, by virtue of submitting an application via Grants.gov, has been authenticated by the credential provider to submit applications on behalf of the Institution and approved by the eBusiness Point of Contact to submit an application via Grants.gov. The AOR must be able to make a binding legal agreement with HUD. For details on the Grants.gov registration process see HUD's Notice on Early Registration published in the Federal Register on December 9, 2005.

b. Application Checklist. Applicants should use the checklist to ensure that they have all the required components of their application. Applicants submitting an electronic application should not submit the checklist. Applicants that receive a waiver of the electronic application submission must include a copy of the checklist in their application submission. The checklist can be located in Appendix A.

c. Abstract. Applicants must include no more than a two-page summary of the proposed project. Please include the following:

(1) A clear description of the proposed project activities, where they will take place (be located), the target population that will be assisted, and the impact this project is expected to have on the community and institution;

(2) A statement that the institution is an eligible institution because it is a two-or four-year fully accredited institution, the name of the accrediting agency and an assurance that the accrediting agency is recognized by the U.S. Department of Education;

(3) A statement that the institution meets the definition of an Hispanic Serving Institution: At least 25 percent of the full-time undergraduate students enrolled in an institution must be Hispanic and not less than 50 percent of these Hispanic students must be low-income individuals;

(4) The designated contact person, including phone number, facsimile number, and e-mail address (This is the person who will receive all correspondence; therefore please ensure the accuracy of the information);

(5) The project director, if different from the designated contact person, for the project, including phone number, facsimile number, and e-mail address.

d. Narrative statement addressing the Factors. HUD will use the narrative response to the “Rating Factors” to evaluate, rate, and rank applications. The narrative statement is the main source of information. Applicants are advised to review each factor carefully for program specific requirements. The response to each factor should be concise and contain only information relevant to the factor, yet detailed enough to address each factor fully. Please do not repeat material in response to the five factors; instead, focus on how well the proposal responds to each of the factors. Where there are subfactors, each subfactor must be presented separately, with the short title of the subfactor presented. Make sure to address each subfactor and provide sufficient information about every element of the subfactor. The narrative section of an application must not exceed 50 pages in length (excluding forms, budget narrative, assurances, and abstract) and must be submitted on 8½ by 11-inch paper, double-spaced on one side of the paper, with one inch margins (from the top, bottom and left to right side of the document) and printed in standard Times New Roman 12-point font. Each page of the narrative must include the applicant's name and be numbered. Note that although submitting pages in excess of the page limit will not disqualify an applicant, HUD will not consider the information on any excess pages. This exclusion may result in a lower score or failure to meet a threshold requirement. All applicants submitting electronic applications must attach their narrative responses to Rating Factors 1-5 as one attachment. PLEASE DO NOT ATTACH YOUR RESPONSE TO EACH FACTOR SEPARATELY.

e. Budget. The budget submission must include the following:

(1) HUD-424-CB, “Grant Application Detailed Budget.” This form shows the total budget by year and by line item for the program activities to be carried out with the proposed HUD grant. Each year of the program should be presented separately. Applicants must also submit this form to reflect the total cost for the entire grant performance period (Grand Total).

Make sure that the amounts shown on the SF-424, the HUD-424-CB, and on all other required program forms are consistent and the budget totals are correct. Remember to check addition in totaling the categories on all forms so that all items are included in the total. If there is an inconsistency between any of the required budget forms, the HUD-424-CB will be used. All budget forms must be fully completed. If an application is selected for award, the applicant may be required to provide greater specificity to the budget during grant agreement negotiations.

(2) Budget Narrative. A narrative must be submitted that explains how the applicant arrived at the cost estimates for any line item over $5,000 cumulative. For example, an applicant proposes to construct a building using HUD funding totaling $200,000. The following costs estimate reflects this total. Foundation cost $75,000, electrical work $40,000, plumbing work $40,000, finishing work $35,000, and landscaping $10,000. The proposed cost estimates should be reasonable for the work to be performed and consistent with rates established for the level of expertise required to perform the work proposed in the geographical area. When necessary, quotes from various vendors or historical data should be used (please make sure they are kept on file and are available for review by HUD at any time). All direct labor or salaries must be supported with mandated city/state pay scales, the Davis-Bacon rate, (if applicable) or other documentation. When an applicant proposes to use a consultant, the applicant must indicate whether there is a formal written agreement. For each consultant, please provide the name, if known, hourly or daily rate, and the estimated time on the project. Applicants must use cost estimates based on historical data from the institution and/or from a qualified firm (e.g., Architectural or Engineering firms), vendor, and/or qualified individual (e.g., independent architect or contractor) other than the institution for projects that involve rehabilitation of residential, commercial and/or industrial structures, and/or acquisition, construction, or installation of public facilities and improvements. Such an entity must be involved in the business of housing rehabilitation, construction and/or management. Equipment and contracts cannot be presented as a total estimated cost. For equipment, applicants must provide a list by type and cost for each item. Applicants using contracts must provide an individual description and cost estimate for each contract. Construction costs must be broken down to indicate how funds will be utilized (e.g., demolition, foundation, exterior walls, roofing, electrical work, plumbing, finishing work, etc.).

(3) Indirect costs. Indirect costs, if applicable, are allowable based on an established approved indirect cost rate. Applicants must have on file, and submit to HUD if selected for award, a copy of their indirect cost rate agreement. Applicants who are selected for funding that do not have an approved indirect cost rate agreement, established by the cognizant federal agency, will be required to establish a rate. In such cases, HUD will issue an award with a provisional rate and assist applicants with the process of establishing a final rate.

f. Appendix. Applicants receiving a waiver of the electronic submission requirements and submitting a paper copy of the application must place all required forms in this section. An applicant SHOULD NOT submit resumes, or other back-up materials. If this information is included, it will not be considered during the review process.

C. Submission Dates and Times

A complete application package must be received and validated electronically by the Grants.gov portal no later than 11:59:59 p.m. eastern time on or before the application deadline date of May 22, 2006. In an effort to address any issues with transmission of your application, applicants are strongly encouraged to submit their applications prior to the application deadline. This will allow an applicant enough time to make the necessary adjustments to meet the submission deadline. Please see the General Section for further instructions. Electronic faxes using the Facsimile Transmittal cover sheet (Form HUD-96011) contained in the electronic application must be received no later than 11:59:59 p.m. eastern time on the application deadline date.

D. Intergovernmental Review

This program is excluded from an Intergovernmental Review.

E. Funding Restrictions

Ineligible CDBG Activities are listed at 24 CFR 570.207. Ineligible activities include but are not limited to:

a. Curriculum development and/or expansion of an institution's existing curriculum;

b. General government expenses;

c. Political activities;

d. Planning and administrative activities that would result in a grantee exceeding the 20 percent cost limitation on such activities; and

e. Construction, renovation, expansion of an institution's own facilities.

F. Other Submission Requirements

1. Application Submission and Receipt Procedure

Please read the General Section carefully and completely for the submission and receipt procedures for all applications because failure to comply may disqualify your application.

2. Waiver of Electronic Submission Requirement

Please refer to the General Section for further discussion. Paper applications will not be accepted from applicants that have not been granted a waiver. If an applicant is granted a waiver, the Office of University Partnerships will provide instructions for submission. Applicants that submit a paper application must be received by or before the application deadline date.

V. Application Review Information

A. Criteria

1. Rating Factor 1: Capacity of the Applicant and Relevant Experience (25 Points)

This factor addresses the extent to which the applicant has the resources necessary to successfully implement the proposed project in a timely manner.

a. Knowledge and Experience For First Time Applicants (25 Points); For Previously Funded Applicants (10 Points). In rating this subfactor, HUD will consider how well an applicant clearly addresses the following:

(1) Describe the knowledge and experience of the proposed project director and staff, including the day-to-day program manager/coordinator, consultants (including technical assistance providers), and contractors in planning and managing the type of project for which funding is being requested; and

(2) Clearly identify the following: key project team members, titles (e.g., project manager/coordinator, etc.), respective roles for the project staff, and a brief description of their relevant experience.

If key personnel have not been hired, applicants must identify the position title, provide a description of duties and responsibilities, and describe the qualifications to be considered in the selection of personnel, including subcontractors and consultants.

Experience will be judged in terms of recent and relevant knowledge and skills of the staff to undertake eligible program activities. HUD will consider experience within the last five (5) years to be recent and experience pertaining to similar activities to be relevant.

b. Past Performance (15 Points) For Previously Funded Grant Applicants Only. This subfactor will evaluate how well an applicant has performed successfully under HUD/HSIAC grants. Applicants must demonstrate this by addressing the following information for all previously completed and open HUD/HSIAC grants:

(1) A list of all HUD/HSIAC grants received, including the dollar amount awarded and the amount expended and obligated as of the date of this application;

(2) A description of the achievement of specific tasks, measurable objectives, and specific outcomes consistent with the approved project management plan;

(3) A list detailing the date the project(s) was completed, was it completed in the original three-year grant performance period; if not completed, why (including when it was or will be completed);

(4) A comparison of the amount of proposed leveraged funds and/or resources to the amount that was actually leveraged; and

(5) A detailed description of compliance with all reporting requirements, including timeliness of submission, whether reports were complete and addressed all information (both narrative and financial) as required by the grant agreement.

HUD will also review an applicant's past performance in managing funds, including, but not limited to: The ability to account for funding appropriately; timely use of funds received from HUD; meeting performance targets for completion of activities; timely submission of required progress reports and receipt of promised leveraged resources. In evaluating past performance, HUD reserves the right to deduct up to five (5) points from this rating score as a result of the information obtained from HUD's records (i.e., progress and financial reports, monitoring reports, Logic Model submissions, and amendments).

2. Rating Factor 2: Need/Extent of the Problem (10 Points)

This factor addresses the extent to which there is a need for funding the proposed program activities and an indication of the importance of meeting the need(s) in the target area. The need(s) described must be relevant to the activities for which funds are being requested. In addressing this factor, applicants should provide, at a minimum, the following and must cite statistics and/or analyses contained in at least one or more current data sources that are sound and reliable.

(1) Describe the need(s); and

(2) Describe the importance of meeting the proposed needs.

In rating this factor, HUD will consider only current data that is specific to the area where the proposed project activities will be carried out. Sources for localized data can be found at: www.ffiec.gov.

HUD will consider data collected within the last five (5) years to be current. To the extent that the targeted community's Five Year Consolidated Plan and Analysis of Impediments to Fair Housing Choice (AI) identify the level of the problem and the urgency in meeting the need, applicants should include references to these documents in the response to this factor.

Other reliable data sources include, but are not limited to, Census reports, HUD Continuum of Care gap analysis and its E-MAP (www.hud.gov/emaps), law enforcement agency crime reports, Public Housing Agencies' Comprehensive Plans, community needs analyses such as those provided by the United Way, the applicant's institution, and other sound, reliable and appropriate sources. Needs in terms of fulfilling court orders or consent decrees, settlements, conciliation agreements, and voluntary compliance agreements may also be addressed.

3. Rating Factor 3: Soundness of Approach (44 Points)

This factor addresses the quality and effectiveness of the proposed work plan and the commitment of the institution to sustain the proposed activities.

a. (37 Points) Quality of the Work Plan. This subfactor will be evaluated on the extent to which an applicant provides a clear detailed description of the proposed project and anticipated accomplishments.

(1) (32 Points) Specific Activities. The work plan must describe all proposed activities and major tasks required to successfully implement the proposed project. In addressing this subfactor applicants must provide a clear description of the proposed activities and address the following:

(a) Describe each activity to successfully implement and complete the proposed project in measurable terms (e.g., the number of persons to be trained and employed; houses to be built or rehabilitated; or minority owned businesses to be started, etc.);

(b) List and describe how each activity meets one of the following Community Development Block Grant (CDBG) Program national objectives:

• Benefit low- and moderate-income persons;

• Aid in the prevention or elimination of slums or blight; or

• Meet other community development needs having a particular urgency because existing conditions pose a serious and immediate threat to the health and welfare of the community, and other financial resources are not available to meet such needs.

Criteria for determining whether an activity addresses one or more objective are provided at 24 CFR 570.208;

(c) Describe the major tasks required (in sequential order) to successfully implement and complete each project activity. Include target completion dates for these tasks (in 6 month intervals, up to 36 months);

(d) Identify the key staff, as described in Factor 1, who will be responsible for completing each task; and

(e) Describe how the project director will work with the partners and citizens to accomplish the proposed activities.

(2) (5 Points) Describe clearly how each proposed activity will:

(a) Expands the role of the institution in the community;

(b) Address the needs identified in Factor 2;

(c) Relate to and not duplicate other activities in the target area. Duplicative effort will be acceptable only if an applicant can demonstrate through documentation that there is a population in need that is not being served; and

(d) Involve and empower citizens of the target area in the proposed project.

b. (3 Points) Involvement of the Faculty and Students. The applicant must describe how it proposes to integrate the institution's students and faculty into proposed project activities.

c. (2 Points) HUD Policy Priorities. To earn points under this subfactor, HUD requires applicants to undertake specific activities that will assist the Department in implementing its policy priorities and that will help the Department achieve its goals and objectives in FY 2007, when the majority of grant recipients will be reporting programmatic results and achievements. In rating this subfactor, HUD will evaluate the extent to which a program will further and support HUD's priorities. The quality of the responses provided to one or more of HUD's priorities will determine the score an applicant can receive. Applicants must describe how each policy priority selected will be addressed. Applicants that just list a priority will receive no points.

The total number of points an applicant can receive under this subfactor is two (2). Each policy priority addressed has a point value of one (1) point with the exception of the policy priority to remove regulatory barriers to affordable housing, which has a point value of up to two (2) points. To receive these two (2) points an applicant must indicate how this priority will be addressed and submit the completed questionnaire (HUD-27300) “HUD's Initiative on Removal of Regulatory Barriers” found in the General Section along with required documentation. It is up to the applicant to determine which of the policy priorities they elect to address to receive the available two (2) points.

d. (2 Points) Economic Opportunities for Low- and Very-Low Income Persons (Provision of Section 3). This subfactor will be evaluated on the extent to which an applicant describes how it proposes to:

(1) Provide opportunities to train and employ lower-income residents of the project area; and

(2) Award substantial contracts to persons residing in the project area.

Regulations regarding the provision of Section 3 of the Housing and Urban Development Act of 1968 (12 U.S.C. 1701u) can be located at 24 CFR Part 135.

4. Rating Factor 4: Leveraging Resources (9 Points)

This factor addresses the ability of the applicant to secure resources that can be combined with HUD's grant funds to achieve the program's purpose.

HUD will consider how well an applicant has established partnerships with other entities to secure additional resources to increase the effectiveness of the proposed project activities. Resources may include funding or in-kind contributions, such as services or equipment, allocated for the purpose(s) of the proposed project activities. Resources may be provided by governmental entities, public or private nonprofit organizations, for-profit private organizations, or other entities. Applicants may also establish partnerships with other program funding recipients to coordinate the use of resources in the target area. Overhead and other institutional costs (e.g., salaries, indirect costs, etc.) that the institution has waived may be counted.

Examples of potential sources for outside assistance include:

• Federal, state, and local governments;

• Local or national nonprofit organizations;

• Financial institutions and/or private businesses;

• Foundations; and

• Faith-based and other community-based organizations.

To address this factor, an applicant must provide an outline in the application and have on file written commitment letters, memoranda of understandings and/or agreements that show the extent and firm commitment of all proposed leveraged resources (including any commitment of resources from the applicant's own institution) that address the following information for each leveraged resource/fund:

(1) The name of the organization and the executive officer authorizing the funds/goods and/or services (Only applicable to the narrative section);

(2) The cash amount contributed or dollar value of the in-kind goods and/or services committed (If a dollar amount and its use is not shown, the funding will not be counted);

(3) A specific description of how each contribution is to be used toward the proposed activities;

(4) The date the contribution will be made available and a statement that describes the duration of the contribution;

(5) Any terms or conditions affecting the commitment, other than receipt of a HUD Grant; and

(6) The signature of the appropriate executive officer authorized to commit the funds and/or goods and/or services (Only applicable to the written documentation). Please remember that only items eligible for funding under this program can be counted.

Commitment letters, memoranda of understandings and/or agreements are not required at the time of application submission but you must have them on file. Applicants selected for award will be required to submit the signed commitment letters, memoranda of understandings and/or agreements outlined in the application, within twenty (20) calendar days after initial contact from the Office of University Partnerships (OUP). Letters, memoranda of understanding, or agreements must be submitted on the provider's letterhead and should be addressed to Sherone Ivey, Acting Associate Deputy Assistant Secretary for University Partnerships. The date of the letter, memorandum of understanding, or agreement from the CEO of the provider organization must be dated no earlier than nine months prior to this published NOFA. OUP will provide specific instructions on how these documents must be submitted when contact is made with the applicant. HUD will only request and consider the resources/organizations that are listed in the outline submitted in the application. If OUP does not receive those documents in the required format and allotted timeframe, an applicant will not receive points under this factor and the application will be rated and ranked to address this point change.

In scoring this factor, HUD will award nine (9) points to an applicant that provides properly documented leveraging resources as listed in their application that are 15 percent or more of the amount requested under this program; six (6) points to applicants that provide properly documented leveraging resources as listed that are 10 to 14 percent of the amount requested under this program; three (3) points to applicants that provide properly documented leveraging resources as listed that are 5 to 9 percent of the amount requested under this program; and zero (0) points to applicants that provide properly documented leveraging resources as listed that are less than 5 percent of the amount requested or resources are not properly documented.

5. Rating Factor 5: Achieving Results and Program Evaluation (12 Points)

This factor reflects HUD's goal to embrace high standards of management and accountability. It measures the applicant's commitment to assess their performance to achieve the program's proposed objectives and goals. Applicants are required to develop an effective, quantifiable, outcome oriented evaluation plan for measuring performance and determining that objectives and goals have been achieved. The Logic Model is a summary of the narrative statements presented in Factors 1-4. Therefore, the information submitted on the logic model should be consistent with the information contained in the narrative statements.

“Outcomes” are benefits accruing to institutions and/or communities during or after participation in the HSIAC program. Applicants must clearly identify the outcomes to be measured and achieved. Examples of outcomes include increased employment opportunities in the target community by a certain percentage, or enhanced family stability through the creation of affordable housing opportunities.

In addition, applicants must establish interim benchmarks and outputs that lead to the ultimate achievement of outcomes. “Outputs” are the direct products of the program's activities. Examples of outputs are the number of new affordable housing units, the number of homes that have been renovated, and the number of community facilities that have been constructed or rehabilitated. Outputs should produce outcomes for the program. At a minimum an applicant must address the following activities in the evaluation plan:

a. Measurable outputs to be accomplished, e.g., the number of persons to be trained and employed; houses to be built (pursuant to 24 CFR 570.207) or rehabilitated; minority-owned businesses to be started;

b. Measurable outcomes the grant will have on the community in general and the target area or population; and

c. The impact the grant will have on assisting the university to obtain additional resources to continue this type of work at the end of the grant performance period.

The information must be place on a HUD-96010, Program Outcome Logic Model form. HUD has developed a new approach to completing this form. Please carefully read the General Section for instructions, training is available. (Form HUD-96010 will be excluded from the page count.) A narrative is not required. However, if a narrative is provided, those pages will be included in the page count.

B. Review and Selection Process

1. Application Selection Process

Two types of reviews will be conducted:

a. A threshold review to determine an applicant's basic eligibility; and

b. A technical review for all applications that pass the threshold review to rate and rank the application based on the “Rating Factors” listed in Section V, A.

Only those applications that pass the threshold review will receive a technical review and be rated and ranked.

2. Rating Panels

To review and rate applications, HUD may establish panels, which may include experts or consultants not currently employed by HUD to obtain certain expertise.

3. Ranking

HUD will fund applications in rank order, until all available program funds are awarded. In order to be funded, an applicant must receive a minimum score of 75 points out of a possible 102 points, which includes up to two bonus points that may be awarded for activities conducted in the RC/EZ/EC-II communities, as described in the General Section. If two or more applications have the same number of points, the application with the most points for Factor 3 shall be selected. If there is still a tie, the application with the most points for Factor 1 shall be selected. If there is still a tie, the application with the most points for Factors 2, 4 and then 5 shall be selected, in that order, until the tie is broken. HUD reserves the right to make selections out of rank order to provide for geographic distribution of grantees. HUD also reserves the right to reduce the amount of funding requested in order to fund as many highly ranked applications as possible. Additionally, if funds remain after funding the highest ranked applications, HUD may fund part of the next highest-ranking application. If an applicant turns down an award offer, HUD will make an award to the next highest-ranking application. If funds remain after all selections have been made, the remaining funds will be carried over to the next funding cycle's competition.

4. Correction to Deficient Applications

See the General Section.

C. Anticipated Announcement and Award Dates

Announcements of awards are anticipated on or before September 30, 2006.

VI. Award Administration Information

A. Award Notice

After all selections have been made, HUD will notify all winning applicants in writing. HUD may require winning applicants to participate in additional negotiations before receiving an official award. For further discussion on this matter, please refer to the General Section.

B. Administrative and National Policy Requirements

Refer to Section VI.B in the General Section.

1. Debriefing. The General Section provides the procedures for requesting a debriefing. All requests for debriefings must be made in writing and submitted within thirty (30) calendar days of receipt of written notification to: Madlyn Wohlman-Rodriguez, Office of University Partnerships, Robert C. Weaver Federal Building 451 Seventh Street, SW, Room 8130 Washington, DC 20410-6000. Applicants may also write to Ms. Wohlman-Rodriguez via e-mail at Madlyn_S._Wohlman-Rodriguez@hud.gov.

2. Administrative. Grants awarded under this NOFA will be governed by the provisions of 24 CFR part 84 (Grants and Agreements with Institutions of Higher Education, Hospitals and Other Non-Profit Organizations), A-21 (Cost Principles for Educational Institutions) and A-133 (Audits of States, Local Governments, and Non-Profit Organizations). Applicants can access the OMB circulars at the White House Web site at www.whitehouse.gov/omb/circulars/index.html.

3. OMB Circulars and Governmentwide Regulations Applicable to Financial Assistance Programs. The General Section provides further discussion.

4. Executive Order 13202, Preservation of Open Competition and Government Neutrality Towards Government Contractors Labor Relations on Federal and Federally Funded Construction Projects. See the General Section for further discussion.

5. Procurement of Recovered Materials. The General Section provides further information.

6. Executive Order 13166, Improving Access to Services For Persons With Limited English Proficiency (LEP). See the General Section for further discussion.

7. Code of Conduct. See the General Section for further discussion.

C. Reporting

All grant recipients under this NOFA are required to submit semi-annual progress reports. The progress reports shall consist of two components, a narrative that must reflect the activities undertaken during the reporting period and a financial report that reflects costs incurred by budget line items, as well as a cumulative summary of costs incurred during the reporting period.

For each reporting period, as part of the required report to HUD, grant recipients must include a completed Logic Model (HUD-96010), which identifies output and outcome achievements.

For FY2006, HUD is considering a new concept for the Logic Model. The new concept is a Return on Investment (ROI) statement. HUD will be publishing a separate notice on the ROI concept.

VII. Agency Contacts

Applicants may contact Madlyn Wohlman-Rodriguez at (202) 708-3061, extension 5939 or Susan Brunson, at (202) 708-3061, extension 3852. Persons with speech or hearing impairments may call the Federal Information Relay Service (TTY) at (800) 877-8339. Except for the “800” number, these numbers are not toll-free. Applicants may also reach Ms. Rodriguez via email at Madlyn_S._Wohlman-Rodriguez@hud.gov, and/or Ms. Brunson at Susan_S._Brunson@hud.gov.

VIII. Other Information

Paperwork Reduction Act

The information collection requirements contained in this document have been approved by the Office of Management and Budget (OMB) under the Paperwork Reduction Act of 1995 (44 U.S.C. 3501-3520) and assigned OMB control number 2528-0198. In accordance with the Paperwork Reduction Act, HUD may not conduct or sponsor, and a person is not required to respond to, a collection of information unless the collection displays a currently valid OMB control number. Public reporting burden for the collection of information is estimated to average 59 hours per annum per respondent for the application and grant administration. This includes the time for collecting, reviewing, and reporting the data for the application semi-annual and final reports. The information will be used for grantee selection and monitoring the administration of funds. Response to this request for information is required in order to receive the benefits to be derived.

Appendix A—Application Checklist—HSIAC

This checklist identifies application submission requirements. Applicants are requested to use this checklist when preparing an application to ensure submission of all required elements. Applicants submitting an electronic application do not have to submit the checklist. Applicants that receive a waiver of the electronic application submission requirement must include a copy of the checklist in their application.

Check off to ensure these items have been included in the application:

__SF-424 “Application For Federal Assistance”

__Application Checklist (Applicants that submit paper applications must include the checklist in their applications)

__Abstract (must include no more than a two-page summary of the proposed project)

Indicate the page number where each of the Factors is located:

Narrative Statement Addressing the Rating Factors.

The narrative section of an application must not exceed 50 pages in length (excluding forms, budget narrative and abstract). This information must be submitted on 8½ by 11-inch paper, double-spaced on one side of the paper, with one-inch margins (from the top, bottom, left, and right sides of the documents) and printed in standard Times New-Roman 12-point font.

__Factor I

__Factor II

__Factor III

__Factor IV

__Factor V

__HUD-96010 “Logic Model”

Check off to ensure these items have been included in the application:

__Appendix

__Budget

__HUD 424-CB” Grant Application Detailed Budget”

__Budget Narrative (No form provided, but must be submitted for the total three-year grant period.

Appendix B (All Required Forms)

The following forms are required for submission. All required forms are contained in the electronic application package.

__Application for Federal Assistance (SF-424);

__Survey on Ensuring Equal Opportunity for Applicants (SF-424 Supplement); Disclosure of Lobbying Activities (SF-LLL), if applicable;

__Grant Application Detailed Budget (HUD-424-CB);

__America's Affordable Communities Initiative (HUD-27300), if applicable;

__Applicant/Recipient Disclosure/Update Report (HUD-2880);

__Certification of Consistency with RC/EZ/EC-II Strategic Plan (HUD-2990), if applicable;

__Certification of Consistency with the Consolidated Plan (HUD-2991), if applicable;

__Acknowledgement of Applicant Receipt (Only applicants who submit paper applications (HUD-2993);

__You Are Our Client Grant Applicant Survey (HUD-2994-A);

__Facsimile Transmittal (HUD-96011), to be used as the cover page to transmit third party documents via facsimile, if applicable (See General Section); and

__Logic Model (HUD-96010)

BILLING CODE 4210-01-P

Alaska Native/Native Hawaiian Institutions Assisting Communities (AN/NHIAC) Program

Overview Information

A. Federal Agency Name: Department of Housing and Urban Development, Office of Policy Development and Research, Office of University Partnerships.

B. Funding Opportunity Title: Alaska Native/Native Hawaiian Institutions Assisting Communities (AN/NHIAC) Program.

C. Announcement Type: Initial announcement.

D. Funding Opportunity Numbers: The Federal Register Number is FR-5030-N-20. The OMB Approval Number is 2528-0206.

E. Catalog of Federal Domestic Assistance (CFDA) Number: The CFDA Number for this program is 14.515.

F. Dates: The application deadline date is May 19, 2006. Please be sure to read the General Section for electronic application submission and receipt requirements.

G. Additional Overview Content Information.

1. Purpose of the Program: To assist Alaska Native/Native Hawaiian Institutions (AN/NHI) of higher education expand their role and effectiveness in addressing community development needs in their localities, including neighborhood revitalization, housing, and economic development, principally for persons of low- and moderate-income, consistent with the purposes of Title I of the Housing and Community Development Act of 1974, as amended.

2. Award Information: In Fiscal Year (FY) 2006, approximately $2.97 million has been made available for this program by the Department of Housing and Urban Development Appropriations Act, 2006 (Pub. L. 109-115; approved Nov. 30, 2005) and an additional $238,000 in carryover funds. An applicant can request up to $800,000 for a three-year (36 months) grant performance period.

3. Eligible Applicant: Nonprofit Alaska Native and Native Hawaiian Institutions of Higher Education that meet the definitions of Alaska Native and Native Hawaiian Institutions of Higher Education established in Title III, Part A, Section 317 of the Higher Education Act of 1965, as amended by the Higher Education Amendments of 1998 (Pub. L. 105-244; enacted October 7, 1998). Institutions are not required to be on the list of eligible AN/NHIs prepared by the U.S. Department of Education. However, an institution that is not on the list is required to provide a statement in the application that the institution meets the U.S. Department of Education's statutory definition of an AN/NHI institution. In order to meet the definition of an Alaska Native Institution, at least 20 percent of the undergraduate headcount enrollment must be Alaska Native students. If an applicant is a Native Hawaiian institution, at least 10 percent of the undergraduate headcount enrollment must be Native Hawaiian students in order to meet this definition. In addition, all applicants must be fully accredited by a national or regional accrediting agency recognized by the U.S. Department of Education. If an applicant is one of several campuses of the same institution, the applicant may apply separately from the other campuses as long as the campus has a separate administrative structure and budget and meets the enrollment test outlined above.

Full Text of Announcement

I. Funding Opportunity Description

The purpose of the Alaska Native/Native Hawaiian Institutions Assisting Communities (AN/NHIAC) Program is to assist Alaska Native/Native Hawaiian Institutions (AN/NHI) of higher education expand their role and effectiveness in addressing community development needs in their localities, including neighborhood revitalization, housing, and economic development, principally for persons of low- and moderate-income, consistent with the purposes of Title I of the Housing and Community Development Act of 1974, as amended.

A. Authority

HUD's authority for making funding available under this NOFA is the Department of Housing and Urban Development Appropriations Act, 2006 (Pub. L. 109-115; approved Nov. 30, 2005). This program is being implemented through this NOFA and the policies governing its operation are contained herein.

B. Modifications

Listed below are major modifications from the Fiscal Year (FY) 2005 program-funding announcement:

1. Commitment letters, memoranda of understandings and/or agreements are not required at the time of application submission but must be on file. Applicants selected for award will be required to submit the signed commitment letters, memoranda of understandings and/or agreements outlined in the application, within twenty (20) calendar days after initial contact from the Office of University Partnerships (OUP). OUP will provide specific instructions on how these documents must be submitted at that time. HUD will only request and consider the resources/organizations outlined in the application. If OUP does not receive those documents in the required format and allotted timeframe, an applicant will not receive points under this factor and the application will be rated and ranked to address this point change.

In scoring this factor, HUD will rate an applicant that provides leveraging resources that are 15 percent or more of the amount requested under this program and that are properly documented, as listed below, will be awarded nine (9) points; applicants that provide leveraging resources that are 10-14 percent of the amount requested under this program and that are properly documented, as listed below, will be awarded six (6) points; applicants that provide leveraging resources that are 5-9 percent of the amount requested under this program and that are properly documented, as listed below, will be awarded three (3) points; applicants that provide leveraging resources that are less than 5 percent of the amount requested or resources are not properly documented will receive zero points.

2. All applicants submitting electronic applications must attach their narrative responses to Rating Factors 1-5 as one attachment. PLEASE DO NOT ATTACH YOUR RESPONSE TO EACH FACTOR SEPARATELY.

II. Award Information

In Fiscal Year (FY) 2006, approximately $2.97 million is made available for this program and an additional $238,000 in carryover funds. HUD will award grants under this program to Alaska Native Institutions (ANI) and Native Hawaiian Institutions (NHI). An applicant can request up to $800,000 for a three-year (36 months) grant performance period.

III. Eligibility Information

A. Eligible Applicants

Nonprofit Alaska Native and Native Hawaiian Institutions of Higher Education that meet the definitions of Alaska Native and Native Hawaiian Institutions of Higher Education established in Title III, Part A, Section 317 of the Higher Education Act of 1965, as amended by the Higher Education Amendments of 1998 (Pub. L. 105-244; enacted October 7, 1998). Institutions are not required to be on the list of eligible AN/NHIs prepared by the U.S. Department of Education. However, an institution that is not on the list is required to provide a statement in the application that the institution meets the U.S. Department of Education's statutory definition of an AN/NHI institution. In order to meet the definition of an Alaska Native Institution, at least 20 percent of the undergraduate headcount enrollment must be Alaska Native students. If an applicant is a Native Hawaiian institution, at least 10 percent of the undergraduate headcount enrollment must be Native Hawaiian students in order to meet this definition. In addition, all applicants must be fully accredited by a national or regional accrediting agency recognized by the U.S. Department of Education. If an applicant is one of several campuses of the same institution, the applicant may apply separately from the other campuses as long as the campus has a separate administrative structure and budget and meets the enrollment test outlined above.

B. Cost Sharing or Matching

None required.

C. Other

1. Eligible Activities

Eligible activities are listed in 24 CFR Part 570, subpart C, particularly § 570.201 through 570.206. Information regarding these activities can be found at: www.hudclips.org (click on the Code of Federal Regulations for detailed information).

Eligible activities include, but are not limited to:

a. Acquisition of real property;

b. Clearance and demolition;

c. Rehabilitation of residential structures and compliance with the accessibility requirements contained in Section 504 of the Rehabilitation Act of 1973;

d. Acquisition, construction, reconstruction, rehabilitation, or installation of public facilities and improvements, such as water and sewer facilities and streets; including lead-based paint hazard evaluation and reduction and compliance with the accessibility requirements contained in Section 504 of the Rehabilitation Act of 1973 and Americans with Disabilities Act of 1990;

e. Direct homeownership assistance to low- and moderate-income persons, as provided in section 105(a) (25) of the Housing and Community Development Act of 1974;

f. Special economic development activities described at 24 CFR 570.203 and assistance to facilitate economic development by providing technical or financial assistance for the establishment, stabilization, and expansion of microenterprises, including minority enterprises;

g. Assistance to community-based development organizations (CBDO) to carry out neighborhood revitalization, community economic development, or energy conservation projects, in accordance with 24 CFR 570.204. This could include activities in support of a HUD-approved local entitlement grantee, CDBG Neighborhood Revitalization Strategy (NRS) or HUD-approved State CDBG Community Revitalization Strategy (CRS);

h. Public service activities such as general support activities that can help to stabilize a neighborhood and contribute to sustainable redevelopment of the area, including but not limited to such activities as those concerned with employment, crime prevention, child care, health care services, drug abuse, education, housing counseling, energy conservation, homebuyer down payment assistance, establish and maintain Neighborhood Network centers in federally assisted or insured housing, job training and placement and recreational needs;

i. Fair housing services designed to further the civil rights objectives of the Fair Housing Act (42 U.S.C. 3601-20) by making all persons, without regard to race, color, religion, sex, national origin, familial status, and/or disability aware of the range of housing opportunities available to them;

j. Up to 20 percent of the grant may be used for payments of reasonable grant administrative costs related to planning and execution of the project (e.g., preparation/submission of HUD reports, etc.). Detailed explanations of these costs are provided in the OMB circulars that can be accessed at the White House Web site at: www.whitehouse.gov/omb/circulars/index.html; and

Each activity proposed for funding must meet the Community Development Block Grant (CDBG) Program eligibility requirements and at least one national objective.

The three national objectives of the Community Development Block Grant program are:

(1) Benefit to low-or moderate-income persons;

(2) Aid in the prevention or elimination of slums or blight; and

(3) Meet other community development needs having a particular urgency because existing conditions pose a serious and immediate threat to the health and welfare of the community, and other financial resources are not available to meet such needs.

Criteria for determining whether an activity addresses one or more of these objectives are provided at 24 CFR 570.208.

The CDBG publication entitled “Community Development Block Grant Program Guide to National Objectives and Eligible Activities for Entitlement Communities” describes the CDBG regulations, and a copy can be obtained from HUD's NOFA Information Center at 800-HUD-8929 or 800-HUD-2209 for the hearing- or speech-impaired.

2. Audit Requirements

See the General Section.

3. Threshold Requirements Applicable to All Applicants

All applicants must comply with the threshold requirements as defined in the General Section and the requirements listed below. Applications that do not meet these requirements will be considered ineligible for funding and will be disqualified.

a. The applicant must meet the eligibility requirements as defined in Section III.A

b. The applicant may request up to $800,000.

c. Only one application can be submitted per campus. If multiple applications are submitted, all will be disqualified. However, different campuses of the same university system are eligible to apply as long as they have an administrative and budgeting structure independent of the other campuses in the system.

d. Institutions that received grants in FY 2005 are not eligible to submit an application under this NOFA.

e. Applicants must receive a minimum score of 75 points to be considered for funding.

f. An applicant must have a DUNS number to receive HUD grant funds (See the General Section).

g. Electronic applications must be received and validated by Grants.gov no later than 11:59:59 p.m. eastern time on the application deadline date of May 19, 2006.

4. Program Requirements

In addition to the program requirements listed in Section III.C of the General Section, applicants must meet the following program requirements:

a. All funds awarded are for a three-year (36 months) grant performance period.

b. Applicants must ensure that not less than 51 percent of the aggregated expenditures of a grant award are used to benefit low- and moderate-income persons under the criteria specified in 24 CFR 570.208(a) or 570.208(d)(5) or (6).

c. Site Control. Where grant funds will be used for acquisition, rehabilitation, or new construction, an applicant must demonstrate site control. Funds may be recaptured or deobligated from applicants that cannot demonstrate control of a suitable site within one year after the initial notification of award.

d. Environmental Requirements. Selection for award does not constitute approval of any proposed sites. Following selection for award, HUD will perform an environmental review of properties proposed for assistance in accordance with 24 CFR part 50. The results of the environmental review may require that proposed activities be modified or proposed sites be rejected. Applicants are particularly cautioned not to undertake or commit funds for acquisition or development of proposed properties prior to HUD approval of specific properties or areas. An application constitutes an assurance that the institution will assist HUD to comply with part 50; will supply HUD with all available and relevant information to perform an environmental review for each proposed property; will carry out mitigating measures required by HUD or select alternate property; and will not acquire, rehabilitate, convert, demolish, lease, repair, or construct property, and not commit or expend HUD or local funds for these program activities with respect to any eligible property until HUD's written approval of the property is received. In supplying HUD with environmental information, applicants should use the same guidance as provided in the HUD Notice CPD-05-07 entitled, “Field Environmental Review Processing for Rural Housing and Economic Development (RHED) grants” issued August 30, 2005. The General Section provides further discussion of the environmental requirements. Further information and assistance on HUD's environmental requirements is available at: http://hudstage.hud.gov/utilities/intercept.cfm?/offices/cpd/lawsregs/notices/2005/05-07.pdf.

e. Labor Standards. Institutions and their subgrantees, contractors, and subcontractors must comply with the labor standards (Davis-Bacon) requirements referenced in 24 CFR 570.603.

f. Economic Opportunities for Low- and Very-Low Income Persons (Section 3). The provisions of Section 3 of the Housing and Urban Development Act of 1968 (12 U.S.C. 1701u) apply to this NOFA and requires that to the greatest extent feasible opportunities for training and employment be given to lower-income residents of the project and contracts for work in connection with the project be awarded in substantial part to persons residing in the area of the project. Regulations are located at 24 CFR Part 135.

IV. Application and Submission Information.

A. Address To Request Application Package

Applicants may download the instructions to the application found on the Grants.gov Web site at http://www.Grants.gov./Apply. If you have difficulty accessing the information you may call the Grants.gov Support Desk toll free 800-518-GRANTS or e-mail your questions to Support@Grants.gov. See the General Section for information regarding the registration process or ask for registration information from the Grants.gov Support Desk.

B. Content and Form of Application Submission

1. Forms

The following forms are required for submission. Copies of these forms are available on line at http://www.hud.gov/offices/adm/grants/nofa06/snofaforms.cfm.

a. Application for Federal Assistance (SF-424);

b. Survey on Ensuring Equal Opportunity for Applicants (SF-424 Supplement);

c. Grant Application Detailed Budget (HUD-424-CB);

d. Disclosure of Lobbying Activities (SF-LLL), if applicable;

e. America's Affordable Communities Initiative (HUD-27300), if applicable;

f. Applicant/Recipient Disclosure/Update Report (HUD-2880);

g. Program Logic Model (HUD-96010);

h. Acknowledgement of Applicant Receipt (HUD-2993). Complete this form only if you have received a waiver to the electronic application submission requirement. Applicants submitting electronically are not required to include this form;

i. Facsimile Transmittal Cover Page (HUD-96011). This form must be used as the cover page to transmit third-party documents and other information. Applicants are advised to download the application package, complete the SF-424 first and it will pre-populate the Transmittal Cover page. The Transmittal Cover page will contain a unique identifier embedded in the page that will help HUD associate your faxed materials to your application. Please download the cover page and then make multiple copies to provide to any of the entities responsible for submitting faxed materials to HUD on your behalf. Please do not use your own fax sheet. HUD will not read any faxes that are sent without the HUD-96011 fax transmittal cover page; and

j. You Are Our Client Grant Applicant Survey (HUD-2994-A). Applicants are not required to complete this form.

2. Certifications and Assurances

Please read the General Section for detailed information on all Certifications and Assurances. All applications submitted through Grants.gov constitute an acknowledgement and agreement to all required certifications and assurances. Please include in your application each item listed below. Applicants submitting paper copy applications should submit the application in the following order:

a. SF-424, Application for Federal Assistance. Please remember the following:

(1) The full grant amount requested from HUD (entire three years) should be entered, not the amount for just one year;

(2) Include the name, title, address, telephone number, facsimile number, and e-mail address of the designated contact, this is the person who will receive all correspondence; therefore, please ensure the accuracy of the information;

(3) The Employer Identification/Tax ID number;

(4) The DUNS Number;

(5) The Catalog of Federal Domestic Assistance Number for this program is 14.515;

(6) The project's proposed start date and completion date. For the purpose of this application, the program start date should be December 1, 2006; and

(7) The signature of the Authorized Organization Representative (AOR) who, by virtue of submitting an application via Grants.gov, has been authenticated by the credential provider to submit applications on behalf of the Institution and approved by the eBusiness Point of Contact to submit an application via Grants.gov. The AOR must be able to make a legally binding agreement with HUD. For details on the Grants.gov registration process see HUD's Notice on Early Registration published in the Federal Register on December 9, 2005 (70 FR 73331).

b. Application Checklist. Applicants should use the checklist to ensure that they have all the required components of their application. Applicants submitting an electronic application should not submit the checklist. Applicants that receive a waiver of the electronic application submission requirement must include a copy of the checklist in their application submission. The checklist can be located in Appendix A.

c. Abstract. Applicants must include no more than a two-page summary of the proposed project. Please include the following:

(1) A clear description of the proposed project activities, where they will take place (be located), the target population that will be assisted, and the impact this project is expected to have on the community and institution;

(2) A statement that the institution is an eligible institution because it is a two-or four-year fully accredited institution, the name of the accrediting agency and an assurance that the accrediting agency is recognized by the U.S. Department of Education;

(3) A statement that the institution meets the definition of an Alaska Native Institution, or a Native Hawaiian Institution, as appropriate;

(4) The designated contact person, including phone number, facsimile number, and e-mail address. (This is the person who will receive all correspondence; therefore, please ensure the accuracy of the information);

(5) The project director, if different from the designated contact person, for the project, including phone number, facsimile number, and e-mail address.

d. Narrative statement addressing the Rating Factors. HUD will use the narrative response to the “Rating Factors” to evaluate, rate, and rank applications. The narrative statement is the main source of information. Applicants are advised to review each factor carefully for program specific requirements. The response to each factor should be concise and contain only information relevant to the factor, yet detailed enough to address each factor fully. Please do not repeat material in response to the five factors; instead, focus on how well the proposal responds to each of the factors. Where there are subfactors, each subfactor must be presented separately, with the short title of the subfactor presented. Make sure to address each subfactor and provide sufficient information about every element of the subfactor. The narrative section of an application must not exceed 50 pages in length (excluding forms, budget narrative, assurances, and abstract) and must be submitted on 8½ by 11-inch paper, double-spaced on one side of the paper, with one-inch margins (from the top, bottom and left to right side of the document) and printed in standard Times New Roman 12-point font. Each page of the narrative must include the applicant's name and should be numbered. Note that although submitting pages in excess of the page limit will not disqualify an applicant, HUD will not consider the information on any excess pages. This exclusion may result in a lower score or failure to meet a threshold requirement. All applicants submitting electronic applications must attach their narrative responses to Rating Factors 1-5 as one attachment. PLEASE DO NOT ATTACH YOUR RESPONSE TO EACH FACTOR SEPARATELY.

e. Budget. The budget submission must include the following:

(1) HUD-424-CB, “Grant Application Detailed Budget.” This form shows the total budget by year and by line item for the program activities to be carried out with the proposed HUD grant. Each year of the program should be presented separately. Applicants must also submit this form to reflect the total cost for the entire grant performance period (Grand Total).

Make sure that the amounts shown on the SF-424, the HUD-424-CB and on all other required program forms are consistent and the budget totals are correct. Remember to check addition in totaling the categories on all forms so that all items are included in the total. If there is any inconsistency between any of the required budget forms, the HUD-424-CB will be used. All budget forms must be fully completed. If an application is selected for award, the applicant may be required to provide greater specificity to the budget during grant agreement negotiations.

(2) Budget Narrative. A narrative must be submitted that explains how the applicant arrived at the cost estimates for any line item over $5,000 cumulative. For example, an applicant proposes to construct a building using HUD funding totaling $200,000. The following cost estimate reflects this total. Foundation cost $75,000, electrical work $40,000, plumbing work $40,000, finishing work $35,000, and landscaping $10,000. The proposed cost estimates should be reasonable for the work to be performed and consistent with rates established for the level of expertise required to perform the work proposed in the geographical area. When necessary, quotes from various vendors or historical data should be used (please make sure they are kept on file and are available for review by HUD at any time). When an applicant proposes to use a consultant, the applicant must indicate whether there is a formal written agreement. For each consultant, please provide the name, if known, hourly or daily rate, and the estimated time on the project. Applicants must use cost estimates based on historical data from the institution and/or from a qualified firm (e.g., Architectural or Engineering firm), vendor, and/or qualified individual (e.g., independent architect or contractor) other than the institution for projects that involve rehabilitation of residential, commercial and/or industrial structures, and/or acquisition, construction, or installation of public facilities, and improvements. Such an entity must be involved in the business of housing rehabilitation, construction, and/or management. Equipment and contracts cannot be presented as a total estimated cost. For equipment, applicants must provide a list by type and cost for each item. Applicants using contracts must provide an individual description and cost estimate for each contract. Construction costs must be broken down to indicate how funds will be utilized (e.g., demolition, foundation, exterior walls, roofing, electrical work, plumbing, finishing work, etc.)

(3) Indirect costs. Indirect costs, if applicable, are allowable based on an established approved indirect cost rate. Applicants must have on file, and submit to HUD if selected for award, a copy of their indirect cost rate agreement. Applicants who are selected for funding that do not have an approved indirect cost rate agreement, established by the cognizant federal agency, will be required to establish a rate. In such cases, HUD will issue an award with a provisional rate and assist applicants with the process of establishing a final rate.

f. Appendix. Applicants receiving a waiver of the electronic submission requirements and submitting a paper copy of the application must place all required forms in this section. An applicant SHOULD NOT submit resumes, or other back-up materials. If this information is included, it will not be considered during the review process.

C. Submission Dates and Times

A complete application package must be received and validated electronically by the Grants.gov no later than 11:59:59 p.m. eastern time on or before the application deadline date of May 19, 2006. In an effort to address any issues with transmission of your applications, applicants are strongly encouraged to submit their applications prior to the application deadline. This will allow an applicant enough time to make the necessary adjustments to meet the submission. Please see the General Section for further instructions. Electronic faxes using the Facsimile Transmittal cover sheet (Form HUD-96011) contained in the electronic application must be received no later than 11:59:59 p.m. eastern time on the application deadline date.

D. Intergovernmental Review

This program is excluded from an Intergovernmental Review.

E. Funding Restrictions

Ineligible CDBG Activities are listed at 24 CFR 570.207. Ineligible activities include but are not limited to:

1. New construction of public housing;

2. General government expenses;

3. Political activities;

4. Planning and administrative activities that would result in a grantee exceeding the 20 percent cost limitation on such activities;

5. Development and/or expansion of an institution's existing curriculum when it is primarily to enhance the institution rather than to achieve the specific goals/objectives of the proposed project; and

6. Construction, renovation, expansion of an institution's own facilities.

F. Other Submission Requirements

1. Application Submission and Receipt Procedure

Please read the General Section carefully and completely for the submission and receipt procedures for all applications because failure to comply may disqualify your application.

2. Waiver of Electronic Submission Requirements

Please refer to the General Section for further discussion. Paper applications will not be accepted from applicants that have not been granted a waiver. If an applicant is granted a waiver, the Office of University Partnerships will provide instructions for submission. Applicants that submit a paper application must be received by or before on the application deadline date.

V. Application Review Information

A. Criteria

1. Rating Factor 1: Capacity of the Applicant and Relevant Experience (25 Points)

This factor addresses the extent to which the applicant has the resources necessary to successfully implement the proposed project in a timely manner.

a. Knowledge and Experience. For First Time Applicants (25 Points) For Previously Funded Applicants (13 Points). In rating this subfactor, HUD will consider the extent to which the applicant clearly addresses the following:

(1) Describe the knowledge and experience of the proposed project director and staff, including the day-to-day program manager/coordinator, consultants (including technical assistance providers), and contractors in planning and managing the type of project for which funding is being requested; and

(2) Clearly identify the following: key project team members, titles (e.g., project manager/coordinator, etc.), respective roles for the project staff, and a brief description of their relevant experience.

If key personnel have not been hired, applicants must identify the position title, provide a description of duties and responsibilities, and describe the qualifications to be considered in the selection of personnel, including subcontractors and consultants.

Experience will be judged in terms of recent and relevant knowledge and skills of the staff to undertake eligible program activities. HUD will consider experience within the last five (5) years to be recent and experience pertaining to similar activities to be relevant.

b. Past Performance (12 Points) For Previously Funded Applicants Only. This subfactor will evaluate how well an applicant has performed successfully under HUD/AN/NHIAC grants. Applicants must demonstrate this by addressing the following information for all previously completed and open HUD/AN/NHIAC grants:

(1) A list of all HUD/AN/NHIAC grants received, including the dollar amount awarded and the amount expended and obligated as of the date of this application;

(2) A description of the achievement of specific tasks, measurable objectives, and specific outcomes consistent with the approved project management plan;

(3) A list detailing the date the project(s) was completed, was it completed in the original three-year grant performance period; if not completed, why (including when it was or will be completed);

(4) A comparison of the amount of proposed leveraged funds and/or resources to the amount that was actually leveraged; and

(5) A detailed description of compliance with all reporting requirements, including timeliness of submission, whether reports were complete and addressed all information (both narrative and financial) as required by the grant agreement.

HUD will also review an applicant's past performance in managing funds, including, but not limited to: The ability to account for funding appropriately; timely use of funds received from HUD; meeting performance targets for completion of activities. In evaluating past performance, HUD reserves the right to deduct up to five (5) points from this rating score as a result of the information obtained from HUD's records (i.e., progress and financial reports, monitoring reports, Logic Model submissions, and amendments).

2. Rating Factor 2: Need/Extent of the Problem (10 Points)

This factor addresses the extent to which there is a need for funding the proposed program activities and an indication of the importance of meeting the need(s) in the target area. The need(s) described must be relevant to the activities for which funds are being requested. In addressing this factor, applicants should provide, at a minimum, the following and must cite statistics and/or analyses contained in at least one or more current data sources that are sound and reliable.

(1) Describe the need(s); and

(2) Describe the importance of meeting the proposed needs.

In rating this factor, HUD will consider only current data that is specific to the area where the proposed project activities will be carried out. Sources for localized data can be found at: www.ffiec.gov.

HUD will consider data collected within the last five (5) years to be current. To the extent that the targeted community's Five (5) Year Consolidated Plan and Analysis of Impediments to Fair Housing Choice (AI) identify the level of the problem and the urgency in meeting the need, applicants should include references to these documents in the response to this factor.

Other reliable data sources include, but are not limited to, Census reports, HUD Continuum of Care gap analysis and its E-MAP (http://www.hud.gov/emaps), law enforcement agency crime reports, Public Housing Agencies' Comprehensive Plans, community needs analyses such as provided by the United Way, the applicant's institution, and other sound, reliable and appropriate sources. Needs in terms of fulfilling court orders or consent decrees, settlements, conciliation agreements, and voluntary compliance agreements may also be addressed.

3. Rating Factor 3: Soundness of Approach (44 Points)

This factor addresses the quality and effectiveness of the proposed work plan and the commitment of the institution to sustain the proposed activities.

a. (37 Points) Quality of the Work Plan. This subfactor will be evaluated on the extent to which an applicant provides a clear detailed description of the proposed project and anticipated accomplishments.

(1) (32 Points) Specific Activities. The work plan must describe all proposed activities and major tasks required to successfully implement the proposed project. In addressing this subfactor applicants must provide a clear description of the proposed activities and address the following:

(a) Describe each activity to successfully implement and complete the proposed project in measurable terms (e.g., the number of homes that will be renovated, the number of jobs created, etc.);

(b) List and describe how each activity meets one of the following Community Development Block Grant (CDBG) Program national objectives:

• Benefit low- and moderate-income persons;

• Aid in the prevention or elimination of slums or blight; or

• Meet other community development needs having a particular urgency because existing conditions pose a serious and immediate threat to the health and welfare of the community, and other financial resources are not available to meet such needs.

Criteria for determining whether an activity addresses one or more objectives are provided at 24 CFR 570.208;

(c) Describe the major tasks required (in sequential order) to successfully implement and complete each project activity. Include the target completion dates for these tasks (in 6 month intervals, up to 36 months);

(d) Identify key staff, as described in Factor 1, who will be responsible and accountable for completing each task; and

(e) Describe how the project director will work with partners and citizens to accomplish the proposed activities.

(2) (5 Points) Describe clearly how each proposed activity will:

(a) Expand the role of the institution in the community;

(b) Address the needs identified in Factor 2;

(c) Relate to and not duplicate other activities in the target area. Duplicative effort will be acceptable only if an applicant can demonstrate through documentation that there is a population in need that is not being served; and

(d) Involve and empower citizens of the target area in the proposed project.

b. (3 Points) Involvement of the faculty and students. The applicant must describe how it proposes to integrate the institution's students and faculty into the proposed project activities.

c. (2 Points) HUD Policy Priorities. To earn points under this subfactor, HUD requires applicants to undertake specific activities that will assist the Department in implementing its policy priorities and that help the Department achieve its goals and objectives in FY 2007, when the majority of grant recipients will be reporting programmatic results and achievements. In rating this subfactor, HUD will evaluate the extent to which a program will further and support HUD's priorities. The quality of the responses provided to one or more of HUD's priorities will determine the score an applicant can receive. Applicants must describe how each policy priority selected will be addressed. Applicants that just list a priority will receive no points.

The total number of points an applicant can receive under this subfactor is two (2). Each policy priority addressed has a point value of one (1) point with the exception of the policy priority to remove regulatory barriers to affordable housing, which has a point value of up to two (2) points. To receive these two (2) points an applicant must indicate how this priority will be addressed and submit the completed questionnaire (HUD-27300) “HUD's Initiative on Removal of Regulatory Barriers” found in the General Section along with required documentation. It is up to the applicant to determine which of the policy priorities they elect to address to receive the available two (2) points.

d. (2 Points) Economic Opportunities for Low- and Very-Low Income Persons (Provision of Section 3). This subfactor will be evaluated on the extent to which an applicant describes how it proposes to:

(1) Provide opportunities to train and employ lower-income residents of the project area; and

(2) Award substantial contracts to persons residing in the project area.

Regulations regarding the provision of Section 3 of the Housing and Urban Development Act of 1968 (12 U.S.C. 1701u) can be located at 24 CFR Part 135.

4. Rating Factor 4: Leveraging Resources (9 Points)

This factor addresses the ability of the applicant to secure resources that can be combined with HUD's grant funds to achieve the program's purpose.

HUD will consider the extent to which the applicant established partnerships with other entities to secure additional resources to increase the effectiveness of the proposed project activities. Resources may include funding or in-kind contributions, such as services or equipment, allocated for the purpose(s) of the project activities. Resources may be provided by governmental entities, public or private nonprofit organizations, for-profit private organizations, or other entities. Applicants may also establish partnerships with other program funding recipients to coordinate the use of resources in the target area. Overhead and other institutional costs (e.g., salaries, indirect costs, etc.) that the institution has waived may be counted. Examples of potential sources for outside assistance include:

• Federal, state, and local governments

• Public Housing Agencies

• Local or national nonprofit organizations

• Financial institutions and/or private businesses

• Foundations

• Faith-based and other community-based organizations.

To address this factor, an applicant must provide an outline in the application and have on file written commitment letters, memoranda of understandings and/or agreements that show the extent and firm commitment of all proposed leveraged resources (including any commitment of resources from the applicant's own institution) that address the following information for each leveraged resource/fund:

(1) The name of the organization and the executive officer authorizing the funds/goods and/or services (Only applicable to the narrative section)

(2) The cash amount contributed or dollar value of the in-kind goods and/or services committed (If a dollar amount and its use is not shown, the funding will not be counted);

(3) A specific description of how each contribution is to be used toward the proposed activities;

(4) The date the contribution will be made available and a statement that describes the duration of the contribution;

(5) Any terms or conditions affecting the commitment, other than receipt of a HUD Grant; and

(6) The signature of the appropriate executive officer authorized to commit the funds and/or goods and/or services. (Only applicable to the written documentation) Please remember that only items eligible for funding under this program can be counted.

Commitment letters, memoranda of understandings and/or agreements are not required at the time of application submission but you must have them on file. Applicants selected for award will be required to submit the signed commitment letters, memoranda of understandings and/or agreements outlined in the application, within twenty (20) calendar days after initial contact from the Office of University Partnerships (OUP). Letters, memoranda of understanding, or agreements must be submitted on the provider's letterhead and should be addressed to Sherone Ivey, Acting Associate Deputy Assistant Secretary for University Partnerships. The date of the letter, memorandum of understanding, or agreement from the CEO of the provider organization must be dated no earlier than nine months prior to this published NOFA. OUP will provide specific instructions on how these documents must be submitted when contact is made with the applicant. HUD will only request and consider the resources/organizations that are listed in the outline submitted in the application. If OUP does not receive those documents in the required format and allotted timeframe, an applicant will not receive points under this factor and the application will be rated and ranked to address this point change.

In scoring this factor, HUD will award nine (9) points to an applicant that provides properly documented leveraging resources as listed in their application that are 15 percent or more of the amount requested under this program; six (6) points to applicants that provide properly documented leveraging resources as listed that are 10-14 percent of the amount requested under this program; three (3) points to applicants that provide properly documented leveraging resources as listed that are 5-9 percent of the amount requested under this program; and zero (0) points to applicants that provide properly documented leveraging resources as listed that are less than 5 percent of the amount requested or resources are not properly documented.

5. Rating Factor 5: Achieving Results and Program Evaluation (12 Points)

This factor reflects HUD's goal to embrace high standards of management and accountability. It measures the applicant's commitment to assess their performance to achieve the program's proposed objectives and goals. Applicants are required to develop an effective, quantifiable, outcome oriented evaluation plan for measuring performance and determining that objectives and goals have been achieved. The Logic Model is a summary of the narrative statements presented in Factors 1-4. Therefore, the information submitted on the logic model should be consistent with the information contained in the narrative statements.

“Outcomes” are benefits accruing to institutions of higher education and/or communities during or after participation in the AN/NHIAC program. Applicants must clearly identify the outcomes to be measured and achieved. Examples of outcomes include increased community development in the target community by a certain percentage, increased employment opportunities in the target community by a certain percentage, increased incomes/wages or other assets for persons trained, and/or enhanced family stability through the creation of affordable housing opportunities.

In addition, applicants must establish interim benchmarks and outputs that lead to the ultimate achievement of outcomes. “Outputs” are the direct products of the program's activities. Examples of outputs are the number of new affordable housing units, the number of homes that have been renovated, and the number of facilities that have been constructed or rehabilitated. Outputs should produce outcomes for the program. At a minimum, an applicant must address the following activities in the evaluation plan:

a. Measurable outputs to be accomplished (e.g., the number of persons to be trained and employed; houses to be built pursuant to 24 CFR 570.207 or rehabilitated; minority-owned businesses to be started);

b. Measurable outcomes the grant will have on the community in general and the target area or population; and

c. The impact the grant will have on assisting the university to obtain additional resources to continue this type of work at the end of the grant performance period.

The information must be placed on a HUD-96010, Program Logic Model form. HUD has developed a new approach to completing this form. Please carefully read the General Section for instructions, training is available. (Form HUD-96010 will be excluded from the page count.) A narrative is not required. However, if a narrative is provided, those pages will be included in the page count.

B. Review and Selection Process

1. Application Selection Process

Two types of reviews will be conducted:

a. A threshold review to determine an applicant's basic eligibility; and

b. A technical review for all applications that pass the threshold review to rate and rank the application based on the “Rating Factors” listed in Section V.A.

Only those applications that pass the threshold review will receive a technical review and be rated and ranked.

2. Rating Panels

To review and rate applications, HUD may establish panels, which may include experts or consultants not currently employed by HUD to obtain certain expertise.

3. Ranking

HUD will fund applications in rank order, until all available program funds are awarded. In order to be funded, an applicant must receive a minimum score of 75 points out of a possible 100 points for Factors 1 through 5. The RC/EZ/EC-II bonus points described in the General Section do not apply to this NOFA. If two or more applications have the same number of points, the application with the most points for Factor 3 shall be selected. If there is still a tie, the application with the most points for Factor 1 shall be selected. If there is still a tie, the application with the most points for Factors 2, 4 and then 5 shall be selected, in that order, until the tie is broken. HUD reserves the right to make selections out of rank order to provide for geographic distribution of grantees.

HUD also reserves the right to reduce the amount of funding requested in order to fund as many highly ranked applications as possible. Additionally, if funds remain after funding the highest ranked applications, HUD may fund part of the next highest-ranking application. If an applicant turns down an award offer, HUD will make an award to the next highest-ranking application. If funds remain after all selections have been made, the remaining funds will be carried over to the next funding cycle's competition.

4. Correction to Deficient Applications

See the General Section.

C. Anticipated Announcement and Award Dates

Announcements of awards are anticipated on or before September 30, 2006.

VI. Award Administration Information

A. Award Notices

After all selections have been made, HUD will notify all winning applicants in writing. HUD may require winning applicants to participate in additional negotiations before receiving an official award. For further discussion on this matter, please refer to the General Section. B. Administrative and National Policy Requirements

Refer to Section VI.B. of the General Section.

1. Debriefing. The General Section provides the procedures for requesting a debriefing. All requests for debriefings must be made in writing and submitted within thirty (30) calendar days of receipt of written notification to: Sherone Ivey, Office of University Partnerships, Robert C. Weaver Federal Building; 451 Seventh Street, SW., Room 8106; Washington, DC 20410. Applicants may also write to Ms. Ivey via e-mail at Sherone_E._Ivey@hud.gov.

2. Administrative. Grants awarded under this NOFA will be governed by the provisions of 24 CFR part 84 (Grants and Agreements with Institutions of Higher Education, Hospitals and Other Non-Profit Organizations), A-21 (Cost Principles for Educational Institutions) and A-133 (Audits of States, Local Governments, and Non-Profit Organizations). Applicants can access the OMB circulars at the White House Web site at: www.whitehouse.gov/omb/circulars/index.html.

3. OMB Circulars and Government-wide Regulations Applicable to Financial Assistance Programs. The General Section provides further discussion.

4. Executive Order 13202, Preservation of Open Competition and Government Neutrality Towards Government Contractors Labor Relations on Federal and Federally Funded Construction Projects. See the General Section for further discussion.

5. Procurement of Recovered Materials. See Section the General Section for further discussion.

6. Executive Order 13166, Improving Access to Services For Persons With Limited English Proficiency (LEP). See the General Section for further discussion.

7. Code of Conduct. See the General Section for further discussion.

C. Reporting

All grant recipients under this NOFA are required to submit quarterly progress reports. The progress reports shall consist of two components, a narrative that must reflect the activities undertaken during the reporting period and a financial report that reflects costs incurred by budget line item, as well as a cumulative summary of cost incurred during the reporting period.

For each reporting period, as part of the required report to HUD, grant recipients must include a completed Logic Model form (HUD-96010), which identifies output and outcome achievements.

For FY2006, HUD is considering a new concept for the Logic Model. The new concept is a Return on Investment (ROI) statement. HUD will be publishing a separate notice on the ROI concept.

VII. Agency Contacts

Applicants may contact Sherone Ivey at (202) 708-3061, extension 4200 or Susan Brunson at (202) 708-3061, extension 3852. Persons with speech or hearing impairments may call the Federal Information Relay Service TTY at (800) 877-8339. Except for the “800” number, these numbers are not toll-free. Applicants may also reach Ms. Ivey via e-mail at Sherone_E._Ivey@hud.gov, and/or Ms. Brunson at Susan_S._Brunson@hud.gov.

VIII. Other Information: Paperwork Reduction Act

The information collection requirements contained in this document have been approved by the Office of Management and Budget (OMB) under the Paperwork Reduction Act of 1995 (44 U.S.C. 3501-3520) and assigned OMB control number 2528-0206. In accordance with the Paperwork Reduction Act, HUD may not conduct or sponsor, and a person is not required to respond to, a collection of information unless the collection displays a currently valid OMB control number. Public reporting burden for the collection of information is estimated to average 59 hours per annum per respondent for the application and grant administration. This includes the time for collecting, reviewing, and reporting the data for the application, quarterly, and final reports. The information will be used for grantee selection and monitoring the administration of funds. Response to this request for information is required in order to receive the benefits to be derived.

Appendix A—Application Checklist—AN/NHIAC

This checklist identifies application submission requirements. Applicants are requested to use this checklist when preparing an application to ensure submission of all required elements. Applicants submitting an electronic application do not have to submit the checklist. Applicants that receive a waiver of the electronic application submission requirement should include a copy of the checklist in their application.

Check off to ensure these items have been included in the application:

__SF-424 “Application For Federal Assistance”

__Application Checklist (Applicants that submit paper applications must include the checklist in their applications)

__Abstract (must include no more than a two-page summary of the proposed project)

Indicate the page number where each of the Factors is located:

Narrative Statement Addressing the Rating Factors.

The narrative section of an application must not exceed 50 pages in length (excluding forms, budget narrative and abstract). This information must be submitted on 8½ by 11-inch paper, double-spaced on one side of the paper, with one-inch margins (from the top, bottom, left, and right sides of the documents) and printed in standard Times New-Roman 12-point font.

__Factor I

__Factor II

__Factor III

__Factor IV

__Factor V

__HUD-96010 “Logic Model”

Check off to ensure these items have been included in the application:

Appendix

__Budget

__HUD 424-CB “Grant Application Detailed Budget”

__Budget Narrative (No form provided, but must be submitted for the total three-year grant period.

Appendix B (All Required Forms)

The following forms are required for submission. All required forms are contained in the electronic application package.

__Application for Federal Assistance (SF-424);

__Survey on Ensuring Equal Opportunity for Applicants (SF-424 Supplement);

__Disclosure of Lobbying Activities (SF-LLL);

__Grant Application Detailed Budget (HUD-424-CB);

__America's Affordable Communities Initiative (HUD-27300), if applicable;

__Applicant/Recipient Disclosure/Update Report (HUD-2880);

__Acknowledgement of Applicant Receipt (Only applicants who submit paper applications (HUD-2993);

__Facsimile Transmittal (HUD-96011), if applicable;

__You Are Our Client Grant Applicant Survey (HUD-2994-A); and

__Logic Model (HUD-96010).

BILLING CODE 4210-01-P

Tribal Colleges and Universities Program

Overview Information

A. Federal Agency Name: Department of Housing and Urban Development, Office of Policy Development and Research, Office of University Partnerships.

B. Funding Opportunity Title: Tribal Colleges and Universities Program (TCUP).

C. Announcement Type: Initial announcement.

D. Funding Opportunity Numbers: The Federal Register Number is FR-5030-N-24. The OMB Approval Number is 2528-0215.

E. Catalog of Federal Domestic Assistance (CFDA) Number: The CFDA Number for this program is 14.519.

F. Dates: The application deadline date is May 22, 2006. Please be sure to read the General Section for electronic application submission and receipt requirements.

G. Additional Overview Content Information:

1. Purpose of the Program. To assist Tribal Colleges and Universities (TCU) to build, expand, renovate, and equip their own facilities, and to expand the role of the TCUs into the community through the provision of needed services such as health programs, job training, and economic development activities.

2. Award Information: In Fiscal Year (FY) 2006, approximately $2.5 million has been made available for this program by the Department of Housing and Urban Development Appropriations Act, 2006 (Pub. L. 109-115; approved Nov. 30, 2005) and an additional $643,000 in carryover funds. An applicant can request up to $600,000 for a three-year (36 months) grant performance period.

3. Eligible Applicants: Tribal Colleges and Universities that meet the definition of a TCU established in Title III of the 1998 Amendments to the Higher Education Act of 1965 (Pub. L. 105-244, approved October 7, 1998). Institutions must be fully accredited or provide a statement in the abstract of the application that states the institution is a candidate for accreditation by a regional institutional accrediting association recognized by the U.S. Department of Education.

Full Text of Announcement

I. Funding Opportunity Description

The purpose of this program is to assist Tribal Colleges and Universities (TCU) to build, expand, renovate, and equip their own facilities, and to expand the role of the TCUs into the community through the provision of needed services such as health programs, job training, and economic development activities.

A. Authority

HUD's authority for making funding available under this NOFA is the Department of Housing and Urban Development Appropriations Act, 2006 (Pub. L. 109-115; approved Nov. 30, 2005). This program is being implemented through this NOFA and the policies governing its operation are contained herein.

B. Modifications

Listed below are major modifications from the Fiscal Year (FY) 2005 program-funding announcement.

1. The provision of public services and program delivery activities are now eligible under this program. The purpose of the Tribal Colleges and Universities Program has been modified to include expanding the role of the TCUs into the community through the provision of needed services such as health programs, job training, and economic development.

2. Commitment letters, memoranda of understandings and/or agreements are not required at the time of application submission but must be on file. Applicants selected for award will be required to submit the signed commitment letters, memoranda of understandings and/or agreements outlined in the application, within twenty (20) calendar days after initial contact from the Office of University Partnerships (OUP). OUP will provide specific instructions on how these documents must be submitted at that time. HUD will only request and consider the resources/organizations outlined in the application. If OUP does not receive those documents in the required format and allotted timeframe, an applicant will not receive points under this factor and the application will be rated and ranked to address this point change.

In scoring this factor, HUD will rate an applicant that provides leveraging resources that are 10 percent or more of the amount requested under this program and that are properly documented, as listed below, will be awarded nine (9) points; applicants that provide leveraging resources that are 7-9 percent of the amount requested under this program and that are properly documented, as listed below, will be awarded six (6) points; applicants that provide leveraging resources that are 4-6 percent of the amount requested under this program and that are properly documented, as listed below, will be awarded three (3) points; applicants that provide leveraging resources that are less than 4 percent of the amount requested or resources are not properly documented will receive zero points.

3. All applicants submitting electronic applications must attach their narrative responses to Rating Factors 1-5 as one attachment. PLEASE DO NOT ATTACH YOUR RESPONSE TO EACH FACTOR SEPARATELY.

II. Award Information

In Fiscal Year (FY) 2006, approximately $2.5 million is made available for this program and an additional $643,000 in carryover funds. An applicant can request up to $600,000 for a three-year (36 months) grant performance period.

III. Eligibility Information

A. Eligible Applicants

Tribal Colleges and Universities that meet the definition of a TCU established in Title III of the 1998 Amendments to the Higher Education Act of 1965 (Pub. L. 105-244, enacted October 7, 1998). Institutions must be fully accredited, or provide a statement in their application that verifies the institution is a candidate for accreditation, by a regional institutional accrediting association recognized by the U.S. Department of Education.

B. Cost Sharing or Matching

None Required.

C. Other

1. Eligible Activities: Eligible activities include building, expanding, renovating, and equipping facilities owned by the institution (a long-term lease for five years or more in duration is considered an acceptable form of ownership under this program). Buildings for which TCUP funding is used that also serve the community are eligible; however, the facilities must be predominantly (at least 51 percent of the time) for the use of the institution (e.g., students, faculty, and staff). In addition, public services and program delivery activities for the community such as health programs, job training and economic development are eligible activities. Examples of eligible activities include, but are not limited to:

a. Building a new facility (e.g., classrooms, administrative offices, health and cultural centers, gymnasium, technology centers, etc.);

b. Renovating an existing or acquired facility;

c. Expanding an existing or acquired facility;

d. Equipping university facilities (e.g., lab equipment, library books, furniture, etc.); or

e. Property acquisition;

f. Health screening;

g. Homeownership counseling/training;

h. Technical assistance to establish, expand or stabilize micro-enterprises;

i. Crime, alcohol and/or drug-abuse prevention activities;

j. Youth leadership development programs/activities;

k. Tutoring/mentoring programs;

l. Child care/development programs;

m. Cultural activities/programs; and

n. Applicants can use up to 20 percent of the grant for payments of reasonable grant administrative costs related to planning and execution of the project (e.g., preparation/submission of HUD reports, etc.). A detailed explanation of these costs is provided in the OMB circulars that can be accessed at the White House Web site at: http://www.whitehouse.gov/omb/circulars/index.html.

Each activity proposed for funding must meet at least one of the following Community Development Block Grant (CDBG) Program national objectives:

• Benefit low- and moderate-income persons;

• Aid in the prevention or elimination of slums or blight; or

• Meet other community development needs having a particular urgency because existing conditions pose a serious and immediate threat to the health and welfare of the community, and other financial resources are not available to meet such needs.

Criteria for determining whether an activity addresses one or more objectives are provided at 24 CFR 570.208. The CDBG publication entitled “Community Development Block Grant Program Guide to National Objectives and Eligible Activities for Entitlement Communities” describes the CDBG regulations, and a copy can be obtained from HUD's NOFA Information Center at 800-HUD-8929 or 800-HUD-2209 for the hearing-impaired.

2. Audit Requirements. See Section III.C. of the General Section.

3. Threshold Requirements Applicable to All Applicants. All applicants must comply with the threshold requirements as defined in the General Section and the requirements listed below. Applications that do not meet these requirements will be considered ineligible for funding and will be disqualified.

a. The applicant must meet the eligibility requirements as defined in Section III.A.

b. The applicant may request up to $600,000.

c. Only one application can be submitted per campus. If multiple applications are submitted, all will be disqualified. However, different campuses of the same university system are eligible to apply as long as they have an administrative and budgeting structure independent of the other campuses in the system.

d. Institutions that received grants in FY 2005 are not eligible to apply under this NOFA.

e. Applicants must receive a minimum score of 75 points to be considered for funding.

f. An applicant must have a DUNS number to receive HUD grant funds (See General Section).

g. Electronic applications must be received and validated by Grants.gov no later than 11:59:59 p.m. eastern time on the application deadline date May 22, 2006.

4. Program Requirements. In addition to the standard requirements listed in Section III.C. of the General Section, applicants must meet the following program requirements:

a. All funds awarded are for a three-year (36 months) grant performance period.

b. While community-wide use of a facility (that is purchased, equipped, leased, renovated or built) is permissible under this program, the facility must be predominantly for the use of the institution (i.e., it must be used by the staff, faculty, and/or students at least 51 percent of the time).

c. If a TCU is a part or instrumentality of a federally recognized tribe, the applicant must comply with the Indian Civil Rights Act (25 U.S.C. 1301 et seq.) and all other applicable civil rights statues and authorities as set forth in 24 CFR 1000.12. If the TCU is not a part or instrumentality of a federally recognized tribe the applicant must comply with the Fair Housing Act (42 U.S.C. 3601-19) and implementing regulations at 24 CFR part 100 et seq., Title VI of the Civil Rights Act of 1964 (42 U.S.C. 2000d-2000d-4) (Nondiscrimination in Federally Assisted Programs) and implementing regulations at 24 CFR part 1, Section 504 of the Rehabilitation Act of 1973, as amended (29 U.S.C. 794) and implementing regulation at 24 CFR Part 8, and Section 109 of Title One of the Housing and Community Development Act of 1974 (HCDA), as amended, with respect to nondiscrimination on the basis of age, sex, religion, or disability and implementing regulations at 24 CFR part 6.

d. Labor Standards. Institutions and their subgrantees, contractors and subcontractors must comply with the labor standards (Davis-Bacon) requirements referenced in 24 CFR 570.603. However, in accordance with HCDA section 107(e)(2), the Secretary waives the provisions of HCDA section 110 with respect to the TCUP program for grants to a TCU that is part of a tribe, i.e., a TCU that is legally a department or other part of a tribal government, but not a TCU that is established under tribal law as an entity separate from the tribal government. If a TCU is not part of a tribe, the labor standards of HCDA section 110, as referenced in 24 CFR 570.603, apply to activities under the grant to the TCU.

e. Environmental Requirements. Selection for award does not constitute approval of any proposed sites. Following selection for award, HUD will perform an environmental review of activities proposed for assistance in accordance with 24 CFR part 50. The results of the environmental review may require that proposed activities be modified or proposed sites be rejected. Applicants are particularly cautioned not to undertake or commit funds for acquisition or development of proposed properties prior to HUD approval of specific properties or areas. An application constitutes an assurance that the institution will assist HUD to comply with part 50; will supply HUD with all available and relevant information to perform an environmental review for each proposed property; will carry out mitigating measures required by HUD or select alternate property; and will not acquire, rehabilitate, convert, demolish, lease, repair, or construct property and not commit or expend HUD or local funds for these program activities with respect to any eligible property until HUD's written approval of the property is received. In supplying HUD with environmental information, applicants should use the same guidance as provided in the HUD Notice CPD-05-07 entitled, “Field Environmental Review Processing for Rural Housing and Economic Development (RHED) grants” issued August 30, 2005. The General Section provides further discussion of the environmental requirements. Further information and assistance on HUD's environmental requirements is available at: http://hudstage.hud.gov/utilities/intercept.cfm/offices/cpd/lawsregs/notices/2005/05-07.pdf.

f. Site Control. Where grant funds will be used for acquisition, rehabilitation, or new construction an applicant must demonstrate site control. Funds may be recaptured or deobligated from applicants that cannot demonstrate control of a suitable site within one year after the initial notification of award.

g. Economic Opportunities for Low- and Very-Low Income Persons (Section 3). The provisions of Section 3 of the Housing and Urban Development Act of 1968 (12 U.S.C. 1701u) apply to this NOFA and requires that to the greatest extent feasible opportunities for training and employment be given to lower-income residents of the project and contracts for work in connection with the project be awarded in substantial part to person residing in the area of the project. Regulations are located at 24 CFR Part 135.

IV. Application and Submission Information.

A. Address To Request Application Package

Applicants may download the instructions to the application found on the Grants.gov Web site at http://www.Grants.gov./Apply. If you have difficulty accessing the information you may call the Grants.gov Support Desk toll free 800-518-GRANTS or e-mail your questions to Support@Grants.gov. See the General Section for information regarding the registration process or ask for registration information from the Grants.gov Support Desk.

B. Content and Form of Application Submission

1. Forms

The following forms are required for submission. Copies of these forms are available on line at http://www.hud.gov/offices/adm/grants/nofa06/snofaforms.cfm.

a. Application for Federal Assistance (SF-424).

b. Survey on Ensuring Equal Opportunity for Applicants (SF-424 Supplement);

c. Grant Application Detailed Budget (HUD-424-CB);

d. Disclosure of Lobbying Activities (SF-LLL), if applicable;

e. America's Affordable Communities Initiative (HUD-27300), if applicable;

f. Applicant/Recipient Disclosure/Update Report (HUD-2880);

g. Program Logic Model (HUD-96010);

h. Acknowledgement of Applicant Receipt (HUD-2993). Complete this form only if you have received a waiver to the electronic application submission requirement. Applicants submitting electronically are not required to include this form;

i. Facsimile Transmittal Cover Page (HUD-96011). This form must be used as the cover page to transmit third-party documents and other information. Applicants are advised to download the application package, complete the SF-424 first and it will pre-populate the Transmittal Cover page. The Transmittal Cover page will contain a unique identifier embedded in the page that will help HUD associate your faxed materials to your application. Please download the cover page and then make multiple copies to provide to any of the entities responsible for submitting faxed materials to HUD on your behalf. Please do not use your own fax cover sheet. HUD will not read any faxes that are sent without the HUD-96011 fax transmittal cover page; and

j. You Are Our Client Survey (HUD-2994-A). (Optional)

2. Certifications and Assurances

Please read the General Section for detailed information on all the Certifications and Assurances. All applications submitted through Grants.gov constitute an acknowledgement and agreement to all required certifications and assurances. Please include in your application each item listed below. Applicants submitting paper copy applications should submit the application in the following order:

a. SF-424, Application for Federal Assistance. Please remember the following:

(1) The full grant amount requested from HUD (entire three years) should be entered, not the amount for just one year;

(2) Include the name, title, address, telephone number, facsimile number, and e-mail address of the designated contact. This person will receive all correspondence; therefore, please ensure the accuracy of the information;

(3) The Employer Identification/Tax ID number;

(4) The DUNS Number;

(5) The Catalog of Federal Domestic Assistance Number for this program is 14.519;

(6) The project's proposed start and completion dates. For the purpose of this application the program start date should be December 1, 2006; and

(7) The signature of the Authorized Organization Representative (AOR) who, by virtue of submitting an application via Grants.gov, has been authenticated by the credential provider to submit applications on behalf of the Institution and approved by the eBusiness Point of Contact to submit an application via Grants.gov. The AOR must be able to make a legally binding agreement with HUD. For details on the Grants.gov registration process, see HUD's Notice on Early Registration published in the Federal Register on December 9, 2005 (70 FR 73332).

b. Application Checklist. Applicants should use the checklist to ensure that they have all the required components of their application. Applicants submitting an electronic application should not submit the checklist in their application. Applicants receiving a waiver of the electronic application submission requirement should include a copy of the checklist in their application submission. The checklist is located in Appendix A.

c. Abstract. Applicants must include no more than a two-page summary of the proposed project. Please include the following:

(1) A clear description of the proposed project activities, where they will take place (be located), the target population that will be assisted, and the impact this project is expected to have on the institution;

(2) A statement that the institution is an eligible institution because it is a two-or four-year fully accredited institution, the name of the accrediting agency and an assurance that the accrediting agency is recognized by the U.S. Department of Education; or the applicant is a candidate for accreditation by a regional instructional accrediting association recognized by the U.S. Department of Education, including the name of the accrediting agency;

(3) The designated contact person, including phone number, facsimile number, and e-mail address (This is the person who will receive all correspondence; therefore, please ensure the accuracy of the information);

(4) The project director, if different from the designated contact person for the project, including phone number, facsimile number, and e-mail address.

d. Narrative statement addressing the Rating Factors. HUD will use the narrative response to the “Rating Factors” to evaluate, rate, and rank applications. The narrative statement is the main source of information. Applicants are advised to review each factor carefully for program specific requirements. The response to each factor should be concise and contain only information relevant to the factor, yet detailed enough to address the factor fully. Please do not repeat material in response to the five factors; instead, focus on how well the proposal responds to each of the factors. Where there are subfactors, each subfactor must be presented separately, with the short title of the subfactor presented. Make sure to address each subfactor and provide sufficient information about every element of the subfactor. The narrative section of an application must not exceed 50 pages in length (excluding forms, budget narrative, assurances, and abstract) and must be submitted on 8½ by 11-inch paper, double-spaced on one side of the paper, with one-inch margins (from the top, bottom and left to right side of the document) and printed in standard Times New Roman 12-point font. Each page of the narrative must include the applicant's name and should be numbered. Note that although submitting pages in excess of the page limit will not disqualify an applicant, HUD will not consider the information on any excess pages. This exclusion may result in a lower score or failure to meet a threshold requirement. All applicants submitting electronic applications must attach their narrative responses to Rating Factors 1-5 as one attachment. PLEASE DO NOT ATTACH YOUR RESPONSE TO EACH FACTOR SEPARATELY.

e. Budget. The budget submission must include the following:

(1) HUD-424-CB, “Grant Application Detailed Budget.” This form shows the total budget by year and by line item for the program activities to be carried out with the proposed HUD grant. Each year of the program should be presented separately. Applicants must also submit this form to reflect the total cost for the entire grant performance period (Grand Total).

Make sure that the amounts shown on the SF-424, HUD-424-CB, and all other required program forms are consistent and the budget totals are correct. Remember to check the addition in totaling the categories on all forms so that all items are included in the total. If there is any inconsistency between any of the required budget forms, the HUD-424-CB will be used. All budget forms must be fully completed. If an application is selected for award, the applicant may be required to provide greater specificity to the budget during grant agreement negotiations.

(2) Budget Narrative. Applicants must submit a narrative that explains how the applicant arrived at the cost estimates for any line item over $5,000 cumulative. For example, an applicant proposes to construct an addition to an existing building, which will cost approximately $200,000. The following cost estimate reflects this total: Foundation cost $75,000, electrical work $40,000, plumbing work $40,000, interior finishing work $35,000 and landscaping $10,000. The proposed cost estimates should be reasonable for the work to be performed and consistent with rates established for the level of expertise required to perform the work proposed in the geographical area. When necessary, quotes from various vendors or historical data should be used (please make sure they are kept on file and are available for review by HUD at any time). All direct labor or salaries must be supported with mandated city/state pay scales, Davis-Bacon wage rates/tribally designated wage rate (as appropriate) or other documentation. When an applicant proposes to use a consultant, the applicant must indicate whether there is a formal written agreement. For each consultant, please provide the name, if known, hourly or daily fee, and the estimated time on the project. Applicants must use cost estimates based on historical data from the institution and/or from a qualified firm (e.g., Architectural or Engineering firm), vendor and/or qualified individual (e.g., independent architect or contractor) other than the institution for projects that involve rehabilitation of residential, commercial and/or industrial structures, and/or acquisition, construction, or installation of public facilities and improvements. Such an entity must be involved in the business of rehabilitation, construction, and/or management. Equipment and contracts cannot be presented as a total estimated figure. For equipment, applicants must provide a list by type and cost for each item. Applicants using contracts must provide an individual description and cost estimate for each contract. Construction costs must be broken down to indicate how funds will be utilized (e.g., demolition, foundation, exterior walls, roofing, electrical work, plumbing, finishing work, etc.)

(3) Indirect costs. Indirect costs, if applicable, are allowable based on an established approved indirect cost rate. Applicants must have on file, and submit to HUD if selected for award, a copy of their indirect cost rate agreement. Applicants who are selected for funding that do not have an approved indirect cost rate agreement, established by the cognizant federal agency, will be required to establish a rate. In such cases, HUD will issue an award with a provisional rate and assist applicants with the process of establishing a final rate.

f. Appendix. Applicants receiving a waiver of the electronic submission requirements and submitting a paper copy of the application must place all required forms in this section. An applicant SHOULD NOT submit resumes, or other back-up materials. If this information is included, it will not be considered during the review process.

C. Submission Dates and Times

A complete application package must be received and validated electronically by the Grants.gov no later than 11:59:59 p.m. eastern time on or before the application deadline date of May 22, 2006. In an effort to address any issues with transmission of your application, applicants are strongly encouraged to submit their applications prior to the application deadline. This will allow an applicant enough time to make the necessary adjustments to meet the submission deadline in the event Grants.gov rejects the application. Please see the General Section for further instructions. Electronic faxes using the Facsimile Transmittal cover sheet (Form HUD-96011) contained in the electronic application must be received no later than 11:59:59 p.m. eastern time on the application deadline date.

D. Intergovernmental Review

This program is excluded for an Intergovernmental Review.

E. Funding Restrictions

Ineligible activities for funding under this program include, but are not limited to the following:

1. Renovation of a facility in which the facility is not used at least 51 percent of the time by the institution;

2. Rental space to another entity that operates a small business assistance center;

3. Building of a new facility, where the activities are for non-students or the activities are run primarily by an outside entity;

4. Using more than 20 percent of the grant for payments of grant administrative costs related to planning and execution of the project (e.g., preparation/submission of HUD reports); and

5. Curriculum development and/or expansion on an institution's existing curriculum.

F. Other Submission Requirements

1. Application Submission and Receipt Procedure

Please read the General Section carefully and completely for the electronic submission and receipt procedures for all applications because failure to comply may disqualify your application.

2. Waiver of Electronic Submission Requirements

Please refer to the General Section for further discussion. Paper applications will not be accepted from applicants that have not been granted a waiver. If an applicant is granted a waiver, the Office of University Partnerships will provide instructions for submission. Paper application must be received by or before the application due date.

V. Application Review Information

A. Criteria

1. Rating Factor 1: Capacity of the Applicant and Relevant Experience (25 Points)

This factor addresses the extent to which the applicant has the resources necessary to successfully implement the proposed activities in a timely manner.

a. Knowledge and Experience. For First Time Applicants (25 Points), For Previously Funded Applicants (15 Points). In rating this subfactor, HUD will consider the extent to which the applicant clearly addresses the following:

(1) Describe the knowledge and experience of the proposed project director and staff, including the day-to-day program manager/coordinator, consultants (including technical assistance providers), and contractors in planning and managing the type of project for which funding is being requested; and

(2) Clearly identify the following: Key project team members, titles (e.g., project manager/coordinator, etc.), respective roles for the project staff, and a brief description of their relevant experience.

If key personnel have not been hired, applicants must identify the position title, provide a description of duties and responsibilities, and describe the qualifications to be considered in the selection of personnel, including subcontractors and consultants.

Experience will be judged in terms of recent and relevant knowledge and skills of the staff to undertake eligible program activities. HUD will consider experience within the last five (5) years to be recent and experience pertaining to similar activities to be relevant.

b. Past Performance (10 Points) For Previously Funded Grant Applicants Only. This subfactor will evaluate how well an applicant has performed successfully under HUD/TCUP grants. Applicants must demonstrate this by addressing the following information for all previously completed and open HUD/TCUP grants:

(1) A list of all HUD/TCUP grants received, including the dollar amount awarded and the amount expended and obligated as of the date of this application;

(2) A description of the achievement of specific tasks, measurable objectives, and specific outcomes consistent with the approved project management plan;

(3) A list detailing the date the project(s) was completed, was it completed in the original three-year grant performance period; if not completed, why (including when it was or will be completed);

(4) A comparison of the amount of proposed leveraged funds and/or resources to the amount that was actually leveraged; and

(5) A detailed description of compliance with all reporting requirements, including timeliness of submission, whether reports were complete and addressed all information (both narrative and financial) as required by the grant agreement.

HUD will also review an applicant's past performance in managing funds, including, but not limited to: The ability to account for funding appropriately; timely use of funds received from HUD; meeting performance targets for completion of activities. In evaluating past performance, HUD reserves the right to deduct up to five (5) points from this rating score as a result of the information obtained from HUD's records (i.e., progress and financial reports, monitoring reports, Logic Model submission, and amendments).

2. Rating Factor 2: Need/Extent of the Problem (10 Points)

This factor addresses the extent to which there is a need for funding the proposed project activities and an indication of the importance of meeting the need(s). The need(s) described must be relevant to activities for which funds are being requested. In addressing this factor, applicants should provide, at a minimum, the following and must cite statistics and/or analyses contained in at least one or more current data sources that are sound and reliable.

(1) Describe the need(s); and

(2) Describe the importance of meeting the proposed needs.

In rating this factor, HUD will consider only current data that is specific to the area where the proposed project activities will be carried out. Reliable sources of data may include information that describes the need, such as a need to have a building renovated because it is 50 years old and is deteriorating; a new computer lab has been built, but the computers are obsolete; a library has been expanded, but the books are outdated, local/Tribal crime statistics, Indian Housing Plans, etc. When presenting data, include the source and date of the information.

3. Rating Factor 3: Soundness of Approach (44 Points)

This factor addresses the quality and effectiveness of the proposed work plan and the commitment of the institution to sustain the proposed activities.

a. (40 Points) Quality of Work Plan. HUD will evaluate this subfactor based on the extent to which an applicant provides a clear detailed description of the proposed project and anticipated accomplishments.

(1) (35 Points) Specific Activities. The work plan must describe all of the proposed activities and major tasks required to successfully implement the proposed project. In addressing this subfactor applicants must provide a clear description of the proposed activities and address the following:

(a) Describe all proposed activities in measurable terms (e.g., fifty or more students will be receiving computer literacy training, the number of new classes that will be taught as a result of building a new structure);

(b) Describe the major tasks in sequential order necessary to successfully implement the proposed project. Include the target completion dates for the tasks (6 month intervals, up to 36 months);

(c) List and describe how each activity meets one of the following Community Development Block Grant (CDBG) Program national objectives:

• Benefit low- and moderate-income persons;

• Aid in the prevention or elimination of slums or blight; or

• Meet other community development needs having a particular urgency because existing conditions pose a serious and immediate threat to the health and welfare of the community, and other financial resources are not available to meet such needs.

Criteria for determining whether an activity addresses one or more objective are provided at 24 CFR 570.208;

(d) Describe the measurable objectives that will be realized as a result of implementing the proposed project; and

(e) Identify the key staff, as described in Factor 1, who will be responsible for completing each task.

(2) (5 Points) Describe clearly how each proposed project activity will:

(a) Address the needs identified in Factor 2; and

(b) Relate to and not duplicate other activities in the target area.

b. (2 Points) Involvement of the Faculty and Students. The applicant must describe how it proposes to integrate the institution's students and faculty into the proposed project activities.

c. (2 Points) HUD Policy Priorities. To earn points under this subfactor, HUD requires applicants to undertake specific activities that will assist the Department in implementing its policy priorities and that help the Department achieve its goals and objectives in FY 2007, when the majority of grant recipients will be reporting programmatic results and achievement. In addressing this subfactor, HUD will evaluate the extent to which a program will further and support HUD priorities. The quality of the responses provided to one or more of HUD's priorities will determine the score an applicant can receive. Applicants must describe how each policy priority is addressed. Applicants that just list a priority will receive no points.

The total number of points an applicant can receive under this subfactor is two (2). Each policy priority addressed has a point value of one (1) point, with the exception of the policy priority related to removal of regulatory barriers to affordable housing, which has a value of up to two (2) points. To receive these two (2) points an applicant must indicate how this priority is addressed and submit the completed questionnaire (HUD-27300) “HUD's Initiative on Removal of Regulatory Barriers” found in the General Section along with required documentation. It is up to the applicant to determine which of the policy priorities they elect to address to receive the available two (2) points.

4. Rating Factor 4: Leveraging Resources (9 Points)

This factor addresses the ability of the applicant to secure resources that can be combined with HUD's grant funds to achieve the program's purpose.

HUD will consider the extent to which the applicant established partnerships with other entities to secure additional resources to increase the effectiveness of the proposed program activities. Resources may include funding or in-kind contributions, such as services or equipment, allocated for the purpose(s) of the proposed project. Resources can be provided by governmental entities (e.g., Tribal, federal, and/or state governments), public or private nonprofit organizations, for-profit private organizations, or other entities. Overhead and other institutional costs (e.g., salaries, indirect costs) that the institution has waived can be counted.

Examples of potential sources for outside assistance include:

• Tribal, federal, state, and local governments.

• Tribally Designated Housing Entities.

• Local or national nonprofit organizations.

• Banks and/or private businesses.

• Foundations.

• Faith-based and other community-based organizations.

To address this factor, an applicant must provide an outline in the application and have on file written commitment letters, memoranda of understandings and/or agreements that show the extent and firm commitment of all proposed leveraged resources (including any commitment of resources from the applicant's own institution) that address the following information for each leveraged resource/fund:

(1) The name of the organization and the executive officer authorizing the funds/goods and/or services (Only applicable to the narrative section);

(2) The cash amount contributed or dollar value of the in-kind goods and/or services committed (If a dollar amount and its use is not shown, the funding will not be counted);

(3) A specific description of how each contribution is to be used toward the proposed activities;

(4) The date the contribution will be made available and a statement that describes the duration of the contribution;

(5) Any terms or conditions affecting the commitment, other than receipt of a HUD Grant; and

(6) The signature of the appropriate executive officer authorized to commit the funds and/or goods and/or services. (Only applicable to the written documentation.) Please remember that only items eligible for funding under this program can be counted.

Commitment letters, memoranda of understandings and/or agreements are not required at the time of application submission but must be on file. Applicants selected for award will be required to submit the signed commitment letters, memoranda of understandings and/or agreements outlined in the application, within twenty (20) calendar days after initial contact from the Office of University Partnerships (OUP). OUP will provide specific instructions on how these documents must be submitted at that time. Letters, memoranda of understanding, or agreements must be submitted on the provider's letterhead and should be addressed to Sherone Ivey, Acting Associate Deputy Assistant Secretary for University Partnerships. The date of the letter, memorandum of understanding, or agreement from the CEO of the provider organization must be dated no earlier than nine months prior to this published NOFA. OUP will provide specific instructions on how these documents must be submitted when contact is made with the applicant. HUD will only request and consider the resources/organizations outlined in the application. If OUP does not receive those documents in the required format and allotted timeframe, an applicant will not receive points under this factor and the application will be rated and ranked to address this point change.

In scoring this factor, HUD will award nine (9) points to an applicant that provides properly documented leveraging resources as listed in their application that are 10 percent or more of the amount requested under this program; six (6) points to applicants that provide properly documented leveraging resources as listed that are 7-9 percent of the amount requested under this program; three (3) points to applicants that provide properly documented leveraging resources as listed that are 4-6 percent of the amount requested under this program; and zero (0) points to applicants that provide properly documented leveraging resources as listed that are less than 4 percent of the amount requested or resources are not properly documented.

5. Rating Factor 5: Achieving Results and Program Evaluation (12 Points)

This factor reflects HUD's goal to embrace high standards of management and accountability. It measures the applicant's commitment to assess their performance to achieve the program's proposed objectives and goals. Applicants are required to develop an effective, quantifiable, outcome oriented evaluation plan for measuring performance and determining that objectives and goals have been achieved. The Logic Model is a summary of the narrative statements presented in Factors 1-4. Therefore, the information submitted on the logic model should be consistent with the information contained in the narrative statements.

“Outcomes” are benefits accruing to institutions of higher education during or after participation in the TCUP program. Applicants must clearly identify the outcomes to be measured and achieved. Examples of outcomes include an increased number of campus facilities (e.g., newly built or renovated), an increased number of classroom spaces available, or an increased student enrollment and graduation rate.

In addition, applicants must establish interim benchmarks and outputs that lead to the ultimate achievement of outcomes. “Outputs” are the direct products of the project 's activities. Examples of outputs are the number of new facilities renovated, or the number of new dormitories built. Outputs should produce outcomes for the project. At a minimum, an applicant must address the following activities in the evaluation plan:

a. Short-and-long term objectives to be achieved;

b. Measurable impacts the grant will have on the university or the target population;

This information must be included under this section on a HUD-96010, Program Logic Model form. HUD has developed a new approach to completing this form. Please carefully read the General Section for instructions, training is available. (Form HUD-96010 will be excluded from the page count.) A narrative is not required. However, if a narrative is provided, those pages will be included in the page count.

B. Review and Selection Process

1. Application Selection Process

Two types of reviews will be conducted:

a. A threshold review to determine an applicant's basic eligibility; and

b. A technical review for all applications that pass the threshold review to rate and rank the application based on the “Rating Factors” listed in Section V.A. above.

Only those applications that pass the threshold review will receive a technical review and be rated and ranked.

2. Rating Panels. To review and rate applications, HUD may establish panels that may include experts or consultants not currently employed by HUD to obtain certain expertise.

3. Ranking. HUD will fund applications in rank order, until all available program funds are awarded. In order to be funded, an applicant must receive a minimum score of 75 points out of a possible 100 points to be considered for funding for Factors 1 through 5. The RC/EZ/EC-II bonus points described in the General Section do not apply to this NOFA. If two or more applications have the same number of points, the application with the most points for Factor 3 shall be selected. If there is still a tie, the application with the most points for Factor 1 shall be selected. If there is still a tie, the application with the most points for Factor 2, 4, and then 5 shall be selected in that order, until the tie is broken. HUD reserves the right to select out of rank order to provide for geographic distribution of grantees.

HUD also reserves the right to reduce the amount of funding requested in order to fund as many highly ranked applications as possible. Additionally, if funds remain after funding the highest ranked applications, HUD may fund part of the next highest-ranking application. If an applicant turns down the award offer, HUD will make an award to the next highest-ranking application. If funds remain after all selections have been made, the remaining funds will be carried over to the next funding cycle's competition.

4. Corrections to Deficient Applications. See the General Section.

C. Anticipated Announcement and Award Dates

Announcements of awards are anticipated on or before September 30, 2006.

VI. Award Administration Information

A. Award Notice

After all selections have been made, HUD will notify all winning applicants in writing. HUD may require winning applicants to participate in additional negotiations before receiving an official award. For further discussion on this matter, please refer to the General Section.

B. Administrative and National Policy Requirements

Refer to Section VI.B. of the General Section.

1. Debriefing. The General Section provides the procedures for requesting a debriefing. All requests for debriefings must be made in writing and submitted within thirty (30) calendar days of receipt of written notification to: Sherone Ivey, Office of University Partnerships, Robert C. Weaver Federal Building, 451 Seventh Street, SW., Room 8106; Washington, DC 20410-6000. Applicants may also write to Ms. Ivey via e-mail at Sherone_E._Ivey@hud.gov.

2. Administrative. Grants awarded under this NOFA will be governed by the provisions of 24 CFR part 84 (Grants and Agreements with Institutions of Higher Education, Hospitals and Other Non-Profit Organizations), A-21 (Cost Principles for Educational Institutions) and A-133 (Audits of States, Local Governments, and Non-Profit Organizations). Applicants can access the OMB circulars at the White House Web site at http://www.whitehouse.gov/omb/circulars/index.html.

3. OMB Circulars and Governmentwide Regulations Applicable to Financial Assistance Programs. The General Section provides discussion of OMB circulars and governmentwide regulations.

4. Code of Conduct. See the General Section for further discussion.

5. Procurement of Recovered Materials. See the General Section for further discussion.

6. Executive Order 13202, Preservation of Open Competition and Government Neutrality Toward Government Contractors' Labor Relations of Federal and Federally Funded Construction Projects. See the General Section for further discussion if applicable.

7. Executive Order 13166, Improving Access to Services For Persons With Limited English Proficiency (LEP). See the General Section for further discussion.

C. Reporting

All grant recipients under this NOFA are required to submit quarterly progress reports. The progress reports shall consist of two components, a narrative that must reflect the activities undertaken during the reporting period and a financial report that reflects costs incurred by budget line item, as well as a cumulative summary report during the reporting period.

For each reporting period, as part of the required report to HUD, grant recipients must include a completed Logic Model (HUD-96010), which identifies output and outcome achievements.

For FY2006, HUD is considering a new concept for the Logic Model. The new concept is a Return on Investment (ROI) statement. HUD will be publishing a separate notice on the ROI concept.

VII. Agency Contacts

Applicants may contact Sherone Ivey at (202) 708-3061, extension 4200, or Susan Brunson at (202) 708-3061, extension 3852. Persons with speech or hearing impairments may call the Federal Information Relay Service TTY at (800) 877-8339. Except for the “800” number, these numbers are not toll-free. Applicants may also reach Ms. Ivey via e-mail at Sherone_E._Ivey@hud.gov, and Ms. Brunson at Susan_S._Brunson@hud.gov.

VIII. Other

Paperwork Reduction Act

The information collection requirements contained in this document have been approved by the Office of Management and Budget (OMB) under the Paperwork Reduction Act of 1995 (44 U.S.C. 3501-3520) and assigned OMB control number 2528-0215. In accordance with the Paperwork Reduction Act, HUD may not conduct or sponsor, and a person is not required to respond to, a collection of information unless the collection displays a currently valid OMB control number. Public reporting burden for the collection of information is estimated to average 68 hours per annum per respondent for the application and grant administration. This includes the time for collecting, reviewing, and reporting the data for the application, quarterly and final report. The information will be used for grantee selection and monitoring the administration of funds. Response to this request for information is required in order to receive the benefits to be derived.

Appendix A—Application Checklist—TCUP

This checklist identifies application submission requirements. Applicants are requested to use this checklist when preparing an application to ensure submission of all required elements. Applicants submitting an electronic application do not have to submit the checklist. Applicants that receive a waiver of the electronic application submission requirement should include a copy of the checklist in their application.

Check off to ensure these items have been included in the application:

__SF-424 “Application For Federal Assistance”

__Application Checklist (Applicants that submit paper applications must include the checklist in their applications)

__Abstract (must include no more than a two-page summary of the proposed project)

Indicate the page number where each of the Factors is located:

Narrative Statement Addressing the Rating Factors.

The narrative section of an application must not exceed 50 pages in length (excluding forms, budget narrative and abstract). This information must be submitted on 8½ by 11-inch paper, double-spaced on one side of the paper, with one-inch margins (from the top, bottom, and left and right sides of the documents) and printed in standard Times New Roman 12-point font.

__Factor I

__Factor II

__Factor III

__Factor IV

__Factor V

__HUD-96010 Logic Model

Check off to ensure these items have been included in the application:

Appendix

__Budget

__HUD 424-CB “Grant Application Detailed Budget”

__Budget Narrative (No form provided, but must be submitted for the total three-year grant period.

Appendix B—All Required Forms

The following forms are required for submission. All required forms are contained in the electronic application package.

__Application for Federal Assistance (SF-424);

__Survey on Ensuring Equal Opportunity for Applicants (SF-424 Supplement);

__Disclosure of Lobbying Activities (SF-LLL); if applicable

__Grant Application Detailed Budget (HUD-424-CB);

__America's Affordable Communities Initiative (HUD-27300), if applicable;

__Applicant/Recipient Disclosure/Update Report (HUD-2880);

__Acknowledgement of Applicant Receipt (Only applicants who submit paper applications (HUD-2993);

__Client Comments and Suggestions (HUD-2994);

__You Are Our Client Survey (HUD-2994-A); and

__Logic Model (HUD-96010).

BILLING CODE 4210-01-P

BILLING CODE 4210-01-C

Fair Housing Initiatives Program

Overview Information:

A. Federal Agency Name: Department of Housing and Urban Development, Office of Fair Housing and Equal Opportunity.

B. Funding Opportunity Title: Fair Housing Initiatives Program (FHIP).

C. Announcement Type: Initial Announcement.

D. Funding Opportunity Number: The OMB Approval Number is: 2529-0033. The Federal Register number for this NOFA is: FR-5030-N-15.

E. Catalog of Federal Domestic Assistance (CFDA) Number(s): Private Enforcement Initiative (PEI); Education and Outreach Initiative (EOI) 14.408.

F. Dates: The application deadline date shall be on or before May 17, 2006. Applications must be received and validated by Grants.gov no later than 11:59:59 p.m. on the application deadline date. Please see the General Section of the SuperNOFA (the General Section) for information on electronic deadline and timeliness requirements.

G. Optional, Additional Overview Content Information

1. Funding Breakdown

This year there are two initiatives, Private Enforcement and Education and Outreach Initiatives, and there are four components under each: The following is a breakdown of each Initiative:

(a) Private Enforcement Initiative (PEI)

(1) Hurricane Katrina Enforcement Component,

(2) General Component,

(3) Performance Based Funding Component, and

(4) Subprime Lending Component.

(b) Education and Outreach Initiative (EOI)

(1) General Component.

(2) Disability Component.

(3) Subprime Lending Component.

(4) Fair Housing Awareness Component.

Please note that there are some new components this year. These are the PEI Enforcement and Subprime Lending Components and the EOI Fair Housing Awareness and Subprime Lending Components. Please see the chart located in this NOFA for information on each of these new components.

2. Electronic Applications

For FY 2006, FHIP electronic applications will be available on www.Grants.gov/Find and http://www.grants.gov/Apply. For further instructions on electronic application submission requirements using Grants.gov, please read the General Section.

3. Fair Housing Initiatives Program (FHIP) Funding

FHIP funds are used to increase compliance with the Fair Housing Act (the Act) and with substantially equivalent State and local fair housing laws. Approximately $18,100,000 in FY 2006 funds and any potential recapture is allocated to two (2) initiatives as follows:

a. Private Enforcement Initiative (PEI) $13,900,000.

b. Education and Outreach Initiative (EOI) $4,200,000.

4. Award Agreements

HUD expects to award a cost reimbursable cooperative agreement or grant agreement to each applicant selected for award. Upon completion of negotiations, HUD reserves the right to use the funding instrument it determines is most appropriate.

5. Eligible Applicants

Eligible applicants are Qualified Fair Housing Enforcement Organizations (QFHOs) and Fair Housing Enforcement Organizations (FHOs), see 24 CFR 125.103; public or private, for-profit or not-for-profit organizations or institutions and other public or private entities that are formulating or carrying out programs to prevent or eliminate discriminatory housing practices (including entities that will be established as a result of receiving an award under this FHIP NOFA); agencies of State or local governments; and agencies that participate in the Fair Housing Assistance Program (FHAP).

6. Private Enforcement Initiative—Performance Based Funding Component

Applicants awarded funding under the PEI—(PBFC) for FY 2006 will not be eligible to submit applications for additional FHIP funding for FY 2007 and FY 2008. Applicants awarded funding under this component will be eligible to apply for funding in FY 2009. Applicants awarded PBFC funding in FY 2005 are not eligible to submit applications for additional FHIP funding for FY 2006 and FY 2007.

7. Start Date

For planning purposes, assume a start date no later than October 19, 2006.

Full Text of Announcement

I. Funding Opportunity Description

Authority. Section 561 of the Housing and Community Development Act of 1987, as amended (42 U.S.C. 3616), established the FHIP. The implementing regulations are found at 24 CFR part 125. If you are interested in applying for funding under the FHIP, please review carefully the General Section of the SuperNOFA (hereafter, the General Section), the FHIP Authorizing Statute (Sec. 561 of the Housing and Community Development Act of 1987, as amended), and the FHIP Regulations (24 CFR 125.103-501).

A. FHIP Initiatives and Components

The FHIP assists fair housing activities that increase compliance with the Act and with substantially equivalent fair housing laws administered by State and local government agencies under the Fair Housing Assistance Program (FHAP).

1. Private Enforcement Initiative (PEI)

This Initiative assists private, tax-exempt fair housing enforcement organizations in the investigation and enforcement of alleged violations of the Act and substantially equivalent State and local fair housing laws. Under this Initiative, there are four Components, the General Component, the Subprime Lending Component, the Hurricane Katrina Enforcement Component, and the Performance Based Funding Component.

2. Education and Outreach Initiative (EOI)

This Initiative assists organizations that inform the public about their rights and obligations under the Act and substantially equivalent State and local fair housing laws. Applications are solicited for this Initiative under the EOI-Regional/Local/Community-Based Program (R/L/C-B)—in which activities are conducted on a regional/local/community-based level.

Applicants who apply under EOI R/L/C-B may apply under one or more of the following Components, as follows: EOI General Component, EOI Disability Component. EOI Subprime Lending Component, and EOI Fair Housing Awareness Component.

All applications submitted under EOI are required to describe a complaint referral process that results in referrals of fair housing complaints to HUD or Fair Housing Assistance Program (FHAP) substantially equivalent agencies. If funded, you will be required to develop your complaint referral process.

B. Other

1. Program Definitions. The definitions that apply to this FHIP section of the NOFA are as follows:

a. Broad-based proposals are those that include activities that are not limited to a single fair housing issue but instead, cover multiple issues related to housing discrimination covered under the Act, such as: rental, sales, and financing of housing. (See also Full Service Projects below).

b. Complainant means the person, including the Assistant Secretary for Fair Housing and Equal Opportunity at HUD, who files a complaint under Section 810 of the Fair Housing Act.

c. Disability Advocacy Groups means organizations that traditionally have provided for the civil rights of persons with disabilities. This would include organizations such as Independent Living Centers and cross-disability legal services groups. Such organizations must be experienced in providing services to persons with a broad range of disabilities, including physical, cognitive, and psychiatric/mental disabilities. Such organizations must demonstrate actual involvement of persons with disabilities throughout their activities, including on staff and board levels.

d. Enforcement proposals are potential complaints under the Act that are timely, jurisdictional, and well-developed, that could reasonably be expected to become enforcement actions if an impartial investigation found evidence supporting the allegations and the case proceeded to a resolution with HUD or FHAP agency involvement.

e. Fair Housing Act means Title VIII of the Civil Rights Act of 1968 as amended by the Fair Housing Amendments Act of 1988 (42 U.S.C. 3600-3620).

f. Fair Housing Assistance Program (FHAP) agencies mean State and local fair housing enforcement government agencies that receive FHAP funds because they administer laws deemed substantially equivalent to the Act, as described in 24 CFR 115.

g. Fair Housing Enforcement Organization (FHO) means an organization engaged in fair housing activities as defined in 24 CFR 125.103.

h. Full-service projects must include the following enforcement-related activities in the project application: Interviewing potential victims of discrimination; analyzing housing-related issues; taking complaints; testing; evaluating testing results; conducting preliminary investigations; conducting mediation; enforcing meritorious claims through litigation or referral to administrative enforcement agencies; and disseminating information about fair housing laws.

i. Grassroots organizations (See General Section).

j. Jurisdiction means that the complaint must be timely filed; the complainant must have standing; the respondent and the dwelling involved (where the complaint involves a provision or denial of a dwelling) must be covered by the Act; and the subject matter and the basis of the alleged discrimination, must constitute illegal practices as defined by the Act.

k. Meritorious claims means enforcement activities by an organization that resulted in lawsuits, consent decrees, legal settlements, HUD or substantially equivalent agency (under 25 CFR 115.6) conciliations and organization initiated settlements with the outcome of monetary awards for compensatory and/or punitive damages to plaintiffs or complaining parties, or other affirmative relief, including the provision of housing (24 CFR 125.103).

l. Mortgages with unacceptable terms or conditions or resulting from unacceptable practices means a mortgage or a group or category of mortgages with one or more of the terms and conditions as specified under 24 CFR part 81.2.

m. Operating budget means an organization's total planned budget expenditures from all sources, including the value of in-kind and monetary contributions, in the period for which funding is requested.

n. Qualified Fair Housing Enforcement Organization (QFHO) means an organization engaged in fair housing activities as defined in 24 CFR 125.103.

o. Regional/Local/Community-Based Activities are defined at 24 CFR 125.301(a) and (d).

p. Rural Areas means the following:

(1) A non-urban place having fewer than 2,500 inhabitants (within or outside of the metropolitan areas).

(2) A county or parish with an urban population of 20,000 inhabitants or less.

(3) Territory, including its persons and housing units, in rural portions of “extended cities.” The Census Bureau identifies the rural portions of extended cities.

(4) Open country that is not part of or associated with an urban area. The USDA describes “open country” as a site separated by open space from any adjacent densely populated urban area. Open space includes undeveloped land, agricultural land, or sparsely settled areas, but does not include physical barriers (such as rivers and canals), public parks, commercial and industrial developments, small areas reserved for recreational purposes, or open space set aside for future development.

(5) Any place with a population not in excess of 20,000 and not located in a Metropolitan Statistical Area.

q. Traditional Civil Rights Organizations mean non-profit organizations or institutions and/or private entities with a history and primary mission of securing Federal civil rights protection for groups and individuals protected under the Act or substantially equivalent State or local laws and that are engaged in programs to reduce discriminatory housing practices.

r. Underserved Areas mean jurisdictions where there are no Fair Housing Initiatives Program or Fair Housing Assistance Program agencies and where either no public or private fair housing enforcement organizations exist or the jurisdiction is not sufficiently served by one or more public or private enforcement fair housing organizations and there is a need for service.

s. Underserved Populations mean groups of individuals who fall within one or more of the categories protected under the Act or who are also:

(1) Of an immigrant population (especially racial and ethnic minorities who are not English-speaking or limited English proficient);

(2) In rural populations,

(3) The homeless,

(4) Persons with disabilities who can be historically documented to have been subject to discriminatory practices not having been the focus of Federal, State or local fair housing enforcement efforts, and

(5) Areas that are heavily impacted with minorities and there is inadequate protection and ability to provide service from the State or local government or private fair housing organizations.

II. Award Information

For Fiscal Year 2006, $20,000,000 is appropriated for the Fair Housing Initiatives Program (FHIP). This appropriated amount may be supplemented by recaptured funds. Of this amount, approximately $18,100,000 is being made available on a competitive basis to eligible organizations responding to this FHIP NOFA. See chart for a breakdown by Initiative/Component.

A. Award Instrument

The type of funding instrument HUD may offer a successful applicant which sets forth the relationship between HUD and the grantee will be a grant or cooperative agreement, where the principal purpose is the transfer of funds, property, services, or anything of value to the applicant to accomplish a public purpose. The agreement will identify the eligible activities to be undertaken, financial controls, and special conditions, including sanctions for violations of the agreement. HUD will determine the type of instrument under which the award will be made and monitor progress to ensure that the grantee has achieved the objectives set out in the agreement. Failure to meet such objectives may be the basis for HUD determining the agreement to be in default and exercising available sanctions, including suspension, termination, and/or the recapture of funds. Also, HUD may refer violations or suspected violations to enforcement offices within HUD, the Department of Justice, or other enforcement authorities.

If awarded as a Cooperative Agreement, HUD will also exercise the right to have substantial involvement by: Conducting quarterly reviews and approval of all proposed deliverables documented in the applicant's Work Plan or Statement of Work (SOW), and determining whether the agency meets all certification and assurance requirements. HUD will conduct this performance assessment, in part, by using the Logic Model submitted by the applicant and approved by HUD in the award agreement (rating Factor 5). If upon completion of this assessment by the Government Technical Representative (GTR) a determination is made that the quarterly requirements have not been met, the grantee will be obligated to provide additional information or make modifications to its work plan and activities, as necessary, in a timeframe to be established by the GTR.

B. Project Starting Period

For planning purposes, assume a start date no later than October 19, 2006.

III. Eligibility Information

A. Eligible Applicants and Activities

The following chart details each FHIP Initiative/Component and the approximate Funding Available along with Eligible Applicants and Activities:

Initiative/Component | Allocation amount available | Applicant eligibility | Project period | Award caps | Applicant eligible activities
Private Enforcement Initiative (PEI) General Component: Assists private, tax-exempt fair housing enforcement organizations in the investigation and enforcement of alleged violations of the Fair Housing Act and substantially equivalent State and local fair housing laws | $5,100,000 | Fair Housing Enforcement Organizations (FHOs) with at least one year of experience in complaint intake, complaint investigation, testing for fair housing violations, and meritorious claims in the two years prior to the filing of the application (24 CFR 125.401(b)(2) and Qualified Fair Housing Enforcement Organizations (QFHOs) with at least two years of enforcement related experience as noted above, and meritorious claims in the three years prior to filing this application (24 CFR 125.103) | 12-18 months | $275,000 | Eligible activities include: (1) Complaint intake of allegations of housing discrimination, testing evaluating testing results, or providing other investigative and complaint support for administrative and judicial enforcement of fair housing laws: (2) Investigation of individual complaints and systemic housing discrimination for further enforcement processing by HUD through testing and other investigative methods; (3) Mediation or other voluntary resolution of allegations of fair housing discrimination after a complaint has been filed; and (4) litigating fair housing cases including procuring expert witnesses.
Private Enforcement Initiative (PEI) Performance Based Funding Component Assists private, tax-exempt fair housing enforcement organizations in the investigation and enforcement of alleged violations of the Fair Housing Act and substantially equivalent State and local fair housing laws | $8,100,000 | QFHOs and FHOs (with at least one year of enforcement related experience) who have received excellent performance reviews for FHIP PEI awards made in any two FY's beginning with FY 2002 through FY 2004; and have received a minimum score of 95 on the most recent of the 2 performance reviews from their Government Technical Representative | 36 months | $275,000 per year for a three-year duration, based upon appropriations. Eligible PBFC applicants must receive a minimum score of 95 from the FY '06 Technical Evaluation Panel (TEP) to be considered for funding | See PEI above.
Private Enforcement Initiative Hurricane Katrina Enforcement Component. Applicants must undertake fair housing enforcement activities in one of the Hurricane Katrina impacted areas in the states of Louisiana, Mississippi, Alabama, or Texas, or as a result of displacement of persons from areas impacted by Hurricane Katrina | $300,000 | See PEI above | 12-18 months | $100,000 | See PEI above.
Private Enforcement Initiative (PEI) Subprime Lending Component. This component provides funds to assist, private fair-lending enforcement efforts to address discriminatory terms or conditions or resulting from discriminatory practices in the subprime mortgage market. Applicant must demonstrate experience conducting fair-lending enforcement in the subprime market. Such experience includes: pending complaints, investigations, or litigation alleging discriminatory, subprime lending practices; past litigation alleging subprime lending discrimination; fair-lending testing of subprime lenders; published reports that include analysis the applicant has done on racial patterns in subprime lending; and any past or pending investigation or litigation involving discriminatory, predatory lending. Applicant may use this funding for: steering to subprime loans, providing different terms based on prohibited bases, as well as assist with pending complaints, investigation, or litigation alleging discriminatory subprime or predatory lending; or support new fair lending investigations or litigation of discrimination into discriminatory predatory lending, or other discrimination in the subprime market | $400,000 | See PEI above | 12-18 months | $50,000 | See PEI above.
Education and Outreach Initiative (EOI)—. EOI Regional, Local and Community Based Program: Assists organizations that inform the public about rights and obligations under the Fair Housing Act and substantially equivalent State and local fair housing laws. Applicants must develop a complaint referral process so that funded activities will result in referrals to HUD of fair housing complaints and other possible discriminatory housing practices | $4,200,000 | QFHOs FHOs, public or private for profit or not for profit organizations or institutions, or other public or private entities that carry out programs to prevent or eliminate discriminatory housing practices. This includes agencies of State or local governments and agencies that participate in the Fair Housing Assistance Program (FHAP). See FHIP NOFA-Eligibility Information | 12-18 months | $100,000 | Eligible activities include but are not limited to conducting educational symposia or other training, developing innovative fair housing activities or materials into languages applicable to your community throughout your project area; providing outreach and information on fair housing through printed and electronic media; developing fair housing curricula; providing outreach to persons with disabilities and their support organizations and service housing providers; and working with homeless activists or persons.
EOI General Component Open to applicants for all other fair housing education and outreach activities | $2,700,000 | Same as EOI above | 12-18 months | $100,000 | For a list of Eligible Activities See EOI above.
EOI Disability Component Applicants must emphasize the fair housing needs of persons with disabilities, so that persons with disabilities, housing providers and the general public better understand the rights and obligations under the Fair Housing Act and fully appreciate housing discrimination that persons with disabilities may encounter. The funded education and outreach activities must be provided to all persons protected under the Fair Housing Act | $900,000 | Same as EOI above | 12-18 months | $100,000 | See above.
EOI Subprime Lending Component Applicants must plan public events at a regional/local level which educates consumers on fair housing, financial literacy, credit management and how to avoid high-cost loans and abusive lending practices that violate the Fair Housing Act. Applicants must address in their project: (1) abusive lending practices and the fair housing implications to minority neighborhoods; and (2) legal approaches to confronting abusive lending practices, especially those linked to racial targeting and other potential violations of applicable fair housing laws | $300,000 | Same as EOI above. Applicants must have at least three years experience in planning public conferences at the community level | 12-18 months | $50,000 | See above.
EOI Fair Housing Awareness Component Applicants must undertake fair housing education and outreach to individuals impacted by Hurricane Katrina Applicants must develop a methodology for educating persons about their fair housing rights under the Act in areas impacted by Hurricane Katrina in the states of Louisiana, Mississippi, Alabama, and Texas or as a result of displacement of persons | $300,000 | Same as EOI above | 12-18 months | $100,000 | See above.

Eligibility of Successor Organizations for PEI. HUD recognizes that QFHOs and FHOs may merge with each other or other organizations. The merger of a QFHO or an FHO with a new organization, that has a separate Employer Identification Number (EIN), does not confer QFHO or FHO status upon the successor. To determine whether the successor organization meets the eligibility requirements for this Initiative, HUD will look at the enforcement-related experience of the successor organization (based upon the successor organization's EIN). The successor organization is not eligible to apply under this Initiative unless it establishes in its application that it is a private, tax-exempt organization with the requisite two years of enforcement related experience for a QFHO or one year experience for an FHO.

Administrative Costs

Eligible administrative costs include leases for office space, under the following conditions:

(1) The lease must be for existing facilities not requiring rehabilitation or construction;

(2) No repairs or renovations of the property may be undertaken with Federal funds; and

(3) Properties in the Coastal Barrier Resource System designated under the Coastal Barrier Resources Act (16 U.S.C. 3501) cannot be leased with Federal funds.

B. Cost Sharing or Matching. No matching funds are required for the Education and Outreach or Private Enforcement Initiatives.

C. Other

1. Threshold Requirements

Program Requirements for All Initiatives. In addition to the civil rights and other threshold requirements found in the General Section, FHIP program applications must also meet the following requirements:

a. Protected Classes. All FHIP-funded projects must address housing discrimination based upon race, color, religion, sex, disability, familial status, or national origin. All services and activities must be available to the protected class members.

b. Tax Exempt Status. Applicants for the PEI Initiative are ineligible for funding if they are not a 501(c)(3) tax-exempt organization as determined by the Internal Revenue Service (IRS) prior to the application deadline date.

c. Name Check Review. See the General Section.

d. Poor Performance. All applicants are ineligible for funding if they are a previous FHIP grantee that has received a “Poor” performance rating for its most recent performance rating from its Government Technical Representative (GTR). HUD will assess performance ratings for applicants who have received FHIP funding in FY 2002 through FY 2004. If the applicant has received a “poor” performance rating for its most recent performance rating from its GTR, its application is ineligible for the FY 2006 competition. An applicant that does not agree with its determination of ineligibility for the FY 2006 competition because of “poor” performance must address to HUD's satisfaction the factors resulting in the “poor” performance rating before the FHIP application deadline date. If the “poor” performance rating is not resolved to the Department's satisfaction before the application deadline date, the application is ineligible for the FY 2006 FHIP NOFA competition. HUD is interested in improving the performance level of all grantees; therefore, applicants who are deemed ineligible because of a “poor” performance rating have the right and are encouraged to seek technical assistance from HUD to correct their performance in order to be eligible for future NOFA competition. Applicants who have received a “poor” performance prior to FY 2003 must provide written documentation that they have implemented remedies to address those issues and concerns that contributed to a “poor” performance rating. This written documentation should be an addendum to the abstract.

e. Suits Against the United States. An application is ineligible for funding if, as a current or past recipient of FHIP funds, the organization used any funds provided by HUD for the payment of expenses in connection with litigation against the United States (24 CFR 125.104(f)).

f. Other Litigation. An application is ineligible for funding if the organization used funds provided by HUD under this Program to settle a claim, satisfy a judgment, or fulfill a court order in any defensive litigation (24 CFR 125.104).

g. Maximum award. Applicants are ineligible for funding if they request funding in excess of the maximum allowed under the Initiative or Component for which they are applying. In addition, inconsistencies in the amount requested and/or miscalculations that result in amounts over the maximum award will be considered excessive; therefore the application will be considered ineligible.

h. Dun and Bradstreet Numbering System (DUNS) Numbering Requirement. Refer to General Section for information regarding the DUNS requirement. You will need a DUNS number to complete your electronic application as it is a mandatory field on the electronic application. The Grants.gov registration also requires use of the DUNS number.

i. Majority of Eligible Activities. Greater than 50 percent of the activities and costs within the Statement of Work (SOW) and budget are fair housing related activities.

j. Fair Housing Assistance Program (FHAP). FHAP agencies who are under a suspension based on agency performance, as designated under 24 CFR Part 115.211(b) at time of application are ineligible for funding.

k. Minimum TEP Score. Applicants must receive a minimum TEP score of 75 to be considered for funding.

l. Application Preference. Applicants submitting multiple applications must state their preference for funding in the Abstract as applicants can only receive one award under the FHIP.

m. Independence of Awards. The application submitted must be independent and capable of being implemented without reliance on the selection of other applications.

n. Training funds. The proposed budget must set aside funds to participate in HUD mandatory sponsored or approved training in the amount of $7,000 for EOI and PEI components; and $7000 annually for a 36-month duration for PBFC.

Do not include amounts over the $7,000 (as appropriate) for the training set-aside in this category. If applicants do not include these funds in the budget and are selected for an award, HUD will modify the budget, reallocating the appropriate amount for training.

o. Accessibility Requirements. All activities, facilities, and materials funded by this program must be accessible and visitable to persons with disabilities (24 CFR 8.2, 8.4, 8.6, and 8.54).

p. Fair Housing Act. HUD expects applicants to address housing discrimination covered under the Act. HUD has determined there is a need to ensure equal opportunity and access to housing in communities across the nation.

q. Research Activities. Applicants are ineligible for funding if between 90-100% of their project is aimed at research.

r. Limited English Proficient (LEP). Applicants obtaining an award from HUD must provide access to program benefits and information to LEP individuals through translation and interpretive services in accordance with HUD's published LEP Guidance.

s. OMB Circular. For-profit awardees are not allowed to earn a profit and must adhere to OMB Circular A-133.

t. Single Audit Requirement. All applicants who have expended $500,000 or more in Federal financial assistance in a single year (this can be a program or fiscal year) must be audited in accordance with the OMB-A133 requirements as established in 24 CFR 84 and 85.

u. Reimbursement Requirement. All PEI grantees are required to reimburse the Federal government for the amount of the grant from all settlements, conciliations, and agreements obtained as a result of the use of FHIP funds. As an alternative to returning these funds to HUD, grantees may choose to use the funds as program income to further fair housing activities. However, the use of funds for this purpose must be pre-approved in writing by the Government Technical Representative assigned to the grant.

2. Other Program Requirements by Initiative

a. Under the PBFC, applicants must receive a minimum FY 2006 TEP score of 95 to be considered for funding.

b. Under the PEI Subprime Lending Component, applicants must demonstrate experience conducting fair-lending enforcement in the subprime market. Such experience includes: pending complaints, investigations, or litigation alleging discriminatory, subprime lending practices; past litigation alleging subprime lending discrimination; fair-lending testing of subprime lenders; published reports that include analysis the applicant has done on racial and ethnic patterns in subprime lending; and any past or pending investigation or litigation involving discriminatory, predatory lending. Applicant may use this funding to: assist with pending complaints, investigation, or litigation alleging discriminatory sub-prime or predatory lending; or support new fair lending investigations or litigation of discriminatory predatory lending, or other discrimination in the subprime market.

c. Under the PEI Hurricane Katrina Enforcement Component, applicants must undertake fair housing enforcement activities in areas impacted by Hurricane Katrina in the states of Louisiana, Mississippi, Alabama, or Texas; or areas which received displaced persons as a result of Hurricane Katrina.

d. Under the EOI Fair Housing Awareness Component, applicants must have three (3) years of experience and knowledge working with the local and State governments, social service and financial agencies within each of the states. HUD is particularly interested in applicants that present a plan to conduct outreach and address the needs of persons displaced as a result of Hurricane Katrina. The EOI plan can cover persons displaced within a state or persons that were displaced to a state.

e. Under the EOI Subprime Lending Component, applicants must have at least three years experience in planning public conferences at the community level.

3. Performance Measures and Products. For all Initiatives and Components. Applicants must submit a Logic Model (Form HUD 96010), which provides outputs and outcomes in their application. Applicants are also to identify the tools they will use to identify program progress against their proposed outputs and outcomes. See reporting requirements for reporting using the Logic Model and the frequency of the reporting. The form is located in the Instruction Download at http://www.Grants.gov/Apply for the FHIP program. The eLogic Model form is a Microsoft Excel ™ form, which provides a drop down list from which you select the responses that best fit your proposed program of activities/outputs and outcomes. The form, in HTML fillable format and a text Logic Model Master file, is available on HUD's Web site at http://www.hud.gov/offices/adm/grants/fundsavail.cfm for applicants that do not have access to Microsoft Excel ™. Training will be provided by satellite broadcast and webcast. The training materials and schedule will be available at the above HUD website. Applicants should check the site for dates and times for HUD training on the Logic Model.

For FY 2006, HUD is considering a new concept for the Logic Model. The new concept is a Return on Investment statement. HUD will be publishing a separate notice on the ROI concept.

4. Testing Requirements for PEI applicants. All applicants that propose testing must review the FHIP Regulation at 24 CFR Part 125.

a. Review and Approval of Testing Methodology. If your application proposes testing, other than rental housing testing, HUD may require copies of the following documents to be reviewed and approved by HUD prior to your carrying out the testing activities.

(1) The testing methodology to be used;

(2) The training materials to be provided for testing; and

(3) Other forms, protocols, cover letters, etc., used in the conduct of testing and reporting of results.

If HUD has approved your testing methodology for FY 2004 and FY 2005, there is no need to submit your testing methodology, unless you are revising the methodology that was approved by HUD. If changes are being made, or you have not had your testing methodology previously approved by HUD, you must submit information in your application.

b. Retainer Fees. FHIP recipients are under specific restrictions regarding establishment of retainer agreements and recovery of legal fees from HUD funded cases. Data on fees, settlements and verdicts are public record and must be provided to HUD on an annual basis. Either the grantee or the individual(s) on whose behalf any action is filed cannot waive these provisions. For additional information on these provisions, please see http://www.hud.gov/offices/fheo/library/index.cfm—Guidance.

IV. Application and Submission Information

A. Requesting an Application Package. This section describes how you may obtain application forms and additional information about the FHIP program. Copies of the published General Section, FHIP NOFA and application forms may be downloaded from the Grants.gov Web site at http://www.grants.gov or if you have difficulty accessing the information you may receive customer support from Grants.gov by calling their help line at (800) 518-GRANTS or sending an e-mail to support@grants.gov. If you do not have internet access and you need to obtain a copy of the NOFA you can contact HUD's NOFA Information Center toll-free at (800) HUD-8929. Persons with hearing or speech impairments may also call toll-free at (800) HUD-2209.

B. Content and Form of Application Submission. All applicants must read and adhere to Initiative-specific information. Applicants are encouraged to review the chart entitled “Summary of Initiatives/Components.” To submit documents using the facsimile method, see the General Section for specific procedures governing facsimile submission.

2. For All Applicants. The maximum narrative page requirement is ten (10) pages per factor. The narrative pages must be double-spaced. This includes all narrative text, titles and headings. (However, you may single space footnotes, quotations, references, captions, charts, forms, tables, figures and graphs). You are required to use 12-point type size. You must respond fully to each factor to obtain maximum points. Failure to provide narrative responses to all factors other than factor five or omitting requested information will result in less than the maximum points available for the given rating factor or sub-factor. Failure to provide double-spaced, 12-point type size narrative responses will result in five points being deducted from your overall score (one point per factor).

C. Submission Dates and Times. Applications must be received and validated by http://www.grants.gov no later than 11:59.59 p.m. eastern time on the application deadline date to be considered timely filed. Grants.gov will reject applications that do not meet the deadline requirement. See the General Section for further details.

The chart below gives a brief description of all items to be included within the application:

Complete application package contains application | Required content | Required form or format
Cover sheet | (per required form) | Form SF-424, available from (General Section).
Survey for Ensuring Equal Opportunity for Applicants | (per required form) | SF-424 Supplement.
Budget information | (per required form) | Form SF-424CB and SF-424CBW).
Disclosure of Lobbying Activities | (per required form) | SF-LLL, if applicable.
Applicant-Recipient Disclosure Update Report | (per required form) | HUD-2880.
Certification of Consistency with RC/EZ/EC-IIs Strategic Plan | (per required form) | HUD-2990.
Program Outcome Logic Model | (per required form) | HUD-96010.
Race and Ethnic Data Reporting Form | (per required form) | HUD-27061.
America's Affordable Communities Initiative | (per required form) | HUD-27300.
Narrative | Described in Section IV.B. of this announcement | Format described in Section IV.B of this announcement.
Letters from third parties contributing to cost sharing | Third parties' affirmations of amounts of their commitments | No specific form or format.
Addendum to Abstract—Correction of Poor Performance (as appropriate) | Written documentation that performance issues and concerns have been cured | No specific form or format.
Project Abstract | Short summary of project activities, areas of concentration and persons to be served. Preference for funding | No specific form or format.

D. Intergovernmental Review. Intergovernmental Review is not applicable to this program.

E. Funding Restrictions. PEI Limitations for Education & Outreach—There is a 10% limit on the amount of education and outreach related activities that can be funded in an enforcement award. If you exceed the limit, points will be deducted in the rating process and funds will be adjusted to maintain the required limitation.

F. Other Submission Requirements. Electronic delivery via http://www.grants.gov/Apply is HUD's required method for application submission. Applicants interested in applying for FHIP funding must submit their applications electronically or request a waiver from the Assistant Secretary of FHEO. The request must state the basis for the waiver request. HUD's regulation on waivers, found in 24 CFR part 5, states that waivers can be granted for cause. Waiver requests must be submitted at least 20 days prior to the application deadline date. If you receive a waiver of the electronic application submission requirement, your application must be received by HUD no later than 11:59:59 p.m. on the application deadline date. See the General Section for detailed instructions on how to submit applications using Grants.gov and the requirements and instructions for submitting a waiver request.

V. Application Review Information

A. Criteria for PEI and EOI Applications

1. Rating Factor 1: Capacity of Applicant and Relevant Organizational Experience (25 Points)

You must describe staff expertise and your organization's ability to complete the proposed activities within the grant period.

In General. You must describe your staffing plan and the extent to which you plan to add staff (employees) or contractors. If your application proposes using subcontractors and these subcontractor activities amount to more than 10 percent of your total activities, you must submit a separate budget for each subcontractor. Failure to include a separate budget will result in lower points being assessed to your application.

a. Number and expertise of staff (this includes subcontractors and consultants). (5) Points for current FHIP grantees; (10) Points for New Applicants. You must complete a summary of staff expertise that will show sufficient, qualified staff who will be available to complete the proposed activities. This summary should include: Names of staff person(s), time each will spend on project, years of fair housing/civil rights experience for each person, titles of staff persons, and a brief paragraph on each staff member which outlines his or her experience. Do not include résumés, or other documents. Those that submit resumes or other lengthy documents on staff experience will have points deducted from their application based on exceeding the ten page submission requirement.

To receive maximum points, your day-to-day program manager must devote a minimum of 75% of his/her time to the project, and this individual must be stationed in the metropolitan area where the project will be carried out. For day-to-day managers who do not have at least 75% of their time devoted to the project, no points will be awarded under this sub-factor. For example, if the Executive Director is responsible for managing the overall program administrative activities, the application should reflect the Executive Director's time as 75%. You may not designate more than one person to fit this 75% criterion. Your application must also clearly identify those persons that are on staff at the time this application is submitted and those persons who will be assigned at a later date and indicate whether the staff person is assigned to work full-time or part-time (if part-time, indicate the percentage of time each person is assigned to the project).

b. Organizational experience. (10) Points for current FHIP grantees; (15) Points for new applicants. In responding to this sub-factor, you, the applicant, must show that your organization has:

(1) Conducted a past project or projects similar in scope and complexity to the project proposed in this application (whether FHIP-funded or not), or

(2) Engaged in activities that, although not similar, are readily transferable to the proposed project.

(3) If you are an existing FHIP grantee, you must provide details about the progress and outcomes of your previous grant.

(4) You must provide a listing of all affiliate and/or subsidiary organizations, and identify which of these organizations will assist you in the development and/or implementation of any portion of your proposed FY2006 FHIP funded project. If you do not have any affiliate or subsidiaries, you should state this in your application.

EOI applicants must show that they have engaged in projects that are Regional/Local/Community based. Experience will be judged in terms of recent, relevant and successful experience of your staff to undertake eligible activities. In rating this factor, HUD will consider experience within the last three years to be recent, experience pertaining to the specific activities to be relevant, and experience producing measurable accomplishments to be successful. The more recent the experience and the more experience your own staff members who work on the project have in successfully conducting and completing similar activities, the greater the number of points you will receive for this rating factor.

(a) If you are applying for funding under PEI, you must provide the following information when responding to this sub-factor:

(i) If you propose to conduct testing (other than rental or accessibility testing), provide a brief narrative that documents that you have conducted successful testing in those areas.

(ii) Discuss your compliance with the requirement to either reimburse the Federal government for compensation received from FHIP-funded enforcement activities or use the compensation as program income to further fair housing activities. If you have not reimbursed the Federal government or used the funds as program income to further fair housing activities, explain why you have not. Also, state whether you reported to HUD any likely compensation that may result in such reimbursement or use for furthering fair housing. Two (2) points will be deducted for this sub-factor if you have not complied with the requirement.

(iii) If you are submitting an application under the PEI Hurricane Katrina Enforcement Component, you must show that activities will be undertaken in one of the areas impacted by Hurricane Katrina in the states of Louisiana, Alabama, Mississippi, or Texas or in areas impacted by the displacement of persons as a result of Hurricane Katrina.

(iv) If you are submitting an application under the PEI Subprime Lending Component, you must demonstrate experience in conducting fair-lending enforcement in the subprime market. Such experience includes: pending complaints, investigations, or litigation alleging discriminatory, subprime lending practices; past litigation alleging subprime lending discrimination; fair-lending testing of subprime lenders; published reports that include analysis the applicant has done on racial patterns in subprime lending; and any past or pending investigation or litigation involving discriminatory, predatory lending. Applicant may use this funding for: steering to subprime loans, providing different terms based on prohibited bases, as well as assist with pending complaints, investigation, or litigation alleging discriminatory subprime or predatory lending; or support new fair lending investigations or litigation of discriminatory predatory lending, or other discrimination in the subprime market.

(v) If you are submitting an application under the EOI Subprime Lending Component, you must show that you have the ability to plan public events at a regional/local level which educates consumers on fair housing, financial literacy, credit management and how to avoid high-cost loans and abusive lending practices that violate the Fair Housing Act. Applicants must address in their project: (1) abusive lending practices and the fair housing implications to minority neighborhoods; and (2) legal approaches to confronting abusive lending practices, especially those linked to racial targeting and other potential violations of applicable fair housing laws. In responding to this sub-factor, the applicant must describe the extent to which its and/or subcontractor's past activities have resulted in public events that have reached and impacted a large number of persons. Applicant must also show that it has experience in developing and implementing innovative strategies resulting in positive public response.

c. Performance on past project(s). (10) Points for current FHIP grantees; (0) Points for new applicants. HUD will assess your organization's past performance in conducting activities relevant to your application. For current FHIPs, past performance will be assessed based on your most recent performance assessment received from your HUD Government Technical Representative (GTR) for the past two (2) complete fiscal years (FY 2003 and FY2004).

This information will be provided to the Technical Evaluation Panel (TEP) by HUD staff. Based on past performance, the following points will be deducted from your score under this rating sub-factor:

(1) 10 points out of 10 possible points will be deducted if you received a “fair performance” assessment;

(2) 5 points out of 10 possible points will be deducted if you received a “good performance” assessment; and

(3) 0 points will be deducted if you received an “excellent performance” assessment.

2. Rating Factor 2: Need/Distress/Extent of the Problem (20 Points)

This factor addresses the extent to which there is a need for funding the proposed activities to address documented fair housing problems in target area(s). You will be evaluated on the information that you submit that describes the fair housing need in the geographic area you propose to serve, its urgency and how your project is responsive to that need. Applicants should document and use the Housing Discrimination Study 2000 (HDS2000) sponsored by the Department of Housing and Urban Development and conducted by the Urban Institute in their applications, if applicable. HDS2000 is the third national paired-testing study sponsored by HUD to measure patterns of racial and ethnic discrimination in U.S. housing markets.

a. Documentation of Need. To justify the need for your project, PEI and EOI applicants must describe the following:

(1) The fair housing need, including:

(a) Geographic area to be served and your proximity and experience within the area;

(b) Populations that will be served—your project must serve all persons protected by the Act; and

(c) The presence of housing discrimination, high segregation indices or other evidence of discrimination prohibited by the Act within the project area.

(2) The urgency of the identified need. For example:

(a) The potential consequences to persons if your application is not selected for funding;

(b) The extent to which other organizations provide the services identified in your application;

(c) Other sources that support the need and urgency for this project. (Do not include these sources within your application.) Please provide website information where these sources may be found. Applicants that provide detailed studies, including detailed consolidated plans for their referenced project area will have points deducted from this factor based upon the ten page submission requirement. For example, make reference to reports, statistics, or other data sources that you used that are sound and reliable, including but not limited to, HUD or other Federal, State or local government reports analyses, relevant economic and/or demographic data including those that show segregation, foundation reports and studies, news articles, and other information that relate to the identified need. Provide the Web site where these reports may be found for reference. Chapter V of the Fair Housing Planning Guide, Vol. 1 has other suggestions for supporting documentation. You may access the Guide from the HUD Web site at http://www.hud.gov./offices/adm/grants/fundsavail.cfm.

For all applicants: You must use sound data sources to identify the level of need and the urgency in meeting the need and provide Web site addresses for each data source (ex. Analysis of Impediments to Fair Housing Choice (AI), fair housing studies, etc.) For you to receive maximum points for this factor, there must be a direct relationship between your proposed activities, the outcomes to be accomplished, and the community or communities' fair housing needs, including your knowledge of and your proximity to the targeted area, and the purpose of the program funding.

To the extent possible, the data you use should be specific to the area where the proposed activity will be carried out. For example, if you propose to test in areas impacted by Hurricane Katrina in the states of Louisiana, Mississippi, Alabama or Texas you should document the number of displaced persons relocated to those areas and the impact of the numbers of displaced persons upon existing fair housing services. You should document needs as they apply to the specific area(s) where activities will be targeted and your proximity to the target area, rather than the entire locality or State. If the data presented does not specifically represent your target area, you should discuss why the target area was proposed.

(3) The link between the need and your proposed activities:

(a) How the proposed activities augment or improve upon on-going efforts by public and private agencies, grass-roots faith-based and other community-based organizations and other organizations and institutions in the target area, and/or

(b) Why, in light of other on-going efforts, the additional funding you are requesting is necessary.

b. In addition, with respect to Documentation of Need, the following apply to specific FHIP Initiatives or Components:

EOI-Disability Component. Your project must focus on persons with disabilities, however, you must serve all persons protected by the Act.

EOI-Subprime Lending Component. Your project must document and describe your understanding of the problem and its pervasiveness and an understanding of how to plan public events used to address the need.

PEI Subprime Lending Component. Your project must document that funds were used to assist private fair-lending enforcement efforts to address discrimination in the sub-prime mortgage market. Applicant should also document the need to: Assist with pending complaints, investigation, or litigation alleging discriminatory subprime lending; or support new fair lending investigations or litigation of discrimination in the subprime market.

3. Rating Factor 3: Soundness of Approach (35 Points)

You must describe your project in detail, demonstrate how your project activities will support HUD's goals, propose suggested performance measures/outcomes in support of these goals, and identify current baseline conditions and target levels of the performance measures that you plan to achieve. Attach a Statement of Work (SOW) and budget. Your proposed activities must support HUD's policy priorities as referenced in the General Section.

a. Support of Policy Priorities (8 Points). Describe how your proposed project will further and support HUD's policy priorities for FY 2006. HUD encourages applicants to undertake specific activities that will assist the Department in implementing its policy priorities and which will help the Department achieve its goals and objectives in FY 2006. HUD will evaluate the extent to which a program will further and support HUD's priorities. The quality of the responses provided to one or more of HUD's priorities will determine the score an applicant can receive. Applicants must describe how each policy priority selected will be addressed.

Applicants that just list a priority will receive no points. Each policy priority addressed must discuss the geographic area to be served in relation to the project's purpose, the persons to be served and the methodology for carrying out these activities. Each policy priority has a point value of one point, with the exception of the policy priority to remove regulatory barriers to affordable housing which has a point value of up to 2 points; and, for EOI applicants only, promoting participation by grassroots faith-based and other community-based organizations, or partnering with an organization promoting participation in grassroots faith-based and other community-based organizations, which has a point value of up to 4 points. It is up to the applicant to determine which of the policy priorities to address to receive the available 8 points. To secure the possible 2 points for efforts to remove regulatory barriers to affordable housing, an applicant must submit the completed questionnaire (HUD 27300), and provide the required documentation. Please see the General Section for further information on Removal of Regulatory Barriers to Affordable Housing. The questionnaire is part of the electronic application package and is also found in the Appendix to the General Section. For the full list of each policy priority, please refer to the General Section.

b. Proposed Statement of Work (SOW) and Information Requirements (17 Points). The SOW and budget are attachments that will not count toward the ten (10) page limit on the narrative response to this factor. However, points will be assigned based on the relevance of proposed activities to stated needs, attention to implementation steps, proposed activities consistent with organizational expertise and capacity and accuracy of the SOW and budget.

Statement of Work—Submit a proposed SOW that comprehensively outlines in chronological order the administrative and program activities and tasks to be performed during the grant period. Your outline should identify all activities and tasks to be performed and by whom (e.g., you, a subcontractor, or partner), and the products that will be provided to HUD and when. You should also include a schedule of your activities and products (with interim implementation steps), staff allocation over the term of the project; staff acquisition and training; and activities of partners and/or subcontractors. Applicants should provide numbers on the projected clients to be served. Do not provide ranges or percentages, but a specific number of clients. These numbers should represent individuals to be served entirely with HUD FHIP funding. For the EOI Fair Housing Awareness Component, HUD anticipates that products will be available in at least seven languages plus English. The languages will include French, Korean, Laotian, Vietnamese, Chinese, Arabic, and Spanish. For the EOI Subprime Lending Component, deliverables may include brochures, Public Service Announcements (PSAs) for radio in both majority and minority markets and posters and other graphic materials. Graphic materials may include but are not limited to enlarged reproductions of existing HUD printed PSAs and HUD materials. Provide information on media markets coverage with specific protected class focus, as well as those with Limited English Proficiency and a method for distribution of the finished product.

c. The Budget Form and the Budget Information (10 Points). HUD will also assess the soundness of your approach by evaluating the quality, thoroughness, and reasonableness of the budget and financial controls of your organization, including information on your proposed program cost categories. As part of your response, you must prepare a budget that is:

(1) Reasonable in achieving the goals identified in your proposed SOW;

(2) Relate tasks in the SOW to the proposed budget costs;

(3) Cost-effective, and includes a brief discussion of the extent to which your proposed program is cost effective in achieving the anticipated results of the proposed activities in the targeted area. Applicants seeking funding to conduct activities in an area other than the applicant's State or locality must discuss the cost effectiveness of where the activities will be conducted in relation to the location of the organization. HUD will look at the cost effectiveness of your travel to and from your location to the targeted area(s), personnel expenses for out-stationed personnel, contracts and sub-grantees, and other direct costs, which may include relocation expenses, and telecommunications expenses. Also, indicate how the proposed project is quantifiable based on the needs identified in Rating Factor 2.

(4) Quantifiable based on the need identified in Factor 2, and

(5) Justifiable for all cost categories in accordance with the cost categories indicated in the HUD-424 CB (see General Section Grant Application Detailed Budget). If you are awarded a grant or cooperative agreement under FHIP, staff will request that you include your approved indirect cost rate as part of your negotiations with HUD. If you do not have a Federally approved indirect cost rate and HUD is the cognizant agency, HUD will submit a request within 30 days after award to establish a rate. For information on indirect cost rates, you can review HUD's training on http://www.hud.gov./offices/adm/grants/fundsavail.cfm.

(6) Financial Management Capacity. Describe your organization's financial management system and your Board's contribution to the organization. In addition, discuss your capabilities in handling financial resources, dissemination to subcontracting affiliates, and maintenance of adequate accounting and internal control procedures.

(7) Grant Application Detailed Budget Worksheet (HUD-424-CBW). The HUD-424-CBW must show the total cost of the project and indicate other sources of funds that will be used for the project. While the costs are based only on estimates, the budget narrative work plan may include information obtained from various vendors, or you may rely on historical data. Applicants must round all budget items to the nearest dollar.

A written budget narrative work plan must accompany the proposed budget explaining each budget category listed and must explain each cost category. Failure to provide a written budget narrative work plan will result in 2 points being deducted from your application. It must explain each cost category you list. Where there are travel costs for subcontractors/consultants, you must show that the combined travel costs (per diem rates) are consistent with Federal Travel Regulations (41 CFR 301.11) and travel costs for the applicant's subcontractors and/or consultants do not exceed the rates and fees charged by local subcontractors and consultants. The narrative (which does not count toward the ten page limit) must address the Grant Application Detailed Budget.

4. Rating Factor 4: Leveraging Resources (5 Points)

This factor addresses your ability to secure additional resources to support your project. Points will be awarded on the basis of the percentage of non-FHIP resources you have identified and how firm the commitment is for those resources.

a. Firm Commitment of Leveraging. HUD requires you to secure resources from sources other than what is requested under this FHIP NOFA. Community resources may include funding or in-kind contributions, such as workspace or services or equipment, allocated to the purpose(s) of your proposal. Contributions from affiliates, subsidiaries, divisions, or employees of the applicant do not qualify as in-kind contributions. Resources may be provided by governmental entities (including other HUD programs if such costs are allowed by statute), public or private non-profit organizations, faith-based organizations, for-profit or civic private organizations, or other entities willing to work with you. In order to secure points you must establish leveraging of resources by identifying sources of contributors who have already provided to you letters of firm commitment from the organizations and/or individuals who will support your project. Each letter of firm commitment must:

(1) Identify the organization and/or individual committing resources to the project and identify any affiliation with the applicant,

(2) Identify the sources and amounts of the leveraged resources (the total FHIP and non-FHIP amounts must match those in your proposed budget submitted under Factor 3), and

(3) Describe how these resources will be used under your SOW. The letter must be signed by the individual or organization official legally able to make commitments for the organization. If the resources are in-kind or donated goods, the commitment letter must indicate the fair market value of those resources and describe how this fair market value was determined. (Do not include indirect costs within your in-kind resources). In-kind matching and leveraging contributions, as well as Program Income must comply with 24 CFR 84.23 and 84.24 requirements. FHIP funds cannot be used for in-kind or donated services (for example, a current staff person on a FHIP-funded project). No points will be awarded for general letters of support endorsing the project from organizations, including elected officials on the local, State, or national levels, and/or individuals in your community. See General Section for instructions on how third party documents are to be submitted to HUD via the electronic submission process. For PEI and EOI, if your project will not be supported by non-FHIP resources, then you will not receive any points under this factor. Points will be assigned for each Initiative based on the following scale:

One point will be awarded if less than 5% of the projects total costs come from non-FHIP resources.

Two points will be awarded if between 5% and 10% of the project's total costs are from non-FHIP resources.

Three points will be awarded if between 11% and 20% of the project's total costs are from non-FHIP resources.

Four points will be awarded if between 21% and 30% of the project's total costs are from non-FHIP resources.

Five points will be awarded if at least 31% of the project's total costs are from non-FHIP resources.

5. Rating Factor 5: Achieving Results and Program Evaluation (15 Points)

a. In evaluating this factor, HUD will assess the extent to which you demonstrate how you will measure success or results to be achieved that represent the work of your organization as set out in your budget. Applicants must select from the list of activities and outcomes detailed in the Logic Model for the Initiative applied for and should determine from these selections, their specific methods and measures to assess progress, evaluate program effectiveness, and identify program changes necessary to improve performance. This will ensure that performance measures are met and that grantees are establishing achievable realistic goals. Applicants who have identified outputs and outcome measurements and include means for assessing these measurements, tracking and monitoring performance goals and achievements against these commitments made in the application, will receive higher points than those that do not. To meet this Factor requirement, you must submit HUD's Logic Model.

Instructions and a Microsoft Excel ™ form are provided in the forms appended to the Instruction Download on www.Grants.gov/APPLY. Applicants that do not have access to Microsoft Excel ™ may obtain a copy of the form in HTML fillable format along with a text format of the Master Logic Model listing, from HUD's Web site at http://www.hud.gov/offices/adm/grants/fundsavail.cfm.

A narrative response is not required for this factor as all applicants must use the Logic Model Form to respond to this Factor. Applicants that submit narrative responses rather than use the Logic Model Form will receive no points under this subfactor. Applicants should also review the Logic Model training which can be found at http://www.hud.gov/offices/adm/grants/training/training.cfm.

b. In evaluating this Factor:

(1) HUD will review the activities/outputs and outcomes units of measurement you selected and in relation to the needs of your intended audience or target populations;

(2) Output. The direct products of the applicant's activities that lead to the ultimate achievement of outcomes. Examples of activities and outputs for PEI and EOI applicants can be found at http://www.hud.gov/offices/adm/grants/fundsavail.cfm. Applicants must select one or more activities from the listing of “Fair Housing Services Provided” that will be undertaken by your organization. Applicants who do not select from the list “Fair Housing Services Provided” or those who wish to add additional services to the list will not receive any points under this Factor.

(3) Outcome. Demonstrate ability to measure outcomes so the major outcome is to increase awareness of fair housing laws and enforce the fair housing act. Outcomes are benefits provided to all protected class members as a result of education and outreach or fair housing enforcement activities; and, performance indicators the applicant expects to achieve or goals it hopes to meet over the term of the proposed grant. The Logic Model has a prepared list of activities, outcomes and indicators associated with Fair Housing. Applicants must choose from this list of “Short-Term, Intermediate-Term, or Long-Term” outcomes that are provided as part of the FHIP NOFA. Applicants who do not select from the list “Outcomes and Indicators” will not receive any points under this Factor. You should assess progress and track performance in meeting the goals and objectives outlined in the work plan.

Accountability can be achieved using specific measurement tools to assess the impact of your solutions. Examples include:

• Intake Instrument;

• Pre/Post Tests;

• Customer/Client Satisfaction Survey;

• Follow-up Survey;

• Observational Survey;

• Functioning scale; or

• Self-sufficiency scale.

For the EOI-Disability Component, you should also demonstrate how the activities will assist the Department in implementing the New Freedom Initiative (see General Section).

B. Reviews and Selection Process

1. Rating and Ranking. Although all rating factors are organized the same way for all FHIP initiatives, there are differences in application requirements and rating criteria, which are indicated throughout the Rating Factor instructions. Your application for funding will be evaluated competitively against all other applications submitted under one of the following Initiatives or Components:

a. Private Enforcement Initiative (PEI)—

(1) General Component (PEI-GC);

(2) Performance Based Funding Component (PBFC);

(3) Subprime Lending Component (PEI-SL);

(4) Hurricane Katrina Enforcement Component (PEI-EC).

b. Education and Outreach Initiative (EOI)—

(1) General Component (EOI-GC);

(2) Disability Component (EOI-DC);

(3) Fair Housing Awareness Component—(EOI-FHAC);

(4) Subprime Lending Component—(EOI-SL).

For all initiatives, all eligible applications will be reviewed and points awarded based upon:

1. Narrative responses to the Factors for Award and accompanying materials, and

2. RC/EC/EZ-IIs bonus points, as applicable. Ineligible applications will not be ranked. The maximum number of points to be awarded for the Rating Factors is 100. See the General Section for information on Bonus Points.

Only applications with a score of seventy-five (75) points or more will be considered of sufficient quality for funding. Generally, applications of sufficient quality for funding will be selected in rank order under each Initiative or Component.

PBFC applicants will be evaluated competitively against other PBFC applicants who apply and have received two years of excellent performance reviews for FHIP PEI awards made in any two consecutive years from FY 2002 through FY 2004, as well as scoring a 95 on their most current performance review. These applicants will then be rated by the Technical Evaluation Panel and ranked by score. Only those applicants who receive a minimum final score of 95 or above from the TEP will be considered for funding under this Component.

2. Tie Breaking. When two or more applications have the same total overall score, the application with the higher score under Rating Factor 3 will be ranked higher. If this does not break the tie, the application with the higher score under Rating Factor 1will be ranked higher. If this does not break the tie, the application requesting the lower amount of FHIP funding will be ranked higher. Finally, if this does not break the tie, the application with the higher score under Rating Factor 2 will be rated higher.

For the PBFC, the tie breaking provision does not apply.

3. Achieving Geographic Diversity of Awards. PEI and EOI: HUD reserves the right to apply geographic diversity, to ensure that, to the extent possible, applications from more States for each Initiative or Component are selected for funding. If the Selecting Official exercises this discretion, there will be two determinants used: (1) Geography and (2) score. Geographic diversity shall be applied to all qualified applications (applications of sufficient quality for funding—applications that received a score of 75 or more points) in each Initiative or Component in which the Selecting Official applies geographic diversity. The geographic diversity provision will be applied as follows: when there are two or more applications of sufficient quality from the same State, the application(s) with the lower score(s) will be moved to the end of the qualified queue. The applications moved to the end of the qualified queue will retain their geographic rank order. If sufficient funds remain, it is possible that applications moved to the end of the queue may be selected for award.

For the PBFC, the geographic diversity provision does not apply.

4. Adjustments to Funding. As provided in the General Section, HUD may approve an application for an amount lower than the amount requested, fund only portions of the application, withhold funds after approval, reallocate funds among activities and/or require that special conditions be added to the grant agreement, in accordance with 24 CFR 84.14, the requirements of the General Section, or where:

a. HUD determines the amount requested for one or more eligible activities is unreasonable or unnecessary;

b. An ineligible activity is proposed in an otherwise eligible project;

c. Insufficient amounts remain to fund the full amount requested in the application, and HUD determines that partial funding is a viable option;

d. The past record of key personnel warrants special conditions; or,

e. Training funds are not reserved for FHIP training.

5. Reallocation of Funds. If after all applications within funding range have been selected or obligations are completed in an Initiative and funds remain available, the Selecting Official or designee will have the discretion to reallocate leftover funds in rank order among Initiatives as follows:

a. For EOI, any remaining funds from any component will be reallocated first within the Initiative; if after reallocating funds within the Initiative left over funds remain, they shall be reallocated to PEI;

b. For PEI, any remaining funds from any component will be reallocated first within the Initiative, if after reallocating funds within the Initiative left over funds remain, they shall be reallocated to EOI.

C. Anticipated Announcement and Award Dates

For planning purposes, anticipate an announcement date of September 23, 2006 and an award date of September 29, 2006.

VI. Award Administration Information

A. Award Notices

1. Applicant Notification and Award Procedures.

a. Notification. No information about the review and award process will be available during the period of HUD evaluation, which begins on the application deadline date under this NOFA and lasts approximately 90 days thereafter. However, you will be advised, in writing or by telephone, if HUD determines that your application is ineligible or has technical deficiencies which may be corrected as described in the General Section. HUD will communicate only with persons specifically identified in the application on the SF-424. HUD will not provide information about the application to third parties such as subcontractors.

b. Negotiations. If you are selected, HUD will require you to participate in negotiations to determine the specific terms of your cooperative or grant agreement. HUD will follow the negotiation procedures described in the General Section. The selection is conditional and does not become final until the negotiations between the applicant and the Department are successfully concluded and the grant or cooperative agreement is signed and executed. HUD will negotiate only with the person identified in the application as the Director of the organization or if specifically identified in the application as the Project Director. HUD will not negotiate with any third party (i.e., a subcontractor, etc.). Grantees awarded funding who have had a ‘poor performance' rating in years prior to FY 2003, will be required to provide documentation of the agency's improved performance status during negotiations. The Grant Officer and Government Technical Representative will determine on a case-by-case basis if technical assistance or special conditions are required.

Performance Based Funding Component-Applicants selected for funding under the PBFC will be required to submit a SOW that projects the agency's activities for a period of three years commensurate with the level of funding.

c. Applicant Debriefing. After awards are announced, applicants may receive a debriefing on their application as described in the General Section. Materials provided during the debriefing will be the applicant's final scores for each rating factor and final evaluator comments for each rating factor. Applicants requesting a debriefing must send a written request to Annette Corley, Grant Officer, U.S. Department of Housing and Urban Development, FHIP/Support Division, 451 7th Street SW., Room 5224, Washington, DC 20410. HUD will not release the names of applicants or their scores to third parties.

B. Administrative and National Policy Requirements

1. Accessibility Requirements. All activities, facilities, and materials funded by this Program must be accessible to persons with disabilities (24 CFR 8.2, 8.4, 8.6, and 8.54).

2. Protected Classes. All FHIP-funded projects must address housing discrimination based upon race, color, religion, sex, disability, familial status, or national origin.

3. Environmental Requirements. In accordance with 24 CFR 50.19(b)(3), (4), (9), (12), and (13) of HUD regulations, activities assisted under this program are categorically excluded from the requirements of the National Environmental Policy Act and are not subject to environmental review under related laws and authorities.

4. Procurement of Recovered Materials. State agencies (FHAP agencies) and agencies of a political subdivision of a State that are using assistance under a HUD program NOFA for procurement, and any person contracting with such an agency with respect to work performed under an assisted contract, must comply with the requirements of Section 6002 of the Solid Waste Disposal Act, as amended by the Resource Conservation and Recovery Act. See General Section for details.

5. Product Information. Press releases and any other product intended to be disseminated to the public must be submitted to the Government Technical Representative (GTR) two weeks before release for approval and acceptance.

6. Ensuring the Participation of Small Businesses, Small Disadvantaged Businesses, and Women Owned Businesses. (See General Section).

7. Payment Contingent on Completion. Payment of FHIP funds is made on a reimbursement basis. Payments are contingent on the satisfactory and timely completion of your project activities and products as reflected in your grant or cooperative agreement. Requests for funds must be accompanied by financial and progress reports.

8. Copyright Materials. You may copyright any work that is eligible for copyright protection subject to HUD's right to reproduce, publish, or otherwise use your work for Federal purposes, and to authorize others to do so as required in 24 CFR 84.36.

9. Complaints Against Awardees. Each FHIP award is overseen by a HUD Grant Officer (See http://www.hud.gov for list of Grant Officers per region). Complaints from the public against FHIP grantees should be forwarded to the Grant Officer. The Grant Officer's name and contact information is provided in the grant agreement. If, after notice and consideration of relevant information, the Grant Officer concludes that there has been inappropriate conduct, such as a violation of FHIP program requirements, terms or conditions of the grant, or any other applicable statute, regulation or other requirement, HUD will take appropriate action in accordance with 24 CFR 84.62. Such action may include: written reprimand; consideration of past performance in awarding future FHIP applications; repayment to HUD of funds received under the grant; or temporary or permanent denial of participation in the FHIP in accordance with 24 CFR part 24.

10. Double Payments. If you are awarded funds under this NOFA, you (and any subcontractor or consultant) may not charge or claim credit for the activities performed under this project under any other Federally assisted project.

11. Performance Sanctions. A grantee or subcontractor failing to comply with the requirements set forth in its grant agreement will be liable for such sanctions as may be authorized by law, including repayment of improperly used funds, termination of further participation in the FHIP, and denial of further participation in programs of HUD or any Federal agency.

C. Reporting

1. HUD requires that funded recipients collect racial and ethnic beneficiary data. It has adopted the Office of Management and Budget's Standards for the Collection of Racial and Ethnic Data. In view of these requirements, you should use Form HUD-27061, Racial and Ethnic Data Reporting Form (and instructions for its use), found on http://www.HUDclips.org, a comparable program form, or a comparable electronic data system for this purpose. Quarterly and as your project ends, you must report meaningful data derived from client feedback on how they benefited from your project's activities.

2. Listed below is a sample-reporting document of activities and tasks to be performed by a FHIP Grantee.

Administrative Activities
Activities | Tasks | Submitted by | Submitted to
1. Complete HUD-22081 Race and Ethnic Data Reporting Form |  | 45 Days | GTR/GTM
2. Complete HUD-28807 Disclosure Statements | Submit Disclosure Statement. If no changes occur, submit statement of no change with final report | When changes occur | GTR/GTM
3. Complete SF-269A Financial Status Report and Written Quarterly Status Reports on All Activities | Submit SF-269A and Copy of Written Report | Quarterly | GTR/GTM
4. Voucher for Payment | Submit payment request to LOCCS | Per Payment Schedule | GTR/GTM
5. Complete Listing of Current or Pending Grants/Contracts/Other Financial Agreements | Submit listing for recipient and any contractors | 45 Days and At end of Grant | GTR/GTM
6. Prepare and Submit Draft of Final Report, including HUD 96010 | Submit Draft of Report. Report your eLogic Model Reporting your short- and intermediate term outputs and outcomes as contained in the eLogic Model submitted and approved in your grant agreement. Your report and eLogic Model should identify results ands benefits to date of the work accomplished under the FHIP award. In addition, the eLogic Model should include an attachment that addresses the management questions applicable to your work program. Complaint and testing activities should provide data on complaints received and tests conducted by basis, issues, and outcomes. This should include number of credible, legitimate complaints filed with HUD, a State or local Fair Housing Agency, Department of Justice or private litigator; and types of relief/results | One month before end of grant term | GTR/GTM
7. Complete Final Report and Provide Copies of All Final Products Not Previously Submitted | Submit a copy of the Final Report, including a final Logic Model with all outputs and outcomes identified, and management questions responded to. Submit all Final Products not previously submitted to GTR and GTM | Within 90 days after end of grant term | GTR/GTM
8. Submit 2 copies of Final Report and all final program products produced under the Grant (with diskette, where feasible) to HUD | Submit detailed description of items submitted to GTR and GTM | Within 90 days after end of grant term | GTR/GTM

VII. Agency Contacts

You may contact Myron P. Newry or Denise L. Brooks, of the Office of Fair Housing and Equal Opportunity's FHIP Support Division, at 202-708-0800 (this is not a toll-free number). Persons with hearing or speech impairments may contact the Division by calling 1-800-290-1617 (this is a toll-free number).

VIII. Other Information

1. Paperwork Reduction Act. The information collection requirements contained in this document have been approved by the Office of Management and Budget (OMB) under the Paperwork Reduction Act of 1995 (44 U.S.C. 3501-3520) and assigned OMB control number 2529-0033. In accordance with the Paperwork Reduction Act, HUD may not conduct or sponsor, and a person is not required to respond to a collection of information unless the collection displays a currently valid OMB control number. Public reporting burdens for the collection of information is estimated to average 100 hours per annum per respondent for the application and grant administration. This includes the time for collecting, reviewing, and reporting the data for the application, semi-annual reports and final report. The information will be used for grantee selection and monitoring the administration of funds. Response to this request for information is required in order to receive the benefits to be derived.

BILLING CODE 4210-01-P

Housing Counseling Program

Overview Information

A. Federal Agency Name: Department of Housing and Urban Development, Office of Single Family Housing.

B. Funding Opportunity Title: Housing Counseling Program.

C. Announcement Type: Initial Announcement.

D. Funding Opportunity Number: The Federal Register number is: FR-5030-N-03. The OMB Approval number is: 2502-0261.

E. Catalog of Federal Domestic Assistance (CFDA) Number: 14.169 Housing Counseling Assistance Program.

F. Dates: The application deadline date is May 23, 2006. Please see the General Section for application submission and timely receipt procedures.

G. Available Funds: Approximately $39.08 million is made available for eligible applicants under this program NOFA.

Full Text of Announcement

I. Funding Opportunity Description

A. Program Description. This program supports the delivery of a wide variety of housing counseling services to homebuyers, homeowners, low-to moderate-income renters, and the homeless. The primary objectives of the program are to expand homeownership opportunities and improve access to affordable housing. Counselors provide guidance and advice to help families and individuals improve their housing conditions and meet the responsibilities of tenancy and homeownership. Counselors also help borrowers avoid inflated appraisals, unreasonably high interest rates, unaffordable repayment terms, and other conditions that can result in a loss of equity, increased debt, default, and eventually foreclosure.

Applicants funded through this program may also provide Home Equity Conversion Mortgage (HECM) counseling to elderly homeowners who seek to convert equity in their homes into income that can be used to pay for home improvements, medical costs, living expenses, or other expenses.

B. Grant Applicant Categories. HUD will award a single comprehensive grant to qualified applicants through one of three categories: (1) Local Housing Counseling Agencies (LHCAs); (2) National and Regional Intermediaries (Intermediaries); and (3) State Housing Finance Agencies (SHFAs).

Supplemental funding is available to qualified intermediaries for counseling and educational activities in conjunction with HUD's Home Equity Conversion Mortgage (HECM) Program.

C. Authority. HUD's Housing Counseling Program is authorized by Section 106 of the Housing and Urban Development Act of 1968 (12 U.S.C. 1701x).

The Home Equity Conversion Mortgage (HECM) Program is authorized by section 255 of the National Housing Act (12 U.S.C. 1715z-20).

II. Award Information

A. Amount Allocated. Of the approximately $41.58 million appropriated for housing counseling in FY 2006 under the Department of Housing and Urban Development Appropriations Act, 2006 (Pub. L. 109-115; approved Nov. 30, 2005), approximately $39.08 million is available for eligible applicants under this NOFA. Specifically, approximately $36.08 million is available for comprehensive counseling, and $3.0 million is available for HECM counseling.

B. Specific Allocations. Funding is allocated to each Homeownership Center (HOC), regional HUD offices that oversee the Housing Counseling Program in their jurisdiction, by a formula that incorporates first-time homebuyer rates, default rates, HECM endorsements, past performance by agencies in the jurisdiction, and minority homebuyers.

Applicant categories | Who is eligible | Total amount available
Category 1—LHCAs | HUD-approved Local Housing Counseling Agencies | $14,071,200
Category 2—Intermediaries | HUD-approved National and Regional Intermediaries | 22,844,000
Category 3—SHFAs | State Housing Finance Agencies | 2,164,800

1. Category 1—Local Housing Counseling Agencies (LHCAs). Approximately $14,071,200 is available from HUD to directly fund HUD-approved LHCAs. A LHCA can only request funding for its main office and branches located in the same state as the main office and/or located in one other contiguous state.

Allocations for Category 1 by HOC are as follows: Atlanta $4,002,747, Denver $3,830,864, Philadelphia $3,870,451, and Santa Ana $2,367,138.

2. Category 2—Intermediaries. Approximately $22,844,000 is available from HUD to directly fund HUD-approved Intermediaries, including $19,844,000 for comprehensive counseling and $3.0 million for HECM counseling.

3. Category 3—State Housing Finance Agencies (SHFAs). Approximately $2,164,800 is available to fund SHFAs that provide housing counseling services directly or serve as intermediaries to Affiliates who offer housing counseling services. Allocations for Category 3 by HOC are as follows: Atlanta $615,886, Denver $589,259, Philadelphia $595,536, and Santa Ana $364,119.

C. Individual Awards.

1. Category 1. No individual LHCA may be awarded more than $200,000. HUD anticipates that the average total award for LHCAs will be approximately $45,000.

2. Category 2. Awards for individual HUD-approved intermediaries may not exceed $5.5 million, which includes any HECM supplemental funding. The limit for Comprehensive Counseling is $2.5 million and the limit for HECM counseling is $3.0 million. HUD anticipates that the average total award for Intermediaries will be $1.3 million.

3. Category 3. No individual SHFA may be awarded more than $450,000. HUD anticipates that the average total award for SHFAs will be approximately $145,000.

D. Grant Period. Funds awarded shall be available for a period of 12 calendar months.

E. Award Instrument. HUD will use a Grant Agreement. All Housing Counseling Program awards will be made on a cost reimbursement basis.

III. Eligibility Information

A. Definitions

1. Affiliate. An affiliate is a separately incorporated or organized housing counseling agency connected with an intermediary or SHFA for the purposes of its housing counseling program. To be eligible for a sub-grant an affiliate must be: (1) Duly organized and existing as a nonprofit, (2) in good standing under the laws of the state of its organization, and (3) authorized to do business in the states where it proposes to provide housing counseling services.

2. Applicant. “Applicant” refers to a HUD-approved housing counseling agency or SHFA applying for a Housing Counseling grant from HUD through this NOFA. The term “Applicant” includes the agency's branch or branch offices identified in its application.

3. Branch. “Branch” or “Branch Office” refers to an organizational and subordinate unit of an LHCA or Intermediary not separately incorporated or organized. A Branch or Branch Office must be in good standing under the laws of the state where it is authorized to do business and where it proposes to provide housing counseling services. A Branch or Branch Office cannot be an applicant, affiliate or sub-grantee.

4. Grantee. “Grantee” refers to the HUD-approved housing counseling agencies or SHFAs that receive housing counseling funds from HUD through this NOFA. The term “Grantee” includes the agency's branch or branch offices identified in its application.

5. HUD HECM Network Counselor. A “HUD HECM Network Counselor” is a housing counselor that has passed the HECM exam administered by HUD and/or its agent, and is approved by HUD to provide HECM counseling nationally by telephone.

6. Intermediary. “Intermediary” refers to a HUD-approved national or regional organization that provides housing counseling services through its branches or affiliates.

7. Local Housing Counseling Agency (LHCA). “LHCA” refers to a HUD-approved Local Housing Counseling Agency. LHCAs must be approved by one of HUD's four HOCs. Affiliates of HUD-approved Housing Counseling intermediaries are not HUD-approved LHCAs by virtue of their affiliation with the intermediary. They are, however, eligible to individually apply for HUD approval as an LHCA.

8. State Housing Finance Agency (SHFA). For the purpose of this NOFA, a “SHFA” is the unique public body, agency, or instrumentality created by a specific act of a state legislature and empowered to finance activities designed to provide housing and related facilities and services, for example through land acquisition, construction or rehabilitation, throughout a state. The term state includes the fifty states, Puerto Rico, the District of Columbia, Guam, the Commonwealth of the Northern Mariana Islands, American Samoa, and the U.S. Virgin Islands.

9. Sub-grantee. “Sub-grantee” refers to an organization to which the grantee awards a sub-grant, and which is accountable to the grantee for the use of the funds provided. A Sub-grantee may be separately incorporated or organized, but connected with an intermediary or SHFA for purposes of this NOFA.

All Sub-grantees must be identified in the grantee's application. Under certain conditions, grantees may amend their Sub-grantee list after awards are made.

B. Eligible Applicants

Eligible applicants include: HUD-approved Local Housing Counseling Agencies (LHCAs); HUD-approved national and regional intermediaries (Intermediaries); and State Housing Finance Agencies (SHFAs).

C. Cost Sharing or Matching

No specific ratio is required. However, in order to receive points under Rating Factor 4, applicants are required to demonstrate the commitment of other private and public sources of funding to supplement HUD funding for the applicant's counseling program. HUD does not intend for the Housing Counseling grants to cover all costs incurred by an applicant.

D. Eligible Activities for Awards Under All Applicant Categories

Grantees and sub-grantees will only be reimbursed for the applicable activities outlined in this Section.

1. Individual counseling or group education/classes regarding the following topics:

a. Pre-Purchase/Homebuying. This includes: evaluating mortgagor readiness; search assistance/mobility; fair housing, including how to recognize discrimination; budgeting for mortgage payments; money management (does not include administration of debt management plans whereby an organization pays bills on behalf of a client); selecting a real estate agent, and home inspection. This also may include guidance on: alternative sources of mortgage credit; how to apply for special programs available to potential homebuyers; how to identify and avoid predatory lending practices; locating housing that provides universal design and visitability; how to purchase a home using the Section 8 Homeownership Voucher Program, and referrals to community services and regulatory agencies.

Applicants that provide homebuyer education must also offer individual counseling that complements the group sessions.

b. Resolving or Preventing Mortgage Delinquency or Default. This includes: restructuring debt, obtaining re-certification for mortgage subsidy, establishing reinstatement plans, seeking loan forbearance, and managing household finances. This can also include helping clients affected by predatory lending, foreclosure prevention strategies, explaining the foreclosure process, providing referrals to other sources, and assisting clients with locating alternative housing, or pursuing loss mitigation strategies.

c. Non-Delinquency Post-Purchase, including Improving Mortgage Terms and Home Improvement. This includes information and advice on finding favorable mortgage loan terms, personal money management, and relations with lenders. It also includes: home improvement and rehabilitation; property maintenance; loan and grant options; the loan or grant application processes; what housing codes and housing enforcement procedures apply for the intended activity; accessibility codes and how to design features to provide accessibility for persons with disabilities; non-discriminatory lending and funding for persons who modify their dwellings to accommodate disabilities; visitability and universal design; how to specify and bid construction work; how to enter into construction contracts; and how to manage construction contracts, including actions to address the non-performance of contractors. Agencies that provide post-purchase education classes must also offer individual counseling to complement group sessions.

d. Locating, Securing, or Maintaining Residence in Rental Housing. This refers to renter-related topics, including: helping clients obtain and utilize rent subsidies; pre-rental search assistance/mobility counseling; budgeting for rent payments; educating clients on landlords' and renters' rights; explaining the eviction process; ensuring clients understand their rights when faced with displacement; explaining the responsibility of the entity causing displacement; and providing assistance with locating alternate housing.

e. Shelter or Services for the Homeless. Includes referrals to social, community, and homeless services such as emergency shelter or transitional housing.

2. HECM Counseling—This includes providing the statutorily-required counseling to individuals/families that may be eligible for, or are interested in obtaining, an FHA-insured Home Equity Conversion Mortgage (HECM). This counseling assists elderly homeowners who seek to convert equity in their homes into income that can be used to pay for home improvements, medical costs, living expenses, or other expenses.

3. Marketing and Outreach Initiatives. This includes providing general information and materials about housing opportunities and issues, conducting informational campaigns, advocating with lenders for non-traditional lending standards, and raising awareness about critical housing topics, such as predatory lending or fair housing issues. (Note: affirmative fair housing outreach should be directed at those populations least likely to seek counseling services. To do so, it may be necessary to broaden the target areas or provide translation and interpretive services in languages other than English in order to reach a greater variety of racial and ethnic minorities.)

4. Training to increase the capacity of housing counselors and program managers.

5. Computer equipment/systems with the objective of improving the quality of counseling and education services available.

6. Administrative Costs. For intermediaries and SHFAs, administrative costs associated with managing a network of housing counseling agencies and providing technical assistance.

E. Threshold Requirements

Applications that do not meet all of the following Threshold Requirements are not eligible to receive an award from HUD.

1. Applicants, and Sub-grantees, must meet the Threshold Requirements in the General Section.

2. Minimum grant request. Applications must contain a request for comprehensive funds of not less than $20,000 from LHCAs, not less than $50,000 from SHFAs and not less than $200,000 from Intermediaries. Applications for lesser amounts will not be considered. Intermediaries must request a minimum of $500,000 for HECM supplemental funding. HUD will consider the amount of the comprehensive counseling grant being requested to be the value entered into box 15a on form SF-424. For intermediaries also requesting HECM supplemental funding, box 15a of Form SF-424 should reflect the total of the comprehensive request and the HECM supplemental request. For these intermediaries requesting both, the narrative response to Factor 3 must make clear the exact comprehensive and supplemental amounts being requested.

3. Only HUD-approved Housing Counseling Agencies and SHFAs may apply. Applicants must be currently approved by HUD as an LHCA or as a housing counseling intermediary, and have secured HUD approval as a housing counseling agency by the publication date of this Housing Counseling Program NOFA. SHFAs are not required to be HUD-approved, but must meet the eligibility requirements listed in this NOFA.

4. Applicants Requesting Supplemental HECM Funding. No separate application is needed to apply for supplemental funding. However, applicants requesting supplemental HECM funding must meet the following requirements:

a. Request the supplemental funding by identifying in box 15a of Form SF-424 the total of the comprehensive request and the HECM supplemental request, and making clear in the narrative response to Factor 3 the exact comprehensive and supplemental amounts being requested;

b. Identify HECM-related needs in the target community in its response to Rating Factor 2;

c. Respond to all HECM-related requests for information throughout the NOFA;

d. Include counseling and other related activities targeted at HECM clients over and above the proposed comprehensive counseling activities listed in response to the Rating Factors; and

e. Indicate in the Rating Factors how many individuals will be served specifically with the requested supplemental funding for HECM counseling in addition to those served under the comprehensive counseling award. Be sure to clearly identify the total number projected to be served, the activities to be provided, and the output and outcome goals to be achieved with the supplemental funding.

5. Recipients of Previous Housing Counseling Grants. Applicants that received a HUD Housing Counseling grant or grants through the FY2004 HUD Housing Counseling NOFA, and did not receive an extension approved by HUD, must have drawn-down at least 70 percent of award monies by December 31, 2005. Exceptions may be made for applicants that adequately demonstrate that performance projections for the period were exceeded with greater cost efficiency than originally proposed.

F. Other Program Requirements

1. To receive a grant or subgrant under this Housing Counseling NOFA, all applicants and subgrantees (except SHFAs) must be:

a. In good standing under the laws of the state of their organization; and

b. Authorized to do business in the states where they propose to provide housing counseling services.

c. All grantees and sub-grantees must make counseling offices and services accessible to persons with a wide range of disabilities and help persons locate suitable housing in locations throughout the applicant's community, target area, or metropolitan area, as defined by the applicant.

2. Limits on Applications

a. HUD-approved LHCAs. HUD-approved LHCAs may apply for and receive: one grant under Applicant Category 1; or one sub-grant from an intermediary or SHFA under Applicant Category 2 or 3, but not both. The only exception to this rule is that HUD-approved LHCAs with one or more HUD HECM Network Counselors may receive a sub-grant or be reimbursed exclusively for HECM counseling activities from a HUD-approved intermediary administering the HECM supplemental funds made available through this NOFA.

Funded LHCAs may not make sub-grants to other HUD-approved LHCAs or non-HUD-approved entities.

b. HUD-approved Intermediaries. HUD approved intermediaries may only apply for a grant under Applicant Category 2. HUD-approved intermediaries are also eligible for supplemental funding for HECM counseling.

c. SHFAs. SHFAs may only apply for grants under Applicant Category 3 for comprehensive counseling funds.

3. Sub-grantees of Intermediaries and SHFAs.

a. Sub-grantees of intermediaries and SHFAs are not required to be HUD-approved, although HUD-approved LHCAs may apply to an intermediary or SHFA as a sub-grantee.

b. Intermediaries and SHFAs that award sub-grants to counseling agencies that are not HUD-approved must assure that the sub-grantee organizations meet or exceed HUD's approval standards, listed in Section III.C.4.c, Program Requirements.

c. Sub-grantees must also be in compliance with all civil rights threshold requirements. Intermediaries that do not ensure their sub-grantee's compliance with HUD standards may be prohibited from participating in the Housing Counseling Program. HUD will monitor sub-grantees.

d. To be eligible for funding under Categories 2 or 3, Sub-grantees or branches must not have directly applied for or received a grant under Category 1 of this NOFA, or applied for or received a sub-grant or funding from another intermediary or SHFA under Category 2 or 3 of this NOFA. Sub-grantees may apply for and receive funding from only one intermediary or SHFA under Category 2 or 3, but not both. The only exception to this rule is that sub-grantees that have one or more HUD HECM Network Counselors that receive a sub-grant from an intermediary or SHFA under Category 2 or 3 may also receive a sub-grant or be reimbursed exclusively for HECM counseling activities, from a HUD-approved intermediary administering the HECM supplemental funds made available through this NOFA.

e. Intermediaries and SHFAs that make sub-grants must execute sub-grant agreements with sub-grantees that clearly delineate the mutual responsibilities for program management, including appropriate time frames for reporting results to HUD. Intermediaries and SHFAs have wide discretion to decide how to allocate their HUD Housing Counseling funding among sub-grantees, with the understanding that a written record must be kept documenting and justifying funding decisions. This record must be made available to sub-grantees and to HUD.

4. List of HUD-approved Housing Counseling Agencies. Pursuant to section 106(C)(5) of the Housing and Urban Development Act of 1968, HUD maintains a list of all HUD-approved and HUD-funded counseling agencies, including contact information that interested persons can access. All HUD-approved LHCAs and their branches, and all sub-grantees and branches that receive funding under Applicant Categories 2 and 3 of this NOFA will be placed on this list and must accept subsequent referrals, or when they do not provide the services sought, refer the person to another organization in the area that does provide the services.

5. Non-Discrimination Requirement.

a. Grant recipients and sub-grantees are prohibited from discriminating on behalf of or against any segment of the population in the provision of services or in outreach.

b. Organizations funded under this program may not engage in inherently religious activities, such as worship, religious instruction, or proselytization, as part of the programs or services funded under this program. If an organization conducts such activities, these activities must be offered separately, in time or location, from the programs or services funded under this part, and participation must be voluntary for the HUD-funded programs or services.

6. Indirect Cost Rate. Grantees that plan to use grant funds to cover direct costs only are not required to provide an indirect cost rate. However, Grantees that plan to use grant funds to cover any indirect costs must submit their approved indirect cost rate established by the cognizant federal agency. If the grantee does not have an established indirect cost rate, it will be required to develop and submit an indirect cost proposal to HUD, or the cognizant federal agency as applicable, for determination of an indirect cost rate that will govern the award. Applicants that do not have a previously established indirect cost rate with a federal agency shall submit an initial indirect cost rate proposal immediately after the applicant is advised that it will be offered a grant and, in no event, later than three months after the start date of the grant. OMB Circular A-122 established the requirements to determine allowable direct and indirect costs and the preparation of indirect cost proposals, and can be found at http://www.whitehouse.gov/omb. Applicants can review Indirect Cost Training on http://www.hud.gov at: http://www.hud.gov/offices/adm/grants/training/training.cfm.

7. Economic Opportunities for Low- and Very Low-Income Persons (Section 3). Section 3 does not apply to Housing Counseling Grants.

8. Ensuring the Participation of Small Businesses, Small Disadvantaged Businesses, and Woman-Owned Businesses. See the General Section for information on this topic.

9. Subcontracting. Grantees and sub-grantees must deliver all of the counseling activities set forth in the applicant's work plan provided in Factor 3 of this NOFA. Subcontracting with other entities is permitted only in geographical areas where no HUD-approved housing counseling agency exists; however, the subcontractor must meet or exceed the standards for a HUD approved agency.

10. Conflicts of Interest. See the General Section. In addition, a grantee or sub-grantee that is using grant funds to pay a subcontractor for housing counseling services pursuant to a housing counseling sub-agreement is prohibited from having a controlling interest in that subcontractor or vice versa. In other words, a grantee or sub-grantee cannot use grant funds to pay for housing counseling services by a subcontractor, if the subcontractor is partially or fully-controlled by the grantee or sub-grantee, or affiliate or vice versa.

11. Accessible Technology. See the General Section.

12. Participation in HUD Sponsored Program Evaluation. See the General Section.

IV. Application and Submission Information

A. Receiving an Application Package. Applicants may download the Instructions to the application found on the Grants.gov Web site at www.Grants.gov. The instructions contain the General Section and Program Section of the published NOFA as well as forms that you must complete and attach as a zip file to your application submission. If you have difficulty accessing the information you may call the Grants.gov Support desk toll free 800-518-GRANTS or e-mail your questions to Support@Grants.gov.

B. Content and Form of Application Submission. Please be sure to read the General Section for application deadline and timely receipt requirements as HUD is using electronic application submission via www.Grants.gov. In addition to the instructions in the General Section follow the instructions below:

1. Size Limitations and Format for Narrative Statements. Applicants must be as specific and direct as possible. For LHCAs, the narrative portion (responses to all factors) must be limited to 50 double-spaced, 12-point font, single-sided pages. Intermediaries and SHFAs are limited to a total of 100 double-spaced, 12-point font, single-sided pages for the narrative portion. Pages in excess of the size limit will not be read. Number the pages of the narrative statements and include a header that includes the applicant's name and the Rating Factor number and title. Within each narrative, clearly identify each sub-factor immediately above the response for that sub-factor.

2. Application Checklist. The Application Checklist indicates forms, information, certifications and assurances that apply to this NOFA.

Housing Counseling NOFA Application Checklist

a. SF-424, Application for Federal Assistance.

b. SF-424 Supplement—Survey on Ensuring Equal Opportunity for Applicants (optional).

c. HUD 424 CB, Grant Application Detailed Budget.

d. SF-LLL, Disclosure of Lobbying Activities (if applicable).

e. HUD-27300, Questionnaire for HUD's Initiative on Removal of Regulatory Barriers (optional regarding eligibility, but mandatory to receive credit in Factor 2 for the Regulatory Barriers policy priority).

f. HUD-2880, Applicant/Recipient Disclosure/Update Report.

g. HUD-2990, Certification of Consistency with the RC/EZ/EC-II Strategic Plan (LHCAs only, if applicable).

h. HUD-2991, Certification of Consistency with the Consolidated Plan (if applicable).

i. HUD-2994, You Are Our Client Grant Applicant Survey (optional).

j. HUD-96010, Program Outcome Logic Model.

k. HUD-96011 Facsimile Transmittal Cover Page (to be used to transmit third party documents as part of your electronic application).

l. HUD-9902, Housing Counseling Agency Fiscal Year Activity Report (only required for Applicants who did not electronically submit to HUD a form HUD-9902 for the period October 1, 2004 through September 30, 2005, for example, applicants that received approval as a HUD housing counseling agency after September 30, 2005.

m. SHFA Statutory Authority. SHFAs must submit evidence of their statutory authority to operate as a SHFA, as defined in this NOFA, and must submit evidence of their authority to apply for funds and subsequently use any funds awarded. Applicants should verify that their agency profile information is accurately represented in HUD's Housing Counseling System (HCS) and validate the information prior to submitting the grant application.

n. List of all offices. Intermediaries must provide a list of the states in which they maintain offices, including the central office and all affiliates or branch offices. Provide this information for all affiliates and branch offices, not just the ones the applicant proposes to fund through this grant. Indicate with an asterisk or other notation those that will be funded through this grant and the amount, if known.

o. Organization Description. Applicants must provide a brief description, no more than 225 words, of their organizational history and proposed grant activities, as they would like them to appear in the press release issued by HUD in the event that the applicant is funded through this NOFA.

p. Narrative statements as required in this NOFA.

C. Submission Dates and Times. Application Deadline Date and Proof of Timely Submission. The application deadline date is May 23, 2006. Please be sure to read the General Section for timely submission and receipt. Failure to follow the submission requirements and procedures may affect your ability to receive an award.

D. Intergovernmental Review. The Housing Counseling Program is not subject to Intergovernmental Review.

E. Funding Restrictions.

1. Funding is limited to the eligible activities described in Section III.D of this NOFA.

2. Pre-award Costs. Grantees may incur pre-award costs not more than 90 calendar days prior to the effective date of the grant agreement and only with prior approval from HUD. All pre-award costs are incurred at the applicant's risk and HUD has no obligation to reimburse such costs if the award is inadequate to cover such costs or the award offer is withdrawn because of the applicant's failure to satisfy the requirements of this NOFA.

F. Other Submission Requirements. Applications must be submitted via the Grants.gov Web site at http://www.grants.gov/Apply by no later than the established deadline date and time. See the General Section for further information.

V. Application Review Information

A. Criteria. The Factors for Award, and maximum points for each factor, are outlined below. These factors will be used to evaluate all applications. The maximum number of points for each applicant is 102 for LHCAs and 100 for all other applicants.

1. Bonus Points—“RC/EZ/EC-II.” ONLY LHCAs are eligible for 2 bonus points. See the General Section for information regarding “RC/EZ/EC-II” bonus points.

2. Additional Information. HUD may rely on information from performance reports, financial status information, monitoring reports, audit reports, and other information available to HUD to make score determinations to any relevant Rating Factor.

3. Responses to Factors for Award. Responses to the following rating factors should provide HUD with detailed quantitative and qualitative information and relevant examples regarding the housing counseling work of the organization. The Rating Factors contain requests for additional information from applicants interested in supplemental HECM funding.

In responses to the various factors and sub-factors, intermediaries and SHFAs should not submit a separate response for each proposed sub-grantee and branch, but should provide a brief profile of each and summary response for their entire network, highlighting individual activities, partnerships, needs and/or results when appropriate.

a. Rating Factor 1: Capacity of the Applicant and Relevant Organizational Staff (30 Points).

HUD uses responses to this Rating Factor to evaluate the readiness and ability of an applicant and proposed sub-grantee and branch staff, to immediately begin, and successfully implement, the proposed work plan detailed in Rating Factor 3. HUD will also evaluate how effectively the applicant managed work plan adjustments that may have been required if performance targets were not met within established timeframes and how often work plan adjustments were required.

(1) Applicants must provide the following information to support evaluation of this Rating Factor. Information may be provided in a chart or table.

(a) Number of full-time (35 hours + per week) housing counselors working for the applicant and, if applicable, proposed sub-grantees or branches;

(b) Number of part-time housing counselors working for the applicant and, if applicable, proposed sub-grantees or branches;

(c) Number of bilingual housing counselors working for the applicant and, if applicable, proposed sub-grantees or branches;

(d) Average years of housing counseling experience for housing counselors working for the applicant and, if applicable, proposed sub-grantees or branches;

(e) Average years of housing counseling program management experience for the project director(s) for the applicant and, if applicable, proposed sub-grantees or branches;

(f) Average years of related experience, such as experience in mortgage lending, for counselors and project managers;

(g) For intermediaries and SHFAs, the number of sub-grantees and branches that received funding from the applicant through a FY 2004 HUD housing counseling grant(s), if applicable, covering the period October 1, 2004-September 30, 2005.

(2) Knowledge and Experience (11 points).

Using the information provided above, demonstrate that the applicant, including proposed sub-grantees and branches, has sufficient personnel with the relevant knowledge and experience to implement the proposed activities in a timely and effective manner, and bilingual language skills, if appropriate.

Specifically, for LHCAs, scoring will be based on the number of years of recent and relevant experience of Housing Counseling Program project directors and recent housing counseling and relevant experience of housing counselors.

For intermediaries and SHFAs, scoring will be based on: The number of years of recent and relevant experience of project directors of proposed sub-grantees and branches; the number of years of recent housing counseling and relevant experience of counselors in proposed sub-grantees and branches; and the number of years, for key intermediary or SHFA personnel, of recent experience running a housing counseling program consisting of a network of multiple housing counseling agencies. HUD will award higher scores to applicants with more experienced staff and management.

Related experience, such as experience in mortgage lending, will also be considered, but will not be weighted as heavily in the scoring as direct housing counseling or housing counseling program management experience. HUD will also factor in other information that demonstrates the capacity of the applicant, such as relevant staff trainings and certifications. In scoring this section, HUD will evaluate whether the applicant has experience providing the proposed services. HUD will award higher scores to applicants with staff and management that have the greatest combination of experience, training and demonstrated competency.

(a) Submit the names and titles of employees, including subcontractors and consultants who will perform the activities proposed in the applicant's work plan in Rating Factor 3. Clerical staff should not be listed. Describe each employee's, subcontractor's, or consultant's current housing counseling duties and responsibilities, experience in providing one-on-one and group counseling (describe each separately), relevant professional background and experience, and bilingual language skills, if applicable. Experience is relevant if it corresponds directly to projects of a similar scale and purpose. Provide the number of years of experience for each position listed, and indicate where and when each position was held. Indicate whether the position was full-time or part-time, and in the case of part-time positions, provide the number of hours per week. LHCAs may provide individual descriptions of staff limited to one page. These descriptions do not count toward narrative page limitations. Intermediaries and SHFAs acting as intermediaries should summarize in a single chart, for each applicable employee, subcontractor, and consultant of proposed sub-grantees or branches, the number of years of direct counseling or counseling program management experience, and the number of years of relevant experience. Total each column. Do not submit individual resumes for sub-grantee staff. HUD staff will verify experience information submitted during monitoring reviews.

Applicants for HECM supplemental funding must specify the HECM experience of project directors, HUD HECM Network Counselors and the organization. They must also indicate the number of HUD HECM Network Counselors that are in the applicant's network at the time of application, and that the applicant proposes to fund with the requested award.

(b) Indicate for all housing counselors and project directors the specialized trainings received within the last two years relevant to the proposed activities, including specific trainings regarding FHA programs. Include when the training was received and who provided it. Do not include on-the-job training. Applicants that seek supplemental funds for HECM counseling must indicate what relevant training counselors received to prepare them as HECM counselors.

(c) Indicate which housing counselors are certified housing or financial counselors. Describe what type of certification is held, who provided it, when the certification was received, and if applicable, the date certification expires.

(d) Indicate if the applicant, affiliates and branches, utilized an on-line Client Management System during the grant period October 1, 2004, to September 30, 2005. Applicants that use a web-based system during this period will be awarded more points than applicants that did not utilize a web-based system.

Identify the system and describe what data is input and if applicable, how the system analyzes client data, what reports are generated using the system and whether or not it is web-based. If applicable, indicate how the system is used to advise clients about their mortgage options including eligibility for FHA or other types of financing. If the applicant does not currently use an on-line or web-based system but plans to in the coming grant period, October 1, 2006 through September 30, 2007, indicate which system will be used, whether or not it is web based, and how its use will be implemented in terms of training employees to use it and its ability to improve client services and generate reports.

(3) Grant and Program Requirement Compliance (14 points).

In scoring this Section, HUD will evaluate how well the applicant met the Program requirements, including reporting and grant document execution, if applicable, for the period October 1, 2004, to September 30, 2005, and its ability to spend all grant funds allotted.

If the applicant did not receive an FY 2004 HUD grant, it must provide a response, with sufficient detail for HUD to evaluate compliance, based on activities and requirements under other sources of funding, such as other federal, state, or local grant awards. Identify the source(s) and amount(s) of funds used for housing counseling. Provide relevant contact information for the agencies or organizations administering these programs so HUD can verify that the information you report is accurate.

(a) Grantee Requirements. HUD will evaluate the applicant's performance with regard to the timeliness and completeness with which the applicant satisfied grant requirements, including grant document execution, grant reporting requirements including quarterly (if applicable), mid-term and final reports,

(b) Form HUD-9902. HUD will deduct points if the applicant was required to submit a form HUD-9902 for the period October 1, 2004 through September 30, 2005, but failed to do so in a timely manner.

(c) Expending Grant Funds. If grant awards were not fully expended during the grant period October 1, 2004, to September 30, 2005, provide an explanation as to the reason why and the steps the applicant has taken to ensure that future funding will be expended according to the terms of the grant agreement. To receive full credit, either 100 percent of grant funds must have been expended in a timely manner or all goals must have been achieved prior to expending 100 percent of grant funds. If goals were achieved with fewer funds, state so and briefly provide details of efficiencies realized (if any).

(d) Biennial Performance Reviews. Significant findings on biennial performance reviews conducted by HUD staff will be taken into consideration when scoring this section.

(e) Housing Counseling System (HCS). HUD will evaluate applicant's timeliness and effectiveness in validating and updating agency information in HCS. Intermediaries and SHFAs must describe procedures and quality control measures used to verify sub-grantee, and if applicable branch or affiliate, information is validated in HCS on a regular basis.

(4) Management—Goals and Results (5 points).

In scoring this section, HUD will compare applicant goals and actual results for the period October 1, 2004 through September 30, 2005, and evaluate subsequent changes in approach resulting from any differences, if applicable. HUD's primary concern is how the applicant managed change, when needed, within the organization as well as a clear and reasonable explanation as to why goals were not met, or why they were exceeded, and what steps were taken organizationally to accommodate either scenario.

For applicants that received a FY 2004 housing counseling grant covering the period October 1, 2004 to September 30, 2005, HUD will compare the projections made in the Program Outcome Logic Model, Form HUD-96010 submitted with the FY2004 Housing Counseling NOFA, including any adjustments based on actual award amounts, to the corresponding actual results for that period reported by the applicant in the Form HUD-9902 submitted to HUD.

Applicants who did not receive a FY 2004 Housing Counseling Grant and therefore did not finalize outcome projections, or who are recently approved, or who were a sub-grantee of an intermediary or SHFA for the period of October 1, 2004 through September 30, 2005, and are now applying for funding under the LHCA category must indicate the detailed, quantifiable goals the organization set for itself for the period covering October 1, 2004 to September 30, 2005, or for the 12 month period ending December 31, 2005 if more appropriate to the Applicant's or other grant-requiring reporting schedule. Also provide the actual results corresponding to these goals and explain any differences in goals versus actual results and indicate what measurement reporting tools were used as well as describe the evaluation process. Form HUD-96010-1, Logic Model Instructions, which is part of Form HUD-96010, provides information regarding measurement reporting tools and the evaluation process. If describing goals corresponding to other grant programs or sources of funding, provide relevant contact information for the agencies or organizations administering those programs so HUD can verify that the goals and corresponding achievements you report are accurate.

b. Rating Factor 2: Need/Extent of the Problem (12 Points).

This factor addresses the extent to which there is a need for funding the proposed activities described in the applicant's work plan, and the degree to which the applicant's work plan substantively addresses departmental policy priorities.

(1) Needs Data (6 points).

Provide current or recent economic and demographic data, and any other evidence that demonstrates housing counseling need relevant to the target area. All proposed activities in Factor 3 must have corresponding need-related data. Sources for all data provided must be clearly cited. Do not submit copies of reports or tables.

To the extent that the community the applicant serves has documented need in its Consolidated Plan, Analysis of Impediments to Fair Housing Choice (AI), or other planning documents, provide these in the response. Economic and demographic data must include persons with disabilities located in the target area. The U.S. Census Bureau, for example, maintains disability data by state, county, and metropolitan statistical area (MSA) at the following Web site: http://www.census.gov/hhes/www/disability.html.

Additionally, the HUD USER Research Information Service and Clearinghouse, available at http://www.huduser.org/, allows users to search over 800 HUD publications by subjects and keywords.

In scoring this Section, HUD will evaluate the degree to which the applicant provides current or recent economic and demographic data, and any other evidence that demonstrates housing counseling need relevant to the target area and the activities proposed in projected work plan activities detailed in Rating Factor 3. Applicants that fail to identify current or recent objective data will not receive full points for this factor.

(2) Departmental Policy Priorities (6 points).

The Departmental policy priorities are described in detail in the General Section. Of those listed, the following five apply to the Housing Counseling Program for the purpose of this NOFA. Indicate if and describe how the applicant's work plan substantively addresses each of these departmental policy priorities. Applicants are advised to review the policy priorities in the General Section, to assure they fully understand the meaning of each, prior to responding to this sub-factor.

In scoring this section, the applicant will receive one point for each of the departmental policy priorities (a)-(d) that the projected work plan in Factor 3 substantively addresses. Up to 2 points are available for priority (e). The General Section and HUD's Notices identify how policy priority points will be awarded. Copies of HUD's notices published on this issue, can be found on HUD's Web site at http://www.hud.gov/grants/index.cfm.

(a) Providing Increased Homeownership and Rental Opportunities for Low- and Moderate-Income Persons, Persons with Disabilities, the Elderly, Minorities, and Families with Limited English Proficiency.

(b) Providing Full and Equal Access to Grassroots, Faith-Based and Other Community-Based Organizations in HUD Program Implementation.

(c) Participation of Minority-Serving Institutions in HUD Programs. Identify partnerships with minority-serving institutions of higher learning such as colleges and trade schools.

(d) Participation in Energy Star. Applicants must provide information on how they promote or plan to promote Energy Star materials and practices and buildings constructed to Energy Star standards to homebuyers, renters and other applicable counseling clients. Describe any outreach activities previously conducted and/or planned to promote Energy Star products.

(e) Removal of Regulatory Barriers to Affordable Housing. Under this policy priority, higher rating points are available to (1) governmental applicants that are able to demonstrate successful efforts in removing regulatory barriers to affordable housing and (2) nongovernmental applicants that are associated with jurisdictions that have undertaken successful efforts in removing barriers. To obtain the policy priority points for efforts to successfully remove regulatory barriers, applicants must complete form HUD-27300, “Questionnaire for HUD's Initiative on Removal of Regulatory Barriers.” A limited number of questions on form HUD-27300 expressly request the applicant to provide brief documentation with its response. Other questions require that, for each affirmative statement made, the applicant supply a reference, URL or brief statement indicating where the back-up information may be found, and a point of contact, including a telephone number or e-mail address. Applicants that do not provide the required URL references or other back-up documentation will not be eligible for the points associated with this policy priority.

c. Rating Factor 3: Soundness of Approach/Scope of Housing Counseling Services (35 Points).

This factor addresses the quality and effectiveness of the applicant's historical and proposed housing counseling activities.

(1) Historical Performance—Quality and Complexity of Services (8 Points).

In scoring this section, HUD will evaluate the quality of, the variety of, and the level of effort and time associated with the housing counseling services provided by the applicant during the period October 1, 2004 through September 30, 2005. Responses should contain “Historical Performance” as part of the heading for the response. Applicants must provide the following information:

(a) Average hours of housing counseling per client, for the period October 1, 2004, through September 30, 2005, for each of the following service types, including follow-up, the applicant organization provides:

(i) Pre-purchase Counseling.

(ii) Homebuyer Education.

(iii) Delinquency/Default Counseling.

(iv) Non-Delinquency Post-Purchase Counseling.

(v) Home Equity Conversion Mortgage (HECM) Counseling.

(vi) Post-Purchase Education.

(vii) Rental Counseling.

(viii) Homeless/Displacement Counseling.

(ix) Predatory Lending Counseling.

(x) Homeownership Voucher Counseling and Education.

(xi) Other (describe).

Describe the level of effort and time required to provide the housing counseling services described and to meet the needs of clients. Explain the average counseling time per client figures above. Scoring will be based on the degree to which the applicant demonstrates, as compared to other applicants, that sufficient time and resources were devoted to ensure that clients received quality counseling.

(b) Types of Counseling and Services Offered: HUD will retrieve this information from the HUD-9902 and the Housing Counseling System (HCS). Verify that the information in these sources is accurate. If applicant received supplemental funding and the services offered were not captured on the HUD-9902, they must describe their activities in detail. Scoring of the variety of housing counseling services offered is weighted to provide the most points for HECM and Post Purchase Default/Loss Mitigation counseling.

(c) Group Education and One-On-One Counseling. For the period October 1, 2004, through September 30, 2005, HUD will retrieve from Section 6 of form HUD-9902, the number of clients that participated in Homebuyer Education Workshops or other types of classes offered as group sessions and will retrieve from Section 7a-e, the number of clients that participated in one-on-one counseling. Applicants should explain the figures provided in Form HUD-9902 regarding group session participation and one-on-one counseling. Describe how clients come to participate in one or the other, the relationship between the two, and the role that each plays in the applicant's overall service provision. Estimate the percentage of clients participating in both group education sessions and one-on-one counseling. Scorers will evaluate the extent to which an agency encouraged and provided one-on-one counseling, which HUD considers the most effective form of housing counseling, instead of over-relying on homebuyer education workshops and other forms of group sessions.

(2) Historical Performance—Impact/Outcomes (9 points).

To score this Section, HUD will evaluate the applicant's performance for the period October 1, 2004, to September 30, 2005. The quantity of clients the applicant served will be compared to similar applicants providing similar services. Clients served numbers will also be analyzed in the context of the applicant's total housing counseling budget for the same period, FY2004. HUD will also consider the degree to which the services provided were time and resource intensive. Additionally, for intermediaries and SHFAs, HUD will evaluate the geographic coverage and scope of the applicant's activities for the period October 1, 2004, through September 30, 2005, including the number of states served by affiliates or branches, if applicable, and the overall size of the housing counseling network during that period.

(a) Cost per client. Clients served figures will be obtained from the Form HUD-9902 for the period October 1, 2004 through September 30, 2005, submitted to HUD by the applicant, which reflects activities funded both with HUD housing counseling grant funds, if applicable, and with other leveraged resources. Applicants that were not required to submit Form HUD-9902 for the period October 1, 2004 through September 30, 2005 must complete one as part of this application. In addition, the applicant must provide the following information.

(i) FY 2005 total housing counseling budget, covering the period October 1, 2004-September 30, 2005, including HUD housing counseling grant(s) or sub-grants, if applicable, as well as other resources leveraged specifically for housing counseling. Do not include funds for down payment or closing cost assistance, Individual Development Accounts, emergency services, or other resources not used for the direct provision of housing counseling.

(ii) Indicate how location, type of counseling, client type, and expenses may have affected client volume. Justify expenses and explain why they were reasonable, strategic, and appropriate.

(b) Percentage of Grant Funding Passed Through: Intermediaries and SHFAs that received one or more FY 2004 HUD housing counseling grant, for the grant period October 1, 2004, to September 30, 2005, must also indicate what percentage of their grant(s) was passed through directly to sub-grantees or branches, and explain how funds not passed through were spent.

LHCAs applying under Applicant Category 1 that received one or more FY 2004 HUD housing counseling grants for the grant period October 1, 2004, to September 30, 2005, must indicate what percentage of their grant(s) was spent on the salaries and benefits of housing counselors and project directors. Explain how other funds were spent.

Applicants that did not receive a FY 2004 HUD housing counseling grant must characterize their performance through other housing counseling funding sources, for example other federal, state or local government grants, providing as much detail, similar to that requested above, as possible.

(c) Geographic Coverage: Intermediaries and SHFAs must identify the sub-grantees, affiliates and branches, and corresponding states, to which the applicant provided housing counseling funding, for the period October 1, 2004, through September 30, 2005, through:

(i) FY 2004 HUD housing counseling grant funds, if applicable.

(ii) All housing counseling resources.

(3) Projected Performance/Work Plan—Quality and Complexity of Services (9 points).

This section involves information on housing counseling services to be conducted during the period October 1, 2006, through September 30, 2007. In scoring this Section, HUD will consider the types and variety of housing counseling and education services being offered, and other activities occurring in support of the applicant's housing counseling program.

HUD will also evaluate the quality of the applicant's proposed housing counseling services, and level of effort and time associated with providing the proposed counseling services to the number of clients it estimates it will serve. Scoring will be based on the degree to which the applicant demonstrates, as compared to other applicants, that for each type of counseling service delivered, average, greater than average or less than average time and resources will be devoted to ensure that clients receive quality counseling.

Applicants must provide the following information, which will be used in conjunction with responses in Rating Factor 5, as a basis to support the scoring of the sub-factors below. There must be consistency between Rating Factor 3 and the projected outputs and outcomes in Rating Factor 5. Responses must contain “Projected Performance” as part of the heading for the response.

(a) Describe the various types of housing counseling and education services, and if applicable intermediary activities, the applicant proposes to undertake, and identify the geographic area the services will cover. Also, describe planned follow-up activities, if applicable. Proposed services and activities must relate to the needs identified in Rating Factor 2. Scoring of the variety of housing counseling services offered is weighted to provide the most points for one-on-one counseling regarding HECM and Post Purchase Default/Loss Mitigation. To be eligible for the full points available for these service types, applicants proposing to provide HECM and/or Default/Loss Mitigation counseling must have prior HUD-approval to provide these services.

Intermediaries and SHFAs acting as intermediaries should describe in detail their plans to train proposed sub-grantees and branches, provide technical assistance, and evaluate compliance with program requirements, for example through site visits.

(b) Average hours of housing counseling time the applicant estimates per client, for each of the activities listed in part (a), including follow-up. If the projected average times are the same as those listed for the period covering October 1, 2004-September 30, 2005, the applicant may simply state so in lieu of listing them again here.

Also provide the proposed average hourly labor-rate for housing counselors working for the applicant, affiliates, or branch network, if applicable, including benefits.

(c) Indicate the names and titles of employees, including subcontractors and consultants, allocated to each proposed activity, as well as the corresponding staff hours for each task, and demonstrate that the applicant has the human resources to accomplish the proposed activities and serve the number of individuals the applicant proposes to serve. The staff information should include who from Rating Factor 1 will be involved and any new staff, subcontractors or consultants that will be hired for the October 1, 2006-September 30, 2007 grant period.

For intermediaries and SHFAs, the total number of sub-grantees and branches, and corresponding number of states, that the applicant estimates will receive funding through the proposed FY 2006 HUD Housing Counseling Grant during the grant period October 1, 2006, to September 30, 2007. If applying for HECM supplemental funding, indicate the number of sub-grantees and branches the applicant estimates for comprehensive counseling, and for any HECM supplemental funding requested.

(d) Describe plans to effectively serve and/or communicate with persons with limited English proficiency (LEP) and persons with disabilities who require alternative formats, for example materials that are available in languages other than English.

(e) Intermediaries and SHFAs must also:

(i) Describe the housing counseling and education activities to be provided by proposed sub-grantees and branches, explicitly stating the types of services to be offered, preferably in a chart.

(ii) Describe the applicant's legal relationship with sub-grantees (i.e. membership organization, field, or branch office, subsidiary organization, etc.).

(iii) Explain the process that will be used to determine sub-grantee funding levels and distribute funds. If applicable, indicate how sub-grantee funding levels are adjusted on an on-going basis based on performance.

(4) Projected Performance/Work Plan—Coordination (5 points).

HUD will consider the extent to which, as compared to similar applicants, the applicant can demonstrate it will coordinate proposed activities with other organizations, and if applicable with other services and products offered by the applicant's organization, in a manner that benefits their clients. Scoring will also be based on the degree to which the applicant takes steps to avoid conflicts of interest, and discloses to clients that they have a choice in matters such as the loan product they choose and the house that they purchase.

(a) Describe partnerships and efforts to coordinate proposed activities with other organizations, including, but not limited to, emergency and social services providers, lending organizations, homeowner insurance providers, down payment and closing cost assistance programs, nonprofit housing providers, and local or state government. For example, describe agreements with lenders regarding non-traditional lending standards or participation in the Consolidated Planning process or the Analysis of Impediments. Any written agreements or memoranda of understanding in place should be described. These agreements and memoranda of understanding will be reviewed by HUD staff as a part of the biennial reviews and on-site monitoring visits. Applicants should also highlight internal products and functions, such as loan products available to clients, down payment and closing cost assistance programs, as well as internal affordable housing programs that can be a resource for clients.

Applicants requesting HECM supplemental funding should highlight the partnerships or internal products that are relevant to HECM activities.

(b) Describe plans to avoid conflicts of interest, such as methods for disclosing to participants that they are free to choose lenders, loan products, and homes, regardless of the recommendations made by counselors. To receive full credit in this Section, the applicant must state their plan and describe the disclosure forms and materials used by the applicant to communicate to clients that, while affordable homes, lending products and other forms of assistance might be available through the applicant, and partnerships in which the applicant has entered, the client is under no obligation to utilize these services. These plans and disclosures will be reviewed by HUD staff as a part of the biennial reviews and on-site monitoring visits.

(5) Projected Performance/Work Plan—Coverage/Efficient Use of Resources (4 points).

In scoring this Section, HUD will evaluate the geographic coverage of the applicant's proposed activities, and spending decisions.

(a) Percentage of Grant Funding To Be Passed Through: Intermediaries and SHFAs must indicate what percentage of their proposed award will be passed through directly to sub-grantees and branches, and explain how funds not passed through will be spent.

LHCAs that apply under Applicant Category 1 must indicate what percentage of their proposed award will be spent on the salaries and benefits of housing counselors and project directors. Explain in detail how other proposed funds will be spent.

(b) Geographic Coverage: Intermediaries and SHFAs must identify the sub-grantees and branches, and corresponding states, the applicant proposes will receive funding through this grant award. Indicate which, if any proposed sub-grantees and branches, serve Colonias. In the event that an intermediary is also applying for HECM supplemental funding, indicate the agencies and corresponding states in which the HUD HECM Network counselors you propose to fund are located. Applicants unable to precisely identify proposed sub-grantees and branches to receive funding through the proposed grant must identify the most likely sub-grantees and branches, based on past experience, and explain what process will be used to select actual sub-grantees and branches. Pursuant to the applicable regulations at 24 CFR 84.82(d)(3)(iii) and 85.30(d)(4), grantees must receive HUD's prior written approval for sub-grants.

d. Rating Factor 4: Leveraging Resources (10 Points).

HUD housing counseling grants are not intended to fully fund an applicant's housing counseling program, or that of its sub-grantees. All organizations that use housing counseling grant funds are expected to seek other private and public sources of funding for housing counseling to supplement HUD funding. Any agency that does not have other resources available will receive no points for this factor.

Applicants will be evaluated based on their ability to show that they have obtained additional resources for their housing counseling activities, for the period October 1, 2006-September 30, 2007, including: direct financial assistance; in-kind contributions, such as services, equipment, office space, labor; etc. Resources may be provided by governmental entities, public or private nonprofit organizations, for-profit private organizations, or other entities committed to providing assistance. Grantees will be required to maintain evidence that leveraged funds were actually provided to the agency. These files will be reviewed by HUD staff as a part of the biennial reviews and on-site monitoring visits.

(1) Applicants must provide a comprehensive list of all leveraged funds and in-kind contributions being claimed. Include the amount and the source. All contributions, including cash and third party in-kind, shall be accepted as part of the recipient's cost sharing or matching when such contributions meet all of the criteria set forth in 24 CFR 84.23.

(2) Additionally, resources provided by the applicant may count as leveraged resources. These amounts must include only funds that will directly result in the provision of housing counseling services, but not resources for activities such as down payment and closing cost assistance, IDA programs, and emergency services.

(3) Intermediaries and SHFAs should include information on leveraged resources for only anticipated sub-grantees and branches that will be funded through this application.

(4) Points for this factor will be awarded based on the satisfactory level of leveraging and financial sustainability and the percentage of the applicant's total housing counseling budget that the requested HUD housing counseling funds would represent. The amount of grant funds requested will impact the ratio used to score this factor, as this factor evaluates the proposed HUD grant as a percentage of the total counseling budget. For example, a LHCA requesting the maximum comprehensive grant amount of $200,000 with leveraged funds equaling that grant will only receive 7 points. If that same LHCA requests only $140,000 with the same leveraged funds of $200,000, the score will be 8. Depending on organization type, the following scales will be used to determine scores for this factor:

LHCAs and SHFAs

1-25%—10 points

26-40%—9 points

41-48%—8 points

49-55%—7 points

56-65%—6 points

66-75%—5 points

76-85%—4 points

86-91%—3 points

92-95%—2 points

96-99%—1 point

Intermediaries

1-15%—10 points

16-23%—9 points

24-29%—8 points

30-35%—7 points

36-41%—6 points

42-47%—5 points

48-53%—4 points

54-59%—3 points

60-65%—2 points

66-99%—1 point

e. Rating Factor 5: Achieving Results and Program Evaluation (13 points).

This factor emphasizes HUD's determination to ensure that applicants meet commitments made in their applications and grant agreements and assess their performance in achieving agreed upon performance goals. This reflects HUD's Strategic goal to embrace high standards of ethics, management and accountability.

The purpose of this factor is for the applicant to identify projected outputs and outcomes corresponding to the proposed workplan in Factor 3. The developed logic model submitted with the application will serve as a reporting tool for applicants selected to receive an award, allowing HUD to compare proposed program outputs and outcomes with actual results. In scoring this Factor, HUD will consider the appropriateness of the goals given the award the applicant is applying for and evaluate the proposed outputs and outcomes for their effectiveness and efficiency in delivering housing counseling services to the population to be serviced. Additionally, scorers will evaluate the extent to which an applicant's proposal includes one-on-one counseling or encourages affiliates to undertake one-on-one counseling. HUD considers one-on-one counseling the most effective form of housing counseling, as compared to homebuyer education workshops and other forms of group sessions.

(1) Program Outcome Logic Model (2 points).

This year HUD has created a new method for completing the Logic Model form. Applicants will now be able to select appropriate outputs and outcomes from a series of “pick lists” for the Housing Counseling Program. The pick list can be found in the form HUD-96010 in the Grants.gov Housing Counseling Program Instructions Download. Using the pick list, for each column of the logic model, applicants can select and insert their outputs and outcomes in the appropriate columns of the Logic Model.

The pick lists also provide for an associate unit of measure for each output and outcome, and applicants must utilize the measure provided that is associated to the activity. Applicants must identify projected output and outcome values that correspond to the unit of measure. For example, insert whole numbers, not percentages, when the unit of measure is “Households”.

These amounts should represent results to be achieved entirely as a result of the HUD housing counseling funding. If, in reality, various funding sources will contribute to the services provided each individual, the applicant must prorate their response to reflect a figure representing services provided with only funding from the proposed grant. HUD will ultimately compare these output projections with actual accomplishments reported in the form HUD-9902, so applicants should make their projections based on what they expect to achieve for reporting on the HUD-9902. In other words, applicants are projecting what their future form HUD-9902 will look like. In addition, HUD has provided a series of management questions, which awardees will be expected to respond to in reporting back to HUD. The management questions place a framework around the data you will be reporting to HUD. The management questions are included in the Logic Model and applicants should use them as a guide to understanding what HUD is interested in learning about the major element of your program. HUD will provide training on the Logic Model through webcasts and detailed step-by-step instructions for using the new form and format. The schedule for the webcasts and instructions can be found at http://www.hud.gov/offices/adm/grants/fundsavail.cfm For FY2006, HUD is considering a new concept for the Logic Model. The new concept is a Return on Investment (ROI) statement. HUD will be publishing a separate notice on the ROI concept.

Applicants must complete and submit Form HUD-96010. Applicants will be scored based on how the applicant's Form HUD-96010 corresponds to the narrative responses for Factor 2 and 3. To receive full credit, the Form HUD 96010 must identify:

(a) Outputs.

Outputs are the direct products of the applicant's activities that lead to the ultimate achievement of outcomes. Based on the proposed work plan in Factor 3 and the amount being requested through this NOFA, applicants should select the appropriate outputs and their associated units of measure from the choices provided in the pick list, and provide the corresponding number to be achieved for each proposed output.

If requesting supplemental funding, indicate the specific number of households the applicant projects it, or if applicable, sub-grantees and branches, will serve under the comprehensive counseling portion of the requested award and with requested HECM supplemental funding.

(b) Outcomes.

Outcomes are benefits accruing to the households as a result of participation in the program. Outcomes are performance indicators the applicant expects to achieve or goals it hopes to meet over the term of the proposed grant. Using the pick lists provided, applicants should select each appropriate outcome and associated unit of measure related to the proposed work plan, and provide the corresponding number to be achieved for each proposed outcome. Projected outcomes should reflect the number you expect to report in the HUD Housing Counseling Grant Activities column on the Form HUD-9902.

The proposed outcomes the applicant provides will be compared to actual results in the measurement of grant performance and future grant application evaluations.

(2) Projected Performance/Work Plan—Impact (6 points).

In scoring this Section, HUD will evaluate the proposed outputs from the logic model, specifically the number of clients that the applicant estimates will be served under the proposed HUD grant, by the applicant and sub-grantees, if applicable, for the grant period October 1, 2006, to September 30, 2007. Scoring will be based on the cost per client, compared historical averages for similar services and similar applicants. Proposed clients served numbers will also be analyzed in the context of budget, costs, spending decisions, the types of services provided, level of effort expended, etc.

(a) Provide a context for, or qualify the number of clients the applicant projects to serve with the proposed HUD grant. Indicate how location, counseling and client types, and expenses may affect client volume, and whether the impact will be short-term or long-term. Justify proposed expenses and explain why they are reasonable, strategic, and appropriate for the counseling activities identified above.

(3) Projected Performance—Group Education and One-On-One Counseling. (3 points)

HUD will utilize logic model output projections to evaluate what percentage of total clients the applicant estimates will participate in group education, what percentage will participate in one-on-one counseling, and what percentage will participate in both group sessions and one-on-one counseling. Describe how clients are selected for one or the other, the relationship between the two, and the role that each will play in the overall service provision. Scorers will evaluate the extent to which an agency plans to encourage and provide one-on-one counseling, which HUD considers the most effective form of housing counseling, instead of over-relying on homebuyer education workshops and other forms of group sessions.

(4) Evaluation Plan. (2 points)

Applicants must also submit an evaluation plan for how they are going to track actual accomplishments against anticipated achievements and ensure that the program can provide the services projected to be delivered and outcomes projected to be achieved.

(a) Information Collection. Describe the applicant's procedures for measuring outputs and outcomes. Describe follow-up activities with clients to collect outcome information.

(b) Data Analysis and Work Plan Adjustments. Indicate how the information will be evaluated, and the steps the applicant has in place to make adjustments to the work plan if performance targets are not met within established timeframes. National and regional intermediaries and SHFAs should indicate if and how the performance of sub-grantees and branch offices affects current and future sub-grants and allocations.

B. Review and Selection Process. Two types of reviews will be conducted.

1. Technical Review. First, each application will be reviewed for technical sufficiency, in other words, whether the application meets the threshold requirements set out in this NOFA and the General Section and whether all required forms have been submitted. The General Section provides the procedures for corrections to deficient applications.

2. General Review. The second review considers the responses to the rating factors outlined above and other relevant information. Applications will be evaluated competitively, and ranked against all other applicants that applied in the same funding category.

3. Rating Panels. Detailed information on the rating review panels appears in the General Section.

4. Minimum Score for Fundable Applications. The minimum score for fundable applications is 75 points.

5. Funding Methodology.

a. Comprehensive Counseling. The following funding formula will be used to calculate the comprehensive counseling portion of the awards under Categories 1-3. Only applicants who receive a score of 75 points or above will be considered eligible for funding. All eligible applicants will then be funded in proportion to the score they receive. Regarding the comprehensive counseling portion of an award, all grantees will receive the lower of either the comprehensive award amount determined with the formula, or the amount actually requested by the applicant. HUD will consider the amount of the comprehensive counseling grant being requested to be the value entered into box 15a on form SF-424. For intermediaries also requesting HECM supplemental funding, box 15a of Form SF-424 should reflect the total of the comprehensive request and the HECM supplemental request. For these intermediaries requesting both, the narrative response to Factor 3 must make clear the exact comprehensive and supplemental amounts being requested. The formula will work as follows for each category:

(1) Funding Round 1. Every applicant that scores 75 points or above will receive a base award ($20,000 for LHCAs; $50,000 for SHFAs; and $200,000 for intermediaries). The total number of applicants receiving the base award will be multiplied by the relevant base amount, and that amount will be subtracted from the total amount available under the Category, or in the cases of Categories 1 and 3, available to the HOC.

(2) Funding Round 2. Then, the remaining balance after funding the Round 1 base awards will be divided by the total number of points all applicants in that Category, and HOC in the cases of Categories 1 and 3, score that are above the 75-point cutoff. The calculation will result in a dollar value for each point. The number of points that all applicants in a Category, and in a HOC in the cases of Categories 1 and 3, score above the 75 point base will be multiplied by that dollar value. The result of that calculation will be added to the base award. Any remaining funds after this calculation will carry over into the next funding round.

(3) This same methodology will be used for each subsequent round of funding until all available funds are awarded, or until all eligible applicants are funded to the maximum dollar amount allowed. Subsequent rounds of calculations, if needed, will distribute remaining funds to applicants that scored above 95 points, 91-95 points, 86-90 points, and 80-85 points, respectively.

b. Supplemental Funding. The same methodology described above in section a will be used to distribute the available HECM supplemental funds. Regarding supplemental funding, all grantees will receive the lower of either the supplemental award amount determined with the formula, or the specific amount of supplemental funding actually requested by the applicant. Each applicant will only submit one application and receive a score based on the application for the comprehensive counseling grant. Comprehensive counseling funds will be allocated based on this score. Subsequently, for HECM supplemental funding, responses to each rating factor will be evaluated on a yes/no, adequate/inadequate basis. An adequate response will result in a score for the supplemental funding identical to the comprehensive score on each respective rating factor. An inadequate supplemental response will result in a 1-point deduction from the comprehensive score. After all five rating factors have been evaluated, the adjusted ratings will result in a distinct score for the HECM supplemental funds. This method will result in scores for supplemental funding that may be equal to the comprehensive score, or up to five points less than the comprehensive score. In no case can an applicant receive a higher score on an application for supplemental funding than it received on its comprehensive application. An applicant will receive a separate score for its application for comprehensive counseling, and for HECM supplemental funding. The base award for the HECM supplemental funding will be $40,000 for intermediaries. Only applicants scoring 75 points or above are eligible for supplemental funding. However, because of the limited amount of funds available, all applicants scoring 75 points or above are not guaranteed supplemental funding. The top two scoring intermediary applicants (scoring 75 points or above) that are eligible for HECM supplemental funds, and have not already been fully funded in accordance with the funding methodology described in this section, will receive supplemental HECM funding.

6. Reallocation of Unspent Funds. If funds designated for a specific grant Category, HOC, or for supplemental funding remain unspent after the formulas have been run and award recommendations are determined, HUD may, at its discretion, reallocate those funds to any other funding Category or supplemental funding area under this NOFA. Additionally, HUD may reallocate unspent funds to any HOC jurisdiction or to HUD Headquarters for awards under this NOFA. HUD may also reallocate unspent funds for housing counseling support activities. Any reallocation will be based on demand and unmet need.

VI. Award Administration Information

A. Award Notices: Following selection, applicants will receive notification from HUD regarding their application.

1. Publication of Recipients of HUD Funding. HUD's regulations at 24 CFR part 4 provide that HUD will publish a notice in the Federal Register to notify the public of all decisions made by the Department. Please see the General Section for more information on this topic.

2. Debriefing. Applicants may receive a debriefing on their application submission. Please see the General Section for a further discussion of the time frame in which the debriefing request may be submitted.

B. Administrative and National Policy Requirements:

1. Environmental Requirements. In accordance with 24 CFR 50.19(b)(9) and (12) of the HUD regulations, activities assisted under this program are categorically excluded from the requirements of the National Environmental Policy Act and are not subject to environmental review under the related laws and authorities.

2. Audit Requirements. Grantees that expend $500,000 or more in federal financial assistance in a single year (this can be program year or fiscal year) must be audited in accordance with the OMB requirements as established in 24 CFR Part 84. Additional information regarding this requirement can be accessed at the following Web site: http://harvester.census.gov/sac.

3. Other Matters.

a. Relocation. See the General Section.

b. OMB Circulars and Government-wide Regulations Applicable to Financial Assistance Programs. See the General Section.

c. Prohibition Against Lobbying Activities. See the General Section.

d. Procurement of Recovered Materials. See the General Section.

f. Executive Order 13279 Equal Protection of the Laws for Faith-Based and Community Organizations. See the General Section.

g. Salary Limitation for Consultants. See the General Section.

h. Executive Order 13132, Federalism. See the General Section.

i. Sense of Congress. See the General Section.

C. Reporting:

1. Fiscal Year Activity Report. Grantees are required to submit Form HUD-9902, Fiscal Year Activity Report, via HUD's web-based Housing Counseling System (HCS). The information compiled from this report provides HUD with its primary means of measuring program performance.

2. Program Outcome Logic Model. If the actual award amount differs from the proposed award, Grantees are required to submit an updated Form HUD-96010, Program Outcome Logic Model before the grant agreement will be executed. Additionally, Grantees will be required to submit an updated Form HUD-96010, Program Outcome Logic Model, reflecting actual achievements, with each quarterly, midterm and final report, in accordance with the reporting requirements of the grant agreement. The information in this form provides the primary means through which HUD will monitor the ongoing performance of the grantee.

VII. Agency Contact(s)

A. Technical Assistance. For technical assistance in downloading or submitting an application package using www.Grants.gov, contact the Grants.gov support desk at 800-518-Grants or by sending an e-mail to support@grants.gov.

B. Programmatic Information. For program related information, LHCAs and SHFAs should contact the HOC serving their area, as indicated below. Intermediaries should contact HUD Headquarters, Program Support Division at (202) 708-0317 (this is not a toll-free number). Hearing and speech challenged persons may access the telephone numbers listed below by calling the Federal Information Relay Service at 800-877-8339.

4
Homeownership Center | States
Philadelphia Homeownership Center, Ms. Brenda Bellisario, Acting Director, Program Support Division, Wannamaker Building, 100 Penn Square East, 12th Fl, Philadelphia, PA 19107-3389. For programmatic information contact: Robert Wright, Robert_Wright@hud.gov (215) 656-0527 x3406 | Connecticut, Delaware, District of Columbia, Maine, Maryland, Massachusetts, Michigan, New Hampshire, New Jersey, New York, Ohio, Pennsylvania, Rhode Island, Vermont, Virginia, West Virginia.
Atlanta Homeownership Center, Ms. Gayle Knowlson, Director, Program Support Division, 40 Marietta Street, 8th Floor, Atlanta, GA 30303-2806. For programmatic information contact: E. Carolyn Hogans, E._Carolyn_Hogans@hud.gov (404) 331-5001, x2129 | Alabama, Puerto Rico, Florida, Georgia, Illinois, Indiana, Kentucky, Mississippi, North Carolina, South Carolina, Tennessee.
Denver Homeownership Center, Ms. Irma Devich, Director, Program Support Division, 1670 Broadway, Denver, CO 80202-4801, For programmatic information contact: 303-672-5200, Vic Karels x1995, Victor_E._Karels@hud.gov Jonna Munson x1987, Jonna_R._Munson@hud.gov | Arkansas, Colorado, Iowa, Kansas, Louisiana, Minnesota, Missouri, Montana, Nebraska, New Mexico, North Dakota, Oklahoma, South Dakota, Texas, Utah, Wisconsin, Wyoming.
Santa Ana Homeownership Center, Mr. Jerrold Mayer, Director, Program Support Division, Santa Ana Federal Building, 34 Civic Center Plaza, Room 7015, Santa Ana, CA 92701-4003, For programmatic information contact: Rhonda J. Rivera, rhonda_j._rivera@hud.gov 1-888-827-5605 x3210 | Alaska, Arizona, California, Hawaii, Oregon, Idaho, Nevada, Washington.

VIII. Other Information

A. Satellite Broadcast. HUD will hold an informational broadcast via satellite for potential applicants to learn more about the program, the FY 2006 Logic Model requirements, and the application. For more information about the date and time of the broadcast, consult the HUD Web site at: http://www.hud.gov/offices/adm/grants/fundsavail.cfm.

B. Public Access, Documentation, and Disclosure. See the General Section for more information on this topic.

C. Paperwork Reduction Act. The information collection requirements contained in this document have been approved by the Office of Management and Budget (OMB) under the Paperwork Reduction Act of 1995 (44 U.S.C. 3501-3520) and assigned OMB control number 2502-0261. In accordance with the Paperwork Reduction Act, HUD may not conduct or sponsor, and a person is not required to respond to, a collection of information unless the collection displays a currently valid OMB control number. Public reporting burden for the collection of information is estimated to average 68 hours per annum per respondent for the application and grant administration. This includes the time for collecting, reviewing, and reporting the data for the application, semi-annual reports and final report. The information will be used for grantee selection and monitoring the administration of funds. Response to this request for information is required in order to receive the benefits to be derived.

BILLING CODE 4210-01-P

Lead-Based Paint Hazard Control Grant Program, Lead Hazard Reduction Demonstration Grant Program, and Operation Lead Elimination Action Program

Overview Information

A. Federal Agency Name: Department of Housing and Urban Development, Office of Healthy Homes and Lead Hazard Control.

B. Funding Opportunity Title: Lead-Based Paint Hazard Control Program and Lead Hazard Reduction Demonstration Program and Operation Lead Elimination Action Program (LEAP).

C. Announcement Type: Initial announcement.

D. Funding Opportunity Number: FR-5030-N-13; OMB Approval Number 2539-0015.

E. Catalog of Federal Domestic Assistance (CFDA) Number(s): 14.900 Lead-Based Paint Hazard Control in Privately Owned Housing and 14.905 Lead Hazard Reduction Demonstration Program, and 14.903 Operation Lead Elimination Action Program.

F. Dates: Applications must be received and validated by Grants.gov no later than 11:59:59 p.m. Eastern Time on June 7, 2006. See the General Section for specific instructions regarding application submission.

G. Optional, Additional Overview Content Information:

1. Purpose of the Program.

a. The purpose of the Lead-Based Paint Hazard Control Program is to assist states, Native American Tribes and local governments in undertaking comprehensive programs to identify and control lead-based paint hazards in eligible privately owned housing for rental or owner-occupants.

b. The purpose of the Lead Hazard Reduction Demonstration Program is the same as the Lead Hazard Control, but the Lead Hazard Reduction Demonstration Program is targeted for urban jurisdictions with the highest lead-based paint hazard control needs.

c. The purpose of the Operation Lead Elimination Action Program (LEAP) is to provide grants to private sector and nonprofit organizations to leverage funds for addressing lead hazards in privately owned housing units and eliminating lead poisoning as a major public health threat to young children.

2. Available Funds. Approximately $159,136,036 million (Lead Hazard Control Program, Lead Hazard Reduction Program and Lead Elimination Action Program (LEAP)).

3. Eligible Applicants.

a. To be eligible to apply for funding under the Lead-Based Paint Hazard Control Program, the applicant must be a state, Native American Tribe, city, county, or other unit of local government. Multiple units of a local government (or multiple local governments) may apply as a consortium; however, you must identify a lead applicant that will be responsible for ensuring compliance with all requirements specified in this NOFA. State government and Native American tribal applicants must have an EPA approved State Program for certification of lead-based paint contractors, inspectors, and risk assessors in accordance with 40 CFR part 745 in effect on the application deadline date to be eligible to apply for Lead-Based Paint Hazard Control Program funds.

b. To be eligible to apply for the Lead Hazard Reduction Demonstration Program, the applicant must be a city, county, or other unit of local government. States and Indian Tribes may apply on behalf of units of local government within their jurisdiction, if the local government designates the state or the Indian Tribe as their applicant. Multiple units of a local government (or multiple local governments) may apply as part of a consortium; however, you must identify a prime applicant that will be responsible for ensuring compliance with all requirements specified in this NOFA. State government and Native American tribal applicants must have an EPA approved State Program for certification of lead-based paint contractors, inspectors, and risk assessors in accordance with 40 CFR part 745 in effect on the application deadline date to be eligible to apply for Lead Hazard Reduction Demonstration Grant funds.

c. To be eligible to apply for funding under the Operation Lead Elimination Action Program (LEAP), the applicant must be a non-profit or for-profit entity or firm. For-profit institutions are not allowed to earn a fee. Colleges and Universities are also eligible to apply. National and local groups are encouraged to apply. States, cities, counties and units of local government and their departments are not eligible.

4. Match. See NOFA Criteria by Grant Program Chart in Section III. Eligibility Information.

Full Text of Announcement

Section I. Funding Opportunity Description

A. Program Description

The Lead-Based Paint Hazard Control Program and the Lead Hazard Reduction Demonstration Program are authorized by Section 1011 of the Residential Lead-Based Paint Hazard Reduction Act of 1992 (Title X of the Housing and Community Development Act of 1992, Pub. L. 102-550). HUD's authority for making funding available under this NOFA for the Lead-Based Paint Hazard Control Program, and the Lead Hazard Reduction Demonstration Program is the Transportation, Treasury, and Housing and Urban Development, the Judiciary, the District of Columbia, Independent Agencies Appropriations Act, 2006 (Pub. L. 109-115; approved November 30, 2005). The Lead-Based Paint Hazard Control Grant Program assists states, Native American Tribes and local governments in undertaking programs for the identification and control of lead-based paint hazards in eligible privately owned rental and owner-occupied housing units. The Lead Hazard Reduction Demonstration Program has the same goal as Lead Hazard Control Program, but is targeted for urban jurisdictions with the highest lead-based paint hazard control needs. The purpose of the Operation Lead Elimination Action Program (LEAP) is to provide grants to private sector and nonprofit organizations to leverage funds for addressing lead hazards in privately owned housing units and eliminating lead poisoning as a major public health threat to young children. Refer to the HUD Web site http://www.hud.gov/offices/lead/lhc/index.cfm for instructions on downloading the table, “Eligibility of HUD Assisted Housing,” that lists the HUD-associated housing programs that meet the definition of eligible housing under this NOFA. HUD is interested in promoting lead hazard control approaches that result in the reduction of elevated blood lead levels in children for the maximum number of low-income families with children under six years of age, for the longest period of time, and that demonstrate techniques which are cost-effective, efficient, and replicable elsewhere. For purposes of this NOFA, “children under six years of age” are defined as children up to six years of age. Refer to the HUD Web site http://www.hud.gov/offices/lead/lhc/index.cfm, for instructions on how to obtain copies of Title X, HUD's Lead-Safe Housing Regulation, and the companion interpretive guidance publication. If you are a hearing-or speech-impaired person, you may reach the telephone number via TTY by calling the toll-free Federal Information Relay Service at 1-800-877-8339.

Because lead-based paint is a national problem, these funds will be awarded to programs that will fulfill the following objectives:

1. Maximize the combination of children less than six years of age protected from lead poisoning and housing units where lead-hazards are controlled;

2. Target the reduction of elevated blood lead levels in children for the maximum number of low-income families with children less than six years of age, for the longest period of time;

3. Stimulate lower-cost and cost-effective methods and approaches to lead hazard control work that can be replicated;

4. Build local capacity to safely and effectively address lead hazards during lead hazard control, renovation, remodeling, and maintenance activities by integrating lead safe work practices into housing maintenance, repair, weatherization, rehabilitation and other programs that will continue beyond the grant period;

5. Affirmatively further fair housing and environmental justice;

6. Develop a comprehensive community approach to address lead hazards in housing by mobilizing public and private resources, involving cooperation among all levels of government, the private sector, and grassroots community-based nonprofit organizations, including faith-based organizations, to develop cost-effective methods for identifying and controlling lead-based paint hazards;

7. Establish a public registry (listing) of lead-safe housing or inclusion of the lead-safe status of properties in a publicly accessible address-based property information system to be affirmatively marketed to families with young children; and

8. To the greatest extent feasible, promote job training, employment, and other economic opportunities for low-income and minority residents and businesses that are owned by and/or employ minorities and low-income persons as defined in 24 CFR 135.5 (see 59 FR 33881, June 30, 1994).

B. Changes in the FY 2006 Competitive NOFA

1. The Lead-Based Paint Hazard Control Program, Lead Hazard Reduction Demonstration Program, and Operation LEAP are included in this single NOFA.

2. The Competitive Performance-Based Renewal category, under the Lead Hazard Control Grant Program, is not offered in this NOFA.

3. Direct lead hazard control activities are detailed below at Section 3 C 1.

4. Number of pages for the rating factor responses has been increased from 15 to 20 pages.

5. Funding requests greater than the maximum amount for the grant program will be deemed ineligible and not reviewed.

Section II. Award Information

A. Funding Available

From current and past years' funding, approximately $84,911,331 will be available for the Lead-Based Paint Hazard Control Program, approximately $59,615,180 will be available for the Lead-Based Paint Hazard Reduction Grant Program, and approximately $14,609,525 will be available for Operation Lead Elimination Action Program (LEAP).

1. Approximately 32 to approximately 40 grants will be awarded to applicants for the Lead-Based Paint Hazard Control Program. In addition, HUD will award a grant for $3,000,000 in fiscal year 2005 funds to the City of Charleston, 823 Meeting Street, Charleston, SC 29403, to resolve a funding error under the fiscal year 2004 Lead-Based Paint Hazard Control Program NOFA, in accordance with Sec. VI.A.3 of the fiscal year 2004 General Section. Approximately 10 to approximately 12 grants will be awarded to applicants for the Lead Hazard Reduction Demonstration Program, and approximately 4 to approximately 6 grants will be awarded to applicants for Operation LEAP. Grant award amounts for the Lead-Based Paint Hazard Control Program shall be from approximately $1 million up to a maximum of $3 million per grant, for the Lead Hazard Reduction Demonstration Program, from approximately $1 million up to a maximum of $4 million, and for Operation Lead Elimination Action Program (LEAP) a maximum of $2 million per grant. Applications for amounts larger than the applicable maximum amount for a program will be deemed ineligible and will not be reviewed.

2. The project duration shall be up to 36 months for all grant recipients. Period of performance extensions for delays due to exceptional conditions beyond the grantee's control will be considered by HUD in accordance with 24 CFR 84.25(e)(2) or 85.30(d)(2), as applicable, and the OHHLHC Program Guide. Such extensions, when granted, are one time only, and for no longer than a period of one year from the original period of performance end date.

B. Contracts or Other Formal Arrangements

1. If selected for funding, grantees are required to maintain a contract administration system to ensure sub-grantee and contractor conformance with the terms, conditions, and specifications of contracts. Grantees must enter into written contracts or agreements with sub-grantees and contractors, which identify specific services to be provided such as staffing requirements, time periods for the performance of work, project budget, and total amount of compensation to be provided; methods and documentation requirements for obtaining reimbursement of expenses; record keeping and reporting requirements; requirements placed upon the sub-grantee or contractor to comply with applicable federal laws, regulations, circulars, and Executive Orders; and provisions providing the grantee with access to financial and other documents and files for the purpose of monitoring sub-grantee or contractor performance and compliance with the local contract or agreement, and applicable Federal laws, regulations, circulars and Executive orders.

2. All applicants are encouraged to enter into formal arrangements with grassroots community-based nonprofit organizations, including faith-based organizations, or other community-based organizations, particularly if such organizations will be reimbursed for eligible activities under this NOFA. (This does not apply to Native American Tribes.) These formal arrangements could be a contract, a Memorandum of Understanding (MOU), a Memorandum of Agreement (MOA), or a letter of commitment. Such relationships should be established prior to the actual execution of an award or within 120 days of the effective start date of the grant agreement.

Section III. Eligibility Information

See the General Section for additional eligibility requirements applicable to HUD Programs.

A. Eligible Applicants

See chart below that describes eligible applicants, required match, and an amount for direct activities required for each of the three programs.

NOFA Criteria by Grant Program Chart
Programs | Eligible applicants | Percent of HUD Award: Match | Percent of HUD Award: Direct lead hazard control costs | Percent of HUD Award: Administrative and other allowable costs
Lead Hazard Control Program (LHC) | State, Native American Tribe, city, county, or other unit of local government. Multiple units of a local government (or multiple local governments) may apply as part of a consortium | Minimum 10% | Minimum 65% | Administrative Maximum 10%. Balance may be used for Other Allowable Costs.
Lead Hazard Reduction Demonstration | City, county, or other unit of local government. Multiple units of a local government (or multiple local governments) may apply as part of a consortium | Minimum 25% | Minimum 90% | Administrative Maximum 10%. Balance may be used for Other Allowable Costs.
Operation Lead Elimination Action Program | For-profit entity or firm. (not to earn a fee); Non-profit entities; Colleges and Universities; and National and Local Groups | No match requirement | Minimum 65% | Administrative Maximum 10%. Balance may be used for Other Allowable Costs.

1. Fiscal Year 2005 awardees of any of the three competitive programs detailed in this NOFA, including the Lead-Based Paint Hazard Control, Lead Hazard Reduction Demonstration and Operation LEAP, are not eligible to apply for any of these three programs during this competitive NOFA cycle.

2. Applicants may submit only one application for each of the three competitive programs covered by this NOFA.

B. Cost Sharing or Matching

This section applies to all three grant programs.

See NOFA Criteria by Grant Program Chart above. If an applicant does not include the minimum 10 percent for lead hazard control or 25 percent for Lead Hazard Reduction Demonstration match requirements in the application, it will be considered ineligible for an award. Matching and/or leverage contributions may be in the form of cash including private sector funding, or in-kind (non-cash) contributions or a combination of these sources. With the exception of Community Development Block Grant (CDBG) funds, or other programs that only allow their funds to be considered local funds and therefore eligible to be used as matching funds, federal funds may not be used to satisfy any statutorily required matching requirement, as applicable. Federal funds may be used, however, for contributions above the statutory (10 and 25 percent match) requirement. Program match shall be limited to contributions, which would be eligible for payment from grant funds, and may be in the form of cash, including private sector funding, or in-kind (non-cash) contributions or a combination of these sources. The applicant must submit a letter of commitment for the match from each organization other than itself that is providing a match, whether cash and/or in-kind. The letter must indicate the amount and source of match, and detail how the matching funds will be specifically dedicated to and integrated into supporting the proposed grant program. The signature of the authorized official on the Form SF-424 commits matching or other contributed resources of the applicant organization. A separate letter from the applicant organization is not required.

C. Other

1. Eligible Costs and Activities. This section applies to all three grant programs unless otherwise specified.

All lead hazard control activities funded under the Lead-Based Paint Hazard Control Program, the Lead Hazard Reduction Demonstration Program and Operation LEAP must be conducted in compliance with the applicable requirements of HUD's Lead-Safe Housing Regulation, 24 CFR part 35, and the companion Interpretive Guidance publication. Activities must also comply with any additional requirements in effect under a state or Tribal Lead-Based Paint Training and Certification Program that has been authorized by the EPA pursuant to 40 CFR 745.320. There are, in general, four categories of eligible costs under each competitive grant program included in this NOFA, including: direct costs for lead-based paint hazard identification and control activities, other direct costs, indirect costs, and administrative costs.

a. Description of Direct Lead-Based Paint Hazard Identification and Control Activities. Direct costs are defined as the allocable portion of allowable costs incurred directly for the purposes of the grant. Direct costs for lead hazard control activities consist of lead dust, soil and paint-chip testing and associated laboratory costs, the purchase or lease of a maximum of two X-ray fluorescence analyzers used by the grant program (if not otherwise available) and necessary maintenance during the grant period, combined lead paint inspection and risk assessments, interim controls, abatement of lead-based paint or lead-based paint hazards (but see section C.1(a)(6) for abatement limitations), occupant protection and temporary relocation of occupants when lead hazard control intervention work supported by this program is conducted in a unit, and clearance examinations. Direct costs for lead-based paint hazard identification and control activities do not include blood lead testing of residents or workers, housing rehabilitation beyond what is specifically required to carry out effective lead hazard control, and training, community education and outreach, applied research, purchase of supplies or equipment, or administrative costs without which the hazard control could not be completed and maintained.

(1) Performing lead dust, soil and paint-chip testing, combined lead-based paint inspections and risk assessments, and engineering and architectural activities that are required for, and in direct support of, interim control and lead hazard abatement work, of eligible housing units constructed prior to 1978 to determine the presence of lead-based paint and/or lead hazards from paint, dust, or soil through the use of acceptable testing procedures.

(2) All laboratory analysis in support of required testing and evaluation under this NOFA must be conducted by a laboratory recognized for the analysis by the EPA National Lead Laboratory Accreditation Program (NLLAP).

(3) All lead-based paint testing results, summaries of lead-based paintwork, and clearances must be provided to the owner of the unit, together with a notice describing the owner's legal duty to disclose the results to tenants and buyers. Files must contain verifiable evidence, such as a signed and dated receipt. Refer to 24 CFR 35.125 of the Lead Safe Housing Regulation.

(4) All lead-based paint hazards identified in a housing unit or common area of multifamily housing enrolled in this grant program must be controlled or eliminated by either of the following strategies or a combination of the two.

(5) Interim Controls. According to the HUD Guidelines, interim controls of lead-based paint hazards including lead-contaminated dust and soil in housing must include specialized cleaning techniques to address lead dust.

(6) Lead-Based Paint Hazard Abatement. Abatement is regarded as complete abatement of all lead-based paint or lead-based paint hazards and is only authorized in states or localities that require complete abatement by law. HUD does not consider abatement of all lead hazards to be cost effective in most circumstances; therefore, a grantee must make a special request in writing prior to conducting complete abatement of lead hazards. Abatement of lead-contaminated soil should be limited to areas with bare soil in the immediate vicinity of the structure (i.e., the drip line or foundation of the unit being treated, and children's play areas).

(7) Undertaking minimal housing rehabilitation activities that are specifically required to carry out effective hazard control, and without which the hazard control could not be completed and maintained. These grant funds may be used for lead hazard control work done in conjunction with other housing rehabilitation programs, to the extent practicable. HUD encourages integration of this grant program with housing rehabilitation, maintenance, weatherization, and other energy conservation activities.

(8) Carrying out temporary relocation of families and individuals during the period in which hazard control is conducted and until the time the affected unit receives clearance for re-occupancy. If families or individuals are temporarily relocated in a project which utilizes Community Development Block Grant funds, the guidance and requirements of 24 CFR 570.606(b)(2)(i)(D)(1)-(3) must be met. HUD recommends you review these regulations when preparing your proposal.

(9) Conducting clearance dust-wipe testing and laboratory analysis.

b. Description of Eligible Other Direct Costs.

(1) Purchasing or leasing supplies having a per-unit cost under $5,000 (except for the purchase or lease of up to two X-ray florescence analyzers used by the grant program).

(2) Performing blood lead testing and air sampling to protect the health of the hazard control workers, supervisors, and contractors.

(3) Conducting targeted community awareness, affirmative marketing, education or outreach programs on lead hazard control and lead poisoning prevention designed to increase the ability of the program to deliver lead hazard control services including educating owners of rental properties, tenants, and others on the Residential Lead-Based Paint Hazard Reduction Act, Lead-Safe Housing Rule, and applicable provisions of the Fair Housing Act especially as it pertains to familial status (e.g., families with children) and disability discrimination, offering educational materials in languages that are common in the community other than English, consistent with HUD's published LEP Recipient Guidance, 68 FR 70968, and providing training on lead-safe maintenance and renovation practices and management. Upon request, this also would include making all materials available in alternative formats to persons with disabilities (e.g., Braille, audio, and large type).

(4) Supporting data collection, analysis, and evaluation of grant program activities. This includes compiling and delivering such data as may be required by HUD. This activity is an item under other direct costs.

(5) Preparing a final report at the conclusion of grant activities.

(6) Conducting required pre-hazard control blood lead testing of children under six years of age residing in or frequently visiting units undergoing lead hazard control work.

(7) Providing resources to build capacity for lead-safe housing and lead hazard control, including free delivery of HUD-approved lead-safe work practices training courses for housing rehabilitation contractors, rehabilitation workers, homeowners, renters, painters, remodelers, maintenance staff, and others conducting renovation, rehabilitation, maintenance or other work in private housing; free delivery of lead sampling technician training, lead-based paint worker or contractor certification training; and subsidies for licensing or certification fees to low-income persons seeking credentials as lead-based paint workers or contractors or lead sampling technicians.

(8) Conducting planning, coordination, and training activities to comply with HUD's Lead-Safe Housing Regulation (24 CFR part 35, subparts B-R). These activities should support the expansion of a workforce properly trained in lead-safe work practices which is available to conduct interim controls on HUD-assisted housing covered by these regulations.

(9) Conducting outreach and related activities that are directly tied to a matching and/or leveraging strategy, and that will result in increased lead hazard control activities in low-income privately owned or owner-occupied housing with lead-based paint hazards. If applicants propose outreach and/or related activities, keep in mind that these activities must be tied to a leveraging strategy. Therefore, you must describe when and what this activity will match and/or leverage, and how it will be used to address a lead hazard.

(10) Lead hazard control activities tied directly to a matching and/or leveraging strategy and conducted in low- and very low-income eligible privately owned owner-occupied or investor-owned rental units. All units must be occupied by a family with a child under the age of six, except rental properties must be occupied by a family with a child under the age of six, or preference provided to a low- and very low-income family with a child under age six and the rents must be affordable for a minimum of 3 years after completion of the final lead clearance.

(11) Participating in applied research, studies, or developing information systems to enhance the delivery, analysis, or conduct of lead hazard control activities, or to facilitate targeting and consolidating resources to further childhood lead poisoning prevention efforts.

c. For reference to the Administrative Cost requirements, please see http://www.hud.gov/offices/adm/grants/fundsavail.cfm.

d. For reference to the Indirect Cost requirements, please see http://www.hud.gov/offices/adm/grants/fundsavail.cfm.

2. Eligibility of HUD-Assisted Housing. The table “Eligibility of HUD-Assisted Housing,” posted at http://www.hud.gov/offices/adm/grants/fundsavail.cfm, lists the housing units that may participate under each of the three competitive programs detailed in this NOFA. Only those HUD-assisted units on the list are eligible to participate and receive Lead-Based Paint Hazard Control Grant, Lead Hazard Reduction Demonstration Grant and Operation LEAP funds.

3. Threshold Requirements. As an eligible applicant, you must meet all of the threshold requirements in Section III.C of the General Section as well as any specific threshold requirements listed in this subsection. Applications will not be funded if they do not meet the threshold requirements.

a. Applicants under the Lead-Based Paint Hazard Control Program are required to match 10 percent of the funds requested with other funds or resources, while a 25 percent match is required for the Lead Hazard Reduction Demonstration Grant Program. There is no match requirement for Operation LEAP.

b. Applicants under the Lead Hazard Reduction Demonstration Program must have at least 3,500 pre-1940 occupied rental housing units in order to apply under the Lead Hazard Reduction Demonstration Program. Failure to provide the number of pre-1940 occupied rental units referenced in the Factor 2 Table (Form HUD 96013) will result in the application not being rated or ranked. Multiple local governments may apply as part of a consortium in an effort to meet the required number (3,500) of occupied rental units; however, you must identify a prime applicant that will be responsible for ensuring compliance with all requirements under this NOFA. No minimum requirement for the number of pre-1940 occupied units for Lead Hazard Control and Operation LEAP.

c. All applicants under the Lead Hazard Reduction Demonstration Program must provide the actual number of children with documented elevated blood lead levels residing within the jurisdiction(s) where the lead hazard control work will be conducted for the 2002, 2003 and 2004 complete calendar years and identify the source of the data. Failure to provide these data will result in the application not being rated or ranked.

d. EPA Authorization. If you are a state government or Native American Tribal government, you must have an EPA-authorized Lead-Based Paint Training and Certification Program in effect on the application deadline date to be eligible to apply for Lead Based Paint Hazard Control Grant funds. The approval date in the Federal Register notice published by the EPA will be used in determining the Training and Certification status of the applicant state or Native American Tribal government. If you do not have an EPA authorized program, the application will not be rated or ranked.

e. DUNS Requirement. You will need a Dun and Bradstreet Universal Data Numbering System (DUNS) number in order to register and submit your electronic application through http://www.grants.gov. Refer to the General Section for more information.

f. Consolidated Plans. (This requirement does not apply to Native American Tribes.) You must submit, as an appendix, the current lead-based paint element from the approved Consolidated Plan or the jurisdiction(s) where the lead hazard control will be conducted. In lieu of submitting a hard copy of the lead-based paint element from the current consolidated plan(s), you may substitute a Web site address. The Web site must contain the lead-based paint element of the current Consolidated Plan(s). If the jurisdiction does not have a currently approved Consolidated Plan, but it is otherwise eligible for this grant program, you must include the jurisdiction's abbreviated Consolidated Plan, which includes a lead-based paint hazard control strategy developed in accordance with 24 CFR 91.235.

g. An applicant requesting a funding amount greater than the maximum grant award amount will be deemed ineligible and not reviewed.

4. Environmental Requirements. a. Recipients of lead-based paint hazard control grants and lead hazard reduction demonstration grants must comply with 24 CFR part 58, Environmental Review Procedures for Entities Assuming HUD Environmental Responsibilities and must carry out environmental review responsibilities as a responsible entity under part 58.

b. Properties assisted with Operation LEAP funds under the Department of Housing and Urban Development Appropriations Act, 2006, are covered by the provisions of section 305(c) of the Multifamily Housing Property Disposition Reform Act of 1994, which are implemented by HUD regulations at 24 CFR part 58. Under part 58, a responsible entity, usually the unit of general local government, must assume the environmental review responsibilities for activities funded under Operation LEAP. Under 24 CFR 58.11, if a responsible entity or the recipient objects to the responsible entity performing the environmental review for Operation LEAP activities, HUD may designate another responsible entity to perform the review or may perform the environmental review itself under the provisions of 24 CFR part 50.

c. For all grants under this NOFA, recipients and other participants in the project are prohibited from undertaking, or committing or expending HUD or non-HUD funds (including HUD leveraged or match funds) on a project or activities under this NOFA (other than activities listed in 24 CFR 58.34, 58.35(b) or 58.22(f)) until the responsible entity completes an environmental review and the applicant submits and HUD approves a Request for the Release of Funds and the responsible entity's environmental certification (both on form HUD 7015.15) or, in the case of Operation LEAP grants where HUD has determined to perform the environmental review under part 50, HUD has completed the review and notified the grantee of its approval. The results of the environmental reviews may require that proposed activities be modified or proposed sites rejected. For part 58 procedures, see http://www.hud.gov/offices/cpd/energyenviron/environment/index.cfm. For assistance, contact Karen Choi, the Office of Healthy Homes and Lead Hazard Control Environmental Officer at (213) 534-2458 (this is not a toll-free-number) or the HUD Environmental Review Officer in the HUD Field Office serving your area. If you are a hearing-or speech-impaired person, you may reach the telephone number via TTY by calling the toll-free Federal Information Relay Service at 1-800-877-8339. Recipients of a grant under these funded programs will be given additional guidance in these environmental responsibilities.

5. Administrative and Other Requirements. If awarded, the applicant must comply with the requirements below and maintain appropriate documentation to demonstrate compliance with the requirements specified below. The requirements apply to all grant programs unless otherwise specified.

a. Lead-Based Paint Hazard Reduction Act (Title X of the Housing and Community Development Act of 1992), Section 1011 of Title X. Section 217 of Public Law 104-134 (the Omnibus Consolidated Rescissions and Appropriations Act of 1996, 110 Stat. 1321, approved April 26, 1996) amended Section 1011(a) of the Residential Lead-Based Paint Hazard Reduction Act of 1992 (Title X) to read as follows:

Section 1011. Grants for Lead-Based Paint Hazard Reduction in Target Housing

“(a) General Authority. The Secretary is authorized to provide grants to eligible applicants to evaluate and reduce lead-based paint hazards in housing that is not federally assisted housing, federally owned housing, or public housing, in accordance with the provisions of this section. Grants shall only be made under this section to provide assistance for housing that meets the following criteria—

(1) For grants made to assist rental housing, at least 50 percent of the units must be occupied by or made available to families with incomes at or below 50 percent of the area median income level and the remaining units shall be occupied or made available to families with incomes at or below 80 percent of the area median income level, and in all cases the landlord shall give priority in renting units assisted under this section, for not less than 3 years following the completion of lead abatement activities, to families with a child under the age of six years, except that buildings with five or more units may have 20 percent of the units occupied by families with incomes above 80 percent of area median income level;

(2) For grants made to assist housing owned by owner-occupants, all units assisted with grants under this section shall be the principal residence of families with income at or below 80 percent of the area median income level, and not less than 90 percent of the units assisted with grants under this section shall be occupied by a child under the age of six years or shall be units where a child under the age of six years spends a significant amount of time visiting * * *”

(1) Certified and Trained Performers. Funded activities must be conducted by persons qualified for the activities according to 24 CFR part 35, subparts B-R (possessing certification as abatement contractors, risk assessors, inspectors, abatement workers, or sampling technicians, or others having been trained in a HUD-approved course in lead-safe work practices).

(2) Lead hazard evaluation and control work must be conducted in compliance with HUD's Lead Safe Housing Rule, 24 CFR part 35, the HUD Guidelines, and applicable federal, state and local regulations and guidance.

6. Prohibited Practices. You must not engage in the following prohibited practices:

a. Open flame burning or torching;

b. Machine sanding or grinding without a high-efficiency particulate air (HEPA) exhaust control;

c. Uncontained hydroblasting or high-pressure wash;

d. Abrasive blasting or sandblasting without HEPA exhaust control;

e. Heat guns operating above 1,100 degrees Fahrenheit;

f. Chemical paint strippers containing methylene chloride or other volatile hazardous chemicals in a poorly ventilated space; and

g. Dry scraping or dry sanding, except scraping in conjunction with heat guns or around electrical outlets or when treating no more than two square feet in any one interior room or space, or totaling no more than 20 square feet on exterior surfaces.

7. Written Policies and Procedures. You must have clearly established, written policies and procedures for eligibility, program marketing, unit selection, expediting work on homes occupied by children with elevated blood lead levels, and all phases of lead hazard control, including risk assessment, inspection, development of specifications, pre-hazard control blood lead testing, financing, temporary relocation and clearance testing. Grantees, subcontractors, sub-grantees, sub-recipients, and their contractors must adhere to these policies and procedures.

8. Continued Availability of Lead-Safe Housing to Low-Income Families. Units in which lead hazards have been controlled under this program shall be occupied by or continue to be available to low-income residents as required by Title X (Section 1011). You must maintain a publicly available registry (listing) of units in which lead hazards have been controlled and ensure that these units are affirmatively marketed to agencies and families as suitable housing for families with children less than six years of age. The grantee must also provide the owner with the lead hazard evaluation and control information generated by activities under this grant, so that the owner can comply with his/her disclosure requirements under 24 CFR part 35, Subpart A.

9. Testing. In developing your application budget, include costs for lead paint inspection, risk assessment, and clearance testing for each dwelling that will receive lead hazard control, as follows:

a. General. All testing and sampling shall comply with the Lead Safe Housing and conform to the current HUD Guidelines, the EPA lead hazard standards at 40 CFR part 745, and federal, state, or tribal regulations developed as part of the appropriate contractor certification program, whichever is more stringent. It is particularly important to provide this full cycle of testing for lead hazard control, including interim controls.

b. Lead-Based Paint and Lead-Based Paint Hazard Identification. A combined lead-based paint inspection and risk assessment is required.

c. Clearance Testing. If rehabilitation is conducted in conjunction with lead hazard control, clearance may be conducted either after the lead hazard control work is completed, and again after any subsequent rehabilitation work is completed, or after all of the lead hazard control and rehabilitation work is completed. Clearance shall be successfully completed before re-occupancy.

10. Blood lead testing. Each child under six years of age should be tested for lead poisoning within the six months preceding the lead hazard control work. Any child with an elevated blood lead level must be referred for appropriate medical follow-up. The standards for such testing are described in the Centers for Disease Control and Prevention (CDC) publications Preventing Lead Poisoning in Young Children (1991), and Screening Young Children for Lead Poisoning: Guidance for State and Local Public Health Officials (1997).

11. Cooperation With Related Research and Evaluation. You shall cooperate fully with any research or evaluation sponsored by HUD, CDC, EPA or other government agency and associated with this grant program, including preservation of project data and records and compiling requested information in formats provided by the researchers, evaluators or HUD. This also may include the compiling of certain relevant local demographic, dwelling unit, and participant data not contemplated in your original proposal. Participant data shall be subject to the Privacy Rule of the Health Insurance Portability and Accountability Act of 1996 (HIPAA). HIPAA and the Privacy Rule can be found at http://www.hhs.gov/ocr/hipaa.

12. Data collection. You will be required to collect, maintain, and provide to HUD the data necessary to document and evaluate grant program outputs and outcomes.

13. Financial Control. Financial control systems shall be established including methods and procedures to ensure that only grant eligible expenses are charged to the grant as reimbursable expenses or project match; that appropriate documentation of time worked on and charged to the grant is maintained; and that no more than 10 percent of grant funds are used for administrative costs and that indirect cost allocation plans are updated annually.

14. Section 3 Employment Opportunities. Please refer to Section III.C of the General Section. The requirements of Section 3 of the Housing and Urban Development Act of 1968 (12 U.S.C. 1701u) are applicable to this program. This sub-factor will be evaluated on the extent to which an applicant describes how it proposes to:

a. Provide opportunities to train and employ lower-income residents of the project area; and

b. Award substantial contracts to persons residing in the project area.

Applicants that demonstrate their responsiveness to the section 3 requirement may receive up to 2 rating points. Annual submission of Form HUD-60002 is required.

Regulations regarding the provision of Section 3 of the Housing and Urban Development Act of 1968 can be located at 24 CFR part 135.

15. Replacing Existing Resources. Funds received under the grant programs covered under this NOFA shall not be used to replace existing community resources dedicated to any ongoing project.

16. Certifications and Assurances. By signing the SF-424, you are agreeing to the certifications and assurances listed in the General Section and this NOFA.

17. Code of Conduct. If awarded assistance, you will be required, prior to entering into a grant agreement with HUD, to submit a copy of your Code of Conduct and describe the methods you will use to ensure that all officers, employees, and agents of your organization are aware of your Code of Conduct. Refer to the General Section for information about conducting business in accordance with HUD's core values and ethical standards.

18. Lead-Safe Work Practice Training Activities. Applicants under the Lead-Based Paint Hazard Control Grant Program are encouraged to provide resources to promote the expansion of a workforce properly trained in lead-safe work practices and which is available to conduct interim controls and/or lead hazard abatement as well as follow lead-safe work practices while performing work on HUD assisted housing units and to safely repair, rehabilitate, and maintain other privately owned residential property. The effort is permissible under the Lead Hazard Reduction Demonstration Program, when funded as part of the 10 percent remaining after direct lead hazard control activities are funded under this program.

19. Coordination Among Critical Agencies. If awarded assistance under the Lead-Based Paint Hazard Control or Lead Hazard Reduction Demonstration programs, applicants shall participate in the state-wide or jurisdiction-wide strategic plan to eliminate childhood lead poisoning as a major public health problem by 2010, or assist in the development of one plan in states or localities that do not have such a plan. The CDC strategic elimination plans for state and local childhood lead poisoning prevention programs can be downloaded from http://www.cdc.gov/nceh/lead/Strategic%20Elim%20Plans/strategicplans.htm.

Additionally, if awarded lead hazard control and lead hazard demonstration funds, applicants shall enter into or extend existing collaborative agreements or arrangements with childhood lead poisoning prevention programs among health agencies, housing agencies, community development agencies, and code enforcement agencies (or equivalent) for their target area(s) local jurisdiction(s), and, for state or tribal applicants, with their state or tribal health agencies, housing agencies, development agencies, and code enforcement agencies (or equivalent). Agreements or arrangements must describe how the health department and the housing and/or development agency have or will consider enrolling housing units (or multifamily buildings) in which one or more children under age 6 years have elevated blood lead levels, with priority to housing where repeated and/or severe cases of childhood lead poisoning have occurred. (Because of the presence of a variety of priorities, it is not a requirement that units with lead-poisoned children be enrolled, but the process for giving such units high priority should be described and implemented.) HUD encourages Operation LEAP applicants to enter into such agreements.

20. Work Plan. Upon award, a work plan shall be developed and consist of the measurable quarterly performance goals and specific time-phased objectives established for each of the major activities and tasks required to implement the program. These major activities and tasks are outlined in the Quarterly Progress Reporting System (Form HUD-96006) and include: Program Management and Capacity Building including data collection and program evaluation; Community Education, Outreach and Training; and Lead Hazard Activities including testing, interventions conducted, and temporary relocation.

a. Describe how lead hazard units, especially those known to house elevated blood lead levels of children under six years of age, will be identified, selected, prioritized, and considered for treatment under this grant and/or other programs of the grantee or grantee's team members. An elevated blood lead level is defined as an excessive absorption of lead that is a confirmed concentration of ten (10) micrograms of lead per deciliter of whole blood.

You must demonstrate how you consider housing units identified by local health and child welfare agencies where incidences of childhood lead poisoning have occurred, particularly those where multiple poisonings have been reported, for enrollment into lead hazard control treatment programs, as well as demonstrate the use of other sources of information on high priority housing;

b. Your work plan should address your jurisdiction's Consolidated Plan goals for pursuing community planning and development and housing programs relative to lead and other housing-related issues that affect the health of residents. The work plan must include a detailed strategy to:

(1) Obtain data from state or local health departments or from families themselves (either directly, for example, through service organizations that families distribute their information) on the addresses of housing units in which children have been identified as lead poisoned, as required by 24 CFR 91.100(a)(2); and

(2) Continue or enter into collaborative agreements or arrangements with applicable state or local health and child welfare agencies, community development organizations, and housing agencies and/or other housing organizations to team with HUD Lead Hazard Control, Lead Hazard Reduction Demonstration, and LEAP grantees to identify and address childhood lead poisoning in the jurisdiction collaboratively, and describe the methods for coordinating among these agencies.

(3) Demonstrate specific steps and/or actions that will be taken to ensure that other resources in the community are utilized to increase funding, to locate and provide training, and to link with other local programs engaged in lead hazard control activities;

(4) Describe how the project will be managed, and the timeline for staffing the program, establishing a lead-based paint contractor pool, and obtaining HUD approval for the Request for the Release of Funds (HUD Form 7015.15);

(5) Describe how assistance and funding will flow from you to the actual performers of the hazard reduction work;

(6) Describe the selection process for sub-grantees, sub-contractors, or sub-recipients;

(7) Describe the financing mechanism used to support lead hazard control work in units (name of administering agency, eligibility requirements, type of financing (grant, forgivable or deferred loans, private sector financing, etc.)), any owner matching requirement, and the terms, conditions, and amounts of assistance available, include affordability terms and forgiveness and recapture of funds provisions;

(8) Perform combined lead-based paint inspection and risk assessment testing procedures using the HUD Guidelines, applicable sections of the Lead Safe Housing Regulations and EPA standards to identify lead hazards and to conduct clearance testing.

(9) Describe the process for developing work specifications and bids on properties selected for lead hazard control work;

(10) The specific intervention methods and clearance procedures to be conducted for units enrolled and treated;

(11) The number of rental-occupied, vacant, and owner-occupied units, including the number of single-family and multifamily units, proposed for interim controls and hazard abatement;

(12) The occupant protection and relocation plan that will be carried out for residents required to be out of their homes during hazard control activities;

(13) The education, outreach, and training activities to be undertaken by the program;

(14) The overall outcomes for community education, outreach, and training activities, including the number of events and the number of individuals to receive education, outreach, and training.

(15) The blood lead testing and other health measures to be undertaken to protect children under six years of age and other occupants of units undergoing lead hazard control work; and

(16) The evaluation process used to measure program performance, with particular attention given to program performance in the five key areas evaluated by OHHLHC on a quarterly basis ( NOFA Rating Factor 5 response): Number of units inspected and risk assessed; number of units cleared of lead hazards; the amount of grant funds disbursed through the Line of Credit Control System (LOCCS); the number of persons reached through outreach and education efforts; and the number of persons trained in lead hazard control courses. For Operation LEAP, only the quarterly assessment will include one additional performance measure which is the amount of leverage.

(17) The grantee's accounting, finance, and internal audit procedures.

(a) Procedures for obtaining funding through government resources, match, leverage, and other contributed resources,

(b) Procedures for the procurement process and the reimbursement process of vendors, contractors, and sub-grantees

(18) Quarterly performance benchmarks. The benchmarks for a 36-month grant are on the Work Plan Development Worksheet with Minimum Benchmark Standards for 36 Months—Form HUD-96008, (You can download Form HUD-96008 at http://www.hudclips.org/subnonhud/html/forms.htm. and can also find it on the HUD OHHLHC Web site at: http://www.hud.gov/offices/lead/lhc/index.cfm.

The development of your work plan should include and reflect the benchmark standards. All applicants are required to complete the Factor 3 Table—Soundness of Approach, and the Work Plan Development Worksheet with Minimum Benchmark Standards for 36 Months—Form HUD-96008.

21. Detailed budget. A detailed budget submission which identifies the total budget (federal share and matching and/or leverage contribution) identified on Form HUD-424 CBW with supporting narrative and cost justifications for all budget categories of your grant request. You must provide a separate estimate for the overall grant management element (Administrative Costs), which is more fully defined in Section IV.E of this NOFA. All applicants must provide a detailed budget for any subcontractors, sub-grantees, or sub-recipients receiving greater than 10 percent of the federal budget request. In the event of a discrepancy between grant amounts requested in various sections of the application, the amount you indicate on the Form SF-424 will govern as the correct value.

22. Institutional Review Board (IRB). Indicate if your program includes conducting research involving human subjects in a manner which requires IRB approval and periodic monitoring under 24 CFR part 60, which incorporates the Department of Health and Human Service's regulations, at 45 CFR part 46. For additional information on what constitutes human subjects, research or how to obtain an institutional assurance, see the Department of Health and Human Services, Office of Human Research Protection (OHRP) Web site at http://www.hhs.gov/ohrp.

Section IV. Application and Submission Procedures

A. Address To Request Application Package

See the General Section for specific procedures concerning the electronic application submission requirements.

Guidebook and Further Information: If you have difficulty accessing the information, you may call the help desk help line at (800) 518-GRANTS or e-mailing support@grants.gov. If you are hearing impaired you may reach the numbers above through (800) HUD-2209 (TTY) (these are toll-free numbers).

B. Content and Form of Application Submission

Applicants eligible to apply under this NOFA are to follow the submission requirements described in Section IV.C.1.a. below:

1. Applicant Information.

a. Application Format. The application narrative response to the Rating Factors from new and eligible prior grantees is limited to a maximum of 20 pages (excluding appendices and worksheets) of size 8½″ x 11″ using a 12-point (minimum) font with not less than ¾″ margins on all sides. Materials provided in the appendices should directly apply to the specific rating factor narrative. Applicants are strongly urged not to submit information that is not required and/or requested by the NOFA or does not directly apply to a specific narrative response. The narrative rating responses should be submitted as a single Microsoft Word document file. All attachments must identify the related factor in the footer by providing the rating factor and the page number (e.g., Factor 1 Attachment, pg. 1), and should be submitted as a single zip file, attachment to the electronic application.

b. Application Checklist (Voluntary). Your application must contain all of the required information noted in this NOFA and the General Section. These items include the standard forms, and the certifications and assurances listed in the General Section that are applicable to this NOFA. The forms required for application submission and instructions can be found in the application at http://www.grants.gov. The “Checklist and Submission Table of Contents” below includes a list of the required items needed for submitting a complete application and receiving consideration for funding. Inclusion of this “Checklist and Submission Table of Contents” with your proposal is recommended but not required.

Checklist and Submission Table of Contents

• Application Checklist (Paper copy applications only).

• Applicant Abstract (limited to a maximum of 2 pages).

• Rating Factor Response (limited to a maximum of 20 narrative pages plus the following forms).

1. Capacity of the Applicant and Relevant Organizational Experience—Form HUD-96012.

2. Needs/Extent of the Problem—Form HUD-96013.

3. Soundness of Approach (Work Plan/Budget)—Form HUD-96014;

4. Leveraging and Matching Resources—Form HUD-96015

5. Achieving Results and Program Evaluation—Logic Model—Form HUD-96010

• Materials to be submitted in response to rating factors (does not count towards 20-page limit).

Application for Federal Assistance—Form SF-424.

Survey on Ensuring Equal Opportunity for Applicants—Form SF-424 Supplement.

Grant Application Detailed Budget Worksheet—HUD-424 CBW, Total Budget (Federal Share and Matching) with Supporting Narrative and Cost Justification.

Disclosure and Update Report—Form HUD-2880.0

Certification of Consistency with the RC/EZ/EC—II Strategic Plan—Form HUD-2990.

Certification of Consistency with the Consolidated Plan—Form HUD-2991.

Disclosure of Lobbying Activities (if applicable)—Form SF-LLL.

Development Worksheet with Minimum Benchmark Standards (36 Months) Form HUD-96008.

Facsimile Transmittal (for electronic applications)—Form HUD-96011.

Questionnaire for HUD's Initiative on Removal of Regulatory Barriers, including the required information (if applicable)—Form HUD-27300, including required documentation or URL references—

You Are Our Client Survey—Form HUD-2994-A (optional).

• Threshold Requirements.

Only those applications that meet the threshold review requirements will be rated and ranked. Threshold requirements are identified below:

a. Lead-Based Paint Element in Consolidated Plan.

b. 10 Percent (Lead Hazard Control Program) or 25 Percent (Lead Hazard Reduction Demonstration Program) Matching Contribution and no match requirement for Operation LEAP.

c. Funding request no greater than the maximum amount for the grant program.

• Material in support of the Rating Factors (20 page limit).

Budget Narrative.

Match, Leverage, and other sources of contributed resources. Submit an itemized breakout of your required matching contribution, including:

a. Letters or other evidence of commitment from donors; and

b. The amounts and sources of contributed resources, including donated in-kind services.

c. Applicant Contributors. Provide contracts, Memoranda of Understanding or Agreement, letters of commitment or other documentation describing the proposed roles of agencies, local broad-based task forces, participating grassroots community-based nonprofit organizations, including faith-based organizations, local businesses, and others working with the program.

d. Consolidated Plan Element. (This requirement does not apply to Native American Tribes). You must submit as an appendix a current lead-based paint element from your current approved Consolidated Plan or the jurisdiction(s) where the lead hazard control work will be conducted. In lieu of submitting a hard copy of the lead-based paint element from your current consolidated plan, you may substitute a Web-site address. The Web-site must link directly to the lead-based paint element of a current Consolidated Plan. If your jurisdiction does not have a currently approved Consolidated Plan, but it is otherwise eligible for this grant program, you must also include your jurisdiction's abbreviated Consolidated Plan, which includes a lead-based paint hazard control strategy in accordance with 24 CFR 91.235. You should include the discussion of any lead-based paint issues in your jurisdiction's Analysis of Impediments, particularly as it addresses your target areas.

C. Submission Dates and Times

Application Submission Dates: The application deadline date is June 7, 2006. Refer to the General Section for timely submission requirements.

D. Intergovernmental Review

Not required.

E. Funding Restrictions

1. Ineligible Activities. You may not use grant funds for any of the following ineligible activities:

a. Purchase of real property.

b. Purchase or lease of supplies having a per-unit cost in excess of $5,000, except for the purchase and lease of up to two X-ray fluorescence analyzers used by the grant program;

c. Chelation or other medical treatment costs related to children with Elevated Blood Lead levels (EBLs). Non-federal funds used to cover these costs may be counted as part of the required matching contribution.

d. Lead hazard control activities in publicly owned housing, or project-based Section 8 housing (this housing stock is not eligible under Section 1011 of the Lead-Based Paint Hazard Reduction Act).

e. Activities that do not comply with the Coastal Barrier Resources Act (16 U.S.C. 3501).

f. Lead-hazard control or rehabilitation of a building or manufactured home that is located in an area identified by the Federal Emergency Management Agency (FEMA) under the Flood Disaster Protection Act of 1973 (42 U.S.C. 4001-4128) as having special flood hazards unless:

(1) The community in which the area is situated is participating in the National Flood Insurance Program in accordance with the applicable regulations (44 CFR parts 59-79), or less than a year has passed since FEMA notification regarding these hazards; and

(2) Where the community is participating in the National Flood Insurance Program, flood insurance on the property is obtained in accordance with section 102(a) of the Flood Disaster Protection Act (42 U.S.C. 4012a(a)). You are responsible for assuring that flood insurance is obtained and maintained for the appropriate amount and term.

(3) Please see http://www.hud.gov/offices/adm/grants/fundsavail.cfm for reference to the Administrative Cost requirements.

(4) Please see http://www.hud.gov/offices/adm/grants/fundsavail.cfm for reference to the Indirect Cost requirements.

F. Other Submission Requirements

Applicants are required to submit applications electronically via the Web site http://www.grants.gov. See section IV.F of the General Section for additional information on the electronic process and how to request a waiver from the requirement if necessary.

Section V. Application Review Information

A. Criteria

The following section applies to all applicants unless otherwise specified.

1. Rating Factor 1: Capacity of the Applicant and Relevant Organizational Experience (Up to 20 Points Maximum for All Applicants)

a. Capacity of the Applicant (10 points). This rating factor addresses your organizational capacity necessary to successfully implement the proposed activities in an efficient manner. All applicants must respond to this Rating Factor, including completing the Factor 1 Table. The technical merit or threshold compliance of the applicant will be rated unless otherwise specified. The “applicant” includes the applicant organization as a whole, the applicant staff, including key personnel responsible for implementing the program, grassroots community-based nonprofit organizations, including faith-based organizations, sub-contractors, consultants, sub-recipients, and members of consortia that are firmly committed to your program.

Applicants are to list by name and/or position title all key personnel, whether currently vacant or contingent upon an award, including the percentage of time to be dedicated to the proposed program. Key personnel should include, at a minimum, one Project Director and one Program Manager. The applicant must describe the relevant knowledge and experience of the Project Director and Program Manager, and any additional key personnel, who will carry out program activities, including the time commitment of each to the proposed program. The applicant must describe the proposed roles and responsibilities of each key personnel, including any/all relevant current or previous experience in the planning and management of large, complex and interdisciplinary programs involving housing rehabilitation or lead hazard control, childhood lead poisoning prevention, or similar work. The day-to-day program manager must be experienced in the management of housing rehabilitation or lead hazard control, childhood lead poisoning prevention, or similar work involving project management, and must be dedicated to the proposed program for a minimum of 75 percent of the time. If awarded two or three grants under this NOFA, HUD grantees will negotiate 100 percent of total time spent on the grants. Additional program staff experience, roles, responsibilities and time commitment must also be described.

Similarly, applicants must list and describe sub-grantees and sub-contractor organizations that will provide services and carry out critical activities for the proposed grant program, including their capacity, as demonstrated by experience in initiating and implementing related environmental, health, or housing projects. List key personnel from each sub-grantee or sub-contractor organization who will provide services, their respective roles and responsibilities on the proposed program and the time to be dedicated to the proposed program.

The applicant must demonstrate that it has sufficient personnel or will have the capability to retain qualified experts or professionals, and be prepared to perform lead-based paint hazard evaluation, lead-based paint hazard control intervention work, and other proposed activities within 120 days of the effective date of the grant award. HUD reserves the right to terminate the grant if sufficient personnel or qualified experts are not retained within this 120-day period. Résumés (for up to three key personnel) or position descriptions for those key personnel to be hired, and organizational charts for the grant program must be submitted. Factor 1 Table—Key Personnel and Partners, must be completed and submitted.

b. Relevant Organization Experience (10 points).

(1) New Applicants. In rating this factor, HUD will consider a new applicant's recent, relevant, and demonstrated experience in undertaking eligible program activities. Organizational capacity should be demonstrated in a table that describes prior experience in initiating and implementing lead hazard control efforts and/or related environmental, health or housing projects or programs. Applicants must indicate how this prior experience will be used in carrying out the proposed comprehensive Lead-Based Paint Hazard Control, Lead Hazard Reduction Demonstration and Operation LEAP Grant Programs.

The applicant should include, as an appendix item to this rating factor, 1-2-page résumé of up to three key personnel responsible for the grant (e.g., project director, program manager, etc). Include a table that lists the relevant and most recent experience in initiating and implementing lead hazard control efforts and/or related environmental, health or housing projects or programs and/or grants awarded (which may also include philanthropic/foundation awards for LEAP applicants) that you currently manage or have previously managed within the past three years (e.g., Lead Hazard Control, CDBG Housing Rehabilitation, Childhood Lead Poisoning Prevention Program, Healthy Homes Demonstration, Weatherization, Operation LEAP, etc.), an organizational chart for the overall organization and the project/grant program, and include the following details for each project:

• Federal/state/local/private agency providing the project;

• Title of the project; and

• Name of the Project Director and Program Manager.

• Dollar amount of the project;

• Deliverables planned;

• Deliverables and accomplishments achieved;

• Start and end date of the project;

• Whether or not the project was completed on time;

• Discussion of any significant obstacles and how they were resolved.

HUD's evaluation process will consider an applicant's past performance record as reported to HUD in effectively organizing and managing its grant operations, in meeting performance and work plan benchmarks and goals, and in managing funds, including its ability to account for funds appropriately, the timely use of funds received either from HUD or other federal, state or local programs, and meeting performance milestones. HUD may also use other information relating to these items from sources at hand, including public sources such as newspapers, Inspector General or Government Accountability Office Reports or Findings, hotline complaints, or other sources of information that possess merit.

(2) Current or previous grantee under any of this NOFA's programs. HUD will evaluate the applicant's quarterly performance reports for the last four (4) quarters as of the most recent reporting year. Based on the overall performance rating of the last 4 reporting quarters under the OHHLHC Quarterly Progress Reporting System, up to a maximum of 10 points will be awarded based on the combination of green, yellow, or red performance ratings.

2. Rating Factor 2: Need/Extent of the Problem (20 Points Maximum for Lead-Based Paint Hazard Control and Lead Hazard Reduction Demonstration Programs, and 10 Points Maximum for Operation LEAP)

This factor refers to whether or not the community where eligible lead hazard control activities will be conducted has significant lead-based paint hazards to be addressed and an urgent need for HUD funding to address the problem in your identified target area(s). Each applicant will be evaluated and scored in this rating factor based on documented need as evidenced by thorough, credible, and applicable data and information. The applicant is to complete the Factor 2 Table—Need/Extent of the Problem.

Multiple tables (one per target area) are permissible. Provide the number of children less than 6 years of age in the target and jurisdiction area(s). The data submitted to HUD may be verified using data available from the Census, HUD user, other data available to HUD and/or in cooperation with the CDC. Points will be awarded in this rating factor based on the information documenting the number of children with an elevated blood lead level, the number of pre-1978 housing units (use pre-1980 data, if pre-1978 data are unavailable), and the number and percentage of families with incomes at or below 80% of the Area Medium Income as determined by HUD within your jurisdiction and/or target areas.

a. Points will be awarded based on the documented number of children with an EBL entered in the Rating Factor 2 table. Documented Number of Children with an Elevated Blood Lead (EBL) (10 Points Maximum for Lead-Based Paint Hazard Control and Lead Hazard Reduction Demonstration Programs, and 3 Points Maximum for Operation LEAP). Provide the actual number of children documented as having an elevated blood lead (EBL) residing within the jurisdiction where the lead hazard control work will be conducted for the most recent complete calendar year and identify the source of the data. HUD will accept data for the most recent of the following calendar years: 2003, 2004, and 2005. States must report the number in the city, county, or other area where funds will actually be used. Consortia of local governments must report the number in the cities or counties making up the consortium. Operation LEAP applicants must report the EBL data from the designated targeted areas. For the purposes of this application, the “documented number of children” with an EBL is based on the CDC level of concern. A child under six years of age with a blood lead level test result equal to or greater than 10 micrograms of lead per deciliter of blood, based on a test that was performed by a medical health care provider, is considered to have an EBL. The actual number of children with an EBL (not an estimate) must be included in this application in order to receive points for this sub-factor. Do not send the children's names or addresses or other identifiers. Failure to provide this number in the application means that no points will be awarded for this sub-factor. For you to receive maximum points for this rating factor, there must be a direct and substantial relationship between your proposed lead hazard control activities, Consolidated Plan's lead element, and the documented community needs. Since an objective of the program is to prevent at-risk children from being poisoned, specific attention must be paid to documenting the identified need as it applies to any selected targeted area(s). Applicants shall complete the Factor 2 Table.

b. Points will be awarded based on the documented housing market data relevant to the specified target area(s) entered in the Rating Factor 2 table. (5 Points for Lead-Based Paint Hazard Control and Lead Hazard Reduction Demonstration Programs, and 3 Points Maximum for Operation LEAP). Points will be awarded for the number of pre-1940 housing units in the applicant's jurisdiction(s) according to the table, “Points Awarded for Number of Pre-1940 Occupied Rental Housing Units in Target Area,” that can be downloaded from http://www.hud.gov/offices/adm/grants/fundsavail.cfm. Housing Age for the following sub-categories: Pre-1940, 1940-1949, 1950-1959, 1960-1969, 1970-1979 and 1980 or newer (Census information includes 1970-1979 category). The table shows the number of points awarded based on the number of pre-1940 housing units in the grant target area(s).

c. Points will be awarded based on the documented percentage of very-low (income less than 50 percent of the area median) and low- (income less than 80 percent of the area median) income families, as determined by HUD and entered in the Rating Factor 2 table (5 Points Maximum for Lead-Based Paint Hazard Control and Lead Hazard Reduction Demonstration Grant Programs and 4 Points Maximum for Operation LEAP). “Points Awarded for Number of Very Low and Low-Income Percentages of Families in Target Area” can be downloaded from http://www.hud.gov/offices/adm/grants/fundsavail.cfm. The table shows the number of points awarded based on the number of very low and low-income percentages of families in target area(s).

3. Rating Factor 3: Soundness of Approach (40 Points Maximum for All Applicants)

Applicants for these grant programs shall complete the Rating Factor 3 Table Soundness of Approach. All Applicants: Based on analysis of internal historical data, lead hazard control grant programs average approximately 1 unit for every $8,000 of grant and matching/leveraged dollars spent. It is, therefore, anticipated that all programs under this NOFA will meet or exceed this standard. If your particular work plan will exceed this unit per grant and match or leverage threshold, you will be expected to justify and explain the cost per unit ratio. This factor addresses the quantity, quality and cost-effectiveness of your proposed work plan. The work plan should include specific, measurable, and time-phased objectives for each major program activity and should reflect benchmark performance standards for unit production, expenditures, obtaining match/leverage funds, community outreach and education, skills training, and other activities including accounting for program activities. These benchmark standards as well as policy guidance on developing work plans are available at the HUD Web site: http://www.hud.gov/offices/lead/grantfrm/hudgrantee.cfm. This policy guidance provides a sample format and outline for developing a Work Plan.

Applicants for Lead-Based Paint Hazard Control and Lead Hazard Reduction Demonstration Programs should describe the proposed activities and provide HUD with measurable outcome results to be achieved with the requested funds. Measurable outcome results should be stated in terms relevant to the purpose of the program funds as a direct result of the work performed within the performance period of the grant (e.g., estimated number of units to be made lead-safe, estimated number of children living in units made lead-safe, estimated number of persons to be trained to perform lead hazard control activities, estimated number of educational programs to be presented and/or the number of persons to be served by such programs, and the basis for these estimates). Each proposed activity must be eligible in accordance with the requirements of this NOFA and meet statutory requirements for assistance to low- and very low-income persons.

Applicants for the Operation Lead Elimination Action Program (LEAP) should describe in detail their approach for leveraging private sector resources. LEAP is intended to leverage significant private sector resources that will then be used to address lead hazards in privately owned housing occupied by low- and moderate-income families with children less than 6 years of age. Keeping in mind that HUD's Lead-Based Paint Hazard Control grants average approximately 1 unit for every $8,000 of grant and matching dollars spent, therefore, a LEAP program should meet or exceed this performance using private resources. HUD expects that the leveraged funds in comparison to the HUD funds would be substantially greater (for example, a grant applicant is proposing to use $4 million in private sector resources with $2 million in LEAP funds (a 2:1 ratio)). The number of units the applicant would expect to control by these resources would be approximately 500 units. Your application should indicate in Rating Factor 4—Leveraging—the extent of funding you commit to leverage. Your application should include in this Rating Factor 3 your approach for obtaining the leveraged funding and your approach to controlling lead-based paint hazards in housing using the HUD and leveraged funds.

a. Lead Hazard Control Work Plan Strategy (20 Points all Applicants): Describe the overall work plan goals and time-phased strategy to complete work within the 36-month period of performance (Form HUD-96008). Describe the methods, schedule and milestones that will be used to identify and control lead-based paint hazards and to achieve the desired project outcomes. Include summary information about the estimated numbers of clients to be contacted, units and families enrolled, units to receive risk assessments and inspections, units to receive lead hazard control work, individuals or groups to be trained, and individuals and groups to be reached through education and/or outreach activities.

Additionally, provide responses to the following: Program Management. Describe the overall approach to implement the proposed program. Describe how the program will be organized, managed and staffed.

(1) Program Administration and Financial Management. Describe the approach and method to successfully administer the proposed program.

(a) Include details about staff and project oversight/monitoring, contract administration (to ensure sub-grantees and contractors conform to the terms, conditions and specifications of contracts or other formal agreements), and how assistance and funding will flow from the grantee to those who will perform work under the proposed program.

(b) Explain how your proposed technical approach addresses local conditions and needs, e.g., especially maximizing the number of children protected from lead hazards.

(c) Discuss the lead hazard control financing strategy, including financing eligibility requirements, terms, conditions, dollar limits, amounts available for lead hazard control work in the various categories (explain) of housing intended for intervention (e.g., single-family, multi-family, vacant, owner- or tenant-occupied), and who is responsible for establishing, administering and overseeing this aspect of the program. Describe how recapture of grants or loan funds to owners of assisted units will occur when recipients fail to comply with any terms and conditions of the financing arrangement (e.g., failure to comply with affordability, affirmatively marketing and providing priority to renting units to families with children under six years of age, sale of property, etc.). Explain the assistance instrument (e.g., grants, deferred loans and/or forgivable loans and the basis and schedule for forgiveness), and the role of other resources such as private sector financing and matching requirements, if any, from rental property owners. Identify the process and those responsible for coordination and payment between the program and contractors performing the work.

(2) Program Start-Up. Describe program start-up activities during the first 120 days of the grant.

(a) Provide information about internal and external capacity-building steps necessary to ensure a smooth and timely start-up phase. Provide detailed information about hiring staff, training staff or other organizations to provide the knowledge and skills required to address lead hazard control, including establishment of a qualified contractor pool, and lead poisoning prevention actions that are essential for successfully implementing your program (e.g., education, testing, housing interventions).

(b) Include a description of how sub-grantees, sub-contractors or sub-recipients are selected to carry out intended activities. If these entities have already committed to the program, provide a detailed description of previous or existing goals, accomplishments and outcomes relative to such collaborative agreements or arrangements with and among these agencies. If these collaborative agreements or arrangements have not yet been entered into, provide a detailed description to address plans and strategies to do so.

(c) Describe your proposed involvement of grassroots community-based nonprofit organizations, including faith-based organizations, in the proposed activities including the development of consortia. These activities may include outreach, community education, marketing, inspection, and housing evaluations and interventions.

(d) Explain the environmental review and Request for Release of Funds process, and who is responsible, to obtain the required HUD approval for intended lead hazard control work on eligible, enrolled units. Include a description of the steps to be taken, and who will be responsible, to comply with applicable environmental reviews for individual projects.

(3) Outreach, Recruitment and Unit Enrollment. Describe the methods and strategies, including the individuals and/or sub-grantees, sub-recipients or contractors responsible for marketing and outreach to intended target area(s) and/or residents, including recruitment and enrollment activities to supply the program with sufficient numbers of eligible clients within an established timeframe.

(a) Describe how you will identify, select, prioritize and enroll eligible housing units in which you will undertake lead hazard control interventions, especially those known to house EBL children. Include the number of eligible privately owned housing units, including the number of owner-occupied, rental, vacant, single and/or multi-family units to be enrolled.

(b) Discuss the eligibility criteria for unit selection, who will identify and how the program will identify units that meet these criteria.

(c) Describe measures you will perform to sustain recruitment. The staff is responsible for both monitoring recruitment status and implementing the measures identified to sustain recruitment.

(d) Discuss possible recruitment problems, impediments that you anticipate to recruitment, probability of dropouts and plans to over-recruit to compensate for dropouts.

(e) Explain how you will obtain data from state or local health departments on the addresses of housing units in which children have been identified as lead poisoned. Explain how referrals of eligible units will be obtained from childhood lead poisoning prevention programs, other health care or housing agencies or health providers that serve children.

(f) Discuss how referrals from the Section 8, Housing Choice Voucher program and other agencies that provide housing assistance to low-income households with children, including CDBG, HOME Investment Partnerships Program-funded housing programs, Weatherization or other sources, will be received and processed.

(g) Describe how you will obtain information in order to document the occupants of units assisted, meet the Title X income and family composition requirements by identifying key staff who will certify as to the eligibility of each unit assisted, based on the determination of income, and when required, the presence of a child or children under six years of age.

(h) Discuss the degree to which your proposed program focuses on eligible privately owned housing units occupied or to be occupied by low-income families with children under six years of age. Include in this discussion, details on how you will consider, prioritize and treat units known to house one or more lead poisoned children.

(i) Describe your planned approach to control lead hazards in vacant and/or occupied units before children are poisoned.

(j) Indicate how you intend to respond to the needs of EBL children housed in units located outside of the target area(s).

(k) Address the issue of patient confidentiality per the requirements of the Health Insurance Portability and Accountability Act of 1996 (HIPAA), as it relates to the release of addresses of units where children have been poisoned by lead-based paint hazards within your jurisdiction(s). Provide thorough details of all security measures to be taken to ensure that the privacy of patient information obtained for the purposes of public health services conducted through the lead hazard control program will be safeguarded.

b. Technical Approach/Lead Hazard Control Intervention (10 Points for all Applicants). Applicants shall describe the technical approach and associated costs for testing enrolled units, blood-lead testing of children in enrolled units, lead hazard control methods and strategies, occupant protection and temporary relocation.

Describe who will perform the process of conducting combined lead-based paint inspections and risk assessments in eligible privately owned housing to confirm the presence of lead-based paint hazards in enrolled units to receive lead hazard control work. Explain how you will ensure that all information regarding lead hazard control work, lead-based paint test results, etc. are provided to property owners, including the provision of a statement describing the owner's legal obligation to disclose the results to tenants (before initial leasing, or before lease renewal with changes) and buyers (prior to sale) per the requirements of 24 CFR part 35, subpart A. Disclosure of other identified housing-related health or safety hazards to the owner of the unit, for purposes of remediation, is encouraged but not required. Describe your testing methods, schedule, and costs for combined lead-based paint inspections and risk assessments and clearance examinations. If you propose to use a more restrictive standard than the HUD/EPA thresholds (e.g., less than 0.5 percent or 1.0 milligrams/square centimeter for lead in paint, or less than 40, 250, 400 micrograms/square foot for lead in dust on floors, sills and troughs, respectively, or less than 400 parts per million (ppm) in bare soil in children's play areas and 1200 ppm for bare soil in the rest of the yard) identify the standard(s) that will be used. All testing shall be performed in accordance with applicable regulations.

(1) Describe the methods, measures and cost for performing blood lead testing in children less than six years of age.

(a) Describe strategies to increase blood lead testing of children within the target area(s).

(b) Explain who will be responsible for ensuring and how you will ensure that all children less than six years of age who occupy units to be assisted with lead hazard control work receive blood lead testing within six months of commencement of work on the unit.

(c) Identify the individual responsible for and measures to ensure that children identified with an elevated blood-lead level are referred to appropriate medical care and how patient confidentiality, privacy and the security of medical information is protected as required by the Health Insurance Portability and Accountability Act of 1996 (HIPAA).

(2) Describe the lead hazard control methods and strategies you will undertake and the number of single family and multi-family units that you will treat for each method selected (e.g., interim controls and/or hazard abatement), including the estimated cost for each strategy per unit type and the basis for those estimates. Applicants should assume that interim controls are the preferred approach for their strategies and project unit output targets accordingly.

(a) Discuss efforts to incorporate cost-effective lead hazard control methods.

(b) If applicants maintain that approaches other than interim controls are necessary, a justification is necessary. For example, abatement might be justified in an area where significant amounts of low-income housing stock are highly distressed or where lead hazard control work is being combined with rehabilitation. Where highly distressed housing stock exists, applicants should explain why options for households to move to lead-safe housing are not viable.

(c) Complete abatement in all lead-based painted surfaces in all units is generally not an accepted strategy. In cases where only a few surfaces have identified lead-based paint hazards and abatement is cost-effective, the applicant must provide a detailed rationale for selecting complete abatement as a strategy.

(3) Indicate the individual or entity responsible for, and describe the process for developing the work specifications and the lead hazard control contractor bid and selection process (i.e., the contracting) on properties selected for lead hazard control work. Explain the management process to ensure the cost-effectiveness of intended lead hazard control methods. Explain the coordination of germane activities among lead hazard control, rehabilitation, weatherization, and other contractors performing work other than lead hazard control.

(4) Describe your plan and the individual(s) responsible for occupant protection and the temporary relocation (Information on Relocation Guidelines will appear on the Web site) of occupants of units selected to receive lead hazard control work. Describe strategies to avoid overnight relocation in small-scale projects consistent with applicable subsections of HUD's Lead Safe Housing Regulations. Your plan should address the use of safe houses and other temporary housing arrangements, storage of household goods, stipends, incentives, etc.

(5) Describe who will ensure and how the applicant will ensure that contractors, property owners and maintenance personnel performing interim controls and lead hazard abatement work are properly trained and/or certified, and how work will be monitored and supervised to ensure that contractors perform work of reasonable quality in compliance with work specifications and applicable federal regulations.

(6) Provide a realistic schedule for completing key program activities and outputs, by quarter, so that all activities and outputs can be completed before or within the grant period of performance. Key production activities include unit enrollment, lead-based paint inspection and risk assessments, completion and clearance of units.

(7) Describe the estimated elapsed timeframe for treating a typical unit that will receive lead hazard control work, from referral and intake to completion and clearance. Estimate the amount of time required to treat a typical unit to receive lead hazard control work. Explain how the program will accommodate emergency referrals (e.g., units occupied by a child under six years of age with an EBL).

(8) Describe the workflow and production control methods. Provide guidelines and/or flowcharts that demonstrate the agency and team member responsibilities for each step in the unit production process (from intake and enrollment to completion and clearance of units). Describe how coordination and hand-offs from individuals or agencies to and from each step in the unit production process will be carried out. Discuss how the actual production status of units, from intake and enrollment to completion and clearance, will be monitored, and how and when impediments to production will be identified and remedied.

(9) Explain how the proposed program will integrate and stage proposed lead hazard control activities with rehabilitation (or weatherization, Healthy Homes Demonstration, etc.). Identify the individuals and agencies to coordinate these efforts and the number of units anticipated to be blended from these other programs and resources.

c. Economic Opportunity (Up to 7 maximum points for all applicants). Describe the individual or agency responsible for the promotion, recruitment, and provision of training in lead-safe work practices and other lead certification disciplines (e.g., supervisor, worker, risk assessor, inspector, etc.) to individuals and contractors in housing related trades, such as painters, remodelers, renovators, maintenance personnel, rehabilitation specialists, and others. Also, describe the methods you will employ to promote, recruit and provide the training.

(1) Section 3 Requirement (2 of 7 points). Detail the means to be used to provide appropriate economic opportunities to residents and businesses of the target area, in compliance with Section 3 of the Housing and Urban Development Act of 1968 (12 U.S.C. 1701u) and HUD's implementing rules at 24 CFR part 135. Describe how you will accomplish said Section 3 requirements by identifying the number of individuals to receive such training per discipline, the schedule for delivering said training opportunities for low and very low-income persons living within the applicant's jurisdiction, and how trained individuals will be linked to employment opportunities with businesses owned by low and very low-income persons living within the grantee's jurisdiction.

(2) Lead Hazard Control Outreach and Coordination (5 of 7 points).

(a) Coordination on Health Programs.

(i) Describe your involvement in coordination among critical agencies, including participation in the CDC state-wide or jurisdiction-wide strategic plan to eliminate childhood lead poisoning by 2010.

(ii) Describe your involvement in collaborative agreements or arrangements with childhood lead poisoning prevention programs among health agencies, housing agencies, community development agencies, and code enforcement agencies (or equivalent) for the target jurisdiction, as applicable. Applicants shall include a description of their previous or existing goals, accomplishments, and outcomes relative to such collaborative agreements or arrangements with and among these agencies. If these collaborative agreements or arrangements have not yet been entered into, a detailed description to address plans and strategies to do so shall be provided.

(iii) Describe the learning opportunities to be made available to community members, including families, workers, small businesses and others, to help develop a strategic community health education model that identifies lead-related health hazards and their solutions, and educates community members and affects wider efforts in the applicant's targeted area. Applicants shall discuss the opportunity-to-learn approaches to educate children, parents, workers, business people, and other community members about lead poisoning prevention and lead hazard control. Include how the proposed educational program will continue to meet the needs of those children already living in units to receive lead hazard control work.

(b) Lead Hazard Control Outreach and Community Private Sector Involvement.

(i) Applicants are encouraged to solicit participation of grassroots community-based and private sector organizations, including faith-based organizations to accomplish outreach and community involvement activities intended to build long-term capacity to sustain accomplishments in the target area.

(ii) Describe the role of grassroots community-based nonprofit organizations, including faith-based organizations, in specific program activities (e.g., hazard evaluation and control, monitoring, awareness, education and outreach within the community).

(c) Proposed Methods of Communication and Outreach.

(i) Describe how the applicant will ensure that outreach and related education commitments by sub-grantees and/or sub-contractors will be honored and executed.

(ii) Identify the individuals and/or entities responsible for community education and the delivery methods. Include a brief description of the proposed curriculum or subjects to be communicated, and the groups to be targeted to receive said education.

(iii) Explain how the intended education program(s) will be culturally sensitive, targeted, and linguistically appropriate. Identify the means available to supply the educational materials in other languages (identify all that apply) common to the community.

(iv) Include the estimated number of individuals to receive the intended education and the estimated number of events to be delivered.

(d) Affirmatively Furthering Fair Housing.

(i) Describe strategies and methodologies that affirmatively further fair housing and increase access to lead-safe housing for all segments of the population: homeowners, owners of rental properties, and tenants.

(ii) Identify who will ensure and how the applicant will ensure that the program will continue to affirmatively market and match treated units with low-income families with children less than six years of age in the future.

(iii) Explain how this outreach strategy will avoid housing discrimination against families with young children, and how families will have adequate, lead-safe housing choices in the future. This strategy could include plans to develop and implement a registry of lead-safe housing that is available to the public, or to incorporate the inclusion of the lead-safe status of properties in another publicly accessible address-based property information system. The strategy could also include affirmatively marketing your services to those populations least likely to apply and who may not be served by any of the organizations working with you or the grantee team.

d. HUD's Departmental Policy Priorities and Consolidated Plan (6 Points for all applicants; each policy priority is 1 point, except Removal of Regulatory Barriers (#4) is 2 rating points—HUD Form 27300 is required to receive point (s)). Indicate if, and describe how, you will address any of HUD's departmental policy priorities (see General Section for more detailed explanation of HUD's policy priorities). Applicants shall also provide evidence of the priority that the community's Consolidated Plan and Analysis of Impediments to Fair Housing Choice has placed on addressing the needs described.

The policy priorities that are applicable to this NOFA, and which the applicant should address, are: (1) Improving our Nation's Communities (focus on distressed communities); (2) Providing Full and Equal Access to Grassroots Community-based Nonprofit Organizations, including Faith-based Organizations in HUD Program Implementation; (3) Participation of Minority-Serving Institutions in HUD Programs; (4) Removal of Regulatory Barriers to Affordable Housing; and (5) Promoting Energy Efficiency and Energy Star. HUD expects the applicants to implement Energy Star building techniques and utilize Energy Star appliances whenever activities of the grant afford the opportunity. (For information on Energy Star Programs and Appliances, see http://www.epa.gov/epahome/athome.htm.

(1) Describe how the proposed program would contribute to satisfying the stated needs in the Consolidated Plan or Indian Housing Plan, and eliminate impediments identified in the Analysis of Impediments (AI).

(2) Describe how your strategy will provide long-term benefits to families with children less than six years of age.

e. Data Collection and other Program Support Activities (2 points for all applicants).

(1) Identify and discuss the specific methods you will use (in addition to HUD reporting requirements) to document activities, progress, program effectiveness, and how changes necessary to improve performance will be identified and implemented. Explain who is responsible and how you will collect, document and report on information collected.

(2) Describe how databases, including Web sites, computer, paper or other formats, will incorporate the provisions of the Privacy Act of 1974, such that the addresses of enrolled, treated and/or cleared housing units shall not include personal information that could identify any child affected.

(3) Provide a detailed description of any proposed participation in research activities, studies, or development of information systems designed to enhance the delivery, analysis, or conduct of lead hazard control activities, or that will facilitate the targeting and pooling of resources to further childhood lead poisoning prevention efforts. If you are proposing to participate in research activities, describe the objectives, methodology, and impact of the proposed research activities.

4. Rating Factor 4: Matching and Leveraging Resources (10 Points Maximum for Lead-Based Paint Hazard Control and Lead Hazard Reduction Demonstration Program, and 20 Points Maximum for Operation LEAP)

This rating factor applies to all programs unless otherwise specified. This factor addresses your ability to obtain other community and private sector funds that can be combined with HUD's program resources to achieve program objectives. In evaluating this factor, HUD will primarily consider the amount of match and/or leveraged funding you commit to provide (in relation to the amount of HUD funding you request). In evaluating this factor, HUD will consider the extent to which you have established working relationships with other entities to get additional funds or commitments to increase the effectiveness of the proposed program activities. Describe how you will obtain information in order to document the occupants of units assisted to meet Title X income and family composition requirements. Identify the key staff who will certify as to the eligibility of each unit assisted under the grant based on the determination of income, and when required, the presence of a child under six years of age. Funds may include cash or in-kind contributions of services, equipment, or supplies allocated to the proposed program. Funds may be provided by governmental entities, public, or private organizations, and other entities teaming with you. Matching and other contribution arrangements (other funds not meant for direct eligible activities under this program) with rental property owners may have the benefits of increasing the efficiency of public lead hazard identification and control expenditures and creating a financial stake for rental property owners in the quality of lead hazard control work. Contractual or other formal relationships with grassroots community-based nonprofit organizations, including faith-based organizations, are a requirement for state and local government applicants. Documentation of relationships with grassroots community-based nonprofit organizations, including faith-based organizations, must be provided in this application in the form of either signed agreements or commitment letters from organization officials who have the authority to commit the organization. This requirement does not apply to Native American Tribe applicants. You also may team with other program funding recipients to coordinate the use of funds in your target area(s).

a. Strategy and Approach (5 points Lead-Based Paint Hazard Control and Lead Hazard Reduction Demonstration Program, and 15 points maximum for Operation LEAP).

(1) Describe the proposed strategy for leveraging (e.g., private sector for Operation LEAP and public and private for Lead-Based Paint Hazard Control and Lead Hazard Reduction Demonstration Program) resources including:

(a) Target audiences/constituencies;

(b) Use of contractors/subgrantees/team organizations and their method of selection;

(c) Methods of outreach/promotion;

(d) Types of leveraging to be employed;

(e) Proposed use and distribution of funds/resources leveraged;

(f) Overall project management and coordination; and

(g) Proposed schedule of activities within the 36-month period of performance;

b. Matching and/or Leveraging Contributions (5 maximum points for all applicants). Points based on the documented leverage funding will be awarded based on the charts below.

(1) Matching and leveraged funds must be shown to be specifically dedicated to and integrated into supporting activities. Refer to Section III.B, Cost Sharing or Matching Requirements for additional information. Project match and/or leverage shall be limited to contributions which would be eligible for payment from grant funds, and may be in the form of cash, including private sector funding, or in-kind (non-cash) contributions or a combination of these resources. Leverage may be in the form of cash from private sector funding or other resources or in the form of non-cash contributions or a combination of these resources. You may not include any federal funds as part of the match, unless those funds are specifically permitted by statute to be used as matching funds, such as CDBG funds. Other funds from the private sector or other sources committed to the program that exceed the required match, if any, will provide points for this rating factor. Contributions (match funds or other contributed resources) above any statutory minimum match may include funds from other federally funded programs, and/or state, local, charity, nonprofit or for-profit entities. The signature of the authorized official on the Form SF-424 commits matching or other contributed resources of the applicant organization.

Staff in-kind contributions should be given a monetary value based on the local market value of the staff skills; you are responsible for tracking the number of labor hours provided in the match for each labor category. If you do not provide letters from contributors specifying details and the amount of the actual contributions, those contributions will not be counted. Contributions required of rental property owners may be included as part of your match. You should document and provide the amount of the match and/or leverage from each funding source.

Applicants will not receive full points under this rating factor if they do not submit evidence of a firm commitment and the appropriate use of match and/or leveraged resources under the grant program. Such evidence must be provided in the form of letters of firm commitment, memoranda of understanding, or other signed agreements to participate from those entities identified as team members in your application. Each letter of commitment, memorandum of understanding, or agreement to participate should include the organization's name, the proposed level of commitment, and the responsibilities as they relate to your proposed program. The commitment must be signed by an official of the organization legally able to make commitments on behalf of the organization and should be submitted at the time of the application submission. Describe the role of grassroots community-based nonprofit organizations, including faith-based organizations, in specific program activities, such as hazard evaluation and control; monitoring; and awareness, education, and outreach within the community. Describe how you will ensure that commitments to sub-grantees specified in your proposal will be honored and executed, contingent upon an award from HUD.

The applicant is encouraged to employ creativity and initiative in achieving the objectives of the program. Some examples of possible strategies/approaches include the following:

(a) Enlisting the support and resource commitment of financial institutions, foundations, private industry, the general public, property owners, and others to make residential housing lead-safe and eliminate lead poisoning as a public health threat to children;

(b) Soliciting the support of national building materials providers, building component manufacturers, and housing-related national retail outlets to donate money and/or materials to lead hazard control programs in housing and health departments, landlords and owner-occupants to eliminate lead-based paint hazards in privately owned low-income dwellings. For example, a window, wallboard, or paint manufacturer/retailer could donate or coordinate the donation and distribution of windows, wallboard, or paint to lead-based paint hazard control and/or lead hazard control elements of rehabilitation projects throughout the country. This strategy could also include the distribution of discount coupons for purchases of paint or other materials from national suppliers for lead-based paint hazard control projects;

(c) Forming teams with banks or other mortgage or financial institutions willing to provide no- or low-interest home improvement loans to finance lead hazard control activities and abatement measures among low-income recipients who would not otherwise be served. By participating, banks could fulfill a major element of their responsibilities under the Community Reinvestment Act;

(d) Forming teams to facilitate the coordination and distribution of donated building materials, such as windows, trim molding, or paint, etc. to local projects involved in lead hazard control programs;

(e) Identifying and facilitating the availability and use of temporary relocation facilities for families who need to move out of their dwellings while lead hazard control work is being undertaken. For example, hotel chains, colleges, and other lead-safe sites could be contacted to make housing available for the temporary relocation of families during lead hazard control;

(f) Working with landlords, tenant groups and others to form consortia or otherwise engage landlords and owner-occupants to enroll their eligible housing units in local lead hazard control or rehabilitation programs. The applicant should obtain commitments from landlords to provide matching resources for work to be done on their units. For example, the lead hazard control program could offer landlords grant funds for replacement windows if the landlords contribute the cost of additional repairs (such as basic system upgrades, or other rehabilitation work including painting and maintenance) that is associated with lead hazard control. To encourage such commitments, efforts should be made to educate landlords about the primary benefits (effect on children's health) and supplementary benefits that can result from lead hazard reduction work such as improving an apartment's physical condition and marketability;

(g) Expanding dust testing and clearance testing, especially in high-risk communities;

(h) Promoting homebuilder, remodeler, or contractor associations to coordinate efforts to reduce lead hazards by contributing technical assistance, training, presentations and materials and/or labor to lead hazard control efforts;

(i) Encouraging landscaping firms, nurseries, and landscape architects to contribute lead-safe soil, mulch, and other forms of vegetation cover and shrubbery designed to mitigate lead contamination of soil around the exterior/perimeter and play areas of affected housing units;

(j) Working with health, housing, and community development organizations or other entities to conduct lead poisoning prevention activities, including efforts to plan, participate in, and/or facilitate strategic planning to eliminate lead poisoning as a public health threat to young children by 2010. As part of this effort, the applicant should describe the process for considering enrolling housing units (or multi-family buildings) in which one or more children under age 6 years have EBLs, with priority to housing where repeated and/or severe cases of childhood lead poisoning have occurred. (Because of the presence of a variety of priorities, it is not a requirement that units with lead-poisoned children be enrolled, but the process for giving such units high priority should be described and implemented.);

(k) Working with grassroots nonprofit community organizations, including faith-based or other community-based organizations, that are committed to improving the quality of life of young children in high risk housing; and

(l) Providing training for significant numbers of trades people to implement lead-safe work practices, such as window replacement and weatherization work

Operation LEAP Applicants
Documented leverage above requested HUD amount (percent) | Points awarded
≤50 | 0
>50-≤100 | 1
>100-≤150 | 2
>150-≤200 | 3
>200-≤300 | 4
>300 | 5

Lead Hazard Control Applicants
Documented match and other contributions of the requested HUD amount (percent) | Points awarded
10 | 0
>10-≤20 | 1
>20-≤30 | 2
>30-≤40 | 3
>40-≤50 | 4
>50 | 5

Lead Hazard Reduction Demonstration Applicants
Documented match and other contributions of the requested HUD amount (percent) | Points awarded
25 | 0
>25-≤30 | 1
>30-≤35 | 2
>35-≤40 | 3
>40-≤50 | 4
>50 | 5

5. Rating Factor 5: Achieving Results and Program Evaluation (10 Points Maximum for All Applicants)

This rating factor reflects HUD's goal to embrace high standards of ethics, management, and accountability.

a. Describe in detail your needs and service activities, identify the outputs and short-term, intermediate-term and long-term outcomes (5 points).

(1) State clearly the project activities including specific goals (“benchmarks”) of each activity and how you will achieve those goals.

(2) Describe how you will measure the results. Provide your goals, inputs, activities, outcomes and performance benchmarks (goals) for the entire grant period. In the narrative, explain how you will document and track your goals, program activities, and schedules. Identify the procedures you will follow to make adjustments to your work plan to improve performance if benchmarks are not met within established timeframes.

b. Logic Model (5 points).

(1) Applicants must complete and return the Form HUD-96010. Information about developing a Logic Model is available at: http://www.hud.gov/offices/admin/grants/fundsavail.cfm. HUD is moving to a standardized “Master” Logic Model from which you can select needs, activities, and outcomes appropriate to your program. See the General Section for detailed information on use of the “Master” Logic Model. HUD is requiring grantees to use program-specific questions to self-evaluate the management and performance of their program. Training on HUD's logic model and the reporting requirements for addressing the Management questions will be provided via satellite broadcast. In evaluating Rating Factor 5, HUD will consider how you have described the benefits and outcome measures of your program. HUD will also consider the evaluation plan, to ensure the project is on schedule and within budget. For FY2006, HUD is considering a new concept for the Logic Model. The new concept is a Return on Investment statement. HUD will be publishing a separate notice on the ROI concept.

(2) Performance indicators should be objectively quantifiable and should measure actual achievements against anticipated achievements. Step 1. The planning component of the logic model should identify the problem or need and develop a plan. Step 2. The intervention component of the logic model should identify the kinds of services, activities, and outputs projected. Step 3. The impact component of the logic model should identify the projected outcomes. Step 4. The accountability (phase one) component of the logic model should include data sources, measurement, and reporting tools. Step 5. The accountability (phase two) component of the logic model should include the evaluation methodology or the evaluation process. As a planning tool, the logic model can provide the statement of need and also provide the rationale for the proposed service or activity. For goals or benchmarks, the logic model can provide a set of quantifiable goals including timeframes. These goals allow you, the applicant, and HUD to monitor and assess your progress in achieving your program work plan. The process for the achievement of outcome goals should include identifying the expected outcome and the estimated number needed to achieve the goal or the expected outcome in terms of the community impact or changes in economic and social status. The following describes what are measurement-reporting tools. Some examples are survey instruments; attendance log; case report; pre-post tests; or waiting lists. Describe where data are maintained, for example, central databases; individual case records; specialized access databases, tax assessor databases; and local precinct. Also, identify the location where the database is maintained, updated, etc., for example, on-site, subcontractor, or specify (e.g., identify what the other is).

6. Bonus Points (2 Rating Points for All Programs)

This NOFA provides for the award of two bonus points for eligible activities/projects that the applicant proposes to locate in federally designated Empowerment Zones (EZs), Renewal Communities (RCs), or Enterprise Communities designated by United States Department of Agriculture (USDA) in round II (EC-IIs) and that are certified to be consistent with the area's strategic plan or RC Tax Incentive Utilization Plan (TIUP). Discuss whether any of the proposed activities will occur in any of these areas and how they will benefit the residents of those zones or communities. Applicants must submit a completed Certification of Consistency with the RC/EZ/EC-II Strategic Plan—Form HUD-2990, and also meet the requirements listed in the General Section for a possible award of two bonus points.

B. Reviews and Selection Process

1. Rating and Ranking. Please Refer to the General Section

a. Only those applications that meet the threshold review requirements will be rated and ranked. HUD intends to fund the highest ranked applications in each category receiving a minimum score of 75 within the limits of funding.

b. Remaining Funds. Refer to the General Section for HUD's procedures if funds remain after all selections have been made within a category.

c. The scoring criteria to be used to award the maximum points for this NOFA are how fully and thoroughly the applicant answers each item listed in each rating factor. Criteria may be obtained at http://www.hud.gov/offices/lead/index.cfm.

2. Factors for Award Used To Rate and Rank Applications

a. Implementing HUD's Strategic Framework and Demonstrating Results. HUD is committed to ensuring that programs result in the achievement of HUD's strategic mission. To support this effort, grant applications submitted for HUD programs will be rated on how well they tie proposed outcomes to HUD's policy priorities and Annual Goals and Objectives, and the quality of proposed Evaluation and Monitoring Plans.

b. The maximum number of points to be awarded is 102. This maximum includes two bonus points as described in the General Section.

c. The factors for rating and ranking eligible grantees under all categories, and the maximum points for each factor are stated below:

Rating factors | Maximum points: LHC * & LHRD ** | Maximum points: LEAP ***
1. Capacity of the Applicant and Relevant Organizational Experience | 20 | 20
2. Need/Extent of the Problem | 20 | 10
3. Soundness of Approach | 40 | 40
4. Matching and Leveraging Resources | 10 | 20
5. Achieving Results and Program Evaluation | 10 | 10
Empowerment Zone, Renewal Zones and Enterprise Community (II), Bonus Points | 2 | 2
Total | 102 | 102
* Lead-Based Paint Hazard Control.
** Lead Hazard Reduction Demonstration.
*** Operation Lead Elimination Action Program.

Section VI. Award Administration Information: Refer to the General Section for Additional Details on Award Administration

A. Award Notices

1. Successful applicants will receive a letter from the Office of Healthy Homes and Lead Hazard Control Grant Officer indicating that they have been selected for an award. This letter will provide additional details regarding the effective start date of the grant and any additional data and information to be submitted to execute a grant agreement. This letter is not an authorization to begin work or incur costs under the grant. A fully executed grant agreement is the authorizing document. Unsuccessful applicants will also be notified that their application was not selected for an award and will be afforded an opportunity to request a debriefing on the unsuccessful application according to the procedures outlined in the General Section.

2. Negotiation. Refer to the General Section for additional details.

3. Adjustments to Funding. Refer to the General Section for additional details.

B. Administrative and National Policy Requirements

Refer to the General Section for additional details regarding the Administrative and National Policy Requirements applicable to HUD Programs.

1. Flood Disaster Protection Act. Under the Flood Disaster Protection Act of 1973 (42 U.S.C. 4001-4128), you may not use these grant funds for lead-hazard control or rehabilitation of a building or manufactured home that is located in an area identified by the Federal Emergency Management Agency (FEMA) as having special flood hazards unless:

a. The community in which the area is situated is participating in the National Flood Insurance Program in accordance with the applicable regulations (44 CFR parts 59-79), or less than a year has passed since FEMA notification regarding these hazards; and

b. Where the community is participating in the National Flood Insurance Program, flood insurance on the property is obtained in accordance with section 102(a) of the Flood Disaster Protection Act (42 U.S.C. 4012a(a)). You are responsible for assuring that flood insurance is obtained and maintained for the appropriate amount and term.

2. National Historic Preservation Act. The National Historic Preservation Act of 1966 (16 U.S.C. 470) and the regulations at 36 CFR part 800 apply to the lead-hazard control or rehabilitation activities that are undertaken pursuant to this NOFA.

3. Waste Disposal. You must handle waste disposal according to the requirements of the appropriate local, state, and federal regulatory agencies. You must handle disposal of wastes from hazard control activities that contain lead-based paint, but are not classified as hazardous in accordance with state or local law or the HUD Guidelines for the Evaluation and Control of Lead-Based Hazards in Housing (HUD Guidelines). The Guidelines are available from the HUD Web site at: http://www.hud.gov/offices/lead/guidelines/hudguidelines/index.cfm.

4. Worker Protection Procedures. You must observe the procedures for worker protection established in the HUD Guidelines, as well as the requirements of the Occupational Health and Safety Administration (OSHA) (29 CFR 1926.62, Lead Exposure in Construction), or the state or local occupational safety and health regulations, whichever are most protective. If other applicable requirements contain more stringent requirements than the HUD Guidelines, the more rigorous standards shall be followed.

5. Davis-Bacon Act. The Davis-Bacon Act does not apply to these programs. However, if you use grant funds in conjunction with other federal programs in which Davis-Bacon prevailing wage rates apply, then Davis-Bacon provisions will apply to the extent required under the other federal programs.

6. Procurement of Recovered Materials. See the General Section for information concerning this requirement.

7. Executive Order 13202. Refer to the General Section.

C. Reporting

Successful applicants will be required to submit quarterly, annual, and final program and financial reports according to the requirements of the Office of Healthy Homes and Lead Hazard Control. Your quarterly, annual and final report must include a completed Logic Model form HUD-96010, approved and incorporated into your award agreement, showing specific outputs and outcome results against those proposed and accepted as part of your approved grant agreement. For specific reporting requirements, see policy guidance: http://www.hud.gov/offices/lead/index.cfm. Specific guidance and additional details will be provided to successful applicants.

Section VII. Agency Contact(s)

For Further Information and Technical Assistance: You may contact Jonnette Hawkins, Director, Program Management and Assurance Division, Office of Healthy Homes and Lead Hazard Control, 451 Seventh Street, SW., Washington, DC 20410-3000, telephone (202) 755-1785, extension 7593 (this is not a toll-free number) facsimile (202) 755-1000, e-mail: Jonnette_G._Hawkins@hud.gov (use underscores). For grants administrative questions, you may contact Ms. Curtissa L. Coleman, Office of Healthy Homes and Lead Hazard Control; telephone (202) 755-1785, extension 7580 (this is not a toll-free number) or via e-mail at Curtissa_L._Coleman@hud.gov. If you are a hearing-or speech-impaired person, you may reach the above telephone number via TTY by calling the toll-free Federal Information Relay Service at 1-800-877-8339.

Section VIII. Other Information

For additional general, technical, and grant program information pertaining to the Office of Healthy Homes and Lead Hazard Control, visit: http://www.hud.gov/offices/lead.

Section IX. Paperwork Reduction Act

The information collection requirements contained in this document have been approved by the Office of Management and Budget (OMB) under the Paperwork Reduction Act of 1995 (44 U.S.C. 3501-3520) and assigned OMB control number 2539-0015. In accordance with the Paperwork Reduction Act, HUD may not conduct or sponsor, and a person is not required to respond to a collection of information unless the collection displays a currently valid OMB control number. Public reporting burden for the collection of information is estimated to average 80 hours per application and 16 hours per annum per respondent for the application and grant administration. This includes the time for collecting, reviewing, and reporting the data for the application, semi-annual reports, and final report. The information will be used for grantee selection and monitoring the administration of funds. Response to this request for information is required in order to receive the benefits to be derived.

BILLING CODE 4210-01-P

Lead Technical Studies and Healthy Homes Technical Studies Programs

Overview Information

A. Federal Agency Name: Department of Housing and Urban Development, Office of Healthy Homes and Lead Hazard Control.

B. Funding Opportunity Title: Lead Technical Studies and Healthy Homes Technical Studies.

C. Announcement Type: Initial announcement.

D. Funding Opportunity Number: The Funding Opportunity Number is: FR-5030-N-29. The OMB Paperwork Approval number is: 2539-0015.

E. Catalog of Federal Domestic Assistance (CFDA) Numbers: 14.902, Lead Technical Studies Grant Program, and 14.906, Healthy Homes Technical Studies Grant Program.

F. Dates: The application deadline date is June 6, 2006. Applications submitted through http://www.grants.gov must be received and validated by grants.gov no later than 11:59:59 pm eastern time on the application deadline date. See the General Section IV, regarding application submission procedures and timely filing requirements.

G. Additional Overview Content Information: 1. Purpose: To fund technical studies to improve existing methods for detecting and controlling lead-based paint and other housing-related health and safety hazards, to develop new methods to detect and control these hazards, and to improve our knowledge of lead-based paint and other housing-related health hazards.

2. Available funding: The total amount to be awarded is approximately $5.75 million, of which approximately $3.75 million is for Lead Technical Studies and approximately $2 million is for Healthy Homes Technical Studies.

3. Anticipated awards: The anticipated amounts and numbers of individual awards for the Lead Technical Studies Program will be approximately 3 to approximately 10 awards, ranging from approximately $200,000 to a maximum of $1 million. The anticipated amounts and number of individual awards for the Healthy Homes Technical Studies Program will be approximately 2 to approximately 5 awards, ranging from approximately $200,000 to a maximum of $1 million. In addition, there will be one award in each technical studies program to correct funding errors made in the fiscal year 2004 Technical Studies NOFAs.

4. Type of awards: Cooperative agreements, with substantial involvement of the government will be awarded (see Paragraph II.C for a description of substantial involvement).

5. Eligible applicants: Academic, not-for-profit and for-profit institutions located in the U.S., state and units of local general government, and federally recognized Native American tribes are eligible to apply. For-profit firms are not allowed to earn a fee (i.e., make a profit from the project).

6. Cost sharing or “matching” is not required; however, applicant “leveraging” contributions are encouraged (see Section V.A.4.d).

7. There is no limit on the number of applications that each applicant may submit.

8. The applications for this NOFA can be found at http://www.grants.gov. The application is an electronic application. You must be registered at http://www.grants.gov to submit your application. Registration is a multi-step process, and HUD recommends that you allow at least 10 days to complete the registration process. The General Section contains information on submission requirements and procedures. Please carefully review the General Section before reading the program section so that you understand the Grants.gov electronic application process.

Full Text of Announcement

I. Funding Opportunity Description

A. Purpose of the Programs

The overall goal of both the Lead and the Healthy Homes Technical Studies programs is to gain knowledge to improve the efficacy and cost-effectiveness of methods for evaluation and control of lead-based paint and other housing related health and safety hazards. This also supports HUD's Strategic Goal to Strengthen Communities and the associated policy priority to Improve Our Nation's Communities by improving the environmental health and safety of families living in public and privately owned housing.

B. Program Description

HUD is funding studies to improve HUD's knowledge of lead-based paint hazards and other housing-related health hazards, and to improve or develop new hazard assessment and control methods, with a focus on the key residential health and safety hazards. Key hazards are discussed in Appendix A of this NOFA. A list of references that serves as the basis for the information provided in this NOFA is provided as Appendix B to this NOFA. Both Appendix A and Appendix B of this NOFA can be found on HUD's Web site at http://www.hud.gov/offices/adm/grants/fundsavail.cfm).

1. General Goals

a. Lead Technical Studies (LTS). The overall goal of the Lead Technical Studies grant program is to gain knowledge to improve the efficacy and cost-effectiveness of methods for evaluation and control of residential lead-based paint hazards.

Through the Lead Technical Studies Program, HUD is working to fulfill the requirements of sections 1051 and 1052 of the Residential Lead-Based Paint Hazard Reduction Act of 1992 (Title X) (42 U.S.C. 4854 and 4854a) which directs HUD to conduct research on topics which include the development of “improved methods for evaluating [and] reducing lead-based paint hazards in housing,” among others.

Brief descriptions of active and previously funded lead technical studies projects can be found on HUD's Web site at http://www.hud.gov/offices/lead/techstudies/index.cfm. Where appropriate, you are strongly encouraged to ensure that your proposed study builds upon HUD-sponsored work that has been previously completed, in addition to other relevant research (i.e., that contained in government reports and in the published literature).

The results of the technical studies will be used in part to update HUD's Guidelines for the Evaluation and Control of Lead-Based Paint Hazards in Housing (Guidelines). For supporting references, including where to find the Guidelines, see Appendix B on HUD's Web site at http://www.hud.gov/offices/adm/grants/fundsavail.cfm.

b. Healthy Homes Technical Studies (HHTS). The overall goals and objectives of the Healthy Home Initiative (HHI), which includes the HHTS Program and the Healthy Homes Demonstration Grant Program (see the Healthy Homes Demonstration Grant Program NOFA published in this SuperNOFA), are to:

(1) Mobilize public and private resources, involving cooperation among all levels of government, the private sector, grassroots community-based organizations, including faith-based organizations, and other non-profit organizations, to develop the most promising, cost-effective methods for identifying and controlling housing-related hazards; and

(2) Build local capacity to operate sustainable programs that will continue to prevent, minimize, and control housing-related hazards in low- and very low-income residences when HUD funding is exhausted.

The HHI departs from the more traditional approach of attempting to correct one hazard at a time. HUD is interested in promoting approaches that are cost-effective and efficient and result in the reduction of health threats for the maximum number of residents, and in particular, low-income children.

In April 1999, HUD submitted a preliminary plan that described the HHI to Congress. The submission (Summary and Full Report), and a description of the HHI are available on the HUD Web site at http://www.hud.gov/offices/lead/hhi/index.cfm.

In addition to deficiencies in basic housing facilities that may impact health, changes in the U.S. housing stock and more sophisticated epidemiological methods and biomedical research have led to the identification of new and often more subtle health hazards in the residential environment (e.g., asthma triggers). While such hazards will tend to be found disproportionately in housing that is substandard (e.g., structural problems, lack of adequate heat, poor maintenance, etc.), such housing-related environmental hazards may also exist in housing that is otherwise of good quality. Appendix A of this NOFA briefly describes the key housing-associated health and injury hazards HUD considers targets for intervention. HUD has also developed resource papers on a number of topics of importance under the HHI, including mold, environmental aspects of asthma, carbon monoxide, and unintentional injuries. These resource papers can be downloaded at http://www.hud.gov/offices/lead/hhi.

Brief descriptions of current and recently completed Healthy Homes Technical Studies projects and grantee contact information can be found on the HUD Web site at http://www.hud.gov/offices/lead/hhi/hhigranteeinfo.cfm.

2. Community Participation

HUD believes that it is important for researchers to incorporate some aspect of meaningful community participation in the development and implementation of studies that are conducted in communities and/or involve significant interaction with community residents. Community participation can improve study effectiveness in various ways, including the development of more appropriate research objectives, improving recruitment and retention of study participants, improving participants' involvement in and understanding of the study, improving ongoing communication between researchers and the affected community, and more effectively disseminating study findings. HUD encourages applicants to consider using a “community based participatory research (CBPR)” approach, where applicable, in study design and implementation. (See e.g., the report published by the National Institute of Environmental Health Sciences titled “Successful Models of Community-Based Participatory Research” at: http://www.niehs.nih.gov/translat/pubs.htm). CBPR is characterized by substantial community input in all phases of a study (i.e., design, implementation, data interpretation, conclusions, and communication of results).

C. Authority

The lead technical studies program is authorized under sections 1011(g)(1), 1011(o), and 1051-1053 of the Residential Lead Based Paint Hazard Reduction Act of 1992 (Title X of the Housing and Community Development Act of 1992, 42 U.S.C. 4851 et seq.). The Healthy Homes technical studies program is authorized under sections 501 and 502 of the Housing and Urban Development Act of 1970 (12 U.S.C. 1701z-1 and 1701z-2). Fiscal Year 2006 funds for both programs are authorized under Public Law 109-115, 119 Stat. 2396, approved November 30, 2005.

II. Award Information

A. Funding Available

Approximately $3.75 million in fiscal year 2006 funds is available for Lead Technical Studies. In addition, HUD will award a grant for $745,471 in fiscal year 2005 funds to the Regents of the University of California, Irvine, 300 University Towers, Irvine, CA 92697-7600, to resolve a funding error under the fiscal year 2004 Lead Technical Studies Program NOFA, in accordance with Sec. VI.A.3 of the fiscal year 2004 General Section. Approximately $2 million is available for Healthy Homes Technical Studies, of which HUD will award $829,880 to Advanced Energy, 909 Capability Drive, Suite 2100, Raleigh, NC 27606, to resolve a funding error under the fiscal year 2004 Healthy Homes Technical Studies Program NOFA, in accordance with Sec. VI.A.3 of the fiscal year 2004 General Section. Cooperative agreements will be awarded on a competitive basis following evaluation of all eligible proposals according to the rating factors described in Section V.A.4 of this NOFA. HUD anticipates that approximately three to ten awards will be made for the Lead Technical Studies Program, and that 2 to 5 awards will be made for the Healthy Homes Technical Studies Program with awards ranging from approximately $200,000 to no more than $1 million for each program. Applications for additional work related to existing HUD-funded technical studies (i.e., for work outside of the scope of the original agreement) are eligible to compete with applications for new awards. These applications will be evaluated in the same manner as new applicants.

B. Anticipated Start Date and Period of Performance for New Grants

The start date for new awards is expected to be October 1, 2006. The period of performance cannot exceed 36 months from the time of award. The proposed performance period should include adequate time for project components such as the Institutional Review Board process, if required, the recruitment of new staff and/or study participants, and the development of new instrumentation or methods (e.g., analytical methods), all of which have been found to delay projects in the past. Period of performance extensions for delays due to exceptional conditions beyond the grantee's control will be considered for approval by HUD in accordance with 24 CFR 85.25(d)(2) or 85.30(e)(2), as applicable, and the OHHLHC Program Guide. If approved, grantees will be eligible to receive a single extension of up to 12 months in length. Applicants are encouraged to plan studies with shorter performance periods than 36 months; however, when developing your schedule, you should consider the possibility that issues may arise that could cause delays.

C. Type of Award Instrument

Awards will be made as cooperative agreements. Anticipated substantial involvement by HUD staff for cooperative agreements may include, but will not be limited to:

1. Review and suggestion of amendments to the study design, including: Study objectives; field sampling plan; data collection methods; sample handling and preparation; and sample and data analysis.

2. Review and provision of technical recommendations in response to quarterly progress reports (e.g., amendments to study design based on preliminary results).

3. Review and provision of technical recommendations on the journal article(s) and final study report (including electronic format for submission of research data).

4. Requirements for peer review of scientific data in accord with the Office of Management and Budget Information Quality Guidelines. All HUD-sponsored research is subject to the OMB Final Information Quality Bulletin for Peer Review (70 FR 2664-2677, January 14, 2005) prior to its public dissemination. In accordance with paragraph II.2 of the Bulletin, HUD will not need further peer review conducted on information that has already been subjected to adequate peer review. Therefore grantees must provide enough information on their peer review process for HUD to determine whether additional review is needed.

III. Eligibility Information

A. Eligible Applicants

Academic and not-for-profit institutions located in the U.S., state and units of local general government, and federally recognized Native American tribes are eligible under all existing authorizations. For-profit firms also are eligible; however, they are not allowed to earn a profit from the project. Applications to supplement existing projects are eligible to compete with applications for new awards. Federal agencies are not eligible to submit applications. The General Section identifies threshold requirements that must be met for an organization to receive an award.

B. Cost Sharing or Matching

Cost sharing or matching is not required. In rating your application, however, you will receive a higher score under Rating Factor 4 if you provide evidence of significant leveraging.

C. Eligible Activities

1. Lead Technical Studies

HUD is interested in the following lead technical studies topics:

a. Development of alternative or improved clearance methods. The clearance of a dwelling following lead hazard control activities is achieved by collecting dust-wipe samples following a standard protocol, with subsequent analysis of the samples by a laboratory recognized under the National Lead Laboratory Accreditation Program (NLLAP). Lead hazard control costs could be reduced if immediate clearance results could be obtained in the field. Existing techniques that can be used to analyze dust samples in the field include the use of portable X-ray fluorescence (XRF) analyzers and anodic stripping voltammetry (ASV) instruments. It is theoretically possible to also employ colorimetric methods to analyze clearance samples. These techniques can be used in a screening context in which a “failure” would indicate the need for additional cleaning before definitive clearance wipe samples are collected for analysis by an appropriate laboratory. It is possible for an organization using a field-based technology to achieve recognition as a portable laboratory under NLLAP; however, it is HUD's understanding that, to date, this has not been done. HUD is interested in funding research that improves the performance of portable analytical technologies for lead dust-wipe analysis with the ultimate goal of improving the feasibility for such technologies to be used to conduct definitive analyses in the field.

HUD has funded research for the on-site use of X-ray Fluorescence (XRF) for dust wipe lead analysis and does not intend to fund additional work on this topic through this NOFA.

b. Reducing exterior soil and dust-lead hazards. Studies have shown that lead in exterior dust and soil can be an important source of lead exposure to young children, both through direct contact and indirectly when tracked or blown into the home. HUD has funded several studies that have assessed approaches to reducing the risk posed by this large environmental lead reservoir. Examples of these studies have focused on the following topics: reducing the bioavailability (as determined using in vitro testing) of lead in soil through the addition of composted biosolids or other additives; reducing soil hazards in urban yards through targeted landscaping (e.g., raised beds, improving ground cover); reducing exterior dust-lead levels through exterior building treatments and street and sidewalk cleaning; and reducing surface soil-lead hazards by overlaying clean soil with grass cover (see, e.g.: Binns et al., 2004 and Farfel et al., 2005 in Appendix B).

Additional study is needed to assess the long-term effectiveness of interim controls to reduce soil and exterior dust-lead hazards. Research is also needed to develop interim controls and strategies for exterior dust and soil that are reasonable in cost, feasible to implement, and which do not require frequent maintenance to retain their effectiveness. Also, the relationship between control of soil lead hazards and interior dust lead levels has not been adequately described.

c. Effectiveness of Ongoing Maintenance Program Activities in Controlling Lead-Based Paint Hazards. There are few studies directly assessing the effectiveness of ongoing lead-based paint maintenance programs. HUD is interested in evaluating the effectiveness and feasibility of ongoing lead-based paint maintenance programs, identifying program components for which particular implementation difficulties exist, and evaluating proposed measures for overcoming those difficulties. Such an evaluation of program components could address whether and how technically-acceptable and cost-effective work practices are selected and implemented, how effectively supervisors monitor work activities to ensure that lead-based paint hazards are controlled and that dust and debris are contained and cleaned up during and after work, and how well clearance procedures (including necessary re-cleaning) are integrated into the maintenance program, among other factors.

d. Use of Available Databases to Evaluate the Efficacy of Lead Hazard Control Activities. Public databases can be used to help target and assess the effectiveness of lead hazard control activities. Examples of this include the use of census data to identify neighborhoods that are at high risk for lead poisoning (e.g., age and value of housing used in combination with indicators of socioeconomic status) and the use of blood-lead screening data to target dwellings that have been associated with repeated identification of resident children with elevated blood-lead levels. Geographic Information Systems (GIS) have also been successfully used as a tool to help target high-risk housing. At a broader level, serial blood-lead screening data could be used to assess the effectiveness of lead hazard control activities or laws that require lead hazard control treatments in high risk housing (e.g., by comparing community screening results before and after laws were enacted while accounting for the overall downward trend in blood lead levels). HUD is interested in studies that assess effective and creative uses of public databases to improve the efficacy of lead hazard control programs (e.g., targeting neighborhoods), assess the effectiveness of enforcement and lead hazard control activities and regulations, and other uses of these data that further the goal of improving methods for the identification and control of residential lead-based paint hazards. Applicants proposing projects under this topic area should focus primarily on the use of existing data as opposed to the collection of new data through field activities. An applicant must demonstrate why the collection of any new data is important in the context of a proposed study (e.g., to validate a model developed using publicly available data) and that there is a limited amount of new data being collected.

e. Other Focus Areas that are Consistent with the Overall Goals of HUD's Lead Technical Studies Program. HUD will consider funding applications for technical studies on other topics that are consistent with the overall goals and objectives of the LTS program, as described above. In such instances, for an applicant to receive an award, it is necessary that the applicant describe in sufficient detail how the proposed study is consistent with the overall lead technical studies program goals and objectives.

Note: A limited amount of lead hazard control activities, which are construction as opposed to research, may be conducted as part of a project (see Section IV.E.8 of this NOFA).

2. Healthy Homes Technical Studies

HUD hopes to advance the recognition and control of residential health and safety hazards and more closely examine the link between housing and health. The overall objectives of the HHTS studies projects to be funded through this NOFA include, but are not limited to:

a. Development and evaluation of low-cost test methods and protocols for identification and assessment of housing-related hazards;

b. Development and assessment of cost-effective methods for reducing or eliminating housing-related hazards;

c. Evaluation of the effectiveness of housing interventions and public education campaigns, and barriers and incentives affecting future use of the most cost-effective strategies;

d. Investigation of the epidemiology of housing-related hazards and illness and injuries associated with these hazards, with an emphasis on children's health;

e. Evaluation of residential health and safety hazard assessment and control methodologies and approaches (including both existing methods and the evaluation of improved or novel approaches);

f. Analysis of existing data or justified generation of limited new data to improve knowledge regarding the prevalence and severity of specific hazards in various classes of housing, with a focus on low-income housing. Specific examples include:

(1) The prevalence of carbon monoxide and other indoor air quality hazards;

(2) The prevalence and patterns of moisture problems and biological contaminants associated with excess moisture (e.g., fungi, mold, bacteria, dust mites);

(3) The prevalence of specific childhood injury hazards in housing; and

(4) Improved understanding of the relationship between a residential exposure and childhood illness or injury.

Applicants that propose this type of study should discuss how the knowledge that is gained from the study could be used in a program to reduce these hazards in target communities.

g. Low-cost analytical techniques and instruments for the rapid, on- and off-site determination of environmental contaminants of concern (e.g., bioaerosols, pesticides, allergens). HUD's primary interest is in the improvement of existing instruments or methods, and not in the development of new technologies or instruments. The OHHLHC has noted that these types of studies pose a high risk of experiencing significant delays. Applicants seeking to develop new technologies/instruments should discuss why, if funded, their proposed project would be unlikely to experience significant delays in its completion.

h. Objectives of particular interest to HUD include:

(1) Improving or assessing the efficacy of current methods for residential Integrated Pest Management (IPM). IPM approaches focus on the use of economical means for managing pests, which incorporate information on the life cycles of pests and their interaction with the environment, while minimizing hazards to people, property, and the environment. HUD is particularly interested in IPM methods for reducing cockroach and/or rodent populations in multifamily housing, with an emphasis on low-income housing.

(2) Controlling excess moisture by reducing migration through the building envelope and condensation of water vapor on interior surfaces, with an emphasis on low-cost interventions for low-income housing;

(3) Improving indoor air quality, such as through cost-effective approaches to upgrading residential ventilation or improving control/management of combustion appliances. Applicants should discuss how proposed approaches might affect residential energy costs (e.g., increasing air exchange rates resulting in an increase in heating costs);

(4) Dust control measures (e.g., preventing track-in of exterior dust and soil, improved methods for interior dust cleaning) have been identified as key areas in the HHI Preliminary Plan;

(5) Evaluating the effectiveness of education and outreach methods designed to provide at-risk families with the knowledge to adopt self-protective behaviors with respect to housing-related health hazards.

(6) Other Focus Areas that are Consistent with the Overall Goals of HUD's Healthy Homes Technical Studies Program. HUD will consider funding applications for technical studies on other topics that are consistent with the overall goals and objectives of the HHTS program, as described above. In such instances, for an applicant to receive an award, it is necessary that the applicant describe in sufficient detail how the proposed study is consistent with the overall healthy homes technical studies program goals and objectives.

i. General Information. In proposing to conduct a study on a particular topic, applicants should consider:

(1) The “fit” of the proposed hazard assessment and/or control methods within the overall goal of addressing “priority” health and safety hazards in a cost-effective manner;

(2) The efficacy of the proposed methods for hazard control and risk reduction (e.g., how long is effective hazard reduction maintained);

(3) Where and how these methods would be applied and tested, and/or perform demonstration activities; and

(4) The degree to which the study will help develop practical, widely applicable methods and protocols or improve our understanding of a residential health hazard.

Applications for a study for which the sole or primary focus is on lead-based paint hazards are ineligible for funding under the HHTS program. Such studies should be submitted for funding under the Lead Technical Studies Program.

Applicants should consider the efficiencies that might be gained by working cooperatively with one or more recipients of HUD's Healthy Homes Demonstration and/or Lead Hazard Control grants, which are widely distributed throughout the U.S. Information on current grantees is available at hhtp://www.hud.gov/offices/lead.

You may address one or more of the technical studies topic areas within your proposal, or submit separate applications for different topic areas.

Note: A limited amount of hazard control activities, which are construction as opposed to research, may be conducted as part of an HHTS project (see Section IV.E.8 of this NOFA).

D. Other

1. Threshold Requirements Applicable to all Applicants.

To be scored and ranked under the Rating Factors, and thus be eligible to receive funds from HUD, you must meet all of the threshold requirements described in the General Section. Threshold requirements include Eligibility, Compliance with Fair Housing and Civil Rights Laws, Conducting Business in Accordance with Core Values and Ethical Standards, Delinquent Federal Debts, and Pre-Award Accounting System Surveys.

2. Program Requirements.

The following requirements are applicable to both Healthy Homes Technical Studies and Lead Technical Studies Programs:

a. Program Performance. Grantees shall take all reasonable steps to accomplish all activities within the approved period of performance. HUD reserves the right to terminate the grant prior to the expiration of the period of performance if the grantee fails to make reasonable progress in implementing the approved program of activities or fails to comply with the terms of the grant agreement.

b. Regulatory Compliance. Grantees must comply with all relevant federal, state, and local regulations regarding exposure to and proper disposal of hazardous materials.

c. Blood Lead Testing. Any blood lead testing, blood lead level test results, medical referral, or follow-up for children under six years of age will be conducted according to the recommendations of the Centers for Disease Control and Prevention (CDC), Preventing Lead Poisoning in Young Children (see Appendix B of this NOFA).

d. Restricted Use of Funds. HUD technical studies grant funds will not replace existing resources dedicated to any ongoing project.

e. Laboratory Analysis for Lead. Laboratory analysis covered by the NLLAP will be conducted by a laboratory recognized under the program.

f. Human Research. Human research subjects will be protected from research risks in conformance with Federal Policy for the Protection of Human Subjects, required by HUD at 24 CFR 60.101, which incorporates the Department of Health and Human Services (DHHS) Protection of Human Subjects regulation at 45 CFR part 46.

g. OSHA Compliance. The requirements of the Occupational Safety and Health Administration (OSHA) (e.g., 29 CFR part 1910 and/or 1926, as applicable) or the state or local occupational safety and health regulations, whichever are most stringent, will be met;

h. Civil Rights. The institution administering the grant must meet the civil rights threshold set forth in the General Section.

i. Disclosure. All test results and other information in pre-1978 housing related to lead-based paint or lead-based paint hazards must be provided to the owner of the unit, together with a statement describing the owner's legal duty to disclose the knowledge of lead-based paint and its hazards to tenants (before initial leasing, or before lease renewal with changes) and buyers (before sale) (24 CFR Part 35, subpart A). Disclosure of other identified housing-related health or safety hazards to the owner of the unit, for purposes of remediation, is encouraged but not required.

j. Privacy. Submission of any information on the properties to databases (whether web site, computer, paper, or other format) of addresses of identified, treated or cleared housing units is subject to the protections of the Privacy Act of 1974, and shall not include any personal information that could identify any child affected. You should also check to ensure you meet state privacy regulations.

k. Applicants must incorporate meaningful community involvement into any study that requires a significant level of interaction with a community during implementation (e.g., projects being conducted within occupied dwellings or which involve surveys of community residents). The term community refers to a variety of populations comprised of persons who have commonalities that can be identified (e.g., based on geographic location, ethnicity, health condition, common interests). Applicants should identify the community that is most relevant to their particular project. There are many different approaches to involving the community in the conception, design, and implementation of a study and the subsequent dissemination of findings. Examples include but are not limited to: establishing a structured approach to obtain community input and feedback (e.g., through a community advisory board); including one or more community-based organizations as study partners; employing community residents to recruit study participants and collect data; and enlisting the community in the dissemination of findings and translation of results into improved policies and/or practices. A discussion of community involvement in research involving housing-related health hazards can be found in Chapter 5 of the Institute of Medicine publication titled “Ethical Considerations for Research on Housing-Related Health Hazards Involving Children” (see Appendix B for more information on this report).

l. Economic Opportunities for Low- and Very Low-Income Persons (Section 3). This program is subject to the requirements of Section 3 of the Housing and Urban Development Act of 1968 (12 U.S.C. 1701u). Section 3 requires recipients to ensure that, to the greatest extent feasible, training, employment, and other economic opportunities will be directed to low- and very low-income persons, particularly those who are recipients of government assistance for housing, and to businesses which provide economic opportunities to low- and very low-income persons. The regulations may be found at 24 CFR part 135.

m. Standardized Dust Sampling Protocol and Quality Control Requirements. Grantees collecting samples of settled dust from participant homes for environmental allergen analyses (e.g., cockroach, dust mite) will be required to use a standard dust sampling protocol, unless there is a strong justification to use an alternate protocol (e.g., the study involves the development of an alternative sampling method). The HUD protocol can be found on the OHHLHC website at: http://www.hud.gov/offices/lead/hhi/hhiresources.cfm. Grantees conducting these analyses will also be required to include quality control dust samples, provided by OHHLHC at no cost to the grantee, with the samples that are submitted for laboratory analyses. For the purpose of budgeting laboratory costs, you should assume that five percent of your total allergen dust samples would consist of QC samples.

3. DUNS Requirement.

Refer to the General Section for information regarding the DUNS requirement. A DUNS number must be provided for the institution that is submitting an application. Your DUNS number must be included in your electronic application submission. Be sure to use the DUNS number that you have registered as an Authorized Organization Representative (AOR) with Grants.gov and that your eBusiness Point of Contact has authorized you to submit an application on behalf of the applicant organization (see the General Section for details about the Grants.gov registration process).

IV. Application and Submission Information

If you are interested in applying for funding under this program, please review carefully the General Section and the following additional information.

A. Addresses To Request Application Package

All the information required to submit an application is contained in the program section of this NOFA and the General Section. Applications can be downloaded from the Web at: https://apply.grants.gov/forms_apps_idx.html http://www.grants.gov/ APPLY. If you have difficulty accessing the information you may call the Grants.gov helpline toll-free at (800) 518-GRANTS (4726) from Monday to Friday from 7 a.m. to 9 p.m. eastern time, or send an e-mail to Support@grants.gov.

B. Content and Form of Application Submission

1. Applicant Data. Your application must contain the items listed in this section. These items include the standard forms contained in the General Section that are applicable to this funding announcement (collectively referred to as the “standard forms”). Copies of these forms are available on line at http://www.hud.gov/offices/adm/grants/nofa06/nofaforms.cfm. The required items are:

a. Application Abstract. An abstract with the project title, the names and affiliations of all investigators, and a summary of the objectives, expected results, and study design (two-page maximum) must be included in the proposal.

b. All forms as required by the General Section. However, forms HUD-2991 (Certification of Consistency with the Consolidated Plan) and HUD-27061 (Race and Ethnicity Data) are not required with the application for these programs.

c. Materials Submitted. A project description/narrative statement addressing the rating factors for award under the program (LTS or HHTS) for which you are applying. The narrative statement must be identified in accordance with each factor for award (Rating Factors 1 through 5). Number the pages of your narrative statement and include a header and a footer that provides the name of the applicant and the name of the HUD program to which you are applying. The project description or narrative must be included in the responses to the rating factors. The response to the rating factors should not exceed a total of 25 pages, single-sided, with a minimum 12-point font. Any pages in excess of this limit will not be read. The points you receive for each Rating Factor will be based on the portion of your narrative statement that you submit in response to that particular factor, supplemented by any appendices that are referenced in your response and discussed in that portion of your narrative statement. Supporting materials that are not referenced or discussed in your responses to the individual rating factors will not be considered. Additional materials (e.g., appendices) must be submitted with your application according the directions in the General Section. The footer on the pages of these materials should accurately describe the Factor that they are supporting.

d. Evidence of leveraging/partnerships. You should provide evidence of leveraging/partnerships by submitting the following with your application: Letters of firm commitment; memoranda of understanding; and/or agreements to participate by those entities identified as partners in the project efforts. Each document of commitment must include the organization's name, proposed level of commitment (with monetary value) and responsibilities as they relate to specific activities or tasks of your proposed program. The commitment must also be signed by an official of the organization legally able to make commitments on behalf of the organization.

e. Institutional Review Boards. In conformance with the Common Rule (Federal Policy for the Protection of Human Subjects, codified by HUD at 24 CFR part 60.101, which incorporates the DHHS regulation at 45 CFR part 46), if your research involves human subjects, your organization must provide an assurance (e.g., a letter signed by an appropriate official) that the research has been reviewed and approved by an Institutional Review Board (IRB) before you can initiate activities that require IRB approval. To be eligible for these funds, before initiating such activities you must also provide the number for your organization's assurance (i.e., an “institutional assurance”) that has been approved by the Department of Health and Human Service's Office for Human Research Protections (OHRP). For additional information on what constitutes human subject research or how to obtain an institutional assurance see the OHRP Web site at http://www.hhs.gov/ohrp/.

f. Supporting Materials. Include the resumes of the principal investigator and other key personnel and other materials that are needed in your response to the rating factors (e.g., organizational chart, letters of commitment, a list of references cited in your responses to the rating factors). Each resume shall not exceed three pages, and is limited to information that is relevant in assessing the qualifications and experience of key personnel to conduct and/or manage the proposed technical studies. This information will not be counted towards the Rating Factors narrative 25-page limit.

g. Additional Information. Submit other optional information provided in support of your application following the directions in the General Section. These additional optional materials must not exceed 20 pages. Any pages in excess of this limit will not be read. h. Budget. Include a total budget with supporting cost justification for all budget categories of the federal grant request. Use the budget format discussed in Rating Factor 3, Section V.A.4.c, below. In completing the budget forms and justification, you should address the following elements:

(1) Direct Labor costs, including all full- and part-time staff required for the planning and implementation phases of the project. These costs should be based on full time equivalent (FTE) or hours per year (hours/year) (i.e., one FTE equals 2,080 hours/year);

(2) Allowance for one trip to HUD Headquarters in Washington, DC, for each year of your grant, planning each trip for two people. The first trip will occur shortly after grant award for a stay of two or three days, depending on the location, and the remaining trips will have a stay of one or two days, depending on the location;

(3) A separate budget proposal for each subrecipient receiving more than 10 percent of the total federal budget request;

(4) Supporting documentation for salaries and prices of materials and equipment, upon request; and

(5) Indirect Cost Rates. Organizations that have a federally negotiated indirect cost rate should use that rate and the appropriate base. The documentation will be verified during award negotiations. Organizations that do not have a federally negotiated rate schedule must obtain a rate from their cognizant federal agency, otherwise the organization will be required to obtain a negotiated rate through HUD.

Checklist for Technical Studies Program Applicants

Item

(1) Applicant Abstract (limited to a 2-pages).

(2) Rating Factor Responses (Total narrative response limited to 25 pages).

(a) Capacity of the Applicant and Relevant Organizational Experience (22 points).

(b) Need/Extent of the Problem (15 points).

(c) Soundness of Approach (45 points).

(d) Leveraging Resources (8 points).

(e) Achieving Results and Program Evaluation (10 points).

(3) Required materials in response to rating factors (does not count towards 25-page limit).

(a) Resumes of Key Personnel (limited to 3 pages per resume).

(b) Organizational Chart.

(c) Letters of Commitment (if applicable)—Letters of commitment should include language defining the activities to be performed, the contributions to be made, and the monetary value of each.

Note: HUD recommends against including letters of support that do not commit services, materials, or funds; they will not add to the consideration of your application.

(4) Optional material in support of the Rating Factors (20 page limit).

(5) Required Forms and Budget Material.

(a) Form SF 424 (Application for Federal Assistance).

(b) Form HUD-424-CBW (Budget Worksheet).

(c) Form HUD-96010 (Logic Model Form).

(d) Form SF 424 Supplement (Survey on Ensuring Equal Opportunity for Applicants) (to be completed by private nonprofit organizations only).

(e) Form SF LLL (Disclosure of Lobbying Activities, if applicable).

(f) Form HUD-2880 (Applicant/ Recipient Disclosure/Update Report)

(g) Form HUD-2990 (Certification of Consistency with the RC/EZ/EC-II Strategic Plan, required only for applicants who are seeking these bonus points).

(h) Form HUD 2994-A (You Are Our Client Grant Applicant Survey, Optional).

(i) Form HUD-96011 (Facsimile Transmittal, for electronic applications) (Used as the cover page to transmit third party documents and other information designed for each specific application for tracking purposes. HUD will not read faxes that do not use the HUD-96011 as the cover page to the fax).

C. Submission Dates and Times

Electronic applications must be received and validated by Grants.gov on or before 11:59:59 p.m. eastern time on June 6, 2006. All narrative files and any scanned documents must be submitted as a single zip file attachment to the electronic application. Refer to the General Section for specific application submission instructions including acceptable submission dates, times, methods, acceptable proof of application submission and receipt procedures, and other information regarding application submission. Materials associated with your electronic application submitted by facsimile transmission must also be received by 11:59:59 p.m. eastern time on the application deadline date. See the General Section for information on how to submit third party letters and other documents as part of your electronic submission utilizing form HUD-96011, Facsimile Transmittal.

D. Intergovernmental Review

This NOFA is excluded from the requirement of an Intergovernmental Review.

E. Funding Restrictions

1. Administrative Costs. There is a 10 percent maximum allowance for administrative costs. Additional information about allowable administrative costs is provided in Appendix C of this NOFA, which is available at: http//www.hud.gov/offices/adm/grants/fundsavail.cfm.

2. Purchase of Real Property. The purchase of real property is not an allowable cost under this program.

3. Purchase or Lease of Equipment. The purchase or lease of equipment having a per unit cost in excess of $5,000 is not an allowable cost, unless prior written approval is obtained from HUD.

4. Medical treatment. Medical treatment costs are not allowable under this program.

5. Profit. For profit institutions are not allowed to earn a profit.

6. You must comply with the Coastal Barrier Resources Act (16 U.S.C. 3501).

7. You may not conduct lead-based paint or healthy home hazard control activities or related work that constitutes construction, reconstruction, repair or improvement (as referenced in Section 3(a)(4) of the Flood Disaster Protection Act of 1973 (42 U.S.C. 4001-4128)) of a building or mobile home which is located in an area identified by the Federal Emergency Management Agency (FEMA) as having special flood hazards unless:

a. The community in which the area is situated is participating in the National Flood Insurance Program in accordance with the applicable regulations (44 CFR parts 59-79), or less than a year has passed since FEMA notification regarding these hazards; and

b. Where the community is participating in the National Flood Insurance Program, flood insurance on the property is obtained in accordance with section 102(a) of the Flood Disaster Protection Act (42 U.S.C. 4012a(a)). You are responsible for assuring that flood insurance is obtained and maintained for the appropriate amount and term.

8. Construction activities. The amount of HUD technical studies grant funds used for lead-based paint hazard control activities may not exceed 10% of the total HUD funds awarded under the LTS application. The amount of HUD technical studies grant funds used for construction activities may not exceed 50% of the of the total HUD funds awarded under the HHTS application.

F. Other Submission Requirements

1. Application Submission and Receipt Procedure. Please read the General Section carefully and completely for the electronic submission and receipt procedures for all applications because failure to comply may disqualify your application.

2. Waiver of Electronic Submission Requirements. Applicants must submit their request to waive the electronic application requirement at least 30 days before the submission deadline date by e-mail to OHHLHC_2006_NOFA@hud.gov or by fax to (202) 755-1000. The submission must address all items identified in the General Section. HUD will provide its decision regarding the request. If you are granted a waiver of the electronic application submission, the program office will provide instructions for submission. HUD will only accept alternate submissions from applicants whose waiver request was granted that are received no later than 11:59:59 pm eastern time on the application deadline date. The applicant must retain documentation to prove its waiver request was actually received by HUD (e.g., FAX transmittal report showing telephone number dialed and number of pages successfully transmitted).

V. Application Review Information

A. Criteria

1. Threshold Requirements. Applications that meet all of the threshold requirements will be eligible to be scored and ranked, based on the total number of points allocated for each of the rating factors described in Section V.A.4 of this NOFA. Your application must receive a total score of at least 75 points to remain in consideration for funding.

2. Award Factors. Each of the five factors is weighted as indicated by the number of points that are assigned to it. The maximum score that can be attained is 102 points. Applicants should be certain that each of these factors is adequately addressed in the project description and accompanying materials.

Applicants are eligible to receive up to two bonus points for projects located within federally designated Renewable Communities (RCs), Empowerment Zones (EZs), or Enterprise Communities (ECs) designated by USDA in round II (EC-IIs) (collectively referred to as RC/EZ/EC-IIs), and which will serve the residents of these communities (see the General Section). In order to be eligible for these bonus points, applicants must meet the requirements of the General Section and submit a completed form HUD-2990, with descriptive language in the budget discussion describing the actual work that is to be done in these communities.

3. Rating Factors. a. Rating Factor 1: Capacity of the Applicant and Relevant Organizational Experience (22 Points). This factor addresses the extent to which you have the ability and organizational resources necessary to successfully implement your proposed activities in a timely manner. The rating of your application will include any sub-grantees, consultants, sub-recipients, and members of consortia that are firmly committed to the project (generally, “subordinate organizations”). In rating this factor, HUD will consider the extent to which your application demonstrates:

(1) The capability and qualifications of the principal investigator and key personnel (14 points). HUD will assess the qualifications of these people to carry out the proposed study as evidenced by academic background, relevant publications, and recent (within the past 10 years) relevant research experience. Publications and research experience are considered relevant if they required the acquisition and use of knowledge and skills that can be applied in the planning and execution of the technical study that is proposed under this NOFA; and

(2) Past performance of the study team in managing similar projects (8 points). HUD will evaluate your demonstrated ability to successfully manage various aspects of a complex technical study in such areas as logistics, study personnel management, data management, quality control, community study involvement (if applicable), and report writing, as well as overall success in project completion (i.e., projects completed on time and within budget). You should also demonstrate that your project would have adequate administrative support, including clerical and specialized support in areas such as accounting and equipment maintenance.

If applicable, provide the number and title of current and past OHHLHC grants as well as past performance of the organization (applicant or partners) on other grant(s) or project(s) related to environmental health and safety issues, or other experience in a similar program. Provide details about the nature of the project, the funding agency, and your performance (e.g., timely completion, achievement of desired outcomes). If your organization has an active OHHLHC grant or cooperative agreement, provide a description of the progress and outcomes achieved under that award. (This may include an updated logic model.)

If you completed one or more HUD-funded Technical Studies grants, your performance will be evaluated in terms of achievements made under the previous grant(s).

b. Rating Factor 2: Need/Extent of the Problem (15 Points). This factor addresses the extent to which there is a need for your proposed technical study. In responding to this factor, you should document in detail how your project would make a significant contribution towards achieving some or all of HUD's stated goals and objectives for one or more of the topic areas described in Section I.B.1.a (LTS) or I.B.1.b (HHTS), as appropriate for the program to which you are applying. For example, you should demonstrate how your proposed study addresses a need with respect to the development of improved methods for the assessment and control of residential lead-based paint hazards or addresses a need associated with an important housing-related health hazard, with an emphasis on children's health. This is especially important for applicants that are proposing to study a lead or healthy homes topic that is not highlighted as a priority area by HUD in section I.C of this NOFA; such applicants that do not provide supporting language to demonstrate this will not receive points under this rating factor. Specific topics to be addressed for this factor include (five points for each item):

(1) A concise review of the research need that is addressed in your study and why it is high priority with respect to the program. For HHTS applicants, include available documented rates of illness or injury associated with the hazard or hazards that you are addressing, including local, regional, and national data, as applicable.

(2) A discussion of how your proposed project would significantly advance the current state of knowledge for your focus area, especially with respect to the development of practical solutions.

(3) A discussion on how you anticipate your study findings will be used to improve current methods for assessing or mitigating the hazards under study. Indicate why the method/protocol that would be improved through your study would likely be widely adopted (e.g., low cost, easily replicated, lack of other options).

c. Rating Factor 3: Soundness of Approach (45 Points). This factor addresses the quality of your proposed technical study plan. Specific components include:

(1) Soundness of the study design (22 points). The project description/study design must be thorough and feasible, and reflect your knowledge of the relevant scientific literature, which should be thoroughly cited in your application. You should clearly describe how your study builds upon the current state of knowledge for your focus area. If possible, your study should be designed to address testable hypotheses that are clearly stated. Your study design should be statistically based with adequate power to test your stated hypotheses. The study design should be presented as a logical sequence of steps or phases with individual tasks described for each phase. You should identify any important “decision points” in your study plan and you should discuss plans for data management, analysis and archiving. HUD has observed that studies can miss targeted performance timelines because of delays in the IRB approval process or unexpected difficulties with recruiting study participants. If applicable, describe actions that you will take to minimize the possibility that your study would experience delays in these areas (e.g., understanding likely IRB requirements in advance, planning on additional avenues for recruitment).

If you are proposing to conduct a study that includes a significant level of community interaction (e.g., studies involving participant recruitment, survey research, environmental sampling on private property), describe your plan for meaningful involvement of the affected community in your proposed study. You should define the community of interest with respect to your proposed study and discuss why your proposed approach to community involvement will make a meaningful contribution to your study and to the community.

(2) Policy Priorities (5 points). Indicate if your proposed study will address any of the FY 2006 policy priorities that are applicable to this NOFA (see the General Section for additional details regarding these policy priorities). You will receive one point under Rating Factor 3(2) for each of the applicable FY 2006 policy priorities that are found in the General Section and applicable to the Technical Studies NOFA that are adequately addressed in your application, with the exception of “Removal of Barriers to Affordable Housing,” for which you can receive up to two points (see the General Section). Policy priorities that are applicable to the Lead Technical Studies Program NOFA are: (1) Improving our Nation's Communities (focus on distressed communities); (2) Providing Full and Equal Access to Grass-Roots Faith-based and other Community-based Organizations in HUD Program Implementation; (3) Participation of Minority -Serving Institutions in HUD Programs, and (4) Removal of Barriers to Affordable Housing.

(3) Quality assurance mechanisms (8 points). You must describe the quality assurance mechanisms that will be integrated into your project design to ensure the validity and quality of the results. Applicants that receive awards will be required to submit a Quality Assurance Plan to HUD (see paragraph VI.C.2).

(a) Areas to be addressed include, but are not limited to: Acceptance criteria for data quality, procedures for selection of samples/sample sites, sample handling, measurement and analysis, pre-testing and validation of questionnaires or surveys, measures to ensure accuracy during data management, and any standard/nonstandard quality assurance/control procedures to be followed. Documents (e.g., government reports, peer-reviewed academic literature) that provide the basis for your quality assurance mechanisms should be cited.

(b) If your project involves human subjects in a manner that requires IRB approval and periodic monitoring, address how you will obtain such approval. Before you can receive funds from HUD for activities that require IRB approval, you must provide an assurance that your study has been reviewed and approved by an IRB and evidence of your organization's “institutional assurance.” Describe how you will provide informed consent (e.g., from the subjects, their parents or their guardians, as applicable) to help ensure their understanding of, and consent to, the elements of informed consent, such as the purposes, benefits and risks of the research. Describe how this information will be provided and how the consent will be collected. For example, describe your use of “plain language” forms, flyers and verbal scripts, and how you plan to work with families with limited English proficiency or primary languages other than English, and with families including persons with disabilities.

(c) For the collection of data using instruments, such as surveys and visual assessment tools, describe the procedures that you will follow to ensure accurate data capture and transfer. Also, describe any research done (or planned) to validate the instrument.

(4) Project management plan (6 points). The proposal should include a management plan that provides a schedule for the completion of major tasks, with associated benchmarks and major study milestones, and major deliverables, with an indication that there will be adequate resources (e.g., personnel, financial) to successfully meet the proposed schedule. The major tasks and benchmarks/deliverables identified in the management plan should be consistent with those identified in the Logic Model (see description under Rating Factor 5). You should include preparation of one or more articles for peer-reviewed academic journals and submission of the draft(s) to the journal(s) after HUD acceptance during the agreed upon performance period of your grant. The final deliverable can be submitted to HUD during the agreed upon period of performance or during the 90-day closeout period following award expiration.

(5) Budget Proposal (4 points).

(a) Your budget proposal should thoroughly estimate all applicable direct and indirect costs, and be presented in a clear and coherent format in accordance with the requirements listed in the General Section. HUD is not required to approve or fund all proposed activities. You must thoroughly document and justify all budget categories and costs (Form HUD-424-CBW) and all major tasks, for yourself, sub-recipients, major subcontractors, joint venture participants, or others contributing resources to the project. A separate budget must be provided for partners who are proposed to receive more than 10 percent of the federal budget request.

(b) Your narrative justification associated with these budgeted costs should be submitted as part of the Total Budget (Federal Share and Matching), but is not included in the 25-page limit for this submission.

(c) The application will not be rated on the proposed cost; however, cost will be considered in addition to the rated factors to determine the proposal most advantageous to the Federal Government. Cost will be the deciding factor when proposals ranked under the listed factors are considered acceptable and are substantially equal.

d. Rating Factor 4: Leveraging Resources (8 Points). Your proposal should demonstrate that the effectiveness of HUD's Technical Studies grant funds is being increased by securing other public and/or private resources or by structuring the project in a cost-effective manner, such as integrating the project into an existing study (either funded by HUD or another source) that will be concurrent with your proposed study. Resources may include funding or in-kind contributions (such as services, facilities or equipment) allocated to the purpose(s) of your project. Staff and in-kind contributions should be assigned a monetary value.

You should provide evidence of leveraging/partnerships by submitting: Letters of firm commitment, memoranda of understanding, and/or agreements to participate from those entities identified as partners in the project efforts. Each document must include the organization's name, proposed level of commitment (with monetary value) and responsibilities as they relate to specific activities or tasks of your proposed program. The commitment must also be signed by an official of the organization legally able to make commitments on behalf of the organization. Simple letters that only indicate support of the proposed study are not sufficient.

e. Rating Factor 5: Achieving Results and Program Evaluation (10 Points). This factor emphasizes HUD's commitment to ensuring that applicants keep promises made in their applications and assess their performance to ensure performance goals are met. Achieving results means you, the applicant, have clearly identified the benefits or outcomes of your program. Outcomes are ultimate goals. Benchmarks or outputs are interim activities or products that lead to the ultimate achievement of your goals.

Program evaluation requires that you, the applicant, identify program outcomes, interim products or benchmarks, and indicators that will allow you to measure your performance. Performance indicators should be objectively quantifiable and measure actual achievements against anticipated goals. Your evaluation plan should identify what you are going to measure, how you are going to measure it, and the steps you have in place to make adjustments to your work plan if performance targets are not met within established timeframes.

This rating factor reflects HUD's goal to embrace high standards of ethics, management and accountability. In evaluating this factor, HUD will consider how you have described the procedures you will follow to have reliable outcome measures and performance, so that the project will be recognized as being of high quality that provides benefits to the community.

In your response to this Rating Factor, discuss the performance goals for your project and identify specific outcome measures. Describe how the outcome information will be obtained, documented, and reported. You must complete and return the eLogic Model ™ Form HUD-96010 included in the download instructions found as part of the application at http://www.Grants.gov/Apply. You must show your proposed project short-term, intermediate, long-term and final results. Instructions on the Logic model is contained in the General Section and instructions that are contained in Tab 1 of the electronic form. The form features drop down menus from which to select and construct the Logic Model response relevant to your proposal. The Master Logic Model is on the HUD Web site at http://www.hud.gov/offices/adm/grants/fundsavail.cfm and the electronic version is in the instruction download at http://www.Grants.gov/APPLY under the program NOFA.

Also, in responding to this factor, you should:

(1) Identify benchmarks that you will use to track the progress of your study;

(2) Identify important study milestones (e.g., the end of specific phases in a multiphase study, recruitment of study participants, developing a new analytical protocol), which should also be clearly indicated in your study timeline. Also identify potential obstacles in meeting these objectives, and discuss how you would respond to these obstacles;

(3) For FY2006, HUD is considering a new concept for the Logic Model. The new concept is a Return on Investment statement. HUD will be publishing a separate notice on the ROI concept.

B. Review and Selection Process

1. Corrections to Deficient Applications. The General Section provides the procedures for correcting deficient applications.

2. Rating and Ranking. Awards will be made in rank order for each type of Technical Studies Program applications (Lead or Healthy Homes), within the limits of funding availability for the program.

a. Partial Funding. In the selection process, HUD reserves the right to offer partial funding to any or all applicants. If you are offered a reduced grant amount, you will have a maximum of 14 calendar days to accept such a reduced award. If you fail to respond within the 14-day limit, you shall be considered to have declined the award.

b. Remaining Funds. See the General Section for HUD's procedures if funds remain after all selections have been made within either type of Technical Studies Program.

VI. Award Administration Information

A. Award Notices

1. Notice of Award. Applicants who have been selected for award will be notified by letter from the Grant Officer. The letter will state the program for which the application has been selected, the amount the applicant is eligible to receive, and the name of the Government Technical Representative (GTR). This letter is not an authorization to begin work or incur costs under the award. An executed grant or cooperative agreement is the authorizing document.

HUD may require that all the selected applicants participate in negotiations to determine the specific terms of the grant agreement and budget. If you accept the terms and conditions of the grant, you must return your signed grant agreement by the date specified during negotiation. In cases where HUD cannot successfully conclude negotiations with a selected applicant or a selected applicant fails to provide HUD with requested information, an award will not be made to that applicant. In this instance, HUD may offer an award, and proceed with negotiations with the next highest-ranking applicant. After receiving the letter, additional instructions on how to have the grant account entered into HUD's Line of Credit Control System (LOCCS) payment system or its successor will be provided. Other forms and program requirements will also be provided.

In accordance with OMB Circular A-133 (Audits of States, Local Governments and Non-Profit Organizations), grantees expending $500,000 in Federal funds within a program or fiscal year must submit their completed audit-reporting package along with the Data Collection Form (SF-SAC) to the Single Audit Clearinghouse, the address can be obtained from their Web site. The SF-SAC can be downloaded at http://harvester.census.gov/sac/.

2. Debriefing. The General Section provides the procedures applicants should follow for requesting a debriefing.

B. Administrative and National Policy Requirements

1. Environmental Requirements

a. Eligible Construction and Rehabilitation Activities.

(1) A Technical Studies award does not constitute approval of specific sites where activities that are subject to environmental review may be carried out. Recipients conducting eligible construction and rehabilitation activities must comply with 24 CFR part 58, “Environmental Review Procedures for Entities Assuming HUD Environmental Responsibilities”. Recipients that are States, units of general local government or Indian tribes must carry out environmental review responsibilities as a responsible entity under part 58. Where the recipient is not a State, unit of general local government or Indian tribe, a responsible entity, usually the unit of general local government or Indian tribe, must assume the environmental review responsibilities for construction or rehabilitation activities funded under this NOFA. Under 24 CFR 58.11, where the recipient is not a State, unit of general local government or Indian tribe, if a responsible entity or the recipient objects to the responsible entity performing the environmental review, HUD may designate another responsible entity to perform the review or may perform the environmental review itself under the provisions of 24 CFR part 50. In such cases, following grant award execution, HUD will be responsible for ensuring that any necessary environmental reviews are completed. See paragraph (2) below for additional assistance.

(2) For all grants under this NOFA, recipients and other participants in the project are prohibited from undertaking, or committing or expending HUD or non-HUD funds (including HUD leveraged or match funds) on, a project or activities under this NOFA (other than activities listed in 24 CFR 58.34, 58.35(b) or 58.22(f)) until the responsible entity completes an environmental review and the applicant submits and HUD approves a Request for the Release of Funds and the responsible entity's environmental certification (both on form HUD 7015.15) or, in the case where the recipient is not a State, unit of general local government or Indian tribe and HUD has determined to perform the environmental review under part 50, HUD has completed the review and notified the grantee of its approval. The results of the environmental reviews may require that proposed activities be modified or proposed sites rejected. For part 58 procedures, see http://www.hud.gov/offices/cpd/energyenviron/environment/index.cfm. For assistance, contact Karen Choi, the Office of Healthy Homes and Lead Hazard Control Environmental Officer at (213) 534-2458 (this is not a toll free-number) or the HUD Environmental Review Officer in the HUD Field Office serving your area. If you are a hearing-or speech-impaired person, you may reach the telephone number via TTY by calling 1-800-HUD-2209. Recipients of a grant under these funded programs will be given additional guidance in these environmental responsibilities.

b. All other activities not related to construction and rehabilitation activities are categorically excluded from the requirements of the National Environmental Policy Act of 1969 (42 U.S.C. 4321) and are not subject to environmental review under the related laws and authorities.

2. Program Performance. Awardees shall take all reasonable steps to accomplish all HUD-funded activities within the approved period of performance. HUD reserves the right to terminate the grant or cooperative agreement prior to the expiration of the period of performance if an awardee fails to make reasonable progress in implementing the approved program of activities.

3. Conducting Business in Accordance with HUD Core Values and Ethical Standards. If awarded assistance under this NOFA, prior to entering into a grant agreement with HUD, you will be required to submit a copy of your code of conduct and describe the methods you will use to ensure that all officers, employees, and agents of your organization are aware of your code of conduct. See the General Section for information about conducting business in accordance with HUD's core values and ethical standards.

4. Participation in HUD-Sponsored Program Evaluation. See the General Section.

5. Removal of Barriers to Affordable Housing. See the General Section.

6. HUD Reform Act of 1989. The provisions of the HUD Reform Act of 1989 that apply to this NOFA are explained in the General Section.

7. Audit Requirements. Any grant recipient that expends $500,000 or more in federal financial assistance in a single year must meet the audit requirements established in 24 CFR parts 84 and 85 in accordance with OMB Circular A-133.

8. Executive Order 13202. Compliance with HUD regulations at 24 CFR 5.108 that implement Executive Order 13202, “Preservation of Open Competition and Government Neutrality Towards Government Contractors' Labor Relations on Federal and Federally-Funded Construction Projects”, is a condition of receipt of assistance under this NOFA.

Note: This Order only applies to construction work.

9. Procurement of Recovered Materials. See the General Section for information concerning this requirement.

C. Reporting

1. Post Award Reporting Requirements. Final budget and work plans are due 60 days after the start date.

2. Quality Assurance Plan (QAP). Successful applicants will be required to submit a Quality Assurance Plan to HUD prior to initiating work under the grant. This is a streamlined version of the format used by some other federal agencies, and is intended to help ensure the accuracy and validity of the data that you will collect under the grant. You should plan for this and include it in your study work plan. See http://www.hud.gov/offices/lead, for the QAP template for this program.

3. Progress Reporting. Progress reporting is required on a quarterly basis. Project benchmarks and milestones will be tracked using a benchmark spreadsheet that uses the benchmarks and milestones identified in the Logic Model form (HUD-96010) approved and incorporated into your award agreement. For specific reporting requirements, see policy guidance at: http://www.hud.gov/offices/lead.

4. Racial and Ethnic Beneficiary Data. HUD does not require grantees to collect racial and ethnic beneficiary data for this program. Grantees conducting studies that do not involve people, such as those confined to the laboratory or certain types of environmental sampling, will not be required to submit Form-27061 to HUD. If, however, racial and ethnic data are collected and reported as part of a study funded under this program NOFA, you must use the Office of Management and Budget's Standards for the Collection of Racial and Ethnic Data as presented on Form HUD-27061, Racial and Ethnic Data Reporting Form (and instructions for its use), found on http://www.grants.gov.

5. Final Report. The grant agreement will specify the requirements for final reporting (e.g., final technical report and final project benchmarks and milestones achieved against the proposed benchmarks and milestones in the Logic Model which was approved and incorporated into your award agreement).

6. Draft Scientific Manuscript(s). Copies of materials to be submitted for publication, at least one of which should be peer-reviewed.

VII. Agency Contact(s)

For technical help in downloading an application from Grants.gov or submitting an application via Grants.gov, call the Grants.gov help desk at 800-518-GRANTS. For programmatic questions on the Lead Technical Studies program, you may contact Dr. Robert Weisberg, Office of Healthy Homes and Lead Hazard Control, at (202) 755-1785, extension 7687 (this is not a toll-free number) or via e-mail at Robert_F._Weisberg@hud.gov. For programmatic questions on the Healthy Homes Technical Studies program, you may contact Dr. Peter Ashley, Office of Healthy Homes and Lead Hazard Control, at (202) 755-1785, extension 7595 (this is not a toll-free number) or via e-mail at Peter_J._Ashley@hud.gov. For grants administrative questions, you may contact Ms. Curtissa L. Coleman, Office of Healthy Homes and Lead Hazard Control, at telephone (202) 755-1785, extension 7580 (this is not a toll-free number) or via e-mail at Curtissa_L._Coleman@hud.gov. If you are a hearing- or speech-impaired person, you may reach the above telephone numbers through TTY by calling the toll-free Federal Information Relay Service at 1-800-877-8339.

VIII. Other Information

A. Other Office of Healthy Homes and Lead Hazard Control Information

For additional general, technical, and grant program information pertaining to the Office of Healthy Homes and Lead Hazard Control, visit http://www.hud.gov/offices/lead.

B. Paperwork Reduction Act

The information collection requirements contained in this document have been approved by the Office of Management and Budget (OMB) under the Paperwork Reduction Act of 1995 (44 U.S.C. 3501-3520) and assigned OMB control number 2539-0015. In accordance with the Paperwork Reduction Act, HUD may not conduct or sponsor, and a person is not required to respond to, a collection of information unless the collection displays a currently valid OMB control number. Public reporting burden for the collection of information is estimated to average 80 hours per respondent for the application and 16 hours per respondent hours per annum per respondent for grant administration. This includes the time for collecting, reviewing, and reporting the data for the application, quarterly and final report. The information will be used for grantee selection and monitoring the administration of funds. Response to this request for information is required in order to receive the benefits to be derived.

C. Appendices

Appendices A, B and C to this NOFA are available from HUD's Web site at: http://www.hud.gov/offices/adm/grants/fundsavail.cfm.

BILLING CODE 4210-01-P

Lead Outreach Grant Program

Overview Information

A. Federal Agency Name: Department of Housing and Urban Development, Office of Healthy Homes and Lead Hazard Control (OHHLHC).

B. Funding Opportunity Title: Lead Outreach Grant Program.

C. Announcement Type: Initial announcement.

D. Funding Opportunity Number: The Federal Register number is: FR-5030-N-17. The OMB approval number is 2539-0015.

E. Catalog of Federal Domestic Assistance (CFDA) Number(s): 14.904, Lead Outreach Grant Program.

F. Dates: The application deadline date is June 6, 2006.

G. Additional Important Information:

1. Overall Purpose. This funding opportunity is to provide funding for information dissemination about lead poisoning prevention through outreach, training and education, and certain technical assistance activities.

2. Available Funds. Approximately $2 million is available under this program.

3. Number of Awards. Approximately between 8-12 grants will be awarded.

4. Type of Awards. The awards will be made as cooperative agreements.

5. Eligible Applicants. Academic and non-for-profit institutions located in the U.S., state and local governments, and federally recognized Native American tribes are eligible under all existing authorizations. For-profit firms also are eligible; however, they are not allowed to earn a fee (i.e., no profit can be made from the project).

6. Matching Requirements and Leveraging. Ten (10) percent match is required by the applicant. See Section III.B. for more information on match and leverage.

7. Application information. Applications for this NOFA can be found at www.grants.gov. Applications must be received and validated by www.grants.gov no later than 11:59:59 PM eastern time on the application deadline date of June 6, 2006.

8. Limitations on Applications. There are three categories of activity under this NOFA. Applicants must submit a completed application for each category for which they are applying.

Full Text of Announcement

I. Funding Opportunity Description

Background information about lead, lead-based paint hazards and other information applicable to all OHHLHC NOFAs can be found on the OHHLHC's Web site at: www.hud.gov/offices/adm/grants/fundsavail.cfm.

A. Purpose of the Program

The purpose of this program is to:

1. Raise public awareness of childhood lead poisoning prevention and proper lead hazard identification and control methods for at-risk communities and children, especially underserved populations and minorities;

2. Provide training and education: (A) Develop a sustainable national or regional/local capacity of trained and educated individuals. (B) Educate certain groups about lead hazards; educate tenants and homeowners so they can report lead hazards to property owners, managers and/or public health or housing officials, as appropriate.

3. Provide technical assistance to grantees under OHHLHC's Lead Elimination Action Program (“LEAP”), Lead Hazard Control, Lead Technical Studies, and Lead Reduction Demonstration programs on grant management and lead technical issues.

B. Authority

The authority for this program is sections 1011(e)(8) and (g)(1) of the Residential Lead-Based Paint Hazard Reduction Act of 1992 (Title X of the Housing and Community Development Act of 1992), and the Department of Housing and Urban Development Appropriations Act, 2006 (Pub. L. 109-115, 119 Stat. 2396; approved November 30, 2005).

C. Changes in the FY 2006 Competitive NOFA

Listed below are major changes from the FY 2005 Lead Outreach NOFA:

1. Applicants may choose to apply for any or all of the three categories: (1) Outreach; (2) training and education and/or; (3) technical assistance to OHHLHC grantees. Applicants must submit a completed application for each category for which they are applying.

2. Eligible activities relate to the category of activity selected and are narrowly identified.

3. For-profit organizations are eligible to apply.

4. Referral or enrollment of units in treatment programs is not required.

5. Ten (10) percent match is required for eligibility. Leveraging beyond the match, though not required, will enable applicants to obtain points.

6. All grantees funded under this program must use existing outreach, training curricula and technical assistance documents unless they adequately justify the need to create new ones.

7. HUD has specified application format requirements.

II. Terms of Award

A. Available Funding

Approximately $2 million in fiscal year 2006 and prior year funds is available under this program. Available funds will be divided among three activity categories: Community Outreach: Approximately $1.2 million (approximately 5 cooperative agreements); Training and Education: Approximately $400,000 (approximately 2 cooperative agreements); OHHLHC Lead Grantee Technical Assistance: Approximately $400,000 (approximately 2 cooperative agreements). Technical Assistance applicants can apply for the nation as a whole and/or for one or more of the geographic areas:

(1) Eastern United States. (HUD Region I (New England: CT, MA, ME, NH, RI, VT), Region II (NJ, NY), Region III (Mid-Atlantic: DC, DE, MD, PA, VA, WV), Region IV (Southeast: AL, MS, FL, KY, NC, GA, PR, SC, TN));

(2) Central United States. (HUD Region V (Midwest: IL, IN, MI, MN, OH, WI), VI (Southwest: AR, LA, NM, OK, TX), VII (Great Plains: IA, MO, KS, NE), and VIII (Rocky Mountains: CO, MT, ND, SD, UT, WY)); and

(3) Western United States. (HUD Region IX (Pacific/Hawaii: AZ, CA, HI, NV) and Region X (Northwest: AK, ID, OR, WA)).

B. Type of Award and Period of Performance

Awards will be made as cooperative agreements with substantial government involvement. The anticipated start dates for new awards is expected to be October 1, 2006. The period of performance is 24 months from date of award.

III. Eligibility Information

A. Eligible Applicants

Academic and not-for-profit institutions located in the U.S., state and local governments, and federally recognized Native American Tribes are eligible under all existing authorizations. For-profit firms also are eligible; however, they are not allowed to earn a fee (i.e., no profit can be made from the project). Existing OHHLHC grantees of (or applicants to) the following programs are not eligible to apply as applicants, subrecipients or contractors under this NOFA: lead hazard control, lead hazard reduction demonstration, Lead Elimination Action Program (LEAP), or Lead Technical Studies.

B. Cost Sharing or Matching Requirements

Applicants must provide a matching contribution of at least 10 percent of the requested cooperative agreement sum. Matching contributions may be in the form of cash, including private sector funding, or in-kind (non-cash) contributions or a combination of these sources. Program match shall be limited to contributions, which would be eligible for payment from cooperative agreement funds, and may be in the form of cash, including private sector funding, or in-kind (non-cash) contributions or a combination of these sources. The applicant must submit a letter of commitment for the match from each organization other than itself that is providing a match, whether cash and/or in-kind. The letter must indicate the amount and source of the match, and detail how the matching funds will be specifically dedicated to and integrated into supporting the proposed cooperative agreement program. The signature of the authorized official on the Form SF-424 commits matching or other contributed resources of the applicant organization. A separate letter from the applicant is not required.

C. Other

1. Threshold Requirements. Applicants must also meet the threshold requirements of the General Section, including the Civil Rights threshold.

2. Program Requirements and Program Priorities. This section consists of both general requirements for all three activity categories followed by specific program requirements for each activity category. Although it is possible that, in a particular community, one or more of these policy priorities may not be appropriate, applicants should conform to the following policies or explain their proposed deviation from them:

a. General.

(1) All activities under this program must assist the regional/local area to develop or implement a strategy to eliminate lead poisoning, target at-risk populations or areas, and implement programs to meet those populations' information needs.

(2) All grantees' regular, routine activities must provide information to owners and low-income occupants about regional/local resources for housing rehabilitation and lead hazard control programs.

(3) All applicants are encouraged to target minority populations and utilize minority media in an effort to achieve diversity in outreach and educational efforts.

(4) All printed products are to be submitted to HUD for review and in final form as deliverables in electronic format suitable for web posting.

(5) Each awardee is expected to manage their program and use a project management tool, such as a logic model, to manage and evaluate their programs' effectiveness and modify their strategies as needed to achieve the greatest return on HUD's investment. Often, modest additional actions to gather information about results would enable grantees to better measure the impact of their outreach and education efforts.

(6) Each awardee will be assigned a GTR (Government Technical Representative) at Headquarters, who will provide oversight and approve grantees' activities and deliverables. The Government Technical Monitor (GTM) will be the Healthy Homes Field Representative for the awardee's region. When planning and conducting activities to be held in the GTM's region, awardees shall inform the GTM of its plans and activities, consider the GTM's input and recommendations and report to the GTM (in addition to any other reporting requirements) the accomplishments of the assistance. However, the GTR has the ultimate authority to monitor the performance and approve deliverables and drawdowns.

b. Specific program requirements for each of the three activity categories.

(1) Outreach providers must:

(a) Increase lead awareness among the general public;

(b) Provide information to owners and low-income occupants about regional/local resources for housing rehabilitation and lead hazard control programs; and

(c) Create a detailed outreach strategy as part of their work plan.

(2) Training and Education providers must:

(a) meet a documented regional/local need for:

(i) sustainable capacity of lead-safety trained workers and/or EPA-or state-certified lead professionals; or

(ii) structured education of other groups about lead poisoning prevention and control;

(b) target a specific, appropriate audience;

(c) use a HUD-approved curriculum for all interim controls training and specify training materials to be used;

(d) provide plans for sustainability including train-the-trainer programs.

(3) TA providers must:

(a) Observe the following priorities for content of TA:

(i) performance of assessment, intervention or clearance goals according to work plan,

(ii) improvement in the ability of grantees to design and implement programs that reflect sound management and fiscal controls,

(iii) adequate documentation of income eligibility,

(iv) adequate monitoring of subgrantees/subrecipients,

(v) adequate monitoring and documenting of match and/or leverage funds, as applicable,

(vi) compliance with Title X rules regarding the presence of children less than six years of age in assisted, owner-occupied units, and

(vii) organizational, management and financial management controls.

3. Description of National TA and Regional/local TA. Two types of technical assistance (TA) may be performed under this NOFA: National and Regional/local TA.

a. National TA activities are those that address, at a nationwide level, one or more of the program activities and/or priorities identified in Section III of this NOFA. National TA activities may include the development of written products (if adequately justified), development of online materials and training courses, delivery of training courses previously approved by HUD, organization and delivery of workshops and conferences, and delivery of direct TA as part of a national program.

b. Regional/local TA activities also must address the priorities identified in this NOFA. However, the Regional/local TA is targeted to the specific needs of OHHLHC's grantees in the regional area in which the TA is proposed. Regional/local TA activities are limited to the development of need assessments, direct TA to certain OHHLHC grantees, organization and delivery of workshops and conferences, and customization and delivery of previously HUD-approved trainings. Regional/local TA providers must notify regional/local HUD field offices of proposed activities, as appropriate. All TA activities will be administered by a Government Technical Representative (GTR) at HUD Headquarters and Government Technical Monitors (GTM) in various regions of the U.S. For more information on OHHLHC's grantees or a list of HUD's Healthy Homes Representatives and their regional distribution, please visit http://www.hud.gov/offices/lead. Information about HUD's field office locations may also be obtained on HUD's Web site at: http://www.hud.gov/localoffices.cfm.

4. Demand-Response System. TA providers must operate within the structure of OHHLHC's demand-response system. Under the demand-response system, TA providers are required to:

a. When requested by a GTR, market the availability of their services to existing and potential recipients within the jurisdictions in which the assistance will be delivered;

b. Respond to requests for assistance from the TA provider's GTR;

c. When requested by its GTR, conduct a needs assessment to identify the type and nature of the assistance needed by the recipient of the assistance; and,

d. Obtain its GTR's approval before responding to direct requests for technical assistance from OHHLHC personnel or grantees.

5. Training. All training activities performed under this program must conform to the following requirements:

a. Design the course materials as ”step-in” packages so that HUD or other TA providers may independently conduct the course on their own;

b. Make the course materials available to the GTR in sufficient time for review (minimum of three weeks) and receive concurrence from the GTR on the content and quality prior to delivery;

c. Provide all course materials in an electronic format that will permit wide distribution among TA providers, field offices, and HUD grantees;

d. Arrange for delivery of the training with HUD participation when requested by the GTR;

e. Establish minimum enrollments for deliveries of training courses; implement and disseminate fair course cancellation policies;

f. Deliver HUD-approved training courses that have been designed and developed by others on a ”step-in” basis when requested; and

g. For Interim Controls (Lead Safe Work Practices), training providers must comply with HUD's Interim Criteria to Evaluate Training Courses in Lead-Safe Work Practices. The costs associated with attending these required sessions are eligible under the cooperative agreement.

D. Policies Applicable to All Categories in This NOFA

1. Awardees must use or minimally adapt existing outreach, training and technical assistance documents unless they can adequately justify in their application that a dire need exists in their community to create new ones. Before creating a new product (such as a brochure, curriculum or technical document), grantees must investigate if a similar item already exists and can be used or revised with a level of effort lower than would be spent creating a new equivalent product. Applicants must ensure that materials are appropriate for the target populations, including persons with Limited English Proficiency (LEP), and for visually impaired or other disabled persons (see Eligible Activities, below). All new products and adaptations/translations must be submitted to HUD as deliverables, in electronic format suitable for Web posting.

2. For use under this program, all documents in languages other than English must be culturally neutral (understandable by speakers of all dialects of the target language). Translators must be certified by the American Translators Association. Quality reviews are required for all translations. Translations will not be allowed for federal documents that have been translated into the target language. Awardees are responsible to determine if a translation already exists.

3. Grantees are expected to communicate and coordinate, as appropriate, with other HUD program personnel and field offices at the direction of the GTR.

4. All training activities must conform to the training requirements applicable to TA providers as described in this NOFA.

E. Eligible Activities

Consideration will only be given to proposed activities that are specifically listed as eligible in this NOFA. Other work activities, although they may be supportive of lead hazard control grantees or their activities, are ineligible. All activities must address childhood lead poisoning prevention and/or control at the national and/or regional/local levels. Eligible activities relate to the three activity categories. The following section lists category-specific eligible activities.

1. Activities Eligible under the Community Outreach Category:

a. Door-to-door canvasses, small-group meetings, community meeting visits, health fairs, conducting presentations or speaking engagements to inform the public and owners of housing, including owners receiving rehabilitation or other tax credits, about programs that can assist in the control of the identified hazards; other activities to publicize or conduct events that highlight lead hazards in the home environment;

b. Earned media (no-cost PSAs, news stories in radio, print, or TV to raise public awareness and promoting name recognition for treatment program);

c. Advertising (paid ads on buses, billboards, etc.);

d. Use of collateral materials and campaign props and incentives. These materials include outreach brochures and printed materials, visual presentations, giveaways with phone numbers/ contact information on Outreach Provider, mascots, cleaning kits, meals not to exceed $10 in value per meal per person, etc., but not training materials (see Training and Education category). Outreach materials and props can support general outreach and education efforts. However, the budget must include details of the items including cost per item. All expenditures made by a grantee must be linked to specific outreach activities and listed in the approved budget.

e. Development and maintenance of infrastructure and support such as telephone hotlines and web sites;

f. Entering into working arrangements with regional/local non-profit organizations, including grassroots community-based organizations, faith-based organizations; chambers of commerce; public and private social service agencies; corporations, retailers, construction organizations, or unions for the purpose of coordinating or conducting joint outreach activities.

g. Other outreach activities designed to disseminate information to targeted populations identified as being at-risk of lead poisoning;

h. Making materials available in alternative formats for persons with disabilities (e.g., Braille, audio, large type) upon request, and providing materials in languages other than English that are common in the community, consistent with HUD's published Limited English Proficiency (LEP) Recipient Guidance, 68 FR 70968 (see above);

i. Program administration in accordance with the guidelines established under funding restrictions;

j. Program evaluation and assessment activities to improve the effectiveness of present and future outreach efforts and to measure whether efforts have successfully been targeted to at risk populations;

k. Innovative use of funds to provide direct technical expertise and assistance to regional/local community groups, residents, and other appropriate community stakeholders to resolve regional/local lead poisoning problems, as approved by the GTR;

2. Activities Eligible under the Training and Education Category:

a. Delivery of HUD-approved (or state-approved, as applicable) Lead-Safe Work Practices (Interim Controls), EPA-or state-approved lead training, or Lead Awareness training curricula to the target audience, visual assessment training;

b. Training regional/local residents and businesses, including retail paint sales associates and managers, on identifying and preventing lead-based paint hazards, and lead-safe maintenance and renovation work practices, etc.;

c. Educating tenants, owners, housing inspectors, and others about HUD's lead safety regulations, including the Lead Disclosure Rule (24 CFR part 35), regional/local building codes, and HUD's Housing Quality Standards (HQS) and Uniform Physical Condition Standards (UPCS), as applicable;

d. Training curriculum design, development, maintenance and evaluation; preparing training materials, including photographs or other graphics. (Compliance with copyright laws is the responsibility of the grantee);

e. Applying for or maintaining curriculum/provider jurisdictional or HUD approval (as applicable);

f. Promoting or marketing training courses directly or through partnerships with organizations conducting outreach;

g. Delivery of formal or one-on-one or group educational or training sessions in classrooms, homes or other locations;

h. Delivery of informal one-on-one or group educational sessions, workshops or demonstrations in homes or other locations (cleaning techniques, etc.);

i. Participation in training-related partnerships and task forces; and,

j. Auditing course delivery, training, mentoring and evaluating trainers to increase lead safety training capacity.

3. Activities Eligible under the Technical Assistance (TA) Category: Funds may be used to provide TA to grantees, their sub-grantees and contractors of OHHLHC's grant programs for the following activities:

a. Provide technical and/or general programmatic assistance to OHHLHC grantees in need of such assistance to develop recommendations for facilitating the quick and cost-effective implementation of Grantee work plans. Eligible activities for the TA category include communication with the GTR of the grant receiving TA, its GTM and grant officer, as described below.

(1) Maintain liaison with the grantee, GTR for the grant receiving TA, GTM, and Grant Officer to help avoid resolve grant performance problems and resolve them when they occur.

(2) Review grantee documents and records of operations, staff communications, grantee field and/or financial performance (within the limits of confidentiality), as well as meet with program personnel and partners.

(3) Provide the GTR of the grant receiving TA and Grant Officer with copies of all correspondence issued to the grantee pertinent to activities for which the technical assistance is being provided.

(4) Make recommendations to the GTR of the grant receiving TA on:

(a) Program design;

(b) Program management; and

(c) Marketing.

(5) Provide the GTR of the grant receiving TA with a final written TA report.

b. TA activities also include, but are not limited to, reporting, developing or providing written information such as papers, manuals, guides, and brochures; needs assessments; and training.

IV. Application and Submission Information

A. Address To Request Application Package

All the information required to submit an application can be downloaded from the Web at: http://www.grants.gov. Consult the General Section for more information. If you have difficulty accessing the information, you may call the Grants.gov helpline toll-free at (800) 518-GRANTS or e-mail Support@grants.gov.

B. Content and Form of Application Submission

1. Application Format. Because of the electronic submission process, proposals must conform to the formatting requirements below to be eligible. All material submitted must be required or be in support of the narrative response to the rating factors. Any material, whether required or supplemental, that is not properly located in the application, and referenced and discussed within the narrative statement as described below, will not be rated. The narrative response to all rating factors (see below) must be submitted within a single electronic file within the zip file attached to the application. The narrative response to the five rating factors may not exceed 25 pages (excluding required additional materials and worksheets, see below) equivalent to one-side only on 8½ × 11 inch paper using a standard 12-point font with not less than ¾ inch margins on all sides. Each attachment or appendix must be an individual electronic file. All pages must be numbered in order starting with the cover page and continuing through the appendices.

2. Prohibition on Materials Not Required. Submission of materials other than those specified as allowable by this NOFA are prohibited. Reviewers will not consider other resumes, reports, charts, letters, or any other documents attached to the application.

3. Required Application Contents: Applications must contain all of the information required by this NOFA, including the following items:

a. Application Abstract. An abstract is required. It may not exceed 2 pages in length, and must summarize the proposed project, including the objectives, proposed activities and expected results, the dollar amount requested, and contact information for the applicant and project partners. The abstract will be used for developing the Congressional Release and Public Announcement if the application is funded.

b. Narrative Response. A narrative statement with supporting required forms and other documents addressing the five rating factors for award is required. This portion of the application consists of a narrative response to each of the five rating factors (25-page limit), specific HUD-required forms documents (which do not count toward the page limit), and optional supplemental material (20-page limit). Pages in excess of these limits will not be read. Each of Rating Factors 1-5 has an associated required form (HUD-96012, HUD-96013, HUD-96014, HUD-96015, and HUD-96010, respectively) that does not count toward the page limits, and must be located immediately after the response to that rating factor (see list of forms, below). Applicants are advised to review each factor carefully for program specific requirements. The response to each factor should be concise and contain only information relevant to the factor, but detailed enough to address each factor fully. Please do not repeat material in response to the five factors; instead, focus on how well the proposal responds to each of the factors. In factors where there are sub-factors, each sub-factor must be presented separately, with the short title of the sub-factor presented. Make sure to address each sub-factor and provide sufficient information about every element of the sub-factor. All information relative to a given rating factor MUST be contained in the narrative for that rating factor. If it is found in a different rating factor, IT WILL NOT BE CONSIDERED. In addition, supplemental material that is not referenced and discussed within that portion of the narrative will not be considered.

c. In addition to the abstract and narrative response described above, the following materials (which do not count toward the page limits) must be included in the locations specified: resumes, process flow diagram for the project (not the employer's organizational chart), budget, and other required forms. The standard forms can be found in the application package on Grants.gov and on HUD's Web site.

(1) Resumes and a process flow diagram for your project must be placed immediately following the narrative response to Rating Factor 1. Resumes for project director, day-to-day program manager and up to 3 key personnel (limited to 3 pages per resume for a maximum of 15 pages total) are required. (See Rating Factor 1.)

(2) Include a detailed budget for any subcontractors, subgrantees, or subrecipients receiving greater than 10 percent of the federal budget request. Use the budget format discussed in Rating Factor 3.

(3) Form HUD-96010, Logic Model, must be placed immediately following Rating Factor 5.

(4) General letters of support have no value and are discouraged.

d. Applicants are encouraged to use the following checklist to ensure that all required materials have been prepared and submitted. Do not submit the checklist (see below) with the application.

Checklist for Applicants

• Abstract (limited to 2 pages).

• Required information supporting Rating Factors.

1. Capacity of the Applicant and Relevant Organizational Experience plus Form HUD-96012; Resumes of Proposed Project Director, Day-to-day Program Manager and up to 3 Key Personnel; Project Organization Chart.

2. Need/Extent of the Problem plus Form HUD-96013.

3. Soundness of Approach plus Form HUD-96014; budget forms and narrative budget justification.

4. Matching and Leveraging Resources plus Forms HUD-96015, Leveraging Resources; Letters of Commitment attached immediately after Rating Factor 4.

5. Achieving Results and Program Evaluation plus HUD-96010 Logic Model.

• Additional Material Supporting the Rating Factors (attachments, appendices, etc.: 20-page limit).

• Complete List of Required Forms and Budget Material.

• Form SF-424 (Application for Federal Assistance).

• Form HUD-CBW (Budget Worksheet).

• Form SF-424 Supplement (Survey on Ensuring Equal Opportunity for Applicants) (to be completed by private nonprofit organizations only).

• Form SF-LLL (if applicable) (Disclosure of Lobbying Activities).

• Form HUD-2880 (Applicant/Recipient Disclosure/Update Report).

• Form-2990 Certification of Consistency with the EZ/EC Strategic Plan (required only for applicants who are seeking these bonus points).

• Form HUD-2994A You Are Our Client Grant Applicant Survey (Optional).

• Form HUD-27300 Removal of Regulatory Barriers (if applicable) (up to 2 points can be awarded).

• Rating Factor Forms:

◦ Rating Factor 1: HUD-96012.

◦ Rating Factor 2: HUD-96013.

◦ Rating Factor 3: HUD-96014.

◦ Rating Factor 4: HUD-96015.

◦ Rating Factor 5: HUD-96010.

◦ Form HUD-96011 Facsimile Transmittal, for electronic applications (used as the cover page to transmit third-party documents and other documentation designed for each specific application for tracking purposes. HUD will not read faxes that do not use the HUD-96011 as the cover page to the fax).

C. Submission Dates and Times

Application Submission Dates: The application deadline date is June 6, 2006. Refer to the General Section for additional requirements including registration requirements, deadline dates, Grants.gov validation, proof of delivery, and other information regarding electronic application submission via www.grants.gov.

D. Intergovernmental Review

Not applicable to this program. See 24 CFR part 52.

E. Funding Restrictions

1. Administrative Costs. Administrative costs are eligible. Administrative costs are the awardee's allowable direct and indirect costs for the overall management, coordination, monitoring, and evaluation for the program. No more than 10 percent of the funds can be used for administrative costs. This applies to applicants electing to serve as a conduit to sub-recipients, who will in turn perform the direct program activities eligible under this NOFA. Applicants are responsible for reviewing the important information about administrative costs that apply to this NOFA, which is posted on the OHHLHC's Web site at: http://www.hud.gov/offices/lead. Eligible administrative costs include leases for office space, under the following conditions:

(1) The lease must be for existing facilities not requiring rehabilitation or construction;

(2) No repairs or renovations of the property may be undertaken with federal funds:

(3) Properties in the Coastal Barrier Resources System designated under the Coastal Barrier Resources Act (16 U.S.C. 3501) cannot be leased with federal funds.

2. HUD will not fund the following ineligible activities:

a. Purchase of real property.

b. Purchase or lease of equipment having a per-unit cost in excess of $5,000, unless prior written approval is obtained from HUD.

c. Identification of lead-based paint or hazards, hazard reduction (including, interim controls or abatement), rehabilitation, remodeling, maintenance, repair, or any other construction work, blood lead testing of adults or children, laboratory analysis, medical treatment, clearance examinations and visual assessment.

d. Activities, by parties following a determination of non-compliance, required in order to fulfill court orders or consent decrees, settlements, conciliation agreements, or other compliance agreements.

e. Renovations or construction work on office space leased for the program.

F. Other Submission Requirements

Applications are required to be submitted electronically via the Web site http://www.grants.gov. See Section IV.F of the General Section for additional information on the electronic process. Waivers may only be granted for cause. See General Section for further discussion.

V. Application Review Information

A. Criteria

1. Following threshold review, applications will be reviewed by an Application Review Panel (ARP) which will assign each application a score based on the rating factors. Awards will be made separately in rank order within the limits of funding availability.

2. HUD may use other information from sources at hand, such as Department records, newspapers, Inspector General or Government Accounting Office Reports or Findings, hotline complaints, or other sources of information that have been proven to have merit. HUD may also request additional information from successful applicants as conditions of award. If the applicant fails to provide the information at that time, the award will not be made.

3. Factors for Award Used to Evaluate and Rate Application. The factors for rating and ranking applicants, and maximum points for each factor, are provided below. The maximum number of points to be awarded is 102, including the two (2) RC/EZ/EC-II bonus points. A specific number of points is assigned to each rating factor. Applicants should be certain that these factors are adequately addressed in the project description and accompanying materials. Do not assume that HUD has any information about you or your project.

4. Rating Factors for All Categories.

a. Rating Factor 1: Capacity of the Applicant and Relevant Organizational Experience (20 points). This factor includes information about the organization, its individual employees and partners, and past performance. Higher points will be given for more recent, relevant experience of high quality. The following areas will be evaluated: organizational capacity, experience and past performance (for previous grantees), individual staff and participants' qualifications including education and experience, and specific qualifications related to the categories of activities under this NOFA.

(1) Organizational Experience. This sub-factor addresses the extent to which the applicant has the organizational experience necessary to successfully implement the proposed activities in a timely manner. HUD will evaluate the organization's experience in initiating, implementing, and evaluating related outreach, health education and training, technical assistance and recruitment projects, or solving community problems directly related to this program. In rating this sub-factor, HUD will consider the extent to which the proposal demonstrates organizational experience that is recent and relevant. HUD will consider organizational experience within the last five (5) years to be recent and experience pertaining to activities of similar scope to be relevant.

(a) Describe whether you have sufficient personnel, or will be able to quickly hire qualified experts or professionals to begin your proposed project within 30 days of award, if funded.

(b) Describe how the principal components of your project organization will participate in, or support, your project, and how you propose to coordinate with your partners. Include a project-specific organizational chart indicating the organizational capacities of and interrelationships among the various entities involved in the project.

(c) Past performance in previous projects with an emphasis on health education, outreach and recruitment, training and education, or technical assistance. This sub-factor evaluates the extent to which an applicant has performed previous work successfully. Provide details about the nature of projects performed through grants or contracts. Applicants failing to disclose previous grants or contracts with OHHLHC or HUD may be deemed ineligible for award. Provide the following specific information:

(i) A detailed list outlining the achievement of specific tasks, measurable objectives (benchmarks) and outcomes consistent with the approved timeline/work plan;

(ii) Comparison of proposed required match funds and resources in a previous grant with what was actually matched; and,

(iii) A detailed list outlining the timeliness and completeness of complying with all reporting requirements. In addressing timeliness, compare when reports were due with when they were actually submitted.

(2) Individual Qualifications:

(a) Project Director and Day-to-Day Project Manager. Identify the individuals proposed to serve as the proposed overall project director and day-to-day project manager. The terms “Project Director” and “Day-to-Day Project Manager” must be used in the application to earn points for individuals having these responsibilities, regardless of their current, employer-assigned position titles. Describe their individual qualifications that will enable them to function effectively in their assigned roles. Include knowledge, work experience, management experience, education, training, and publications. Include specific projects they have performed involving planning and managing large and complex interdisciplinary outreach, educational or TA programs, especially those involving housing, public health, or environmental initiatives.

(b) Other Key Personnel. Identify up to three additional key personnel. For each, provide individual qualifications, experience, percentage commitment to the project, salary costs to be paid by funds from this program, and role in the proposed project. You must provide resumes (or position descriptions and copies of job announcements including salary range, for vacant positions) for the project director, project manager, and three additional key personnel.

(c) Sub-recipients (sub-grantees, subcontractors and consultants). Include descriptions of their experience and qualifications. Detail their grant and financial management experience. You may find it useful to include a table indicating the name, position and percentage contribution of participating individuals, specifying organizational affiliation. Describe who is responsible for quality control of processes and materials produced by sub-recipients.

(3) In addition to other eligibility criteria and knowledge of OHHLHC's grant programs, category applicants must also demonstrate specific capacity as follows:

(a) Outreach Providers: specific capacity to provide outreach services, such as holding community meetings, health fairs, adapting printed materials, writing public service announcements, etc. Applications that include development and distribution of media products in languages other than English must include a discussion of the applicant's (or sub-grantee's/contractor's) expertise in those languages and in meeting the informational needs of non-English-speaking, underserved populations. Outreach grantees involving face-to-face interaction with the community should have staff that are well-trained, motivated, committed to the program, and reflect the characteristics of the target community.

(b) Training and Education Providers: Specific capacity to provide the type of training programs proposed.

(c) Technical Assistance Providers: Specific capacity to provide technical assistance services related to grant management and lead-based paint technical issues. Applicants may use in-house staff, sub-contractors, sub-grantees, and regional/local organizations with the requisite experience and capabilities. Where appropriate, applicants should make use of TA providers located in the jurisdiction receiving services. This draws upon regional/local expertise and persons familiar with the opportunities and resources available in the area to be served while reducing travel and other costs associated with delivery of services.

b. Rating Factor 2: Need/Extent of the Problem (10 Points). This factor addresses the extent to which there is a need for funding the proposed program activities and an indication of the importance of meeting the need(s) in the target area. The proposal will be evaluated on the extent to which the level of need for the proposed activities and the importance of meeting the need(s) are documented. Applicants must use statistics or other analyses contained in at least one or more current data sources that are sound and reliable. In rating this factor, HUD will consider data collected within the last five (5) years to be current. The data used must be specific to the area where the proposed activities will be carried out (for projects with specific regional/local target areas, do not apply the data to the entire regional/locality or state). To receive maximum points for this factor, proposals addressing one or a few communities must explain the extent to which the targeted community's Five Year Consolidated Plan(s) and Analysis(es) of Impediments to Fair Housing Choice (AI) identify the level of the problem and the urgency in meeting the need. Applicants proposing TA services on a regional or national basis may demonstrate the extent to which there is a regional or national need to address deficiencies in Consolidated Plans. Sources for regional/localized data can be found at: http://www.ffiec.gov. Other reliable sources of data include, but are not limited to, Census reports, HUD Continuum of Care gap analysis and its E-Map (to find additional information, go to HUD's Web site: http://www.hud.gov/emaps), Comprehensive Plans, community needs analyses such as provided by the United Way, the applicant's institution, and other sound, reliable, and appropriate sources. Needs in terms of fulfilling court orders or consent decrees, settlements, conciliation agreements, and voluntary compliance agreements may also be addressed. TA providers may identify their specific areas of expertise and relate them to a demonstrated need.

c. Rating Factor 3: Soundness of Approach (40 Points). This factor contains three sub-factors:

(1) Your goals and objectives,

(2) The quality and cost-effectiveness of your proposed work plan, and

(3) Proposed budget.

Higher points will be given to applications that contain approaches with clearly articulated goals, activities and sub-activities, and demonstrate a logical progression of implementation steps.

(1) Project Goals (10 Points). Describe:

(a) The goals and objectives for your project based on the need described under Rating Factor 2, and

(b) How proposed activities would address your goals and HUD's policy priorities. See the General Section for information on HUD's policy priorities. The policy priorities that are applicable to the Lead Outreach grant NOFA and that are eligible for one point each are: (1) Improving our Nation's Communities (focus on distressed communities); and (2) providing full and equal access to grass-roots faith-based and other community-based organizations in HUD program implementation. Removal of regulatory barriers to affordable housing is eligible for up to 2 points provided the required documentation, as specified in form HUD 27300 (Removal of Regulatory Barriers), is part of the application submission to HUD. Applicants may also provide a Web site URL for a Web site where the required documentation is readily accessible for use.

(2) Work Plan (20 Points). This portion of the response will be evaluated based on the extent to which the proposed work plan demonstrates the following:

(a) The general approach and overall strategy to achieve stated goals. For maximum points for this factor, clearly define the relationship between a community's needs (goals) and proposed activities;

(b) Specific, measurable and time-phased objectives for each major program activity, accompanied by a complementary schedule indicating proposed date(s) of completion (in three-month intervals);

(c) Specific services and/or activities. The work plan must identify all major tasks and list all proposed activities in sequential order. Describe in detail how you will identify and serve participants receiving services, especially participants in high-risk groups and communities, vulnerable populations and persons traditionally underserved. Include a brief, concise outreach strategy or marketing plan, as applicable, in the work plan and list on the Logic Model (submitted under Rating Factor 5). Applicants must identify their approaches to overcoming poor response, attendance or participation difficulties. Explain how you will ensure that proposed activities do not duplicate activities by others for the target area previously completed or currently underway;

(d) Identify the personnel responsible for major tasks;

(e) Products or outputs and expected outcomes or impacts;

(f) Proposed methods to research existing materials or develop new ones, and print and disseminate materials for outreach, training or TA. Describe how you will ensure that materials will be of consistently high quality and technically sound;

(g) The quality of the plan to manage the project. Include details about your management and financial systems, and how you will track and ensure the cost-effectiveness of expenditures and will link them to specific activities;

(h) How you propose to coordinate with HUD field offices and HUD program personnel, as applicable, in their applications; and

(i) A detailed description of how you will make materials available in alternative formats for persons with disabilities (e.g., Braille, audio, large type) upon request, and provide materials in languages other than English that are common in the community, consistent with HUD's published Limited English Proficiency (LEP) Recipient Guidance, 68 FR 70968.

(j) Institutionalization (applies to outreach and training category applicants only). A detailed description of how the applicant plans to mainstream lead poisoning prevention into its regular, permanent programs. To evaluate institutionalization, HUD will evaluate the extent to which the applicant (and partners) demonstrate:

(i) Commitment to undertake project activities in the future;

(ii) Support and involvement of the applicant's organizational leadership;

(iii) Commitment to include lead-related work in decisions affecting policy and program development; and,

(iv) Evidence of mainstreaming of permanent lead safety content into programmatic materials, outreach, training, and technical assistance initiatives.

In evaluating this sub-factor, HUD will also assess the probability of success of the program, the significance of the tasks identified, and how realistic the proposed time frames are. HUD will consider the extent to which proposals in the outreach category demonstrate the following characteristics derived from HUD's evaluation of successful outreach activities in its grant programs:

• Well-functioning, effective program;

• Solid communication capabilities;

• Participation in community events and presentation at small group meetings;

• Well-known and respected in the community;

• Staff that reflect the linguistic and ethnic characteristics of the target community;

• Establish good communication and coordination with sub-grantees;

• Sub-grantees whose primary mission has a clear connection to protecting children from lead poisoning;

• Sub-grantees who are respected in their communities, capable of performing their required duties, and view lead safety as a critical component of serving the target community.

(3) Budget Justification (10 Points). HUD is not required to approve or fund all proposed activities. Your budget will be evaluated for its reasonableness, clear justification, and consistency with the work plan. Submit a narrative justification associated with the budget that documents and explains all budget categories and costs for each major task of the work plan. Identify the source of funds as HUD, match or leverage. Each budget page should identify the entity and project year to which it applies. Higher points will be awarded for greater percentages of sub-contracting and substantive work performed by grassroots organizations, including faith-based and other community-based non-profit organizations, Fair Housing Organizations, advocates for various minority and ethnic groups, and persons with disabilities.

In completing the budget forms and justification, you should address the following specific elements:

(a) Direct Labor. Direct Labor costs should include all full- and part-time staff required for the planning and implementation phases of the project. These costs should be based on full time equivalent (FTE) or hours per year (hours/year) (i.e., one FTE equals 2,080 hours/year);

(b) Travel to HUD Meetings. You should budget for three trips to HUD Headquarters in Washington, DC, planning each trip for two people for 2 or 3 days, depending on your location;

(c) Sub-grantee and Sub-recipient Budgets. A separate budget proposal must be provided for any sub-recipient(s) receiving greater than 10 percent of the total federal budget request;

(d) Provide supporting documentation for salaries and cost of materials and equipment;

(e) Federally Negotiated Indirect Cost Rate. Organizations that have a federally negotiated indirect cost rate should provide documentation of that rate. Organizations not having a federally negotiated rate schedule must obtain a rate from their cognizant federal agency. Applicant and sub-grantee budgets should reference only their own indirect cost rates.

d. Rating Factor 4: (15 points). This factor evaluates ability to: (1) Contribute matching resources from your organization; (2) leverage (secure) other public and/or private sector resources (such as financing, supplies, or services) that can be added to HUD's funds to perform eligible activities; and, (3) sustain your proposed project from sources other than HUD. Ten (10) percent matching is required for funding eligibility and represents the applicant's contribution to the project. Leveraging, from entities other than the applicant, is not required for eligibility. Higher points will be awarded for higher percentages of matched and/or leveraged resources, compared to the amount of HUD funds requested. To receive points for match and leverage, all contributions promised during the period of performance must be expressed in dollar values and documented in a commitment letter submitted with the application from a responsible official of each contributing organization. Matching funds must be provided unconditionally. Indirect costs cannot be used as matching contributions in excess of the required ten (10) percent match. For more information on matching and leveraging resources, see OHHLHC's Web site at www.hud.gov/offices/lead.

e. Rating Factor 5: Achieving Results and Program Evaluation (15 points). This rating factor reflects HUD's goal to embrace high standards of ethics, management, and accountability. Describe in detail your needs and service activities, identify the outputs and short-term, intermediate-term and long-term outcomes. State clearly the project activities including specific goals (“benchmarks”) of each activity and how you will achieve those goals. Describe how you will measure the results. Provide your goals, inputs, activities, outcomes and performance benchmarks (goals) for the entire grant period. In the narrative, explain how you will document and track your goals, program activities, and schedules. Identify the procedures you will follow to make adjustments to your work plan to improve performance if benchmarks are not met within established timeframes.

Applicants must complete and return the Logic Model Form HUD-90610. HUD is moving to a standardized “Master” Logic Model from which you can select needs, activities, and outcomes appropriate to your program. See the General Section for detailed information on use of the “Master” Logic Model. HUD is requiring grantees to use program-specific questions to self-evaluate the management and performance of their program. For FY2006, HUD is considering a new concept for the Logic Model. The new concept is a Return on Investment statement. HUD will be publishing a separate notice on the ROI concept. Training on HUD's Logic Model and reporting requirements for addressing the Management questions will be provided via satellite broadcast. In evaluating Rating Factor 5, HUD will consider how you have described the benefits and outcome measures of your program. HUD will also consider the evaluation plan, to ensure the project is on schedule and within budget. Information about developing a Logic Model is available at: http://www.hud.gov/offices/admin/grants/fundsavail.cfm.

f. Bonus Points for Federally Designated Zones and Communities (2 points). HUD will award two bonus points to each application that includes a valid form HUD-2990 certifying that the proposed activities/projects in the application are consistent with the strategic plan for an empowerment zone (EZ) designated by HUD or the United States Department of Agriculture (USDA), the tax incentive utilization plan for an urban or rural renewal community designated by HUD (RC), or the strategic plan for an enterprise community designated in round II by USDA (EC-II) and that the proposed activities/projects will be located within the RC/EZ/EC-II identified above and are intended to serve the residents. A listing of the RC/EZ/EC-IIs is available on the Internet at http://www.hud.gov/cr.

B. Reviews and Selection Process

1. Rating and Ranking. Awards will be made in rank order for applications within the limits of funds available.

2. Partial Funding. In the selection process, HUD reserves the right to offer partial funding to any or all applicants. If you are offered a reduced grant amount, you will have a maximum of 14 calendar days to accept such a reduced award. If you fail to respond within the 14-day limit, you shall be considered to have declined the award. Please see the General Section for a discussion of adjustments to funding that may be made by HUD during the selection process.

3. Remaining Funds. See the General Section for HUD's procedures if funds remain after all selections have been made.

4. Minimum Points for Award. Your application must receive a total score of at least 75 points to be considered for funding.

C. Anticipated Announcement and Award Dates

HUD anticipates announcing awards under this program on or about October 1, 2006.

VI. Award Administration Information

A. Award Notices

1. Notice of Award. Applicants that have been selected for award will be notified by letter from the Grant Officer. The letter will state the program for which the application has been selected, the amount the grantee is eligible to receive, and the name of the Government Technical Representative (GTR). This letter is not an authorization to begin work or incur costs under the grant.

2. Negotiations. HUD may require that selected applicants participate in negotiations to determine the specific terms of the grant agreement and budget. In cases where HUD cannot successfully conclude negotiations with a selected applicant or a selected applicant fails to provide HUD with requested information, an award will not be made to that applicant. In this instance, HUD may offer an award, and proceed with negotiations with the next highest-ranking applicant. If you accept the terms and conditions of the grant, you must return your signed grant agreement by the date specified during negotiation.

3. Award Adjustments. Additionally, HUD may adjust the amount of funds allocated for specific geographical areas to fund National TA providers and other TA providers for activities that cannot be fully budgeted for or estimated by HUD at the time this NOFA was published. HUD may also require selected applicants, as a condition of funding, to provide coverage on a geographically broader basis than proposed in order to supplement or strengthen the TA network in terms of the size of the area covered and types and scope of TA proposed. If funds remain after all selections have been made, the remaining funds may be redistributed for Local TA and/or used for National TA, or made available for other TA program competitions.

4. LOCCS Payment System. After receiving the letter, additional instructions on how to have the grant account entered into HUD's Line of Credit Control System (LOCCS) payment system will be provided. Other forms and program requirements will also be provided.

5. Start of Work. All awardees are expected to commence activity immediately upon completion of budget and work plan negotiations, and execution of the grant agreement.

6. Applicant Debriefing. See the General Section for information regarding unsuccessful applicant debriefing.

B. Administrative and National Policy Requirements

1. Environmental Review. In accordance with 24 CFR 50.19(b)(2), (b)(3) and (b)(9), activities assisted under this program are categorically excluded from the requirements of the National Environmental Policy Act of 1969 (42 U.S.C. 4321) and are not subject to environmental review under the related laws and authorities.

2. HUD Reform Act of 1989. Applicants must comply with the requirements for funding competitions established by the HUD Reform Act of 1989 (42 U.S.C. 3531 et seq.) as defined in the General Section.

3. Audit Requirements. Any grant recipient that expends $500,000 or more in federal financial assistance in a single year must meet the audit requirements established in 24 CFR parts 84 and 85 in accordance with OMB Circular A-133. In accordance with OMB Circular A-133 (Audits of States, Regional/local Governments and Non-Profit Organizations), grantees will have to submit their completed audit-reporting package along with the Data Collection Form (SF-SAC) to the Single Audit Clearinghouse, at the address obtained from their Web site. The SF-SAC can be downloaded at: http://harvester.census.gov/sac/.

4. Timely Hiring of Staff. HUD reserves the right to terminate grant awards made to applicants that fail to timely hire (within 90 days of award) staff to fill key positions identified in the applicant's proposal as vacant.

5. Executive Order 13202. Compliance with HUD regulations at 24 CFR 5.108 that implement Executive Order 13202, “Preservation of Open Competition and Government Neutrality Towards Government Contractors' Labor Relations on Federal and Federally Funded Construction Projects”, is a condition of receipt of assistance under this NOFA.

6. Procurement of Recovered Materials. See the General Section for further information.

7. Conducting Business in Accordance with HUD Core Values and Ethical Standards. Refer to the General Section for information about conducting business in accordance with HUD's core values and ethical standards.

C. Reporting

The following items are Post-Award Reporting Requirements.

1. Final Budget and Work Plan. Final budget and work plans are due 60 days after the effective date of the grant.

2. Racial and Ethnic Data Reporting Form. For all activities that involve working directly with beneficiaries, HUD requires that funded recipients collect racial and ethnic beneficiary data. HUD does not require Outreach awardees to report ethnic and racial beneficiary data as part of their application package. However, such data must be reported annually, at a minimum, during the implementation of your program. You must use the Office of Management and Budget's Standards for the Collection of Racial and Ethnic Data to report these data, using Form HUD-27061, Racial and Ethnic Data Reporting Form, found on www.grants.gov, along with instructions for its use, or a comparable electronic data system for this purpose.

3. Progress reporting. Progress reporting is done on a quarterly basis. For specific reporting requirements, see policy guidance at: http://www.hud.gov/offices/lead. OHHLHC awardees submit quarterly reports via an on-line reporting system. Beginning in FY 2006, OHHLHC will use the awardee's Logic Model to measure its performance. The quarterly report must reflect all benchmarks (output goals) and proposed outcomes (results) that are indicated on the Logic Model with an associated cost estimate. Attaching a dollar value to the outputs and outcomes enables awardees to meet HUD's reporting requirements.

4. Final Report. An overall final grant report, due at the completion of the grant, will detail activities (e.g., the number of low-income housing units enrolled in lead hazard treatment programs as a result of activities performed under this grant, number and type of materials produced, activities conducted, evaluation of the various outreach and educational methods used, findings, and recommended future actions at the conclusion of grant activities). The final report shall include final project benchmarks and milestones achieved against the proposed benchmarks and milestones in the Logic Model (Form HUD-96010) approved and incorporated into your award agreement.

VII. Agency Contacts

For programmatic questions, you may contact Jonnette Hawkins, Office of Healthy Homes and Lead Hazard Control; telephone (202) 755-1785, extension 7593 (this is not a toll-free number) or via e-mail at Jonnette_G._Hawkins@hud.gov. For grants administrative questions, you may contact Mr. Royal Rucker, Office of Healthy Homes and Lead Hazard Control; telephone (202) 755-1785, extension 7584 (this is not a toll-free number) or via e-mail at Royal A. Rucker@hud.gov. If neither of these individuals is available, you may contact the Office's general Lead Regulations hotline, at (202) 755-1785, extension 7698. Your call will be forwarded in one business day for subsequent response by the appropriate staff. If you are a hearing-or speech-impaired person, you may reach the above telephone numbers through TTY by calling the toll-free Federal Information Relay Service at 800-877-8339.

VIII. Other Information

For additional information about this NOFA, program, or for general, technical, and grant program information pertaining to the Office of Healthy Homes and Lead Hazard Control, visit: http://www.hud.gov/offices/lead.

IX. Paperwork Reduction Act

The information collection requirements contained in this document have been approved by the Office of Management and Budget (OMB) under the Paperwork Reduction Act of 1995 (44 U.S.C. 3501-3520) and assigned OMB control number 2539-0015. In accordance with the Paperwork Reduction Act, HUD may not conduct or sponsor, and a person is not required to respond to, a collection of information unless the collection displays a currently valid OMB control number. Public reporting burden for the collection of information is estimated to average 80 hours per annum per respondent for the application and 16 hours per annum for grant administration. This includes the time for collecting, reviewing, and reporting the data for the application, semi-annual reports, and final report. The information will be used for grantee selection and monitoring the administration of funds. Response to this request for information is required in order to receive the benefits to be derived.

BILLING CODE 4210-01-P

Healthy Homes Demonstration Program

Overview Information

A. Federal Agency Name: Department of Housing and Urban Development, Office of Healthy Homes and Lead Hazard Control (OHHLHC).

B. Funding Opportunity Title: Healthy Homes Demonstration Program.

C. Announcement Type: Initial announcement.

D. Funding Opportunity Number: The Federal Register number is: FR-5030-N-10. The OMB Paperwork approval number is: 2539-0015.

E. Catalog of Federal Domestic Assistance (CFDA) Number(s): 14.901 Healthy Homes Demonstration Program.

F. Dates: The application deadline date is June 7, 2006. Applications submitted through http://www.grants.gov must be received and validated by grants.gov no later than 11:59:59 pm eastern time on the application deadline date. See the General Section IV, regarding application submission procedures and timely filing requirements.

G. Additional Overview Content Information. 1. Purpose of the Program. The purpose of the Healthy Homes Demonstration Program is to develop, demonstrate, and promote cost-effective, preventive measures to correct multiple safety and health hazards in the home environment that produce serious diseases and injuries in children of low-income families.

2. Available Funds. HUD anticipates that approximately $4,370,000 million in fiscal year 2006 and prior year funds will be available.

3. Number of Awards. Approximately four to approximately six cooperative agreements will be awarded ranging up to a maximum of $1,000,000, and an award will be made to resolve a funding error under the fiscal year 2004 Healthy Homes Demonstration NOFA.

4. Eligible Applicants. Include not-for-profit institutions and for-profit firms, located in the U.S., state and local governments, federally recognized Indian Tribes, and colleges and universities. For-profit firms are not allowed to make a profit from the project.

5. Type of award. Cooperative Agreement.

6. Match. None required, but strongly encouraged.

7. Limitations. There are no limitations on the number of applications that each applicant can submit.

8. Information on application. The applications for this NOFA can be found at www.grants.gov. The General Section contains information about Grants.gov registration, submission requirements, and submission procedures.

Full Text of Announcement

I. Funding Opportunity Description

A. Background

The Healthy Homes Demonstration Program is a part of HUD's Healthy Homes Initiative (HHI). In April 1999, HUD submitted to Congress a preliminary plan containing a full description of the HHI. This description (Summary and Full Report) is available on the HUD Web site at: http://www.hud.gov/offices/lead/reports/HHIFull.pdf; this site also contains additional information on the HHI and a link to its Web site.

HUD believes that it is important for grantees to incorporate meaningful community participation, to the greatest extent possible, in the development and implementation of programs that are conducted in communities and/or involve significant interaction with community residents. Community participation can improve program effectiveness in various ways, including the development of more salient program objectives, recruitment and retention of study participants, participants' understanding of the program, ongoing communication, and more effectively disseminating study findings.

HUD encourages applicants to consider using a “community based participatory research (CBPR)” approach, where applicable, in study design and implementation. (See, e.g., the report published by the National Institute of Environmental Health Sciences titled “Successful Models of Community-Based Participatory Research” at: http://www.niehs.nih.gov/translat/pubs.htm). CBPR is characterized by substantial community input in all phases of a study (i.e., design, implementation, data interpretation, conclusions, and communication of results). The HHI seeks proposals that provide a coordinated approach to address multiple hazards caused by a limited number of building deficiencies. The HHI approach should result in substantial savings since separate visits to a home by an inspector, public health nurse, or outreach worker can add significant costs.

In addition to deficiencies in basic housing facilities that may impact health, changes in the U.S. housing stock and more sophisticated epidemiological methods and biomedical research have led to the identification of new and often more subtle health hazards in the residential environment. While such health hazards will tend to be found disproportionately in housing that is substandard (e.g., structural problems, lack of adequate heat, etc.), these environmental health hazards also exist in housing that is otherwise of good quality. A brief description of the housing-associated health and injury hazards HUD considers key targets for intervention can be found on HUD's website at: http://www.hud.gov/offices/adm/grants/fundsavail.cfm. The website also lists some of the references that serve as the basis for the information provided in the Healthy Homes Demonstration Program NOFA.

B. Healthy Homes Initiative Goals

1. Develop and implement demonstration projects that address multiple housing-related problems affecting the health of children;

2. Mobilize public and private resources, involving cooperation among all levels of government, the private sector, and grassroots community-based, nonprofit organizations, including faith-based organizations, to develop the most promising, cost-effective methods for identifying and controlling housing-based health hazards;

3. Build local capacity to operate sustainable programs that will prevent and control housing-based health hazards in low- and very low-income residences when HUD funding is exhausted; and

4. Affirmatively further fair housing and environmental justice. HUD encourages applicants to undertake specific activities that will assist the Department in implementing its Policy Priorities. HUD's fiscal year 2006 Policy Priorities are discussed in the General Section.

C. Healthy Homes Demonstration Objectives

The objectives of the Healthy Homes Demonstration Program include direct remediations, (that include assessment of housing-related hazards), education and outreach and capacity building. HUD recognizes that, in many cases, activities may meet multiple objectives. Awardees must expend at least 65% of grant funds on direct remediations in the home.

1. Direct remediations that target children in homes where environmental triggers may be contributing to the child's illness may include the following kinds of activities:

a. As part of your targeted home intervention program, development of cost-effective protocols for identifying homes that are candidates for remediations, identifying health hazards in these homes, and screening out homes where structural or other factors (e.g., cost) make remediations impractical;

b. As part of your targeted home intervention program, development of appropriately scaled, flexible, cost-effective and efficient assessment and intervention strategies that take into account the range of unhealthy conditions encountered in housing, that maximize the number of housing units that receive remediations and the number of positive or negative health outcomes as a result. HUD believes health outcomes are an important component of this NOFA and wants to assess how remediations affect the health of the population being served, and be able to compare with the population at large. Therefore any health outcome, positive, negative or neutral, should be documented where appropriate.

c. As part of your targeted home intervention programs, development of methodologies for evaluating intervention effectiveness and assessing the effect of the intervention on resident or program participant health.

2. Education and outreach that furthers the goal of protecting children from environmentally induced illness, including:

a. Targeting, through education and outreach, specific high-risk communities and other identified audiences such as homeowners, landlords, health care deliverers, pregnant women, children, residential construction contractors, maintenance personnel, housing inspectors, real estate professionals, home buyers, and low-income minority families;

b. Development and delivery of public outreach programs that provide information about effective methods for preventing housing-related childhood diseases and injuries, and promote the use of these remediations, especially in low- and very low-income residences;

c. Increased public awareness of housing-related health hazards that threaten children, through the use of media strategies using print, radio and television, including the use of minority media and provision of materials in alternative formats and materials for populations with Limited English Proficiency (LEP)).

3. Capacity Building in the target community to assure Healthy Homes programs are sustained beyond the life of the award period, including:

a. Development of local capacity in target areas for target groups to operate sustainable programs to prevent and control housing-based health hazards.

The authority for this program is sections 501 and 502 of the Housing and Urban Development Act of 1970 and the Consolidated Appropriations Act, 2006 (Transportation, Treasury, Housing and Urban Development, the Judiciary, the District of Columbia, and Independent Agencies Appropriations Act, 2006 Public Law 109-115, 119 Stat. 2396, approved: November 30, 2006.)

II. Award Information

A. Funding Available

Approximately $4,370,000 million in fiscal year 2006 funds are available for the Healthy Homes Demonstration Program cooperative agreements, of which HUD will award a grant of $1,000,000 in fiscal year 2006 funds to Self-Help, Inc., Avon, MA, to resolve a funding error under the fiscal year 2004 Healthy Homes Demonstration Program NOFA, in accordance with Sec. VI.A.3 of the fiscal year 2004 General Section. HUD anticipates that approximately four to six cooperative agreements will be awarded, ranging up to and including $1,000,000.

Applicants may wish to review of currently funded grants on the Healthy Homes Web site at http://www.hud.gov/offices/adm/grants/fundsavail.cfm/offics/adm/grants/fundsavail.cfm.

B. Anticipated Start Date and Period of Performance for New Cooperative Agreements

The start date for new Cooperative Agreements is expected to be October 1, 2006, with a period of performance not to exceed 36 months. Applicants may need to plan studies with performance periods less than 36 months, if necessary to include adequate time for the Institutional Review Board process, recruitment of study participants, and development of new methods (e.g., survey forms, data base, etc).

III. Eligibility Information

A. Eligible Applicants

Eligible applicants include not-for-profit institutions and for-profit firms, located in the U.S., state and local governments, and federally recognized Indian Tribes. For-profit firms are not allowed to make a profit from the project.

B. Cost Sharing or Matching

Cost sharing or matching is not required. In rating your application, however, HUD will award a higher score under Rating Factor 4 if you provide evidence of significant leveraging.

C. Other

1. Threshold Requirements Applicable to All Applicants Under the SuperNOFA

As an applicant, you must meet all the threshold requirements described in the General Section. Applications that do not address the threshold items will not be funded. Cooperative agreements will be awarded on a competitive basis following evaluation of all proposals according to the rating factors described in this NOFA. A minimum score of 75 out of a possible 102, which includes up to 2 bonus points for activities proposed to be located in RC/EZ/EC-II communities is required for award consideration.

2. Eligible Activities

The following activities and support tasks are eligible under the Healthy Homes Demonstration Program.

a. Evaluating housing to determine the presence of health hazards (e.g., moisture intrusion, mold growth, pests and allergens, unvented appliances, exposed steam pipes or radiators, deteriorated lead-based paint) through the use of accepted assessment procedures.

b. Remediating existing housing-based health hazards and addressing conditions that could recur.

c. Undertaking rehabilitation activities to effectively control housing-based health hazards, without which the intervention could not be completed and maintained. Funds under this program may only be used to address lead-based hazards at the de minims level (see 24 CFR 35.1350(d)). Such lead hazard evaluation and/or controls may not be a principal focus of the cooperative agreement or grant. (Lead hazard evaluation control activities are carried out under HUD's Lead-Based Paint Hazard Control Grant Program, Lead Hazard Demonstration Grant Program, Operation Lead Elimination Action Program, and Lead Outreach Grant Program.) For information about conducting de minims remediation for lead-based paint hazards, refer to the HUD Guidelines for the Evaluation and Control of Lead-Based Hazards in Housing (HUD Guidelines). The Guidelines and/or applicable regulations may be downloaded from HUD's Web site at www.hud.gov/offices/lead/leadsaferule/LSFRFinal_21June04.rte.

d. Carrying out temporary relocation of families and individuals while the remediation is conducted and until the time the affected unit receives clearance for re-occupancy. See the General Section and Section VI.B.4 of this NOFA for discussion of regulations that apply when relocating families.

e. Environmental sampling and medical testing to protect the health of the intervention workers, supervisors, and contractors, unless reimbursable from another source.

f. Conducting testing, analysis, and mitigation for lead, mold, carbon monoxide and/or other housing-related health hazards as appropriate, following generally accepted standards or criteria. A laboratory recognized by the Environmental Protection Agency's (EPA's) National Lead Laboratory Accreditation Program (NLLAP) must analyze clearance dust samples related to lead-based paint. Samples to be analyzed for fungible submitted to a laboratory accredited in the Environmental Microbiological Laboratory Accreditation Program (EMLAP), administered by the American Industrial Hygiene Association (AIHA).

g. Carrying out necessary architectural, engineering and work specification development and other construction management services.

h. Providing training on Healthy Homes practices to homeowners, renters, painters, remodelers, and housing maintenance staff working in low- or very low-income housing.

i. Providing cleaning supplies for hazard intervention and hazard control to grassroots community-based nonprofit organizations, including faith-based organizations, for use by homeowners and tenants in low-income housing, or to such homeowners and tenants directly. (See the General Section for more information about grassroots community-based nonprofit organizations, including faith-based organizations.)

j. Providing modest incentives (financial or other, i.e. coupons for a video rental, coupons for groceries; stipends for completion of surveys, child care, cleaning kits, etc.) subject to approval by HUD, to encourage recruitment and retention in the interventions, participation in educational and training activities and other program-related functions.

k. Conducting community education programs on environmental health and safety hazards. Materials should be available in alternative formats for persons with disabilities (e.g., Braille, audio, large type) upon request, and in languages other than English that are common in the community, consistent with HUD's published “Limited English Proficiency (LEP) Recipient Guidance” (see http://www.hud.gov/offices/fheo/promotingFH/LEP/cfm).

l. Securing liability insurance for housing-related health hazard evaluation and control activities. This is not considered an administrative cost.

m. Supporting data collection, analysis, and evaluation of project activities. (As a condition of the receipt of financial assistance under this NOFA, all successful applicants will be required to cooperate with all HUD staff and contractors performing HUD funded research and evaluation studies.)

3. Program Requirements

In addition to the program requirements in the General Section, applicants must also meet the following program requirements.

a. Institutional Review Board (IRB) Approval. In conformance with the Common Rule (Federal Policy for the Protection of Human Subjects, codified by HUD at 24 CFR 60.101), if your grant activities include research involving human subjects, your organization must provide an assurance (e.g., a letter signed by an appropriate official) that the research has been reviewed and approved by an IRB before you can initiate activities that require IRB approval. You must also provide the number for your organization's assurance (i.e., an “institutional assurance”) that has been approved by the Department of Health and Human Service's Office of Human Research Protections (OHRP). For additional information on what constitutes human subject research or how to obtain an institutional assurance see the OHRP Web site at: http://www.hhs.gov/ohrp.

b. HIPAA Authorization. The Privacy Rule of the Health Insurance Portability and Accountability Act of 1996 requires covered entities that transmit health information electronically (health care providers, health plans, etc.) to protect that information. This may be accomplished by obtaining authorization from the patient or parent, obtaining a waiver of authorization from an IRB or HIPAA Privacy Board or de-identifying data. You should identify whether your proposal will fall under the HIPAA Privacy Rule and if so how you plan to address these requirements. Additional information on HIPAA and the Privacy Rule can be found at http://www.hhs.gov/ocr/hipaa.

c. Community Involvement. Applicants must incorporate meaningful community involvement throughout the entire program in any study that requires a significant level of interaction with a community (e.g., projects being conducted within occupied dwellings or which involve surveys of community residents). A community is made up of various groups of persons who have commonalities that can be identified (e.g., based on geographic location, ethnicity, health condition, common interests). Applicants should identify the community that is most relevant to their particular project. There are many different approaches to involving the community in the conception, design, and implementation of a project and the subsequent dissemination of findings. Examples include, but are not limited to: Establishing a structured approach to obtain community input and feedback (e.g., through a community advisory board); including one or more community-based organizations as study partners; employing community residents to recruit study participants and collect data; and enlisting the community in the dissemination of findings and translation of results into improved policies and/or practices. A discussion of community involvement in research involving housing-related health hazards can be found in Chapter 5 of the Institute of Medicine publication titled “Ethical Considerations for Research on Housing-Related Health Hazards Involving Children,” at: http://www.iom.edu/cms/12552/26004/2981.aspx.

d. Program Performance. Awardees shall take all reasonable steps to accomplish all healthy homes activities within the approved period of performance. HUD will closely monitor the awardee's performance with particular attention to completion of specified activities, deliverables and milestones, and number of units proposed to be assessed or to receive remediation. Any previous requests for no cost extensions will be taken into account when evaluating the capacity of the applicant to do the work under Rating Factor 1.

e. Work Activities. All lead hazard control activities must be conducted in compliance with HUD's Lead-Safe Housing Rule, 24 CFR Part 35. Grantees must also comply with any additional requirements in effect under a state or Native American Tribal Lead-Based Paint Training and Certification Program that has been authorized by the EPA pursuant to 40 CFR 745.320.

f. Compliance with Lead Disclosure Rule. All lead-based paint and lead-based paint hazard test and hazard reduction results must be provided to the owner of the unit, with a statement describing the owner's legal duty to disclose the results to tenants (before initial leasing, or before lease renewal with changes) and buyers (before sale) if the housing was constructed before 1978 (24 CFR Part 35, subpart A). This information may only be used for purposes of remediation of hazards in the unit and not for retribution/eviction. Disclosure of other identified housing-related health or safety hazards to the owner of the unit, for purposes of remediation, is encouraged but not required.

g. Integrated Pest Management. All pest control activities shall incorporate the principles and methods of integrated pest management (IPM). In technical terms, IPM is the coordinated use of pest and environmental information with available pest control methods to prevent unacceptable levels of pest damage by the most economical means and with the least possible hazard to people, property, and the environment. The IPM approach emphasizes a targeted use of pesticides that limits the possibility of human exposure (e.g., as opposed to wide-spread applications) and includes interventions based on the behavior of the target pest (e.g., preventing access to food or water). One source for information on IPM is Environmental Health Watch; you can download information from its web site: http://www.ehw.org/Asthma/ASTH_Cockroach_Control.htm.

h. Dust Sampling Protocol. Awardees collecting samples of settled dust from participant homes for environmental allergen analyses (e.g., cockroach, dust mite) will be required to use a standard dust sampling protocol, unless there is a strong justification to use an alternate protocol. The HUD protocol is posted on the OHHLHC Web site at: http://www.hud.gov/offices/lead/techstudies/allergen-dust-sample.protocol.doc. Awardees conducting these analyses will also be required to include quality control dust samples, provided by OHHLHC at no cost, with the samples that are submitted for laboratory analyses. For the purpose of budgeting laboratory costs, assume that 5% of your total allergen dust samples would consist of QC samples.

i. Hazardous Waste Disposal. Awardees must follow procedures for hazardous waste disposal as required by the EPA (e.g., 40 CFR parts 61, 260-282, 300-374, and/or 700-799, as applicable), the Department of Transportation (e.g., 49 CFR parts 171-177), and/or appropriate state or local regulatory agencies.

j. Worker Protection Procedures. Awardees must comply with the procedures for worker protection established in the HUD Guidelines as well as the requirements of OHSA, e.g., 29 CFR part 1910 and/or 1926, as applicable, or the state or local occupational safety and health regulations, whichever are more stringent.

k. Written Policies and Procedures. You must have written policies and procedures for all phases of interventions, including evaluation, development of specifications, financing, occupant relocation, independent project inspection, and clearance testing (e.g., for mold, lead, carbon monoxide or other hazards, as applicable). You and all your subcontractors, sub-recipients, and their contractors must comply with these policies and procedures.

l. Data Collection and Provision. You must collect, maintain, and provide to HUD the data necessary to document the various approaches used to evaluate and control housing-based health hazards, including evaluation and control methods, building conditions, medical and familial information (with confidentiality of individually-identifiable information ensured) in order to determine the effectiveness and relative cost of these methods.

m. Section 3 Employment Opportunities. Recipients of assistance in the Healthy Homes Demonstration Program must comply with Section 3 of the Housing and Urban Development Act of 1968, 12 U.S.C. 1701u (Economic Opportunities for Low- and Very Low-Income Persons in Connection with Assisted Projects) and the HUD regulations at 24 CFR part 135, including the reporting requirements of subpart E. See Section V, Rating Factor 3 for recommendations for implementing Section 3 Employment Opportunities.

n. Conducting Business in Accordance with HUD Core Values and Ethical Standards. If awarded assistance under the Healthy Homes Demonstration NOFA, you will be required to submit a copy of your code of conduct and describe the methods you will use to ensure that all officers, employees, and agents of your organization are aware of your code of conduct. If you previously submitted your Code of Conduct to HUD and it appears in the listing on HUD's Web site at http://www.hud.gov/offices/adm/grants/codeofconduct/conduct.cfm, you do not have to resubmit the information unless there has been a change in the legal name, address or authorizing official for your organization. See the General Section for information about conducting business in accordance with HUD's core values and ethical standards.

4. DUNS Requirement

Refer to the General Section for information regarding the DUNS requirement.

IV. Application and Submission Information

A. Web Address To Access an Application Package

Copies of this published NOFA and application forms for this program may be downloaded from the Grants.gov Web site at http://www.grants.gov. If you have difficulty accessing the information you may call the Grants.gov helpline toll-free at (800) 518-GRANTS or e-mail Support@grants.gov. Helpline customer representatives will assist you in accessing the information.

B. Content and Form of Application Submission

The following provides instructions on the items to be submitted as part of the application. See the General Section for instructions for submitting third party documents and electronic files.

1. An abstract describing the goals and objectives of your proposed program (2-page limit, single-spaced, 12-point standard font, ¾-inch margins) must be included in the proposal. The abstract should include the title of your proposed project, the name, mailing address and telephone number of the principal contact person for the primary entity and the same information for sub-contractors, partners, etc.

2. A narrative statement addressing the rating factors for award. Number the pages of your narrative statement and include a header and a footer that provides the name of the applicant and the name of the program to which you are applying. Narrative statements provided as part of the application should be individually labeled to identify the rating factor to which the narrative is responding (e.g. Factor 1, Capacity, etc.). You are strongly advised to use the format of the NOFA as an outline for discussion of your rating factors. The overall response to the rating factors must not exceed a total of 25 pages including all rating factors (single-sided, single-spaced, 12 point standard font, ¾-inch margins). Any pages in excess of this limit will not be read.

3. The score for each rating factor will be based on the rating factor's numbered portion of your narrative statement, supplemented by materials referenced and discussed in that portion of your narrative statement. Information relative to a given rating factor must be contained in the narrative for that rating factor. If it is found in another rating factor, it will not be considered. In addition, supplemental material that is not referenced and discussed within the narrative statements will not be rated.

4. The position descriptions and resumes, if available, of your project director and project manager and up to three additional key personnel (in accordance with Rating Factor 1), not to exceed 2 pages each (single-spaced, 12-point font with ¾-inch margins). This information will not be counted toward the page limit.

5. Any attachments, materials, references, or other relevant information that directly support the narrative must not exceed 20 pages for your entire application. Any pages in excess of this limit will not be read. See the General Section for instructions for submitting third party documents or material not readily available in electronic format.

6. A detailed budget with supporting justification for all budget categories of your funding request, in accordance with Rating Factor 3, (2)(b). This information will not be counted towards the page limits. In completing the budget forms and justification, you should address the following elements:

a. Direct Labor costs should include all full- and part-time staff required for the planning and implementation phases of the project. These costs should be based on full time equivalent (FTE) or hours per year (hours/year) (i.e., one FTE equals 2,080 hours/year).

b. You should budget for three trips for two people to HUD Headquarters in Washington, DC, assuming a 2-3 day stay.

c. A separate budget proposal should be provided for any sub-recipients receiving more than 10 percent of the total federal budget request.

d. You should be prepared to provide supporting documentation for salaries and prices of materials and equipment upon request.

e. Organizations that have a federally negotiated indirect cost rate should use that rate and the appropriate base. Other organizations should submit their proposal with their suggested indirect rate. If they are funded and HUD is the cognizant agency, it will set a rate; otherwise HUD will request the cognizant federal agency to set the rate.

f. You should submit a copy of the negotiated rate agreements for fringe benefits and indirect costs, if applicable, as an attachment to the budget sheets.

7. Applicants are encouraged to use the following checklist to ensure that all required materials have been prepared and submitted. You are not required to submit this checklist with your application.

Checklist for Healthy Homes Demonstration Program Applicants

• Applicant Abstract (limited to 2 pages).

• Rating Factor Responses (Total narrative response limited to 25 pages).

1. Capacity of the Applicant and Relevant Organizational Experience—Form HUD 96012.

2. Need/Extent of the Problem-Form HUD-96016.

3. Soundness of Approach.

4. Leveraging Resources—Form HUD-96015.

5. Achieving Results and Program Evaluation—Form HUD-96010 Logic Model.

• Required materials in response to rating factors (does not count towards 25-page limit).

Form SF 424 Application for Federal Assistance.

Form HUD-424-CB Grant Application Detailed Budget Work Sheet.

Form SF-424 Supplement Survey on Ensuring Equal Opportunity for Applicants (to be completed by private nonprofit organizations only).

Form SF-LLL Disclosure of Lobbying Activities.

Form HUD-2880 Applicant/Recipient Disclosure/Update Report.

Form HUD-2990 Certification of Consistency with the RC/EZ/EC-II Strategic Plan (if applicable).

Form HUD-96011 Facsimile Transmittal to be used as the cover page for faxing third party information for electronic applications only. See the General Section.

Resumes of Key Personnel (limited to 2 pages per resume).

Organizational Chart.

Letters of Commitment (if applicable).

Form HUD-2994-A You are Our Client Grant Applicant Survey (Optional).

• Optional material in support of the Rating Factors (20 page limit).

C. Submission Dates and Times

Electronic applications must be submitted and received and validated by Grants.gov on or before 11:59:59 p.m. eastern time on June 7, 2006. All narrative files and any scanned documents must be submitted as a zip file, single attachment to the electronic application. Refer to the General Section for additional submission requirements. Materials associated to your electronic application submitted by facsimile transmission must also be received by 11:59:59 p.m. eastern time on the application submission date. Applicants submitting a waiver from electronic submission must submit their request at least 15 days before the application due date. If a waiver request is approved, the applicant will receive instructions for submitting the paper application. All paper applications must be received at the appropriate HUD office(s) by the deadline date.

D. Intergovernmental Review

Not required for this submission.

E. Funding Restrictions

1. Administrative Costs. There is a 10% maximum allowance for administrative costs. Additional information about allowable administrative costs is provided in Appendix D of this NOFA at: http://www.hud.gov/offices/adm/grants/fundsavail.cfm.

2. Purchase of Real Property is not permitted.

3. Purchase or lease of equipment having a per unit cost in excess of $5,000 is not permitted, unless prior written approval is obtained from HUD.

4. Medical costs are not permitted.

5. For-profit organizations cannot receive a fee or profit.

6. Applicants must comply with the Coastal Barrier Resources Act (16 U.S.C. 3501).

7. Awardees may not use grant funds for hazard control of a building or manufactured home that is located in an area identified by the Federal Emergency Management Agency (FEMA) under the Flood Disaster Protection Act of 1973 (42 U.S.C. 4001-4128) as having special flood hazards unless:

a. The community in which the area is situated is participating in the National Flood Insurance Program in accordance with the applicable regulations (44 CFR parts 59-79), or less than a year has passed since FEMA notification regarding these hazards; and

b. Where the community is participating in the National Flood Insurance Program, flood insurance on the property is obtained in accordance with section 102(a) of the Flood Disaster Protection Act (42 U.S.C. 4012a(a)). You are responsible for assuring that flood insurance is obtained and maintained for the appropriate amount and term.

F. Other Submission Requirements

HUD requires applicants to submit applications electronically through www.grants.gov unless you request and are granted a waiver to the electronic submission requirements. See the General Section.

V. Application Review Information

A. Criteria

1. Rating and Ranking

Applications will be reviewed by an Application Review Panel (ARP) which will assign each application a numerical score based on the rating factors presented below. The ARP chairperson initially selects and provides at least one application to panel members to score during a calibration round to ensure that all panel members are consistent in their interpretation of the rating factors. When the calibration round is completed, each application is reviewed and scored by at least two panel members who will assign a score based on the rating factors. Each factor is weighted as indicated by the number of points that are attainable for it. An average score is then computed for each application. The ARP chair may call upon an advisor to the ARP to review and comment on a proposal; however, the advisor does not score the application. Nonetheless, advisor comments will be documented and retained as a part of the record. The ARP holds a final meeting to identify the top-ranking applications to be recommended for funding. Awards will be made separately in rank order within the limits of funding availability. The maximum score that can be assigned to an application is 102 points.

Applicants are eligible to receive up to two bonus points for projects located within federally designated Renewable Communities (RCs), Empowerment Zones (EZs), or Enterprise Communities (ECs) designated by USDA in round II (EC-IIs) (collectively referred to as RC/EZ/EC-IIs), and which will serve the residents of these communities (see the General Section). In order to be eligible for the bonus points, applicants must submit a completed Form HUD-2990.

2. Rating Factors

The factors for rating and ranking applicants, and maximum points for each factor, are provided below. Applicants should be certain that these factors are adequately addressed in the narrative relevant to the rating factors and the accompanying materials. Please refer to the guide to Scoring of Rating Factors at: http://www.hud.gov/offices/adm/grants/fundsavail.cfm/offices/adm/grants/fundsavail.cfm.

a. Rating Factor 1: Capacity of the Applicant and Relevant Organizational Experience (15 Points). This factor addresses your organizational capacity necessary to successfully implement your proposed activities in a timely manner. The rating of you or your staff includes any grassroots community-based nonprofit organizations, including faith-based organizations, sub-contractors, consultants, sub-recipients, and members of consortia that are firmly committed to your project. HUD strongly encourages the formation and development of consortia in implementing your project goals. Applicants that either are or propose to partner, fund, or sub-contract with grassroots community-based nonprofit organizations, including faith-based organizations, in conducting their work programs will receive higher rating points as specified in the General Section. In rating this factor, HUD will consider the four items listed below.

(1) Capacity and Qualifications of Principal Investigator and Key Personnel. (6 points). Describe your recent, relevant, and successful demonstrated experience in undertaking eligible program activities. Describe the knowledge and experience of the proposed overall project director and day-to-day project manager in planning and managing large and complex interdisciplinary programs, especially those involving housing, public health, or environmental programs. Include information on your project staff, their experience with housing and health programs, percentage commitment to the project, and position titles. Project directors should make a time commitment of at least 20% and project manager's time commitment should be at least 50%. Resumes of up to two pages each and position descriptions for up to three key personnel in addition to the project director and project manager, and a clearly delineated organizational chart for the Healthy Homes project you propose, must be included in your application submission. Position descriptions and copies of job announcements (including salary range, percent time commitment, specifying percentage covered by the grant) should be included for any key positions that are currently vacant or contingent upon an award. Document that you have sufficient personnel, or will be able to quickly retain qualified personnel to begin your project immediately, and to perform activities in a timely and effective fashion. Successful applicants must hire all key staff positions identified in the proposal as vacant or required in the award agreement within 120 days of award. Describe how principal components of your organization will participate in, or support, your project.

(2) Qualifications of Applicant and Partner Organizations (4 points). Include names, descriptions of the experience and qualifications of subcontractors. Document how you propose to coordinate with and monitor sub-contractors, including frequency of meetings, on site inspections and submission of formal monthly or quarterly reports. Discuss your communication and coordination with partners, including partner responsibilities, meeting frequency, etc. If partners are community-based grassroots, non-profit organizations, including faith-based organizations, include documentation demonstrating their community-based grassroots status, such as organizational profile, 501(c)(3) status, Social Services budget. (Lengthy documents are not required. Face pages or extracted relevant text is adequate.)

(3) Past Performance of the Organization (5 points). This section refers to applicants who have any prior experience in another Healthy Homes or Lead Hazard Control grant, another grant related to environmental health and safety issues, or other experience in a similar program. Provide details about the nature of the project, the funding agency, and your performance, relative to performance measures and the achievement of desired housing- and health-related outcomes. If your organization is an existing Healthy Homes grantee, provide a description of the progress and outcomes achieved in that grant. Current grantees that are on or ahead of target may earn one point based on their demonstrated ability to date. If you received previous Healthy Homes Demonstration funding, you will be evaluated in terms of cumulative progress and achievements under the previous grant.

You must complete and submit the Factor 1, Table 1, posted at www.hud.gov/offices/adm/grants/fundsavail.cfm, to support narrative information. This table in supporting materials for your application. It will not be counted towards your page limit.

b. Rating Factor 2: Need/Extent of the Problem (15 Points). This factor addresses the extent for your proposed activities to document healthy homes and housing-related hazards in your target area(s) and target group(s).

(1) Target Area for Proposed Activities (5 points). Specifically identify a target area for your proposed activities. Document a critical level of need for your proposed activities in this target area by providing data documenting targeted groups that are traditionally underserved or have special needs. For a maximum score, data provided should specifically represent the target area, rather than general statistics or information pertinent to a larger geographic area. If specific statistics are not available, discuss why this is the case.

HUD will award two bonus points to each application that includes a valid Form HUD 2990 certifying that the activities/projects in the application are consistent with the strategic plan for an empowerment zone (EZ) designated by HUD or the United States Department of Agriculture (USDA), the tax incentive utilization plan for an urban or rural renewal community designated by HUD (RC), or the strategic plan for an enterprise community designated in round II by USDA (EZ-II), and that the proposed activities/projects will be located within the RC/EZ/EC-II identified above and are intended to serve the residents.

(2) Link to Housing based Health Hazard (10 points). Your documentation should summarize available data linking housing-based health hazards to disease or injuries to children in your target area. Examples of data that might be used to demonstrate need include:

(a) Economic and demographic data (3 points) including poverty and unemployment rates and the number and percentage of low- and very low-income families with incomes less than 50 percent and 80 percent of the median income, respectively, as determined by HUD, for the area. Statistics that describe low- and very-low income families are available at: http://factfinder.census.gov/home/saff/main.HTML?lang=en. Applicants should also consult local data sources, such as city government web sites, for target area data.

(b) Rates of childhood illnesses (4 points) (e.g., asthma, elevated blood lead levels) or injuries (e.g., falls, burns) among children residing in your target areas that could be caused or exacerbated by exposure to conditions in the home environment; and

(c) The age and condition of housing (3 points). In responding, provide data available in your jurisdiction's currently approved Consolidated Plan and the Analysis of Impediments to Fair Housing Choice (AI) or Indian Housing Plan or derived from current census data or from other sources of comparable quality.

c. Rating Factor 3: Soundness of Approach (50 Points). (1) Approach for Implementing the Project (36 points). HUD is interested in comparability among the Healthy Homes Programs, in order to further standardize outcomes and performance measures. As a result, we have provided at http://www.hud.gov/offices/adm/grants/fundsavail.cfm/offices/adm/grants/fundsavail.cfm, a standardized approach for implementing home remediations. Applicants are encouraged to use this model for carrying out your project activities and designing and implementing your work plan.

(a) Project Approach (3 points). Describe your approach to implement your proposed project. In particular describe the methods, schedule and milestones that will be used to identify and control housing-based health hazards and to achieve the desired improvements in the health of the families you serve. Include summary information about the estimated numbers of clients to be contacted, clients enrolled, units to be assessed, units to receive remediations, individuals to be trained, and individuals or groups that will be reached through education or outreach activities. Health outcome measures, such as pediatric asthma hospitalizations, emergency room visits for asthma, falls, burns, etc., should be documented to the extent possible. The use of tables to describe schedule, milestones and summary data is encouraged.

(b) Start up (4 Points). (i) Describe the process you intend to follow for obtaining IRB approval and HIPAA Authorization, if necessary. In particular, identify the organization that will review your project and provide a timeframe.

(ii) Provide detailed information regarding how program staff and, where applicable, partnering organizations will be trained in the disciplines needed to successfully implement your project (e.g., resident education, assessments and remediations). Include an outline of training curricula, a description of qualifications of trainers, and describe how individuals or groups to be trained will be selected.

(iii) If you are proposing to conduct a study or intervention that includes a significant level of community interaction (e.g., resident recruitment, home-based remediations, data collection, environmental sampling on private property) describe your plan for meaningful involvement of the affected community in your proposed study. You should define the community of interest with respect to your proposed project and discuss why your proposed approach to community involvement will make a meaningful contribution to your project and to the community.

(iv) Describe any proposed involvement of grassroots community-based, nonprofit organizations, including faith-based organizations, in the proposed activities including the development of consortia. These activities may include outreach, community education, marketing, inspection, and housing evaluations and remediations.

(c) Outreach and Recruitment (7 Points). (i) Describe how you will identify, select, prioritize, and enroll units of housing in which you will undertake housing-based health hazard remediations, targeting low-income families with young children under the age of six (72 months) to the extent feasible.

(ii) Describe measures you will perform to sustain recruitment, including incentives, and the staff responsible for both monitoring recruitment status and implementing the measures identified to sustain recruitment.

(iii) Discuss possible recruitment problems, impediments that you anticipate, probability of dropouts and plans to over-recruit to compensate for dropouts.

(iv) Discuss strategies to address the effect of the Health Insurance Portability and Accountability Act (HIPAA) on your recruitment, if applicable.

(v) Describe how you will provide appropriate program information and gain informed consent from the subjects, their parents and guardians, as applicable. Describe how you will ensure that participants understand and consent to the elements of the program such as the purposes, benefits and risks of the research activities.

(vi) Describe your proposed methods to reach high-risk groups and communities, vulnerable populations and persons traditionally underserved.

(vii) Describe how you will affirmatively further fair housing, which would include, but not be limited to: Affirmative marketing of the program to those least likely to apply based on race, color, sex, familial status, national origin, religion, or disability, (especially when persons in these demographic groups are generally not served by the grassroots community-based, nonprofit organizations, including faith-based organizations or other partner organizations); providing materials in alternative formats for persons with disabilities; providing materials in languages other than English for individuals with limited English proficiency and their families; assuring long-term residency by families currently living in the community; and assuring that priority for treated units go to those who need the features (treatment) of the unit.

(d) Unit Assessments, Occupant Health Surveys and Medical Referrals (3 Points). (i) Describe the assessment tools your project will employ to establish baseline data for unit condition, knowledge of program participant and/or the health of the occupant(s). These tools include questionnaires, visual assessment protocols and environmental sampling and analysis.

(ii) Describe your process for evaluating units of housing in which you will undertake housing-based health hazard remediations. Provide the estimated total number of owner-occupied and/or rental units in which you will perform assessments and conduct remediations.

(iii) Describe the process to be followed for referring children for medical case management when needed. Describe the organizations that will be involved in this process and their prior experience serving the target population(s).

(e) Remediations (7 Points). (i) Describe your process for the development of work specifications for the selected physical remediations.

(ii) Discuss your process to select and obtain contractors for conducting remediations in selected units and provide details about the competitive bidding process.

(iii) Discuss efforts to incorporate cost-effective methods to address multiple environmental health and safety hazards, and describe the specific remediations you will employ to control housing-based health hazards before children are affected; and/or to control these hazards in units where children have already been treated for illnesses or injuries associated with housing-based health hazards (e.g., burns, lead poisoning, asthma). In your budget submission, provide an estimate of the cost of each intervention (material costs and labor costs associated with installation) and an estimate of costs projected per unit.

(iv) Discuss how you will assure that the contractor will comply with all applicable Federal regulations.

(v) Describe the financing strategy, including eligibility requirements, terms, conditions, and amounts available, to be employed for conducting housing remediations. You must discuss the way funds will be administered (e.g., use of grants, deferred loans, forgivable loans, other resources, private sector financing, etc.) as well as the agency that will administer the process.

(vi) Describe your plan for the relocation of occupants of units selected for intervention, if temporary relocation is necessary (see Section VI, below). Address the use of safe houses and other housing arrangements, storage of household goods, stipends, incentives, etc., and the source of funding for relocation.

(vii) Describe your plan for ensuring right of return and/or first referral for occupants of units selected for intervention who have had to move for intervention to occur.

(f) Community Education, Outreach and Capacity Building/Training (3 Points). (i) Describe your proposed methods for community and/or targeted education and training. These should include community awareness, education, training, and outreach programs that support your work plan and are culturally sensitive and targeted appropriately. Provide information about specific educational/outreach activities with quantitative data (number of individuals to be reached, etc.) and a description of the intended audience.

(ii) Discuss if Healthy Homes training programs will be expanded to include public housing agencies or Tribally Designated Housing Entities and other potential collaborators, such as grassroots community-based, nonprofit organizations, including faith-based organizations, and if so, your plan for doing this.

(g) HUD's Departmental Policy Priorities (6 Points). Indicate if, and describe how, you will address any of HUD's departmental policy priorities (see General Section). You will receive points for each of the applicable FY 2006 policy priorities that are adequately addressed in your application to a maximum of six points. Policy priorities that are applicable to the Healthy Homes Demonstration NOFA are: (1) Improving our Nation's Communities (focus on distressed communities); (2) Providing Full and Equal Access to Grassroots Community-based, Nonprofit Organizations, including Faith-based Organizations in HUD Program Implementation; (3) Participation of Minority-Serving Institutions in HUD Programs; (4) Removal of Regulatory Barriers to Affordable Housing; and (5) Promoting Energy Efficiency and Energy Star. HUD expects the applicant to implement Energy Star building techniques and utilize Energy Star appliances whenever activities of the grant afford the opportunity. For information on Energy Star Programs and Appliances, see http://oaspub.epa.gov/webi/meta_first_new2.try_these_first; and energystar.gov.

Each policy priority is worth one point, except for policy priority (4), Removal of Regulatory Barriers to Affordable Housing, which is worth up to 2 points, provided the applicant responds to this policy priority as described in this NOFA and submits the required documentation as described in Form HUD 27300. Applicants may also provide a URL website address where the documentation can be readily found.

(h) Economic Opportunity (3 points). To the greatest extent feasible, your project should promote job training, employment, and other economic opportunities for low-income and minority residents and businesses which are owned by, and/or employ, low-income and minority residents as defined in 24 CFR 135.5.

(i) Describe how you or your partners will comply with Section 3 of the Housing and Urban Development Act of 1968 (12 U.S.C. 1701u) and HUD's implementing rules at 24 CFR part 135 by:

(A) Providing training and employment opportunities for low- and very low-income persons living within the awardee's jurisdiction, and by

(B) Purchasing goods and supplies, or contracting for services from businesses owned by low- and very low-income persons living within the targeted jurisdiction; information about Section 3 requirements is available at, http://www.hud.gov/offices/adm/grants/fundsavil.cfm;

(ii) Describe how your proposed project will provide opportunities for self-sufficiency, particularly for persons enrolled in welfare-to-work programs, or providing educational and job training opportunities; and

(iii) Describe the extent to which your proposed activities will occur within a federally designated Renewable Community (RC), Empowerment Zone (EZ), or Enterprise Community designated by USDA in round II (EC-II) as defined in the General Section.

(2) Approach for Managing the Project (9 points). Considering your project goals and objectives, describe how you will manage the project. Provide information on the general management approach including a management plan that:

(a) Incorporates appropriate project objectives, major tasks/activities, responsible entities, performance goals, and the process that you will utilize to assign, track and monitor the performance of major tasks and activities. (All specific activities necessary to complete the proposed project must be included in the task.)

(b) Provides a schedule of milestones and deliverables for the completion of major tasks and activities, and the delivery of interim and final products.

(c) Discusses coordination with sub-recipients, partners and staff.

(d) Describes all quality assurance activities and associated corrective actions.

(3) Budget Justification (5 points). HUD will not review any grant application with an award request greater than $1,000,000. Your proposed budget will be evaluated for the extent to which it is reasonable, clearly justified, and consistent with the project management plan and intended use of program funds. HUD is not required to approve or fund all proposed activities. Your detailed budget should be submitted using Form “HUD-CBW.” An electronic copy is available at: www.grants.gov. You must thoroughly document and justify all budget categories and costs and all major tasks for yourself, sub-recipients, partners, major subcontractors, joint venture participants, or others contributing resources to the project. Include a 2-page (maximum) narrative that describes clearly and in detail your budgeted costs for each required program element (major task) included in your overall plan. (You may include this narrative along with the budget forms; it will not count toward the 25-page limit.) Include a separate, detailed budget for any sub-grantee who would receive 10% or more of the grant funding.

d. Rating Factor 4: Leveraging Resources (5 Points). This factor addresses your ability to secure other community resources (e.g., financing, supplies, or services) that can be combined with HUD's resources to achieve project purposes. These community resources may be contributions from organizations such as the applicant, partners, or other organizations not directly involved in the project. Resources may also be provided by state and local governmental entities.

(1) HUD will consider the extent to which you have developed partnerships or consortia to secure additional resources to increase the effectiveness of your proposed project. Describe how other organizations will participate in or support your project. Resources may include funding or in-kind contributions (e.g., labor, fringe benefits, services, supplies, or equipment) budgeted for your proposed project. Include in the narrative the details of the commitment, the amount being leveraged, or if the commitment is in-kind, the specific names, percent of time, supplies and other resources, and value of each commitment.

(2) The signature of the authorized official on the Form SF-424 commits matching or other contributed resources of the applicant organization. The applicant must obtain a letter of commitment from each organization other than itself that is providing a match, whether cash or in-kind. The letter must describe the contributed resource(s) that will be used in your project and the dollar value of each contribution. Staff and in-kind contributions should be given a market-based monetary value. Each letter of commitment, memorandum of understanding, or agreement to participate shall include the organization's name and the proposed level of commitment and responsibilities as they relate to the proposed project. The commitment must be signed by an official legally able to make commitments on behalf of the organization and dated prior to the deadline date for this NOFA application.

(3) Include information to address the following elements. (i) The extent to which you have coordinated your activities with other known organizations that are not directly participating in your proposed work activities, but with which you share common goals and objectives.

(A) Describe your plan for integrating and coordinating housing-based health hazard interventions with other housing-related activities (e.g., rehabilitation, weatherization, correction of code violations, and other similar work).

(B) Describe your plans to generate and use public subsidies or other resources, such as loan funds, to finance future interventions to prevent and control housing-based health hazards, particularly in families with children under the age of six years (72 months) living in low- and very low-income housing.

(ii) The extent to which your project exhibits the potential to be financially self-sustaining by decreasing dependence on federal funding and relying more on state, local and private funding to continue healthy homes activities after the funding period is completed.

Applicants are to complete the Factor 4 table, Leveraging Resources that is posted at www.hud.gov/offices/adm/grants/fundsavail.cfm/offices/adm/grants/fundsavail.cfm.

e. Rating Factor 5: Achieving Results and Program Evaluation (15 points). This rating factor reflects HUD's goal to embrace high standards of ethics, management and accountability. HUD is committed to ensuring that applicants keep promises made in their applications and assess their performance to ensure that performance goals are met. In your response to this rating factor, you are to discuss the performance goals for your project, and identify specific outcome measures. Identify and discuss the specific methods you will use to measure progress towards your goals, track and report results of assessments and remediations, and evaluate the effectiveness of remediations; identify important project milestones (e.g., the end of specific phases in a multi-phased project) and deliverables specific to your project timeline; and identify milestones that are critical to achieving project objectives (e.g., developing questionnaires or protocols, hiring staff, recruitment of participants, and IRB approval and/or HIPAA Authorization, if applicable); identify benchmarks such as number of units that received intervention, percent of remediations that occurred in high-risk communities, etc., that you will use to track the progress of your project.

Identify how your project will be held accountable for meeting project goals, objectives, and the actions undertaken in implementing the program. Provide assurances that work plans and performance measures developed for your project will be achieved in a timely and cost-effective manner.

Your project should focus particular attention on identifying specific resident, or program participant, health outcomes and describe how these outcomes will be measured. Resident health outcomes do not necessarily require medical testing, such as spirometry or documenting blood lead levels, and may be assessed using questionnaires or other tools. Careful attention should be given to the relationship between the program's remediations (e.g., physical changes in the environment, changes to cleaning protocols, in-home training or provision of education materials) and the effect on resident health.

In evaluating Rating Factor 5, HUD will consider how you have described the benefits and outcome measures of your program. HUD will also consider the proposed objectives and performance objectives relative to cost and achieving the purpose of the program, as well as the evaluation plan, to ensure the project is on schedule and within budget.

You must complete and return the Form HUD-96010. HUD is moving to a standardized “Master” Logic Model with drop down menus from which you can select needs, activities, and outcomes appropriate to your program. See the General Section for detailed information on use of the “Master” Logic Model. HUD is requiring grantees to use program-specific questions to self-evaluate the management and performance of their program. For FY2006, HUD is considering a new concept for the Logic Model. The new concept is a Return on Investment statement. HUD will be publishing a separate notice on the ROI concept. Training on HUD's logic model will be provided via satellite broadcast.

B. Reviews and Selection Process

The review and selection process is provided in the General Section. The General Section also provides the procedures for correcting deficient applications.

VI. Award Administration Information

A. Award Notices

1. Applicants Selected for Award

Successful applicants will receive a letter from the Office of Healthy Homes and Lead Hazard Control Grant Officer providing details regarding the effective start date of the cooperative agreement and any additional data and information to be submitted to execute a cooperative agreement. This letter is not an authorization to begin work or incur costs under the cooperative agreement or grant.

HUD may require that all the awardees participate in negotiations to determine the specific terms of the cooperative agreement or grant and budget. Should HUD not be able to successfully conclude negotiations with a selected applicant, an award will not be made. If the applicant accepts the terms and conditions of the cooperative agreement, a signed cooperative agreement must be returned by the date specified. Instructions on how to have the cooperative agreement account entered into HUD's Line of Credit Control System (LOCCS) payment system will be provided. Other forms and program requirements will be provided. In accordance with OMB Circular A-133 (Audits of States, Local Governments and Nonprofit Organizations), awardees will have to submit their completed audit-reporting package along with the Data Collection Form (SF-SAC) to the Single Audit Clearinghouse. The address can be obtained from their Web site. The SF-SAC can be downloaded at: http://harvester.census.gov/sac/.

2. Debriefing. The General Section provides the procedures for applicants to request a debriefing.

B. Administrative and National Policy Requirements

1. Environmental Requirements

Under the Consolidated Appropriations Act, 2006, the provisions of section 305(c) of the Multifamily Housing Property Disposition Reform Act of 1994, implemented by HUD regulations at 24 CFR part 58, “Environmental Review Procedures for Entities Assuming HUD Environmental Responsibilities,” are applicable to properties assisted with Healthy Homes Demonstration Grant funds. In accordance with part 58, applicants under this NOFA that are States, units of general local governments or Indian Tribes must act as the responsible entity and assume the environmental review responsibilities for activities funded under this NOFA. Other applicants must arrange for the unit of general local government or Indian Tribe to act as the responsible entity. Under 24 CFR 58.11, if a non-recipient responsible entity objects to performing the environmental review, or if a recipient that is not a responsible entity objects to the local or tribal government performing the environmental review, HUD may designate another responsible entity to perform the review or may perform the environmental review itself under the provisions of 24 CFR part 50. Healthy Homes Demonstration grant applicants and other participants in activities under this NOFA may not undertake, or commit or expend federal or non-federal funds (including HUD-leveraged or match funds) for housing interventions, related rehabilitation or other physical activities until the responsible entity completes an environmental review and the applicant submits and obtains HUD approval of a request for release of funds and the responsible entity's environmental certification in accordance with part 58 (or until HUD has completed an environmental review under part 50). The results of environmental reviews on individual projects may require that proposed activities be modified or proposed sites rejected. For assistance, contact Karen Choi, the Office of Healthy Homes and Lead Hazard Control Environmental Officer at (213) 534-2458 (this is not a toll-free number) or the HUD Environmental Review Officer in the HUD Field Office serving your area. If you are a hearing- or speech-impaired person, you may reach the telephone number via TTY by calling the toll-free Federal Information Relay Service at 1-800-877-8339. Recipients of a cooperative agreement under this NOFA will be given guidance in these responsibilities.

2. Executive Order 13202

“Preservation of Open Competition and Government Neutrality Towards Government Contractors' Labor Relations on Federal and Federally-Funded Construction Projects.” See General Section for information concerning this requirement.

3. Procurement of Recovered Materials

See the General Section for information concerning this requirement.

4. Relocation

Any person (including individuals, partnerships, corporations, or associations) who moves from real property or moves personal property from real property directly (1) because of a written notice to acquire real property, in whole or in part, or (2) because of the acquisition of the real property, in whole or in part, for a HUD-assisted activity, is covered by federal relocation statutes and regulations. Specifically, this type of move is covered by the acquisition policies and procedures and the relocation requirements of the Uniform Relocation Assistance and Real Property Acquisition Policies Act of 1970 (URA), as amended, and the implementing government wide regulation at 49 CFR part 24. The relocation requirements of the URA and the government wide regulations cover any person who moves permanently from real property or moves personal property from real property directly because of acquisition, rehabilitation or demolition for an activity undertaken with HUD assistance. While the Healthy Homes Demonstration Grant Program is not HUD assistance, the grantee must relocate families to decent, safe and sanitary housing, and should use the URA as guidance for doing so. If families or individuals are temporarily relocated in a project which utilizes Community Development Block Grant funds, the guidance and requirements of 24 CFR 570.606(b)(2)(i)(D)(1)-(3) must be met. HUD recommends you review these regulations when preparing your proposal. (They can be downloaded from the Government Printing Office Web site at http://www.gpoaccess.gov/cfr/ by entering “24 CFR 570.606” in quotes without any spaces in the Quick Search box.) See Section III.C of the General Section for additional information about relocation.

5. Davis-Bacon Act

The Davis-Bacon Act does not apply to this program. However, if program funds are used in conjunction with other federal programs in which Davis-Bacon prevailing wage rates apply, then Davis-Bacon provisions would apply to the extent required under the other federal programs.

6. Audit Requirements

Any grant recipient that spends $500,000 or more in federal financial assistance in a single year must meet the audit requirements established in 24 CFR part 84 or 85, as applicable, in accordance with OMB Circular A-133.

C. Reporting

Successful applicants will be required to submit quarterly and final program and financial reports according the requirements of the Office of Healthy Homes and Lead Hazard Control. Specific guidance and additional details will be provided to successful applicants. The following items are a part of OHHLHC reporting requirements.

1. Final Work Plan and Budget are due prior to the effective start of the cooperative agreement.

2. Quality Assurance Plan (QAP). Successful Healthy Homes Demonstration applicants that will be collecting housing, demographic or environmental data in a formalized manner for use in assessing effectiveness of the approaches being demonstrated under the cooperative agreement or grant will be required to submit a Quality Assurance Plan (QAP) to HUD prior to initiating work under the cooperative agreement or grant. This is a streamlined version of the format used by some other federal agencies, and is intended to help ensure the accuracy and validity of the data that you will collect under the cooperative agreement or grant. (See the HUD Office of Healthy Homes and Lead Hazard Control's Internet site, www.hud.gov/offices/lead, for the QAP template). Your proposed project activities should include developing this QAP. The QAP will be submitted to HUD as a part of your work plan.3. Progress reports are due on a quarterly basis. Project benchmarks and milestones will be tracked using a benchmark spreadsheet that uses the benchmarks and milestones identified in the Logic Model form (HUD-96010) approved and incorporated into your award agreement. For specific reporting requirements, see policy guidance: www.hud.gov/offices/lead.

4. A final report is due at the end of the project period, which includes final project benchmarks and milestones achieved against the proposed benchmarks and milestones in the Logic Model (HUD-96010) approved and incorporated into your award agreement. Specific information on all reporting requirements will be provided to successful applicants.

5. Racial and Ethnic Beneficiary Data. HUD does not require Healthy Homes Demonstration Grantees to report ethnic and racial beneficiary data as part of their initial application package. However, such data must be reported on an annual basis, at a minimum, during the implementation of your cooperative agreement. You must use the Office of Management and Budget's Standards for the Collection of Racial and Ethnic Data to report these data, using Form HUD-27061, Racial and Ethnic Data Reporting Form, found on www.grants.gov, along with instructions for its use.

VII. Agency Contacts

For questions related to the application process, you may contact the Grants.gov helpline at 800-518-GRANTS. For programmatic questions, you may contact by writing: Emily Williams, Director; Healthy Homes Division; Department of Housing and Urban Development; Office of Healthy Homes and Lead Hazard Control; 451 Seventh Street, SW., Room P3206; Washington, DC 20410-3000; or by telephone by calling (336) 547-4002, extension 2067 (this is not a toll-free number); or via e-mail at: Emily_E._Williams@hud.gov. For administrative questions, you may contact Curtissa L. Coleman, Grants Officer, at the address above or by telephone at: (202) 755-1785, extension 7580 (this is not a toll-free number) or via e-mail at: Curtissa_L._Coleman@hud.gov. If you are hearing or speech-impaired, you may reach the above telephone numbers via TTY by calling the toll-free Federal Information Relay Service at 800-877-8339.

VIII. Other Information

A. HUD Reform Act

The provisions of the HUD Reform Act of 1989 that apply to this NOFA are discussed in the General Section. Refer to the General Section for details regarding other information on submitting a complete application that meets HUD requirements. For additional general, technical, and program information pertaining to the Office of Healthy Homes and Lead Hazard Control, visit: http://www.hud.gov/healthyhomes.

B. Paperwork Reduction Act

The information collection requirements contained in this document have been approved by the Office of Management and Budget (OMB) under the Paperwork Reduction Act of 1995 (44 U.S.C. 3501-3520) and assigned OMB control number 2539-0015. In accordance with the Paperwork Reduction Act, HUD may not conduct or sponsor, and a person is not required to respond to, a collection of information unless the collection displays a currently valid OMB control number. Public reporting burden for the collection of information is estimated to average 80 hours per annum per respondent for the application and grant administration. This includes the time for collecting, reviewing, and reporting the data for the application, semi-annual reports, and final report. The information will be used for awardee selection and monitoring the administration of funds. Response to this request for information is required in order to receive the benefits to be derived.

BILLING CODE 4210-01-P

Brownfields Economic Development Initiative (BEDI)

Overview Information

A. Federal Agency Name: Department of Housing and Urban Development, Office of Community Planning and Development.

B. Funding Opportunity Title: Brownfields Economic Development Initiative.

C. Announcement Type: Initial announcement.

D. Funding Opportunity Number: The Federal Register number is FR-5030-N-14. The OMB approval number is 2506-0153.

E. Catalog of Federal Domestic Assistance (CFDA) Number(s): Brownfields Economic Development Initiative (BEDI), 14.246.

F. Dates: The application deadline date is June 14, 2006. Applications must be received and validated by http://www.grants.gov no later than 11:59:59 p.m. on the application deadline date. Please see the General Section for information on electronic deadline and timeliness requirements.

G. Optional, Additional Overview Content Information: BEDI funds are used to enhance the security of a loan guaranteed by HUD under Section 108 of the Housing and Community Development Act of 1974, as amended, for the same brownfields economic development project, or to improve the viability of a brownfields economic development project financed with the Section 108-guaranteed loan, in order to stimulate economic development by local governments and private sector parties at brownfields sites and to return those sites to productive, economic reuse. All BEDI grants must be used in conjunction with a new Section 108-guaranteed loan commitment.

HUD encourages brownfields economic development projects that propose the redevelopment of a brownfield site through new investments by identified private sector parties in addition to BEDI/Section 108 financing and that will directly result in new business or job creation, increases in the local tax base or other near-term, measurable economic benefits.

Those interested in applying for funding under this program should review carefully the General Section and the following additional information.

Full Text of Announcement

I. Funding Opportunity Description

A. Authority

BEDI is authorized pursuant to Section 108(q), Title I, Housing and Community Development Act of 1974, as amended, (42 U.S.C. 5301); 24 CFR part 570.

B. Program Description

BEDI is designed to help local governments redevelop brownfields, defined in this NOFA as abandoned, idled, or underutilized real property, including industrial and commercial facilities, where expansion or redevelopment is complicated by the presence or potential presence of environmental contamination. A BEDI grant award will be conditioned upon, and must be used in conjunction with, a new (i.e., not previously approved) Section 108-guaranteed loan commitment. Both Section 108 loan guarantee proceeds and BEDI grant funds are initially made available by HUD to units of general local government eligible for assistance under HUD's Community Development Block Grant (CDBG) program (specifically, the Entitlement and State programs, certain jurisdictions in the state of Hawaii under the Small Cities program, and the insular areas of Guam, American Samoa, the Northern Mariana Islands, and the Virgin Islands). A local government may re-loan the Section 108 loan proceeds and provide BEDI funds to a business or other public entity eligible to carry out a specific approved brownfields economic development project, or the public entity may carry out the eligible project itself. In either case, BEDI grant funds and the Section 108 proceeds must be used to support the same eligible BEDI project.

Under this program, CDBG entitlement and non-entitlement grantees (and states for state-assisted non-entitlement jurisdictions) pledge their continuing CDBG allocations as security for the Section 108 loans guaranteed by HUD. BEDI grant funds are intended to reduce grantees' potential loss of future CDBG allocations by:

1. Strengthening the economic feasibility of a project financed with Section 108 funds (and thereby increasing the probability that the project will generate enough cash to repay the guaranteed loan);

2. Directly enhancing the security of the Section 108-guaranteed loan; or

3. Employing a combination of these or other risk mitigation techniques.

BEDI funds must be used as the stimulus for local governments and/or private sector parties to commence redevelopment or continue phased redevelopment efforts of brownfields sites where contamination is present or potentially present and a redevelopment plan exists. HUD desires to see BEDI and Section 108 funds used to finance projects and activities that involve investment in the brownfields site by an identified private sector party that will provide near-term results and measurable economic benefits, such as job creation and increases in the local tax base.

C. Program Definitions

Unless otherwise defined herein, terms defined in this NOFA shall have the same respective meanings as provided for in 24 CFR part 570.

Act means Title I Housing and Community Development Act of 1974 (42 U.S.C. 5301 et seq.).

Application means a single set of documents, including a request for Section 108 loan guarantee assistance, submitted by an eligible applicant for BEDI grant funds, in accordance with the provisions of this NOFA to finance a brownfields economic development project. Section IV.B.1(c) of this NOFA provides additional information on the nature and forms of Section 108 loan guarantee requests that must be submitted to HUD along with each BEDI application.

Brownfields means abandoned, idled, or under-used real property (including industrial and commercial facilities) where expansion or redevelopment is complicated by the presence or potential presence of contamination.

Brownfields Economic Development Initiative (BEDI) funds means the appropriated funds made available for the competition under this NOFA from any available appropriation.

Brownfields Economic Development Initiative (BEDI) project or brownfields economic development project means a single activity, or a group of activities constituting a planned, continuous, single undertaking, that is eligible under Section 108(q) of the Act and under 24 CFR 570.703 and projected to create or retain businesses or jobs, provide area or housing benefit to low- and moderate-income persons, redevelop blighted areas or sites, or otherwise lead to measurable economic benefits from redevelopment of one or more brownfields sites within five years.

CDBG funds means those funds collectively so defined at 24 CFR 570.3, including grant funds received pursuant to Section 108(q) and this NOFA.

Economic Development Initiative (EDI) grant means the provision of economic development grant assistance under Section 108(q) of the Act, as authorized by Section 232 of the Multifamily Housing Property Disposition Reform Act of 1994 (Pub. L. 103-233, approved April 11, 1994).

EPA means the U.S. Environmental Protection Agency.

Firm Commitment means either a written agreement or letter of understanding by which an applicant or a third party:

(1) Agrees to perform an activity or provide resources as specified in the application, and demonstrates their relationship to the proposed BEDI/Section 108 project;

(2) Specifies the dollar value of the commitment and demonstrates that it has the financial and organizational capacity to deliver the resources necessary to successfully complete the activity; and

(3) Irrevocably commits the resources to the activity either through cash or in-kind services or contributions; if any portion is to be financed through a grant or loan from another public or private organization, that institution's grant or loan commitment must be firmly committed as well.

Any such agreement or letter of understanding shall be understood as being contingent upon receipt of the BEDI grant. Funds expended prior to the submission of the BEDI application will not be considered as firmly committed funds for purposes of this NOFA.

Additional information related to firm commitments of other resources is provided in Section V.A.1 of this NOFA, Rating Factor 4 (Leveraging of Other Financial Resources). See Section IV.F.3.d. of the General Section for instructions on how third party documents are to be submitted electronically.

Showcase Community means an applicant chosen by the federal government's Brownfields National Partnership for inclusion in the federal government's Brownfields Showcase Communities program. A list of the federally designated Brownfield Showcase Communities is provided on the HUD website, at http://www.hud.gov.

Strategic Plan means a strategy or course of action developed and agreed to by the nominating local government(s) and state(s) and submitted in partial fulfillment of the application requirements for an Empowerment Zone, Enterprise Community, or a Renewal Community, designated pursuant to 24 CFR parts 597, 598 or 599.

D. Program Background

HUD has multiple programs that are intended to stimulate economic and community development and promote economic revitalization of distressed areas, and which can be effectively employed to address and remedy brownfields conditions. Primary among HUD's resources are the Community Development Block Grant (CDBG) program and the Section 108 loan guarantee program.

1. CDBG. The CDBG program provides grant funds by formula to local governments (either directly or through states) to carry out community and economic development activities ($3.7 billion appropriated in FY 2006). The Section 108 loan guarantee program provides CDBG-eligible communities with a source of financing for economic development, public facilities, and other eligible large-scale physical development projects. HUD is authorized pursuant to Section 108 to guarantee notes issued by CDBG entitlement communities and non-entitlement units of general local government eligible to receive funds under the CDBG States' program, as well as certain non-entitlement units of general local government in the state of Hawaii funded under 24 CFR part 570, subpart F. The Section 108 program is subject to the regulations applicable to the CDBG program at 24 CFR part 570 as described in 24 CFR part 570, subpart M.

2. Section 108 Loan Guarantees. The loan guarantee authority for the Section 108 program is estimated at $225 million including $135 million in loan guarantee authority for FY 2006 and loan guarantee authority that is still available under the FY 2005 appropriation.

Under this program, communities (states and insular areas, as applicable) are required to pledge their continuing CDBG allocations as security for loans guaranteed by HUD. The Section 108 program, however, does not require CDBG funds to be escrowed for loan repayment (unless such an arrangement is specifically negotiated as loan security and included in the applicable “Contract for Loan Guarantee Assistance”). This means that a community can ordinarily continue to spend its existing allocation for other CDBG purposes, unless needed for loan repayment.

3. Additional Security for Section 108 Loan Guarantees. Applicants should be aware of the need to provide additional security for the Section 108 loan guarantee pursuant to 24 CFR 570.705(b)(3). Although a public entity (and the corresponding state for a state-assisted non-entitlement entity) is required by the Act to pledge its current and future CDBG allocations as security for the Section 108 loan guarantee, it will usually be required to furnish additional collateral. In most cases, the additional collateral consists (in whole or in part) of the asset financed with the Section 108 loan funds (e.g., a loan made to a business as part of an economic development project and the related mortgage from the business). Applications proposing uses for BEDI funding that directly enhance the value of the assets securing the Section 108 loan will help ensure that the project-based asset(s) will satisfy the additional collateral requirements.

4. Integration of Other Government Economic Development and Brownfields Programs. HUD encourages local governments which are assisted by (a) other federal or state economic development programs, (b) other federal brownfields programs (e.g., the federal Brownfields Showcase Community program, EPA's Assessment, Revolving Loan Fund Cleanup or Grant programs), or (c) state-supported brownfields programs, to integrate efforts arising from those programs in developing projects for assistance under HUD's BEDI and Section 108 programs. Applicants should elaborate upon these ties in their response to the rating factors, where appropriate, in Section V.A.1 of this NOFA (e.g., “Capacity of the Applicant,” “Soundness of Approach,” or “Leveraging Resources,”—Rating Factors 1, 3, and 4, respectively.)

II. Award Information

A. Available Funds

HUD has available approximately $10 million for grant awards under this BEDI NOFA, consisting of $10 million through appropriations under the FY2006 Consolidated Appropriations Act (Pub. L. 109-115, approved December 1, 2005. These funds are authorized by Section 108(q) of the Act (as described above). If any additional funds become available for the BEDI program during FY2006, including through the deobligation and recapture of previous BEDI awards, HUD may either fund additional applicants in accordance with this NOFA, or may add these funds to funds available for future competitions pursuant to Section 108(q) of the Act.

B. Maximum Award

The maximum amount of a BEDI award under this competition is $1 million per project. An application in excess of $1 million will be reduced to the extent HUD determines that such a reduction is appropriate and the project remains feasible.

C. Limitations on Grant Amounts

1. Ratio of Section 108-Guaranteed Loan to BEDI Grant. HUD expects to approve BEDI grant amounts for approvable applications with a range of ratios of BEDI grant funds awarded to new Section 108-guaranteed loan commitments for the same project, but the minimum ratio must be $1.00 of Section 108-guaranteed loan commitments for every $1.00 of BEDI grant funds in order to receive consideration for funding. Section V.A.1, Rating Factor 4 (Leveraging of Resources), provides additional information on the required ratio of BEDI to Section 108 funds.

2. Reduction or Deobligation of BEDI Grant Award.

a. After selection, but prior to grant award, if HUD determines that an application can be funded at a lesser BEDI grant amount than requested and still be feasible and consistent with the proposed plan and the purposes of the Act, it reserves the right to reduce the amount of the BEDI award and/or increase the required Section 108 loan guarantee commitment.

b. In the event a BEDI grant is awarded and has been reduced below the original request (e.g., the application contained some activities that were ineligible, exceeded the $2 million cap, or there were insufficient funds to fund the last competitive application at the full amount requested), the applicant will be required to modify the project plans and application to conform to the terms of HUD approval before HUD will execute a grant agreement.

c. HUD also may proportionately reduce or deobligate the BEDI award if a grantee does not submit an approvable Section 108 loan guarantee application, issue Section 108-guaranteed obligations, and receive loan guarantee proceeds on a timely basis, (including any extension authorized by HUD), in the amount required by the BEDI/108 leveraging ratio, which will be approved by HUD as a special condition of the BEDI grant award (see Section IV.B.1(c)(2) of this NOFA).

3. Increased Request for Section 108 Loan Guarantee Assistance. In the case of a requested increase in guarantee assistance for a project with a previously approved Section 108 loan guarantee commitment (as further discussed in Section IV.B.1(c)(4)), the BEDI assistance approved will be based only on the additional amount of Section 108 loan guarantee assistance requested.

III. Eligibility Information

A. Eligible Applicants

Any public entity eligible to apply for Section 108 loan guarantee assistance in accordance with 24 CFR 570.702, including Guam, the Northern Marianas, American Samoa, and the Virgin Islands for FY 2006, may apply for BEDI grant assistance under Section 108(q). Eligible applicants are CDBG entitlement units of general local government and non-entitlement units of general local government eligible to receive loan guarantees under 24 CFR part 570, subpart M. Urban Counties, as defined at 24 CFR 570.3 and 570.307, are eligible applicants for BEDI funds; units of general local government that participate in an Urban County program are not independently eligible applicants. For non-entitlement applicants other than those subject to 24 CFR part 570, subpart F (which applies only to the state of Hawaii), applicants are required to provide evidence in the BEDI application from an authorized official of the state agency responsible for administering the State CDBG program stating that it supports the related Section 108 loan with a pledge of its CDBG allocations pursuant to the requirements of 24 CFR 570.705(b)(2). Such evidence must be provided by form HUD-40122, titled “SECTION 108 LOAN GUARANTEE: State Certifications Related to Non-entitlement Public Entities.” This form may be downloaded as part of the application package from the Internet at www.grants.gov/. Non-entitlement public entities in 49 states and Puerto Rico are eligible to participate in the Section 108 and BEDI programs, with assistance of the state's or commonwealth's pledge of CDBG allocations. The non-entitlement entities in Hawaii are able to make their own repayment pledge since they now receive a fixed amount of annual CDBG funding.

B. Cost Sharing or Matching

As described further in Section V.A.1 of this NOFA, under Rating Factor 4 (Leveraging of Resources), applications which evidence a greater level of other funds firmly committed to the BEDI project will receive more points under Rating Factor 4. In addition, a BEDI grant must be used with at least an equal amount of Section 108 loan guarantee proceeds for the same brownfields economic development project.

C. Program Threshold Requirements

1. Eligible Activities and National Objectives

a. Applicants for BEDI grant funds and Section 108 loan guarantee funds must demonstrate that funds will be used for activities listed at 24 CFR 570.703 and carried out as part of a BEDI project as defined in this NOFA and meet the CDBG requirements at 24 CFR Sections 570.200, 570.208 and 570.209, as applicable. All applicants must clearly identify in their narrative response to Rating Factor 3 (Soundness of Approach) in Section V.A.1 of this NOFA each of the eligible activities that will be carried out under 24 CFR 570.703.

With respect to BEDI projects that include a housing component, applicants are cautioned that the eligible activities at 24 CFR 570.703 do not allow BEDI and Section 108 funds to be used to finance the costs of the construction of housing, unless such construction is undertaken by a Community Based Development Organization (CBDO) or a not-for-profit organization serving the development needs of a community in a non-entitlement area as part of a community economic development project, in accordance with 24 CFR 570.703(i)(2) and 24 CFR 570.204(a)(2). Provisions of 24 CFR 570.703(j) that authorized the use of BEDI or Section 108 funds for housing construction have expired and are no longer applicable, as the statute referenced therein is no longer in effect. For projects that include the construction of housing, BEDI and Section 108 funds may be used to finance activities necessary to construct such housing, such as acquisition and related demolition and clearance on the acquired site, site improvements, public facilities and other eligible activities subject to each of the eligible activity provisions at 24 CFR 570.703; and

b. Applicants must demonstrate that each activity assisted with Section 108 loan guarantee or BEDI funds will meet a national objective of the CDBG program as described in 24 CFR 570.208. All applicants must clearly identify in their narrative response to Rating Factor 3 (Soundness of Approach) in Section V.A.1 of this NOFA, the CDBG national objective to be achieved by the proposed project and provide the appropriate CDBG national objective regulatory citation found at 24 CFR 570.208. Applicants must also address, when applicable, how the proposed activities will comply with the public benefit standards of the CDBG program as reflected in the regulation at 24 CFR 570.209.

c. A grantee's aggregate use of its CDBG funds, including any Section 108 loan guarantee proceeds and Section 108(q) (BEDI) funds provided pursuant to this NOFA, must comply with the CDBG primary objective requirements as described in Section 101(c) of the Act and 24 CFR 570.200(a)(3) for entitlement grantees, or 24 CFR 570.484 in the case of a recipient under a state's program, requiring that, over the period of time specified in the applicant's (or State's) CDBG certification, not less than 70 percent of the aggregate expenditures of CDBG funds be expended for activities benefiting low- and moderate-income persons under the criteria of 24 CFR 570.208(a) or 570.208(d)(5) or (6).

2. Brownfields Redevelopment

As described further in Section V.A.1 of this NOFA, in the narrative response to Rating Factor 3 (Soundness of Approach) applicants must: (1) Describe the nature and extent of the brownfields problem(s) actually or potentially affecting the site and/or structure(s) already on the site; and (2) how the proposed activities will contribute to redevelopment of the site and/or structures.

3. General Section Threshold Requirements

a. Applicants should carefully review the threshold requirements found in Section III.C of the General Section that could result in the failure to receive funding under this program. Applicants for BEDI grant funds must comply with the statutory, regulatory, threshold, and public policy requirements listed in the General Section, except as otherwise specifically provided in this NOFA. In particular, applicants should carefully review those provisions that could result in the failure to receive funding, including the DUNS Number Requirement, Compliance with Fair Housing and Civil Rights Laws, provisions relating to Delinquent Federal Debts, and the Name Check Review.

b. The Dun and Bradstreet Universal Numbering System (DUNS) Number Requirement. Refer to the General Section for information regarding the DUNS requirement. You will need to obtain a DUNS number to receive an award from HUD. You will also need a DUNS number to complete your electronic application as it is a mandatory field on the electronic application. The Grants.gov registration also requires use of the DUNS number, and Grants.gov registration.

c. The maximum number of points to be awarded under this NOFA is 104. To be eligible for funding, a BEDI application must obtain a total score of at least 75 points. All applications meeting program and General Section threshold requirements will be rated under the selection criteria provided in Section V.A.1 below.

4. Other Program Requirements

a. BEDI Funding Request. A single BEDI application must contain a request for funds for a single BEDI/108 project. The application must propose activities expected to result in redevelopment of one or more brownfields sites. An applicant may submit an additional application for each additional unrelated BEDI/108 project, but in no event will HUD rate and rank more than one BEDI project per application.

b. Related Section 108 Loan Guarantee Request. The request for Section 108 Loan Guarantee assistance must provide for a minimum ratio of $1.00 of requested Section 108 loan guarantee commitments for every $1.00 of BEDI grant funds requested, or a higher ratio, as needed for the project.

c. Nonentitlement Applications. Applications submitted by nonentitlement public entities (except for those in Hawaii and the insular areas which now receive fixed amounts of CDBG funds annually) must provide for the state or commonwealth's certification agreeing to pledge its CDBG allocations to receive funding consideration, as evidenced by form HUD-40122. See the General Section instructions for submission of third party documents.

d. Narrative Response to Rating Factors. Each BEDI application must provide narrative statements in response to each of the rating factors below in Section V.A.1 of this NOFA.

e. Time Frame for Submission of Section 108 Applications. All applications for Section 108 Loan Guarantee Assistance required for approved BEDI projects must be submitted within 60 days of written notice of BEDI selection, as provided for in Section IV.B.1(c)(2) of this NOFA.

f. HUD Environmental Requirements. Beginning with the submission of a BEDI application through and after HUD's award of BEDI grant funds, pursuant to 24 CFR 570.604, each project or activity assisted under this program is subject to the provisions of 24 CFR part 58. This includes limitations on the commitment of HUD and non-HUD funds by the BEDI grantee and Section 108 public entity, as well as other participants in the development process, prior to the completion of environmental review, notification, and release of funds. Neither grant nor loan funds can be disbursed by HUD until a request for release of funds is submitted and the requirements of 24 CFR part 58 have been met. All public entities, including non-entitlement public entities, shall submit the request for release of funds and related certification, required pursuant to 24 CFR part 58, to the appropriate HUD field office for each project to be assisted.

g. Compliance with Environmental and Other Laws. An award of BEDI funding does not, in any way, relieve the applicant or third party users of BEDI funds from compliance with all applicable federal, state, and local laws and regulations, particularly those addressing the environment. Applicants are further advised that HUD may require evidence that any project involving remediation has been or will be carried out in accordance with applicable law, including voluntary clean up programs.

h. CDBG Program Regulations. In addition to 24 CFR 570.701 (Definitions), 570.702 (Eligible applicants), and 570.703 (Eligible activities), the CDBG regulatory requirements cited in 24 CFR 570.707, including subparts J (Grant Administration), K (Other Program Requirements), and O (Performance Reviews), also govern the use of BEDI funds, as applicable.

i. Obligation to Affirmatively Further Fair Housing. All BEDI grantees are obliged to affirmatively further fair housing, even when the proposed activities do not appear to be directly related to housing. Therefore, applicants that propose to use BEDI funds must include in their applications an explanation of how they propose to further fair housing opportunities for persons on the basis of race, color, national origin, sex, religion, familial status, or disability. Applicants should respond to this requirement in Section V.A.1 of this NOFA, under Rating Factor 3, subfactor (1)(b). Affirmative activities include, but are not limited to: initial and periodic assessments of the extent to which affordable and accessible housing opportunities are provided or denied to persons by race, color, national origin, sex, religion, familial status, or disability; outreach to persons in underserved population groups or advocacy organizations representing such persons; affirmative fair marketing of job or housing opportunities; furthering housing choice; addressing environmental justice concerns; or ensuring that employment, housing and other benefits of the BEDI grant are made available to those individuals and families living at or near the brownfields site prior to its redevelopment.

j. Policy Priorities. Applicants are reminded of the Department's Policy Priorities for FY 2006 found in Section V.B. of the General Section, several of which apply to this NOFA, as described in Section V.A.1 below, under Rating Factor 5 (Achieving Results and Program Evaluation).

k. Ineligible Sites. Applicants must propose sites that currently meet the definition of brownfields in this program section. Applicants may not propose projects on sites which are: (i) Listed or proposed to be listed on EPA's National Priority List (NPL); (ii) subject to unilateral administrative orders, court orders, administrative consent orders or judicial consent decrees issued or entered into by parties under the Comprehensive Environmental Response, Compensation, and Liability Act of 1980, as amended (CERCLA); or (iii) subject to the jurisdiction, custody, or control of the United States Government. In order to be eligible to receive an award under this program, applicants will be required in Section V.A.1, Rating Factor 3, Soundness of Approach, to indicate that the proposed BEDI project will not be undertaken at an ineligible site as provided herein.

l. Prior Approved Section 108—Guaranteed Loans. BEDI grant assistance cannot be used to leverage a Section 108 loan guarantee approved prior to the date of HUD's announcement of a BEDI grant pursuant to this SuperNOFA, unless the applicant requests to deobligate previously approved commitment authority as provided in Section IV.B.1(c)(5) of this NOFA. In no event, however, may a previously approved Section 108 commitment to be used with a prior BEDI or EDI award be subject to such deobligation. In an instance where a pending application for Section 108 assistance is to be leveraged by the proposed BEDI grant, the BEDI grant may be awarded before HUD approval of the Section 108 commitment if HUD determines that such award will further the purposes of the Act.

m. Use of Section 108 Solely for Security. A BEDI award will not be made if the Section 108 request contained in the application (See Section IV.B.1(c) of this NOFA) calls for the use of the Section 108-guaranteed obligation solely as security for other financing on the project.

IV. Application and Submission Information

A. Addresses To Request Application Package

1. Copies of the published NOFAs and application forms for HUD programs announced through NOFA may be downloaded from the Grants.gov Web site at http://www.grants.gov/Find; if you have difficulty accessing the information you may receive customer support from Grants.gov by calling their Support Desk at (800) 518-GRANTS, or sending an e-mail to support@grants.govsupport@grants.gov. The operators will assist you in accessing the information. The hours of the Support Desk are 7 a.m. to 9 p.m. Eastern time.

2. Satellite Broadcasts. HUD will hold informational broadcasts via satellite for potential applicants to learn more about the BEDI program and the preparation of BEDI application(s). For more information about the date and time of the broadcast, consult the Web site http://www.hud.gov.

B. Content and Form of Application Submission

1. Content of Application

A complete application for a BEDI grant under this NOFA must contain the items listed below. The standard forms that are required for the BEDI application can also be found in the General Section. Applicants by signing the SF-424 are also agreeing to the Certifications and Assurances found in the General Section and this NOFA. Additional program forms, excluding such items as narratives or letters, etc. also referred to as the “non-standard forms”, HUD-40122 and HUD-40123, are included with this NOFA. All forms required for application submission can be found in the application package and instructions on http://www.grants.gov for the BEDI program.

a. Checklist and Submission Table of Contents indicating the submission items included in the application can be found in Section VIII, Appendix A, of this NOFA. Applicants are not required to submit the Checklist but are encouraged to review it to ensure that they have submitted a complete application.

b. EDI/BEDI/Section 108 Funding Eligibility Statement. A completed EDI/BEDI/Section 108 Funding Eligibility Statement (Exhibit D of form HUD-40123).

c. Request for Loan Guarantee Assistance. A request for loan guarantee assistance under Section 108, with the project name clearly identified (and the same name of the BEDI project being applied for), as further described below. Full application requirements for the Section 108 program are found at 24 CFR 570.704. Non-entitlement applicants (except those in Hawaii and the insular areas) must accompany this request with the State Certifications Related to Nonentitlement Public Entities (form HUD-40122) in order to be considered for BEDI funding.

The request for loan guarantee assistance may take any of the five forms defined in paragraphs (1), (2), (3), (4), or (5) below. Notwithstanding the form of the request for new Section 108 loan guarantee assistance, the applicant must include citations to the specific regulatory subsection supporting activity eligibility and National Objectives compliance for the Section 108 funds described in the application. (See Section III.C.1 of this NOFA.) Both the BEDI and Section 108 funds must be used in conjunction with the same BEDI project. Applicants are encouraged to consult with HUD's Financial Management Division in Headquarters CPD, at (202) 708-1871, before submission of 108 and/or BEDI applications if unsure of CDBG national objectives, eligibility of activities, program benefits citations and the tests thereof. The request for new Section 108 guarantee assistance may be presented in any of the following ways:

(1) Concurrent Application Submitted Under Separate Cover. A complete application for a new Section 108 loan guarantee(s), including the documents listed at 24 CFR 570.704(b), submitted under separate cover in accordance with the procedures in Section IV.F.3 below. Any full application for loan guarantee assistance under Section 108 must also be submitted to the appropriate HUD field office concurrently with its submission to Headquarters. As described further in Section V.A.1, in Rating Factor 3 (Soundness of Approach), two points will be awarded for the submission of a full Section 108 loan guarantee application with a BEDI application.

(2) Subsequent Application. A brief description (not to exceed three pages) of the project to be applied for in a subsequent new Section 108 loan guarantee application(s). Such a 108 application(s) shall be submitted within 60 days of written notice of BEDI selection, with HUD reserving the right to extend such period on a case-by-case basis where HUD determines there is evidence of good cause. BEDI awards will be conditioned on approval of actual Section 108 loan commitments and loan guarantee proceeds in a specific ratio of BEDI funds to Section 108 funds as approved by HUD in the BEDI award. The description provided in the BEDI application must be sufficient to support the basic eligibility of the proposed project and activities for Section 108 assistance. (See Section III.C.1 of this NOFA.)

(3) Pending, Unapproved Application. A request to use the BEDI grant award in conjunction with a pending, unapproved Section 108 loan guarantee application. The request must identify the project name associated with the pending application and the date of submission. Any proposed amendment to the pending Section 108 application must be submitted under separate cover, as provided for in Section IV.F.3 below. An applicant's request to use the BEDI award in conjunction with a pending application shall be deemed by HUD to constitute a request to suspend separate processing of the Section 108 application. The Section 108 application will not be approved until, on, or after the date of the related BEDI award.

(4) Increase to a Project Assisted Under a Previously Approved Application. A request for Section 108 loan guarantee assistance (analogous to Section IV.B.1(c)(1) or (2) above of this section) may propose new Section 108 guarantee assistance in addition to the amount of Section 108 assistance for a project assisted under a previously approved Section 108 application. However, any amount of Section 108 loan guarantee authority approved before HUD's announcement of a BEDI grant for the same project is not eligible to be used in conjunction with a BEDI grant under this NOFA.

(5) Deobligation of Previously Approved Section 108 Authority Plus a New Request. A request to deobligate a previous commitment of Section 108 loan guarantee authority to the applicant that is no longer to be used by the applicant (except for an amount required as a condition of a previously approved BEDI or EDI award), combined with a new request or application for Section 108 loan guarantee assistance. Such request or application may be a full application as provided for in paragraph (1) above, a request for 108 assistance submitted within 60 days as provided for in paragraph (2) above, a pending unapproved application as provided for in paragraph (3) above, or an increase to a project assisted under a previously approved application as provided in paragraph (4) above.

(6) In no event may a Section 108 loan guarantee amount that is required to be used in conjunction with a previously approved BEDI or EDI grant award as of the date of the submission of the application, whether or not the Section 108 loan guarantee has been approved as of the date of this NOFA, be used in conjunction with a new BEDI award under this NOFA. For example, if a public entity has a previously approved Section 108 loan guarantee commitment of $12 million, even if none of the funds have been utilized, or if the public entity had previously been awarded a BEDI grant of $1 million and had agreed to submit a Section 108 loan application for $10 million in support of that BEDI grant, the public entity's application under this NOFA must propose to increase the amount of its total Section 108 loan guarantee commitments beyond those amounts to which it has previously agreed (i.e., the $12 million or $10 million Section 108 loan guarantee commitments in this example).

d. Narrative Responses to Factors for Award (not to exceed 15 double-spaced, 8½ x 11 inch single-sided pages, with one-inch margins on all sides, for all responses):

(1) Rating Factor 1: Capacity and Relevant Organizational Experience. Provide a narrative indicating the capacity of the applicant's organization and staff and any known third parties to perform the work for which it is requesting funding.

(2) Rating Factor 2: Need Statement Identifying the level of Distress/Extent of the Problem. Provide a narrative statement including any documentation supporting the statement of need, accompanied by a completed Exhibit A of form HUD-40123. (See the General Section for instructions for submitting documentation found in the download instructions.)

(3) Rating Factor 3: Soundness of Approach. Include the CDBG eligible activities, the CDBG National Objective, the source and nature of the present or potential environmental contamination, the budget, and the time frame for conducting activities and providing project benefits to address the needs identified in Rating Factor 2 in the narrative response, accompanied by Exhibits B and C of form HUD-40123.

(4) Rating Factor 4: Leveraging Resources. The response to this factor should include any letters of firm commitment as defined in Section I.C of this NOFA, and any evidence of financial capacity or CDBG resolutions, as appropriate. Such letters, evidence or resolution must be submitted under the procedures provided for in Section IV.F of the General Section.

(5) Rating Factor 5: Achieving Results and Program Evaluation. Provide a narrative response to this factor, accompanied by the logic model provided in the General Section (Form HUD-96010) and, if applicable, form HUD-27300, relating to the removal of regulatory barriers to affordable housing, with required documentation.

2. Forms, Certifications, and Assurances

a. In addition to any forms submitted in response to Section IV.B.1 above, the following forms and certifications must also be submitted in accordance with the General Section and may be found in the General Section:

(1) Application for Federal Assistance (SF-424);

(2) Applicant/Recipient Disclosure/Update Report, HUD-2880; and, if applicable,

(3) Certification of Consistency With RC/EZ/EC-II Strategic Plan, HUD-2990, if applicable;

(4) Certification of Consistency with the Consolidated Plan (HUD-2991) if applicable;

(5) Disclosure of Lobbying Activities (SF-LLL); if applicable;

(6) Acknowledgement of Application Receipt (HUD-2993) (For use with paper application submissions);

(7) You Are Our Client Grant Applicant Survey (HUD-2994-A) (Optional);

(8) Program Outcome Logic Model (HUD-96010);

(9) Questionnaire for HUD's Initiative on Removal of Regulatory Barriers (HUD-27300) with supporting documentation or URL references;

(10) Facsimile Transmittal (HUD-96011) (For use with electronic applications to provide third-party letters and other documentation in accordance with the instructions found in the General Section;

(11) Section 108 Loan Guarantee (State Certifications Related to Non-entitlement Public Entities) (HUD-40122), if applicable, and

(12) Responses to BEDI Application Rating Factors (HUD-40123, Exhibits A through D).

C. Submission Dates and Times

1. Application Submission Date

Applications submitted through http://www.grants.gov must be received and validated by Grants.gov no later than 11:59:59 p.m. Eastern time on the application deadline date. If an applicant receives a waiver of the electronic application requirement, the paper application must be received by the application deadline date. The approval to submit a paper copy application will provide detailed submission instructions. Please see the General Section for further information on application submission and timely receipt requirements.

Be sure to provide a Project Name in Line 11 of the SF-424 (Application for Federal Assistance), and all references to the related Section 108 application should use the same project title. Be sure to complete the SF-424 cover page first and then download the rest of the forms, as the information from the cover page will be pre-populated. In addition a brief (one or two paragraph) description of all the activities (not just those to be funded with BEDI and 108 funds) comprising the proposed project should be provided, preceding the narrative statements in response to the Rating Factors. This project description does not count against the 15-page overall limitation.

2. Proof of Timely Submission

Please see Section IVF. of the General Section for information regarding proof of timely submission.

D. Intergovernmental Review

BEDI is not subject to the provisions of Executive Order 12372, “Intergovernmental Review of Federal Programs.”

E. Funding Restrictions

1. Repayment of Section 108 Principal

The planned use of BEDI funds for the specific purpose of repayment of the principal amount of a Section 108-guaranteed loan is not an eligible activity under 24 CFR 570.703 and therefore should not be proposed in a BEDI application. Under the “debt service reserve” eligible activity at 24 CFR 570.703(k), however, the planned use of a limited amount of BEDI funds for the repayment of the principal of a Section 108-guaranteed loan is permissible if justified and approved by HUD under a particular application. Such a debt service reserve may be justified in the context of a loan loss reserve set up to support a “loan pool” consisting of a number of smaller third party loans. For example, the corresponding principal amount of the Section 108 loan might be repaid from a debt service reserve when a third party loan defaults and liquidation of security for the third party loan by or on behalf of the Section 108 borrower/BEDI grantee does not yield enough cash to redeem or defease the amount of Section 108 principal corresponding to the defaulted third party loan. A debt service reserve may also be proposed and set up in an amount reasonable to pay principal and/or interest on a Section 108-guaranteed loan for a limited period, such as the start up period for an assisted business, or a construction period, when the cash flow resulting from the primary Section 108 or BEDI-funded activity would not be sufficient to support repayment. HUD requires the applicant to provide information sufficient to support the reasonableness of the amount of a debt reserve in relation to its purpose. For any Section 108- and BEDI-assisted project, HUD will have rights under the Section 108 Contract for Loan Guarantee Assistance to use undisbursed BEDI funds to make payment on, or to defease, the Section 108 loan if HUD deems that action necessary in order to avoid the need for HUD to make a payment under its Section 108 loan guarantee from non-CDBG funds.

2. Subordination of Section 108 Obligations

Section 108 loan obligations may not be subordinated, directly or indirectly, to federally tax-exempt obligations. Pursuant to Office of Management and Budget (OMB) Circular A-129 (Rev.) Appendix A, Sections II.2.c. and d., (Policies for Federal Credit Programs and Non-Tax Receivables), Section 108-guaranteed loan funds may not, directly or indirectly, support federally tax-exempt obligations.

3. Remediation by Responsible Parties

BEDI grant funds shall not be used in any manner by grantees to provide public or private sector entities with funding to remediate conditions caused by their own actions, where the public entity (or other known prospective beneficiary of the proposed BEDI grant) has been determined responsible for causation and remediation by order of a court or a federal, state, or local regulatory agency, or is responsible for the remediation as part of a settlement approved by such a court or agency. Applicants will be required under Rating Factor 3, Soundness of Approach, to indicate that the proposed BEDI project will not be used to provide assistance.

4. Denial of Funding for Lack of Prior Performance

HUD may deny funding consideration to all applicants that fail to submit a full and complete Section 108 loan application pursuant to 24 CFR 570.704(b) in connection with a prior award of BEDI or competitive EDI grants on or before the application submission deadline under this NOFA.

F. Other Submission Requirements

1. Application Submission and Receipt Procedure

HUD requires applicants to submit applications electronically through http://www.grants.gov. Applicants must submit their applications electronically via the website http://www.grants.gov unless you request and are granted a waiver to the electronic submission requirements. This site has easy to follow step-by-step instructions that will enable you to apply for HUD assistance.

Please read the General Section carefully and completely for the submission and receipt procedures for all applications because failure to comply may disqualify your application.

2. Wavier of Electronic Submission Requirements

Please refer to Section IV.F of the General Section for instructions on how to seek a waiver to the electronic submission requirement.

3. Submission of Concurrent Section 108 Application Under Separate Cover

Applicants that apply via Grants.gov should submit the Section 108 Loan Guarantee application using the mailing instructions below.

a. The Section 108 Loan Guarantee application should have the Project Title in Box 11 of the SF-424 as the related BEDI project.

b. Concurrent Section 108 Application deadline date. Applicants choosing to submit a concurrent and complete Section 108 application as provided for in Section IV.B.1(c) of this NOFA above, must be received no later than the BEDI application deadline date, to the addresses shown below, in order to receive points under Section V.A.1, Rating Factor 3, of this NOFA.

The concurrent Section 108 application must be received no later than 11:59:59 p.m. by the United States Postal Service in accordance with the instructions in the General Section. The required number of copies should be sent to the locations indicated below. If HUD receives at least one completed concurrent Section 108 application at either HUD Headquarters or the appropriate HUD Field Office, HUD will utilize the complete application for its review purposes, provided it meets the deadline and timely submission requirements.

c. Proof of Timely Submission. Proof of timely submission of a concurrent Section 108 application shall be determined under the provisions of the General Section related to mailed applications.

d. Address for Submitting Concurrent Section 108 Applications to HUD Headquarters. Submit the concurrent Section 108 application to: HUD Headquarters; Robert C. Weaver Federal Building; 451 Seventh Street, SW., Room 7251; Washington, DC 20410, Attention: BEDI/Section 108 Application.

When submitting the concurrent Section 108 application, please specify BEDI/Section 108 Application on any label or mailing container, and include the applicant's name, mailing address (including zip code), street address (if different from mailing address), and zip code, and voice and facsimile telephone numbers (including area code), along with the contact person's name, and voice and facsimile telephone numbers (including area code), and email address, if available.

e. Concurrent Section 108 Applications to HUD Field Offices. At the same time the concurrent Section 108 application is submitted to HUD Headquarters, an additional copy should be submitted to the Community Planning and Development Division of the appropriate HUD field office for the applicant's jurisdiction. A listing of CPD Offices and mailing addresses can be found on HUD's Web site at http://www.hud.gov/offices/adm/grants/fundsavail.cfm.

f. Concurrent Section 108 Application Submission Procedures. A concurrent Section 108 application submitted pursuant to this NOFA shall be subject to the application submission procedures for other mailed applications provided for in Section IV.F of the General Section. Subsequent and pending Section 108 applications are not subject to the above submission procedures.

V. Application Review Information

A. Criteria

1. Factors for Award Used to Evaluate and Rate Applications

a. Response to Factors for Award. The applicant must provide in narrative form responses to each of the rating factors below. HUD will evaluate all applications for funding assistance based on the following factors, the responses to which demonstrate the quality of the proposed project or activities, and the applicant's capacity and commitment to use the BEDI funds in accordance with the purposes of the Act. As part of the application review, HUD reserves the right to contact its local field offices for the purpose of verifying information submitted by the applicant.

b. Responses to Rating Factors 1-5. Responses to Rating Factors 1-5 below shall not exceed 15 double-spaced, 8½ x 11 inch single-sided pages, with one-inch margins on all sides, for all responses.

2. Rating Factors for Award

Rating Factor 1: Capacity of the Applicant and Relevant Organizational Experience (20 Points Maximum)

This Factor addresses the extent to which the applicant has the organizational resources necessary to successfully implement the proposed activities in a timely manner. The rating of the applicant will include any subcontractors, consultants, and sub-recipients that are firmly committed to participate in the activities described in the application. In responding to subfactors (1) and (2) of this Factor, applications that merely summarize the amount of funds received, spent, or managed will receive fewer points than those providing specific measurable information on program activities undertaken, outcomes of these activities and their accomplishments. In rating this Factor, HUD will consider the following:

(1) Applicant Capacity (Up to 10 points). The applicant should demonstrate that it has the organization, the staff, and the financial resources in place to implement the specific steps required to successfully carry out its proposed BEDI/Section 108 project. The applicant should offer evidence of this capacity through a description that includes:

(a) Performance in the administration of its CDBG, HOME, or other HUD programs, including a description of successfully completed projects and other outcomes or accomplishments under these programs. In addition to citing specific projects, outcomes, or accomplishments, CDBG entitlement recipients must also indicate the extent to which the applicant has met the HUD standard that the total amount of its undisbursed entitlement grant funds may not be more than 1.5 times the entitlement grant amount for the current program year (see 24 CFR 570.902(a)(1)(i). All applicants must also identify any unresolved monitoring or audit findings by HUD with respect to the applicant's administration of HUD programs.

(b) Performance, if any, in carrying out economic development projects similar to that proposed, including brownfields economic development or redevelopment projects, if any, and if applicable, the ability to conduct prudent underwriting;

(c) If an applicant has received a federal Renewal Community/Empowerment Zone/Enterprise Community designation (including Enhanced Enterprise Community (EEC) designation), it must provide information on the status of its capacity to achieve state and local commitments identified in its local implementation plan, including maximizing the federal tax benefits made available. Applicants that have been designated as a Renewal Community (RC), Empowerment Zone (EZ), or Enterprise Community (EC/EEC) must respond to this subfactor even if the proposed brownfields economic development project is not to be located within the boundaries of the designated RC/EZ/EC-II; and

(d) An applicant that has previously received a BEDI or a competitive EDI grant award or, within the past five years, a Section 108-guaranteed loan commitment, must describe the status of the implementation of those project(s) assisted with any BEDI or competitive EDI funds or with any Section 108-guaranteed loan funds so approved within the last five years. An applicant must address any delays that have been encountered and the actions it is taking to overcome any such delays in carrying out the project(s) in a timely manner.

If HUD has not applied the performance standard applicable to all previous BEDI grantees referenced in Section III.C.1.(c), then for any such previously funded BEDI or competitive EDI grant projects, or for those Section 108-guaranteed loan projects committed within the past five years, HUD will award more rating points for applications providing evidence of achievement of specific measurable outcomes in carrying out approved activities funded with such guaranteed loan or grant funds.

If any of the rating criteria listed under (a) through (d) above do not apply to an application, the rating for this subfactor (1) shall be based solely upon the other applicable criteria. If the applicant has no prior relevant experience, the rating for this Factor shall be based on the capacity of its partner(s), if any, as stated below.

(2) Partner Capacity (Up to 10 points). In response to this subfactor (2), the applicant should describe the experience and performance of subrecipients, private developers and other businesses, nonprofit organizations (including grassroots faith-based and other community-based organizations), and other entities, if any, that have a role in implementing the proposed BEDI/108 program. Applicants are encouraged to identify specific economic development or other projects undertaken by each entity, which reflect the capacity of each entity to fulfill its responsibilities under the proposed brownfields economic development project, including the location, scale, and timeframe for completion of other relevant projects. If there are no third parties participating with the applicant in the proposed project, the 10 points available under this subfactor (2) will be added to the 10 points available under subfactor (1), with a maximum of 20 possible points then available under subfactor (1).

Experience will be judged in terms of recent (i.e., within the past 5 years) and successful performance of activities relevant to those proposed in the BEDI application. The more recent and extensive the positive experience, the greater the number of points that will be awarded for this Factor.

In addition to the application, HUD also may rely on information at hand or available from public sources such as newspapers, from performance and/or monitoring reports, Inspector General or Government Accounting Office reports or findings, hotline complaints that have been proven to have merit, audit reports, and other reliable public information in rating this Factor.

Rating Factor 2: Distress/Extent of the Problem (15 Points Maximum)

This Factor addresses the extent to which there is need for funding the proposed activities based on levels of distress in both the jurisdiction of the public entity that is the applicant and the geographic or target area that will benefit from the project. Applications will be evaluated on the extent to which the level of distress for the target area is documented and compared with national data and data for the jurisdiction.

In applying this Factor, HUD will consider current levels of distress in the target area, as defined in standard geographic terms by the applicant. This may be Census Tract(s) or Block Groups immediately surrounding the project site up to a radius of one-half mile, or it may be the target area to be served by the proposed project. HUD will also consider the current levels of distress in the applicant public entity's jurisdiction, if different from the target area. The applicant should describe the nature of the distress that the project is designed to address and the rationale for its definition of the area to be benefited. Examples of project beneficiaries may include: (a) those receiving or using products or services produced by the project, and (b) those employed by the project.

Notwithstanding the above, an applicant proposing a project to be located outside the applicant's jurisdiction or the target area for which benefits are claimed could still receive points under this Factor if a clear rationale is provided linking the proposed project location and the benefits to be derived by persons living in the target area or the applicant jurisdiction.

To the extent that the applicant's Consolidated Plan, its Analysis of Impediments to Fair Housing choice (AI), and/or its Anti-Poverty Strategy found therein identify the level of distress in the jurisdiction and the target area in which the project is to be carried out, references to such documents should be included in preparing the response to this Factor. Applications that fail to reference these sources will receive fewer points under this Factor.

Applicants should provide data that address the following specific indicators of distress:

(1) Poverty Rate (Up to 5 points). Data should be provided in both absolute and percentage form (i.e., whole numbers and percents) for both the target area and the applicant's jurisdiction as a whole; an application that compares the local poverty rate in the following manner to the national average at the time of submission will receive points under this section as follows:

(a) A poverty rate in the target area that is less than the national average, but that is greater than the rate for the applicant's jurisdiction: (2 points);

(b) A poverty rate in the target area that is at least equal to, but less than twice, the national average: (3 points);

(c) A poverty rate in the target area that is twice or more the national average: (5 points).

(2) Unemployment Rate (Up to 5 points). An application that compares the local unemployment rate for the applicant's jurisdiction and the target area in the following manner to the national average at the time of submission will receive points under this subfactor as follows:

(a) An unemployment rate in the target area that is less than the national average, but that is greater than the rate for the applicant's jurisdiction: (2 points);

(b) An unemployment rate in the target area that is at least equal to, but less than twice, the national average: (3 points);

(c) An unemployment rate in the target area that is twice or more the national average: (5 points).

(3) Other Indicators of Social and/or Economic Decline (Up to 5 points). Applicants should provide other indicators of social or economic decline that best capture the applicant's local situation. Examples that could be provided under this section include information demonstrating the target area and the jurisdiction's stagnant or falling tax base, including recent (within the last three years) commercial or industrial closings, downturns or layoffs; housing conditions, such as the number and percentage of substandard and/or overcrowded units; rent burden (defined as average housing cost divided by average income) for both the target area and jurisdiction; local crime statistics. The response to this subfactor (3) should paint a picture of the extent of need and distress in the target area and jurisdiction.

HUD requires use of sound and reliable data (e.g., U.S. Census data, state statistical reports, university studies/reports that are verifiable) to support distress levels cited in each application. A source for all information along with the publication or origination date must also be provided. Updated Census data are available as follows for the listed indicators:

Unemployment rate: Unemployment rates are estimated monthly for counties, with a two-month lag by the Bureau of Labor Statistics, while census tract unemployment rates are available through the 2000 U.S. Census;

Poverty rate: Poverty rates are provided through the 2000 U.S. Census and are estimated every two years, with a three-year lag. Census and other relevant data can be accessed through http://www.ffiec.gov/. In rating applications under this Factor, HUD reserves the right to consider sources of available objective data other than, or in addition to, those provided by applicants, in order to compare such data to those provided by applicants.

Rating Factor 3: Soundness of Approach (35 Points Maximum)

This Factor addresses the quality and cost-effectiveness of the proposed plan for the brownfields economic development project. Applications that do not propose the productive reuse of a specific, identified site or sites and that do not result in near-term, measurable economic benefits, such as projects that involve only the preparation of a site for potential future reuse by an unidentified party, or the capitalization of a loan pool for loans to unidentified borrowers, will receive fewer points under this Factor. The relationship between the proposed site or sites, the proposed eligible activities and the community needs and purposes of the program funding must be clearly described, as set forth below, in order to receive points for this Factor. In rating this Factor, HUD will consider the following:

(1) Consistency/Appropriateness of Proposed Activities With Identified Needs (Up to 3 points). In response to this subfactor, the applicant should describe:

(a) the extent to which the proposed plan for use of BEDI grant/Section 108-guaranteed loan funds will address the needs described in Rating Factor 2 above regarding the distress and extent of the problem in the target area or area to be benefited and the long-term benefit for current residents of the target area. The applicant should provide a clear and quantified explanation of this relationship;

(b) any unmet needs identified in the jurisdiction's Consolidated Plan and pursuant to Section III.C.4(j) of this NOFA, any impediments to fair housing identified in the jurisdiction's Analysis of Impediments to Fair Housing Choice, that will be directly addressed by the proposed project. See Section III.C.4(j) of this NOFA for examples of general affirmative fair housing actions that may be undertaken to address a jurisdiction's Analysis of Impediments to Fair Housing Choice; and

(c) the activities that will be carried out with the BEDI grant funds, and the nature and extent of the brownfields problem(s) actually or potentially affecting the site and/or structure(s) already on the site. This response must also indicate that the proposed assistance will not be used to provide funding to parties to remediate conditions caused by their own actions for which they have been determined to be legally responsible, and that the proposed brownfields site is not ineligible, as provided in Section IV.E.4 of this NOFA. This information relates to a threshold factor as well as a rating factor, as described in Section III.C.2 of this NOFA. Applications that fail to respond satisfactorily to this subfactor (c) shall not receive funding consideration.

(2) Eligible Activities and CDBG National Objectives (Up to 8 points). The applicant must describe how the proposed uses of BEDI funds will qualify as eligible activities under 24 CFR 570.703 governing the Section 108-guaranteed loan program, and also will meet the National Objectives of the CDBG program under 24 CFR 570.208. In describing how the proposed uses will meet the National Objectives of the CDBG program and the activity eligibility requirements of the Section 108 program, applications must also include citations to the specific regulatory subsections supporting eligibility of activities and compliance with National Objectives. (See Section III.C.1 of this NOFA). This information relates to a threshold factor as well as a rating factor, as described in Section III.C.1 of this NOFA. Applications that fail to respond satisfactorily to this subfactor (2) shall not receive funding consideration.

(3) Project Readiness (12 points overall, with (a)-(d) worth up to 10 points collectively, and (e) up to 2 points). In responding to this subfactor (3), the applicant should demonstrate the extent to which the redevelopment plan for the brownfields site is logical, feasible, and likely to achieve its stated purpose and the extent to which the project will directly result in the productive reuse of the site and the delivery of near-term, measurable economic benefits. The applicant's response should demonstrate the extent to which the project is likely to be completed within a maximum of five years from the date of the BEDI award and will produce near-term, measurable economic benefits. Points for this subfactor will be awarded based upon the extent to which the following critical benchmarks for the redevelopment plan have been met or are approaching completion.

(a) Environmental Investigation. This subfactor (a) will consider the extent to which the presence or potential presence of environmental contamination of the project site is known or understood. Proposed projects on sites where the nature and degree of environmental contamination is not well-quantified, where no environmental investigation has commenced, or that are the subject of on-going litigation or environmental enforcement actions will receive fewer points under this subfactor (a). Similarly, fewer points will be awarded to proposed projects at sites with exceptionally expensive contamination problems that may be beyond the scope of the BEDI and Section 108 programs' financial resources or other resources firmly committed to the project as described in the application, and sites subject to pending and current litigation that may not be available for remediation and development or redevelopment in a time frame that will produce near-term and measurable economic benefits through the use of BEDI and Section 108 funds. Alternatively, any applicant indicating the completion of environmental assessment or review and the issuance of HUD approval for a Request for Release of Funds for the project under 24 CFR part 58 will receive more points under this subfactor.

(b) Site Control. This subfactor (b) will consider the extent to which control of the proposed project site has been secured or is being sought. Points for this subfactor (b) will be awarded based upon the degree of site control secured by the applicant or its development partner. Projects, for instance, in which negotiation or litigation related to site control are underway or continuing are eligible, but will receive fewer points than projects in which an option to purchase has been secured. Projects in which the applicant or its development partner has secured site control through acquisition, long-term lease, eminent domain or other means at the time of application will receive full points under this subfactor (b). In responding to this subfactor (b), applicants are encouraged to accompany their narrative response with a map indicating the boundaries of the proposed site or sites on which BEDI-assisted improvements are proposed. Any map included as part of the application must be submitted in accordance with the submission procedures provided for in the General Section and will not be counted in the fifteen page limitation on the narrative response to the Rating Factors as provided in Section V.A.1(b) of this NOFA.

(c) Legislative, Regulatory, and Other Approvals. This subfactor (c) will consider the extent to which any required local legislative approvals, regulatory permits, zoning classifications, environmental regulatory approvals, waivers, general, and special use permits, assessment district designations, public easements or rights-of-way, or other similar approvals have been secured or are being sought. The greater the number of outstanding legislative, regulatory, or other approvals required and not yet secured, the fewer points will be awarded. In the case of a CDBG entitlement unit of general local government, such as a county, proposing to undertake a BEDI project within the jurisdiction of another CDBG entitlement unit of general local government, such as a city or other jurisdiction within that county, the applicant should also include a letter of support from the jurisdiction in which the BEDI project would be located.

(d) User Agreements. This subfactor (d) will consider the extent to which any development agreements, tenant leases, memoranda of understanding, or other agreements integral to returning the site to productive reuse and producing near-term measurable economic benefits, have been secured or are being sought. Applicants proposing projects that do not provide for new investment by an identified, committed private entity and the return of a brownfields site to productive reuse, with accompanying near-term, measurable economic benefits, will receive fewer points under this subfactor (d).

(e) Delivery of Economic Benefits. The response to this subfactor (e) must include the time frame in which the measurable economic benefits are to be delivered. For multi-phase projects, the response to this subfactor (e) must clearly delineate the different phases of the project and indicate whether or not they are to be funded by BEDI/Section 108 funds. Brownfields economic development projects that provide near-term, measurable economic benefits directly through the creation or retention of jobs will receive a greater number of points under this subfactor (e).

(1) Timeframe for Delivery of Economic Benefits. In response to this subfactor (3), the applicant should also provide a specific schedule (with both beginning and end dates) for carrying out the project and identify all interim measurable benchmarks (acquisition, demolition, site improvements, relocation, construction, provision of jobs mandated under Section 3, as described in (2) below, etc.) to be accomplished. The applicant should also include a proposed schedule for drawing down all funds necessary to complete the project, including BEDI and Section 108 funds.

(2) Intent to Meet Section 3 Requirements. To the extent possible, applicants must ensure that training, employment, and other economic opportunities will be directed to low- and very-low income persons, particularly those who are recipients of government assistance for housing, and business concerns that provide economic opportunities to low- and very low-income persons, as required under Section 3 of the Housing and Urban Development Act of 1968, 12 U.S.C. 1701u (Economic Opportunities for Low- and Very Low-Income Persons).

(4) Section 108 Application (Up to 2 points). BEDI applications accompanied by a request for new Section 108 Loan Guarantee assistance as evidenced by a full and complete Section 108 application as provided for in 24 CFR 570.704, and submitted concurrently under separate cover as provided for in Section IV.F.3 of the NOFA, will receive up to two points for this subfactor (4). BEDI applications accompanied by a request to use the BEDI grant award in conjunction with a currently pending but unapproved Section 108 loan guarantee application (together with any amendments needed for consistency with the BEDI application) for the same project described in the BEDI application, will also receive up to two points under this subfactor (4).

(5) Financial Feasibility/Need (Up to 10 points). The applicant should demonstrate the economic necessity of the proposed BEDI and Section 108 funds and the extent to which the project is not financially feasible in the absence of such funds. In responding to this subfactor (5), applicants are encouraged to accompany their narrative response, as appropriate, with development and operating “pro formas” or similar analyses of the proposed project financing. Such pro forma or other financial analysis will not be counted in the fifteen-page limitation on the narrative response to the Rating Factors as provided in Section V.A.1(b) of this NOFA. In the narrative response, applicants must clearly address the question of why the BEDI funds are critical to the success of this project by providing the following items:

(a) Use of BEDI and Section 108 Funds to Fill Financing Gaps. The applicant must provide an economic rationale that demonstrates how the use of the BEDI and Section 108 funds will directly impact the financial feasibility of the proposed project. The response should discuss the critical gaps that exist in financing the proposed project, why those gaps exist and how the BEDI and Section 108 funds will be used to fill those gaps. The narrative response, including any pro forma or similar analysis, should demonstrate how the proposed BEDI and Section 108 financing will yield economic benefits critical to the success of the project, including, for example, increased rates of return or debt coverage ratios, reduced rents or other similar financial outcomes necessary to attract private investment.

(b) Project Costs and Financial Requirements. A funding sources and uses statement must also be provided that specifies the source of funds for each identified use or activity (Exhibit C of form HUD-40123), along with the derivation of project costs.

Rating Factor 4: Leveraging Resources (15 Points Maximum)

In evaluating this Factor, HUD will consider the extent to which the response demonstrates the likelihood that the project will leverage both Section 108 loan and other public or private funds as part of the total project resources. Points for this Factor will be awarded in two parts, for the following:

(1) Leverage of Section 108 funds (Up to 8 points). The minimum ratio of Section 108 funds to BEDI funds in any project may not be less than 1:1. Points will be awarded based upon the extent to which the proposed project leverages an amount of Section 108 funds greater than a 1:1 ratio. If the application has a ratio of 1:1, it will not receive any points under this subfactor. The higher the ratio of additional new Section 108 funds to BEDI funds proposed in an application, the more points it will receive under this subfactor. (See Sections II.C.1 and Section VI.B.1(a) of this NOFA regarding the conditioning of BEDI awards on achievement of a specific BEDI/Section 108 leveraging ratio.)

(2) Leverage of Other Financial Resources (Up to 7 points). HUD will evaluate the extent to which other funds (public or private) are leveraged by BEDI grant funds, and the extent to which such other funds are firmly committed to the project. This could include the use of CDBG funds, other federal or state grants or loans, local government general funds, project equity or commercial financing provided by private sources or funds from nonprofit organizations or other sources. In order to receive points for other public and privately committed funds under this subfactor (2), letters of firm commitment, evidence of financial capacity and, for CDBG funds, the resolution of the local governing body, must be submitted for the proposed BEDI project in accordance with the submission procedures for third party documents provided in Section IV.F. of the General Section. In addition:

(a) Applicants must provide evidence that there is a firm commitment for such funds as defined in Section I.C. of this NOFA.

(b) If a commitment is to be self-financed, such as a commitment by a private developer to provide a specified amount of equity investment in the project, the party making that commitment must evidence its financial capacity through the submission of a corporate or personal financial statement or other appropriate means in order to receive points under this subfactor (2).

(c) For Applicants Committing CDBG Funds: In order for an applicant's commitment of CDBG funds to be accepted by HUD as additional financing for a BEDI project, a resolution from the local governing body (e.g., city/borough council) authorizing the amount and permitted uses of the funds must be provided.

All such funds may also be committed subject to completion of a satisfactory environmental review required under 24 CFR Part 58 for the project for purposes of this section.

Rating Factor 5: Achieving Results and Program Evaluation (15 Points Maximum)

This Factor emphasizes HUD's commitment to ensuring that applicants maintain commitments made in their applications and assess their performance to ensure that performance goals are met. This Factor also evaluates the extent to which the results of the proposed BEDI project will address the policy priorities of the Department. In addition to a narrative response, applicants must complete the logic model provided in the General Section (form HUD-96010) in order to receive points under this Factor. Applicants seeking policy priority points for the removal of regulatory barriers to affordable housing as provided for in subfactor (2)(v) of this Factor, must also complete form HUD-27300.

(1) Performance Measurement Plan (Up to 12 points). HUD requires applicants to develop an effective, quantifiable, outcome oriented performance measurement plan for assessing performance and determining that BEDI project goals have been met. The applicant's response to this subfactor (1) should identify: (a) Each of the specific project outcomes for the proposed BEDI project; (b) all interim benchmarks or outputs of the project and the associated time frames for meeting each interim benchmark or output, i.e., the near-term measurable economic benefits to be achieved, such as the number of jobs created or retained and the time frame for creation or retention; and (c) the performance indicators selected by the applicant to measure its achievement of the identified project outputs and project outcomes. The performance indicators selected by the applicant should be objectively quantifiable and measure actual achievements against anticipated results. The response to this subfactor (1) should identify what will be measured, how it will be measured, and the procedures or plans that are in place to make adjustments to the project redevelopment plan if performance targets are not met within established time frames.

In response to this subfactor (1), applicants should address any of the applicable outcomes or ultimate goals identified for the BEDI project. Examples of such outcomes or goals include increased property values, or home sales prices, as a result of a series of coordinated neighborhood activities; the amount of increased wages resulting from the creation or retention of jobs; increased business sales volume in revitalized neighborhoods; or the amount of any increased land value that results from the BEDI project. Applicants should propose quantifiable outcomes or goals related to the benefits expected for the neighborhood or for persons assisted, as part of the evaluation plan.

(2) Policy Priorities (Up to 3 points). The applicant's response to this subfactor (2) should address how the project will address any of the following policy priorities of the Department, as further detailed in Section V.B. of the General Section. A maximum of three points shall be awarded to applicants that demonstrate how the proposed BEDI project addresses two or more of the following policy priorities, with the number of points afforded to each policy priority indicated below:

(a) The extent to which the proposed project will improve the quality of life in the nation's communities, by bringing private capital to distressed communities (1 point);

(b) The extent to which the proposed project will finance business investments that will grow new businesses or maintain and expand existing businesses (1 point);

(c) The extent to which the proposed project will create decent jobs for low-income persons (1 point);

(d) The extent to which the project will increase affordable housing and homeownership opportunities in environmentally healthy and revitalized neighborhoods for low- and moderate-income persons, persons with a disability, the elderly, minorities, and persons with limited English proficiency (1 point);

(e) The extent to which the project will assist in breaking down regulatory barriers that impede the availability of affordable housing, accompanied by form HUD-27300). To receive points for this factor the applicant must submit the required documentation or reference to a URL(s) where the information can be found. (up to 2 points); and,

(f) The extent to which the project will utilize energy-efficient solutions in the design or operating phases, including the purchase and use of Energy Star-labeled products and/or combined heat and power (CHP, or cogeneration) in buildings, where applicable.) (See Section V.B of the General Section, Promoting Energy Efficiency and Adopting Energy Star, for more information (1 point).

3. Bonus Points

An application may receive up to four bonus points, until the maximum of four points are achieved. Two bonus points may be awarded for each of the following:

a. HUD will award two bonus points to each application that includes a valid form HUD-2990 certifying that the proposed activities/projects in the application are consistent with the strategic plan for an empowerment zone (EZ) designated by HUD or the United States Department of Agriculture (USDA), the tax incentive utilization plan for an urban or rural renewal community designated by HUD (RC), or the strategic plan for an enterprise community designated in Round II by USDA (EC-II), and that the proposed activities/projects will be located within the RC/EZ/EC-II mentioned above and are intended to serve the residents of the Zone. A listing of the RC/EZ/EC-IIs is available on the Internet at http://www.hud.gov/cr;

b. Two bonus points will also be awarded for projects that are located in Brownfields Showcase Communities designated by EPA. A list of the federally designated Brownfields Showcase Communities is available from the SuperNOFA Information Center or through the HUD website, http://www.hud.gov.

B. Reviews and Selection Process

1. Reviews and Selection Process. All applications meeting BEDI program and other threshold requirements will be rated under the selection criteria in Section V.A. of this NOFA. Applications will be selected for funding as follows:

a. Fundable BEDI grant applications must meet the program threshold and submission requirements of this NOFA and the other threshold requirements stipulated in Section III.C. of the General Section or they will not be ranked.

b. All BEDI grant applications that meet threshold requirements will be ranked separately in order of points assigned with the applications receiving more points ranked above those receiving fewer points.

c. In the event two or more applications are given the same score, but there are insufficient funds to fund all of the tied applications, the application(s) with the highest score(s) on Rating Factor 3 shall be selected. If there is still a tie, the following Factors will be considered sequentially, with the application having the high score on each Factor in the following order taking precedence until the tie is broken: Rating Factor 1, Rating Factor 2, Rating Factor 4, and Rating Factor 5.

d. Fundable BEDI applications will be funded in rank order until the total aggregate amount of the approvable applications funded is equal to the maximum amount available in the competition (subject to the limitations described in Section II.C above).

e. In the event an insufficient number of applications meeting the program thresholds are received to award the full amount of BEDI funds appropriated and available under this NOFA, HUD may consider for funding those applications that did not meet the performance standards found in Section III.C.1.(c) above.

2. Corrections to Deficient Applications. Section V.B. of the General Section provides the procedures for corrections to deficient applications.

C. Anticipated Announcement and Award Dates

Historically, BEDI awardees have been notified of the approval of BEDI applications within approximately 90 days of the application deadline.

VI. Award Administration Information

A. Award Notices

1. Notice of Award and Obligation

BEDI award recipients will receive written notice of approval of their applications and the related terms and conditions of the award. An authorized official of the applicant receiving a BEDI award will be required to sign and return an acceptance of the BEDI award. BEDI funds shall be obligated for an approved application upon the return of a signed acceptance of the award to HUD and a countersignature of that acceptance by an authorized HUD official.

2. Award Disbursements and Amendments

a. Timing of Section 108 Approval and BEDI Grant Disbursements.

(1) To the extent a full and complete Section 108 application is submitted with the BEDI grant application, HUD will evaluate the Section 108 application immediately following the competition for BEDI grant funds. Note that for those applicants that are granted a waiver to the electronic submission process, the 108 application must be submitted to the appropriate HUD field office concurrently with submission to Headquarters.

(2) Notwithstanding any earlier obligation or award of BEDI funds to a grantee, or execution of a grant agreement, HUD will not permit the grantee to draw down BEDI funds before the issuance and at least partial funding of the obligations evidencing the related Section 108-guaranteed loan.

(3) Pursuant to the Consolidated Appropriations Act, 2005 (under the “Brownfields Redevelopment” heading) and 31 U.S.C. 1552, FY 2006 BEDI funds must be obligated (i.e., awarded) by HUD by September 30, 2007, and must be disbursed by HUD to the grantee by September 30, 2012. HUD reserves the right, however, to require earlier disbursement under a BEDI grant agreement. Accordingly, a BEDI awardee must ensure the timely submission of its Section 108 Loan Guarantee application, the execution of the Section 108 Contract for Loan Guarantee Assistance and BEDI Grant Agreement, and the issuance of the Section 108 Loan Guarantee Note.

3. Applicant Debriefing

Section VI.A. of the General Section provides information on applicant requests for a debriefing. Applicants requesting to be debriefed must send a written request to the contact person for the BEDI program, Mr. William Seedyke, at the address listed in Section VII of this NOFA.

B. Administrative and National Policy Requirements

1. Terms and Conditions

a. Ratio of BEDI to Section 108 Loan Guarantee Funds. Because the proposed ratio of BEDI funds to Section 108 funds presented in an approved BEDI application represents an applicant's financial commitment to a BEDI project, HUD will condition the BEDI grant award on the grantee's achievement of that specific ratio. The failure of the grantee to meet that condition by obtaining timely HUD approval of a commitment for, and issuance of, the required Section 108 guaranteed obligations ratio may result in the cancellation and recapture of all or a proportionate share of the BEDI grant award.

b. Approval of Section 108 Loan Guarantee Application and Disbursement of Funds. As a condition of any award under this NOFA, if the related Section 108 application has not been submitted and approved within 10 months of written HUD notification of selection for potential funding under this NOFA, HUD may deobligate the BEDI funds. BEDI grant awards and grant agreements will contain conditions requiring grantees to adhere to time frames mutually agreed on by the applicant/grantee and HUD for implementing proposed projects and drawing Section 108 and BEDI funds. If BEDI grant funds and Section 108 loan proceeds are not disbursed to the applicant within the time frames specified in the BEDI grant agreement, HUD reserves the right to cancel the award and recapture all or a portion of the BEDI funds, as applicable under the grant agreement.

c. BEDI Application Amendments. Any modifications or amendments to an application approved pursuant to this NOFA, whether requested by the applicant or by HUD, must be within the scope of the approved original BEDI application in all respects material to rating the application, unless HUD determines that the revised application remains within the competitive range and is otherwise approvable under this NOFA. In addition, if the applicant proposes an amendment after the period during which appropriated funds are available for obligation (for FY2006 BEDI funds, after September 30, 2007), HUD will be unable to approve any amendment which materially changes the scope, purpose, or need for the original award, as determined by HUD. In such a case, the unused BEDI funds must be deobligated and returned to the U.S. Treasury.

2. Environmental Justice

a. Executive Order 12898 (Federal Actions to Address Environmental Justice in Minority Populations and Low-Income Populations) directs federal agencies to develop strategies to address environmental justice. Environmental justice seeks to rectify the disproportionately high burden of environmental pollution that is often borne by low-income, minority, and other disadvantaged communities, and to ensure community involvement in policies and programs addressing this issue.

b. HUD expects that projects presented for BEDI funding will integrate environmental justice concerns and provide measurable economic benefits for affected communities and their current residents for the long term.

3. Economic Opportunities for Low- and Very Low-Income Persons (Section 3)

Recipients of assistance under this NOFA must comply with Section 3 of the Housing and Urban Development Act of 1968, 12 U.S.C. 1701 (Economic Opportunities for Low- and Very Low-Income Persons in Connection with Assisted Projects) and the HUD regulations at 24 CFR part 135, including the reporting requirements at subpart E. Section 3 requires recipients to ensure that, to the greatest extent feasible, training, employment, and other economic opportunities will be directed to low- and very-low income persons, particularly those who are recipients of government assistance for housing, and business concerns that provide economic opportunities to low- and very low-income persons.

4. Other National Requirements

BEDI applicants are directed to the Section III.C of the General Section, which provides the statutory, regulatory, threshold, and public policy requirements applicable to all HUD grantees. In particular, BEDI applicants should carefully review provisions relating to Executive Order 13202 (Preservation of Open Competition and Government Neutrality Toward Government Contractors' Labor Relations on Federal and Federally Funded Construction Projects) and federal laws governing the procurement of recovered materials.

C. Reporting

CDBG regulations at 24 CFR 570.507 (for metropolitan city and urban counties) and 24 CFR 570.491 (for state grantees) require the submission of a Consolidated Annual Performance Evaluation Report (CAPER) describing the use of CDBG funds during the program year. 24 CFR 570.3 defines CDBG funds to include BEDI grants, and accordingly, grantees must report specifically on the use of BEDI grant funds and Section 108 loan guarantee proceeds in the CAPER. CAPER requirements for the collection and reporting of racial and ethnic data also apply to the use of BEDI and Section 108 guaranteed loan proceeds. These data are to be reported in the CAPER using the Race and Ethnic Data Reporting form (HUD-27061). For each reporting period, as part of the required report to HUD, grant recipients must also include a completed Logic Model (form HUD-96010), which identifies output and outcome achievements and responses to the management questions.

For FY2006, HUD is considering a new concept for the Logic Model. The new concept is a Return on Investment statement. HUD will be publishing a separate notice on the ROI concept.

VII. Agency Contact

For technical assistance in completing your registration with Grants.gov or in using the electronic application, please contact the Grants.gov Support Desk by calling 800-518-GRANTS or by sending an email to Support@Grants.gov. For assistance with program related questions, please contact William Seedyke, BEDI Program Coordinator; Office of Economic Development; U.S. Department of Housing and Urban Development; 451 Seventh Street, SW, Room 7140; Washington, DC 20410; telephone (202) 708-3484, extension 4445 (this is not a toll-free number). Hearing or speech challenged persons may call the Federal Information Relay Service at 800-877-8339 (this is a toll-free number). Before the application submission date, HUD staff will be available to provide general guidance and assistance about this BEDI NOFA. However, HUD staff is not permitted to assist in preparing a BEDI application. Following selection of applicants, but before awards are made, HUD staff are available to assist in clarifying or confirming information that is a prerequisite to the offer of an award by HUD. In addition, the Section 108 Loan Guarantee program is not a competitive program and therefore is not subject to those provisions of the HUD Reform Act pertaining to competitions that do not permit HUD staff to assist in the preparation of applications. HUD staff are available to provide advice and assistance to develop Section 108 loan applications.

VIII. Other Information

Paperwork Reduction Act

The information collection requirements contained in this document have been approved by the Office of Management and Budget (OMB) under the Paperwork Reduction Act of 1995 (44 U.S.C. 3501-3520) and assigned OMB control number 2506-0153. In accordance with the Paperwork Reduction Act, HUD may not conduct or sponsor, and a person is not required to, a collection of information unless the collection displays a current OMB control number. Public reporting burden for the collection of information is estimated to average 2000 hours per annum per respondent for the application and grant administration. This includes the time for collecting, reviewing and reporting the data for the application and for the annual report. The information will be used for grantee selection and monitoring and the administration of funds. Response to this request for information is required in order to receive the benefits to be derived.

BILLING CODE 4210-01-P

Youthbuild

Overview Information

A. Federal Agency Name: Department of Housing and Urban Development, Office of Community Planning and Development.

B. Funding Opportunity Title: Youthbuild.

C. Announcement Type: Initial announcement.

D. Funding Opportunity Number: The OMB approval number is 2506-0142. The Federal Register number is FR-5030-N-07.

E. Catalog of Federal Domestic Assistance (CFDA) Number(s): 14.243, Youthbuild Program.

F. Dates: The application deadline date is on or before June 9, 2006. Please see the General Section of the SuperNOFA (the General Section) for application submission and receipt procedures. Please note that this year, all applications must be submitted electronically using http://www.grants.gov, as described in Section IV.F of the General Section.

G. Additional Overview Content Information: 1. Purpose of the Program. The purpose of the Youthbuild program is to assist disadvantaged young adults between the ages of 16 and 24 years of age in distressed communities to: (1) Complete their high school education; (2) provide on-site construction training experiences which result in the rehabilitation or construction of housing for homeless persons and low- and very low-income families; (3) foster leadership skills; (4) further opportunities for placement in apprenticeship programs; and (5) promote economic self-sufficiency for program participants.

2. Available Funds. Approximately $46,035,000 in appropriated funds and carry over is available for Fiscal Year (FY) 2006, plus any funds available through recapture, minus any amount needed to correct errors.

3. Eligible Applicants. Eligible applicants are public or private nonprofit organizations that include grassroots community-based organizations inclusive of faith-based organizations, state or local housing agencies or authorities, state or units of local government, or any entity eligible to provide education and employment training under other federal employment training programs, as further defined in HUD's regulation at 24 CFR 585.4.

4. Match. None.

Full Text of Announcement

I. Funding Opportunity Description

A. Program Description

The purposes of the Youthbuild Program are to:

1. Provide economically disadvantaged young adults with opportunities to obtain an educational experience that will enhance their employment skills, as a means to achieving self-sufficiency;

2. Foster the development of leadership skills and commitment to community;

3. Expand the supply of permanent affordable housing for homeless and low- and very low-income persons by providing implementation grants;

4. Provide disadvantaged young adults with meaningful on-site training experiences in housing construction and rehabilitation that will enable them to render a service to their communities by helping to meet the housing needs of homeless persons and low-income families; and

5. Give to the greatest extent possible, job training, employment, contracting, and other economic opportunities to low-income young adults.

B. Desirable Elements of a Youthbuild Program

You should document the extent to which HUD's initiatives are furthered by the proposed activities including:

1. Providing increased homeownership and rental opportunities for low- and moderate-income persons, persons with disabilities, the elderly, minorities, and families with limited English proficiency;

2. Improving our nation's communities;

3. Encouraging accessible design features;

4. Providing full and equal access to grassroots faith-based and other community based organizations in HUD program implementation; and

5. Ending chronic homelessness.

C. Definitions

1. Rural Area. A rural area is defined in one of five ways:

a. A non-urban place having fewer than 2,500 inhabitants (within or outside of metropolitan areas).

b. A county or parish with an urban population of 20,000 inhabitants or fewer.

c. Territory, including its persons and housing units, in rural portions of “extended cities.” The Census Bureau identifies the rural portions of extended cities.

d. Open country, which is not part of or associated with an urban area. The United States Department of Agriculture (USDA) describes “open country” as a site separated by open space from any adjacent densely populated urban area. Open space includes undeveloped land, agricultural land or sparsely settled areas but does not include physical barriers (such as rivers and canals), public parks, commercial and industrial developments, small areas reserved for recreational purposes, and open space set aside for future development.

e. Any place with a population not in excess of 20,000 and not located in a Metropolitan Statistical Area.

2. Underserved Area. An underserved area is defined as an area comprised of census tracts with the following economic distress criteria:

a. A census tract where the unemployment remains high (50 percent or more above the nation's unemployment rate) and

b. A census tract where high rates of poverty (50 percent or more above the national average) persist.

II. Award Information

A. Available Funds

Approximately $ 46,035,000 in funding is made available for this FY 2006 Youthbuild NOFA, which includes any carry over from previous appropriated funds, plus any FY 2006 funds appropriated by Congress, plus any funds available through recapture, minus any amount needed to correct errors.

B. Authority

This program is authorized under subtitle D of title IV of the Cranston-Gonzalez National Affordable Housing Act, as added by section 164 of the Housing and Community Development Act of 1992 (Pub. L. 102-550, 106 Stat. 3723, 42 U.S.C. 12899). The Youthbuild Program regulations are found in 24 CFR part 585.

C. Funding Categories

HUD will award up to $ 46,035,000 on a competitive basis. Funds will be divided among three categories of grants as described below. Pursuant to section 402 of the Cranston-Gonzalez National Affordable Housing Act (42 U.S.C. 12870), in each fiscal year, the Secretary shall reserve five percent of the amounts available for activities for technical assistance, as described in section 458 (42 U.S.C. 12899g).

1. Category 1 Grants. New Applicants. HUD will award up to $4,800,000 for new applicants that have not previously received implementation grants since the inception of the Youthbuild Program and that have elected not to apply under Category 2 or 3.

2. Category 2 Grants. Grants up to $700,000. HUD will award up to $37,275,000. Any eligible applicant can apply in Category 2.

3. Category 3 Grants. Underserved and Rural Areas. HUD will award approximately $3,960,000 for grants to organizations serving clients in underserved and rural areas as defined in this NOFA.

4. Selection of Category. You must indicate in your project abstract which funding category you are applying for. Category 3 applicants must designate which definition(s) under Section I.C. is (are) applicable.

5. Grant Period. You must expend funds awarded within 30 months of the effective date of the grant agreement.

6. Maximum Awards. The maximum award for a Youthbuild grant is $700,000 for Category 2 grants. The maximum amount of award for Categories 1 and 3 grants is $400,000.

III. Eligibility Information

A. Eligible Applicants

Eligible applicants are public or private nonprofit organizations which include grassroots community-based organizations inclusive of faith-based organizations, state or local housing agencies or authorities, states or units of local government, or any entity eligible to provide education and employment training under other federal employment training programs as further defined in HUD's regulation at 24 CFR 585.4.

B. Cost Sharing or Matching

No match required.

C. Other

1. Eligible Activities

a. Work and activities associated with the acquisition, architectural design and engineering, rehabilitation or construction of housing, as defined in HUD's regulations at 24 CFR 585.305.

b. Relocation payments and other assistance required to comply with HUD's regulation at 24 CFR 585.308;

c. Costs of ongoing training and technical assistance needs related to carrying out a Youthbuild program and in-house staff training;

d. Education, job training, counseling, employment, leadership development services, and optional activities that meet the needs of the participants including entrepreneurial training, driver education, apprenticeship opportunities, financial literacy, credit counseling, and assistance programs for those with learning disabilities;

e. Outreach to potential participants;

f. Wages, benefits, and need-based stipends for participants; and

g. Administrative costs must not exceed eight percent of the grant award, as required by the FY 2006 Consolidated Appropriations Act. HUD encourages you to use grant funds for outreach, recruitment, training, and other services for the participants that facilitate program implementation. Please refer to HUD's regulation at 24 CFR 585.305 for further details on eligible activities.

2. Threshold Requirements

All applicants must comply with the threshold requirements defined in the General Section and the requirements listed below to receive an award. Applications that do not meet these requirements will be considered ineligible for funding.

a. Eligible Participants. Participants in a Youthbuild program must be very low-income high school dropouts between the ages of 16 and 24, inclusive, at the time of enrollment. Up to 25 percent of participants may be above very low-income, or may be high school graduates (or equivalent), but must have educational needs (such as lack of reading, writing, and communication skills) that justify their participation in the program.

b. Youthbuild Program Components. Applications that receive assistance under this program must contain the three components described as follows:

(1) Educational and job training services;

(2) Leadership training, counseling, and other support activities; and

(3) On-site training through actual housing rehabilitation and/or new construction work.

c. Identification of and Access to Property. Your application must identify the location of the site(s) or property(ies) (e.g., addresses, parcel numbers, etc.) that will be used for on-site construction. Your application MUST contain a letter from the property owner or property management company or companies allowing access to the housing site(s) for on-site construction training. HUD will deem ineligible any application that fails to specifically identify the location of the on-site construction, including evidence of site access. Guidance on evidence of site access is as follows:

(1) If the applicant has a contract or option to purchase the property, you should include a copy of the contract or option; and

(2) If a third party owns the property or has a contract or option to purchase, that third party must provide a letter to you stating the nature of the ownership and specifically providing you with access to the property for the purposes of the program and the time frame in which the property will be available. In the case of a contract or option, include a copy of the document.

d. Minimum Score. In order to be considered eligible for funding, your application must receive a minimum score of 75, including a minimum of 10 points in Factor 1.

e. DUNS Requirement. Refer to the General Section for information regarding the DUNS requirement. You will need to obtain a DUNS number to submit your application on line using http://www.grants.gov and to receive an award from HUD.

f. Civil Rights Threshold Requirement. Applicants must meet all of the applicable threshold requirements of Section III.C.2.c of the General Section regarding Fair Housing and Civil Rights laws, statutes, regulations and Executive orders as enumerated in 24 CFR 5.105(a).

g. Potential Environmental Disqualification. HUD reserves the right to disqualify an application where one or more environmental thresholds identified in the instructions section of the Youthbuild NOFA located at http://www.hud.gov/offices/adm/grants/fundsavail.cfm are exceeded if HUD determines that it cannot conduct the environmental review and satisfactorily complete the review within the HUD application review period. (See 24 CFR 585.307.) You must indicate, as part of your application package if your project will, or will not, include construction, rehabilitation, leasing or acquisition activities that will require an environmental compliance review as detailed in the instructions section of the Youthbuild NOFA. Environmental thresholds that are explained in the instructions section require that forms 2C13a, 2C13b, or 2C13c and 2C15 be completed if you are proposing construction, rehabilitation, leasing or acquisition activities with HUD funds.

h. Consistency with Consolidated Plan. You must provide the required certification that the proposed activities are consistent with the HUD-approved Consolidated Plan in accordance with 24 CFR part 91.

i. If you have received a Youthbuild grant and it is greater than 24 months old and you have not drawn down at least 50 percent of the total HUD grant funds as of the application submission date for this NOFA, you will not be eligible to receive a FY 2006 Youthbuild grant.

3. Program Requirements

In addition to the program requirements listed below, applicants must comply with the program requirements in Section III.C of the General Section.

a. Locational Limitations. You may submit more than one application in the current competition if your program's participant recruitment and housing areas are in different jurisdictions. Each application you submit may only propose activities to carry out one Youthbuild program, i.e., to start a new Youthbuild program or to fund new classes of Youthbuild participants for an existing program.

b. Site Selection. In determining the site or the location of a federally assisted facility, you may not select sites that will exclude or have the effect of excluding qualified persons with disabilities, or otherwise subject them to discrimination.

c. New Construction, Substantial Alterations, or Other Alterations. If you undertake New Construction, Substantial Alterations, or Other Alterations, it must conform to the accessibility standards outlined in the regulations implementing the Rehabilitation Act of 1973 at 24 CFR part 8, specifically §§ 8.22, 8.23(a) and § 8.23(b). In addition, if you undertake construction of multifamily housing with four or more dwelling units, you must also meet the design and construction requirements of the Fair Housing Act. See 24 CFR part 100, at § 100.205.

d. Training Requirement. Each program must be structured so that 50 percent of each participant's time is spent in on-site training and the other 50 percent in educational training.

e. Economic Opportunities for Low- and Very Low-Income Persons (Section 3). Section 3 of the Housing and Urban Development Act of 1968, (12 U.S.C. 1701u) is applicable. Section 3 requires recipients to ensure that, to the greatest extent feasible, training, employment, and other economic opportunities will be directed to low- and very-low income persons, particularly those who are recipients of government assistance for housing, and business concerns which provide economic opportunities to low- and very low-income persons. The regulations are at 24 CFR part 135.

f. Participation in Local Workforce Investment Act One-Stop Center. Youthbuild grantees are mandatory partners in one-stop centers authorized by the Workforce Investment Act of 1998 (Pub.L. 105-220).

g. First time applicants. If you are a first-time applicant applying for funding under Category 1, you must have a graduating class of not more than 20 participants.

h. Environmental Reviews. Environmental procedures apply when you propose to use Youthbuild funds to cover any costs for the lease, acquisition, rehabilitation, or new construction of real property proposed for housing development costs. Environmental procedures do not apply to your application when you propose to use Youthbuild funds solely to cover costs for classroom and/or on-the-job construction training and support services.

You must indicate, as part of your application package if your project will, or will not, include construction, rehabilitation, leasing or acquisition activities that will require an environmental compliance review as detailed in the instructions section at http://www.hud.gov/offices/adm/grants/fundsavail.cfm. If your project is subject to an environmental compliance review, you must submit the relevant information in the required forms as part of your application package to facilitate HUD's decisionmaking in accordance with the environmental procedures and standards set forth in HUD's regulation at 24 CFR 585.307. The Website link contains the detailed description and relevant forms of all environmental laws and rules that apply—the National Environmental Policy Act, the National Historic Preservation Act, the Clean Water and Clean Air Acts, the Endangered Species Act, the Scenic Rivers Act, national floodplain and wetland policies, national flood insurance requirement, Coastal Barriers Resource Act, and HUD noise and explosive hazards policies.

IV. Application and Submission Information: (See the General Section)

A. Addresses To Request Application Package

There is no application kit for the FY2006 Youthbuild NOFA. This NOFA clearly describes the requirements for completing a successful application and all forms and certifications needed to complete your application are included in the General and Youthbuild Sections of the SuperNOFA, which can be downloaded from http://www.Grants.gov/Apply.

B. Content and Form of Application Submission

Be sure to read the application submission instructions in the General Section and below carefully.

1. Response to NOFA Page Limitation

The narrative responses to all factors identified in Section V of this NOFA must not exceed 15 single sided pages of text based on an 8.5 by 11 inch paper, using a standard 12 point font, with lines double-spaced. Submitting pages in excess of the page limit will not disqualify your application. However, HUD will not review or consider information on any excess pages.

2. Application Items

Your application must contain the items listed below including the standard forms, certifications, and assurances listed in the General Section that are applicable to this funding. The standard forms and the program specific forms or information needed to evaluate your application can be found at Grants.gov or http://www.hud.gov. General letters of support not associated with specific cash or in-kind commitments have no bearing on the rating of your application.

What to submit | Required content | Required form or format | When to submit
Project abstract | Category applying for (if Category 3, specify which definition(s) under “rural and underserved” is(are) applicable); Amount of funds requested; Location of project, including census tract(s); Number of participants to be trained; Number of houses to be constructed; Number of houses to be rehabbed; Major partners | Narrative | Application deadline date.
Application |  | SF-424 | Application deadline date.
Survey on Ensuring Equal Opportunity for Applicants |  | SF-424 supplement | Application deadline date.
Budget information | Total Youthbuild Grant Budget | Youthbuild Form 4A (HUD-40211.6) | Application deadline date.
Rating Factors: Narrative addressing 5 rating factors | Described in Section V of this announcement | Narrative and Youthbuild Form 4B (HUD-40211.7) | Application deadline date.
Non-Housing Program Resources and accompanying letters of commitment for non-housing program resources | Described in Section V of this announcement | Youthbuild Form 4B (HUD-40211.7) | Application deadline date.
Logic Model Form | Described in Section V of this announcement and form instructions | HUD-96010 | Application deadline date.
Applicant/Recipient Disclosure/Update Form | Required for all applicants | HUD-2880 | Application deadline date.
Disclosure of Lobby Activities (if applicable) | Required if applicant has lobbied | SF-LLL (use SF-LLL-A Continuation Sheet if needed) | Application deadline date.
Certification of Consistency with RC/EZ/EC-II Plan | If applying for RC/EZ/EC Round II bonus points | HUD-2990 | Application deadline date.
Certification of Consistency with Consolidated Plan | Required | HUD-2991 | Application deadline date.
Acknowledgment of Application Receipt | Optional if applicant has been granted a waiver of the mandatory electronic submission and is submitting a paper application | HUD-2993 | Application deadline date.
You Are Our Client Grant Applicant Survey | Optional, to help HUD improve its NOFA process | HUD-2994-A | Application deadline date.
Youthbuild Program Specific Forms/information (required for all applications)
Exhibit 2C (Housing Site Description) |  | HUD-40211 | Application deadline date.
Exhibit 2C10 (Individual Housing Project Site) Estimate |  | HUD-40211.1 | Application deadline date.
Accompanying letters of commitment to cover costs of lease, acquisition, rehabilitation or new construction of real property Site Access Letter(s) |  |  | Application deadline date.
Youthbuild Program Specific Forms (only if applicant proposes to use Youthbuild funds for lease, acquisition, rehabilitation, or new construction of real property)
Exhibit 2C13a (Housing Project Certifications for Residential Rental Units |  | HUD-40211.2 | Application deadline date.
Exhibit 2C13b (Housing Project Certifications for Transitional Housing) |  | HUD-40211.3 | Application deadline date.
Exhibit 2C13c (Housing Project Certifications for Homeownership) |  | HUD-40211.4 | Application deadline date.
Exhibit 2C15 (Environmental Threshold Information for a Property Proposed for YB Funding) |  | HUD-40211.5 | Application deadline date.
Questionnaire for HUD's Initiative on Removal of Regulatory Barriers |  | HUD-27300 | Application deadline date.
Facsimile Transmittal | To be used when submitting third party letters or other documents that you cannot attach as an electronic file to your application | HUD-96011 | On or before the application deadline date.

C. Submission Dates and Times

Applications must be received and validated by Grants.gov no later than 11:59:59 p.m. Eastern time on the application deadline date of June 9, 2006. HUD must receive paper copy applications from applicants that received a waiver no later than 11:59:59 p.m. on the application deadline date. See the General Section for application submission and timely receipt procedures.

D. Intergovernmental Review

The Youthbuild program is subject to Intergovernmental Review under Executive Order 12372, “Intergovernmental Review of Federal Programs.” See the General Section for further discussion of the Executive Order and HUD's implementing regulations.

E. Funding Restrictions

Administrative costs must not exceed eight percent of the grant award.

V. Application Review Information

The factors for rating and ranking applicants are provided below. The maximum number of points for the program is 102. This includes two bonus points, as described in Section V. F below.

A. Rating Factor 1. Capacity of the Applicant and Relevant Organizational Experience (20 Points, Minimum 10 Points)

This factor addresses the qualifications and experience of the applicant and participating parties to implement a successful Youthbuild program in accordance with your work plan as further described in Factor 3. HUD will evaluate information provided documenting recent capability. Experience within the last 5 years is considered recent. HUD will take into account the applicant's past performance and may deduct points for previous inability to demonstrate performance. HUD will evaluate the following sub-factors:

1. Team Member Composition and Experience (5 points). Your experience and the experience of your project director, core staff competencies including your day-to-day program manager, consultants, and contractors. You must demonstrate that your program manager has the background, experience, and capacity to implement all of the program components of the proposed work plan, as evidenced by recent work experience in managing projects of the same or similar size, dollar amount, types of activities, and beneficiaries as those proposed in your work plan. If any gaps exist in your experience or organizational structure to carry out the program, describe how you will fill those gaps including the hiring of consultants or other outside parties.

2. Organizational Structure (5 points). You should provide a clear description of how your organizational structure will operate to carry out your work plan. You should describe the structure of your organization (include an organizational chart), management structure, including reporting relationships of key staff, a system for coordinating with outside contractors or third party service providers, a mechanism for an internal and external auditing relationship, in accordance with OMB Circular (No. A-133), “Audits of State and Local Governments and Non-Profit Organizations,” and an accounting system which meets federal accounting system requirements.

3. Achievement of Performance Outcomes (10 points). The objectives and accomplishments of your past experience in conducting similar activities. You must describe your past project objectives and accomplishments that are similar to those of your proposed work plan to show your effectiveness and timeliness in managing similar projects. If you have received similar grants including previous Youthbuild grants, you must describe the effectiveness of your administration, including timeliness and meeting performance results from performance reports. In addressing timeliness of reports, you must compare when your reports were due with when they were actually submitted. You must describe your achievements, including specific measurable outcome objectives: Number of youths recruited, trained, and received GEDs; number of youths obtaining jobs (i.e., those that are a part of a career path or apprenticeship program) and job retention statistics; number of youths participating in apprenticeships and number of housing units rehabilitated or constructed and made available for low- and very low-income persons. Previously generated outcomes should include the following: (1) Percent that entered employment or enrolled in education and/or training first quarter after program exit, (2) percent of participants that earned a diploma, GED, or certificate, (3) percent that have attained literacy and numeracy skills by participants, (4) annual cost per participant.

Also, you must describe the extent to which you or participating partners have been successful in past education, training and employment programs and activities, including federally funded Youthbuild programs. In applying the rating criteria, HUD will take into consideration your performance (including meeting target dates and schedules) as reported.

The more recent, relevant, and successful the experience of the proposed team members, organization and other participating entities in relation to the work plan, the greater the number of points you will receive. For previous and existing Youthbuild grantees, applicants that can demonstrate a closer and greater linkage between the expected outcomes and the previously generated outcomes will receive a higher score for this Factor. Applicants that have been slow to draw funds and therefore appear not to be making progress in completing their program activities will receive lower rating points than applicants that have a pattern and practice of drawing funds in a timely manner consistent with timely progress in meeting program activity goals and objectives.

B. Rating Factor 2: Need/Extent of the Problem (21 Points)

This Factor addresses the extent to which there is need for funding the proposed activities based on levels of distress and an indication of the urgency of meeting the need/distress in the applicant's target area. Applications will be evaluated on the extent to which the level of need for the proposed activity and the urgency in meeting the need are documented and compared to the target area and national data.

1. HUD will consider current levels of distress for the area (i.e., Census Tract(s) or Block Groups) immediately surrounding the project site or the target area to be served by the proposed project, and in the nation. This means that an application that provides data that show levels of distress in the target area expressed as a percent greater than the national average will be rated higher.

Notwithstanding the above, an applicant proposing a project to be located outside the target area could still receive points under the Distress Factor if a clear rationale and linkage is provided linking the proposed project location and the benefits to be derived by persons living in more distressed area(s) of the applicant's target area.

2. Applicants should provide data that address indicators of distress, as follows:

a. Poverty (5 points)—data should be provided in both whole numbers and percentages for the target area(s); an application that compares the local poverty rate in the following manner to the national average at the time of submission will receive points under this section as follows:

(1) Less than the national average—0 point

(2) Equal to but less than twice the national average—1 point

(3) Twice but less than three times the national average—3 points

(4) Three or more times the national average—5 points

b. Unemployment (5 points)—for the project area;

(1) Less than the national average—0 point

(2) Equal to but less than twice the national average—1 point

(3) Twice but less than three times the national average—2 points

(4) Three but less than four times the national average—3 points

(5) Four but less than five times the national average—4 points

(6) Five or more times the national average—5 points

c. High School Dropouts (8 points)—for the project area;

(1) Less than the national average—0 point

(2) Equal to but less than twice the national average—2 points

(3) Twice but less than three times the national average—4 points

(4) Three but less than four times the national average—6 points

(5) Four but less than five times the national average—7points

(6) Five or more times the national average—8 points

d. Concrete examples of social and/or economic decline that best capture the applicant's local situation (3 points). Examples that could be provided are information on the community's stagnant or falling tax base, including recent commercial or industrial closings, housing conditions, such as the number and percentage of substandard and/or overcrowded units, rent burden (defined as average housing cost divided by average income) for the target area and urgency in addressing problems facing youth, local crime statistics, etc.

3. When rating applications HUD reserves the right to consider sources of available objective data, such as the U.S. Census, in addition to those provided by applicants, and to compare such data to those provided by applicants and local crime statistics for the project site.

HUD requires use of sound and reliable data (e.g., U.S. Census data, state statistical reports, university studies/reports that are verifiable) to support distress levels cited in each application. A source for all information including the publication or origination date must be provided. Updated Census data are available as follows for the listed indicators: a. Unemployment rate—estimated monthly, with a two-month lag; b. High School Dropout rate using the status rate—2000 data; c. Poverty rate—2000 Census data at the tract level.

C. Rating Factor 3: Soundness of Approach (37 Points)

This Factor addresses your proposed workplan and budget and the extent to which your proposed program is coordinated with other ongoing and related activities in the area you propose to serve and how well your program outcomes result in increased independence and empowerment to your beneficiaries at the conclusion of the grant period. HUD will evaluate the extent to which your application meets the following elements:

1. Youthbuild Program Work Plan: For each component, HUD will consider the overall quality and feasibility of your proposed work plan and budget that must be consistent with the Youthbuild program as measured by your specific activities and outcomes. You will receive a greater number of points if the program components are consistent with the purpose of the Youthbuild program, your project goals and the resources provided. Letters describing specific resources or services to be contributed by non-applicant organizations must be included in your application.

Specifically, HUD will consider the following categories when assessing your proposed work plan:

a. Program Components. (15 points)

(1) Outreach strategy, recruitment strategy, and selection activities. Points will be awarded based upon overall quality and feasibility of the outreach, recruitment and selection activities, the number and types of outreach activities, number of youths to be recruited including eligible participants who are harder to reach and comprehensiveness of the local selection process.

In evaluating this category, HUD will consider your selection strategies and your specific outreach efforts to recruit or contact:

(a) Potential eligible participants who are unlikely to be aware of this program (because of race, color, national origin, religion, ethnicity, sex, or disability);

(b) Young women, young women with dependent children, and persons receiving public assistance; and

(c) Public agencies, courts, homeless shelters, local school systems, local workforce development systems, one-stop centers and community-based organizations, etc.

(2) Educational and job training services and activities. Points will be awarded based upon the qualifications of instructors and proposed wages and stipends for youth participants. In evaluating this category, HUD will consider:

(a) The types of in-class academic and vocational instruction you will provide;

(b) The number and qualifications of program instructors and ratio of instructors to participants;

(c) Scheduling plan for classroom and on-the-job training needed to meet program requirements and ensure timely completion of your program; and

(d) Reasonable payments to participants of wages, stipends, and incentives. Wages or stipends for on-site construction training must be at least federal minimum wage.

(3) Leadership development. Points will be awarded based upon your proposed leadership curriculum, qualifications of instructors, and the impact of the proposed leadership activities on the target area. You must describe the leadership development training you will offer to participants and strategies for providing the training to build group cohesion and peer support.

(4) Support services. You must assess the need for counseling and referral services during each stage of program implementation: Outreach strategy, recruitment strategy, youths interviewed and not selected for the program, program participants, youths who drop out of the program, and graduates of the program. Describe how the participant needs will be addressed, document counseling and referral services to be offered to participants, the type of counseling, social services, and/or need-based stipends you will provide.

(5) Follow-up assistance and support activities to program graduates. You must describe the type of proposed assistance and support which should be based upon an assessment of the needs of the program graduates and should include continued linkage to the local Youthbuild program, counseling, and social service referral services.

(6) On-site training. Points will be awarded based upon the experience of proposed instructors, number of youth to be trained, and wages or stipends for participants. HUD will consider:

(a) The housing construction or rehabilitation activities participants will undertake at the site(s) to be used for the on-site training component of the program as provided in the training curriculum and methodology for carrying out on-site training;

(b) Qualification and number of on-site supervisors;

(c) Ratio of trainers to participants;

(d) Number of participants per site; and

(e) Amounts, wages, and/or stipends you will pay to participants during on-site work. Amounts must be at least federal minimum wage.

b. Strategy for Job Placement. (2 points).

(1) For applicants that have not received a prior Youthbuild award. HUD will evaluate the quality and feasibility of your proposed strategy to place youth participants in permanent jobs. You will be rated on the following factors: (a) Proposed number of youth to obtain jobs that promote economic self-sufficiency (i.e., those that are a part of career paths or apprenticeship programs); (b) proposed number of youths who will continue post-secondary or secondary education; and (c) proposed number of youths to receive entrepreneurship training.

(2) For Youthbuild grantees who have grants that are at least 24 months old. In addition to the information in section V.C.2.b(1) above, provide the actual number of program participants that met each criterion in section V.C.2.b(1)(a), V.C.2.b(1)(b) and V.C.2.b(1)(c) as a percent of the total program participants served.

2. Coordination Elements:—5 points as distributed below.

a. Coordination of activities (2 points). The extent to which you have coordinated your activities with other known organizations that are not directly in your proposed work activities, but with which you share common goals and objectives and are working toward meeting these objectives in a holistic and comprehensive manner. The goal of coordination is to ensure that programs do not operate in isolation. The more your activities are coordinated with other agencies in your service area, the more points you will receive. An example of coordination of activities would be the applicant's partnership with an existing child day care facility (which is not funded by program) that provides day care services to the Youthbuild participants during the hours they are being trained.

b. Self-Sufficiency (1 point). Describe how your program will provide participants the ability to achieve: Independent living, economic empowerment, educational opportunities, housing choice or an improved environment that is free from environmental hazards such as lead hazards, brownfields, overcrowded housing, etc.

c. Sustainability (2 points). For applicants that have not received a prior Youthbuild award, describe how your program will be financially self-sustaining by decreasing dependence on Youthbuild funding and relying more on state, local, and private funding so your activities can be continued after your grant award is complete. For previous Youthbuild grantees, describe how your program demonstrates a progression of reduced reliance on HUD's Youthbuild funds, as either a reduced Youthbuild grant amount or increased overall program level with Youthbuild as a declining share of the total.

c. Housing Program Priority (10 points). HUD will assign Housing Program Priority points to all applications that contain evidence that housing resources from other federal, state, local, or private sources are available and firmly committed to cover all costs, in full, for the following housing activities for the proposed Youthbuild program: Acquisition, architect and engineering fees, construction, and rehabilitation. Forms 2C, Housing Site Description, and 2C10, Youthbuild Grant Individual Housing Project Site Estimate, must be completed to receive the Housing Program Priority points. Applications that do not include proper documentation of firm financial commitments of non-Youthbuild resources or propose to use Youthbuild grant funds, in whole or in part, or do not evidence site control, for any one of the housing activities listed above will not receive housing program priority points. For an applicant to receive the housing program priority points, each letter of commitment to cover the costs of the above activities must include the following:

(1) The organization's name;

(2) The applicant's name;

(3) The proposed program;

(4) The proposed amount of commitment and which housing activity(ies) (i.e., acquisition, architect and engineering fees, construction, and rehabilitation) the commitment represent(s);

(5) A signature by an official of the organization legally able to make commitments on behalf of the organization with a statement confirming that the authority remains in effect for a period stated in the commitment;

(6) If the contribution is cash, the applicant, the applicant's partner(s) or contributing entity must evidence its financial capability through a corporate or personal financial statement or other appropriate means. If any portion of the committed activity is to be financed through a lending institution, the participant must evidence the institution's commitment to fund the commitment;

(7) Affirm that its investment is contingent only upon receipt of FY2006 Youthbuild funds and state a willingness on the part of the signatory to sign a legally binding commitment not earlier than the date this NOFA is published and (conditioned on HUD's environmental review and approval of a property, where applicable) upon award of the grant.

d. Policy Priorities (5 points). Policy Priorities are further defined in the General Section. Applicants should document the extent HUD's policy priorities for Youthbuild listed below are enhanced by the proposed activities. Applicants that include activities that can result in the achievement of these departmental policy priorities, will receive higher rating points. The four departmental policy priorities for Youthbuild are:

(1) Ending chronic homelessness (1 point);

(2) Removal of regulatory barriers to affordable housing (up to 2 points) You must complete Form HUD-27300, Questionnaire for HUD's Initiative on Removal of Regulatory Barriers and provide the requested documentation to receive points for this policy priority. See the General Section for a discussion of how points are allocated.

(3) Participation in Energy Star (1 point). Applicants must state how they incorporate this priority into their application in order to receive the one point.

(4) Encouraging Accessible Design Features—Visitability and Universal design. (1 point). Applicants must state the extent to which the proposed design incorporates visitability standards and universal design in projects involving construction or rehabilitation. See the General Section for further information about this policy priority.

D. Rating Factor 4: Leveraging of Non-Housing Resources (10 Points)

This Factor addresses the ability of the applicant to secure non-housing resources from its program partners. HUD will evaluate the extent to which firm commitments of resources are obtained from federal, state, local, private, and nonprofit sources. The applicant will receive points based upon the ratio of committed non-HUD resources for non-housing activities compared to the amount of Youthbuild funds requested in the application. (Exhibit 4B Non-Housing Program Resources must be completed and you must provide letters of firm commitment from the donor with the amount of cash or in-kind contribution). Applicants submitting letters of commitment without the Exhibit 4 completed will not receive points for this Rating Factor. Each commitment described on Exhibit 4B for this Factor must have a firm commitment letter. In addition, the amount of the commitment in each letter must match the amount listed on the Form 4B.

HUD will consider the level of resources obtained for cash or in-kind contributions to cover the following kinds of areas:

• Social services (i.e., counseling and training);

• Use of existing vocational, adult, and bilingual educational courses;

• Donation of labor, resource personnel, supplies, teaching materials, classroom, and/or meeting space.

1. Firm commitment for non-housing resources. Each letter of commitment to cover the costs of the above activities must include the following:

a. The organization's name;

b. The applicant's name;

c. The proposed program;

d. The proposed amount of commitment and which non-housing activity(ies) the commitment represent(s);

e. A signature by an official of the organization legally able to make commitments on behalf of the organization with a statement confirming that the authority remains in effect for a period stated in the commitment;

f. An affirmation that its investment is contingent only upon receipt of FY2005 Youthbuild funds and a statement of willingness on the part of the signatory to sign a legally binding commitment not earlier than the date this NOFA is published.

2. Resources from other federal, state, local governments, or private entities. HUD encourages use of existing federal, state, local governments, or private and nonprofit housing programs as part of your Youthbuild program. In addition, HUD encourages use of other non-Youthbuild funds available for vocational, adult, and bilingual education programs, or for job training under the Workforce Investment Act and the Personal Responsibility and Work Opportunity Reconciliation Act of 1996 (48 U.S.C. 1601 et seq.).

E. Rating Factor 5: Achieving Results and Program Evaluation (12 Points)

This factor emphasizes HUD's commitment to ensure that applicants keep promises made in their application to rigorously assess their performance and ensure performance goals are met. Achieving results means you, the applicant, have clearly identified the benefits, or outcomes of your program. Outcomes are ultimate goals. Performance indicators are the quantifiable measures of proposed and actual achievements. Benchmarks or outputs are interim activities or products that lead to the ultimate achievement of your goals. Performance measurement requires that you identify program outcomes, interim products or benchmarks, and performance indicators that will allow you to assess your performance. Performance indicators must be quantified and measure actual achievements against anticipated achievements. You should identify what you are going to measure, how you are going to measure it, and the steps you have in place to make adjustments to your work plan if performance targets are not met within established timeframes. Applicants are required to complete the Logic Model form HUD-96010 to receive any points under this factor. This rating factor reflects HUD's goal to embrace high standards of ethics, management and accountability.

The highest rated applications under this factor will have a clear plan with measurable performance indicators to address the Youthbuild program's outcome goals—to provide economically disadvantaged youth with opportunities to attain an educational experience that will enhance their employment skills as a means of achieving self-sufficiency. The application may also optionally address other related indicators of relevant outcomes.

At a minimum, your Logic Model must include the following program output measures:

• Number of participants enrolled in the program;

• Number of participants that graduate;

• Number of housing units constructed;

• Number of housing units rehabilitated;

• Number and percent of GEDs or certificates attained by participants (for percentage calculation, numerator: the number of participants who attain a diploma, GED or certificate; denominator: Those who are participating in the Youthbuild program).

• Number and percent of graduates placed in employment or education (for percentage calculation, numerator: The number of graduates who have entered employment or enrolled in post secondary education; denominator: the number of graduates from the Youthbuild program); and

• Number and percentage of participants who made literacy and numeracy gains (measures the increase in literacy and numeracy skills of participants through a common assessment tool administered at program registration and regular intervals thereafter); for percentage calculation, numerator: the number of Youthbuild program participants who increase one or more education functioning levels; denominator: the number of Youthbuild program participants who have completed a year in the program).

• Efficiency or annual cost per participant (numerator: grant amount; denominator: number of Youthbuild participants.)

An applicant should agree to cooperate with any HUD-approved evaluation by making staff available for interview, providing lists of participants and their contact information, and making available files under appropriate assurance of confidentiality of records.

For FY2006, HUD is considering a new concept for the Logic Model. The new concept is a Return on Investment statement. HUD will be publishing a separate notice on the ROI concept.

F. Bonus Points (2 Points)

HUD will award two bonus points to each application that includes a valid form HUD-2990 certifying that the proposed activities/projects in the application are consistent with the strategic plan for an empowerment zone (EZ) designated by HUD or the United States Department of Agriculture (USDA), the tax incentive utilization plan for an urban or rural renewal community designated by HUD (RC), or the strategic plan for an enterprise community designated in round II by USDA (EC-II) and that the proposed activities/projects will be located within the RC/EZ/EC-II identified above and are intended to serve the residents. A listing of the RC/EZ/EC-IIs is available on the Internet at http://www.hud.gov/cr. Your application must contain the completed certification form HUD-2990 to be considered for RC/EZ/EC-II bonus points.

VI. Reviews and Selection Process

A. Rating and Ranking

1. General. To review and rate applications, HUD may establish panels including officials from other federal agencies and outside experts or consultants to obtain certain expertise and outside points of view.

2. Rating. All applications for funding will be evaluated against the rating factors described in Section V. of this NOFA.

3. Ranking. Applications will be ranked separately within each of the three funding categories. Applications will be selected for funding in accordance with their rank order in each category.

4. Eligibility for Selection. To be eligible for funding, an application must have an overall minimum score of 75 points, including a minimum score of 10 points in Factor 1. If two or more applications are rated fundable and have the same score, but there are insufficient funds to fund all of them, HUD will select the application(s) with the highest score for Rating Factor 3 (Soundness of Approach). If two or more applications still have the same score, the highest score in the following factors will be selected sequentially until one highest score can be determined: Rating Factor 1 (Capacity of the Applicant and Relevant Organization); Rating Factor 4 (Leveraging of Resources) and Rating Factor 2 (Need/Extent of the Problem).

5. Adjustments to Funding. Any available funds that remain after all applications within funding range have been selected or obligated will be reallocated between categories 1 and 2 by rank order between applications at the discretion of the selecting official or designee. Category 3 funds are appropriated as a set-aside, and can not be reallocated.

6. Corrections to Deficient Applications. The General Section provides the procedures for corrections to deficient applications.

B. Anticipated Announcement and Award Dates

HUD anticipates making award announcements no later than four months after the application submission deadline date.

VII. Award Administration Information

A. Award Notices

1. Notification of Approval or Disapproval. HUD will notify you whether or not you have been selected for an award. If you are selected, HUD's notice to you of the amount of the grant award based on the approved application will constitute HUD's CONDITIONAL approval, subject to negotiation and execution of the grant agreement by HUD.

2. Application Debriefing. Applicants who wish to have a debriefing of their application must send a written request to: Youthbuild Program Office; Office of Economic Development; Office of Community Planning and Development; 451 Seventh Street, SW., Room 7136; Washington, DC 20410-7000. Debriefing information can be found in the General Section of the SuperNOFA.

B. Administrative and National Policy Requirements

1. Applicable OMB Circulars. Please refer to the General Section.

2. Applicable Executive Orders and Statutes. Please note that Executive Order 13202, “Preservation of Open Government Neutrality Towards Government Contractors' Labor Relations on Federal and Federally Funded Construction Contracts” and Section 6002 of the Solid Waste Disposal Act covering the procurement of recovered materials may be applicable (see the General Section.)

3. Executive Order 13166, Improving Access To Services For Persons With Limited English Proficiency (LEP). Consistent with Executive Order 13166, “Improving Access to Services for Persons with Limited English Proficiency,” issued on August 11, 2000, all HUD recipients should take reasonable steps to provide certain materials and information available in languages other than English. The determination as to what materials, languages, and modes of translation/interpretation services should be used shall be based upon:

a. The specific needs and capabilities of the LEP populations among the award recipient's program beneficiaries and potential beneficiaries of assistance (e.g. tenants, community residents, counselees, trainees, etc.);

b. The recipient's primary and major program purposes;

c. Resources of the recipient and size of the program; and

d. Local housing, demographic, and community conditions and needs. HUD's LEP recipient Guidance was published in the Federal Register (68 FR 70967) on December 19, 2003 and further guidance may be found at http://www.lep.gov.

4. Reporting Requirements:

a. Progress reports and Logic Model reporting. Youthbuild grantees are required to submit progress reports to the appropriate HUD field office in accordance with 24 CFR Part 585.403, using HUD Form 40201. If you receive a FY 2006 Youthbuild award, you will be required to update your Logic Model periodically, addressing the time schedule, accomplishments to date and results and submit it to HUD in conjunction within the timeframes established for the Youthbuild progress reports. See Logic Model information in the General Section.

b. Racial and Ethnic Data reporting. HUD requires that funded recipients collect racial data and ethnic beneficiary data. HUD has adopted the Office of Management and Budget's Standards for the Collection of Racial and Ethnic Data. In view of these requirements, you should use form HUD-27061, Racial and Ethnic Data Reporting Form (instructions for its use), found on http://www.HUDclips.org, a comparable program form, or a comparable electronic data system for this purpose.

VIII. Agency Contact(s)

For technical assistance in downloading an application package from Grants.gov/Apply, contact the Grants.gov help desk at 800-518-Grants or send an e-mail to support@grants.gov.

For programmatic information concerning the Youthbuild program, contact Ms. Phyllis Williams, Community Planning and Development Specialist; Office of Economic Development; Office of Community Planning and Development; U.S. Department of Housing and Urban Development; 451 Seventh Street, SW., Room 7149; Washington, DC 20410-7000; telephone (202) 708-2035 (this is not a toll-free number). Persons with speech or hearing impairments may access this number via TTY by calling the toll-free Federal Information Relay Service at 800-877-8339. Prior to the application deadline, HUD's staff will be available to provide general guidance on the application submission process and location of information, but not guidance in preparing your application.

A. Satellite Broadcast

HUD will hold an information broadcast via satellite for potential applicants to learn more about the program and preparation of an application. For more information about the date and time of this broadcast, you should consult the HUD Web site at http://www.hud.gov.

B. Paperwork Reduction Act

The information collection requirements contained in this document have been approved by the Office of Management and Budget (OMB) under the Paperwork Reduction Act of 1995 (44 U.S.C. 3501-3520) and assigned OMB control number 2506-0142. In accordance with the Paperwork Reduction Act, HUD may not conduct or sponsor, and a person is not required to respond to, a collection of information unless the collection displays a currently valid OMB control number. Public reporting burden for the collection of information is estimated to average 45 hours per annum per respondent for the application and grant administration. This includes the time for collecting, reviewing, and reporting the data for the application, semi-annual reports, and final report. The information will be used for grantee selection and monitoring the administration of funds. Response to this request for information is required in order to receive the benefits to be derived.

BILLING CODE 4210-01-P

Housing Choice Voucher Family Self-Sufficiency Program Coordinators

Overview Information

A. Federal Agency Name: Department of Housing and Urban Development, Office of Public and Indian Housing, Office of Public Housing and Voucher Programs.

B. Funding Opportunity Title: Housing Choice Voucher (HCV) Family Self-Sufficiency (FSS) Program Coordinators.

C. Announcement Type: Initial announcement.

D. Funding Opportunity Number: The Federal Register number is FR-5030-N-14. The OMB approval number for this program is 2577-0178.

E. Catalog of Federal Domestic Assistance (CFDA) Number: 14.871, Section 8 Housing Choice Vouchers.

F. Dates: The application deadline date is May 16, 2006. Please see the General Section for timely receipt requirements.

G. Additional Overview Content Information: The purpose of the HCV FSS program is to promote the development of local strategies to coordinate the use of assistance under the HCV program with public and private resources to enable participating families to increase earned income, reduce or eliminate the need for welfare assistance, and make progress toward economic independence and self-sufficiency. The FSS program and this FSS NOFA support the Department's strategic goal of helping HUD-assisted renters make progress toward self-sufficiency. The FSS program provides critical tools that can be used by communities to support welfare reform and help families develop new skills that will lead to economic self-sufficiency. As a result of their participation in the FSS program, many families have achieved stable, well-paid employment. An FSS program coordinator assures that program participants are linked to the supportive services they need to achieve self-sufficiency.

Full Text of Announcement

I. Funding Opportunity Description

A. Authority and Program Description

Public Law 109-115, 119 Stat. 2396, approved November 30, 2005, allows funding for program coordinators under the HCV FSS program. Through annual NOFAs, HUD has provided funding to public housing agencies (PHAs) that are operating HCV FSS programs to enable those PHAs to employ program coordinators to support their HCV FSS programs. In the Fiscal Year (FY) 2006 HCV FSS Program Coordinator NOFA, HUD is again making funding available to PHAs to employ FSS program coordinators and FSS homeownership program coordinators for one year. Funding priority under this NOFA will be provided to applicants with Public Housing Information Center (PIC) data confirming that their FSS families have purchased homes and to applicants whose PIC data demonstrate program accomplishments such as increased HCV FSS program size, increased earned income of program participants, and families successfully completing their FSS contracts. HUD will accept applications from both new and renewal PHAs that have HUD approval to administer an HCV FSS program. PHAs funded under the HCV FSS NOFA in FY2005 are considered “renewal” PHAs in this NOFA. These renewal PHAs are invited to apply for funds to continue previously funded HCV FSS program coordinator and FSS homeownership coordinator positions that they have filled.

Because of the importance of the FSS program in helping families increase earned income and develop assets, HUD will also accept applications from “new” PHAs, PHAs that do not qualify as renewal PHAs as defined under this FSS NOFA. The maximum number of positions that a new applicant PHA, including new PHA joint applicants, may receive is one full-time FSS program coordinator.

To support the Department's initiatives on Colonias, a selection preference is again included in this NOFA for “new” applicant PHAs that provide services and support to rural under-served communities in the Southwest Border regions of Arizona, California, New Mexico, and Texas. See Section III.C.3.c. of this NOFA for requirements that must be met to qualify for the Colonias preference.

PHAs are encouraged to outreach to persons with disabilities who are HCV program participants and might be interested in participating in the FSS program and to include agencies on their FSS Program Coordinating Committee (PCC) that work with and provide services for families with disabilities.

Applicants must administer the FSS program in accordance with HUD regulations and requirements in 24 CFR Part 984 which govern the HCV FSS Program and must comply with the existing HCV program requirements, notices and guidebooks.

B. Number of Positions for Which Eligible PHAs May Apply

Eligible PHAs may apply for funding for HCV FSS program coordinator positions under this NOFA as follows:

1. Renewal PHA Applicants. PHAs that qualify as eligible renewal PHA applicants under this NOFA may apply for continuation of each FSS coordinator position, including homeownership coordinator positions, awarded under the HCV FSS NOFA in FY2005 that has been filled by the PHA.

2. New PHA Applicants. New PHA applicants may apply for HCV FSS program coordinator positions as follows: (a) Up to one full-time HCV FSS coordinator position for a PHA applicant with HUD approval to administer a HCV FSS program of 25 or more FSS slots. (b) Up to one full-time HCV FSS coordinator position per application for joint PHA applicants that together have HUD approval to administer a total of at least 25 HCV FSS slots.

C. Definitions

The following definitions apply to the funding available under this NOFA.

1. Renewal PHA Applicant. A PHA or PHAs that received funding under the HCV FSS NOFA in FY2005.

2. New PHA Applicant. PHAs that did not receive funding under the HCV FSS NOFA in FY2005 that have HUD approval to administer a HCV FSS program of at least 25 slots or that fulfill the 25 slot minimum by applying jointly with one or more other PHAs.

3. FSS Program Size. The total number of HCV FSS program slots identified in the PHA's HUD-approved FSS Action Plan, or if requested by Moving to Work (MTW) PHA applicants, the number of slots in the applicant's MTW agreement. The total may include both voluntary and mandatory HCV FSS program slots. This number is used in determining the eligibility of new applicant PHAs under this NOFA.

4. Qualifying FSS Homeownership Program. Qualifying homeownership programs include the HCV Homeownership Program and other programs administered by the PHA or other entities that prepare HCV program FSS participants for making the transition from renting to homeownership.

5. The Number of HCV FSS Program Participants. The total number of families shown in HUD's PIC data system or applicable MTW report as enrolled in the applicant's HCV FSS program at the end of a calendar year plus those families that successfully completed their FSS contracts, during that calendar year.

6. Percentage of Families with Positive FSS Escrow Balances. A percentage that will be computed by HUD and used to determine funding order of priority 2 applicants under this NOFA. It is the sum of the number of HCV FSS families with positive escrow balances and the number of families that successfully completed their FSS contracts as a percentage of HCV FSS families with FSS progress reports. This calculation will be made using data for the period from December 31, 2004 through December 31, 2005 that has been submitted to HUD on the Form HUD-50058. For MTW applicants, a comparable reporting source may be used.

7. HCV Program Size. The number of HCVs in a PHA's program as determined by HUD using Voucher Management System (VMS) data.

8. HCV FSS Program Size Increase Percentage. A percentage calculated for renewal PHA applicants whose number of HCV FSS participants in calendar year 2005 is higher than their calendar year 2004 number of participants.

II. Award Information

A. Available Funds

This NOFA announces the availability of approximately $47 million in FY2006 to employ FSS program and FSS homeownership coordinators for the HCV FSS program. If additional funding becomes available during FY2006, HUD may increase the amount available for coordinators under this NOFA. A maximum of $65,000 is available for each full-time coordinator position funded. Salaries are to be based on local comparables. The funding will be provided as a one-year HCV funding increment under the PHA's Annual Contributions Contract (ACC). HUD reserves the right to adjust funding for renewal positions in order to ensure a fair and reasonable distribution of funding.

III. Eligibility Information

A. Eligible Applicants.

PHAs eligible to apply for funding under this NOFA are:

1. Renewal PHA Applicants. Those PHAs that received funding under the HCV FSS NOFA in FY2005. To continue to qualify as renewal PHAs, the FY2006 application of joint applicants must include at least one PHA applicant that meets this standard. Joint applicants can change the lead PHA in their FY2006 application. A PHA that was originally funded as part of a joint application that wishes to now apply separately would continue to be considered a renewal PHA applicant for funding purposes, but must be able to meet the FSS minimum program size requirement of a HUD-approved HCV FSS program of at least 25 slots that applies to new applicant PHAs.

2. New PHA Applicants. PHAs that were not funded under the HCV FSS NOFA in FY2005. The new applicant PHA must be authorized through its HUD-approved FSS Action Plan to administer an HCV FSS program of at least 25 slots, or be a PHA with HUD approval to administer an HCV FSS program of fewer than 25 slots that applies jointly with one or more other PHAs so that together they have HUD approval to administer at least 25 HCV FSS slots. Joint applicants must specify a lead co-applicant that will receive and administer the FSS program coordinator funding.

3. MTW PHAs. New and renewal PHAs that are under MTW agreements with HUD may qualify for funding under this NOFA if the PHA administers an FSS program. When determining the size of a new applicant MTW PHA's HUD-approved FSS program, the PHA may request that the number of FSS slots reflected in the PHA's MTW agreement be used instead of the number in the PHA's FSS Action Plan.

4. Troubled PHAs. a. A PHA that has been designated by HUD as a troubled PHA under the Section Eight Management Assessment Program (SEMAP), or that has serious program management findings from Inspector General audits or serious outstanding HUD management review or Independent Public Accountant (IPA) audit findings for the PHA's HCV or Moderate Rehabilitation programs that are resolved prior to this NOFA's application due date is eligible to apply under this NOFA. Serious program management findings are those that would cast doubt on the capacity of the PHA to administer its HCV FSS program in accordance with applicable HUD regulatory and statutory requirements.

b. A PHA whose SEMAP troubled designation has not been removed by HUD or whose major program management findings or other significant program compliance problems have not been resolved by the application due date may apply if it meets the requirements stated in Section III.C.3.e. of this NOFA.

B. Cost Sharing or Matching

None required.

C. Other

1. Eligible Activities. Funds awarded to PHAs under this FSS NOFA may only be used to pay salaries and fringe benefits of HCV FSS program staff. Funding may be used to employ or otherwise retain for one year the services of HCV FSS program coordinators and HCV FSS homeownership coordinators. FSS coordinator support positions funded under previous FSS NOFAs that made funding available for such FSS positions may be continued. A part-time program coordinator may be retained where appropriate.

2. Threshold Requirements.

a. All Applicants.

(1) Each applicant must qualify as an eligible PHA under Section III.A. of this NOFA and must have submitted their FSS application by the application due date and in the format required in Section IV. of this NOFA.

(2) All applications must include a Dun and Bradstreet Universal Numbering System (DUNS) number. (See the General Section for further information about the DUNS number requirement.)

(3) Civil Rights Thresholds, Non-discrimination, Affirmatively Furthering Fair Housing. A copy of each applicant PHA's most recent plan for Affirmatively Furthering Fair Housing for the HCV program must be on file at the PHA's local HUD field office by the application due date of this NOFA. All applicants must comply with these requirements and with Section III.C. of the General Section. Section 3 of the Housing and Urban Development Act of 1968 does not apply to this program.

(4) The PHA must have a financial management system that meets federal standards. See the General Section regarding those applicants that may be subject to HUD's arranging for a pre-award survey of an applicant's financial management system.

(5) Applicants must comply with the requirements for funding competitions established by the HUD Reform Act of 1989 (42 U.S.C. 3531 et seq.) and other requirements as defined in the General Section.

b. Renewal Applicants.

(1) Continued funding for existing coordinator positions. In addition to meeting the requirements of Section III.A. of this FSS NOFA, renewal PHA applicants must continue to operate an HCV FSS program, have filled eligible FSS program coordinator positions for which they are seeking renewal funding, executed FSS contracts of participation with HCV FSS program families and submitted reports on participant families to HUD via the form HUD-50058.

c. New Applicants. New applicants must meet the requirements of Section III.A. and Section III. C.2.a of this FSS NOFA.

3. Program Requirements.

a. Salary Comparables. For all positions requested under this NOFA, evidence of salary comparability to similar positions in the local jurisdiction must be kept on file in the PHA office.

b. FSS Action Plan. The requirements for the FSS Action Plan are stated in 24 CFR 984.201. For a new PHA applicant to qualify for funding under this NOFA, the PHA's initial FSS Action Plan or amendment to change the number of HCV FSS slots in the PHA's previously HUD-approved FSS Action Plan must be submitted to and approved by the PHA's local HUD field office prior to the application due date of this FSS NOFA. An FSS Action Plan can be updated by means of a simple one-page addendum that reflects the total number of HCV FSS slots (voluntary and /or mandatory slots) the PHA intends to fill. New PHA applicants with previously approved HCV FSS Action Plans may wish to confirm the number of HUD-approved slots their local HUD field office has on record for the PHA. A new applicant MTW PHA may request that the number of FSS slots in its MTW agreement be used instead of the number of slots in the PHA's FSS Action Plan.

c. Colonias Preference. New applicant PHAs claiming the Colonias preference must meet the requirements of Sections III.A., III.C.2.a. and III.C.2.c. of this FSS NOFA and must operate in a Southwest border area that contains Colonia communities and administer programs that include outreach to members of those Colonia communities. Attachment A of this NOFA provides a listing of PHAs in Arizona, California, New Mexico, and Texas that HUD has identified as operating in areas containing Colonia communities. PHAs not listed in Attachment A that are claiming the Colonias preference will be required to submit a written request that HUD determine their eligibility for the preference. The request must be submitted prior to the application due date and must be sent to Lorenzo “Larry” Reyes, Coordinator, SW Border Colonias and Migrant Farmworker Initiative, Office of Departmental Operations and Coordination, Room 3120, Department of Housing and Urban Development, 451 Seventh Street, SW, Washington, DC 20410.

d. Homeownership Preferences. See priority funding categories in Section V.B.2. of this FSS NOFA. Reported HCV FSS home purchase numbers will be subject to post audit.

e. Troubled PHAs. A PHA whose SEMAP troubled designation has not been removed by HUD or that has major program management findings or other significant program compliance problems that have not been resolved by the application due date, may apply if the PHA submits an application that designates another organization or entity that is acceptable to HUD and that:

(1) Includes an agreement by the other organization or entity to administer the FSS program on behalf of the PHA; and

(2) In the instance of a PHA with unresolved major program management findings, includes a statement that outlines the steps the PHA is taking to resolve the program findings.

Immediately after the publication of this NOFA, the Office of Public Housing in the local HUD field office will notify, in writing, those PHAs that have been designated by HUD as troubled under SEMAP, and those PHAs with unresolved major program management findings or other significant program compliance problems that are not eligible to apply without such an agreement. Concurrently, the local HUD field office will provide a copy of each such written notification to the Director of the Grants Management Center.

f. Conducting Business in Accordance with Core Values and Ethical Standards. To reflect core values, all PHAs shall develop and maintain a written code of conduct in the PHA administrative plan that:

(1) Requires compliance with the conflict of interest requirements of the HCV Program at 24 CFR 982.161; and

(2) Prohibits the solicitation or acceptance of gifts or gratuities, in excess of a nominal value, by any officer or employee of the PHA, or any contractor, subcontractor, or agent of the PHA. The PHA's administrative plan shall state PHA policies concerning PHA administrative and disciplinary remedies for violation of the PHA code of conduct. The PHA shall inform all officers, employees, and agents of its organization of the PHA's code of conduct. See General Section for additional information on the Code of Conduct requirement.

IV. Application and Submission Information

A. Addresses To Request Application Package

1. Web site. A copy of this funding announcement for the HCV FSS Program may be downloaded from the following Web site: www.grants.gov.

2. Further Information. When requesting information, please refer to the name of the program you are interested in. The NOFA Information Center opens for business simultaneously with the publication of the SuperNOFA. You can also obtain information on this NOFA and download application information for this NOFA through the Web site, www.grants.gov.

3. Technical Assistance. See Section VII. of this FSS funding announcement.

B. Content and Form of Application Submission

1. Content of Application. Each new and renewal PHA must complete the form SF-424, the SF-LLL, if appropriate, and the Form HUD-52651, the HCV FSS application form. In addition, the application must include a completed Logic Model (form HUD 96010) showing proposed performance measures applicable to the one-year term of the funding requested under this NOFA. See the General Section for information on, and a copy of, the Logic Model. A copy of the HUD-52651 is available at www.Grants.gov/Apply, Download Instructions for the Housing Choice Voucher FSS program or at HUD's website at www.hud.gov/offices/adm/grants/fundsavail.cfm. In completing the SF-424, renewal PHAs should select the continuation box on question 2, type of application. Both new and renewal PHA applicants should enter the proposed Annual Contributions Contract (ACC) amendment effective and ending dates for the FSS coordinator funding in section 17 of the SF-424. In section 18 of SF-424, estimated funding, complete only 18.a., which will be the amount requested from HUD in the FY2006 FSS application, and 18.g., Total.

C. Submission Date and Time

Your completed application must be received and validated by Grants.gov no later than 11:59:59 p.m. eastern time on the application deadline date of May 16, 2006. Applicants should carefully read the section titled “APPLICATION and SUBMISSION INFORMATION” in the General Section.

D. Intergovernmental Review

This NOFA is not subject to Executive Order (EO) 12372, Intergovernmental Review of Federal Programs.

E. Funding Restrictions

1. Salary Cap. Awards under this NOFA are subject to a cap of $65,000 per year per full time coordinator position funded. Under this NOFA, if PHAs apply jointly, the $65,000 maximum amount that may be requested per position applies to up to one full time coordinator position for the application as a whole, not to each PHA separately.

2. Limitation on Renewal Funding Increases. For renewal coordinator positions, PHAs will be limited to a one percent increase above the amount of the most recent award for the position unless a higher increase is approved by the local HUD field office after review of the PHA's written justification and at least three comparables that must be submitted to the field office by the application due date of this NOFA. Examples of acceptable reasons for increases above one percent would be need for a coordinator with higher level of skills or to increase the hours of a part time coordinator to full time. Total positions funded cannot exceed the maximum number of positions for which the PHA is eligible under this NOFA.

3. Ineligible Activities. a. Funds under this NOFA may not be used to pay the salary of an FSS coordinator for a public housing FSS program. An HCV FSS program coordinator may only serve HCV families while the public housing FSS program serves only public housing residents. In FY2006, funding for public housing FSS program coordinators is being made available through the Public Housing Resident Opportunities and Self-Sufficiency (ROSS) NOFA for Public Housing FSS Program Coordinators that is included in the FY2006 SuperNOFA.

b. Funds under this FSS NOFA may not be used to pay for services for FSS program participants.

F. Other Submission Requirements

1. Application Submission and Receipt Procedures. See the General Section. Electronic application submission is mandatory unless an applicant requests, and is granted, a waiver to the requirement. Procedures for obtaining a waiver are contained in the General Section. If an applicant is granted a waiver, then the approval will provide instructions for submitting paper copies to the appropriate HUD Office(s). All paper applications must be received by the application deadline date to meet the requirements for timely submission.

V. Application Review Information

A. Criteria

The funds available under this NOFA are being awarded based on demonstrated performance. Applications are reviewed by the local HUD field office and Grants Management Center (GMC) to determine whether or not they are technically adequate based on the NOFA requirements. Field offices will provide to the GMC in a timely manner, as requested, information needed by the GMC to make its determination, such as the HUD-approved HCV FSS program size of new PHA applicant and information on the administrative capabilities of PHAs. Categories of applications that will not be funded are stated in Section V.B.6.of this FSS NOFA.

B. Review and Selection Process

1. Technically Acceptable Applications. All technically adequate applications will be funded to the extent funds are available.

2. Funding Priority Categories. If HUD receives applications for funding greater than the amount made available under this NOFA, HUD will divide eligible applications into priority categories as follows:

Funding Category 1—Applications from eligible renewal PHAs with qualifying homeownership programs with a minimum of ten (10) HCV FSS program participants or graduates that purchased homes between October 1, 2000 and the publication date of this FSS NOFA and an increase of at least ten (10) percent in the number of participants in the applicant's HCV FSS program from calendar year 2004 to calendar year 2005. Both the number of home purchases and the percentage increase in the number the HCV FSS program participants will be determined by HUD using PIC data from form HUD-50058 or as otherwise reported for MTW PHAs.

Funding Category 2—Eligible renewal PHA applicants with programs that have families with positive escrow balances and/or families that successfully completed their FSS contracts between December 31, 2004 and December 31, 2005.

Funding Category 3—Eligible renewal PHA applicants with qualifying homeownership programs and an increase in the number of HCV FSS program participants of at least ten (10) percent from calendar year 2004 to calendar year 2005.

Funding Category 4—New PHA applicants with HUD approval to implement an FSS program of at least 25 slots.

3. Order of Funding. Starting with Funding Category 1, HUD will first determine whether there are sufficient monies to fund all eligible positions requested in the funding category. If available funding is not sufficient to fund all positions requested in the category, HUD will fund applications in the following order:

a. Funding Category 1. HUD will calculate the Percentage Increase of HCV FSS Program Participants for each eligible applicant and will use this percentage in making funding decisions. HUD will fund eligible applicants in order starting with those that have the highest Percentage Increase of HCV FSS Program Participants . If funding is not sufficient to fund all applicants with the same Percentage Increase of HCV FSS Program Participants, HUD will select among eligible applicants by HCV program size starting with eligible applicants with the smallest HCV program size.

b. Funding Category 2. If funds remain, HUD will process requests of eligible Funding Category 2 applicant PHAs. HUD will first calculate the Percentage of Families with Positive FSS Escrow Balances for all eligible Funding Category 2 applicants. If there are not sufficient monies to fund all eligible funding category 2 applicants, HUD will fund eligible applications starting with those with the highest positive escrow percentage. If there are not sufficient monies to fund all applications with the same positive escrow percentage, HUD will select eligible applicants in order by HCV program size starting with eligible applicants with the smallest HCV program size.

c. Funding Category 3. If funds remain, HUD will process eligible Funding Category 3 applications. If there is not enough funding for all applicants, HUD will use the Percentage Increase of HCV FSS Participants to determine selection order, starting with applicants with the highest Percentage Increase of HCV FSS Participants. If funds are not sufficient for all applicants with the same Percentage Increase of HCV FSS Participants, HUD will fund eligible applicants by HCV program size starting with eligible applicants with the smallest HCV program size.

d. Funding Category 4. If funds remain after all Category 1 through 3 applicants have been funded, HUD will process applications from eligible Category 4 new PHA applicants. If there are not sufficient monies to fund all eligible Category 4 PHA applicants, HUD will first fund eligible applications from those PHAs qualifying for the Colonias preference. If there are not sufficient monies to fund all eligible Colonias PHA applicants, HUD will fund them starting with the smallest HCV program size first. If funding remains after funding all eligible Category 4 Colonias PHA applicants, HUD will then begin funding eligible non-Colonias applicants by HCV program size starting with eligible applicants with the smallest HCV program size first.

4. Based on the number of applications submitted, the GMC may elect not to process applications for a funding priority category where it is apparent that there are insufficient funds available to fund any applications within the priority category.

5. Corrections to Deficient Applications. The General Section provides the procedures for corrections to deficient applications.

6. Unacceptable Applications. After the technical deficiency correction period (as provided in the General Section), the GMC will disapprove PHA applications that it determines are not acceptable for processing. Applications from PHAs that fall into any of the following categories are ineligible for funding under this NOFA and will not be processed:

a. An application submitted by an entity that is not an eligible PHA as defined under Section III.A. and Section III.C. of this FSS NOFA or an application that does not comply with the requirements of Section IV.B., IV.C., and IV.F. of this FSS NOFA.

b. An application from a PHA that does not meet the fair housing and civil rights compliance requirements of the General Section.

c. An application from a PHA that does not comply with the prohibition against lobbying activities of the General Section.

d. An application from a PHA that as of the application due date has not made progress satisfactory to HUD in resolving serious outstanding Inspector General audit findings, or serious outstanding HUD management review or IPA audit findings for the HCV program and/or Moderate Rehabilitation program or has a “troubled” rating under SEMAP, and has not designated another organization acceptable to HUD to administer the FSS program on behalf of the PHA as required in Section III.C.3.e. of this FSS NOFA.

e. An application from a PHA that has been debarred or otherwise disqualified from providing assistance under the program.

f. An application that did not meet the application due date and timely receipt requirements as specified in this NOFA and the General Section.

g. Applications will not be funded which do not meet the Threshold requirements identified in this NOFA and the General Section.

C. Anticipated Announcement and Award Dates

It is anticipated that award announcements will take place during either the month of July or August 2006.

VI. Award Administration Information

A. Award Notices

Successful applicants will receive an award letter from HUD. Funding will be provided to successful applicants as an amendment to the ACC of the applicant PHA. In the case of awards to joint applicants, the funding will be provided as an amendment to the ACC of the lead PHA that was identified in the application.

Unsuccessful applicants will receive a notification of rejection letter from the GMC that will state the basis for the decision. The applicant may request an applicant debriefing. Beginning not less than 30 days after the awards for assistance are publicly announced in the Federal Register and for at least 120 days after awards for assistance are announced publicly, HUD will, upon receiving a written request, provide a debriefing to the requesting applicant. (See the General Section for additional information regarding a debriefing.) Applicants requesting to be debriefed must send a written request to: Iredia Hutchinson, Director; Grants Management Center; U. S. Department of Housing and Urban Development, 501 School Street, SW., Suite 800; Washington, DC 20024.

B. Administrative and National Policy Requirements

1. Environmental Impact. No environmental review is required in connection with the award of assistance under this NOFA, because the NOFA only provides funds for employing a coordinator that provides public and supportive services, which are categorically excluded from environmental review under the National Environmental Policy Act of 1969 (42 U.S.C. 4321) and not subject to compliance actions for related environmental authorities under 24 CFR 50.19(b)(4) and (12).

2. HUD's Strategic Goals. HUD is committed to ensuring that programs result in the achievement of HUD's strategic mission. The FSS program and this FSS NOFA support the Department's strategic goals of increasing homeownership activities and helping HUD-assisted renters make progress toward self-sufficiency by giving funding preference to PHAs whose FSS programs show success in moving families to self-sufficiency and homeownership. You can find out about HUD's Strategic Framework and Annual Performance Plan at http://www.hud.gov/offices/cfo/reports/cforept.cfm.

3. HUD Policy Priorities. This NOFA supports HUD's policy priorities of providing increased homeownership opportunities and increased self-sufficiency of low-income families through employment. Consequently, funding priority in this NOFA will be given to those PHA applicants that demonstrate that a minimum of 10 of their FSS families have become homeowners that have increased their FSS program size by at least 10 percent in calendar year 2005 and to applicants with program participants who have increased their earned income since enrolling in FSS and/or have families that completed their FSS contracts in the last calendar year. See the General Section for a full discussion of HUD's policy priorities.

C. Reporting

Successful applicants must report activities of their FSS enrollment, progress and exit activities of their FSS program participants through required submissions of the Form HUD-50058. HUD's assessment of the accomplishments of the FSS programs of PHAs funded under this NOFA will be based primarily on PIC system data obtained from the Form HUD-50058. MTW PHAs that do not report to HUD on the Form HUD-50058 will be asked to submit an annual report to HUD with the same information on FSS program activities that is provided to HUD by non-MTW PHAs via the Form HUD-50058. An applicant is also required to submit a completed Logic Model showing accomplishments against proposed outputs and outcomes as part of their annual reporting requirement to HUD. Applicants shall use quantifiable data to measure performance against goals and objectives outlined in their Logic Model. An annual Performance Report consisting of the updated Logic Model must be submitted to the Public Housing Director in the applicant's local HUD field office no later than 30 days after the ending date of the one-year funding increment provided to the applicant under this NOFA. For FY2006, HUD is considering a new concept for the Logic Model. The new concept is a Return on Investment (ROI) statement. HUD will be publishing a separate notice on the ROI concept. In addition, HUD requires that funded recipients collect racial and ethnic beneficiary data. It has adopted the Office of Management and Budget's Standards for the Collection of Racial and Ethnic Data. In view of these requirements, funded recipients should use Form HUD-27061, Racial and Ethnic Data Reporting Form. The form HUD-50058, which provides racial and ethnic data to HUD's PIC data system, is a comparable program form.

VII. Agency Contacts

A. For Technical Assistance

For answers to your questions, you may contact the Public and Indian Housing Resource Center at 800-955-2232. Persons with hearing or speech impairments may access this number via TTY (text telephone) by calling the Federal Information Relay Service at 800-877-8339. (These are toll-free numbers). Prior to the application deadline, staff at the numbers given above will be available to provide general guidance, but not guidance in actually preparing the application. Following selection, but prior to award, HUD staff will be available to assist in clarifying or confirming information that is a prerequisite to the offer of an award by HUD.

B. Satellite Broadcast

HUD will hold an information broadcast via satellite for potential applicants to learn more about the HCV FSS program and preparation of an application. For more information about the date and time of this broadcast, you should consult the HUD Web site at http://www.hud.gov.

VIII. Other Information

A. Paperwork Reduction Act

The information collection requirements contained in this document have been approved by the Office of Management and Budget (OMB) under the Paperwork Reduction Act of 1995 (44 U.S.C. 3501-3520) and assigned OMB control number 2577-0178. In accordance with the Paperwork Reduction Act, HUD may not conduct or sponsor, and a person is not required to respond to, a collection of information unless the collection displays a currently valid OMB control number. Public reporting burden for the collection of information is estimated to average one hour per annum per respondent for the application and grant administration. This includes the time for collecting, reviewing, and reporting the data for the application and other required reporting. The information will be used for grantee selection and monitoring the administration of funds. Response to this request for information is required in order to receive the benefits to be derived.

B. Public Access, Documentation, and Disclosure

See Section VIII. F. of the General Section.

ATTACHMENT A.—PHAs That Operate in Areas Containing Colonia Communities
ARIZONA PHAs
City of Douglas Housing Authority | City of Nogales Housing Authority
City of Eloy Housing Authority | City of Yuma Housing Authority.
Cochise County Housing Authority | Yuma County Housing Authority.
Pinal County Housing Authority | Section 8 Housing for Graham County, Arizona Department of Housing.
CALIFORNIA PHAs
City of Calexico Housing Authority | Housing Authority of the County of Riverside
Imperial Valley Housing Authority.
NEW MEXICO PHAs
City of Alamogordo Housing Authority | City of Las Cruces/Dona Ana County Housing Authority
City of Truth or Consequences Housing Authority | City of Socorro Housing Authority.
Eddy County—Region VI | Housing Authority of the Village of Santa Clara.
Lordsburg Housing Authority | Otero County—Region VI.
Silver City Housing Authority—Region V | Sunland Park Housing Authority.
Town of Baynard Housing Authority.
TEXAS PHAs
Alamo Housing Authority | Asherton Housing Authority
Bracketville Housing Authority | Brownsville Housing Authority.
Cameron County Housing Authority | Carrizo Housing Authority.
Del Rio Housing Authority | Dona Housing Authority.
Eagle Pass Housing Authority | Ed Couch Housing Authority.
Edinburg Housing Authority | Elsa Housing Authority.
Harlingen Housing Authority | Hidalgo County Housing Authority.
Laredo Housing Authority | La Joya Housing Authority.
Los Fresnos Housing Authority | McAllen Housing Authority.
Mercedes Housing Authority | Mission Housing Authority.
Pharr Housing Authority | Port Isabel Housing Authority.
San Benito Housing Authority | San Juan Housing Authority.
Starr County Housing Authority | Weslaco Housing Authority.
Willacy County Housing Authority | Uvalde Housing Authority.
Zapata County Housing Authority.

BILLING CODE 4210-01-P

Rural Housing and Economic Development Program

Overview Information

A. Federal Agency Name: Department of Housing and Urban Development, Community Planning and Development, Office of Rural Housing and Economic Development.

B. Funding Opportunity Title: Rural Housing and Economic Development (RHED) program.

C. Announcement Type: Initial Announcement.

D. Funding Opportunity Number: The Federal Register number is FR 5030-N-04. The OMB approval number is 2506-0169.

E. Catalog of Federal Domestic Assistance (CFDA) Number: 14.250 Rural Housing and Economic Development.

F. Application Due Date: The application deadline date is May 12, 2006.

G. Optional Additional Overview Information: 1. The purpose of the Rural Housing and Economic Development program is to provide support for innovative housing and economic development activities in rural areas. The funds made available under this program will be awarded competitively through a selection process conducted by HUD in accordance with the HUD Reform Act.

Full Text of Announcement

I. Funding Opportunity Description

A. Background

There has been a growing national recognition of the need to provide support for local rural nonprofit organizations, community development corporations, federally recognized Indian tribes, state housing finance agencies (HFAs) and state economic development and community development agencies to expand the supply of affordable housing and to engage in economic development activities in rural areas. A number of resources are available from the federal government to address these problems, including programs of the United States Department of Agriculture (USDA), the Economic Development Administration (EDA), the Appalachian Regional Commission (ARC), the Department of Interior (for Indian tribes), and HUD. The Rural Housing and Economic Development program was developed to supplement these resources and to focus specifically on promoting innovative approaches to housing and economic development in rural areas. In administering these funds, HUD encourages you to coordinate your activities with those supported by any of the agencies listed above.

B. Definitions

1. Appalachia's Distressed Counties means those counties in Appalachia that the Appalachian Regional Commission (ARC) has determined to have unemployment and poverty rates that are 150 percent of the respective U.S. rates and a per capita income that is less than 67 percent of the U.S. per capita income, and have counties with 200 percent of the U.S. poverty rate and one other indicator, such as the percentage of overcrowded housing. Refer to http://www.arc.gov for a list of ARC distressed counties and more information.

2. Colonia means any identifiable, rural community that:

a. Is located in the state of Arizona, California, New Mexico, or Texas;

b. Is within 150 miles of the border between the U.S. and Mexico; and

c. Is determined to be a Colonia on the basis of objective need criteria, including a lack of potable water supply, lack of adequate sewage systems, and lack of decent, safe, sanitary, and accessible housing.

3. Farm Worker means a farm employee of an owner, tenant, labor contractor, or other operator raising or harvesting agricultural or aquacultural commodities; or a worker in the employment of a farm operator, handling, planting, drying, packing, grading, storing, delivering to storage or market, or carrying to market agricultural or aquacultural commodities produced by the operator. Seasonal farm workers are those farm employees who typically do not have a constant year-round salary.

4. Firm Commitment means a letter of commitment from a partner by which an applicant's partner agrees to perform an activity specified in the application, demonstrates the financial capacity to deliver the resources necessary to carry out the activity and commits the resources to the activity, either in cash or through in-kind contributions. It is irrevocable, subject only to approval and receipt of a FY2006 Rural Housing and Economic Development grant. Each letter of commitment must include the organization's name and applicant's name, reference the Rural Housing and Economic Development program, and describe the proposed total level of commitment and responsibilities, expressed in dollar value for cash or in-kind contributions, as they relate to the proposed program. The commitment must be written on the letterhead of the participating organization, must be signed by an official of the organization legally able to make commitments on behalf of the organization, and must be dated no earlier than the date of publication of this NOFA. In documenting a firm commitment, the applicant's partner must:

a. Specify the authority by which the commitment is made, the amount of the commitment, the proposed use of funds, and the relationship of the commitment to the proposed investment. If the committed activity is to be self-financed, the applicant's partner must demonstrate its financial capability through a corporate or personal financial statement or other appropriate means. If any portion of the activity is to be financed through a lending institution, the participant must provide evidence of the institution's commitment to fund the loan; and

b. Affirm that the firm commitment is contingent only upon the receipt of FY2006 Rural Housing and Economic Development funds and state a willingness on the part of the signatory to sign a legally binding agreement (conditioned upon HUD's environmental review and approval of a property where applicable) upon award of the grant.

5. Federally Recognized Indian tribe means any tribal entity eligible to apply for funding and services from the Bureau of Indian Affairs by virtue of its status as an Indian tribe. The list of federally recognized Indian tribes can be found in the notice published by the Department of the Interior on December 5, 2003 (68 FR 68180) and is also available from HUD.

6. Innovative Housing Activities means projects, techniques, methods, combinations of assistance, construction materials, energy efficiency improvements, or financing institutions or sources new to the eligible area or to its population. The innovative activities can also build upon and enhance a model that already exists.

7. Local Rural Nonprofit Organization or Community Development Corporation means either of the following:

a. Any private entity with tax-exempt status recognized by the Internal Revenue Service (IRS) which serves the eligible rural area identified in the application (including a local affiliate of a national organization that provides technical assistance in rural areas); or

b. Any public nonprofit entity such as a Council of Governments that will serve specific local nonprofit organizations in the eligible area.

8. Lower Mississippi Delta Region means the eight-state, 240-county/parish region defined by Congress in the Lower Mississippi Delta Development Act, Public Law 100-460. Refer to http://www.dra.gov for more information.

9. Eligible Rural Area means one of the following:

a. A non-urban place having fewer than 2,500 inhabitants (within or outside of metropolitan areas).

b. A county or parish with an urban population of 20,000 inhabitants or less.

c. Territory, including its persons and housing units, in the rural portions of “extended cities.” The U.S. Census Bureau identifies the rural portions of extended cities.

d. Open country that is not part of or associated with an urban area. The USDA describes “open country” as a site separated by open space from any adjacent densely populated urban area. Open space includes undeveloped land, agricultural land, or sparsely settled areas, but does not include physical barriers (such as rivers and canals), public parks, commercial and industrial developments, small areas reserved for recreational purposes, or open space set aside for future development.

e. Any place with a population not in excess of 20,000 and not located in a Metropolitan Statistical Area.

10. State Community and/or Economic Development Agency means any state agency that has promotion of economic development statewide or in a local community as its primary purpose.

11. State Housing Finance Agency means any state agency created to assist local communities and housing providers with financing assistance for development of housing in rural areas, particularly for low- and moderate-income people.

II. Award Information

A. Amount Allocated

1. Available Funds. Approximately $17 million in Fiscal Year (FY) 2006 funding (plus any additional funds available through recapture) are being made available through this NOFA.

2. Funding Award Amount. HUD will award up to approximately $17 million on a competitive basis for Support for Innovative Housing and Economic Development Activities to federally recognized Indian tribes, state housing finance agencies (HFAs), state community and/or economic development agencies, local rural nonprofit organizations or community development corporations to support innovative housing and economic development activities in rural areas throughout the nation. The maximum amount awarded to a successful applicant will be $300,000.

B. Grant Amount

In the event, you, the applicant, are awarded a grant that has been reduced (e.g., the application contained some activities that were ineligible or budget information did not support the request), you will be required to modify your project plans and application to conform to the terms of HUD's approval before execution of the grant agreement.

HUD reserves the right to reduce or de-obligate the award if suitable modifications to the proposed project are not submitted by the awardee within 90 days of the request. Any modifications must be within the scope of the original application. HUD reserves the right to not make awards under this NOFA.

C. Grant Period

Recipients will have 36 months from the date of the executed grant agreement to complete all project activities.

D. Notification of Approval or Disapproval

HUD will notify you whether or not you have been selected for an award. If you are selected, HUD's notice to you concerning the amount of the grant award (based on the approved application) will constitute HUD's conditional approval, subject to negotiation and execution of a grant agreement by HUD.

III. Eligibility Information

A. Eligible Applicants. Eligible applicants for the Rural Housing and Economic Development program are local rural nonprofit organizations and community development corporations, federally recognized Indian tribes, state housing finance agencies and state community and/or economic development agencies. Also, you must meet all of the applicable eligibility requirements described in Section III.C of the General Section.

B. Cost Sharing or Matching. There is no match required under the Rural Housing and Economic Development program. Applicants that submit evidence of leveraging dollars under Rating Factor 4 will receive points according to the scale under that factor.

C. Other. 1. Eligible Activities. The following are examples of eligible activities under the Rural Housing and Economic Development program.

Permissible activities may include, but are not limited to the following:

a. Cost of using new or innovative construction, energy efficiency, or other techniques that will result in the design or construction of innovative housing and economic development projects;

b. Preparation of plans or of architectural or engineering drawings;

c. Preparation of legal documents, government paperwork, and applications necessary for construction of housing and economic development activities to occur in the jurisdiction;

d. Acquisition of land and buildings;

e. Demolition of property to permit construction or rehabilitation activities to occur;

f. Purchase of construction materials;

g. Homeownership counseling, including fair housing counseling, credit counseling, budgeting, access to credit, and other federal assistance available;

h. Conducting conferences or meetings with other federal or state agencies tribes, tribally designated housing entities (TDHE) or national or regional housing organizations, to inform residents of programs, rights, and responsibilities associated with homebuying opportunities;

i. Establishing Community Development Financial Institutions (CDFIs), lines of credit, revolving loan funds, microenterprises, and small business incubators; and

j. Provision of direct financial assistance to homeowners/businesses/developers, etc. This can be in the form of default reserves, pooling/securitization mechanisms, loans, grants, funding existing individual development accounts or similar activities.

2. Statutory and Regulatory Requirements. To be eligible for funding under HUD NOFAs issued during FY2006, you, the applicant, must meet all statutory and regulatory requirements applicable to this NOFA as described in the General Section. HUD may also eliminate ineligible activities from funding consideration and reduce funding amounts accordingly.

3. General HUD Threshold Requirements. You must meet all threshold requirements described in the General Section.

a. Ineligible Applicants. HUD will not consider an application from an ineligible applicant.

b. Economic Opportunities for Low- and Very Low-Income Persons (Section 3). Recipients of assistance under this NOFA must comply with Section 3 of the Housing and Urban Development Act of 1968, 12 U.S.C. 1701u (Economic Opportunities for Low- and Very Low-Income Persons in Connection with Assisted Projects) and the HUD regulations at 24 CFR part 135, including the reporting requirements at subpart E. Section 3 requires recipients to ensure that, to the greatest extent feasible, training, employment, and other economic opportunities will be directed to low- and very-low income persons, particularly those who are recipients of government assistance for housing, and business concerns that provide economic opportunities to low- and very low-income persons.

4. Program-Specific Threshold Requirements.

a. The application must receive a minimum rating score of 75 points to be considered for funding.

b. HUD will only fund eligible applicants as defined in this NOFA under Section III.A.

c. Applicants must serve an eligible rural area as defined in section I. of this NOFA.

d. Proposed activities must meet the objectives of the Rural Housing and Economic Development program.

e. Applicants must demonstrate that their activities will continue to serve populations that are in need and that beneficiaries will have a choice of innovative housing and economic development opportunities as a result of the activities.

IV. Application and Submission Information

A. Address To Request Application Package

This section describes how you may obtain application forms. Copies of the published Rural Housing and Economic Development NOFA and application forms may be downloaded from the Grants.gov Web site at http://www.grants.gov/Apply. You may call the Grants.gov support desk at 800-518-GRANTS, or email the support desk at Support@Grants.gov for assistance in downloading the application. Applicants may request a waiver of the electronic submission requirement. Paper applications will not be accepted unless the applicant has received a waiver to the electronic submission requirement. Instructions regarding the number of copies to submit and where will be contained in the approval to the waiver request. Paper submissions must be received at the appropriate HUD office(s) no later than the deadline date. See Section IV of the General Section for further information.

B. Content and Form of Application Submission

1. Application Submission Requirements. Be sure to read and follow the application submission requirements carefully.

a. Page Numbering. All pages of the application must be numbered sequentially if you are submitting a paper copy application. For electronic application submission you should follow the directions in the General Section.

b. Application Items. Your application must contain the items listed below.

(1) An abstract that must include the dollar amount requested, the category under which you qualify for demographics of distress special factor under Rating Factor 2 “Need and Extent of the Problem,” which of the five definitions of the term “rural area” set forth in Section I B.9 of this NOFA applies to the proposed service area, and accompanying documentation as indicated on the form.

(2) Table of Contents.

(3) A signed SF-424 (application form).

(4) SF-424 Supplement Survey on Equal Opportunity for Applicants (optional submission).

(5) Facsimile Transmittal (HUD-96011). (This must be used as the cover page to transmit third party documents as part of your electronic application.)

(6) Disclosure of Lobbying Activities (SF-LLL).

(7) Applicant/Recipient Disclosure/Update Report (HUD-2880).

(8) You Are Our Client Grant Applicant Survey (HUD 2994-A) (Optional).

(9) Program Outcome Logic Model (HUD-96010).

(10) A budget for all funds (federal and non-federal including HUD-424CB and HUD 424-CBW).

(11) Certification of Consistency with RC/EZ/EC-II Strategic Plan (HUD-2990), if applicable.

(12) Certification of Consistency with the Consolidated Plan (HUD-2991), if applicable.

(13) Documentation of funds pledged in support of Rating Factor 4—“Leveraging Resources” (which will not be counted in the 15-page limitation). Documentation must be in the form of a “firm commitment” as defined in Section I.B.4 of this NOFA.

(14) If you are a private nonprofit organization, a copy of your organization's IRS ruling providing tax-exempt status under section 501 of the Internal Revenue Code of 1986, as amended.

(15) Narrative response to Factors for Award. The total narrative response to all factors should not exceed 15 pages and should be submitted in a format that is equal to 8.5 x 11-inch single sided paper, with 12-point font and double lined spacing. Please note that although submitting pages in excess of the page limit will not disqualify your application, HUD will not consider or review the information on any excess pages, which may result in a lower score or failure to meet a threshold requirement. In addition, applicants should be aware that additional pages increase the size of the application and the length of time it will take to electronically submit the document and have it electronically received by Grants.gov. Large files result in slower delivery to Grants.gov.

(16) Questionnaire for HUD's Initiative on Removal of Regulatory Barriers (HUD 27300). To get the points for this policy priority, you must include the documentation or references to URLs where the information can be found.

All applicants are required to use the following format in their 15-page narrative responses to the rating factors included in the program NOFA:

Factor 1—Relevant Organizational Experience;

Factor 2—Need and Extent of the Problem;

Factor 3—Soundness of Approach;

Factor 4—Leveraging Resources; and

Factor 5—Achieving Results and Program Evaluation.

See Section V. of this NOFA for further details.

C. Submission Dates and Times.

1. Electronic Application Submission. Applications for the Rural Housing and Economic Development program must be received and validated by Grants.gov no later than 11:59:59 p.m. eastern time on the application deadline date. You will receive an acknowledgement of receipt from Grants.gov when your application has been successfully received. You will receive an acknowledgement from Grants.gov that your application has been validated or rejected. Please see the General Section for more detailed information. If you do not receive the validation or rejection notice within 24-48 hours, contact the Grants.gov help desk.

2. Applicants are advised to carefully read the application submission and timely receipt requirements in the General Section as they have changed from previous years.

3. Only one application will be accepted from any given organization. If more than one application is submitted electronically, the last application submitted prior to the due date and time will be the one reviewed by HUD. HUD will not accept application addendums after the deadline unless HUD has specifically asked the applicant for a correction to a technical deficiency in the application. Responses to technical deficiencies must be received by HUD within the time allocated to cure the deficiency. Corrections to technical deficiencies are submitted directly to HUD in accordance with the information provided by the program office in their cure notification.

D. Intergovernmental Agency Review

Intergovernmental agency review is not required for this program.

E. Funding Restrictions

1. Administrative Costs. Administrative costs for assistance under the Rural Housing and Economic Development program may not exceed 15 percent of the total HUD Rural Housing and Economic Development grant award.

2. Ineligible Activities. RHED funds cannot be used for the following activities:

a. Income payments to subsidize individuals or families;

b. Political activities;

c. General governmental expenses other than expenses related to the administrative cost of the grant; or

d. Projects or activities intended for personal gain or private use.

HUD reserves the right to reduce or deobligate the award if suitable modifications to the proposed project are not submitted by the awardee within 90 days of the request. Any modification must be within the scope of the original application. HUD reserves the right not to make awards under this NOFA.

F. Other Submission Requirements

Carefully review the procedures presented in Section IV of the General Section FY 2006, HUD will only accept electronic applications submitted through http://www.grants.gov.

V. Application Review Information

A. Criteria

Carefully review all the Application Review procedures in Section V of the General Section. In addition, the following Rating Factors will be used to review, evaluate, and rate your application.

1. Rating Factor 1—Capacity of the Applicant and Relevant Organizational Experience (25 Points)

This rating factor addresses the extent to which you have the organizational resources necessary to successfully implement your proposed work plan, as further described in Rating Factor 3, within the 36-month award period.

a. Team members, composition, and experience (10 points). HUD will evaluate the experience (including its recentness and relevancy) of your project director, core staff, and any outside consultant, contractor, subrecipient, or project partner as it relates to innovative housing and economic development and to the implementation of the activities in your workplan. HUD also will assess the services that consultants or other parties will provide to fill gaps in your staffing structure to enable you to carry out the proposed workplan; the experience of your project director in managing projects of similar size, scope, and dollar amount; the lines of authority and procedures that you have in place for ensuring that workplan goals and objectives are being met, that consultants and other project partners are performing as planned, and that beneficiaries are being adequately served. In judging your response to this factor, HUD will only consider work experience gained within the last seven years. When responding, please be sure to provide the dates, job titles and relevancy of the past experience to work to be undertaken by the employee or contractor under your proposed Rural Housing and Economic Development award. The more recent, relevant, and successful the experience of your team members are in relationship to the workplan activities, the greater the number of points that you will receive.

b. Organizational structure and management capacity (5 points). HUD will evaluate the extent to which you can demonstrate your organization's ability to manage a workforce composed of full-time or part-time staff, as well as any consultant staff, and your ability to work with community-based groups or organizations in resolving issues related to affordable housing and economic development. In evaluating this subfactor, HUD will take into account your experience in working with community-based organizations to design and implement programs that address the identified housing and economic development issues. The more recent, relevant, and successful the experience of your organization and any participating entity, the greater the number of points you will receive.

c. Experience with performance based funding requirements (10 points). HUD will evaluate your performance in any previous grant program undertaken with HUD funds or other federal, state, local, or nonprofit or for-profit organization funds. In assessing points for this sub-factor, HUD reserves the right to take into account your past performance in meeting performance and reporting goals for any previous HUD award, in particular whether the program achieved its outcomes. HUD will deduct one point for each of the following activities related to previous HUD grant programs for which unsatisfactory performance has been verified: (1) Mismanagement of funds, including the inability to account for funds appropriately; (2) untimely use of funds received either from HUD or other federal, state, or local programs; and (3) significant and consistent failure to measure performance outcomes. Among the specific outcomes to be measured are the increases in program accomplishments as a result of capacity building assistance and the increase in organizational resources as a result of assistance.

d. Past Rural Housing and Economic Development program performance. The past performance of previously awarded Rural Housing and Economic Development grantees will be taken into consideration when evaluating Rating Factor 1 “Capacity of the Applicant and Relevant Organizational Experience.” Applicants who have been awarded Rural Housing and Economic Development program funds prior to FY2006 should indicate fiscal year and funding amount. HUD local field offices may be consulted to verify information submitted by the applicant as a part of the review of applications.

2. Rating Factor 2—Need and Extent of the Problem (20 Points)

The Rural Housing and Economic Development program is designed to address the problems of rural poverty, inadequate housing and lack of economic opportunity. This factor addresses the extent to which there is a need for funding the proposed activities based on levels of distress and the urgency of meeting the need/distress in the applicant's target area. In responding to this factor, applications will be evaluated on the extent to which the level of need for the proposed activity and the urgency in meeting the need are documented and compared to target area and national data.

a. In applying this factor, HUD will compare the current levels of need in the area (i.e., Census Tract(s) or Block Group(s) immediately surrounding the project site or the target area to be served by the proposed project and the national levels of need. This means that an application that provides data that show levels of need in the project area expressed as a percent greater than the national average will be rated higher under this factor. Applicants should provide data that address indicators of need as follows:

(1) Poverty Rate (5 points)—Data should be provided in both absolute and percentage form (i.e., whole numbers and percents) for the target area(s). An application that compares the local poverty rate in the following manner to the national average at the time of submission will receive points under this section as follows:

(a) Less than the national average = 0 point;

(b) Equal to but less than twice the national average = 1 points;

(c) Twice but less than three times the national average = 3 points;

(d) Three or more times the national average = 5 points.

(2) Unemployment (5 points)—for the target area:

(a) Less than the national average = 0 point;

(b) Equal to but less than twice the national average = 1 points;

(c) Twice but less than three times the national average = 2 points;

(d) Three but less than four times the national average = 3 points;

(e) Four but less than five times the national average = 4 points;

(f) Five or more times the national average = 5 points.

(3) Other indicators of social or economic decline that best capture the applicant's local situation (5 points).

(a) Data that could be provided under this section are information on the community's stagnant or falling tax base, including recent commercial or industrial closings; housing conditions, such as the number and percentage of substandard or overcrowded units; rent burden (defined as average housing cost divided by average income) for the target area; local crime statistics, falling property values, etc. To the extent that the applicant's statewide or local Consolidated Plan, its Analysis of Impediments to Fair Housing Choice (AI), its Indian housing plan or its anti-poverty strategy identify the level of distress in the community and the neighborhood in which the project is to be carried out, references to such documents should be included in preparing the response to this factor.

(b) In rating applications under this factor, HUD reserves the right to consider sources of available objective data other than or in addition to those provided by applicants, and to compare such data to those provided by applicants for the project site. These may include U.S. Census data.

(c) HUD requires use of sound, verifiable, and reliable data (e.g., U.S. Census data, state statistical reports, university studies/reports, or Home Mortgage Disclosure Act or Community Reinvestment Act databases) to support distress levels cited in each application. See http://www.ffiec.gov/ or http://www.ffiec.gov/webcensus/ffieccensus.htm for census data. A source for all information along with the publication or origination date must also be provided.

(d) Updated Census data are available for the following indicators:

(i) Unemployment rate—estimated monthly for counties, with a two-month lag;

(ii) Population—estimated for incorporated places and counties, through 2000;

(iii) Poverty rate—through 2000.

(4) Demographics of Distress—Special Factors (5 points). Because HUD is concerned with meeting the needs of certain underserved areas, you will be awarded a total of five points if you are located in or propose to serve one or more of the following populations, or if your application demonstrates that 100 percent of the beneficiaries supported by Rural Housing and Economic Development funds are in one or more of the following populations. You must also specifically identify how each population will be served and that the proposed service area meet the definition of “eligible rural area” in Section I of this NOFA:

(a) Areas with very small populations in non-urban areas (2,500 population or less);

(b) Seasonal farm workers;

(c) Federally recognized Indian tribes;

(d) Colonias;

(e) Appalachia's Distressed Counties; or

(f) The Lower Mississippi Delta Region (8 states and 240 counties/parishes).

For these underserved areas, you should ensure that the populations that you serve and the documentation that you provide are consistent with the information described in the above paragraph under this rating factor.

3. Rating Factor 3—Soundness of Approach (21 Points)

This factor addresses the overall quality of your proposed workplan, taking into account the project and the activities proposed to be undertaken; the cost-effectiveness of your proposed program; and the linkages between identified needs, the purposes of this program, and your proposed activities and tasks. In addition, this factor addresses your ability to ensure that a clear linkage exists between innovative rural housing and economic development. In assessing cost-effectiveness, HUD will take into account your staffing levels; beneficiaries to be served; and your timetable for the achievement of program outcomes, the delivery of products and reports, and any anticipated outcome or product. You will receive a greater number of points if your workplan is consistent with the purpose of the Rural Housing and Economic Development program, your program goals, and the resources provided.

a. Management Plan (13 points). A clearly defined management plan should be submitted that identifies each of the projects and activities you will carry out to further the objectives of this program; describes the linkage between rural housing and economic development activities; and addresses the needs identified in Factor 2, including needs that previously were identified in a statewide or local Analysis of Impediments to Fair Housing Choice (AI) or Consolidated Plan. The populations that were described in Rating Factor 2 for the purpose of documenting need should be the same populations that will receive the primary benefit of the activities, both immediately and over the long term. The benefits should be affirmatively marketed to those populations least likely to apply for and receive these benefits without such marketing. Your timetable should address the measurable short-term and long-term goals and objectives to be achieved through the proposed activities based on annual benchmarks; the method you will use for evaluating and monitoring program progress with respect to those activities; and the method you will use to ensure that the activities will be completed on time and within your proposed budget estimates. Your management plan should also include the budget for your program, broken out by line item. Documented projected cost estimates from outside sources are also required. Applicants should submit their workplan on a spreadsheet showing each project to be undertaken and the tasks (to the extent necessary or appropriate) in your workplan to implement the project with your associated budget estimate for each activity/task. Your workplan should provide the rationale for your proposed activities and assumptions used in determining your project timeline and budget estimates. Failure to provide your rationale may result in your application receiving fewer points for lack of clarity in the proposed management plan.

This subfactor should include information that indicates the extent to which you have coordinated your activities with other known organizations (e.g., through letters of participation or coordination) that are not directly participating in your proposed work activities, but with which you share common goals and objectives and that are working toward meeting these objectives in a holistic and comprehensive manner. The goal of this coordination is to ensure that programs do not operate in isolation. Additionally, your application should demonstrate the extent to which your program has the potential to be financially self-sustaining by decreasing dependence on Rural Housing and Economic Development funding and relying more on state, local, and private funding. The goal of sustainability is to ensure that the activities proposed in your application can be continued after your grant award is complete.

b. Policy Priorities (8 Points). Policy priorities are outlined in detail in the General Section. You should document the extent to which HUD's policy priorities are furthered by the proposed activities. Applicants that include activities that can result in the achievement of these departmental policy priorities will receive higher rating points in evaluating their application for funding. Seven departmental policy priorities are listed below. When policy priorities are included, describe in brief detail how those activities will be carried out.

The point values for policy priorities are as follows:

(1) Providing increased homeownership and rental opportunities for low- and moderate-income persons, persons with disabilities, the elderly, minorities, and families with limited English proficiency = 1 point;

(2) Improving our Nation's communities = 1 point;

(3) Encouraging accessible design features = 1 point;

(4) Providing full and equal access to grassroots faith-based and other community-based organizations in HUD program implementation = 1 point;

(5) Ending chronic homelessness within ten years = 1 point;

(6) Removal of barriers to affordable housing = 2 points; and

(7) Promoting Energy Efficiency and Adopting Energy Star = 1 point.

4. Rating Factor 4—Leveraging Resources (10 Points)

This factor addresses the extent to which applicants have obtained firm commitments of financial or in-kind resources from other federal, state, local, and private sources. For every Rural Housing and Economic Development program dollar anticipated, you should provide the specific amount of dollars leveraged. In assigning points for this criterion, HUD will consider the level of outside resources obtained in the form of cash or in-kind goods or services that support activities proposed in your application. HUD will award a greater number of points based upon a comparison of the extent of leveraged funds with the requested Rural Housing and Economic Development award. The level of outside resources for which commitments are obtained will be evaluated based on their importance to the total program. Your application must provide evidence of leveraging in the form of letters of firm commitment from any entity, including your own organization, which will be providing the leveraging funds to the project. Each commitment described in the narrative of this factor must be in accordance with the definition of “firm commitment,” as defined in this NOFA. The commitment letter must be on letterhead of the participating organization, must be signed by an official of the organization legally able to make commitments on behalf of the organization, and must not be dated earlier than the date this NOFA is published.

Points for this factor will be awarded based on the satisfactory provisions of evidence of leveraging and financial sustainability, as described above, and the ratio of leveraged funds to requested HUD Rural Housing and Economic Development funds as follows:

a. 50% or more of requested HUD Rural Housing and Economic Development funds = 10 points;

b. 49-40% of requested HUD Rural Housing and Economic Development funds = 8 points;

c. 39-30% of requested HUD Rural Housing and Economic Development funds = 6 points;

d. 29-20% of requested HUD Rural Housing and Economic Development funds = 4 points;

e. 19-9% of requested HUD Rural Housing and Economic Development funds = 2 points;

f. Less than 9% of HUD requested Rural Housing and Economic Development funds = 0 points.

See the General Section for instructions for submitting third party letters and other documents with your electronic application.

5. Rating Factor 5—Achieving Results and Program Evaluation (24 Points)

This factor emphasizes HUD's commitment to ensure that applicants keep promises made in their application. This factor assesses their performance to ensure that rigorous and useful performance measures are used and goals are met. Achieving results means you, the applicant, have clearly identified the benefits or outcomes of your program. Outcomes are ultimate project end goals. Benchmarks or outputs are interim activities or products that lead to the ultimate achievement of your goals. Program evaluation requires that you, the applicant, identify program outcomes, interim products or benchmarks, and performance indicators that will allow you to measure your performance. Performance indicators should be objectively quantifiable and measure actual achievements against anticipated achievements. Your evaluation plan should identify what you are going to measure, how you are going to measure it, and the steps you have in place to make adjustments to your work plan if performance targets are not met within established time frames.

Applicants must also complete the “Logic Model” HUD Form (HUD-96010) included in the application instructions at http://www.Grants.gov, and submit the completed form with their application. This year, in response to client concerns that the Logic Model was difficult to complete due to the need to write text into the appropriate columns, HUD has provided an electronic Logic Model that will enable applicants to select from lists the appropriate needs statement(s), activities/outputs and outcomes that the applicant is proposing in the application submission. The listing of the activities is referred to as the Master Logic Model List and each list is unique to the program funding opportunity. The application instructions found on http://www.Grants.gov/Apply include the eLogic Model™ that you can complete and attach to your electronic application submission. For applicants who do not have Microsoft Excel software, HUD has provide the Master Logic model list on its Web site at http://www.hud.gov/offices/adm/grants/fundsavail.cfm, where applicants may select the items in each column that reflect their activity outputs and outcomes and copy and paste them into the appropriate column in the Logic Model form. The form can be printed and sent to HUD via facsimile using form HUD-96011 as the cover page to the Transmittal. In completing the Logic Model, applicants are expected to select from the lists of appropriate outputs and outcomes for their proposed workplan. The eLogic Model™ and Master Logic Model listing also identify the unit of measure that HUD is interested in collecting for the outputs and outcomes selected. In making the selections, for each output and outcome, applicants are to complete the appropriate proposed number of units of measure to be accomplished. The space next to the output and outcome is to capture the anticipated units of measure. Multiple outputs and outcomes may be selected per project. For FY2006, HUD is considering a new concept for the Logic Model. The new concept is a Return on Investment statement. HUD will be publishing a separate notice on the ROI concept.

Under this rating factor, applicants will receive a maximum of 24 points based on how the applicant proposes to effectively address program goals and performance measures. HUD will evaluate and analyze how well the applicant implemented the required Rural Housing and Economic Development output and outcome goals and identified other stated benefits or outcomes of their program. In order to receive the highest number of points, applicants should present a clear plan to address the RHED output and outcome measures.

1. Output Measures are quantifiable. RHED outputs include: Number of housing units constructed; number of housing units rehabilitated; Number of jobs created; number of participants trained; number of new businesses created; and number of existing businesses assisted.

2. Outcomes Measures are benefits accruing to the program participants and/or communities during or after participation in the RHED program. RHED outcomes include: Number of housing units rehabilitated that will be made available to low-to-moderate-income participants; percentage change in earnings as a result of employment for those participants; percent of participants trained who find a job; annual estimated savings for low-income families as a result of energy efficiency improvements; and increase in organizational resources as a result of assistance (e.g., dollars leveraged).

You must clearly identify the outcomes to be achieved and measured. Proposed program benefits should include program activities, benchmarks, and interim activities or performance indicators with timelines. Applications should include an evaluation plan that will effectively measure actual achievements against anticipated achievements.

3. Logic Model. HUD requires RHED applicants to develop an effective, quantifiable, outcome-oriented evaluation plan for measuring performance and determining whether goals have been met using the Master Logic Model for RHED, which can be found in the download instructions portion of the application at www.Grants.gov. In preparing your logic model first open the form HUD-96010 and go to the instruction tab and follow the directions in the tab. Your application must include the Logic Model form (HUD-96010) to receive any points under this factor.

This rating factor reflects HUD's goal to embrace high standards of ethics, management, and accountability. HUD will hold a training broadcast via satellite for potential applicants to learn more about Rating Factor 5. For more information about the date and time of the broadcast, consult the HUD Web site at http://www.hud.gov/grants/index.cfm.

Although the following list is not all inclusive, program outcomes for the Rural Housing and Economic Development program must include where applicable:

a. Total number of housing units constructed;

b. Total number of housing units rehabilitated;

c. Number of Housing units rehabilitated that will be made available to low-to-moderate income participants;

d. Number of Housing units constructed that will be made available to low-to-moderate income participants;

e. Number of jobs created;

f. Percentage change in earnings as a result of employment for those participants;

g. Number of participants trained;

h. Percent of participants trained who find a job;

i. Number of new businesses created;

j. Number of existing businesses assisted; and

k. Annual estimated savings for low-income families as a result of energy efficiency improvements.

l. Increase in program accomplishments as a result of capacity building assistance (e.g. number of employees hired or retained, efficiency or effectiveness of services provided); and

m. Increase in organizational resources as a result of assistance (e.g., dollars leveraged). If you receive an award of funds, you will be required to use the logic model to report progress against the proposed outcomes in your approved application and award agreement.

The applicant's proposed budget must reflect a breakdown of estimated dollar amount of the Rural Housing and Economic Development grant to be expended on each of the activities/outputs and the anticipated results included on the HUD-96010 “Logic Model” and under the Rating Factor 5 section of your application.

6. RC/EZ/EC-II Bonus Points (2 Points)

HUD will award two bonus points to all applications that include documentation stating that the proposed eligible activities/projects will be located in and serve federally designated renewal community (RCs), empowerment zone (EZs), or enterprise communities (ECs) designated by the United States Department of Agriculture (USDA) in round II RC/EZ/EC. A listing of federally designated RC/EZ/EC-II is available on the Internet at http://www.hud.gov/crlocator.

This notice contains a certification (HUD-2990) that must be completed for the applicant to be considered for Rural EZ/Round II EC bonus points.

B. Review and Selection Process

1. Application Selection Process

a. Rating and Ranking.

(1) General. To review and rate applications, HUD may establish panels which may include outside experts or consultants to obtain certain expertise and outside points of view, including views from other federal agencies.

(2) Rating. All applicants for funding will be evaluated against applicable criteria. In evaluating applications for funding, HUD will take into account an applicant's past performance in managing funds, including the ability to account for funds appropriately; its timely use of funds received either from HUD or other federal, state or local programs; its success in meeting performance targets for completion of activities; and the number of persons to be served or targeted for assistance. HUD may use information relating to these items based on information at hand or available from public sources such as newspapers, Inspector General or Government Accounting Office reports or findings, hotline complaints that have been found to have merit, or other such sources of information. In evaluating past performance, HUD will deduct points from rating scores as specified under Rating Factor 1.

(3) Ranking. Applicants will be selected for funding in accordance with their rank order. An application must receive a minimum score of 75 points to be eligible for funding. If two or more applications are rated fundable and have the same score, but there are insufficient funds to fund all of them, the application(s) with the highest score for Rating Factor 2 will be selected. If applications still have the same score, the highest score in the following factors will be selected sequentially until one highest score can be determined: Rating Factor 3, Rating Factor 1, Rating Factor 5, and Rating Factor 4.

a. Initial screening. During the period immediately following the application deadline, HUD will screen each application to determine eligibility. Applications will be rejected if they:

(1) Are submitted by ineligible applicants;

(2) Do not serve an eligible rural area as defined in Section III of this NOFA;

(3) Do not meet the objectives of the Rural Housing and Economic Development program; or

(4) Propose a project for which the majority of the activities are ineligible.

b. Rating Factors for Award Used to Evaluate and Rate Applications. The factors for rating and ranking applicants and the maximum points for each factor are provided above. The maximum number of points for this program is 102. This includes 100 points for all five rating factors and two RC/EZ/EC-II bonus points, as described above.

c. Environmental Review. Each application constitutes an assurance that the applicant agrees to assist HUD in complying with the provisions set forth in 24 CFR part 50. Selection for award does not constitute approval of any proposed site. Following selection for award, HUD will perform an environmental review of activities proposed for assistance under this part, in accordance with 24 CFR part 50. The results of the environmental review may require that proposed activities be modified or that proposed sites be rejected. Applicants are particularly cautioned not to undertake or commit HUD funds for acquisition or development of proposed properties (including establishing lines of credit that permit financing of such activities or making commitments for loans that would finance such activities from a revolving loan fund capitalized by funds under this NOFA) prior to HUD approval of specific properties or areas. Each application constitutes an assurance that you, the applicant, will assist HUD in complying with part 50; will supply HUD with all available relevant information to perform an environmental review for each proposed property; will carry out mitigating measures required by HUD or select alternate property; and will not acquire, rehabilitate, convert, demolish, lease, repair, or construct property, or commit or expend HUD or local funds for these program activities with respect to any eligible property until HUD approval of the property is received. In supplying HUD with environmental information, grantees must use the guidance provided in Notice CPD 05-07, entitled “Field Environmental Review Processing for Rural Housing and Economic Development (RHED) Grants,” issued August 30, 2005, which can be found at http://www.hud.gov/offices/cpd/energyenviron/environment/lawsandregs/notices.cfm. HUD's funding commitment is contingent upon HUD's site approval following an environmental review.

d. Adjustments to Funding.

(1) HUD will not fund any portion of your application that is ineligible for funding and does not meet the requirements of this NOFA, or is duplicative of other funded programs or activities from prior year awards or other selected applicants. Only the eligible non-duplicative portions of your application may be funded.

(2) HUD reserves the right to utilize this year's funding to fund previous years' errors prior to rating and ranking this year's applications.

(3) If a balance remains, HUD reserves the right to utilize those funds toward the following year's awards.

(4) Please see the Section VI.A.3 of the General Section for more information about funding.

(5) Performance and Compliance Actions of Funding Recipients. HUD will measure and address the performance and compliance actions of funding recipients in accordance with the applicable standards and sanctions of the Rural Housing and Economic Development program.

e. Corrections to Deficient Applications. After the application due date, HUD may not, consistent with its regulations in 24 CFR part 4, subpart B, consider any unsolicited information you, the applicant, may want to provide. HUD may contact you to clarify an item in your application or to correct technical deficiencies. See Section V.B. of the General Section for more detailed information on this topic.

VI. Award Administration Information

A. Award Notice. Successful Rural Housing and Economic Development program applicants will be notified of grant award and will receive post-award instructions by mail.

B. Administrative and National Policy Requirements. In addition to the requirements listed below, please review all requirements in Section III of the General Section.

1. Lead-Based Paint Hazard Control. All property assisted under the Rural Housing and Economic Development program is covered by the Lead-Based Paint Poisoning Prevention Act (42 U.S.C. 4821-4846) and HUD's implementing regulations at 24 CFR part 35.

2. Procurement of Recovered Materials. See the General Section for further information.

3. Executive Order 13202, “Preservation of Open Competition and Government Neutrality Towards Government Contractors' Labor Relations on Federal and Federally Funded Construction Projects.” (See the General Section for further information.)

4. Audit Requirements. Any grantee that expends $500,000 or more in federal financial assistance in a single year (this can be program year or fiscal year) must meet the audit requirements established in 24 CFR parts 84 and 85 in accordance with OMB A-133.

5. Accounting System Requirements. The Rural Housing and Economic Development program requires that successful applicants have in place an accounting system that meets the policies, guidance, and requirements described in the following applicable OMB Circulars and Code of Federal Regulations:

a. OMB Circular A-87 (Cost Principles for State, Local and Indian Tribal Governments);

b. OMB Circular A-122 (Cost Principles for Non-Profit Organizations);

c. OMB Circular A-133 (Audits of States, Local Governments, and Non-Profit Organizations);

d. 24 CFR part 84 (Grants and Agreements with Institutions of Higher Education, Hospitals, and other Non-Profit Organizations); and

e. 24 CFR part 85 (Administrative Requirements for Grants and Cooperative Agreements to State, Local, and Federally recognized Indian tribal governments).

C. Reporting. Reporting documents apply to the award, acceptance and use of assistance under the Rural Housing and Economic Development program and to the remedies for noncompliance, except when inconsistent with HUD's Appropriation Act, or other federal statutes or the provisions of this NOFA.

For each reporting period, as part of your required report to HUD, grantees must include a completed Logic Model (Form HUD 96010), which identifies output and outcome achievements. The Return on Investment concept will be addressed further in a subsequent notice (see section V., Rating Factor 5 of this NOFA for further information). If you are reporting race and ethnic data, you must use Form HUD-27061, Race and Ethnic Data Reporting Form.

D. Debriefing. See the General Section for information on how to obtain a debriefing on your application review and evaluation.

VII. Agency Contact(s)

Further Information and Technical Assistance. For information concerning the HUD Rural Housing and Economic Development program, contact Mr. Thann Young, Community Planning and Development Specialist, or Ms. Linda L. Streets, Community Planning and Development Specialist, Office of Rural Housing and Economic Development, Office of Community Planning and Development, Department of Housing and Urban Development, 451 Seventh Street, SW., Room 7137, Washington, DC 20410-7000; telephone 202-708-2290 (this is not a toll-free number). Persons with speech or hearing impairments may access this number via TTY by calling the toll-free Federal Information Relay Service at 800-877-8339.

Prior to the application deadline, Mr. Young or Ms. Streets will be available at the number above to provide general guidance and clarification of the NOFA, but not guidance in actually preparing your application. Following selection, but prior to award, HUD staff will be available to assist in clarifying or confirming information that is a prerequisite to the offer of an award by HUD.

VIII. Other Information

A. Satellite Broadcast. HUD will hold an information webcast via satellite for potential applicants to learn more about the program and preparation of an application. For more information about the date and time of this webcast, consult the HUD Web site at http://www.hud.gov.

B. The Paperwork Reduction Act. The information collection requirements contained in this document have been approved by the Office of Management and Budget (OMB) under the Paperwork Reduction Act of 1995 (44 U.S.C. 3501-3520) and assigned OMB control number 2506-0169. In accordance with the Paperwork Reduction Act, HUD may not conduct or sponsor and a person is not required to respond to a collection of information, unless it displays a currently valid OMB control number. Public reporting burden for the collection of information is estimated to average 100 hours per annum per respondent for the application and grant administration. This includes the time for collecting, reviewing and reporting the data for the application, semi-annual reports, and final report. The information will be used for grantee selection and monitoring the administration of funds.

BILLING CODE 4210-01-P

Resident Opportunity and Self-Sufficiency (ROSS) Elderly/Persons With Disabilities Program

Overview Information

A. Federal Agency Name: Department of Housing and Urban Development, Office of Public and Indian Housing.

B. Funding Opportunity Title: Resident Opportunity and Self-Sufficiency (ROSS)—Elderly/Persons with Disabilities Program (formerly known as Resident Services Delivery Model—Elderly/Persons with Disabilities).

C. Announcement Type: Initial announcement.

D. Funding Opportunity Number: The Federal Register number for this NOFA is FR-5030-N-30. The OMB approval number is 2577-0229.

E. Catalog of Federal Domestic Assistance (CFDA) Number(s): Resident Opportunity and Self Sufficiency, 14.876.

F. Dates: The application deadline date is July 13, 2006. Applications submitted through http://www.grants.gov must be received and validated by grants.gov no later than 11:59:59 Eastern time on the application deadline date.

G. Additional Overview Content Information: 1. Purpose of Program: The purpose of the ROSS—Elderly/Persons with Disabilities Program is to provide grants to public housing agencies (PHAs), tribes/tribally designated housing entities (TDHEs), Resident Associations (RAs), and nonprofit organizations (including grassroots, faith-based and other community-based organizations), for the delivery and coordination of supportive services and other activities designed to help improve the living conditions of public and Indian housing residents who are elderly and/or disabled. Applicants should be aware that receipt of grant funds in no way guarantees further funding beyond the three-year grant term and should be sure that services commenced pursuant to this grant will be sustained independently in the future or that the cessation of these activities will not negatively impact residents. This is especially important for any meal programs to meet residents' nutritional needs.

2. Funding Available: A total of approximately $10 million is available for ROSS—Elderly/Persons with Disabilities grants in fiscal year 2006.

3. Award Amounts: Awards, depending on the grant category, unit count and type of grantee, will range from $100,000 to $300,000. Grant awards must be used in two ways: one portion for the salaries and fringe benefits of a Project Coordinator; and one portion for direct delivery of a supportive service to the targeted elderly/disabled resident population. Please see the funding breakdown chart below.

4. Eligible Applicants. Eligible applicants are PHAs; tribes/TDHEs; nonprofit organizations including grassroots faith-based and other community-based organizations that have resident support or the support of tribes; and RAs. The term “resident association” or “RA” will be used to refer to all types of eligible resident organizations. Please see the section on “Definition of Terms” for a complete definition of each type of eligible resident organization.

5. Cost Sharing/Match Requirement: At least 25 percent of the requested grant amount is required as a match. The match may be in cash and/or in-kind donations. The match is a threshold requirement.

6. Grant term. The grant term is three years from the execution date of the grant agreement.

Grant program | Total funding | Eligible applicants | Maximum grant amount (units refers to the number of units occupied by elderly/disabled, as indicated on ROSS Fact Sheet (HUD-52751))
ROSS—Elderly/ Persons with Disabilities | $10 million | PHAs | $180,000 for PHAs with 1-217 units. $240,000 for PHAs with 218-1,155 units. $300,000 for PHAs with 1,156 or more units.
|  | Resident Associations | $100,000
|  | Non-profit entities | $100,000 per RA; Maximum award is $300,000.
|  | Tribes/TDHEs | $180,000 for Tribes/TDHEs with 1-217 units. $240,000 for Tribes/TDHEs with 218-1,155 units. $300,000 for Tribes/TDHEs with 1,156 or more units.

Grant awards must be used in two ways: one portion for the salaries and fringe benefits of a Project Coordinator; and one portion for direct delivery of high priority supportive services to the targeted elderly/disabled resident population. The applicant may use up to $50,000 maximum per year and in accordance with local wage standards (see Funding Restrictions) for the salary and fringe benefits of a Project Coordinator. Additionally, the applicant may use funds for delivery of services. The application must demonstrate (in rating factor 2) that these services are of a high priority for the targeted elderly/disabled residents and that another funding source is not available, therefore meriting funding under this grant.

Full Text of Announcement

I. Funding Opportunity Description

A. Purpose

The purpose of the ROSS—Elderly/Persons with Disabilities Program is to provide grants to public housing agencies (PHAs), Tribes/Tribally Designated Housing Entities (TDHEs), Resident Associations (RAs), and nonprofit organizations (including grassroots, faith-based and other community-based organizations) for the delivery and coordination of supportive services and other activities designed to help improve the living conditions of public and Indian housing residents who are elderly and/or disabled. Please note that no elderly individual or person with a disability may be required to take services.

B. Definition of Terms

1. City-Wide Resident Organization consists of members from Resident Councils, Resident Management Corporations, and Resident Organizations who reside in public housing developments that are owned and operated by the same PHA within a city.

2. Community Facility means a non-dwelling structure that provides space for multiple supportive services for the benefit of public and/or Indian housing residents eligible for the services provided.

3. Contract Administrator (CA) means an overall grant administrator and/or a financial management agent that oversees the implementation of the grant and/or the financial aspects of the grant. (See the “Threshold Requirements” and “Program Requirements” sections for more information.) All nonprofit applicants, all RAs, and PHAs that are troubled at time of application must have a CA and are required, per the Threshold Section, to submit a signed Contract Administrator Partnership Agreement. The agreement must be for the entire grant term. The CA must assure that the financial management system and procurement procedures that will be in place during the grant term will fully comply with either 24 CFR part 84 or 85, as appropriate. CAs are expressly forbidden from accessing HUD's Line of Credit Control System (LOCCS) and submitting vouchers on behalf of grantees. CAs must also assist PHAs to meet HUD's reporting requirements. CAs may be: Local housing agencies; community-based organizations such as community development corporations (CDCs), churches, temples, synagogues, mosques; nonprofit organizations; state/regional associations and organizations. Troubled PHAs are not eligible to be contract administrators. Grant writers who assist applicants in preparing their ROSS applications are also ineligible to be contract administrators. Organizations that the applicant proposes to use as the CA must not violate or be in violation of other conflicts of interest as defined in 24 CFR part 84 and 24 CFR part 85.

4. Elderly person means a person who is at least 62 years of age.

5. Jurisdiction-Wide Resident Organization means an incorporated nonprofit organization or association that meets the following requirements:

a. Most of its activities are conducted within the jurisdiction of a single housing authority;

b. There are no incorporated resident councils or resident management corporations within the jurisdiction of the single housing authority;

c. It has experience in providing start-up and capacity-building training to residents and resident organizations; and

d. Public housing residents representing unincorporated resident councils within the jurisdiction of the single housing authority must comprise a majority of the board of directors.

6. Tribally Designated Housing Entity (TDHE) is an entity authorized or established by one or more Indian tribes to act on behalf of each such tribe authorizing or establishing the housing entity.

7. Indian Tribe means any tribe, band, nation, or other organized group of a community of Indians, including any Alaska native village, regional, or village corporation as defined in or established pursuant to the Alaska Native Claims Settlement Act, and that is recognized as eligible for the special programs and services provided by the United States to Indians because of their status as Indians pursuant to the Indian Self Determination and Education Act of 1975 or any state-recognized tribe eligible for assistance under section 4(12)(C) of NAHASDA.

8. Intermediary Resident Organizations means jurisdiction-wide resident organizations, citywide resident organizations, statewide resident organizations, regional resident organizations, and national resident organizations.

9. NAHASDA-assisted resident means a resident of tribal housing (as defined above) who has been assisted by the Native American Housing Assistance and Self-Determination Act (NAHASDA) of 1996.

10. National Resident Organization (NRO) is an incorporated nonprofit organization or association for public housing that meets each of the following requirements:

a. It is national in that it conducts activities or provides services in at least two HUD areas or two states;

b. It has the capacity to provide start-up and capacity-building training to residents and resident organizations; and

c. Public housing residents representing different geographical locations in the country are members of the board of directors.

11. Nonprofit organization is an organization that is exempt from federal taxation. A nonprofit organization can be organized for the following purposes: charitable, religious, educational, scientific, or other similar purposes in the public interest. In order to qualify, an organization must be a corporation, community chest, fund, or foundation. An individual or partnership will not qualify. To obtain nonprofit status, qualified organizations must file an application with the Internal Revenue Service (IRS) and receive designation as such by the IRS. For more information, go to http://www.irs.gov. Applicants who are in the process of applying for nonprofit status, but have not yet received nonprofit designation from the IRS, will not be considered nonprofit organizations. All nonprofit applicants must submit their IRS determination letter to prove their nonprofit (e.g., 501(c)(3)) status. Please see the section on “Threshold Requirements” for more information. Nonprofit applicants must also provide letters of support as described in the “Threshold Requirements” section.

12. National nonprofit organizations work on a national basis and have the capacity to mobilize resources on both a national and local level. All nonprofit applicants must submit their IRS determination letter to prove their nonprofit (e.g., 501(c)(3)) status. National nonprofit applicants must also provide letters of support as outlined in the “Threshold Requirements” section.

13. Past Performance is a threshold requirement. Using Rating Factor 1, HUD's field offices will evaluate applicants for past performance to determine whether an applicant has the capacity to manage the grant for which they are applying. The area Office of Native American Programs (ONAP) will review past performance for tribal/TDHE submissions. Field offices will evaluate the past performance of contract administrators for applicants required to have one.

14. Person with disabilities: This NOFA uses the definition of person with disabilities found at 24 CFR 5.403.

15. Project Coordinator is responsible for coordinating the grantee's approved activities to ensure that grant goals and objectives are met. A qualified Project Coordinator is someone with experience managing projects and preferably has experience working with supportive services. Project Coordinators and grantees are responsible for ensuring that all federal requirements are followed.

16. Resident Association (RA) means any or all of the forms of resident organizations as they are defined elsewhere in this Definitions section and includes Resident Councils (RCs), Resident Management Corporations (RMCs), City-Wide Resident Organizations, Regional Resident Organizations (RROs), Statewide Resident Organizations (SROs), Jurisdiction-Wide Resident Organizations, and National Resident Organizations (NROs), Resident Organization (RO) for tribal entities, Site-Based Resident Associations, and Tribal/TDHE Resident Groups. The NOFA will use “Resident Association” or “RA” to refer to all eligible types of resident organizations. See 24 CFR 964.115 for more information.

17. Regional Resident Organization (RRO) means an incorporated nonprofit organization or association for public housing that meets each of the following requirements:

a. The RRO is regional i.e., not limited to HUD-defined regions);

b. The RRO has experience in providing start-up and capacity-building training to residents and resident organizations; and

c. Public housing residents representing different geographical locations in the region must comprise the majority of the board of directors.

18. Resident Management Corporation (RMC) means an entity that proposes to enter into, or enters into a contract to conduct one or more management activities of a PHA and meets the requirements of 24 CFR 964.120.

19. Resident Organization (RO) for tribal entities means an incorporated or unincorporated nonprofit tribal organization or association that meets each of the following criteria:

a. Consists of residents only, and only residents may vote;

b. If it represents residents in more than one development or in all of the developments of the tribal/TDHE community, it shall fairly represent residents from each development that it represents;

c. Adopts written procedures providing for the election of specific officers on a regular basis; and

d. Has an elected governing board.

20. Secretary means the Secretary of Housing and Urban Development.

21. Site-Based Resident Associations means resident councils or resident management corporations representing a specific public housing development.

22. Supportive Services means activities including but not limited to:

a. Meal services adequate to meet nutritional need;

b. Assistance with activities of daily living (ADLs);

c. Wellness programs; and

d. Congregate services.

23. Statewide Resident Organization (SRO) is an incorporated nonprofit organization or association for public housing that meets the following requirements:

a. The SRO is statewide;

b. The SRO has experience in providing start-up and capacity-building training to residents and resident organizations; and

c. Public housing residents representing different geographical locations in the state must comprise the majority of the Board of Directors.

24. Tribal/TDHE Resident Group means tribal/TDHE resident groups that are democratically elected groups such as IHA-wide resident groups, area-wide resident groups, single development groups, or resident management corporations (RMCs).

C. Regulations Governing the ROSS Grant

ROSS-Elderly/Persons with Disabilities is governed by 24 CFR part 964.

II. Award Information

A. Performance Period and Award Type

1. Grant Period. Three years. The grant period shall begin the day the grant agreement and the form HUD-1044, “Assistance Award/Amendment,” are signed by both the grantee and HUD.

2. Grant Extensions. Requests to extend the grant term beyond the grant term must be submitted in writing to the local HUD field office or area ONAP at least 90 days prior to the expiration of the grant term. Requests must explain why the extension is necessary, what work remains to be completed, and what work and progress has been accomplished to date. Extensions may be granted only once by the field office or area ONAP for a period not to exceed six months and may be granted for a further six months by the Headquarters Program Office at the request of the Field Office or Area ONAP.

3. Type of Award. Grant agreement.

4. Subcontracting. Subcontracting is permitted. Grantees must follow federal procurement regulations found in HUD regulations at 24 CFR Part 84.40-84.48 and 24 CFR 85.36.

B. Funding Amounts

1. Total Funding. The Department expects to award approximately $10,000,000 under this funding category of ROSS.

Awards will be made as follows:

a. PHAs must use the number of conventional public housing units occupied by elderly and disabled residents as of September 30, 2005, per their budget to determine the maximum grant amount they are eligible for in accordance with the categories listed below. PHAs should clearly indicate the number of conventional public housing units occupied by elderly and disabled residents under their Annual Contributions Contract on the Fact Sheet.

Number of conventional units occupied by elderly and persons with disabilities | Maximum funding
1-217 units | $180,000
218-1,155 units | 240,000
1,156 or more units | 300,000

b. The maximum grant award is $100,000 for each RA.

c. Nonprofits are eligible applicants if they are representing or acting at the behest of an RA. Accordingly, nonprofit applicants must show support from that RA. Nonprofit organizations that have support from an RA are limited to $100,000 for each RA. A nonprofit organization may submit a single application for no more than three different RAs from the same PHA. A nonprofit organization may not receive more than $300,000 in FY 2006 ROSS-Elderly/Disabled grant funding. Nonprofit organizations may submit more than one application provided they target residents of distinct PHAs or tribes/TDHEs. In cases where nonprofit applicants are not able to obtain support from RAs, they must obtain letters of support from PHAs and/or tribes/TDHEs and they may also submit a letter of support from one or more of the following: Resident Advisory Boards (RABs), local civic organizations, or units of local government.

Note: All nonprofit applicants that do not include a letter of support from an RA must include a letter of support from a PHAs. or tribes/TDHEs. Please see Threshold Requirements for more information Support letters must indicate the developments to be served by the nonprofit organization. Funding for nonprofit applicants that do not receive letters of support from RAs will be determined as follows. Support letters must indicate the developments to be served by the nonprofit organization as well as the number of conventional public housing units occupied by elderly and persons with disabilities.

Number of conventional units occupied by elderly/disabled residents | Maximum funding
1-217 units | $180,000
218-1,155 units | 240,000
1,156 or more units | 300,000

Applicants should see the General Section of the SuperNOFA for instructions on submitting support letters and other documentation with their electronic application.

d. Tribes/TDHEs should use the number of units occupied by elderly and persons with disabilities counted as Formula Current Assisted Stock for Fiscal Year 2005 as defined in 24 CFR part 1000.316. Tribes/TDHEs are eligible for the same amounts as PHAs within each category in (a) above. Tribes that have not previously received funds from the Department under the 1937 Housing Act should count housing units under management that are owned and operated by the Tribe, identified in their housing inventory as of September 30, 2005, and occupied by elderly/disabled residents. Tribes should clearly indicate the number of units under management occupied by elderly/disabled residents on the Fact Sheet.

III. Eligibility Information

A. Eligible Applicants

PHAs, tribes/TDHEs, RAs, and nonprofit organizations (including those nonprofit organizations supported by resident organizations or PHAs, tribes/TDHEs and RABs). PHAs that are recipients of the Elderly/Disabled Renewal Service Coordinator funding through Operating Subsidy are not eligible to apply for this ROSS funding category. If you are unsure if your organization falls into this category, please contact the Public and Indian Housing Information and Resource Center at 800-955-2232.

B. Cost Sharing or Matching

Information for All Applicants: Match is a threshold requirement. Applicants who do not demonstrate that they have a match of 25% of the total requested grant amount will fail the threshold requirement and will not receive further consideration for funding.

C. Other

1. Eligible Activities. Applicants should propose implementing comprehensive programs within the three-year grant term, which will result in improved living conditions for the elderly/persons with disabilities population. Improved living conditions may mean, but is not limited to, aging-in-place or assistance to live independently. Proposals should involve partnerships with organizations that will help grantees provide enhanced services to the elderly/persons with disabilities they will serve. All applicants must complete a descriptive narrative and work plan and a Logic Model covering the three-year grant term. Proposed grant activities should build on the foundation created by previous ROSS grants or other federal, state, and local efforts to assist these populations. Eligible activities include but are not limited to the following:

a. Hiring of a qualified Project Coordinator to run the grant program. A qualified Project Coordinator should have at least two years of experience managing programs and have experience working with supportive services. The Project Coordinator is responsible for:

(1) Assessing participating residents' needs for supportive services (e.g., Medicaid, Medicare, physician care, food stamps, rehabilitation services, veterans disability, state-funded programs such as nurse case management, housekeeping, Meals-on-Wheels, transportation, etc.);

(2) Designing, coordinating, referring to and delivering, as relevant, grant activities based on residents' needs, such as those activities listed below;

(3) Monitoring the progress of program participants and evaluating the overall success of the program. A portion of grant funds should be reserved to ensure that evaluations can be completed for all participants who received assistance through this program. Project Coordinators and grantees are responsible for ensuring that all federal requirements are followed.

b. Coordination, referral to, and delivery of meal services adequate to meet nutritional needs (i.e., not related to entertainment activities);

c. Coordination, referral to, and delivery of transportation services including purchase, rental or lease of a vehicle for the grantee and limited in use for program purposes;

d. Coordination, set-up and referral to assistance with daily activities (ADLs);

e. Coordination, set-up and referral to housekeeping assistance;

f. Coordination, referral to, and delivery of wellness programs including but not limited to health and nutrition programs, preventive health education, referral to rehabilitation services, structured programs to build social support, services for the disabled, and other community resources;

g. Coordination, set-up and referral to personal emergency response;

h. Coordination, referral to, and delivery of congregate services—includes supportive services provided in a congregate setting at a conventional public housing development; and

i. Coordination, referral to, and delivery of case management;

j. Coordination and referral to health services (e.g., medical and dental check-ups);

k. Coordination, referral, and delivery of job training opportunities under Section 3 of the Housing and Urban Development Act of 1968;

l. Coordination and referral of residents to employment opportunities under Section 3 of the Housing and Urban Development Act of 1968;

m. Salary and fringe benefits of direct services staff;

n. Lease or rental of space for program activities, but only under the following conditions:

(1) The lease must be for existing facilities not requiring rehabilitation or construction;

(2) No repairs or renovations of the property may be undertaken with Federal funds; and

(3) Properties in the Coastal Barrier Resources System designated under the Coastal Barrier Resources Act (16 U.S.C. 3501) cannot be leased or rented with Federal Funds.

o. Administrative Costs, for all applicants, may include, but are not limited to, purchase of furniture, office equipment and supplies, local travel, utilities, printing, postage and lease or rental of space for program activities (subject to the lease restrictions in the preceding paragraph). To the maximum extent practicable, when leasing space or purchasing equipment or supplies, business opportunities should be provided to businesses under Section 3 of the Housing and Urban Development Act of 1968. Administrative costs must not exceed 10 percent of the total grant costs;

p. Staff training;

q. Long-distance travel (subject to funding restrictions); and

r. Evaluation costs for the grant program.

2. Threshold Requirements. The criteria below apply to all applicants unless otherwise indicated. Additional information about threshold requirements may also be found in the General Section. Applicants must respond to each threshold requirement clearly and thoroughly by following the instructions below. If the application fails any threshold requirement it will be considered a failed application and will not receive consideration for funding.

a. Match. All applicants are required to have in place firm match commitments, either in cash or in-kind, for 25 percent of the requested grant amount, as defined in this NOFA. Joint applicants must together have at least a 25 percent match of the requested grant amount. Applicants who do not demonstrate the minimum 25 percent match of the requested grant amount will fail this threshold requirement and will not receive further consideration for funding. If you are applying for more than one category of ROSS grant (i.e., ROSS-Family & Homeownership), you must use different sources of match donations for each grant application. Additionally, you must indicate which other ROSS grant(s) you are applying for by attaching a page to HUD budget form 424-CBW stating the sources and amounts of each of your match contributions for this application as well as any other HUD programs to which you are applying. Match donations must be firmly committed, which means that the amount of match resources and their dedication to ROSS-funded activities must be explicit, in writing, and signed by a person authorized to make the commitment. Letters of commitment, memoranda of understanding (MOUs), or tribal resolutions must be on organization letterhead, and signed by a person authorized to make the stated commitment, whether it be in cash or in-kind services. The letters of commitment/MOUs/tribal resolutions must indicate the total dollar value of the commitment and be dated between the publication date of this NOFA and the application deadline published in this NOFA, or the amended deadline and indicate how the commitment will relate to the proposed program. The commitment must be available at time of award. Match that is proposed for ineligible activities will not be accepted. Although ineligible as a use of grant funds for applicants, the direct delivery of ADLs, housekeeping, and personal emergency response will be accepted as match if provided by a partner. Applicants proposing to use their own non-ROSS grant funds to meet the match requirement in whole or in part, must also include a letter of commitment indicating the type of match (cash or in-kind) and how the match will be used. Please see the General Section for instructions for submitting the required letters with your electronic application.

Committed amounts in excess of the 25 percent of the requested grant amount may be considered as leveraged funds for higher points under Rating Factor 4.

(1) The value of volunteer time and services shall be computed by using the normal professional rate for the local area or the national minimum wage rate of $5.15 per hour (Note: applicants may not count their staff time toward the match);

(2) In order for HUD to determine the value of any donated material, equipment, staff time, building, or lease, your application must provide a letter from the organization making the donation stating the value of the contribution.

(3) Other resources/services that can be committed include: In-kind services provided to the applicant; funds from federal sources (not including ROSS funds) as allowed by statute, including for example Community Development Block Grant (CDBG) funds or Indian Housing Block Grant (IHBG) funds; funds from any state or local government sources; and funds from private contributions. Applicants may also partner with other program funding recipients to coordinate the use of resources in the target area.

b. Past Performance. HUD's field offices will evaluate data provided by applicants under Rating Factor 1 as well as applicants' past performance to determine whether applicants have the capacity to manage the grant for which they are applying. The area Offices of Native American Programs (ONAPs) will review past performance for tribal and TDHE submissions. Field offices will evaluate the contract administrators' past performance for applicants required to have a contract administrator. In evaluating past performance, HUD will look at the applicant's record of completing grant activities on time, within budget, and the results achieved. Using Rating Factor 1, the field office/area ONAP will evaluate applicants' past performance. Applicants should carefully review and respond to Rating Factor 1 to ensure their applications address each of the criteria. If applicants fail to address what is requested in Rating Factor 1, their applications will fail this threshold and will not receive further consideration.

c. Contract Administrator Partnership Agreement. All nonprofit applicants, all RAs, and troubled PHAs (troubled as of the application deadline) are required to submit a signed Contract Administrator Partnership Agreement. The agreement must be for the entire grant term. Applicants required to have a Contract Administrator Partnership Agreement that fail to submit one will fail this threshold requirement and will not receive further consideration for funding. See the Definitions, and Program Requirements Sections of this NOFA more information on Contract Administrators. See the General Section for instructions on submitting the information electronically.

Troubled PHAs are not eligible to be contract administrators. Grant writers who assist applicants in preparing their ROSS applications are also ineligible to be contract administrators.

d. Letters of Support for Nonprofit Applicants.

(1) All nonprofit applicants must include one or more letters of support from RAs, Resident Advisory Boards (RABs), local civic organizations, or units of local government. If the RAs are inactive, or applicants submit letters of support from other organizations such as RABs, then a nonprofit applicant must also submit an accompanying letter of support from the PHA or tribe/TDHE. indicating support for their application. All letters of support must be signed by an authorized representative of the supporting organization and dated within two months of the application deadline published in this NOFA. Please note that in the event that the deadline date changes, the letters may be dated within two months of either the original or the amended deadline date.

(2) Nonprofit applicants that do receive support from RAs must also submit form HUD-52754 “List of Resident Associations Supporting Nonprofit Applicants.” Submitting this form is not applicable where RAs are inactive or where applicants do not submit letters of support from RAs.

(3) In cases where nonprofit organizations are applying to serve tribes/TDHEs, nonprofit applicants must submit letters of support from tribes/TDHEs. Nonprofit organizations must also use form HUD-52754 to list which tribes/TDHEs support their application.

(4) Letters of support from RAs or RABs must describe to what extent they are familiar with the nonprofit applicant and indicate their support and understanding of the nonprofit organization's application. Letters from RAs/RABs must include contact information and the name and title of the person authorized to sign for the organization and should, whenever possible, be on RA/RAB letterhead. If RA/RAB letterhead is not available, the letter may be submitted on PHA letterhead.

(5) Letters of support from civic organizations or units of local government must describe to what extent they are familiar with the nonprofit applicant and which programs the nonprofit applicant has operated or managed in the community that are similar to the applicant's application. Such letters of support must include contact information and the name and title of the person authorized to sign for the organization. The letter should be on organization letterhead.

(6) All nonprofit applicants that do not provide letters of support from RAs or RABs must provide letters of support from PHAs or tribes/TDHEs with jurisdiction over the developments the applicant proposes to serve. Letters from PHAs or tribes/TDHEs must describe the extent to which the nonprofit applicant is familiar with the needs of the community to be served, which programs the nonprofit applicant has operated or managed in the community that are similar to the applicant's proposal, and whether the nonprofit organization has the capacity to implement its proposed program. Letters from PHAs or tribes/TDHEs must also list the names of the developments to be served, certify the number of conventional units occupied by elderly/persons with disabilities in those developments, and identify the ROSS funding category to which the nonprofit organization is applying. PHA or tribe/TDHE letters of support must be signed by the Executive Director, tribal leader, or authorized designee and must be on PHA or tribe/TDHE letterhead. Please see the General Section of the SuperNOFA for instructions for submitting the required letters with your electronic application.

(7) Applications from nonprofit organizations that do not submit the information requested in this section will fail this threshold requirement and will not be considered for funding.

e. Nonprofit status. All nonprofit applicants must submit their IRS determination letter to prove their nonprofit (e.g., 501(c)(3)) status. Applicants that fail to submit this letter will fail this threshold requirement and will not be considered for funding. Please see the General Section of the SuperNOFA for instructions for submitting the required documentation with your electronic application.

f. Minimum Score for All Fundable Applications. Applications that pass all threshold requirements and go through the ranking and rating process must receive a minimum score of 75 in order to be considered for funding.

g. General Section Thresholds. All applicants will be subject to all Thresholds requirements listed in the General Section.

h. The Dun and Bradstreet Universal Numbering System (DUNS) Number Requirement. Refer to the General Section for information regarding the DUNS requirement. You will need to obtain a DUNS number to receive an award from HUD. See the General Section for a discussion of the Grants.gov registration process.

3. Program Requirements

a. Contract Administrator. The contract administrator must assure that the financial management system and procurement procedures that will be in place during the grant term will fully comply with either 24 CFR part 84 or 85, as appropriate. CAs are expressly forbidden from accessing HUD's Line of Credit Control System (LOCCS) and submitting vouchers on behalf of grantees. Contract administrators must also assist grantees to meet HUD's reporting requirements. Contract administrators may be: Local housing agencies; community-based organizations such as community development corporations (CDCs), churches, temples, synagogues, mosques; nonprofit organizations; state/regional associations and organizations. Troubled PHAs are not eligible to be contract administrators. Grant writers who assist applicants to prepare their applications are also ineligible to be contract administrators. Organizations that the applicant proposes to use as the contract administrator must not violate or be in violation of other conflicts of interest as defined in 24 CFR part 84 and 24 CFR part 85.

b. Requirements for All Applicants. All applicants, lead and non-lead, should refer to “Other Requirements and Procedures Applicable to All Programs” of the General Section for requirements pertaining specifically to procurement of recovered materials and for information regarding other requirements to which they may be subject.

4. Number of Applications Permitted. Applicants may desire to provide a broad range of services supported by grants from a number of ROSS funding categories. Applicants may submit more than one application only based on the criteria below:

a. General. Applicants may submit up to one application for each ROSS funding category (i.e., one application for ROSS-Elderly/Persons with Disabilities, one application for ROSS-Family, etc.), except for nonprofits. Nonprofit organizations may submit more than one application per ROSS funding category provided they will be serving residents of distinct PHAs or Tribes/TDHEs.

b. More than one application per development. Only one application per funding category will be funded for a particular development. For example, if multiple applicants apply for ROSS-Elderly/Persons with Disabilities for the same development, only the highest scoring application will be considered for award. If multiple applicants are interested in providing services to a development and the services are funded under the same ROSS funding category, it is suggested the applicants work together to submit one application on behalf of the development.

c. Joint applications. Two or more applicants may join together to submit a joint application for proposed grant activities. Joint applications must designate a lead applicant. The lead applicant must be registered with Grants.gov and submit the application using the Grants.gov portal. Lead applicants are subject to all threshold requirements. Non-lead applicants are subject to the following threshold requirements as applicable:

(1) Letters of support for nonprofit applicants;

(2) Evidence of nonprofit status as outlined under the section covering threshold requirements; and

(3) Threshold requirements outlined in Section III. C. of the General Section. Joint applications may include PHAs, RAs, Tribes/TDHEs, and nonprofit organizations on behalf of resident organizations. Joint applications involving nonprofit organizations must also provide evidence of resident support (the RA) or, if the RA is inactive, the RAB. (If the support letter is from the RAB, the applicant must also provide a support letter from the PHAs or tribes/TDHEs.) The PHA, tribe/TDHE, or RA that are part of a joint application may not also submit separate applications as sole applicants under this NOFA.

Note: The number of conventional public housing units occupied by the elderly/disabled of the lead applicant will determine the funding amount category for which the applicants are eligible.

5. Eligible Participants. All ROSS-Elderly/Persons with Disabilities program participants must be residents of conventional public housing or NAHASDA-assisted housing and must be elderly or disabled. See the Definitions Section for more information.

6. Eligible Developments. Only conventional public and Indian housing developments or NAHASDA-assisted housing may be served by ROSS grant funds. Other housing/developments, including but not limited to private housing, federally insured housing, federally subsidized or assisted (i.e., assisted under Section 8, Section 202, Section 811, or Section 236), and others are not eligible to participate in ROSS.

7. Energy Star. HUD has adopted a wide-ranging energy action plan for improving energy efficiency in all program areas. As a first step toward implementing the energy plan, HUD, the Environmental Protection Agency (EPA) and the Department of Energy (DoE) have signed a joint partnership to promote energy efficiency in HUD's affordable housing efforts and programs. The purpose of the Energy Star partnership is to promote energy efficiency in the affordable housing stock, and also to help protect the environment. Applicants providing housing assistance or counseling services are encouraged to promote Energy Star materials and practices, as well as buildings constructed to Energy Star standards, to both homebuyers and renters. Program activities can include developing Energy Star promotional and information materials, outreach to low- and moderate-income renters and buyers on the benefits and savings when using Energy Star products and appliances, and promoting the designation of community buildings and homes as Energy Star compliant. For further information about Energy Star, see http://www.energystar.gov or call 888-STAR-YES (888-782-7937) or for the hearing-impaired, 888-588-9920 (TTY).

IV. Application and Submission Information

A. Application Components

Copies of the published NOFAs and application forms for HUD programs announced through NOFA may be downloaded from the grants.gov Web site at http://www.grants.gov/Find; if you have difficulty accessing the information you may receive customer support from Grants.gov by calling their Support Desk at (800) 518-GRANTS, or sending an e-mail to support@grants.gov. You may request general information from the NOFA Information Center (800-HUD-8929) or 800-HUD-2209 (TTY) between the hours of 10 a.m. and 6:30 p.m. (eastern time) Monday through Friday, except on federal holidays. When requesting information, please refer to the name of the program you are interested in. The NOFA Information Center opens for business simultaneously with the publication of the SuperNOFA. You can also obtain information on this NOFA from HUD's Web site at http://www.hud.gov/offices/adm/grants/fundsavail.cfm. Applicants should make sure to include all requested information, according to the instructions found in this NOFA and where applicable, in the General Section. This will help ensure a fair and accurate review of your application.

B. Content and Form of Application Submission

1. Application Format Information for All Applicants. Before preparing an application for any ROSS funding, applicants should carefully review the program description, ineligible activities, program and threshold requirements, and the General Section. Applicants should also review each rating factor found in the “Application Review Information” section before writing a narrative response. Applicants' narratives should be as descriptive as possible, ensuring that every requested item is addressed. Applicants should make sure to include all requested information, according to the instructions found in this NOFA and where applicable, in the General Section. This will help ensure a fair and accurate review of your application.

2. Content and Format for Submission

a. Content of Application. Applicants must write narrative responses to each of the rating factors, which follow this section. Under some Sections, applicants are also asked to complete and include provided forms. Applicants will be evaluated on whether their responses contained in the narratives and on the forms demonstrate that they have the necessary capacity to successfully manage the proposed program. Applicants should ensure that their narratives are written clearly and concisely so that reviewers, who may not be HUD staff, may fully understand their proposal. Also, if information provided on one of the grant forms is not self-explanatory, narrative should be provided to clarify.

b. Format of Application. (1) Applications may not exceed 35 narrative pages. Narrative pages must be typed, double-spaced, numbered, use Times New Roman font style, font size 12, and 1″ margins. Supporting documentation, required forms, and certifications will not be counted toward the 35 narrative page limit. However, applicants should make every effort to submit only what is necessary in terms of supporting documentation. Please see the General Section for instructions on how to submit supporting documentation with your electronic application.

(2) A checklist is provided to help applicants ensure that they submit all required forms and information is provided here. Applicants are not required to submit the checklist but should review it to ensure that they have submitted a complete application. (Note: Applicants who receive a waiver to submit paper applications must submit their applications in a three-ring binder, with TABS dividing the sections as indicated below. When submitting electronically, you do not need to submit these in TABS. Be sure to name each attachment clearly.) Copies of the forms may be downloaded with the application package and instructions from www.Grants.gov/Apply of from the following Web site: http://www.hud.gov/offices/adm/grants/nofa06/snofaforms.cfm.

TAB 1: Required Forms from the General Section and other ROSS forms:

1. Acknowledgement of Application Receipt (HUD-2993), for paper application submissions only

2. Application for Federal Financial Assistance (SF-424);

3. SF-424 Supplement, Survey on Ensuring Equal Opportunity for Applicants;

4. Questionnaire for HUD's Initiative on Removal of Regulatory Barriers (HUD-27300);

5. ROSS Fact Sheet (3 pages) (HUD-52751);

6. Grant Application Detailed Budget (HUD-424-CB);

7. Grant Application Detailed Budget Worksheet (HUD-424-CBW);

8. Applicant/Recipient Disclosure/Update Report (HUD-2880);

9. Certification of Consistency with RC/EZ/EC-II Strategic Plan (HUD-2990) if applicable;

10. Certification of Consistency with the Consolidated Plan (HUD-2991) if applicable;

11. Certification of Consistency with the Indian Housing Plan if applicable (HUD-52752);

12. Certification of Resident Council Board of Election (not required for tribes/nonprofit organizations working on behalf of tribes) (HUD-52753);

13. Disclosure of Lobbying Activities (SF-LLL), if applicable;

14. Disclosure of Lobbying Activities Continuation Sheet (SF-LLL-A), if applicable;

15. You Are Our Client Grant Applicant Survey (HUD-2994-A) (optional)

16. Facsimile Transmittal Sheet (HUD-96011). (For use with electronic applications as the cover page to provide third party documentation.)

TAB 2: Threshold Requirements:

1. Letters from partners attesting to match;

2. Letter from applicant's organization attesting to match (if applicant is contributing to match);

3. Letters of support from RAs/PHAs/tribes/TDHEs/Resident Advisory Boards (Threshold requirement for all nonprofit applicants);

4. List of Resident Organizations Supporting Nonprofit Applicants (required for nonprofit applicants but not applicable to applications from tribes/TDHEs) (HUD-52754);

5. IRS nonprofit determination letter proving 501(c)(3) status (Threshold requirement for all nonprofit applicants); and

6. Contract Administrator Partnership Agreement (required for nonprofit organizations, RAs, and PHAs troubled at the time of application submission) (HUD-52755).

TAB 3: Narrative for Rating Factor 1 and ROSS Program Forms

1. Narrative for Rating Factor 1;

2. Chart A: Program Staffing (HUD-52756);

3. Chart B: Applicant/Contract Administrator Track Record (HUD-52757);

4. Resumes/Position Descriptions.

TAB 4: Narrative for Rating Factor 2.

TAB 5: Narrative and work plan for Rating Factor 3. See Sample ROSS Work Plan (HUD-52764).

TAB 6: Narrative for Rating Factor 4.

TAB 7: Narrative for Rating Factor 5 and ROSS Program Forms

1. Narrative;

2. Logic Model (HUD-96010);

C. Submission Dates and Times

1. Due Dates.

a. The application must be received and validated by Grants.gov no later than 11:59:59 p.m. eastern time on July 13, 2006. See the General Section for instructions for requesting a waiver of the electronic application submission requirement. If you receive a waiver of the electronic application submission, your application must be received by the application deadline date. See the General Section for waiver and mailing requirements.

D. Intergovernmental Review

Not applicable.

E. Funding Restrictions

1. Reimbursement for Grant Application Costs. Grantees are prohibited from using ROSS grant funds to reimburse any costs incurred in conjunction with preparation of their ROSS grant application.

2. Covered Salaries. Applicable to all applicants:

a. Types of Salaries. ROSS-Elderly/Persons with Disabilities funds may only be used for the types of salaries described in this section according to the restrictions described herein.

b. Project Coordinator. All applicants may propose to hire a qualified Project Coordinator to run the grant program. The ROSS-Elderly/Persons with Disabilities program will fund up to $50,000 in combined annual salary and fringe benefits for a full-time Project Coordinator. Applicants may propose a part-time Project Coordinator at a lesser salary. However, the difference in salary may not be transferred to the funds for services. For audit purposes, applicants must have documentation on file demonstrating that the salary and fringe benefits of the Project Coordinator are comparable to similar professions in their local area.

c. ROSS funds may only be used to pay for salaries of staff that provide direct services to residents. Direct services staff, for purposes of this NOFA, are defined as applicant personnel or subcontractors who, as their primary responsibility, provide services directly to residents that participate in the activities described in this application (e.g., case managers, and wellness program staff, among other positions.) ROSS funds may not be used to pay for salaries for any other kind of staff.

3. Administrative Costs. Administrative costs may include, but are not limited to, purchase of furniture, office equipment and supplies, local travel, utilities, printing, postage and lease or rental of space for program activities (subject to lease restrictions—See Eligible Activities section of this NOFA). Administrative costs may not be used to pay for salaries or benefits of any kind. Administrative costs must not exceed 10 percent of the total grant amount requested from HUD. Administrative costs must adhere to OMB Circular A-87 or A-122 as appropriate. Please use HUD-424-CBW to itemize your administrative costs.

4. Funding Requests in Excess of Maximum Grant Amount. Applicants that request funding in excess of the maximum grant amount which they are eligible to receive will be given consideration only for the maximum grant for which they are eligible. If awarded a grant, the grantee will work with the Field Office to re-apportion the grant funds for eligible activities.

5. Ineligible Activities/Costs. Grant funds may not be used for ineligible activities. Match will not be counted if it is proposed to be used for ineligible activities. Two points will be deducted for each ineligible activity proposed in the application. For example, you will lose 2 points if you propose costs that exceed the limits identified in the NOFA for a Project Coordinator; or you will lose 2 points if you propose paying for salaries for staff that are not direct services staff. The following are ineligible activities/costs:

a. Payment of wages and/or salaries to participants for receiving supportive services and/or training programs;

b. Purchase, lease, or rental of land;

c. Purchase of space;

d. New construction, costs for construction materials;

e. Rehabilitation or physical improvements;

f. Entertainment costs;

h. Payment of wages and/or salaries to doctors, nurses or other staff (including health aids or companions) in relation to medical services provided to residents;

i. Purchase of non-prescription or prescription medications;

j. Costs, which exceed limits, identified in the NOFA for the following: Project Coordinator, administrative expenses, and long distance travel;

k. Cost of application preparation;

l. Vehicle insurance and/or maintenance;

m. Salaries for staff that are not direct services staff. Direct services staff, for purposes of this NOFA, are defined as applicant personnel or their subcontractors who, as their primary responsibility, provide services directly to residents that participate in the activities described in this application (e.g., case managers, and wellness program staff, among other positions).

6. ROSS funds cannot be used to hire or pay for the services (salary, fringe benefits, etc.) of a Contract Administrator.

7. Other Budgetary Restrictions. Some long distance travel may be necessary during the term of the grant in order for professional grant staff to attend training conferences for ROSS grantees Long distance travel costs for grant program staff may not exceed $5,000 for the life of the grant and must receive prior approval from the grantee's local HUD field office or area ONAP.

F. Other Submission Requirements

1. All applicants are required to submit their applications electronically via Grants.gov, unless they request and are approved by HUD for a waiver of that requirement. Please refer to the General Section for information on how to submit your application and all attachments electronically via Grants.gov.

2. Proof of Timely Submission. Please see the General Section for this information. Applicants that fail to meet the deadline for application receipt will not receive funding consideration.

3. For Waiver Recipients Only. Applicants who have received waivers to submit paper applications (see the General Section for more information), must submit their applications to: HUD Grants Management Center, Mail Stop: ROSS-Elderly/Persons with Disabilities, 501 School Street, SW., 8th floor, Washington, DC 20024. The waiver approval will provide detailed instructions.

4. Number of Copies. Only applicants receiving a waiver to the electronic submission requirement may submit a paper copy application. Paper applications must be submitted in triplicate (one original and two identical copies). For all applicants with a waiver (including tribal and TDHE applicants), the original and one identical copy must be sent to the Grants Management Center and an identical copy must be sent to your local Field Office or Area ONAP in accordance with the submission and timely receipt requirements described in the General Section.

V. Application Review Information

A. Criteria

1. Factors for Award Used to Evaluate and Rate Applications to the ROSS program. The factors for rating and ranking applications and maximum points for each factor are provided below. The maximum number of points available for this program is 102. This includes two RC/EZ/EC-II bonus points. The SuperNOFA contains a certification that must be completed in order for the applicant to be considered for the RC/EZ/EC-II bonus points. A listing of federally designated RCs, EZs, and EC-IIs, is available at http://www.hud.gov/offices/adm/grants/fundsavail.cfm. The agency certifying to RC/EZ/EC-II status must be contained in the listing of RC/EZ/EC-II organizations on HUD's Web site at: http://www.hud.gov/offices/adm/grants/fundsavail.cfm.

Note: Applicants should carefully review each rating factor before writing a response and completing forms. Applicants' narratives and forms should be as descriptive as possible, ensuring that every requested item is addressed. Applicants should make sure their narratives and forms thoroughly address the Rating Factors below. Applicants should include all requested information according to the instructions found in this NOFA. This will help ensure a fair and accurate application review.

a. Rating Factor 1: Capacity of the Applicant and Relevant Organizational Staff (25 Points)

This factor addresses whether the applicant has the organizational resources necessary to successfully implement the proposed activities within the grant period. In rating this factor HUD will consider the extent to which the proposal demonstrates that the applicant will have qualified and experienced staff dedicated to administering the program.

(1) Proposed Program Staffing (7 Points).

(a) Staff Experience (4 Points). The knowledge and experience of the proposed Project Coordinator, staff, and partners in planning and managing programs for which funding is being requested. Experience will be judged in terms of recent, relevant, and successful experience of proposed staff to undertake eligible program activities. In rating this factor, HUD will consider experience within the last 5 years to be recent; experience pertaining to the specific activities being proposed to be relevant; and experience producing specific accomplishments to be successful. The more recent the experience and the more experience proposed staff members who work on the project have in successfully conducting and completing similar activities, the greater the number of points applicants will receive for this rating factor. The following information should be provided in order to provide HUD an understanding of proposed staff's experience and capacity:

(i) The number of staff years (one staff year = 2080 hours) to be allocated to the proposed program by each employee or expert as well as each of their roles in the program;

(ii) The staff's relevant educational background and/or work experience; and

(iii) Relevant and successful experience running programs whose activities are similar to the eligible program activities described in the grant application.

(b) Organizational Capacity (3 Points). Applicants will be evaluated based on whether they or their partners have sufficient qualified personnel to deliver the proposed activities in a timely and effective fashion. In order to enhance or supplement capacity, applicants should provide evidence of partnerships with nonprofit organizations or other organizations that have experience providing supportive services to typically underserved populations. Applicants' narratives must describe their ability to immediately begin the proposed work program. Provide resumes and position descriptions (where staff is not yet hired) for all key personnel. (Resumes/position descriptions do not count toward the 35-page limit.)

(2) Past Performance of Applicant/Contract Administrator (6 Points).

(a) Applicants' past experience may include, but is not limited to, running and managing programs aimed at improving living conditions for the targeted elderly/persons with disabilities population. Improved living conditions may mean, but is not limited to, aging-in-place or assistance to live independently.

(b) Applicants' narrative must indicate past grants they received and managed, the grant amounts, and grant terms (years) of the grants, which they are counting toward past experience.

(c) Applicants' narrative must describe how they (or their Contract Administrator) successfully implemented past grant programs designed to assist elderly/persons with disabilities meet their daily living needs and enhance their access to needed services so they can continue to reside comfortably and productively in their current living environment.

(d) Applicants will be evaluated according to the following criteria:

(i) Achievement of specific measurable outcomes and objectives in terms of benefits gained by participating residents. Applicants should describe results their programs have obtained, such as Impact on emergency care, improved health conditions of assisted population, and access to greater number of social services.

(ii) Description of success in attracting and keeping residents involved in past grant-funded training programs. HUD wants to see that applicants' grant-funded programs benefited significant numbers of residents;

(iii) Description of timely expenditure of program funding throughout the term of past grants. Timely means drawdowns made commensurate with the level of activities completed and per the approved application. Timely expenditure also refers to fully expending all grant funds by the end of the grant term;

(iv) Description of Past Leveraging. Applicants must describe how they have created leveraging partnerships for funding or in-kind services for previous projects, the extent of the leveraging partnerships, and how the leveraging and partnerships benefited participants..

(3) Program Administration and Fiscal Management (12 Points).

(a) Program Administration and Accountability (6 Points). Applicants should describe how they will manage the program; how HUD can be sure that there is program accountability; and provide a description of proposed staff's roles and responsibilities. Applicants should also describe how grant staff and partners will report to the Project Coordinator and other senior staff.

(b) Fiscal Management (6 Points). In rating this sub-factor, applicants' skills and experience in fiscal management will be evaluated. If applicants have had any audit or material weakness findings in the past five years, they will be evaluated on how well they have addressed them. Applicants must provide the following:

(i) A complete description of their fiscal management structure, including fiscal controls currently in place including those of a Contract Administrator for applicants required to have a Contract Administrator (i.e., troubled PHAs, resident associations, and nonprofit applicants);

(ii) Applicants must list any audit findings in the past five years (HUD Inspector General, management review, fiscal, etc.), material weaknesses, and what has been done to address them;

(iii) For applicants who are required to have a Contract Administrator, describe the skills and experience the Contract Administrator has in managing federal funds.

b. Rating Factor 2: Need/Extent of the Problem (20 Points)

This factor addresses the extent to which there is a need for funding the proposed program. In responding to this factor, applicants will be evaluated on the extent to which they describe and document the level of need for their proposed activities and the urgency for meeting the need.

(1) Socioeconomic Profile (5 points). A thorough socioeconomic profile of the eligible residents to be served by the program, including education levels, income levels, health statistics, economic statistics for the local area, etc.

(2) Demonstrated Link Between Proposed Activities and Local Need (15 points). Applicants' narrative must demonstrate a clear relationship between proposed activities, community needs and the purpose of the program funding in order for points to be awarded for this factor. Grant awards must be used in two ways: One portion for the salaries and fringe benefits of a Project Coordinator; and one portion for direct delivery of high priority supportive services to the targeted elderly/disabled resident population. As indicated in the chart at the beginning of the NOFA, applicants must not propose to use more than the specified amount of funds for delivery of services. Accordingly, the applicant must, in the narrative for this rating factor, describe the service needs of the targeted residents, show which service needs are already being met by local resources and which service needs the applicant is unable to meet using existing resources, and demonstrate that these services are of a high priority for the targeted elderly/disabled residents and that another funding source is not available, thereby meriting funding under this program. The applicant may also indicate a need for a Project Coordinator, which it may pay up to the $50,000 maximum per year from grant funds for salary and fringe in accordance with local wage standards (see Funding Restrictions).

c. Rating Factor 3: Soundness of Approach (30 Points)

This sub-factor addresses both the quality and cost-effectiveness of applicants' proposed program and/or work plan. The narrative and work plan must indicate a clear relationship between proposed activities, the targeted population's needs, and the purpose of the program funding. Applicants' proposed program must address HUD's policy priorities outlined in this Rating Factor.

In rating this factor HUD will consider:

(1) Quality of the Work Plan (20 points). This factor evaluates both the applicant's proposed program and/or work plan and budget, which will be evaluated based on the following criteria:

(a) Specific Services and/or Activities (10 points). Applicants' narrative must describe the proposed program (i.e., specific services, course curriculum, and activities) they plan to offer and who will be responsible for each. In addition to the narrative, applicants may also provide a work plan, which should list the specific services, activities, and outcomes they expect. The proposed program narrative and work plan must show a logical order of activities and must tie to the outcomes and outputs applicants identify in the Logic Model (see Rating Factor 5). Applicants' narrative must explain how their proposed activities will:

(i) Involve community partners in the delivery of services (5 points);

(ii) Offer comprehensive services (versus a small range of services) geared toward achieving the enhancement of the residents' quality of life. If the proposed program activities are part of a more comprehensive plan funded through other resources, please provide a description of the comprehensive program clearly delineating those proposed activities to be funded by the ROSS-Elderly/Persons with Disabilities grant category (5 points).

(b) Feasibility and Demonstrable Benefits (5 points). This subfactor examines whether applicants' work plan is logical, feasible and likely to achieve its stated purpose during the term of the grant. HUD's desire is to fund applications that will quickly produce demonstrable results and advance the purposes of the ROSS program.

(i) Timeliness. This subfactor evaluates whether applicants' work plan demonstrates that their project is ready to be implemented shortly after grant award, but not to exceed three months following the execution of the grant agreement. The work plan must indicate time frames and deadlines for accomplishing major activities.

(ii) Description of the problem and solution. The work plan will be evaluated based on how well applicants' proposed activities address the needs described in Rating Factor 2.

(c) Budget Appropriateness/Efficient Use of Grant (5 Points). The score in this sub-factor will be based on the following:

(i) Justification of expenses. Applicants will be evaluated based on whether their expenses are reasonable and thoroughly explained and support the objectives of their proposal.

(ii) Budget Efficiency. Applicants will be evaluated based on whether their application requests funds commensurate with the level of effort necessary to accomplish their goals and anticipated results.

(iii) Timeliness. This sub-factor evaluates whether applicants' proposed program timeline and/or work plan demonstrates that their proposal is ready to be implemented within three months following the execution of the grant agreement. The proposed program narrative and work plan must indicate time frames and deadlines for accomplishing major activities.

(d) Ineligible Activities. Two points will be deducted for each ineligible activity proposed in the application, as identified in Section IV(E). For example, you will lose 2 points if you propose costs that exceed the limits identified in the NOFA for a Project Coordinator; or you will lose 2 points if you propose paying for salaries for staff that are not direct services staff.

(2) Addressing HUD's Policy Priorities (8 points). HUD wants to improve the quality of life for those living in distressed communities. HUD's grant programs are a vehicle through which long-term, positive change can be achieved at the community level. Applicants' narrative and work plan will be evaluated based on how well they meet HUD's policy priorities listed below.

(a) Improving the Quality of Life in Our Nation's Communities (2 points). The applicants' narrative and work plan must indicate the types of activities, service, and training programs applicants will offer which can help residents to continue to live independently.

(b) Providing Full and Equal Access to Grassroots Faith-Based and Other Community-Based Organizations in HUD Program Implementation (4 points). HUD encourages applicants to partner with grassroots organizations, e.g., civic organizations, grassroots faith-based and other community-based organizations that are not usually effectively utilized. These grassroots organizations have a strong history of providing vital community services and other supportive services. In order to receive points under this sub-factor, applicants' narrative and work plan must describe how applicants will work with these organizations and what types of services they will provide.

(c) Policy Priority for Increasing the Supply of Affordable Housing Through the Removal of Regulatory Barriers to Affordable Housing (up to 2 points). Under this policy priority, higher rating points are available to (1) governmental applicants that are able to demonstrate successful efforts in removing regulatory barriers to affordable housing, and (2) nongovernmental applicants that are associated with jurisdictions that have undertaken successful efforts in removing barriers. For applicants to obtain the policy priority points for efforts to successfully remove regulatory barriers, applicants must complete form HUD 27300, “Questionnaire for HUD's Initiative on Removal of Regulatory Barriers.” A copy of HUD's Notice entitled “America's Affordable Communities Initiative, HUD's Initiative on Removal of Regulatory Barriers: Announcement of Incentive Criteria on Barrier Removal in HUD's 2004 Competitive Funding Allocations” can be found on HUD's Web site at http://www.hud.gov/grants/index.cfm. The information and requirements contained in HUD's regulatory barriers policy priority apply to this FY 2006 NOFA. A description of the policy priority and a copy of form HUD-27300 can be found in the application package posted on http://www.Grants.gov. Applicants are encouraged to read the Notice as well as the General Section to obtain an understanding of this policy priority and how it can impact their score. A limited number of questions expressly request the applicant to provide brief documentation with their response. Other questions require that for each affirmative statement made, the applicant must supply a reference, URL, or a brief statement indicating where the back-up information may be found, and a point of contact, including a telephone number and/or e-mail address. The electronic copy of the HUD 27300 has space to identify a URL or reference that the material is being scanned and attached to the application as part of the submission or faxed to HUD following the facsimile submission instructions.

(3) Economic Opportunities for Low- and Very Low-Income Persons (Section 3) (2 Points).

You will receive 2 points if your application demonstrates that you will implement Section 3 of the Housing and Urban Development Act of 1968 (12 U.S.C. 1701u) (Economic Opportunities for Low- and Very Low-Income Persons in Connection with assisted Projects) and its implementing regulations at 24 CFR part 135 in connection with this grant, if awarded. Information about Section 3 can be found at HUD's Section 3 Web site at http://www.hud.gov/fhe/sec3over.html. Your application must describe how you will implement Section 3 through the proposed grant activities. You must state that you will, to the greatest extent feasible, direct training, employment, and other economic opportunities to:

(a) Low- and very low-income persons, particularly those who are recipients of government assistance for housing, and

(b) Business concerns which provide economic opportunities to low- and very low-income persons.

d. Rating Factor 4: Leveraging Resources (10 Points)

This factor addresses the applicant's ability to secure community resources that can be combined with HUD's grant resources to achieve program purposes. Applicants are required to create partnerships with organizations that can help achieve their program's goals. PHAs are required by section 12(d)(7) of the U.S. Housing Act of 1937 entitled “Cooperation Agreements for Economic Self-Sufficiency Activities” to make best efforts to enter into such agreements with relevant state or local agencies. Additionally, applicants must have at least a 25 percent cash or in-kind match. The match is a threshold requirement. Joint applicants must together have at least a 25 percent match. Leveraging in excess of the 25 percent of the grant amount will receive a higher point value. In evaluating this factor HUD will consider the extent to which applicants have partnered with other entities to secure additional resources, which will increase the effectiveness of the proposed program activities. The additional resources and services must be firmly committed, must support the proposed grant activities and must, in combined amount (including in-kind contributions of personnel, space and/or equipment, and monetary contributions) equal at least 25 percent of the grant amount requested in this application. Match will not be accepted if it is proposed to be used for ineligible activities. Please see the section on Threshold Requirements in this NOFA for more information.

Points for this factor will be awarded based on the documented evidence of partnerships and firm commitments and the ratio of requested ROSS funds to the total proposed grant budget.

Points will be assigned based on the following scale:

Percentage of Match Points Awarded

25—4 points (with partnerships) 2 points (without partnerships);

26-50—6 points (with partnerships) 4 points (without partnerships);

51-75—8 points (with partnerships) 6 points (without partnerships);

76 or above—10 points (with partnerships) 8 points (without partnerships).

e. Rating Factor 5: Achieving Results and Program Evaluation (15 Points)

(1) An important element in this year's NOFA is the development and reporting of performance measures and outcomes. This factor emphasizes HUD's determination to ensure that applicants meet commitments made in their applications and grant agreements and that they assess their performance so that they realize performance goals. Applicants must demonstrate how they propose to measure their success and outcomes as they relate to the Department's Strategic Plan.

(2) HUD requires ROSS applicants to develop an effective, quantifiable, outcome-oriented plan for measuring performance and determining that goals have been met. Applicants must use the Logic Model form HUD-96010 for this purpose.

(3) Applicants must establish interim benchmarks, or outputs, for their proposed program that lead to the ultimate achievement of outcomes. “Outputs” are the direct products of a program's activities. Outputs should produce outcomes for your program. Examples of outputs are the number of elderly persons referred to for social or health care services, the number of persons equipped with emergency response resources, etc. “Outcomes” are benefits accruing to the residents, families and/or communities during or after participation in the ROSS program. Applicants must clearly identify the outcomes to be achieved and measured. Outcomes are not the development or delivery of services or program activities but the results of the services delivered or program activities—the ultimate results of the program. Examples of outcomes are: The number of persons able to live independently and have avoided long term care placement, the number of persons that have had improved living conditions or quality of life as a result of receiving increased social services, etc.

(4) This rating factor requires that applicants identify program outputs, outcomes, and performance indicators that will allow applicants to measure their performance. Performance indicators should be objectively quantifiable and measure actual achievements against anticipated achievements. Applicants' narrative, work plan, and Logic Model should identify what applicants are going to measure, how they are going to measure it, and the steps they have in place to make adjustments to their work plan and management practices if performance targets begin to fall short of established benchmarks and time frames. Applicants' proposal must also show how they will measure the performance of partners and affiliates. Applicants must include the standards, data sources, and measurement methods they will use to measure performance.

Applicants will be evaluated based on how comprehensively they propose to measure their program's outcomes.

B. Review and Selection Process

1. Review Process. Four types of reviews will be conducted: a screening to determine if you are eligible to apply for funding under the ROSS-Elderly/Persons with Disabilities grant; a review of whether your application submission is complete, on time and meets threshold; a review by the field office (or area ONAP office) to evaluate past performance; and a technical review to rate your application based on the five rating factors provided in this NOFA.

2. Selection Process for All Grant Categories and All Applicants. Twenty-five percent (25%) of funds will be set aside for Resident Associations and all qualifying Resident Association applications will be funded first, up to 25% of the funding amount. The selection process is designed to achieve geographic diversity of grant awards throughout the country. For each grant category, HUD will first select the highest ranked application from each of the ten federal regions and DPONAP for funding. After this “round,” HUD will select the second highest ranked application in each of the ten federal regions and DPONAP for funding (the second round). HUD will continue this process with the third, fourth, and so on, highest ranked applications in each federal region and DPONAP until the last complete round is selected for funding. If available funds exist to fund some but not all eligible applications in the next round, HUD will make awards to those remaining applications in rank order (by score) regardless of region and DPONAP and will fully fund as many as possible with remaining funds. If remaining funds in one program are too small to make an award, they may be transferred to another ROSS program.

3. Tie Scores. In the event of a tie score between two applications in the ROSS-Elderly/Persons with Disabilities funding category which target the same developments, HUD will select the application that was received first.

4. Deficiency Period. Applicants will have 14 calendar days in which to provide missing information requested from HUD. For other information on correcting deficient applications, please see the General Section.

VI. Award Administration Information

A. Award Notices

HUD will make announcements of grant awards after the rating and ranking process is completed. Grantees will be notified by letter and will receive instructions on what steps they must take in order to access funding and begin implementing grant activities. Applicants who are not funded will also receive letters via U.S. postal mail.

B. Debriefings

Applicants who are not funded may request a debriefing. Applicants requesting to be debriefed must send a written request to: Iredia Hutchinson, Director, Grants Management Center, 501 School Street, SW., Suite 800, Washington, DC 20024.

C. Administrative and National Policy Requirements

1. Environmental Impact. In accordance with 24 CFR 58.34(a)(3) or (a)(9), 58.35(b)(2), (b)(4) or (b)(5), 50.19(b)(3), (b)(9), (b)(12), (b)(14), or (b)(15), activities under this ROSS program are categorically excluded from the requirements of the National Environmental Policy Act of 1969 and are not subject to environmental review under related laws and authorities.

2. Applicable Requirements. Unless specifically enumerated in this NOFA, all lead and non-lead applicants are subject to the requirements specified in Section III.C. of the General Section. Grantees are subject to regulations and other requirements found in:

a. 24 CFR Part 84 “Uniform Administrative Requirements for Grants and Agreements with Institutions of Higher Education, Hospitals, and Other Nonprofit Organizations”;

b. 24 CFR Part 85 “Administrative Requirements for Grants and Cooperative Agreements to State, Local, and Federally Recognized Indian Tribal Governments”;

c. 24 CFR Part 964 “Tenant Participation and Tenant Opportunities in Public Housing”;

d. OMB Circular A-87 “Cost Principles for State, Local, and Indian Tribal Governments”;

e. OMB Circular A-110, “Uniform Administrative Requirements for Grants and Other Agreements with Institutions of Higher Education, Hospitals and Other Non-Profit Organizations”;

f. OMB Circular A-122, “Cost Principles for Non-Profit Organizations”; and

g. OMB Circular A-133, “Audits of States, Local Governments, and Non-Profit Organizations”.

3. Economic Opportunities for Low- and Very Low-Income Persons (Section 3). Applicants and grantees must also comply with Section 3 of the Housing and Urban Development Act of 1968, 12 U.S.C. 1701u and ensure that training, employment, and other economic opportunities shall, to the greatest extent feasible, be directed toward low- and very low-income persons, particularly those who are recipients of government assistance for housing, and to business concerns which provide economic opportunities to low- and very low-income persons.

4. Fair Housing and Civil Rights Laws. Applicants and their subrecipients must comply with all Fair Housing and Civil Rights laws, statutes, regulations, and Executive Orders as enumerated in 24 CFR 5.105(a), as applicable. Please see the General Section for more information.

D. Reporting

1. Semi-Annual Performance Reports. Grantees must submit semi-annual performance reports to the field office or area ONAP. These progress reports must include financial reports (SF-269A), a Logic Model (HUD-96010) showing achievements to date against outputs and outcomes proposed in the application and approved by HUD, and a narrative describing milestones, program and/or work plan progress, and problems encountered and methods used to address the problems. Grantees must use quantifiable data to measure performance against goals and objectives outlined in their program and/or work plan. Applicants that receive awards from HUD should be prepared to report on additional measures that HUD may designate at time of award. Performance reports are due to the field office or Area ONAP on July 30 and January 31 of each year. If reports are not received by the due date, grant funds will be suspended until reports are received. For FY2006, HUD is considering a new concept for the Logic Model. The new concept is a Return on Investment (ROI) statement. HUD will be publishing a separate notice on the ROI concept.

2. Final Report. All grantees must submit a final report to their local field office or area ONAP that will include a financial report (SF-269A), a final Logic Model, and a narrative evaluating overall results achieved against their program and/or work plan. Grantees must use quantifiable data to measure performance against goals and objectives outlined in their program and/or work plan. The financial report must contain a summary of all expenditures made from the beginning of the grant agreement to the end of the grant agreement and must include any unexpended balances. The final narrative, Logic Model, and financial report are due to the field office 90 days after the termination of the grant agreement.

3. Final Audit. Grantees that expend $500,000 in federal funds in a given program or fiscal year are required to obtain a complete final close-out audit of the grant's financial statements by a Certified Public Accountant (CPA), in accordance with generally accepted government audit standards. A written report of the audit must be forwarded to HUD within 60 days of issuance. Grant recipients must comply with the requirements of 24 CFR part 84 or 24 CFR part 85 as stated in OMB Circulars A-87, A-110, and A-122, as applicable.

4. Racial and Ethnic Data. HUD requires that funded recipients collect racial and ethnic beneficiary data. HUD has adopted the Office of Management and Budget's Standards for the Collection of Racial and Ethnic Data. In view of these requirements, applicants should use form HUD-27061, Racial and Ethnic Data Reporting Form.

VII. Agency Contact(s)

For questions and technical assistance, you may call the Public and Indian Housing Information and Resource Center at 800-955-2232. For persons with hearing or speech impairments, please call the toll-free Federal Relay Service at 800-877-8339. In the case of tribes/TDHEs, please contact HQONAP at 800-561-5913 or (303) 675-1600 (this is not a toll-free number).

VIII. Other Information

A. Code of Conduct. Please see the General Section for more information.

B. Transfer of Funds. If transfer of funds from any of the ROSS programs does become necessary, HUD will consider the amount of un-funded qualified applications in deciding to which program the extra funds will be transferred.

C. Paperwork Reduction Act. The information collection requirements contained in this document have been approved by the Office of Management and Budget (OMB) under the Paperwork Reduction Act of 1995 (44 U.S.C. 3501-3520) and assigned OMB control number 2577-0229. In accordance with the Paperwork Reduction Act, HUD may not conduct or sponsor, and a person is not required to respond to, a collection of information unless the collection displays a currently valid OMB control number. Public reporting burden for the collection of information is estimated to average 49.5 hours per respondent for the application. This includes the time for collecting, reviewing, and reporting the data for the application. The information will be used for grantee selection and monitoring the administration of funds. Response to this request for information is required in order to receive the benefits to be derived.

BILLING CODE 4210-01-P

Resident Opportunity and Self-Sufficiency (ROSS) Family and Homeownership Program

Overview Information

A. Federal Agency Name: Department of Housing and Urban Development, Office of Public and Indian Housing.

B. Funding Opportunity Title: ROSS Family and Homeownership, under the Resident Opportunity and Self-Sufficiency (ROSS) program.

C. Announcement Type: Initial announcement.

D. Funding Opportunity Number: The Federal Register number is FR-5030-N-31. The OMB approval number is 2577-0229.

E. Catalog of Federal Domestic Assistance (CFDA) Number(s): Resident Opportunity and Self Sufficiency, 14.870.

F. Dates: The application deadline date is August 8, 2006. Applications submitted through http://www.grants.gov must be received and validated by grants.gov no later than 11:59:59 Eastern time on the application deadline date.

G. Additional Overview Content Information:

1. Purpose of Program

The purpose of the Public and Indian Housing Resident Opportunity and Self Sufficiency (ROSS) program is to provide grants to public housing agencies (PHAs), tribes/tribally designated housing entities (TDHEs), Resident Associations (RAs), and nonprofit organizations, including grassroots, faith-based and other community-based organizations for the delivery and coordination of supportive services and other activities designed to help public and Indian housing residents attain economic and housing self-sufficiency.

2. Funding Available

A total of approximately $18 million is available for ROSS in fiscal year 2006.

3. Award Amounts

Awards, depending on the unit count and type of grantee, will range from $100,000 to $600,000. Please see the program description for more specific information about funding amounts.

4. Eligible Applicants

Eligible applicants are PHAs; tribes/TDHEs; nonprofit organizations including grassroots faith-based and other community-based organizations that have resident support or the support of tribes; RAs; resident councils (RCs); resident organizations (ROs); City-Wide Resident Organizations (CWROs); Intermediary Resident Organizations (IROs); Jurisdiction-Wide Resident Organizations; Regional Resident Organizations; Resident Management Corporations (RMCs); Site-Based Resident Organizations; Statewide Resident Organizations (SROs); and Tribal/TDHE resident groups. The term “resident association” or “RA” will be used to refer to all types of eligible resident organizations. Please see the section on “Definition of Terms” for a complete definition of each type of eligible resident organization.

5. Cost Sharing/Match Requirement

At least 25 percent of the requested grant amount is required as a match. The match may be in cash and/or in-kind donations. The match is a threshold requirement.

6. Grant Term

The grant term for each funding category is three years from the execution date of the grant agreement.

Grant program | Total funding | Eligible applicants | Maximum grant amount (units refer to the number of family-occupied units as indicated on ROSS Fact Sheet (HUD-52751)
ROSS—Family and Homeownership | $18 million | PHAs/Tribes/TDHEs | $150,000 for 1-780 units; $250,000 for 781-2,500 units; $350,000 for 2,501-7,300 units; $600,000 for 7,301 or more units.
|  | Resident associations | $100,000
|  | Non-profit entities | $100,000 per RA; Maximum award is $300,000.

Full Text of Announcement

I. Funding Opportunity Description

A. ROSS Family and Homeownership

The purpose is to provide funding to assist PHAs, tribes/TDHEs, RAs, nonprofit organizations which include grassroots community based organizations, inclusive of faith-based organizations, create programs which will help residents achieve economic self-sufficiency. Applicants must submit proposals that will link residents with services such as job training, and educational opportunities that facilitate economic and housing self-sufficiency. The Homeownership component provides funds to recipients to deliver homeownership training, counseling and supportive services for residents of Public and Indian housing who are participating or have participated in self-sufficiency programs, such as ROSS, Public Housing Family Self-Sufficiency (FSS) or other Federal, state, or local self-sufficiency programs ROSS-Elderly/Persons with Disabilities funding and Public Housing Neighborhood Networks funding are being offered under separate Notices in the 2006 SuperNOFA.

B. Definition of Terms

1. City-Wide Resident Organization consists of members from Resident Councils, Resident Management Corporations, and Resident Organizations who reside in public housing developments that are owned and operated by the same PHA within a city.

2. Community Facility means a non-dwelling structure that provides space for multiple supportive services for the benefit of public or Indian housing residents and others eligible for the services provided. Supportive services may include but are not limited to:

a. Job-training;

b. After-school activities for youth;

c. Neighborhood Networks (formerly Twenty/20 Education Communities (TECs), Campus of Learners activities);

d. English as a Second Language (ESL) classes; and

e. Child care.

3. Contract Administrator means an overall grant administrator or a financial management agent (or both) that oversees the implementation of the grant and/or the financial aspects of the grant.

4. Elderly person means a person who is at least 62 years of age.

5. Jurisdiction-Wide Resident Organization means an incorporated nonprofit organization or association that meets the following requirements:

a. Most of its activities are conducted within the jurisdiction of a single housing authority;

b. There are no incorporated resident councils or resident management corporations within the jurisdiction of the single housing authority;

c. It has experience in providing start-up and capacity-building training to residents and resident organizations; and

d. Public housing residents representing unincorporated resident councils within the jurisdiction of the single housing authority must comprise a majority of the board of directors.

6. Tribally Designated Housing Entity (TDHE) is an entity authorized or established by one or more Indian tribes to act on behalf of each such tribe authorizing or establishing the housing entity.

7. Indian Tribe means any tribe, band, nation, or other organized group of a community of Indians, including any Alaska Native village, regional, or village corporation as defined in or established pursuant to the Alaska Native Claims Settlement Act, and that is recognized as eligible for the special programs and services provided by the United States to Indians because of their status as Indians pursuant to the Indian Self Determination and Education Act of 1975 or any state-recognized tribe eligible for assistance under section 4(12)(C) of NAHASDA.

8. Intermediary Resident Organizations means jurisdiction-wide resident organizations, citywide resident organizations, statewide resident organizations, regional resident organizations, and national resident organizations.

9. NAHASDA-assisted resident means a member of a tribe (as defined above) who has been assisted by the Native American Housing Assistance and Self-Determination Act (NAHASDA) of 1996.

10. National Resident Organization (NRO) is an incorporated nonprofit organization or association for public housing that meets each of the following requirements:

a. It is national (i.e., conducts activities or provides services in at least two HUD areas or two states);

b. It has the capacity to provide start-up and capacity-building training to residents and resident organizations; and

c. Public housing residents representing different geographical locations in the country are members of the board of directors.

11. Nonprofit organization is an organization that is exempt from federal taxation. A nonprofit organization can be organized for the following purposes: charitable, religious, educational, scientific, or other similar purposes in the public interest. In order to qualify, an organization must be a corporation, community chest, fund, or foundation. An individual or partnership will not qualify. To obtain nonprofit status, qualified organizations must file an application with the Internal Revenue Service (IRS) and receive designation as such by the IRS. For more information, go to http://www.irs.gov. Applicants who are in the process of applying for nonprofit status, but have not yet received nonprofit designation from the IRS, will not be considered nonprofit organizations. All nonprofit applicants must submit their IRS determination letter to prove their nonprofit (e.g. 501(c)(3)) status. Please see the section on “Threshold Requirements” for more information. Nonprofit applicants must also provide letters of support as described in the “Threshold Requirements” section.

12. National nonprofit organizations work on a national basis and have the capacity to mobilize resources on both a national and local level. All nonprofit applicants must submit their IRS determination letter to prove their nonprofit (e.g. 501(c)(3)) status. National nonprofit applicants must also provide letters of support as outlined in the “Threshold Requirements” section.

13. Past Performance is a threshold requirement. Using Rating Factor 1 (described in the “Application Review Information” section of this NOFA), HUD's field offices will evaluate applicants for past performance to determine whether an applicant has the capacity to manage the grant for which they are applying. The area Office of Native American Programs (ONAP) will review past performance for tribal/TDHE submissions. Field offices will evaluate the past performance of contract administrators for applicants required to have a contract administrator.

14. Person with disabilities means a person who:

a. Has a condition defined as a disability in section 223 of the Social Security Act; or

b. Has a developmental disability as defined in section 102 of the Developmental Disabilities Assistance Bill of Rights Act.

The term “person with disabilities” does not exclude persons who have acquired immunodeficiency syndrome (HIV/AIDS) or any conditions arising from the etiologic agent for AIDS. In addition, no individual shall be considered a person with disabilities, for purposes of eligibility for low-income housing, solely on the basis of any drug or alcohol dependence.

The definition of a person with disabilities contained in section 504 of the Rehabilitation Act of 1973 and its implementing regulations must be used for purposes of reasonable accommodations and program accessibility. Please see 24 CFR § 5.403.

15. Project Coordinator is responsible for coordinating the grantee's approved activities to ensure that grant goals and objectives are met. A qualified project coordinator is someone with experience managing projects and preferably has experience working with supportive services. The project coordinator and grantees are responsible for ensuring that all federal requirements are followed.

16. Resident Association (RA) means any or all of the forms of resident organizations as they are defined elsewhere in this Definitions section and includes Resident Councils (RC), Resident Management Corporations (RMC), Regional Resident Organizations (RRO), Statewide Resident Organizations (SRO), Jurisdiction-Wide Resident Organizations, and National Resident Organizations (NRO). The NOFA will use “Resident Association” or “RA” to refer to all eligible types of resident organizations. See 24 CFR 964.115 for more information.

17. Regional Resident Organization (RRO) means an incorporated nonprofit organization or association for public housing that meets each of the following requirements:

a. The RRO is regional (i.e., not limited by HUD Areas);

b. The RRO has experience in providing start-up and capacity-building training to residents and resident organizations; and

c. Public housing residents representing different geographical locations in the region must comprise the majority of the Board of Directors.

18. Resident Management Corporation (RMC) means an entity that proposes to enter into, or enters into a contract to conduct one or more management activities of a PHA and meets the requirements of 24 CFR 964.120.

19. Resident Organization (RO) for tribal entities means an incorporated or unincorporated nonprofit tribal organization or association that meets each of the following criteria:

a. It shall consist of residents only, and only residents may vote;

b. If it represents residents in more than one development or in all of the developments of the tribal/TDHE community, it shall fairly represent residents from each development that it represents;

c. It shall adopt written procedures providing for the election of specific officers on a regular basis; and

d. It shall have an elected governing board.

20. Secretary means the Secretary of Housing and Urban Development.

21. Site-Based Resident Associations means resident councils or resident management corporations representing a specific public housing development.

22. Statewide Resident Organization (SRO) is an incorporated nonprofit organization or association for public housing that meets the following requirements:

a. The SRO has statewide jurisdiction;

b. The SRO has experience in providing start-up and capacity-building training to residents and resident organizations; and

c. Public housing residents representing different geographical locations in the state must comprise the majority of the Board of Directors.

23. Tribal/TDHE Resident Group means tribal/TDHE resident groups that are democratically elected groups such as IHA-wide resident groups, area-wide resident groups, single development groups, or resident management corporations (RMCs).

C. Regulations Governing the ROSS Program

ROSS Family and Homeownership is governed by 24 CFR Part 964.

II. Award Information

A. Performance Period and Award Type

1. Grant Period. Three years. The grant period shall begin the day the grant agreement and the form HUD-1044, “Assistance Award/Amendment” are signed by both the grantee and HUD.

2. Grant Extensions. Requests to extend the grant term beyond the grant term must be submitted in writing to the local HUD field office or area ONAP at least 90 days prior to the expiration of the grant term. Requests must explain why the extension is necessary, what work remains to be completed, and what work and progress was accomplished to date. Extensions may be granted only once by the field office or area ONAP for a period not to exceed six months and may be granted for a further six months by the HUD Headquarters Program Office at the request of the Field Office or Area ONAP.

3. Type of Award. Grant agreement.

4. Subcontracting. Subcontracting is permitted. Grantees must follow federal procurement regulations found in HUD regulations at 24 CFR 84.40-84.48 and 24 CFR 85.36.

5. Total Funding. The Department expects to award $18,000,000 under this funding category of ROSS. Awards will be made as follows:

a. PHAs must use the number of occupied conventional family public housing units as of September 30, 2005, per their budget to determine the maximum grant amount they are eligible for in accordance with the categories listed below. (Use HUD-51751 ROSS Fact Sheet.) Applicants should clearly indicate on the Fact Sheet the number of eligible units under their Annual Contributions Contract.

Number of occupied family conventional units | Maximum funding for PHAs/tribes/ TDHEs
1-780 units | $150,000
781-2,500 units | 250,000
2501-7,300 units | 350,000
7,301 or more units | 600,000

b. The maximum grant award is $100,000 for each RA.

c. Nonprofit organizations that have resident support or the support of tribes or RAs are limited to $100,000 for each RA. A nonprofit organization may submit a single application for no more than three different RAs from the same PHA for a maximum grant award of $300,000. Nonprofit organizations may submit more than one application provided they target residents of distinct PHAs or tribes/TDHEs. The maximum funds that may be awarded to any nonprofit applicant is $300,000 overall. In cases where nonprofit applicants are not able to obtain support from RAs, they must obtain letters of support from PHAs or tribes/TDHEs and they may also submit letters from one or more of the following: Resident Advisory Boards (RABs), local civic organizations, or units of local government. Note: All nonprofit applicants that do not include letters of support from RAs must include a letter of support from PHAs or tribes/TDHEs. (Please see Threshold Requirements for more information). Support letters must indicate the developments to be served by the nonprofit organization.

Funding for nonprofit applicants that do not receive letters of support from RAs will be determined as follows (support letters from PHAs must indicate the developments to be served by the nonprofit organization as well as the number of occupied conventional family public housing units in those developments):

Number of conventional units | Maximum funding for non-profits with support letters from PHAs (not RAs)
1-2,500 units | $100,000
2501-7,300 units | 200,000
7,301 or more units | 300,000

Applicants should see the General Section for instructions on submitting support letters and other documentation with their electronic application.

d. Tribes/TDHEs should use the number of units counted as Formula Current Assisted Stock for Fiscal Year-2005 as defined in 24 CFR 1000.316. Tribes/TDHEs are eligible for the same amounts as PHAs within each category in (a) above. Tribes that have not previously received funds from the Department under the U.S. Housing Act of 1937 should count housing units under management that are owned and operated by the Tribe and are identified in their housing inventory as of September 30, 2005, for family units. Tribes should clearly indicate the number of units under management on the Fact Sheet.

III. Eligibility Information

A. Eligible Applicants

Eligible applicants are PHAs, tribes/TDHEs, RAs, and nonprofit organizations (including those nonprofit organizations supported by resident organizations or PHAs, tribes/TDHEs and RABs).

B. Cost Sharing or Matching

The required Match is 25% of requested funds. The match is a threshold requirement. Applicants who do not demonstrate the minimum 25 percent match will fail the threshold requirement and will not receive further consideration for funding. Please see the section below on threshold requirements for more information on what is required for the match.

C. Other

1. Eligible Activities

a. Eligible Program Activities

Applicants should propose implementing comprehensive programs within the three year grant term which will result in improved housing and economic self-sufficiency for Public and Indian housing residents. Proposals should involve partnerships with organizations that will enhance grantees' ability to provide educational programs, housing counseling, fair housing counseling, job training and other supportive services for residents. All applicants must complete a work plan (see sample work plans on HUD's Web site at http://www.hud.gov/offices/adm/grants/fundsavail.cfm) covering the three-year grant term.

The eligible activities are listed in five categories, from basic to advanced: (1) Life-Skills Training; (2) Job Training, Job Search and Placement Assistance; (3) Post-Employment Follow-up; (4) Activities to Support Career Advancement and Long-term Economic Self-Sufficiency; and (5) Homeownership. Applicants are not limited to choosing one category of activity, but rather should design their programs to address the specific needs of the population they are targeting. Only applicants proposing activities in Category 5, Homeownership, and able to show existing linkages to an existing homeownership program such as, for PHAs, Housing Choice Voucher-Homeownership, Section 32, or homeownership programs and resources offered by other organizations or state or local homeownership programs and for Tribes/TDHEs, programs such as the Mutual Help Homeownership Opportunity Program, the Section 184 Program, and homeownership programs developed under the Indian Housing Block Grant Program such as mortgage assistance, will be eligible for 2 points in Rating Factor 3, Soundness of Approach, under “Addressing HUD's Policy Priorities—Providing Increased Homeownership and Rental Opportunities for Low-and-Moderate-Income Persons. * * *” Funds may be used for, but are not limited to, the activities described below.

(Category 1) Life-skills Training (for Youth and Adults). Applicants' proposals can cover, but are not limited to, the following types of activities:

(a) Credit. The importance of having good credit and how to maintain good credit.

(b) Banking and Money Management. How to open a bank account; balance a checkbook; create a weekly spending budget and establish contingency plans for child care and transportation, etc.

(c) Real Life Issues. Information on tax forms; voter registration; leases; car insurance; health insurance; long-term care insurance; etc.

(d) Literacy training and GED preparation.

(e) College preparatory courses and information.

(f) Goal setting.

(g) Mentoring.

(h) Hiring residents to help with the implementation of this program. Note: Stipends and salaries serve different purposes. Resident salaries can only be used to hire residents to help program staff with the implementation of grant activities.

(Category 2) Job Training, Job Search and Placement Assistance. Eligible activities include but are not limited to:

(a) Skills Assessment of participating residents.

(b) Applying for a job. How to complete employment forms; highlighting skills employers are looking for; researching job opportunities in the area; calculating net wages.

(c) Soft skills training including problem solving and other cognitive skills; oral and written communication skills; workplace norms (appropriate dress, punctuality, respectful communication, etc.); work ethic; interpersonal and teamwork skills.

(d) Creating job training and placement programs.

(e) Resume writing.

(f) Interviewing techniques.

(g) Employer linkage and job placement. Working with local employers and job placement providers to design and offer training that addresses local employers' needs, create a job placement program that refers trained residents to participating employers and other local area employers.

(h) Career advancement and planning programs. Such programs should be designed to:

(i) Set career goals;

(ii) Provide strategies such as finding a strong professional mentor within an organization for which residents may be working and focusing on the organization's priorities.

(iii) Reinforce welfare-to-work programs and focus efforts on increasing residents' earning capacity. Activities can include job counseling, helping residents secure better paying jobs or jobs in better work environments, preparing for work in a new job category, obtaining additional job skills and other job-related or educational training.

(iv) Working with local employers to create opportunities that combine education and skills training with jobs. Strategies that promote work-based learning can offer the most effective method for giving new workers the tools they need to move on to a career ladder and achieve upward mobility.

(Category 3) Post-employment follow-up. After placing residents in jobs, providing follow-up and ongoing support to newly hired residents can have a significant positive impact on long-term job retention.

(Category 4) Activities to Support Career Advancement and Long-term Economic Self-Sufficiency.

(a) Individual Savings Accounts (ISAs). Applicants may create programs that encourage residents to save and contribute to match savings accounts such as Individual Development Accounts (IDAs). The programs should include financial counseling and education activities. ISAs may only be used for three purposes: (1) To purchase a first home that is existing or under construction when the purchase contract is signed; (2) to receive post-secondary education or training; or (3) to start a local business (other than acquiring, leasing, constructing, or rehabilitating real property in connection with the business). Applicants are encouraged to leverage funds by working with local financial organizations, which can also contribute to residents' ISAs. FSS escrow accounts may not be used as a match for ROSS-Family-Homeownership-funded ISAs. Grantees shall consult the Internal Revenue Service regarding possible tax consequences of the ISAs to participating residents.

(b) Housing Counseling to increase homeownership opportunities. This can include information to help residents move to market rate rental housing and/or “pre-purchase” homeownership counseling and training. This may include training on such subjects as credit and financial management; credit repair; housing search; how to finance the purchase of a home; fair housing; Individual Savings Accounts; Real Estate Settlement Procedures Act (RESPA); and home maintenance.

(Category 5) Homeownership. Applicants should be able to show existing linkages with HUD homeownership programs such as: The Housing Choice Voucher Homeownership Program, the PHA Homeownership Program also known as Section 32 (formerly the Section 5(h) Homeownership Program) or homeownership programs and resources offered by other organizations or state or local homeownership programs.

Tribes/TDHEs should be able to show existing linkages with programs such as the Mutual Help Homeownership Opportunity Program, the Section 184 Program, and homeownership programs developed under the Indian Housing Block Grant Program such as mortgage assistance. Proposals should involve partnerships with organizations that will enhance the services grantees will offer. Applicants are strongly encouraged to partner with HUD-approved housing counseling agencies. For a list of HUD-approved housing counseling agencies, go to: http://www.hud.gov/offices/hsg/sfh/hcc/hccprof14.cfm.

Eligible Activities include but are not limited to:

(1) Training to include:

(a) Asset building;

(b) Credit counseling and credit scoring;

(c) Financial literacy and management;

(d) Selecting a real estate broker;

(e) Choosing a lender;

(f) Appraisals;

(g) Home inspections;

(h) Avoiding delinquency and predatory lending;

(i) Foreclosure prevention;

(j) Home maintenance and financial management for first-time homeowners;

(k) Real Estate Settlement Procedures Act (RESPA); and

(l) Fair Housing Counseling.

(2) Individual Savings Accounts (ISAs). You may create programs that encourage residents to save and contribute to match savings accounts such as Individual Development Accounts (IDAs). ISAs to be used solely for (a) escrow accounts, (b) down payment assistance and (c) closing costs, to assist the resident to purchase an existing dwelling unit or a dwelling unit under construction.

b. Eligible Other Activities

(1) Hiring of a qualified project coordinator to run the grant program. A qualified project coordinator must have at least two years of experience managing programs and should have experience working on supportive services programs. If Category 5 activities are being proposed, a qualified grant coordinator must have experience working on homeownership programs designed for typically underserved populations. The project coordinator should be hired for the entire three-year term of the grant. The project coordinator is responsible for:

(a) Marketing the program to residents;

(b) Assessing participating residents' skills and job-readiness;

(c) Assessing participating residents' needs for supportive services, e.g., child care, transportation costs, etc.

(d) Assisting a tribe or TDHE to create a resident group to promote self-sufficiency efforts on the reservation;

(e) Designing coordinating and providing grant activities based on residents' needs and the local labor market; and

(f) Monitoring the progress of program participants and evaluating the overall success of the program. A portion of grant funds should be reserved to ensure that evaluations can be completed for all participants who received training through this program. For more information on how to measure performance, please see Rating Factor 5 in the “Application Review Information” section of this NOFA.

(2) Staff Training.

(3) Long Distance Travel subject to funding restrictions.

(4) Lease or rental of space for program activities, but only under the following conditions:

(i) The lease must be for existing facilities not requiring rehabilitation or construction;

(ii) No repairs or renovations of the property may be undertaken with Federal funds; and

(iii) Properties in the Coastal Barrier Resources System designated under the Coastal Barrier Resources Act (16 U.S.C. 3501) cannot be leased or rented with Federal Funds.

(5) Stipends. Stipends are an eligible use of grant funds. Stipends may be used for reasonable out-of-pocket costs. Stipends may be used to reimburse such things as local transportation to and from job training and job interviews, supplemental educational materials, and child care expenses. Stipends must be tied to residents' successful performance and regular attendance.

(6) Hiring of Residents. Grant funds may also be used to hire a resident(s) as program staff.

(7) Supportive Services.

(a) After school programs for school-age children to include tutoring, remedial training, educational programming using computers.

(b) Provision of information on the Earned Income Tax Credit Program, Food Stamps, Child Tax Credit Program, Medicaid, the State Child Health Insurance Program (SCHIP), Student Loan Interest Deduction, tribal welfare programs, and other benefit programs that can assist individuals and families to make a successful transition from welfare to work.

(c) Transportation costs as necessary to enable participating families to receive services or commute to training or employment including purchase, rental or lease of a vehicle for the grantee and limited in use for program purposes.

(d) Child-care while residents are participating in program-related activities.

(e) Parenting courses.

(f) Nutrition courses.

(g) Health care information and services including referrals to mental health providers, alcohol and other drug abuse treatment programs.

(h) English as a second language (ESL) classes.

(i) Housekeeping courses.

(j) Creating and maintaining linkages to local social service agencies, such as employment agencies, health departments, transportation agencies, economic/community development agencies, community colleges, recreational and cultural services, and other community organizations such as Boys & Girls Clubs, 4H-Clubs, Boy Scouts, Girl Scouts, etc.

(8) Hiring or otherwise retaining other direct services staff as necessary for program activities.

(9) Evaluation.

(10) Administrative Costs. Administrative costs may include, but are not limited to, purchase of furniture, office equipment and supplies, program outreach, printing and postage, local travel, utilities, and lease or rental of space for program activities (subject to lease restrictions above). Administrative costs may not be used to pay for salaries of any kind. To the maximum extent practicable, when leasing space or purchasing equipment or supplies, business opportunities should be provided to businesses under Section 3 of the Housing and Urban Development Act of 1968. Administrative costs must not exceed 10 percent of the total grant amount requested from HUD.

2. Threshold Requirements

Applicants must respond to each threshold requirement clearly and thoroughly by following the instructions below. If your application fails one threshold requirement (regardless of the type of threshold) it will be considered a failed application and will not receive consideration for funding.

a. Match. All applicants are required to have in place a firmly committed 25 percent match in cash or in-kind donations as defined in this NOFA. Joint applicants must together have at least a 25 percent match. Applicants who do not demonstrate the minimum 25 percent match will fail this threshold requirement and will not receive further consideration for funding. If you are applying for more than one ROSS grant (i.e. ROSS-Elderly), you must use different sources of match donations for each grant application and you must indicate which additional ROSS grant(s) you are applying for by attaching an additional page to HUD budget form 424-CBW stating the sources and amounts of each of your match contributions for this application as well as any other HUD programs to which you are applying. Match to be used for ineligible activities will not be accepted. Match donations must be firmly committed which means that the amount of match resources and their dedication to ROSS-funded activities must be explicit, in writing, and signed by a person authorized to make the commitment. Letters of commitment, memoranda of understanding (MOU), or tribal resolution must be on organization letterhead, and signed by a person authorized to make the stated commitment whether it be in cash or in-kind services. The letters of commitment/MOUs/tribal resolutions must indicate the total dollar value of the commitment and be dated between the publication date of this NOFA and the application deadline published in this NOFA, or amended deadline, and indicate how the commitment will relate to the proposed program. If the commitment is in-kind, the letters should explain exactly what services or material will be provided. The commitment must be available at time of award. Applicants proposing to use their own, non-ROSS grant funds to meet the match requirement in whole or in part, must also include a letter of commitment indicating the type of match (cash or in-kind) and how the match will be used. Please see the General Section for instructions for submitting the required letters with your electronic application.

Committed amounts in excess of the 25 percent of the requested grant amount may be considered as leveraged funds for higher points under Rating Factor 4 (described in the “Application Review Information” section of this NOFA).

(1) The value of volunteer time and services shall be computed by using the normal professional rate for the local area or the national minimum wage rate of $5.15 per hour (Note: applicants may not count their staff time toward the match);

(2) In order for HUD to determine the value of any donated material, equipment, staff time, building, or lease, your application must provide a letter from the organization making the donation stating the value of the contribution.

(3) Other resources/services that can be committed include: In-kind services provided to the applicant; funds from Federal sources (not including ROSS funds) as allowed by statute, including, for example, Community Development Block Grant (CDBG) funds; Indian Housing Block Grant (IHBG) funds; funds from any state or local government sources; and funds from private contributions. Applicants may also partner with other program funding recipients to coordinate the use of resources in the target area.

b. Past Performance. HUD's field offices will evaluate data provided by applicants as well as applicants' past performance to determine whether applicants have the capacity to manage the grant for which they are applying. The area ONAP will review past performance for tribal and TDHE submissions. Field offices will evaluate the contract administrators' past performance for applicants required to have a contract administrator. In evaluating past performance HUD will look at the applicant's record of completing grant activities on time, within budget and the results achieved. Using Rating Factor 1, the field office/area ONAP will evaluate applicants' past performance. Applicants should carefully review Rating Factor 1 to ensure their application addresses each of the criteria requested therein. If applicants fail to address what is requested in Rating Factor 1, their application will fail this threshold and will not receive further consideration.

c. Contract Administrator Partnership Agreement. All nonprofit applicants, all RAs, and PHAS troubled PHAs (as of the application publication date) are required to submit a signed Contract Administrator Partnership Agreement. The agreement must be for the entire grant term. Applicants required to have a Contract Administrator Partnership Agreement that fail to submit one will fail this threshold requirement and will not receive further consideration for funding. See the Definitions and Program Requirements Sections of this NOFA for more information on Contract Administrators. Please see the General Section for instructions on submitting the information with your electronic application.

Troubled PHAs are not eligible to be contract administrators. Grant writers who assist applicants with preparing their ROSS applications are also ineligible to be contract administrators. For more information on contract administrators, see the section “Program Requirements.”

d. Letters of Support for Nonprofit Applicants.

(1) All nonprofit applicants must include one or more letters of support from resident associations (RAs), Resident Advisory Boards (RABs), local civic organizations, or units of local government. In the event that RAs are inactive, or that applicants submit letters of support from other organizations such as RABs, nonprofit applicants must also submit letters from PHAs or tribes/TDHEs indicating support for their application. All letters of support must be signed by an authorized representative of the supporting organization and dated within two months of the application deadline published in this NOFA.

(2) Nonprofit applicants that do receive support from resident associations must submit form HUD-52754 “List of Resident Associations Supporting Nonprofit Applicants.” Submitting this form is not applicable where RAs are inactive or where applicants do not submit letters of support from RAs.

(3) In cases where nonprofit organizations are applying to serve tribes/TDHEs, nonprofit applicants must submit letters of support from tribes/TDHEs. Nonprofit organizations must also use form HUD-52754 to list which tribes/TDHEs support their application.

(4) Letters of support from RAs or RABs must describe to what extent they are familiar with the nonprofit applicant and indicate their support and understanding of the nonprofit organization's application. Letters from RAs/RABs must include contact information and the name and title of the person authorized to sign for the organization and should, whenever possible, be on RA/RAB letterhead. If RA/RAB letterhead is not available, the letter may be submitted on PHA letterhead.

(5) Letters of support from civic organizations or units of local government must describe to what extent they are familiar with the nonprofit applicant and which programs the nonprofit applicant has operated or managed in the community that are similar to the applicant's proposal. Such letters of support must include contact information and the name and title of the person authorized to sign for the organization. The letter should be on organization letterhead.

(6) All nonprofit applicants that do not provide letters of support from resident associations must provide letters of support from PHAs or tribes/TDHEs with jurisdiction over the developments the applicant proposes to serve. Letters from PHAs or tribes/TDHEs must describe the extent to which the nonprofit applicant is familiar with the needs of the community to be served, which programs the nonprofit applicant has operated or managed in the community that are similar to the applicant's proposal, and whether the nonprofit organization has the capacity to implement its proposed program. Letters from PHAs or tribes/TDHEs must also list the names of the developments to be served, the number of occupied conventional family or elderly/disabled public housing units (depending on the grant category) in those developments, certify that the units are conventional public housing, and identify the ROSS grant category to which the nonprofit organization is applying. PHA or tribe/TDHE letters of support must be signed by the Executive Director, tribal leader, or authorized designee and must be on PHA or tribe/TDHE letterhead. Please see the General Section for instructions for submitting the required letters with your electronic application.

(7) Applications from nonprofit organizations, which do not submit the information requested in this section will fail this threshold requirement and will not be considered for funding.

e. Nonprofit status. All nonprofit applicants must submit their IRS determination letter to prove their nonprofit (e.g., 501(c)(3)) status. Applicants that fail to submit this letter will fail this threshold requirement and will not be considered for funding. Please see the General Section for instructions for submitting the required documentation with your electronic application.

f. Minimum Score for All Fundable Applications. Applications that pass all threshold requirements and go through the ranking and rating process, must receive a minimum score of 75 in order to be considered for funding.

g. General Section Thresholds. All applicants will be subject to all Thresholds requirements listed in the General Section.

h. The Dun and Bradstreet Universal Numbering System (DUNS) Number Requirement. Refer to the General Section for information regarding the DUNS requirement. You will need to obtain a DUNS number to receive an award from HUD.

3. Program Requirements

a. Contract Administrator. The contract administrator must assure that the financial management system and procurement procedures that will be in place during the grant term will fully comply with either 24 CFR part 84 or 85, as appropriate. CAs are expressly forbidden from accessing HUD's Line of Credit Control System (LOCCS) and submitting vouchers on behalf of grantees. Contract administrators must also assist grantees to meet HUD's reporting requirements. Contract administrators may be: Local housing agencies; community-based organizations such as community development corporations (CDCs), churches, temples, synagogues, mosques; nonprofit organizations; state/regional associations and organizations. Troubled PHAs are not eligible to be contract administrators. Grant writers who assist applicants prepare their applications are also ineligible to be contract administrators. Organizations that the applicant proposes to use as the contract administrator must not violate or be in violation of other conflicts of interest as defined in 24 CFR part 84 and 24 CFR part 85.

b. Requirements Applicable to All Applicants. All applicants, lead and non-lead, should refer to “Other Requirements and Procedures Applicable to All Programs” of the General Section for requirements pertaining specifically to procurement of recovered materials and for information regarding other requirements to which they may be subject.

4. Number of Applications Permitted

Applicants may desire to provide a broad range of services supported by grants from a number of ROSS funding categories. Applicants may submit more than one application only based on the criteria below:

a. General. Applicants may submit up to one application for each ROSS funding category (i.e., one application for ROSS-Elderly/Persons with Disabilities, one application for ROSS-Family-Homeownership, etc.), except in the case of nonprofits. Nonprofit organizations may submit more than one application per ROSS funding category provided they will be serving residents of distinct PHAs or Tribes/TDHEs.

b. More than one application per development. Only one application per funding category will be funded for a particular development. For example, if multiple applicants apply for ROSS-Family-Homeownership for the same development, only the highest scoring application will be considered for award. If multiple applicants are interested in providing services to a development and the services are funded under the same ROSS funding category, it is suggested the applicants work together to submit one application on behalf of the development.

c. Joint applications. Two or more applicants may join together to submit a joint application for proposed grant activities. Joint applications must designate a lead applicant. The lead applicant must be registered with Grants.gov and submit the application using the Grants.gov portal. Lead applicants are subject to all threshold requirements. Non-lead applicants are subject to the following threshold requirements as applicable:

(1) Letters of support for nonprofit applicants;

(2) Evidence of nonprofit status as outlined under the section covering threshold requirements; and

(3) Threshold requirements outlined in Section III. C. of the General Section.

Joint applications may include PHAs, RAs, Tribes/TDHEs, and nonprofit organizations on behalf of resident organizations. Joint applications involving nonprofit organizations must also provide evidence of resident support or support from local civic organizations or from units of local government. PHAs, tribes/TDHEs, and resident organizations that are part of a joint application may not also submit separate applications as sole applicants under this NOFA.

Note: The lead applicant will determine the maximum funding amount the applicants are eligible to receive.

5. Eligible Participants

All ROSS Family and Homeownership program participants must be residents of conventional public housing or NAHASDA-assisted housing. Participants in the Public Housing Family Self-Sufficiency (FSS) program (non-Housing Choice Voucher FSS Program) are also eligible to participate in activities funded under ROSS.

6. Eligible Developments

Only conventional Public and Indian housing developments and NAHASDA-assisted may be served by ROSS grant funds. Other housing/developments, including, but not limited to private housing, federally insured housing, federally subsidized or assisted (i.e., assisted under Section 8, Section 202, Section 811, Section 236), and others are not eligible to participate in ROSS.

7. Energy Star

HUD has adopted a wide-ranging energy action plan for improving energy efficiency in all program areas. As a first step toward implementing the energy plan, HUD, the Environmental Protection Agency (EPA) and the Department of Energy (DoE) have signed a joint partnership to promote energy efficiency in HUD's affordable housing efforts and programs. The purpose of the Energy Star partnership is to promote energy efficiency of the affordable housing stock, and to help protect the environment. Applicants providing housing assistance or counseling services are encouraged to promote Energy Star materials and practices, as well as buildings constructed to Energy Star standards, to both homebuyers and renters. Program activities can include developing Energy Star promotional and information materials, outreach to low- and moderate-income renters and buyers on the benefits and savings when using Energy Star products and appliances, and promoting the designation of community buildings and homes as Energy Star compliant. For further information about Energy Star, see http://www.energystar.gov or call 888-STAR-YES (888-782-7937) or for the hearing-impaired, 888-588-9920 (TTY).

IV. Application and Submission Information

A. Address To Request an Application Package

Copies of the published NOFAs and application forms for HUD programs announced through NOFA may be downloaded from the grants.gov Web site at http://www.grants.gov/Find; if you have difficulty accessing the information you may receive customer support from Grants.gov by calling their Support Desk at (800) 518-GRANTS, or sending an email to support@grants.gov. You may request general information, from the NOFA Information Center (800-HUD-8929) or 800-HUD-2209 (TTY) between the hours of 10 a.m. and 6:30 p.m. (Eastern Time) Monday through Friday, except on federal holidays. When requesting information, please refer to the name of the program you are interested in. The NOFA Information Center opens for business simultaneously with the publication of the SuperNOFA. You can also obtain information on this NOFA from HUD's Web site at http://www.hud.gov/offices/adm/grants/fundsavail.cfm.

B. Content and Form of Application Submission

1. Application Format Information for All Applicants. Applicants should make sure to include all requested information, according to the instructions found in this NOFA and where applicable, in the General Section. This will help ensure a fair and accurate review of your application.

2. Content and Format for Submission

a. Content of Application.

Applicants must write narrative responses to each of the rating factors, which follow this section. Applicants will be evaluated on whether their responses demonstrate that they have the necessary capacity to successfully manage the proposed program. Applicants should ensure that their narratives are written clearly and concisely so that HUD reviewers, who may not be familiar with the ROSS program, may fully understand your proposal.

b. Format of Application.

(1) Applications may not exceed 35 narrative pages. Narrative pages must be typed, double-spaced, numbered, use Times New Roman font style, one inch margins and font size 12. Supporting documentation, required forms, and certifications will not be counted toward the 35 narrative page limit. However, applicants should make every effort to submit only what is necessary in terms of supporting documentation. Please see the General Section for instructions on how to submit supporting documentation with your electronic application.

(2) A checklist is provided o ensure applicants submit all required forms and information. Applicants are not required to submit the checklist but should review it to ensure that they have submitted a complete application. (Note: Applicants who receive a waiver to submit paper applications, must submit their applications in a three-ring binder, with TABS dividing the sections as indicated below. When submitting electronically, you do not need to submit these in TABS. Be sure to name each attachment clearly.) Copies of the forms may be downloaded with the application package and instructions from www.Grants.gov/Apply of from the following Web site: http://www.hud.gov/offices/adm/grants/nofa06/snofaforms.cfm.

TAB 1: Required Forms from the General Section and other ROSS forms:

1. Acknowledgement of Application Receipt (HUD-2993), for paper application submissions only (you must have an approved waiver to submit a paper application);

2. Application for Federal Financial Assistance (SF-424);

3. SF-424 Supplement, Survey on Ensuring Equal Opportunity for Applicants;

4. Questionnaire for HUD's Initiative on Removal of Regulatory Barriers (HUD-27300);

5. ROSS Fact Sheet (HUD-52751);

6. Grant Application Detailed Budget (HUD-424-CB);

7. Grant Application Detailed Budget Worksheet (HUD-424-CBW);

8. Applicant/Recipient Disclosure/Update Report (HUD-2880);

9. Certification of Consistency with RC/EZ/EC-II Strategic Plan (HUD-2990) if applicable;

10. Certification of Consistency with the Consolidated Plan (HUD-2991) if applicable;

11. Certification of Consistency with the Indian Housing Plan if applicable (HUD-52752);

12. Certification of Resident Council Board of Election (not required for tribes/nonprofit organizations working on behalf of tribes) (HUD-52753); 13. Disclosure of Lobbying Activities (SF-LLL), if applicable;

13. Disclosure of Lobbying Activities Continuation Sheet (SF-LLL-A), if applicable;

14. You Are Our Client Grant Applicant Survey (HUD-2994-A) (Optional);

15. Facsimile Transmittal Sheet (HUD-96011) (For use with electronic applications as the cover sheet to provide third party documentation).

TAB 2: Threshold Requirements:

1. Letters from Partners attesting to match;

2. Letter from Applicant's organization attesting to match (if applicant is contributing to match);

3. Letters of Support from Resident Associations/PHAs/tribes/TDHEs/ Resident Advisory Boards/local civic organizations and/or units of local government (Threshold requirement for all nonprofit applicants);

4. Chart of Resident Associations Participating (required for nonprofit applicants but not applicable to applications from tribes/TDHEs.) (HUD-52754);

5. IRS nonprofit determination letter proving 501(c)(3) status (Threshold requirement for all nonprofit applicants); and

6. Contract Administrator Partnership Agreement (required for nonprofit organizations, resident associations, and PHAS troubled PHAs) (HUD-52755).

TAB 3: Narrative for Rating Factor 1 and ROSS Program Forms:

1. Narrative;

2. Chart A: Program Staffing (HUD-52756);

3. Chart B: Applicant/Administrator Track Record (HUD-52757);

4. Resumes/Position Descriptions;

5. Statement attesting to Housing Choice Voucher Homeownership program, Section 32 or other program, if proposing activities in Category 5.

TAB 4: Narrative for Rating Factor 2.

TAB 5: Rating Factor 3:

1. Narrative;

2. Work plan (see relevant sample ROSS work plan HUD 52763).

TAB 6: Narrative for Rating Factor 4.

TAB 7: Rating Factor 5.

1. Narrative;

2. Logic Model (HUD-96010):

C. Submission Dates and Times

1. Due Dates. The application must be received and validated by Grants.gov no later than 11:59:59 p.m. eastern time on the deadline date of August 8, 2006. If your waiver request is approved, the notification of approval of the waiver request will provide instructions on where to submit the paper application. See the General Section for instructions regarding waivers to the electronic application submission requirement. If an applicant receives a waiver to the electronic application submission requirement, the application must be received by the application deadline date.

D. Intergovernmental Review

Not applicable.

E. Funding Restrictions

1. Reimbursement for Grant Application Costs. Grantees are prohibited from using ROSS grant funds to reimburse any costs incurred in conjunction with preparation of their ROSS application.

2. Covered Salaries.

a. Project Coordinator. All applicants may propose to hire a qualified project coordinator to run the program. The ROSS Family and Homeownership program will fund up to $65,000 in combined annual salary and fringe benefits for a full-time project coordinator. Applicants may propose a part-time coordinator at a lesser salary. For audit purposes, applicants must have documentation on file demonstrating that the salary and fringe benefits of the project coordinator are comparable to similar professions in their local area.

b. Resident Salaries. No more than five percent of -ROSS-Family and Homeownership funds may be used to pay for resident salaries.

c. Types of Salaries. ROSS Family and Homeownership funds may only be used for the types of salaries described in this section according to the restrictions described herein. ROSS funds may only be used to pay for salaries of staff that provide direct services to residents. Direct services staff, for purposes of this NOFA, are defined as applicant personnel or subcontractors who, as their primary responsibility, provide services directly to residents that participate in the activities described in this application e.g., housing and credit counselors, case managers, job trainers, childcare providers, among other positions. ROSS funds may not be used to pay for salaries for any other kind of staff.

3. Administrative Costs. For all applicants, administrative costs may include, but are not limited to, purchase of furniture, office equipment and supplies, program outreach, printing and postage, local travel, utilities, and lease or rental of space for program activities (subject to restrictions on leasing—See Eligible Activities section of this NOFA.). Administrative costs may not be used to pay for salaries of any kind. Administrative costs must not exceed 10 percent of the total grant amount requested from HUD. Administrative costs must adhere to OMB Circular A-87 or A-122 as appropriate. Please use HUD-424-CBW to itemize your administrative costs.

4. Individual Savings Accounts (ISAs). ROSS Family and Homeownership funds can be used as matching funds for ISAs but no more than 20 percent of total grant funds may be used for this purpose.

5. Stipends. No more than $200 of the grant award may be used per participant per month for stipends for active trainees and program participants. Stipends may only be used to reimburse reasonable out-of-pocket expenses related to participation in training and other program-related activities. Receipts for such expenses must be provided by the resident in order to obtain reimbursement. Stipends are not considered an administrative expense and therefore are not subject to the 10 percent limitation on administrative costs.

6. Funding Requests in Excess of Maximum Grant Amount. Applicants that request funding in excess of the maximum grant amount which they are eligible to receive will be given consideration only for the maximum grant for which they are eligible. If a grant is awarded, the grantee will work with the Field Office or Area ONAP to re-apportion the grant funds for eligible activities.

7. Ineligible Activities/Costs. Grant funds may not be used for ineligible activities. The following are ineligible activities/costs:

a. Payment of wages and/or salaries to participants for receiving supportive services and/or training programs (this does not include stipends);

b. Purchase, lease, or rental of land;

c. New construction, costs for construction materials;

d. Rehabilitation or physical improvements;

e. Vehicle insurance and/or maintenance;

f. Entertainment costs;

g. Purchasing food;

h. Payment of wages and/or salaries to doctors, nurses or other staff (including health aids or companions) in relation to medical services provided to residents;

i. Purchase of non-prescription or prescription medications;

j. Down payment assistance (NOTE: Participants may use their ISAs for this purpose);

k. Revolving loan funds;

l. Costs which exceed limits identified in the NOFA, for the following: Project Coordinator, resident salaries, ISAs, stipends, administrative expenses, and long distance travel;

m. Cost of application preparation;

n. Scholarships for degree programs;

o. Salaries for staff that are not direct services staff. Direct services staff, for purposes of this NOFA, are defined as applicant personnel or subcontractors who, as their primary responsibility, provide services directly to residents that participate in the activities described in this application, e.g., case managers, job trainers, childcare providers, among other positions.

p. Purchase of space.

8. ROSS funds cannot be used to hire or pay for the services of a Contract Administrator.

9. Other Budgetary Restrictions. Some long distance travel may be necessary during the term of the grant in order for professional grant staff to attend training conferences for ROSS grantees. Long distance travel costs for grant program staff may not exceed $5,000 for the life of the grant and must receive prior approval from the grantee's local HUD field office or area ONAP.

F. Other Submission Requirements

1. All applicants are required to submit their applications electronically via Grants.gov unless they request and are approved by HUD for a waiver of that requirement. Please refer to the General Section for information on how to submit your application and all attachments electronically via Grants.gov.

2. Proof of Timely Submission. Please see the General Section for this information. Applicants that fail to meet the deadline for application receipt will not receive funding consideration.

3. For Waiver Recipients Only. Applicants who have received waivers to submit paper applications (see the General Section for more information) must submit their applications to: HUD Grants Management Center, Mail Stop: ROSS Family and Homeownership, 501 School Street, SW., 8th floor, Washington, DC 20024.

4. Number of Copies. Only applicants receiving a waiver to the electronic submission requirement may submit a paper copy application. Paper applications must be submitted in triplicate (one original and two identical copies). For all applicants with a waiver (including tribal and TDHE applicants), the original and one identical copy must be sent to the Grants Management Center and an identical copy must be sent to your local Field Office or Area ONAP in accordance with the submission and timely receipt requirements described in the General Section. All paper applications must be received by the deadline date.

V. Application Review Information

A. Criteria

1. Factors for Award Used to Evaluate and Rate Applications to the ROSS program. The factors for rating and ranking applicants and maximum points for each factor are provided below. The maximum number of points available for this program is 102. This includes two RC/EZ/EC-II bonus points. The SuperNOFA contains a certification that must be completed in order for the applicant to be considered for the RC/EZ/EC-II bonus points. A listing of federally designated RCs, EZs, and EC-IIs is available at http://www.hud.gov/offices/adm/grants/fundsavail.cfm. The agency certifying to RC/EZ/EC-II status must be contained in the listing of RC/EZ/EC-II organizations on HUD's Web site at: http://www.hud.gov/offices/adm/grants/fundsavail.cfm.

Note: Applicants should carefully review each rating factor before writing a response. Applicants' narratives should be as descriptive as possible, ensuring that every requested item is addressed. Applicants should make sure their narratives thoroughly address the Rating Factors below. Applicants should include all requested information, according to the instructions found in this NOFA. This will help ensure a fair and accurate application review.

a. Rating Factor 1: Capacity of the Applicant and Relevant Organizational Staff (25 Points)

This factor addresses whether the applicant has the organizational capacity and resources necessary to successfully implement the proposed activities within the grant period. In rating this factor HUD will consider the extent to which the proposal demonstrates that the applicant will have qualified and experienced staff dedicated to administering the program.

(1) Proposed Program Staffing (7 Points).

(a) Staff Experience (4 Points). The knowledge and experience of the proposed project coordinator, staff, and partners in planning and managing programs for which funding is being requested. Experience will be judged in terms of recent, relevant and successful experience of proposed staff to undertake eligible program activities. In rating this factor, HUD will consider experience within the last 5 years to be recent; experience pertaining to the specific activities being proposed to be relevant; and experience producing specific accomplishments to be successful. The more recent the experience and the more experience proposed staff members who work on the project have in successfully conducting and completing similar activities, the greater the number of points applicants will receive for this rating factor. The following information should be provided in order to provide HUD an understanding of proposed staff's experience and capacity:

(i) The number of staff years (one staff year = 2080 hours) to be allocated to the proposed program by each employee or expert as well as each of their roles in the program;

(ii) The staff's relevant educational background and/or work experience; and

(iii) Relevant and successful experience running programs whose activities are similar to the eligible program activities described in the grant application.

(b) Organizational Capacity (3 Points). Applicants will be evaluated based on whether they or their partners have sufficient qualified personnel to deliver the proposed activities in a timely and effective fashion. In order to enhance or supplement capacity, applicants should provide evidence of partnerships with nonprofit organizations or other organizations that have experience providing supportive services to typically underserved populations. Applicants' narratives must describe their ability to immediately begin the proposed work program. Provide resumes and position descriptions (where staff is not yet hired) for all key personnel. (Resumes/position descriptions do not count toward the 35-page limit.)

(2) Past Performance of Applicant/Contract Administrator (6 Points).

(a) Applicants' past experience may include, but is not limited to, running and managing programs aimed at assisting residents of low-income housing to achieve housing and economic self-sufficiency

(b) Applicants' narratives must indicate past grants they received and managed, the grant amounts, and grant terms (years) of the grants, which they are counting toward past experience.

(c) Applicants' narratives must describe how they (or their Contract Administrator) successfully implemented past grant programs designed to promote resident self-sufficiency, moving from welfare to work, and/or helping residents move to market rate rental housing or homeownership.

(d) Applicants will be evaluated according to the following criteria:

(i) Achievement of specific measurable outcomes and objectives in terms of benefits gained by participating residents. Applicants should describe results their programs have obtained, such as:

—Reduced welfare dependency, higher incomes, higher rates of employment, increased savings, moving from subsidized housing to market rate rental housing; and for Category 5,

—Number of families in homeownership counseling pipeline, rates of homeownership achieved through training programs.

(ii) Description of success in attracting and keeping residents involved in past grant-funded training programs. HUD wants to see that applicants' grant-funded programs benefited a significant numbers of residents;

(iii) Description of timely and accurate expenditure of program funding throughout the term of past grants. This means regular (i.e., quarterly) and accurate drawdowns throughout the life of the grant, with all funds expended by the end of the grant term;

(iv) Description of Past Leveraging. Applicants must describe how they have created leveraging partnerships for funding or in-kind services for previous projects, the extent of the leveraging partnership and how leveraging and partnerships benefited program participants.

(3) Program Administration and Fiscal Management (12 Points).

(a) Program Administration and Accountability (6 Points). Applicants should describe how they will manage the program; how HUD can be sure that there is program accountability; and provide a description of proposed staff's roles and responsibilities. Applicants should also describe how grant staff and partners will report to the project coordinator and other senior staff.

(b) Fiscal Management (6 Points). In rating this factor, applicants' skills and experience in fiscal management will be evaluated. If applicants have had any audit or material weakness findings in the past five years, they will be evaluated on how well they have addressed them. Applicants must provide the following:

(i) A complete description of their fiscal management structure, including fiscal controls currently in place including those of a Contract Administrator for applicants required to have a Contract Administrator (i.e., PHAS troubled PHAs, resident associations, and nonprofit applicants);

(ii) Applicants must list any audit findings or material weaknesses in the past five years (HUD Inspector General, management review, fiscal, etc.), and what has been done to address them;

(iii) For applicants who are required to have a Contract Administrator, describe the skills and experience the Contract Administrator has in managing federal funds.

b. Rating Factor 2: Need/Extent of the Problem (10 Points)

This factor addresses the extent to which there is a need for funding the proposed program. In responding to this factor, applicants will be evaluated on the extent to which they describe and document the level of need for their proposed activities and the urgency for meeting the need.

In responding to this factor, applicants must include:

(1) Socioeconomic Profile (3 points). A thorough socioeconomic profile of the eligible residents to be served by the program, including education levels, income levels, the number of single-parent families, economic statistics for the local area, etc.

(2) Demonstrated Link Between Proposed Activities and Local Need (7 points). Applicants' narratives must demonstrate a clear relationship between proposed activities, community needs and the purpose of the program funding in order for points to be awarded for this factor.

c. Rating Factor 3: Soundness of Approach (30 Points)

This factor addresses both the quality and cost-effectiveness of applicants' proposed work plan. The narrative and work plan must indicate a clear relationship between proposed activities and intended outcomes, the targeted population's needs, and the purpose of the program funding. Applicants' proposed activities must address HUD's policy priorities outlined in this Rating Factor.

In rating this factor HUD will consider:

(1) Quality of the Work Plan (18 points). This factor evaluates both the applicant's work plan and budget, which will be evaluated based on the following criteria:

(a) Specific Services and/or Activities (10 points). Applicants' narratives must describe the specific services, course curricula, and activities they plan to offer and who will be responsible for each. In addition to the narrative, applicants must also provide a work plan, which must list the specific services, activities, and outcomes they expect. The proposed program narrative and work plan must show a logical order of activities and progress and must tie to the outcomes and outputs applicants identify in the Logic Model (see Rating Factor 5). Please see a sample work plan in the Appendix. Applicants' narratives must explain how their proposed activities will:

(i) Involve community partners in the delivery of services (4 points);

(ii) Offer comprehensive services (versus a small range of services) geared toward achieving the following (6 points):

—Enhancing economic opportunities for residents leading to economic self-sufficiency and homeownership or other housing self-sufficiency;

(b) Feasibility and Demonstrable Benefits (3 points). This factor examines whether applicants' work plan are logical, feasible and likely to achieve its stated purpose during the term of the grant. HUD's desire is to fund applications that will quickly produce demonstrable results and advance the purposes of the ROSS program.

(i) Timeliness. This subfactor evaluates whether applicants' work plans demonstrate that their projects are ready to be implemented shortly after grant award, but not to exceed three months following the execution of the grant agreement. The work plan must indicate time frames and deadlines for accomplishing major activities. (1 point).

(ii) Description of the problem and solution. The work plan will be evaluated based on how well applicants' proposed activities address the needs described in Rating Factor 2. (2 points).

(c) Budget Appropriateness/Efficient Use of Grant (5 Points). The score in this factor will be based on the following:

(i) Justification of expenses. Applicants will be evaluated based on whether their expenses are reasonable and thoroughly explained, and support the objectives of their proposal.

(ii) Budget Efficiency. Applicants will be evaluated based on whether their application requests funds commensurate with the level of effort necessary to accomplish their goals and anticipated results.

(d) Ineligible Activities. Two points will be deducted for each ineligible activity proposed in the application, as identified in Section IV(E). For example, you will lose 2 points if you propose costs that exceed the limits identified in the NOFA for a Project Coordinator; or you will lose 2 points if you propose paying for salaries for staff that are not direct services staff.

(2) Addressing HUD's Policy Priorities (10 points). HUD wants to improve the quality of life for those living in distressed communities. HUD's grant programs are a vehicle through which long-term, positive change can be achieved at the community level. Applicants' narratives and work plans will be evaluated based on how well they meet the following HUD policy priorities:

(i) Improving the Quality of Life in Our Nation's Communities (2 points). In order to receive points in this category, applicants' narrative and/or work plan must indicate the types of activities, service, and training programs applicants will offer which can help residents successfully transition from welfare to work and earn higher wages.

(ii) Providing Increased Homeownership and Rental Opportunities for Low- and Moderate-Income Persons, Persons with Disabilities, the Elderly, Minorities, and Families with Limited English Proficiency (Note: Only applicants proposing Category 5—Homeownership activities are eligible for these points.) (2 points). In order to receive points in this category, applicants' narratives and/or work plans must indicate the types of activities and training programs they will offer which can help residents successfully transition to homeownership. Applicants that indicate that they have existing linkages to an existing homeownership program such as, for PHAs, Housing Choice Voucher-Homeownership, Section 32, or homeownership programs and resources offered by other organizations or state or local homeownership programs or for Tribes/TDHEs, programs such as the Mutual Help Homeownership Opportunity Program, the Section 184 Program, and homeownership programs developed under the Indian Housing Block Grant Program such as mortgage assistance, must provide a specific statement attesting to these linkages and indicating the minimum number of homeownership opportunities (e.g,. number of HCV-Homeownership vouchers or number of homes in the Section 32 program that will be dedicated to ROSS participants) that will be provided annually to residents successfully completing the requirements of the programs funded by this NOFA.

(iii) Providing Full and Equal Access to Grassroots Faith-Based and Other Community-Based Organizations in HUD Program Implementation (4 points). HUD encourages applicants to partner with grassroots organizations, e.g., civic organizations, grassroots faith-based and other community-based organizations that are not usually effectively utilized. These grassroots organizations have a strong history of providing vital community services such as developing first-time homeownership programs, creating economic development programs, providing job training and other supportive services. In order to receive points under this factor, applicants' narratives and/or work plans must describe how applicants will work with these organizations and what types of services they will provide.

(iv) Policy Priority for Increasing the Supply of Affordable Housing Through the Removal of Regulatory Barriers to Affordable Housing (up to 2 points).

Under this policy priority, higher rating points are available to (1) governmental applicants that are able to demonstrate successful efforts in removing regulatory barriers to affordable housing, and (2) nongovernmental applicants that are associated with jurisdictions that have undertaken successful efforts in removing barriers. For applicants to obtain the policy priority points for efforts to successfully remove regulatory barriers, applicants would have to complete form HUD 27300, “Questionnaire for HUD's Initiative on Removal of Regulatory Barriers.” A copy of HUD's Notice entitled America's Affordable Communities Initiative, HUD's Initiative on Removal of Regulatory Barriers: Announcement of Incentive Criteria on Barrier Removal in HUD's 2004 Competitive Funding Allocations” can be found on HUD's Web site at http://www.hud.gov/grants/index.cfm. The information and requirements contained in HUD's regulatory barriers policy priority apply to this FY-2006 NOFA. A description of the policy priority and a copy of form HUD-27300 can be found in the application package posted on www.Grants.gov. Applicants are encouraged to read the Notice as well as the General Section to obtain an understanding of this policy priority and how it can impact their score. A limited number of questions expressly request the applicant to provide brief documentation with their response. Other questions require that for each affirmative statement made, the applicant must supply a reference, URL, or a brief statement indicating where the back-up information may be found, and a point of contact, including a telephone number and/or email address. The electronic copy of the HUD 27300 has space to identify a URL or reference that the material is being scanned and attached to the application as part of the submission or faxed to HUD following the facsimile submission instructions.

Economic Opportunities for Low- and Very Low-Income Persons (Section 3) (2 Points)

You will receive 2 points if your application demonstrates that you will implement Section 3 of the Housing and Urban Development Act of 1968 (12 U.S.C. 1701u) (Economic Opportunities for Low- and Very Low-Income Persons in Connection with assisted Projects) and its implementing regulations at 24 CFR part 135 in connection with this grant, if awarded. Information about Section 3 can be found at HUD's Section 3 Web site at www.hud.gov/fhe/sec3over.html. Your application must describe how you will implement Section 3 through the proposed grant activities. You must state that you will, to the greatest extent feasible, direct training, employment, and other economic opportunities to:

(a) Low- and very low-income persons, particularly those who are recipients of government assistance for housing, and

(b) Business concerns which provide economic opportunities to low- and very low-income persons.

d. Rating Factor 4: Leveraging Resources (20 Points)

This factor addresses the applicant's ability to secure community resources that can be combined with HUD's grant resources to achieve program purposes. Applicants are required to create partnerships with organizations that can help achieve their program's goals. PHAs are required by section 12(d)(7) of the U.S. Housing Act of 1937 entitled “Cooperation Agreements for Economic Self-Sufficiency Activities” to make best efforts to enter into such agreements with relevant state or local agencies. In rating this factor, HUD will look at the extent to which applicants partner, coordinate and leverage their services with other organizations serving the same or similar populations.

Applicants must have at least a 25 percent cash or in-kind match. The match is a threshold requirement. Joint applicants must together have at least a 25 percent match. Applicants who do not demonstrate the minimum 25 percent match will fail the threshold requirement and will not receive further consideration for funding. Leveraging in excess of the 25 percent of the grant amount will receive a higher point value. In evaluating this factor HUD will consider the extent to which applicants have partnered with other entities to secure additional resources, which will increase the effectiveness of the proposed program activities. Match proposed to be used for ineligible activities will not be accepted. The additional resources and services must be firmly committed, must support the proposed grant activities and must, in combined amount (including in-kind contributions of personnel, space and/or equipment, and monetary contributions) equal at least 25 percent of the grant amount requested in the application. “Firmly committed” means that the amount of resources and their dedication to ROSS-funded activities must be explicit, in writing and signed by a person authorized to make the commitment. Please see the section on Threshold Requirements for more information.

Points for this factor will be awarded based on the documented evidence of partnerships and firm commitments and the ratio of requested ROSS funds to the total proposed grant budget.

Points will be assigned based on the following scale:

Percentage of Match Points Awarded

25—5 points (with partnerships) 3 points (without partnerships);

26-50—10 points (with partnerships) 8 points (without partnerships);

51-75—15 points (with partnerships) 13 points (without partnerships);

76 or above—20 points (with partnerships) 18 points (without partnerships).

e. Rating Factor 5: Achieving Results and Program Evaluation (15 Points)

(1) An important element in any supportive service program is the development and reporting of performance measures and outcomes. This factor emphasizes HUD's determination to ensure that applicants develop performance and outcome measures that are focused on residents' achieving economic and housing self-sufficiency—reducing and eliminating dependency on any type of subsidized housing or welfare assistance. Additionally, achieving outcomes and accurate evaluation will assist HUD in meeting its commitment to federal requirements for accountability. Applicants must demonstrate how they propose to measure their success and outcomes as they relate to the Department's Strategic Plan.

(2) HUD requires ROSS applicants to develop an effective, quantifiable, outcome-oriented plan for measuring performance and determining that goals have been met. Applicants must use the Logic Model form HUD-96010 for this purpose. The narrative describes how the measurement tools are used to collect and verify reported data and to modify the program if goals are not being met.

(3) Applicants must establish interim benchmarks, or outputs, for their proposed program that lead to the ultimate achievement of outcomes. “Outputs” are the direct products of a program's activities. Examples of outputs are: The number of eligible families that participate in supportive services, the number of new services provided, the number of residents receiving counseling, or the number of households using a technology center. Outputs should produce outcomes for your program. “Outcomes” are benefits accruing to the residents, families and/or communities during or after participation in the ROSS program. Outcomes are not the development or delivery of services or program activities but the results of the services delivered or program activities—the ultimate results of the program. Applicants must clearly identify the outcomes to be achieved and measured. Examples of outcomes are: Increasing homeownership rates, increasing residents' financial stability (e.g., increasing assets of a household through savings), or increasing employment stability (e.g., whether persons assisted obtain or retain employment for one or two years after job training completion).

(4) This rating factor requires that applicants identify program outputs, outcomes, and performance indicators that will allow applicants to measure their performance. Performance indicators should be objectively quantifiable and measure actual achievements against anticipated achievements. Applicants' narratives, work plans, and Logic Models should identify what applicants are going to measure, how they are going to measure it, and the steps they have in place to make adjustments to their work plan and management practices if performance targets begin to fall short of established benchmarks and time frames. Applicants' proposals must also show how they will measure the performance of partners and affiliates. Applicants must include the standards, data sources, and measurement methods they will use to measure performance.

(Applicants will be evaluated based on how comprehensively they propose to measure their program's outcomes.)

B. Review and Selection Process

1. Review Process

Four types of reviews will be conducted: A screening to determine if you are eligible to apply for funding under the ROSS Family and Homeownership grant program; whether your application submission is complete, on time and meets threshold; a review by the field office (or area ONAP office) to evaluate past performance; and a technical review to rate your application based on the five rating factors provided in this NOFA.

2. Selection Process for All Grant Categories and All Applicants

Twenty-five percent (25%) of funds will be set aside for Resident Associations and all qualifying Resident Association applications will be funded first, up to 25% of the funding amount. The selection process is designed to achieve geographic diversity of grant awards throughout the country. For each grant category, HUD will first select the highest ranked application from each of the ten federal regions and DPONAP for funding. After this “round,” HUD will select the second highest ranked application in each of the ten federal regions and DPONAP for funding (the second round). HUD will continue this process with the third, fourth, and so on, highest ranked applications in each federal region and DPONAP until the last complete round is selected for funding. If available funds exist to fund some but not all eligible applications in the next round, HUD will make awards to those remaining applications in rank order (by score) regardless of region and DPONAP and will fully fund as many as possible with remaining funds. If remaining funds in one grant category are too small to make an award, they may be transferred to another ROSS program. If there are remaining funds in any ROSS program after all qualifying applications have been awarded, those funds may be transferred to another ROSS program.

3. Tie Scores

In the event of a tie score between two applications which target the same developments, HUD will select the application that was received first.

4. Deficiency Period

Applicants will have 14 calendar days in which to provide missing information requested from HUD. For other information on correcting deficient applications, please see the General Section.

VI. Award Administration Information

A. Award Notices

HUD will make announcements of grant awards after the rating and ranking process is completed. Grantees will be notified by letter and will receive instructions on what steps they must take in order to access funding and begin implementing grant activities. Applicants who are not funded will also receive letters via U.S. postal mail.

B. Debriefings

Applicants who are not funded may request a debriefing. Applicants requesting to be debriefed must send a written request to: Iredia Hutchinson, Director, Grants Management Center, 501 School Street, SW., Suite 800, Washington, DC 20024.

C. Administrative and National Policy Requirements

1. Environmental Impact

In accordance with 24 CFR 58.34 (a)(3) or (a)(9), 58.35(b)(2), (b)(4) or (b)(5), 50.19(b)(3), (b)(9), (b)(12), (b)(14), or (b)(15), activities under this ROSS program are categorically excluded from the requirements of the National Environmental Policy Act of 1969 and are not subject to environmental review under related laws and authorities.

2. Applicable Requirements

Unless specifically enumerated in this NOFA, all applicants, lead and non-lead applicants, are subject to the requirements specified in Section III.C. of the General Section. Grantees are subject to regulations and other requirements found in:

a. 24 CFR 84 “Uniform Administrative Requirements for Grants and Agreements with Institutions of Higher Education, Hospitals, and Other Nonprofit Organizations”;

b. 24 CFR 85 “Administrative Requirements for Grants and Cooperative Agreements to State, Local, and Federally Recognized Indian Tribal Governments”;

c. 24 CFR 964 “Tenant Participation and Tenant Opportunities in Public Housing”;

d. OMB Circular A-87 “Cost Principles for State, Local, and Indian Tribal Governments”;

e. OMB Circular A-110 “Uniform Administrative Requirements for Grants and Other Agreements with Institutions of Higher Education, Hospitals and Other Non-Profit Organizations”;

f. OMB Circular A-122 “Cost Principles for Non-Profit Organizations”; and

g. OMB Circular A-133 “Audits of States, Local Governments, and Non-Profit Organizations”.

3. Economic Opportunities for Low- and Very Low-Income Persons (Section 3)

Applicants and grantees must also comply with Section 3 of the Housing and Urban Development Act of 1968, 12 U.S.C. 1701u and ensure that training, employment, and other economic opportunities shall, to the greatest extent feasible, be directed toward low and very low-income persons, particularly those who are recipients of government assistance for housing and to business concerns which provide economic opportunities to low and very low-income persons.

4. Fair Housing and Civil Rights Laws

Applicants and their subrecipients must comply with all Fair Housing and Civil Rights laws, statutes, regulations, and Executive Orders as enumerated in 24 CFR 5.105(a), as applicable. Please see the General Section for more information.

D. Reporting

1. Semi-Annual Performance Reports

Grantees must submit semi-annual performance reports to the field office or area ONAP. These progress reports must include financial reports (SF-269A), and a Logic Model (HUD-96010) showing achievements to date against outputs and outcomes proposed in the application and approved by HUD. A narrative describing milestones, work plan progress, and problems encountered and methods used to address the problems to support the data in the logic model is optional. HUD anticipates that some of the reporting of financial status and grant performance will be through electronic or Internet-based submissions. Grantees must use quantifiable data to measure performance against goals and objectives outlined in their work plan. Applicants that receive awards from HUD should be prepared to report on additional measures that HUD may designate at time of award. Performance reports are due to the field office on July 30 and January 31 of each year. If reports are not received by the due date, grant funds will be suspended until reports are received. For FY2006, HUD is considering a new concept for the Logic Model. The new concept is a Return on Investment (ROI) statement. HUD will be publishing a separate notice on the ROI concept.

2. Final Report

All grantees must submit a final report to their local field office or area ONAP that will include a financial report (SF-269A), a final Logic Model, and a narrative evaluating overall results achieved against their work plan. Grantees must use quantifiable data to measure performance against goals and objectives outlined in their work plan. The financial report must contain a summary of all expenditures made from the beginning of the grant agreement to the end of the grant agreement and must include any unexpended balances. The final Logic Model and financial report are due to the field office 90 days after the termination of the grant agreement.

3. Final Audit

Grantees that expend $500,000 in federal funds in a given program or fiscal year are required to obtain a complete final close-out audit of the grant's financial statements by a Certified Public Accountant (CPA), in accordance with generally accepted government audit standards. A written report of the audit must be forwarded to HUD within 60 days of issuance. Grant recipients must comply with the requirements of 24 CFR 84 or 24 CFR 85 as stated in OMB Circulars A-87, A-110, and A-122, as applicable.

4. Racial and Ethnic Data

HUD requires that funded recipients collect racial and ethnic beneficiary data. HUD has adopted the Office of Management and Budget's Standards for the Collection of Racial and Ethnic Data. In view of these requirements, applicants should use form HUD-27061, Racial and Ethnic Data Reporting Form.

VII. Agency Contact(s)

For questions and technical assistance, you may call the Public and Indian Housing Information and Resource Center at 800-955-2232. For persons with hearing or speech impairments, please call the toll-free Federal Relay Service at 800-877-8339. In the case of tribes/TDHEs, please contact HQ ONAP at 800-561-5913 or (303) 675-1600 (this is not a toll-free number).

VIII. Other Information

A. Code of Conduct. Please see the General Section for more information.

B. Transfer of Funds. If transfer of funds from any of the ROSS programs does become necessary, HUD will consider the amount of un-funded qualified applications in deciding to which program the extra funds will be transferred.

C. Paperwork Reduction Act. The information collection requirements contained in this document have been approved by the Office of Management and Budget (OMB) under the Paperwork Reduction Act of 1995 (44 U.S.C. 3501-3520) and assigned OMB control number 2577-0229. In accordance with the Paperwork Reduction Act, HUD may not conduct or sponsor, and a person is not required to respond to, a collection of information unless the collection displays a currently valid OMB control number. Public reporting burden for the collection of information is estimated to average 49.5 hours per respondent for the application. This includes the time for collecting, reviewing, and reporting the data for the application. The information will be used for grantee selection and monitoring the administration of funds. Response to this request for information is required in order to receive the benefits to be derived.

BILLING CODE 4210-01-P

Public Housing Neighborhood Networks Program

Overview Information

A. Federal Agency Name: Department of Housing and Urban Development, Office of Public and Indian Housing.

B. Funding Opportunity Title: Public Housing Neighborhood Networks program.

C. Announcement Type: Initial announcement.

D. Funding Opportunity Number: The Federal Register number for this NOFA is: FR-5030-N-33. The OMB approval number for this program is 2577-0229.

E. Catalog of Federal Domestic Assistance (CFDA) Number(s): 14.875.

F. Dates: The application deadline date is June 23, 2006.

G. Optional, Additional Overview Content Information:

1. Purpose of Program: The purpose of the Public Housing Neighborhood Networks (NN) program is to provide grants to public housing authorities (PHAs) to: (a) Update and expand existing NN/community technology centers; or (b) establish new NN centers. These centers offer comprehensive services designed to help public housing residents achieve long-term economic self-sufficiency. This program is authorized under § 9(d)(1)(E), § 9(e)(1)(K), § 9(h)(8), and § 24(d)(1)(G).

2. Funding Available: The Department plans to award approximately $7,500,000 under the Neighborhood Networks program in Fiscal Year 2006.

3. Award Amounts: Awards will range from $100,000 to $550,000.

4. Eligible Applicants: Eligible applicants are PHAs only.

Tribes and tribally designated housing entities (TDHEs), nonprofit organizations, and resident associations are not eligible to apply for funding under the Public Housing Neighborhood Networks program.

5. Cost Sharing/Match Requirement: PHAs are required to match at least 25 percent of the requested grant amount.

6. Grant term. The grant term is three years from the execution date of the grant agreement.

Grant program | Total funding | Eligible applicants | Maximum grant amount
Neighborhood Networks | $7.5 Million | PHAs—existing centers | $100,000 for PHAs with 1-780 units; $150,000 for PHAs with 781-2,500 units; $200,000 for PHAs with 2,501-7,300 units; $250,000 for PHAs with 7,301 units or more.
|  | PHAs—new centers | $250,000 for PHAs with 1-780 units; $350,000 for PHAs with 781-2,500 units; $450,000 for PHAs with 2,501-7,300 units; $550,000 for PHAs with 7,301 units or more.

Full Text of Announcement

I. Funding Opportunity Description

A. Definition of Terms

1. Contract Administrator is a grant administrator or financial management agent that oversees the implementation of the grant and/or the financial aspects of the grant.

2. An existing computer center is: (1) A computer lab, or technology center owned and operated by a PHA which serves residents of public housing and has not received prior NN funding and therefore is not officially designated a HUD Public and Indian Housing (PIH) NN center; (2) a computer lab designated as a HUD PIH NN center, which seeks to expand its services; or (3) a computer lab which needs funding under this program to become operational and serve residents of public housing.

3. A new NN center is one that will be established (i.e., there is no infrastructure, space, or equipment currently in use for this purpose) with NN grant funds. Note: An applicant previously funded under Neighborhood Networks may apply under the “New Computer Center” category only if it will develop a new center in a development which cannot be served by the applicant's existing NN center(s).

4. Past Performance is a threshold requirement. Using Rating Factor 1, HUD's field offices will evaluate applicants for past performance to determine whether an applicant has the capacity to manage the grant it is applying for. Field offices will evaluate the past performance of contract administrators for applicants that required one.

5. Person with disabilities means a person who:

a. Has a condition defined as a disability in section 223 of the Social Security Act;

b. Has a developmental disability as defined in section 102 of the Developmental Disabilities Assistance Bill of Rights Act; or

c. Is determined to have a physical, mental, or emotional impairment which:

(1) Is expected to be of long-continued and indefinite duration;

(2) Substantially impedes his or her ability to live independently; and

(3) Is of such a nature that such ability could be improved by more suitable housing conditions.

The term “person with disabilities” includes persons who have acquired immunodeficiency syndrome (HIV/AIDS) or any conditions arising from the etiologic agent for AIDS. In addition, no individual shall be considered a person with disabilities solely based on drug or alcohol dependence.

The definition provided above for persons with disabilities is the proper definition for determining program qualifications. However, the definition of a person with disabilities contained in section 504 of the Rehabilitation Act of 1973 and its implementing regulations must be used for purposes of providing reasonable accommodations and for program accessibility for persons with disabilities.

6. Project Coordinator is responsible for coordinating the grantee's approved activities to ensure that grant goals and objectives are met. A qualified Project Coordinator is someone with at least two years of experience working on supportive services designed specifically for underserved populations. The Project Coordinator and grantee are both responsible for ensuring that all federal requirements are followed.

7. Secretary means the Secretary of Housing and Urban Development.

8. Senior person means a person who is at least 62 years of age.

B. Program Description

1. The Public Housing Neighborhood Networks program provides grants to PHAs to (1) update and expand existing NN/community technology centers; or (2) establish new NN centers.

2. NN centers must be located within a public housing development, on PHA land, or within reasonable walking distance to the PHA development(s).

3. HUD is looking for applications that implement comprehensive programs within the three-year grant term, which will result in improved economic self-sufficiency for public housing residents. HUD is looking for proposals that involve partnerships with organizations that will supplement and enhance the services offered to residents.

4. NN centers provide computer and Internet access to public housing residents and offer a full range of computer and job training services. Applicants should submit proposals that will incorporate computer and Internet use to: Provide job training for youths, adults and seniors; expand educational opportunities for residents; promote economic self-sufficiency and help residents transition from welfare to work; assist children with homework; provide guidance to high school students (or other interested residents) for post-secondary education (college or trade schools); and provide other services deemed necessary from resident input.

5. All applicants must complete a business plan (see sample HUD-52766 provided in the Appendix) covering the three-year grant term. The applicant's business plan and narrative must indicate how the center(s) will become self-sustaining after the grant term expires. Proposed grant activities should build on the foundation created by previous NN grants such as Resident Opportunities and Self-Sufficiency (ROSS) grants, or other federal, state and local self-sufficiency efforts.

C. Eligible Activities

1. Hiring a Qualified Project Coordinator to Administer the Grant Program. A qualified Project Coordinator must have project management and information technology experience. The Project Coordinator should be hired for the entire term of your grant. The Project Coordinator is responsible for ensuring that the center achieves its proposed goals and objectives. In addition, the Project Coordinator is responsible for the following activities:

a. Marketing the program to residents;

b. Assessing residents' needs, interests, skills, and job-readiness;

c. Assessing residents' needs for supportive services, e.g., childcare, transportation;

d. Designing and coordinating grant activities based on residents' needs and interests; and

e. Monitoring the progress of program participants and evaluating the overall success of the program. For more information on how to measure performance, please see Rating Factor 5 in the “Application Review Information” section of this NOFA.

2. Literacy training and GED preparation;

3. Computer training, from basic to advanced;

4. College preparatory courses and information;

5. Job Training and Activities Leading to Self-Sufficiency. Job training for very low and low-income persons is a requirement under Section 3 of the Housing and Urban Development Act of 1968. Some examples of the job training skills encouraged are: oral and written communication skills; work ethic; interpersonal and teamwork skills; resume writing; interviewing techniques, creating job training and placement programs with local employers and employment agencies; tax preparation and submission assistance, including Earned Income Tax credits; other activities moving toward housing and economic self-sufficiency that utilize the computer center, such as financial literacy, credit repair, and homeownership training; and post-employment follow-up to assist residents who are new to the workplace.

6. Physical improvements. Physical improvements must relate to providing space for a Neighborhood Networks center. Renovation, conversion, wiring, and repair costs may be essential elements of physical improvements. In addition, architectural, engineering, and related professional services required to prepare plans or drawings, write-ups, specifications or inspections may also be part of the cost of implementing physical improvements.

a. Creating an accessible space for persons with disabilities is an eligible use of funds. Refer to Office of Management and Budget (OMB) Circular A-87, “Cost Principles for State, Local and Indian Tribal Governments.”

b. The renovation, conversion, or joining of vacant units in a PHA development to create space for the equipment and activities of a NN center (computers, printers, and office space) are eligible activities for physical improvement.

c. The renovation or conversion of existing common areas in a PHA development to accommodate a NN center is eligible.

d. If renovation, conversion, or repair is done off-site, the PHA must provide documentation with its application that it has control of the proposed property and will continue to have control for at least five years. Control can be demonstrated through a lease agreement, ownership documentation, or other appropriate documentation.

7. Maintenance and insurance costs. Includes installing and maintaining the hardware and software as well as insurance coverage for the space and equipment.

8. Purchase of computers, printers, software, other peripheral equipment, and furniture for the NN Center are eligible expenses. Section 3 of the Housing and Urban Development Act requires funding recipients to provide business opportunities be directed to very low and low income persons. In addition, costs of computer hardware and software for the needs of persons with disabilities are eligible costs for this funding category;

9. Distance Learning Equipment. Distance learning equipment (including the costs for video casting and purchase/lease/rental of distance learning equipment) is an eligible use of funds. The proposal must indicate that the center will be working in a virtual setting with a college, university or other educational organization. Distance learning equipment can also be used to link one or more centers so that residents can benefit from courses being offered at only one site.

10. Security and related costs. Includes space and minor refitting, locks, and other equipment for safeguarding the center and other longer-term security measures, as needed.

11. Hiring Residents. Grantees may hire residents to help with the implementation of this grant program.

12. Administrative Costs. See Section IV.E for information on this topic.

13. Staff Training and Long Distance Travel. Funds may be used for applicant staff or subcontractors' training in program-relevant areas. This activity should not exceed $5,000. See Section IV.E for information on this topic.

D. Regulations Governing the Neighborhood Networks Grant

The Neighborhood Networks program is governed by regulations in 24 CFR parts 905 and 968.

II. Award Information

A. Total Funding

The Department expects to award approximately a total of $7,500,000 under the Neighborhood Networks program in Fiscal Year 2006. Awards will be made as follows:

1. Forty percent of available funding for Neighborhood Networks will be used for updating and expanding existing computer technology centers. The other 60 percent will provide grants to establish and operate new Neighborhood Networks centers.

2. PHAs must use the number of occupied public housing units as of September 30, 2005 per their budget. This is required so the PHA can determine the maximum grant amount they are eligible for in accordance with the categories listed below. PHAs should clearly indicate on the Fact Sheet (HUD-52751) the number of units under management.

a. Funding Levels For Existing Centers:

Number of conventional units | Maximum funding
1-780 units | $100,000
781-2,500 units | 150,000
2,501-7,300 units | 200,000
7,301 or more units | 250,000

b. Funding Levels For New Centers:

Number of conventional units | Maximum funding
1-780 units | $250,000
781-2,500 units | 350,000
2,501-7,300 units | 450,000
7,301 or more units | 550,000

B. Grant Period

Three years. The grant period shall begin the day the grant agreement and the form HUD-1044, “Assistance Award/Amendment” are signed by the grantee and HUD.

C. Grant Extensions

Requests to extend the grant term must be submitted in writing by the grantee to the local HUD field office. Such requests must be done prior to grant termination and with at least 30 days notice to give the field office a reasonable amount of time to fully evaluate the request. Requests must explain why the extension is necessary, what work remains to be completed, and what work and progress was accomplished to date. Extensions may be granted one time only once by the field office or area ONAP for a period not to exceed six months and may be granted for a further six months by the HUD Headquarters Program Office at the request of the Field Office or area ONAP.

D. Type of Award

Grant agreement.

E. Subcontracting

Subcontracting is permitted. Grantees must follow the HUD federal procurement regulations found at 24 CFR 85.36.

III. Eligibility Information

A. Eligible Applicants

Public Housing Authorities are eligible to apply for this funding category. Tribes/TDHEs, nonprofit organizations, and resident associations are not eligible to apply for this funding category.

B. Cost Sharing or Matching

All applicants are required to obtain a 25 percent cash or in-kind match. The match is a threshold requirement. Applicants who do not demonstrate the minimum 25 percent match will fail the threshold requirement and will not receive further consideration for funding. Match proposed to be used for ineligible activities will not be accepted. Please see the section below on threshold requirements for more information on what is required for the match.

C. Other

1. Threshold Requirements

Applicants must respond to each threshold requirement clearly and thoroughly by following the instructions below. If your application fails one threshold requirement (regardless of the type of threshold) it will be considered a failed application. All applicants will be subject to all thresholds listed in the General Section.

a. Match. All applicants are required to commit a 25 percent match in cash or in-kind donations that are defined in this paragraph. Joint applicants must together have at least a 25 percent match. Applicants who do not demonstrate the minimum 25 percent match will fail this threshold requirement and will not receive further consideration for funding. If you are also applying for funding under the ROSS grant program, you must use different sources of match donations for each grant application and you must indicate which ROSS grant(s) you are applying for by attaching a narrative to your application. This narrative must state the sources and amounts of each of your match contributions for this application as well as any other HUD grant program to which you are applying.

Match donations must be firmly committed. Firmly committed means that the amount of match resources and their dedication to Neighborhood Networks-funded activities must be explicit, in writing and signed by a person authorized to make the commitment. Letters of commitment and memoranda of understanding (MOU) must be on organization letterhead, and signed by a person authorized to make the commitment. The letters of commitment/MOUs must indicate the total dollar value of the commitment, be dated between the publication date of this NOFA and the application deadline published in this NOFA or an amended deadline, and indicate how the commitment will relate to the proposed program. If the commitment is in-kind, the letters should explain exactly what services or material will be provided. The commitment must be available at time of award. Applicants proposing to use their own, non-HUD grant funds to meet the match requirement, must also include a letter of commitment indicating the type of match (cash or in-kind) and how the match will be used. Grant awards shall be contingent upon letters of commitment being submitted with your application. Match proposed to be used for ineligible activities will not be accepted. Please see the General Section for instructions for submitting the required letters with your electronic application.

(1) The value of volunteer time and services shall be computed using the professional rate for the local area or the national minimum wage rate of $5.15 per hour (Note: applicants may not count their staff time towards the match.) If grantees propose to use volunteers for development or operations work that would otherwise be subject to payment of Davis-Bacon or HUD-determined prevailing wage rates (including construction, rehabilitation or maintenance) their services must be computed using the appropriate methodology. Additional information on these wage rates can be found at http://www.hud.gov/, by contacting HUD Field Office Labor Relations staff, or from the PHA. Such volunteers must also meet the requirements of section 12(b) of the United States Housing Act of 1937 and 24 CFR part 70;

(2) In order for HUD to determine the value of any donated material, equipment, staff time, building, or lease, your application must provide a letter from the organization making the donation. The letter must state the value of the contribution.

(3) Other resources/services that can be committed include: In-kind services provided to the applicant; funds from federal sources that are allowed by statute, for example Community Development Block Grant (CDBG) funds; funds from any state or local government sources; and funds from private contributions. Applicants may also partner with other program funding recipients to coordinate the use of resources in the target area.

b. Past Performance. HUD's field offices will evaluate data provided by applicants as well as their past performance to determine whether applicants have the capacity to manage the grants they are applying for. Field offices will evaluate the contract administrators' past performance for applicants required to have a contract administrator. Using Rating Factor 1, the field office will evaluate applicants' past performance. Applicants should carefully review Rating Factor 1 to ensure their applications address all of the criteria requested. If applicants fail to address what is requested in Rating Factor 1, their application will not receive further consideration.

c. Contract Administrator Partnership Agreement. PHAs that are troubled at time of application are required to submit a signed Contract Administrator Partnership Agreement. The agreement must be for the entire grant term. Grant awards must have a signed Contract Administrator Partnership Agreement included in the application. Applicants required to have a Contract Administrator Partnership Agreement that fail to submit one will fail this threshold requirement and will not receive further consideration for funding.

Troubled PHAs are not eligible to be contract administrators. Grant writers who assist in the preparation of their Neighborhood Networks applications are also ineligible to be contract administrators. Please see the General Section Definitions Section, and Program Requirements Section for instructions for more information.

d. Minimum Score for All Fundable Applications. Applications that pass all threshold requirements and go through the ranking and rating process, must receive a minimum score of 75 in order to be considered for funding.

e. The Dun and Bradstreet Universal Numbering System (DUNS) Number Requirement. Refer to the General Section for information regarding the DUNS requirement. You will need to have a DUNS number to receive an award from HUD.

f. Off-site Physical Improvements. Physical improvements that relate to providing space for a Neighborhood Networks center are eligible activities, including for off-site centers. If renovation, conversion or repair is done off-site, the PHA must describe this circumstance in their narrative and provide documentation with its application that it has control of the proposed property and will continue to have control for at least five years. Control can be demonstrated through a lease agreement, ownership documentation or other appropriate documentation.

2. Program Requirements

a. Program Evaluations. A portion of grant funds should be reserved to ensure that evaluations can be completed for all participants who received training through this program.

b. Physical Improvements. All renovations must meet appropriate accessibility requirements, including the requirements of Section 504 of the Rehabilitation Act of 1973 at 24 CFR part 8, Architectural Barriers Act at 24 CFR part 40, and the Americans with Disabilities Act. Design, construction, or alteration of buildings in conformance with the Uniform Federal Accessibility Standards (UFAS) shall be deemed to comply with the requirements of 24 CFR 8.21, 8.22, 8.23, and 8.25 with respect to those buildings.

c. Contract Administrator. The contract administrator must assure that the financial management system and procurement procedures that will be implemented during the grant term comply with 24 CFR part 85. CAs are expressly forbidden from accessing HUD's Line of Credit Control System (LOCCS) and submitting vouchers on behalf of grantees. Contract administrators must assist PHAs in meeting HUD's reporting requirements, see Section VI.C. “Reporting” for more information. Contract administrators may be: Local housing agencies; community-based organizations such as community development corporations (CDCs), local faith-based institutions; nonprofit organizations; state/regional associations and organizations. Troubled PHAs are not eligible to be contract administrators. Grant writers who assist applicants in preparing their Neighborhood Networks applications are also ineligible to be contract administrators. Organizations that the applicant proposes to use as the contract administrator must not violate the conflict of interest standards as defined in 24 CFR part 84 and 24 CFR part 85.

c. Other Requirements Applicable to All Programs. All applicants, lead and non-lead, should refer to “Other Requirements and Procedures Applicable to All Programs” of the General Section for other requirements to which they may be subject.

3. Number of Applications Permitted

a. General. Applicants may submit only one application for a NN grant.

b. Joint applications. Two or more applicants may join together to submit a joint application for proposed grant activities. Joint applications must designate a lead applicant. Only the lead applicant is subject to the threshold requirements outlined in this NOFA. However, both lead and non-lead applicants are subject to threshold requirements outlined in the General Section. The lead applicant must be registered with Grants.gov and submit the application using the Grants.gov portal. Applicants who submit joint applications cannot submit separate applications as sole applicants under this NOFA. Note: The lead applicant will determine the maximum funding amount the applicants are eligible to receive.

4. Eligible Participants

All program participants must be residents of public housing or residents of other housing assisted with funding made available under the 2006 Appropriations Act (e.g., residents receiving tenant-based or project-based voucher assistance, as well as elderly and disabled residents).

IV. Application and Submission Information

A. Address To Request an Application Package

Copies of this published NOFAs and application forms will be posted on www.Grants.gov/Apply. If you have difficulty accessing the information you may call the Grants.gov help desk toll free at (800) 515-GRANTS or you may send an e-mail message to Support@Grants.gov.

B. Content and Form of Application Submission

1. Application Preparation

Before preparing an application, applicants should carefully review the program description, program requirements, ineligible activities, threshold requirements contained in this NOFA, and the General Section. Applicants should also review each rating factor found in the “Application Review Information” section before writing a narrative response. Applicants' narratives must be descriptive in order to ensure that every requested item is addressed. Applicants should be sure to include all requested information, according to the instructions found in this NOFA and the General Section. This will help ensure a fair and accurate review of your application.

2. Content of Application

Applicants must write narrative responses to each of the rating factors described in the section below. Their responses must demonstrate that they have the necessary capacity to successfully manage this grant program. Applicants should ensure that their narratives are written clearly and concisely so that HUD reviewers, who may not be familiar with the Neighborhood Networks program, fully understand the proposal. HUD encourages applicants to carefully review each rating factor, the regulations governing the Neighborhood Networks program, at 24 CFR parts 905 and 968, and the General Section prior to responding to the rating factors.

3. Format of Application

(1) Applications may not exceed 35 narrative pages. Narrative pages must be submitted as separate electronic files, formatted as double-spaced, single-sided documents. Each file should have the pages numbered consecutively. Use Times New Roman font style and font size 12. Supporting documentation, required forms, and certifications will not be counted toward the 35 narrative page limit. Applicants should make every effort to submit only what is necessary in terms of supporting documentation. Please see the General Section for instructions on how to submit supporting documentation with your electronic application.

(2) The following checklist has been provided to guarantee that the applicants submit all of the required forms and information. Electronic application filers should make sure the file names for their narratives reflect the labels in the checklist. Each narrative must be in a separate file with all the files zipped together and sent as an attachment in the application submittal. (Note: Only applicants who receive a waiver to submit paper applications, must submit their applications in a three-ring binder, with TABS dividing the sections as indicated below) When submitting electronically, you do not need to submit these in TABS. Copies of the forms may be downloaded with the application package and instructions from www.Grants.gov/Apply of from the following Web site: http://www.hud.gov/offices/adm/grants/nofa06/snofaforms.cfm.

TAB 1: Required Forms

1. Acknowledgment of Application Recedsipt (HUD-2993), for paper application submissions only;

2. Application for Federal Assistance (SF-424);

3. SF-424 Supplement—Survey on Ensuring Equal Opportunity for Applicants;

4. Questionnaire for HUD's Initiative on Removal of Regulatory Barriers (HUD-27300);

5. ROSS Fact Sheet (HUD-52751);

6. Grant Application Detailed Budget (HUD-424-CB);

7. Grant Application Detailed Budget Worksheet (HUD-424-CBW);

8. Applicant/Recipient Disclosure/Update Report (HUD-2880);

9. Certification of Consistency with RC/EZ/EC-II Strategic Plan (HUD-2990) if applicable;

10. Certification of Consistency with the Consolidated Plan (HUD-2991) if applicable;

11. Disclosure of Lobbying Activities (HUD-SF-LLL)—if applicable;

12. Disclosure of Lobbying Activities Continuation Sheet (HUD-SF-LLL-A)—if applicable; and

13. You Are Our Client Grant Applicant Survey (HUD-2994-A) (Optional)

14. Facsimile Transmittal (must be used as the cover age to fax third party letters, documents, etc., that cannot be attached to the electronic application) (HUD-96011) HUD will not accept entire applications submitted by facsimile or read a fax that was not transmitted with the HUD 96011 as the cover page.

TAB 2: Threshold Requirements

1. Letters from Partners attesting to match;

2. Letter from Applicant's organization attesting to match (if applicant is contributing to match); and

3. Contract Administrator Partnership Agreement (required for troubled PHAs) (HUD-52755).

4. If applicable, documentation of site control (for 5 years) for off-site physical improvements.

TAB 3: Rating Factor 1

1. Narrative.

2. Chart A: Program Staffing (HUD-52756).

3. Chart B: Applicant/Administrator Track Record (HUD-52757).

4. Resumes/Position Descriptions.

TAB 4: Narrative for Rating Factor 2

TAB 5: Rating Factor 3

1. Narrative.

2. Business Plan (see sample) (HUD-52766).

TAB 6: Narrative for Rating Factor 4

TAB 7: Narrative for Rating Factor 5 and NN Program Forms

1. Narrative.

2. Logic Model (HUD-96010).

C. Submission Dates and Times

1. Deadline Dates

Electronic applications must be received and validated by Grants.gov no later than 11:59:59 p.m. eastern time on June 23, 2006. For applicants receiving a waiver to the electronic filing requirement, the approval of the waiver request will provide submission instructions. Paper applications must be received no later than the deadline date.

2. Proof of Timely Submission

Please see the General Section for this information. Applicants that fail to meet the deadline for application receipt will not receive funding consideration.

D. Intergovernmental Review

Not applicable.

E. Funding Restrictions

1. Reimbursement for Grant Application Costs

Applicants who receive a NN award are prohibited from using these grant funds to reimburse any costs incurred while preparing their applications.

2. Covered Salaries

a. Project Coordinator. The Neighborhood Networks program will fund up to $65,000 in combined annual salary and fringe benefits for up to a full-time Project Coordinator. Applicants may propose a part-time coordinator at lesser salary. The Project Coordinator's salary and fringe benefits may not exceed 30 percent of the total grant amount. For audit purposes, applicants must have documentation on file demonstrating that the salary paid to the Project Coordinator is comparable to similar professions in their local area.

b. Hiring Residents. Grantees may hire residents to help with the implementation of this grant program. No more than five percent of grant funds can be used for this purpose.

c. NN funds may only be used for the types of salaries described in this section according to the restrictions described herein. NN funds may not be used to pay for salaries of any other kind. NN funds may only be used to pay for salaries of staff that provide direct services to residents. Direct services staff, for purposes of this NOFA, are defined as applicant personnel or subcontractors who, as their primary responsibility, provide services directly to residents that participate in the activities described in this application, e.g., computer skills training.

d. Neighborhood Networks grant funds cannot be used to hire or pay the services of a Contract Administrator.

3. Funding Requests in Excess of Maximum Grant Amount

Applicants that request funding in excess of the maximum grant amount which they are eligible to receive will be given consideration only for the maximum grant for which they are eligible. If awarded, the grantee will work with the Field Office to re-apportion the grant funds for eligible activities.

4. Administrative Costs

Administrative costs may include, but are not limited to, purchase of office furniture, equipment, supplies, local travel, and utilities. To the maximum extent practicable, when leasing space or purchasing equipment or supplies, business opportunities should be provided to businesses under Section 3 of the Housing and Urban Development Act of 1968. Administrative costs may not be used to pay for salaries. Administrative costs must not exceed 10 percent of the total grant amount requested from HUD. Administrative costs must adhere to OMB Circular A-87. Please use HUD-424-CBW to itemize your administrative costs. See Section IV.E for information on this topic.

5. Long-Distance Travel

Grantees may not use more than $5,000 for applicant staff/subcontractor long distance travel activities.

6. Ineligible Activities/Costs

Grant funds may not be used for ineligible activities:

a. Payment of wages and/or salaries to participants for receiving supportive services and/or training programs;

b. Purchase, lease, or rental of land;

c. Purchase, lease, or rental of vehicles;

d. vehicle maintenance and/or insurance;

e. Entertainment costs;

f. Purchasing food;

g. Salaries and fringe benefits for staff that are not direct services staff. Direct services staff, for purposes of this NOFA, are defined as applicant personnel or subcontractors who, as their primary responsibility, provide services directly to residents that participate in the activities descried in this application, e.g. computer skills training;

h. Stipends;

i. Scholarships for degree programs;

j. Cost of application preparation;

k. Costs which exceed limits identified in the NOFA for the following: Project Coordinator, resident salaries, physical improvements (see below), long distance travel and administrative expenses; and

l. Any other costs not eligible under section 9(d)(1)(E) of the U.S. Housing Act of 1937.

m. NN funds cannot be used to hire or pay for the services of a Contract Administrator.

7. Physical Improvements

For new centers, expenses for physical improvements may not exceed 20 percent of the total grant amount requested from HUD. For existing centers, expenses for physical improvements may not exceed 10 percent of the total grant amount.

F. Other Submission Requirements

1. All applicants are required to submit their applications electronically via Grants.gov, unless they request and are approved by HUD for a waiver of that requirement. Please refer to the General Section for information on how to submit your application and all attachments electronically via Grants.gov. See the General Section for instructions for requesting a waiver of the electronic application submission requirements.

2. Proof of Timely Submission

Please see the General Section for this information. Applicants that fail to meet the deadline for application receipt will not receive funding consideration.

3. For Waiver Recipients Only

Applicants who have received waivers to submit paper applications (see the General Section for more information) must submit their applications to: HUD Grants Management Center, Mail Stop: ROSS Family and Homeownership, 501 School Street, SW., 8th floor, Washington, DC 20024. Applications must be received by the deadline date.

4. Number of Copies

Only applicants receiving a waiver to the electronic submission requirement may submit a paper copy application. Paper applications must be submitted in triplicate (one original and two identical copies). For all applicants with a waiver, the original and one identical copy must be sent to the Grants Management Center and an identical copy must be sent to your local Field Office in accordance with the submission and timely receipt requirements described in the General Section. All paper applications must be received by the deadline date.

V. Application Review Information

A. Criteria

1. Factors for Award Used To Evaluate and Rate Applications to the Neighborhood Networks Program

The factors for rating and ranking applicants and maximum points for each factor are provided below. The maximum number of points available for this program is 102. This includes two RC/EZ/EC bonus points. The General Section contains a certification that must be completed in order for the applicant to be considered for RC/EZ/EC-II bonus points. A listing of federally designated RC/EZ/EC-II is available on HUD's Web site at: www.hud.gov/fundsdsavailable. The agency certifying to RC/EZ/EC-II status must be included in the listing on HUD's Web site. Please see the General Section for more details. Note: Applicants should carefully review each rating factor before writing a response. Applicants' narratives must be descriptive and detailed in order to ensure every requested item is addressed. Applicants should make sure their narratives thoroughly address the Rating Factors below and include all requested information, according to the instructions found in this NOFA. This will help ensure a fair and accurate application review.

a. Rating Factor 1: Capacity of the Applicant and Relevant Organizational Staff (35 Points)

This factor addresses whether the applicant has the organizational capacity and resources necessary to successfully implement the proposed activities within the grant period. In rating this factor, HUD will consider whether the proposal demonstrates that the applicant will have qualified and experienced staff. HUD will also bear in mind whether or not the proposed staff will be dedicated to administering the program.

(1) Proposed Program Staffing (12 Points).

(a) Staff Experience (4 Points). HUD is requesting details about the knowledge and experience of the proposed Project Coordinator, staff, and partners in planning and managing programs. Experience will be judged in terms of recent, relevant and successful experience of proposed staff to undertake program activities. In rating this factor, HUD will consider experience within the last 5 years to be recent; experience pertaining to the specific activities being proposed to be relevant; and experience producing specific accomplishments to be successful. Applicants will receive a greater amount of points if the proposed staff has recent and applicable experience. HUD is looking for staff to possess experience working with and successfully implementing similar projects. If proposed staff has experience in providing community technology services and in delivering social service programs to underserved populations, applicants will receive a maximum score of four points. If proposed staff has experience in only one area, applicants will receive two points. If proposed staff has experience in neither area, applicants will receive a score of 0 for this subfactor.

The following information should be included in the application in order to provide HUD an understanding of the proposed staff's experience and capacity:

(i) The number of staff years (one staff year = 2080 hours) to be allocated to the program by each employee as well as each of their roles in the program;

(ii) The staff's relevant educational background and/or work experience;

(iii) Relevant and successful experience running programs whose activities include social services and computer programs that are similar to the eligible program activities described in this NOFA;

(b) Hiring Residents (3 points). Three points will be awarded if applicants commit to hiring one to three residents. Small PHAs should hire one person, medium PHAs should hire one to two people, and large PHAs should hire three people in order to get the maximum score. In order to receive points for this subfactor, applicants must explain in their narrative that they will hire residents and indicate the number of residents to be hired, and work they will be assigned.

(c) Organizational Capacity (5 Points). Applicants will be evaluated based on whether they have, and/or whether their partners have sufficient qualified personnel to deliver the proposed activities in a timely and effective fashion. In order to enhance or supplement capacity, applicants should provide evidence of partnerships with nonprofit organizations or other organizations that have experience providing community technology services to typically underserved populations. Applicants' narrative must describe their ability to immediately begin the proposed work program. Applicants may fax (see the General Section for instructions) resumes or position descriptions (where staff is not yet hired) for all key personnel. Please see the General Section for instructions on how to submit the required information with your electronic application. (Resumes/position descriptions do not count toward the 35-page limit.)

(2) Past Performance of Applicant/ Contract Administrator (6 Points). Applicants' narrative must describe how they (or their Contract Administrator) successfully implemented grant programs (including those listed below) designed to promote resident self-sufficiency or moving from welfare to work. Applicants' past experience may include, but is not limited to, running programs aimed at assisting residents of low-income housing achieve economic self-sufficiency; e.g. ROSS grants and Youthbuild. Applicants' narrative must indicate the grants they received and managed, the grant amounts, and grant terms (years) of the grants they are counting towards past experience. Applicants will be evaluated according to the following criteria:

(a) Benefits gained by participating residents. These must be measurable. Applicants should describe results their programs have obtained, (e.g. higher incomes, improved grades, higher rates of employment, increased savings, improved literacy, etc.);

(b) Description of timely grant expenditure throughout the term of past grants. Timely means regular drawdowns throughout the life of the grant, i.e. quarterly drawdowns, with all funds expended by the end of the grant term;

(c) Description of past leveraging. Applicants must describe how they have leveraged funding or in-kind services beyond what was originally proposed for past projects;

(3) Program Administration and Fiscal Management. (17 Points)

(a) Program Administration. (10 Points). Applicants should describe how they will manage the program; how HUD can be sure that there is program accountability; and provide a description of proposed staff's roles and responsibilities. Applicants should also describe how grant staff, and partners will report to the Project Coordinator and other senior staff.

(b) Fiscal Management. (7 Points). In rating this factor, applicants' skills and experience in fiscal management will be evaluated. If applicants have had any audit or material weakness findings in the past five years, they will be evaluated on how well they have addressed them. Applicants must provide the following:

(i) A complete description of their fiscal management structure, including fiscal controls currently in place, which includes those of a Contract Administrator for applicants who required one. i.e., troubled PHAs);

(ii) Applicants must list any audit findings in the past five years (HUD Inspector General, management review, fiscal, etc.), material weaknesses and what has been done to address them;

(iii) For applicants who are required to have a Contract Administrator, describe the skills and experience the Contract Administrator has in managing Federal funds.

b. Rating Factor 2: Need (10 Points)

This factor addresses the need for funding an applicant's proposed program. In responding to this factor, applicants will be evaluated on the extent to which they describe and document the level of need for their proposed activities.

In responding to this factor, applicants must include:

(1) Demonstrated Link Between Proposed Activities and Local Need (10 points). Applicants' narrative must demonstrate a clear relationship between proposed activities, community needs and the purpose of the program's funding in order for points to be awarded for this factor.

c. Rating Factor 3: Soundness of Approach (25 Points)

This factor addresses both the quality and cost-effectiveness of applicants' proposed business plan. The business plan must indicate a clear relationship between proposed activities, the targeted population's needs, and the purpose of the program funding. Applicants' activities must address HUD's policy priorities outlined in this Rating Factor.

In rating this factor HUD will consider:

(1) Quality of the Business Plan (20 points). This factor evaluates both the applicants' business plan and budget which will be evaluated based on the following criteria:

(a) Specific Services and/or Activities (9 points). Applicants' narrative must describe the specific services, course curriculum, and activities they plan to offer and who will be responsible for each. In addition to the narrative, applicants must also provide a business plan listing the specific services, activities, and outcomes they expect. The business plan must show a logical order of activities and progress and must tie to the outcomes and outputs applicants identify in the Logic Model (see Rating Factor 5). Please see a sample business plan (HUD-52766). Applicants' narrative must explain how their proposed activities will:

(i) Involve community partners in the delivery of services (4 points); and

(ii) Offer comprehensive services versus a small range of services geared toward enhancing economic opportunities for residents. (5 points).

(b) Feasibility and Demonstrable Benefits (4 points). This factor examines whether applicants' business plan is logical, feasible and likely to achieve its stated purpose during the term of the grant. HUD's desire is to fund applications that will quickly produce demonstrable results and advance the purposes of the Neighborhood Networks program.

(i) Timeliness. This subfactor evaluates whether applicants' business plan demonstrates that their project is ready to be implemented shortly after grant award. In addition, the timing of the application should not exceed three months following the execution of the grant agreement. The business plan must indicate timeframes and deadlines for accomplishing major activities.

(ii) Description of the problem and solution. The business plan will be evaluated based on how well applicants' proposed activities address the needs described in Rating Factor 2.

(c) Budget Appropriateness/Efficient Use of Grant. (5 Points) The score in this factor will be based on the following:

(i) Justification of expenses. (2 Points) Applicants will be evaluated based on whether their expenses are reasonable, well explained, and support the objectives of their proposal.

(ii) Budget Efficiency. (3 Points) Applicants will be evaluated based on whether their application requests funds commensurate with the level of effort necessary to accomplish their goals and anticipated results.

(d) Ineligible Activities. Two points will be deducted for each ineligible activity proposed in the application, as identified in Section IV(E). For example, you will lose 2 points if you propose costs that exceed the limits identified in the NOFA for a Project Coordinator.

(2) Addressing HUD's Policy Priorities (5 points). HUD wants to improve the quality of life for those living in distressed communities. HUD's grant programs are a vehicle for long-term, positive change that can be achieved at the community level. Applicants' narrative and business plan will be evaluated based on how well they meet the following HUD policy priorities:

(a) Improving the Quality of Life in Our Nation's Communities (1 point). In order to receive points in this category, applicants' narrative and business plan must indicate the types of activities, services, and training programs that will be offered. These programs should help residents successfully transition from welfare to work and earn higher wages, or for elderly/disabled residents, to continue to live independently.

(b) Providing Full and Equal Access to Grassroots Faith-Based and Other Community-Based Organizations in HUD Program Implementation (1 point). HUD encourages applicants to partner with grassroots organizations, e.g., civic organizations, grassroots faith-based and other community-based organizations. These grassroots organizations have a strong history of providing vital community services such as developing first-time homeownership programs, creating economic development programs, providing job training and other supportive services. In order to receive points under this factor, applicants' narrative and business plan must describe how applicants will work with these organizations and what types of services they will provide.

(c) Policy Priority for Increasing the Supply of Affordable Housing Through the Removal of Regulatory Barriers to Affordable Housing. (up to 2 points)

Under this policy priority, higher rating points are available to (1) governmental applicants that are able to demonstrate successful efforts in removing regulatory barriers to affordable housing, and (2) nongovernmental applicants undertaking activities in jurisdictions that have undertaken successful efforts in removing barriers. For applicants to obtain the policy priority points for efforts to successfully remove regulatory barriers, applicants should complete form HUD 27300, “Questionnaire for HUD's Initiative on Removal of Regulatory Barriers.” A copy of HUD's Notice entitled America's Affordable Communities Initiative, HUD's Initiative on Removal of Regulatory Barriers: Announcement of Incentive Criteria on Barrier Removal in HUD's 2004 Competitive Funding Allocations” can be found on HUD's Web site at http://www.hud.gov/grants/index.cfm. The information and requirements contained in HUD's regulatory barriers policy priority apply to this FY 20056 NOFA. A description of the policy priority and a copy of form HUD 27300 can be found in the application package posted to www.grants.gov. Applicants are encouraged to read the Notice as well as the General Section to obtain an understanding of this policy priority and how it can impact their score. A number of questions expressly request the applicant to provide brief documentation with their response. Other questions require that for each affirmative statement made, the applicant must supply a reference, URL, or a brief statement indicating where the back-up information may be found, and a point of contact, including a telephone number or e-mail address. The electronic copy of the HUD 27300 has space to identify a URL or reference that the material is being scanned and attached to the application as part of the submission or faxed to HUD following the facsimile submission instructions.

(d) Energy Star. (1 point) HUD has adopted a wide-ranging energy action plan for improving energy efficiency in all program areas. As a first step toward implementing the energy plan, HUD, the Environmental Protection Agency (EPA) and the Department of Energy (DoE) have signed a joint partnership to promote energy efficiency in HUD's affordable housing efforts and programs. The purpose of the Energy Star partnership is to promote energy efficiency of the affordable housing stock, but also to help protect the environment. Applicants constructing, rehabilitating, or maintaining housing or community facilities are encouraged to promote energy efficiency in design and operations. They are urged especially to purchase and use Energy Star labeled products. Applicants providing housing assistance or counseling services are encouraged to promote Energy Star materials and practices, as well as buildings constructed to Energy Star standards, to both homebuyers and renters. Program activities can include developing Energy Star promotional and information materials, outreach to low- and moderate-income renters and buyers on the benefits and savings when using Energy Star products and appliances, and promoting the designation of community buildings and homes as Energy Star compliant. For further information about Energy Star, see http://www.energystar.gov or call 1-888-STAR-YES (1-888-782-7937) or for the hearing-impaired, 1-888-588-9920 TTY. Applicants demonstrating that they will meet one or more provisions of this policy priority will receive one point.

(e) Economic Opportunities for Low- and Very Low-Income Persons (Section 3)—(2 Points). You will receive 2 points if your application demonstrates that you will implement Section 3 of the Housing and Urban Development Act of 1968 (12 U.S.C. 1701u) (Economic Opportunities for Low- and Very Low-Income Persons in Connection with assisted Projects) and its implementing regulations at 24 CFR part 135 in connection with this grant, if awarded. Information about Section 3 can be found at HUD's Section 3 Web site at www.hud.gov/fhe/sec3over.html. Your application must describe how you will implement Section 3 through the proposed grant activities. You must state that you will, to the greatest extent feasible, direct training, employment, and other economic opportunities to:

(a) Low- and very low-income persons, particularly those who are recipients of government assistance for housing, and

(b) Business concerns which provide economic opportunities to low- and very low-income persons.

d. Rating Factor 4: Leveraging Resources (20 Points)

(1) This factor addresses the applicant's ability to secure community resources that can be combined with HUD's grant resources in order to achieve program purposes. Applicants are required to create partnerships with organizations that can help achieve their program's goals. PHAs are required by section 12(d)(7) of the U.S. Housing Act of 1937 (entitled “Cooperation Agreements for Economic Self-Sufficiency Activities”) to make best efforts to enter into such agreements with relevant state or local agencies. In rating this factor, HUD will look at the extent to which applicants partner, coordinate and leverage their services and resources with other organizations serving the same or similar populations.

(2) Additionally, applicants must have at least a 25 percent cash or in-kind match. The match is a threshold requirement. Joint applicants must have at least a 25 percent match. Applicants who do not demonstrate the minimum 25 percent match will fail the threshold requirement and will not receive further consideration for funding. Leveraging in excess of the 25 percent of the requested grant amount will receive a higher point value. In evaluating this factor HUD will consider the extent to which applicants have partnered with other entities to secure additional resources. This will increase the effectiveness of the proposed program activities. The additional resources and services must be firmly committed, must support the proposed grant activities and must, in combined amount (including in-kind contributions of personnel, space and/or equipment, and monetary contributions) equal at least 25 percent of the grant amount requested in this application. Match proposed to be used for ineligible activities will not be accepted. “Firmly committed” means that the amount of resources and their dedication to Neighborhood Networks-funded activities must be explicit, in writing, and signed by a person authorized to make the commitment. “In-kind” match should be explained explicitly and include a total amount for the grant term. Please see the section on Threshold Requirements for more information.

(3) Points for this factor will be awarded based on the documented evidence of partnerships and firm commitments and the ratio of requested Neighborhood Networks funds to the total proposed grant budget.

Points will be assigned based on the following scale:

Percentage of match | Points awarded
25 | 5 points (with partnerships) 3 points (without partnerships).
26-50 | 10 points (with partnerships) 8 points (without partnerships).
51-75 | 15 points (with partnerships) 13 points (without partnerships).
76 or above | 20 points (with partnerships) 18 points (without partnerships).

e. Rating Factor 5: Achieving Results and Program Evaluation (10 Points)

(1) An important element of any supportive service program is the development and reporting of performance measures and outcomes. This factor emphasizes HUD's determination to ensure that applicants meet commitments made in their applications and grant agreements. They are also required to assess their performance so they can measure performance goals. Applicants must demonstrate how they propose to measure their success and outcomes relating to the Department's Strategic Plan. HUD requires NN applicants to develop an effective, quantifiable, outcome-oriented plan for measuring performance and determining that goals have been met. Applicants must use the Logic Model form (HUD-96010) for this purpose. The narrative describes how the measurement tools are used to collect and verify reported data and to modify the program if goals are not being met.

(2) Applicants must establish interim benchmarks, or outputs, for their proposed program that lead to the ultimate achievement of outcomes. “Outputs” are the direct products of a program's activities. Outputs should produce outcomes for your program; e.g., the delivery of training and/or educational programs to improve the ability of participants to obtain or retain employment, get a high school diploma or GED, get on-the-job training by establishing partnerships with local employers, etc. “Outcomes” are benefits accruing to the residents, families and/or communities during or after participation in the NN program. Applicants must clearly identify the outcomes to be achieved and measured. Examples of outcomes are: increasing academic achievement, increasing residents' financial stability by obtaining or retaining employment, increasing a participants' job readiness by increasing literacy or completing a GED, etc. Outcomes are not the actual development or delivery of services or program activities but the results of the services delivered or program activities—the ultimate results of the program.

(3) This rating factor requires that applicants identify program outputs, outcomes, and performance indicators that will allow applicants to measure their performance. Performance indicators should be objectively quantifiable and measure actual achievements against anticipated achievements. Applicants' narrative, business plan, and Logic Model should identify what applicants are going to measure, how they are going to measure it, and the steps they have in place to make adjustments if performance targets begin to fall short of established benchmarks and timeframes. Applicants' proposals must also show how they will measure the performance of partners and affiliates. Applicants must include the standards, data sources, and measurement methods they will use to measure performance. Applicants will be evaluated based on how comprehensively they propose to measure their program's outcomes.

B. Review and Selection Process

1. Review Process

Four types of reviews will be conducted: A screening to determine if you are eligible to apply for funding under the Neighborhood Networks category; whether your application submission is complete, on time and meets threshold; a review by the field office to evaluate past performance; and a technical review to rate your application based on the five rating factors provided in this NOFA.

2. Selection Process

HUD will make awards in rank order based on the score of each eligible application.

3. Tie Scores

In the event of a tie score between two applications, HUD will select the application that was received first.

4. Deficiency Period

Applicants will have fourteen calendar days in which to provide missing information requested from HUD. For other information on correcting deficient applications, please see the General Section.

VI. Award Administration Information

A. Award Notices

HUD will make announcements of grant awards after the rating and ranking process is completed. Grantees will be notified by letter. The letter will contain instructions and the steps they must take to access funding and begin implementing grant activities. Applicants who are not funded will also receive letters via U.S. postal mail.

B. Debriefings

Applicants who are not funded may request a debriefing. Applicants requesting to be debriefed must send a written request to: Iredia Hutchinson, Director, Grants Management Center, 501 School Street, SW., Suite 800, Washington, DC 20024. Please refer to the General Section for additional information on debriefings.

C. Administrative and National Policy Requirements

1. Applicable Requirements

Grantees are subject to regulations and other requirements found in:

a. 24 CFR 85 “Administrative Requirements for Grants and Cooperative Agreements to State, Local, and Federally Recognized Indian Tribal Governments”;

b. 24 CFR Part 905 “The Public Housing Capital Fund Program”;

c. 24 CFR Part 968 “Public Housing Modernization”;

d. OMB Circular A-87 “Cost Principles for State, Local, and Indian Tribal Governments”; and

e. OMB Circular A-133 “Audits of States, Local Governments, and Non-Profit Organizations”.

2. Economic Opportunities for Low- and Very Low-Income Persons (Section 3)

Applicants and grantees must also comply with Section 3 of the Housing and Urban Development Act of 1968, 12 U.S.C. 1701u and ensure that training, employment, and other economic opportunities shall, to the greatest extent feasible, be directed toward low and very low-income persons, particularly those who are recipients of government assistance for housing and to business concerns which provide economic opportunities to low and very low-income persons.

3. Executive Order 13202, Preservation of Open Competition and Government Neutrality Towards Government Contractors' Labor Relations on Federal and Federally Funded Construction Projects

For further information see the General Section.

4. Fair Housing and Civil Rights Laws

Applicants and their subrecipients must comply with all Fair Housing and Civil Rights laws, statutes, regulations, and Executive Orders as enumerated in 24 CFR 5.105(a), as applicable. Please see the General Section for more information.

5. Environmental Impact

Some activities under this Neighborhood Networks program section will be excluded and not subject to environmental review under 24 CFR 58.34(a)(3), (a)(8) or (a)(9), 58.35(b)(2) or (b)(3), 50.19(b)(3), (b)(8), (b)(9), (b)(12), or (b)(13). Some will be subject to environmental review. Any applicant proposing any long-term leasing or physical development activities, and its partners, are prohibited from constructing, rehabilitating, converting, leasing, repairing or constructing property, or committing or expending HUD or non-HUD funds for these types of program activities, until the following has occurred:

HUD has approved the grantee's Request for Release of Funds (HUD Form 7015.15) following a Responsible Entity's completion of an environmental review under 24 CFR part 58, where required, or if HUD has determined in accordance with 24 CFR 58.11 to perform the environmental review itself under 24 CFR part 50, HUD has completed the environmental review.

6. Wage Rates

Laborers and mechanics employed in the development and operation of Neighborhood Networks facilities must be paid Davis-Bacon or HUD-determined prevailing wage rates, respectively, unless they meet the qualifications of a volunteer (See Section III.C.1.a of this program section).

7. Provision of Services to Individuals With Limited English Proficiency (LEP)

Successful applicants and grantees must seek to provide access to program benefits and information to LEP individuals through translation and interpretive services in accordance with HUD's LEP Recipient Guidance 68 FR 70968.

8. Communications

Successful applicants should ensure that notices of and communications during all training sessions and meetings be effective for persons who have hearing and/or visual disabilities consistent with Section 504, see 24 CFR 8.6.

9. Procurement of Recovered Materials

State agencies or a political subdivision of a state that are using assistance under a HUD program NOFA, must comply with the requirements of Section 6002 of the Solid Waste Disposal Act, as amended by the Resource Conservation and Recovery Act. In addition, any person contracting with such an agency with respect to work performed under an assisted contract, must comply with the requirements of Section 6002 of the Solid Waste Disposal Act, as amended by the Resource Conservation and Recovery Act. Please see the General Section for more information.

D. Reporting

1. Semi-Annual Performance Reports

Grantees must submit semi-annual performance reports to the local HUD field office. These progress reports shall include financial reports (SF-269A) and the logic model (HUD-96010) showing achievements to date against outputs and outcomes proposed in the application and approved by HUD. A narrative describing milestones, work plan progress, and problems encountered and methods used to address these problems to support the data in the logic model is optional. HUD anticipates that some of the reporting of financial status and grant performance will be through electronic or Internet-based submissions. Grantees shall use quantifiable data to measure performance against goals and objectives outlined in their business plan. Applicants that receive awards from HUD should be prepared to report on additional measures that HUD may designate at time of award. Performance reports are due to the field office on July 30 and January 31 of each year. If reports are not received by the due date, grant funds will not be advanced until reports are received. For FY2006, HUD is considering a new concept for the Logic Model. The new concept is a Return on Investment statement. HUD will be publishing a separate notice on the ROI concept.

2. Final Report

All grantees must submit a final report to their local field office that will include a financial report (SF-269A), a final Logic Model, and a narrative evaluating overall results achieved against their work plan. Grantees must use quantifiable data to measure performance against goals and objectives outlined in their work plan. The financial report must contain a summary of all expenditures made from the beginning of the grant agreement to the end of the grant agreement and must include any unexpended balances. The final narrative, Logic Model, and financial report are due to the field office 90 days after the termination of the grant agreement.

3. Final Audit

Grantees that expend $500,000 in federal funds in a given program or fiscal year, are required to obtain a complete final close-out audit of the grant's financial statements by a Certified Public Accountant (CPA), in accordance with generally accepted government audit standards. A written report of the audit must be forwarded to HUD within 60 days of issuance. Grant recipients must comply with the requirements of 24 CFR 84 or 24 CFR 85 as stated in OMB Circulars A-87, A-110, and A-122, as applicable.

4. Racial and Ethnic Data

HUD requires that funded recipients collect racial and ethnic beneficiary data. HUD has adopted the Office of Management and Budget's Standards for the Collection of Racial and Ethnic Data. In view of these requirements, applicants should use form HUD-27061, Racial and Ethnic Data Reporting Form.

VII. Agency Contact(s)

For questions and technical assistance, applicants may call the Public and Indian Housing Information and Resource Center at 800-955-2232. For the hearing or speech impaired, please call the Federal Relay Service at 800-877-8339.

VIII. Other Information

A. Code of Conduct

See the General Section for more information.

B. Transfer of Funds

HUD does not have the discretion to transfer funds for the Neighborhood Networks category to or from any other grant program.

C. Paperwork Reduction Act

The information collection requirements contained in this document have been approved by the Office of Management and Budget (OMB) under the Paperwork Reduction Act of 1995 (44 U.S.C. 3501-3520) and assigned OMB control number 2577-0229. In accordance with the Paperwork Reduction Act, HUD may not conduct or sponsor, and a person is not required to respond to, a collection of information unless the collection displays a currently valid OMB control number. Public reporting burden for the collection of information is estimated to average 54.25 hours per respondent for the application. This includes the time for collecting, reviewing, and reporting the data for the application. The information will be used for grantee selection and monitoring the administration of funds. Response to this request for information is required in order to receive the benefits to be derived.

BILLING CODE 4210-01-P

Public and Indian Housing Family Self-Sufficiency Program Coordinators Under Resident Opportunities & Self-Sufficiency (ROSS) Program

Overview Information

A. Federal Agency Name: Department of Housing and Urban Development, Office of Public and Indian Housing, Office of Public Housing Investments.

B. Funding Opportunity Title: Public and Indian Housing Family Self-Sufficiency (PH FSS) Program Coordinators.

C. Announcement Type: Initial announcement.

D. Funding Opportunity Number: The Federal Register number for this NOFA is FR-5030-N-25. The Office of Management and Budget (OMB) paperwork approval number for this program is 2577-0229.

E. Catalog of Federal Domestic Assistance (CFDA) Number: 14.877.

F. Application Deadline: The application deadline date is June 8, 2006. Please see the General Section for application submission, delivery, and timely receipt requirements.

G. Additional Overview Content Information:

1. Purpose of Program

The purpose of the Public Housing FSS (PH FSS) program is to promote the development of local strategies to coordinate the use of assistance under the Public Housing program with public and private resources to enable participating families to increase earned income, reduce or eliminate the need for welfare assistance and make progress toward achieving economic independence and housing self-sufficiency. The FSS program and this FSS NOFA support the Department's strategic goals of helping HUD-assisted renters make progress toward housing self-sufficiency. The FSS program provides critical tools that can be used by communities to support welfare reform and help families develop new skills that will lead to economic self-sufficiency. As a result of their participation in the FSS program, many families have achieved stable, well-paid employment, which has made it possible for them to become homeowners or move to other non-assisted housing. An FSS program coordinator assures that program participants are linked to the supportive services they need to achieve self-sufficiency.

2. Funding Available

The Department expects to award a total of approximately $10 million in FY2006.

3. Award Amounts

Awards will pay only for the annual salary and fringe benefits of PH FSS Coordinators. Award amounts will be based on locality pay rates for similar professions. Each renewal position amount will not exceed $65,000.

4. Eligible Applicants

Eligible applicants are Public Housing Authorities (PHAs) and tribes/Tribally Designated Housing Entities (TDHEs) that administer PH FSS programs. All applicants must have an approved PH FSS Action Plan on file with their local HUD Field Office or Area ONAP prior to this NOFA's application deadline. Non-profit organizations and resident associations are not eligible to apply for funding under this program.

5. Cost Sharing/Match Requirement

There is no match requirement under this funding program.

6. Grant Term

The grant term is one year from the execution date of the grant agreement.

Full Text of Announcement

I. Funding Opportunity Description

A. Authority and Program Description

The Transportation, Treasury, Housing and Urban Development, the Judiciary, the District of Columbia, and Independent Agencies Appropriations Act, 2006 (Public Law 109-115), allows funding for program coordinators under the Resident Opportunity & Self-Sufficiency program. Through annual NOFAs, HUD has provided funding to public housing agencies (PHAs) that are operating PH FSS programs to enable those PHAs to employ program coordinators to support their PH FSS programs. In the Fiscal Year (FY) 2006 PH FSS Program Coordinator NOFA, HUD is again making funding available to PHAs/Tribes/TDHEs to employ PH FSS program coordinators for one year. HUD will accept applications from both new and renewal applicants that have HUD approval to administer a PH FSS program. PHAs funded under the ROSS PH FSS NOFA in FY2004 or 2005 are considered “renewal” PHAs in this NOFA. These renewal PHAs are invited to apply for funds to continue previously funded PH FSS program coordinator positions that they have filled or are in the process of being filled because of turnover. Funding priority will be given to renewals for PHAs that have achieved a “High Performer” status on their most recent PHAS review. Second priority will be given to standard performer renewal applicants. Third priority will be given to troubled performer renewal applicants and Fourth priority will be given to new applicants. There will be no funding for expanding the number of coordinator positions in an existing program.

The maximum number of positions that a new applicant, including new joint applicants, may receive is one full-time FSS program coordinator.

Applicants must administer the FSS program in accordance with HUD regulations and requirements in 24 CFR Part 984 which govern the PH FSS program and must comply with the existing Public Housing program requirements, notices and guidebooks. This includes using a Program Coordinating Committee (PCC) to secure the necessary resources to implement the FSS Program. See 24 CFR 984.202 for more information.

B. Number of Positions for Which Eligible Applicants May Apply

Eligible applicants may apply for funding for PH FSS program coordinator positions under this NOFA as follows:

1. Renewal PHAs

PHAs that qualify as eligible renewal PHAs under this NOFA may apply for the continuation of each PH FSS coordinator position awarded under the ROSS PH FSS NOFA in FY2004 or 2005 that has been filled by the PHA or is in the process of being filled because of turnover.

2. New Applicants

An applicant that meets the requirements for a new applicant under this FSS NOFA may apply for PH FSS program coordinator positions as follows:

a. Up to one full-time PH FSS coordinator position for an applicant with HUD approval to administer a PH FSS program of 25 or more FSS slots; or

b. Up to one full-time PH FSS coordinator position per application for joint PHA applicants that together have HUD approval to administer a total of at least 25 PH FSS slots.

C. Definitions

The following definitions apply to the funding available under this NOFA.

1. Renewal PHA Applicant

A PHA or PHAs that received funding under the ROSS PH FSS NOFA in FY2004 or 2005.

2. New Applicant

Applicants that did not receive funding under the ROSS PH FSS NOFA in FY2005 that have HUD approval to administer a PH FSS program of at least 25 slots or that fulfill the 25 slot minimum by applying jointly with one or more other applicants who together have approval to administer at least 25 PH FSS slots.

3. Indian Tribe (“tribe”)/TDHE means any tribe, band, nation or other organized group or a community of Indians, including any Alaska native village, regional, or village corporation as defined in or established pursuant to the Alaska Native Claims Settlement Act, and that is recognized as eligible for the special programs and services provided by the United States to Indians because of their status as Indians pursuant to the Indian Self Determination and Education Act of 1975, or any state-recognized tribe eligible for assistance under section 4 (12)(C) of NAHASDA. Tribally Designated Housing Entity (TDHE) means a tribally designated housing entity as defined by Section 4(21) of NAHASDA.

4. MTW PHAs

New and renewal PHAs that are under MTW agreements with HUD may qualify for funding under this NOFA if the PHA administers an FSS program. When determining the size of a new applicant, MTW PHA's HUD approved FSS program, the PHA may request the number of FSS slots reflected in the PHA's MTW agreement be used instead of the number in the PHA's FSS Action Plan.

5. FSS Program Size

The total number of PH FSS program slots identified in the applicant's HUD-approved PH FSS Action Plan, or, if requested by MTW PHA applicants, the number of slots in the applicant's MTW agreement. The total may include both voluntary and mandatory PH FSS program slots.

6. Action Plan

Describes the policies and procedures of the PHA or tribe/TDHE for operation of a local FSS program. For a full description of the minimum amount of information the Action Plan must contain, please see 24 CFR 984.201.

7. Positive Graduation Percentage

A percentage that will be computed by HUD and used to determine funding order under this NOFA. It is the percent of public housing FSS families that have successfully graduated from the program as shown in FSS exit reports submitted to HUD on the Form HUD-50058 or as otherwise reported to HUD by MTW PHAs. The data source is Form HUD-52767 as well as HUD's PIC data system records of Form HUD-50058 PH FSS program exit reports that were effective between October 1, 2000, and the publication date of this NOFA.

8. The Number of PH FSS Program Participants

The total number of families shown in HUD's PIC data system as enrolled in the applicant's PH FSS program on the publication date of this NOFA, plus the number of families that successfully completed their PH FSS contracts in the applicant's program between October 1, 2000, and the publication date of this NOFA.

9. Percentage of Families with Positive FSS Escrow Balances

A percentage that will be computed by HUD and used to determine funding order under this NOFA. It is the number of PH FSS families with positive escrow balances as a percentage of PH FSS families with FSS progress reports submitted to HUD on the Form HUD-50058 or as otherwise reported to HUD by MTW PHAs. The data source is Form HUD-52767 as well as HUD's PIC data system records of Form HUD-50058 PH FSS program progress reports that were effective between October 1, 2000, and the publication date of this NOFA or as otherwise reported to HUD by MTW PHAs.

10. PH FSS Program Coordinator

A person responsible for linking FSS program participants to supportive services. Program Coordinators will work with the Program Coordinating Committee and local service providers to ensure that the necessary services and linkages to community resources are being made; ensuring that the services included in participants' contracts of participation are provided on a regular, ongoing and satisfactory basis; making sure that participants are fulfilling their responsibilities under the contracts and that FSS escrow accounts are established and properly maintained for eligible families. FSS Coordinators may also perform job development functions for the FSS program.

II. Award Information

A. Available Funds

This NOFA announces the availability of approximately $10 million in FY2006 to employ FSS program coordinators for the PH FSS program. If additional funding becomes available during FY2006, HUD may increase the amount available for PH FSS Program coordinators under this NOFA. A maximum of $65,000 is available for each full-time coordinator position funded. Salaries are to be based on local comparables. The funding will be provided as a one-year grant. Funding amounts for individual grantees will be contingent upon HUD field office approval.

B. Grant Term

The grant term is one year from the execution date of the grant agreement.

C. Grant Extensions

Requests to extend the grant term beyond the originally established grant term must be submitted in writing to the local HUD field office or area Office of Native American Programs (ONAP) at least 90 days prior to the expiration of the grant term. Requests must explain why the extension is necessary, what work remains to be completed, and what work and progress has been accomplished to date. Extensions may be granted only once by the field office or Area ONAP for a period not to exceed six months and may be granted for a further six months by the Program Office.

III. Eligibility Information

A. Eligible Applicants

Eligible applicants are PHAs and tribes/TDHEs which administer low rent public housing programs. New and renewal applicants must have an approved PH FSS Action Plan on file with their local HUD field office or Area ONAP prior to this NOFA's application deadline. PHAs eligible to apply for funding under this NOFA are:

1. Renewal PHAs

Those PHAs that received funding under the PH FSS NOFA in FY2004 or 2005 . To continue to qualify as renewal PHAs, the FY2006 application of joint applicants must include at least one PHA applicant that meets this standard. Joint applicants can change the lead PHA in their FY2006 application. A PHA that was originally funded as part of a joint application, that wishes to now apply separately will continue to be considered a renewal PHA applicant for funding purposes, but must be able to meet the FSS minimum program size requirement of a HUD-approved PH FSS program of at least 25 slots that applies to new applicant PHAs.

2. New Applicants

Applicants that were not funded under the PH FSS NOFA in FY2005. The new applicant PHA must be authorized through its HUD-approved FSS Action Plan to administer a PH FSS program of at least 25 slots, or be an applicant with HUD approval to administer PH FSS programs of fewer than 25 slots that applies jointly with one or more other applicants so that together they have HUD approval to administer at least 25 PH FSS slots. Joint applicants must specify a lead co-applicant that will receive and administer the FSS program coordinator funding.

3. Moving to Work (MTW) PHAs

New and renewal PHAs that are under the MTW demonstration may qualify for funding under this NOFA if the PHA administers a PHFSS program. When determining the size of a MTW PHA's HUD-approved PH FSS program, the PHA may request that the number of PH FSS slots reflected in the PHA's MTW agreement be used instead of the number in the PHA's PH FSS Action Plan.

4. Troubled PHAs

a. A PHA that has been designated by HUD as a troubled PHA under the Public Housing Assessment System (PHAS), or that has serious program management findings from Inspector General audits or serious outstanding HUD management review or Independent Public Accountant (IPA) audit findings for the PHA's Low Rent Public Housing program that are resolved prior to the application due date is eligible to apply under this NOFA. Serious program management findings are those that would cast doubt on the capacity of the PHA to administer its PH FSS program in accordance with applicable HUD regulatory and statutory requirements.

b. The requirements that apply to a PHA whose PHAS troubled designation has not been removed by HUD or whose major program management findings or other significant program compliance problems that have not been resolved by the due date are stated in the Program Requirements section of this NOFA.

B. Cost Sharing or Matching

None required.

C. Other

1. Eligible Activities

Funds awarded to applicants under this FSS NOFA may only be used to pay salaries and fringe benefits of PH FSS program staff. Funding may be used to employ or otherwise retain for one year the services of PH FSS program coordinators. PH FSS coordinator support positions funded under previous FSS NOFAs that made funding available for such FSS positions may be continued. A part-time program coordinator may be retained where appropriate. Please note that even with a part-time program coordinator, the 25 slot minimum must be retained.

2. Threshold Requirements

a. All Applicants. (1) Each applicant must qualify as an eligible applicant under this NOFA and must have submitted an FSS application in the format required by this NOFA that was received and validated by Grants.gov by the application deadline date.

(2) All applications must include a Dun and Bradstreet Universal Numbering System (DUNS) number. (See the General Section for further information about the DUNS number requirement.)

(3) Civil Rights Thresholds, Non-discrimination, Affirmatively Furthering Fair Housing. All applicants must comply with these requirements. Please see the General Section for details.

(4) The applicant must have a financial management system that meets federal standards. See the General Section regarding those applicants that may be subject to HUD's arranging for a pre-award survey of an applicant's financial management system.

(5) Applicants must comply with the requirements for funding competitions established by the HUD Reform Act of 1989 (42 U.S.C. 3531 et seq.) and other requirements as defined in the General Section.

b. Renewal Applicants. Continued funding for existing coordinator positions. In addition to meeting the other requirements of this FSS NOFA, renewal PHA applicants must continue to operate a PH FSS program, have filled (or be in the process of filling because of turnover) eligible FSS program coordinator positions for which they are seeking renewal funding, executed FSS contracts of participation with PH FSS program families and submitted reports on participant families to HUD via the form HUD-50058 or reported as agreed for MTW PHAs.

c. New Applicants. New applicants must meet the all requirements of this FSS NOFA including those in Section III.A above regarding eligibility.

d. Troubled PHAs—Contract Administrator Partnership Agreement. PHAs that are troubled at the time of application are required to submit a signed Contract Administrator Partnership Agreement. The agreement must be for the entire grant term. The grant award shall be contingent upon having a signed Partnership Agreement included in the application. The Contract Administrator must ensure that the financial management system and procurement procedures that will be in place during the grant term will fully comply with 24 CFR Part 85. Troubled PHAs are not eligible to be contract administrators. Grant writers who assist applicants to prepare their FSS applications are ineligible to be Contract Administrators.

3. Program Requirements

a. Hiring a PH FSS Program Coordinator. Funds awarded to PHAs under this NOFA may only be used to employ or retain the services of a PH FSS Program Coordinator for the one-year grant term. A PH FSS Program Coordinator must:

(1) Work with the Program Coordinating Committee and with local service providers to ensure that PH FSS program participants are linked to the supportive services they need to achieve self-sufficiency.

(2) Ensure that the services included in participants' contracts of participation are provided on a regular, ongoing and satisfactory basis, that participants are fulfilling their responsibilities under the contracts and that FSS escrow accounts are established and properly maintained for eligible families. All of these tasks should be accomplished through case management. FSS coordinators may also perform job development functions for the FSS program.

(3) Monitor the progress of program participants and evaluate the overall success of the program.

b. Salary Comparables. For all positions requested under this NOFA, evidence of salary comparability to similar positions in the local jurisdiction must be kept on file in the PHA/Tribe/TDHE office.

c. FSS Action Plan. The requirements for the PH FSS Action Plan are stated in 24 CFR 984.201. For a new applicant to qualify for funding under this NOFA, the PHA/Tribe/TDHE's initial PH FSS Action Plan or amendment to change the number of PH FSS slots in the PHA's previously HUD-approved PH FSS Action Plan, must be submitted to and approved by the PHA's local HUD field office or Area ONAP prior to the application due date of this PH FSS NOFA. An FSS Action Plan can be updated by means of a simple one-page addendum that reflects the total number of PH FSS slots (voluntary and /or mandatory slots) the PHA intends to fill. New PHA applicants with previously approved PH FSS Action Plans may wish to confirm the number of HUD-approved slots their local HUD field office has on record for the PHA. An MTW PHA may request that the number of PH FSS slots reflected in its MTW agreement be used instead of the number of slots in the PHA's PH FSS Action Plan.

d. Eligible families. Current residents of public/Indian housing are eligible. Eligible families who are currently enrolled or participating in local public/Indian housing self-sufficiency programs are also eligible.

e. Contract of participation. Each family that is selected to participate in an FSS program must enter into a contract of participation with the PHA or tribe/TDHE that operates the FSS program. The contract shall be signed by the head of the FSS family.

f. Contract term. The contract with participating families shall be for five years. During this time each family will be required to fulfill its contractual obligations. PHAs or tribes/TDHEs may extend contracts for no more than two years for any family that requests an extension of its contract provided the PHA or tribe/TDHE finds that good cause exists to provide an extension. This extension request must be in writing. See 24 CFR 984.303 for more information on contracts of participation.

g. Escrow accounts for very low or low income participating families. Such accounts shall be computed using the guidelines set forth in 24 CFR 984.305. Note: FSS families who are not low-income are not entitled to an escrow/credit. .

IV. Application and Submission Information

A. Addresses To Request Application Package

Applications are available from www.Grants.gov/Apply. The Download Instructions and the Application Download provide the information and forms that you need to apply for funding under this NOFA. If you have difficulty accessing the information you may receive customer support from Grants.gov by calling their Support Desk at (800) 518-GRANTS, or sending an e-mail to support@grants.gov. You may request general information, from the NOFA Information Center (800-HUD-8929) or 800-HUD-2209 (TTY) between the hours of 10 a.m. and 6:30 p.m. (Eastern Time) Monday through Friday, except on federal holidays. When requesting information, please refer to the name of the program you are interested in. The NOFA Information Center opens for business simultaneously with the publication of the SuperNOFA. You can also obtain information on this NOFA from HUD's Web site at http://www.hud.gov/offices/adm/grants/fundsavail.cfm.

B. Content and Format of Application Submission

1. Content of Application

In addition to any information required in the General Section, each new and renewal applicant must complete the forms on the list below. Copies of the forms may be downloaded with the application package and instructions from www.Grants.gov/Apply or from the following Web site: http://www.hud.gov/offices/adm/grants/nofa06/snofaforms.cfm.

a. SF-424 Application for Federal Assistance—In completing the SF-424, renewal PHAs should select the continuation box on question 2, type of application. In section 18 of the SF-424, estimated funding, complete only 18.a., which will be the amount requested from HUD in the FY2006 FSS application, and 18.g., Total.

b. SF-424 Supplement, Survey on Ensuring Equal Opportunity for Applicants.

c. HUD-27300 Questionnaire for HUD's Initiative on Removal of Regulatory Barriers.

d. SF-LLL Disclosure of Lobbying Activities (if applicable).

e. HUD-2880—Applicant Disclosure/Update Report.

f. HUD-2990—Certification of Consistency with RC/EZ/EC-II Strategic Plan (if applicable).

g. HUD-2991—Certification of Consistency with the Consolidated Plan (if applicable).

h. Tribes/TDHE's must submit a HUD-52752—Certification of Consistency with Indian Housing Plan.

i. Contract Administrator Partnership Agreement, if required (see HUD-52755).

j. HUD-96011 Facsimile Transmittal, even if not transmitting any faxes.

k. HUD-52767 Family Self-Sufficiency Funding Request Form.

l. The HUD-2994-A—“You Are Our Client Applicant Survey” is optional.

m. In addition, the application must include a completed Logic Model (from HUD 96010) showing proposed performance measures. See the General Section for information on the Logic Model.

2. Budget Forms

There are no budget forms required for this application.

C. Submission Date and Time

Your completed application must be received and validated by Grants.gov no later than 11:59:59 p.m. eastern time on the application deadline date. Applicants should carefully read the section titled “APPLICATION and SUBMISSION INFORMATION” in the General Section regarding HUD's procedures pertinent to the submission of your application.

D. Intergovernmental Review

Intergovernmental Review is not applicable to this program.

E. Funding Restrictions

1. Salary Cap

Awards under this NOFA are subject to a cap of $65,000 per year per full time coordinator position funded. Under this NOFA, if applicants apply jointly, the $65,000 maximum amount that may be requested per position applies to up to one full time coordinator position for the application as a whole, not to each PHA separately.

2. Limitation on Renewal Funding Increases

For renewal coordinator positions, PHAs will be limited to a three percent increase above the amount of the most recent award for the position unless a higher increase is approved by the local HUD field office after review of the PHA's written justification and at least three comparables that must be submitted to the field office by the PHA at the time they submit their FY2006 PH FSS Program Coordinator application to HUD. Examples of acceptable reasons for increases above three percent would be needed for a coordinator with higher level of skills or to increase the hours of a part time coordinator to full time. Total positions funded cannot exceed the maximum number of positions for which the PHA is eligible under this NOFA.

3. Ineligible Activities

a. Funds under this NOFA may not be used to pay the salary of an FSS coordinator for a Housing Choice Voucher (HCV) FSS program. A PH FSS program coordinator may only serve Low Rent Public Housing families while the HCV FSS program serves only HCV families. The funding for HCV FSS program coordinators is being made available through a separate NOFA included in the FY2006 Super NOFA.

b. Funds under this FSS NOFA may not be used to pay for services for FSS program participants.

c. Funds under this FSS NOFA may not be used to pay for administrative activities.

F. Other Submission Requirements

Electronic application submission is mandatory unless an applicant requests, and is granted, a waiver to the requirement. Procedures for obtaining a waiver are contained in the General Section. If HUD grants a waiver, the applicant will be notified of the application submission requirements for paper copy applications. Paper copy applications must be received by the appropriate HUD office no later than the application deadline date to meet the deadline submission requirements.

V. Application Review Information

A. Criteria.

The funds available under this NOFA are being awarded based on demonstrated performance. Applications are reviewed by the local HUD field office and the Grants Management Center to determine whether or not they are technically adequate based on the NOFA requirements. Field offices will provide to the GMC in a timely manner, as requested, information needed by the GMC to make its determination, such as the HUD-approved PH FSS program size of new applicants and information on the administrative capabilities of PHAs.

B. Reviews and Selection Process

1. Funding Priority Categories

If HUD receives applications for funding greater than the amount made available under this NOFA, HUD will divide eligible applications into priority categories as follows:

a. Funding Category 1—Applications from eligible renewal applicants designated “high performer” in their most recent PHAS review will be funded for continuation of previously funded eligible positions where the positions are currently filled or are in the process of being filled because of turnover.

b. Funding Category 2—Eligible renewal applicants designated standard performers on the most recent PHAS review will be funded for continuation of previously funded eligible positions where the positions are currently filled or are in the process of being filled because of turnover.

c. Funding Category 3—Eligible renewal applicants designated troubled performers on the most recent PHAS review will be funded for continuation of previously funded eligible positions where the positions are currently filled or are in the process of being filled because of turnover.

d. Funding Category 4—Applications from eligible new applicants agreeing to implement an FSS program of at least 25 slots.

2. Order of Funding

a. Funding Category 1. Starting with Funding Category 1, HUD will first determine whether there are sufficient monies to fund all eligible positions requested in the funding category. If available funding is not sufficient to fund all positions requested in the category, HUD will calculate for each eligible applicant, the applicant's Positive Escrow Percentage and Graduation Percentage and will use these percentages in making funding decisions. Definitions and a description of the calculation of the FSS Positive Escrow Percentage and Graduation Percentage are included in the Definitions Section (Section I.C.) of this NOFA.

HUD will begin funding eligible Funding Category 1 applicants starting with the PHAs with the highest Positive Escrow Percentage first. If monies are not sufficient to fund all applicants with the same Positive Escrow Percentage, HUD will fund eligible applicants in order starting with those that have the highest Graduation Percentage first. If funding is not sufficient to fund all applicants with the same FSS Positive Escrow Percentage and/or Graduation Percentage, HUD will select among eligible applicants by PH FSS program size (number of approved slots) starting with eligible applicants with the largest PH FSS program size first.

b. Funding Category 2. If funding remains after funding all Funding Category 1 applications, HUD will then process eligible Funding Category 2 applications. If there are not enough funds to fund all of Funding Category 2, HUD will use same criteria as above for Funding Category 1.

c. Funding Category 3. If funding remains after funding all Funding Category 2 applications, HUD will then process eligible Funding Category 3 applications. If there are not enough funds to fund all of Funding Category 2, HUD will use the same criteria as above for Funding Category 1.

d. Funding Category 4. If funding remains after funding all Funding Category 1, 2, and 3 applications, HUD will then process requests of eligible Funding Category 4 applicants. If there are not sufficient monies to fund all eligible positions requested, HUD will begin funding positions starting with applicants with the largest PH FSS program size (number of approved slots) first.

3. Based on the number of applications submitted, the GMC may elect not to process applications for a funding priority category where it is apparent that there are insufficient funds available to fund any applications within the priority category.

4. Corrections to Deficient Applications

The General Section of the SuperNOFA provides the procedures for corrections to deficient applications.

5. Unacceptable Applications

After the technical deficiency correction period (as provided in the General Section), the GMC will disapprove applications that it determines are not acceptable for processing. Applications from applicants that fall into any of the following categories are ineligible for funding under this NOFA and will not be processed:

a. An application submitted by an entity that is not an eligible applicant as defined under this PH FSS NOFA or an application that does not comply with the requirements of Sections IV.B., IV.C. and IV.F. of this NOFA.

b. An application from an applicant that does not meet the fair housing and civil rights compliance requirements of the General Section of the SuperNOFA.

c. An application from an applicant that does not comply with the prohibition against lobbying activities of this NOFA.

d. An application from an applicant that has been debarred or otherwise disqualified from providing assistance under the program.

e. An application that did not meet the application deadline date and timely receipt requirements as specified in this NOFA and the General Section.

f. Applications will not be funded which do not meet the Threshold requirements identified in this NOFA and the General Section.

VI. Award Administration Information

A. Award Notices

Successful applicants will receive an award letter from HUD. Successful applicants will be notified by letter and will receive instructions for the steps they must take to access funding and begin implementing grant activities. Applicants who are not funded will also receive letters via U.S. postal mail.

B. Administrative and National Policy Requirements

1. Environmental Impact

This NOFA is categorically excluded from environmental review under the National Environmental Policy Act of 1969 (42 U.S.C. 4321) and not subject to compliance actions for related environmental authorities under 24 CFR 50.19(b)(4) and (12).

2. Applicable Requirements

Grantees are subject to regulations and other requirements found in:

a. OMB Circular A-87 “Cost principles for State, Local, and Indian Tribal Governments”;

b. OMB Circular A-133 “Audits of States, Local Governments, and Non-Profit Organizations”;

c. HUD Regulations 24 CFR Part 984 “Section 8 and Public Housing Family Self-Sufficiency Program”; and

d. HUD Regulations 24 CFR Part 85 “Administrative Requirements for Grants and Cooperative Agreements to State, Local, and Federally Recognized Indian Tribal Governments”.

3. Economic Opportunities for Low- and Very Low-Income Persons (Section 3)

Section 3 requirements do not apply to this program.

4. Fair Housing and Civil Rights Laws

Please see the General Section for more information.

5. Provision of Services to Individuals With Limited English Proficiency (LEP)

Successful applicants and grantees must seek to provide access to program benefits and information to LEP individuals through translation and interpretive services in accordance with HUD's LEP Recipient Guidance 68 FR 70968.

6. Communications

Successful applicants should ensure that notices of and communications during all training sessions and meetings shall be provided in a manner that is effective for persons with hearing, visual and other communication-related disabilities consistent with Section 504 of the Rehabilitation Act of 1973. See 24 CFR Section 8.6.

7. HUD's Strategic Goals

HUD is committed to ensuring that programs result in the achievement of HUD's strategic mission. The FSS program and this FSS NOFA support the Department's strategic goals of helping HUD-assisted renters make progress toward self-sufficiency by giving funding preference to PHAs whose FSS programs show success in moving families to economic self-sufficiency. You can find out about HUD's Strategic Framework and Annual Performance Plan at http://www.hud.gov/offices/cfo/reports/cforept.cfm3.

8. HUD Policy Priorities

This NOFA supports the HUD policy priority of helping HUD-assisted renters made progress toward self-sufficiency. In this NOFA, funding priority is given to those PHA applicants that demonstrate that their FSS families have increased their earned income since enrolling in FSS. See Section V.B. of the General Section for a full discussion of HUD's policy priorities.

C. Reporting

Successful applicants must report activities of their FSS enrollment, progress and exit activities of their FSS program participants through required submissions of the Form HUD-50058 or as otherwise agreed for MTW PHAs. HUD's assessment of the accomplishments of the FSS programs of grantees funded under this NOFA will be based in part on Public Housing Information Center (PIC) system data obtained from the Form HUD-50058. MTW PHAs that do not report to HUD on the Form HUD-50058 will be asked to submit an annual report to HUD with the same information on FSS program activities that is provided to HUD by non-MTW PHAs via the Form HUD-50058. An applicant is also required to submit a completed Logic Model showing accomplishments against proposed outputs and outcomes as part of their annual reporting requirement to HUD. Grantees shall use quantifiable data to measure performance against goals and objectives outlined in their Logic Model. Semi-annual Performance Reports consisting of the updated Logic Model are due to the field office on July 30 and January 31 of each year. For FY2006, HUD is considering a new concept for the Logic Model. The new concept is a Return on Investment statement. HUD will be publishing a separate notice on the ROI concept. In addition, HUD requires that funded recipients collect racial and ethnic beneficiary data. It has adopted the Office of Management and Budget's Standards for the Collection of Racial and Ethnic Data. In view of these requirements, funded recipients should use Form HUD-27061, Racial and Ethnic Data Reporting Form. The HUD-50058 used in concurrence with the PIC Data system is a comparable form. Applicants that receive awards from HUD should be prepared to report on additional measures that HUD may designate at time of award.

D. Debriefings

The applicant may request an applicant debriefing. Beginning not less than 30 days after the awards for assistance are publicly announced in the Federal Register and for at least 120 days after that announcement, HUD will, upon receiving a written request, provide a debriefing to the requesting applicant. (See Section VI.A. of the General Section for additional information regarding a debriefing.) Applicants requesting to be debriefed must send a written request to: Iredia Hutchinson, Director; Grants Management Center; U.S. Department of Housing and Urban Development, 501 School Street, SW., Suite 800; Washington, DC 20024.

VII. Agency Contacts

A. For Technical Assistance

For answers to your questions, you may contact the Public and Indian Housing Resource Center at 800-955-2232. Prior to the application deadline, staff at the numbers given above will be available to provide general guidance, but not guidance in actually preparing the application. Following selection, but prior to award, HUD staff will be available to assist in clarifying or confirming information that is a prerequisite to the offer of an award by HUD. Persons with hearing or speech impairments may use the Grants.gov helpdesk e-mail.

B. Satellite Broadcast

HUD will hold an information broadcast via satellite for potential applicants to learn more about the PH FSS program and preparation of an application. For more information about the date and time of this broadcast, you should consult the HUD Web site at www.hud.gov.

VIII. Other Information

A. Paperwork Reduction Act

The information collection requirements contained in this document have been approved by the Office of Management and Budget (OMB) under the Paperwork Reduction Act of 1995 (44 U.S.C. 3501-3520) and assigned OMB control number 2577-0229. In accordance with the Paperwork Reduction Act, HUD may not conduct or sponsor, and a person is not required to respond to, a collection of information unless the collection displays a currently valid OMB control number. Public reporting burden for the collection of information is estimated to average forty hours per respondent for the application. This includes the time for collecting, reviewing, and reporting the data for the application. The information will be used for grantee selection and monitoring the administration of funds. Response to this request for information is required in order to receive the benefits to be derived.

B. Public Access, Documentation, and Disclosure.

See Section VIII. F. of the General Section.

BILLING CODE 4210-01-P

Self-Help Homeownership Opportunity Program (SHOP) Overview Information

A. Federal Agency Name: Department of Housing and Urban Development, Office of Community Planning and Development.

B. Funding Opportunity Title: Self-Help Homeownership Opportunity Program (SHOP).

C. Announcement Type: Initial announcement.

D. Funding Opportunity Number: The Federal Register number is FR-5030-N-06. The Office of Management and Budget (OMB) paperwork approval number is 2506-0157.

E. Catalog of Federal Domestic Assistance (CFDA) Number: Self-Help Homeownership Opportunity Program. The CFDA number is 14.247.

F. Application Deadline: The application deadline date is May 24, 2006.

G. Optional, Additional Overview Content Information:

SHOP funds are awarded to national and regional nonprofit organizations and consortia demonstrating experience in administering self-help housing programs in which the homebuyers contribute a significant amount of sweat-equity toward construction or rehabilitation of the dwelling. The amount available for SHOP in Fiscal Year (FY) 2006 is approximately $20,000,000.

Full Text of Announcement

I. Funding Opportunity Description

A. Program Description

SHOP funds are intended to facilitate and encourage innovative homeownership opportunities on a national geographically diverse basis through self-help housing programs that require a significant amount of sweat-equity by the homebuyer toward the construction or rehabilitation of the dwelling.

SHOP programs are administered by national and regional nonprofit organizations and consortia. Units developed with SHOP funds must be decent, safe, and sanitary non-luxury dwellings and must be made available to eligible homebuyers at prices below the prevailing market prices. Eligible homebuyers are low-income individuals and families (i.e., those whose annual incomes do not exceed 80 percent of the median income for the area, as established by HUD) who would otherwise be unable to purchase a dwelling but for the provision of sweat equity. Housing assisted under this Notice of Funding Availability (NOFA) must involve labor contributed by homebuyers and volunteers in the construction of dwellings and other activities that involve the community in the project.

B. Authority

Funding made available under SHOP is authorized by Section 11 of the Housing Opportunity Program Extension Act of 1996 (42 U.S.C. 12805 note) (the “Extension Act”).

II. Award Information

Approximately $20,000,000 will be available for this program in FY 2006. Any unobligated funds from previous competitions or additional funds that may become available due to deobligation or recapture from previous awards or budget transfers may be added to the FY 2006 appropriation to fund applications submitted in response to this NOFA. Awards will be made to successful applicants in the form of a grant. Grant funds must be expended within 24 months of the date that they are first made available for draw-down in a line of credit established by HUD for the grantee, except that grant funds provided to affiliates that develop five or more units must be expended within 36 months.

III. Eligibility Information

A. Eligible Applicants

You must be a national or regional nonprofit public or private organization or consortium that has the capacity and experience to provide or facilitate self-help housing homeownership opportunities. Your organization or consortium must undertake eligible SHOP activities directly and/or provide funding assistance to your local affiliates to carry out SHOP activities. You must propose in your application to use a significant amount of SHOP funds in at least two states. Affiliates must be located within the regional organization's or consortium's service area.

A national organization is defined as an organization that carries out self-help housing activities or funds affiliates that carry out self-help housing activities on a national scope. A regional organization is defined as an organization that carries out self-help housing activities or funds affiliates that carry out self-help housing activities on a regional scope. A regional area is a geographic area, such as the Southwest or Northeast, that includes at least two states. The states in the region need not be contiguous, and the service area of the organization need not precisely conform to state boundaries.

A consortium is defined as two or more nonprofit organizations located in at least two states that individually have the capacity and experience to carry out self-help housing activities or fund affiliates that carry out self-help housing activities on a national or regional scope and enter into an agreement to submit a single application for SHOP funding on a national or regional basis. The consortium must propose to use a significant amount of SHOP funds in each state represented in the consortium. All consortium members must receive SHOP funds. One organization must be designated as the lead entity. The lead entity must submit the application and, if selected for funding, execute the SHOP Grant Agreement with HUD and assume responsibility for the grant on behalf of the consortium in compliance with all program requirements.

A consortium agreement, executed and dated by all consortium members for the purpose of applying for and using FY 2006 SHOP funds, must be submitted with your application. A consortium's application must be a single integrated document that demonstrates the consortium's comprehensive approach to self-help housing. All consortium members must be identified in your application. The integrated application must reflect all consortium members' programs as a single program and may only briefly summarize the individual consortium members' past experiences in factor 1. All other components of the application must reflect the overall consortium program design. Individual program designs for consortium members or affiliates within the integrated document will not be considered by HUD. Upon being funded, the lead entity must enter into a separate agreement with each consortium member. The agreement must include the requirements of the FY 2006 SHOP Grant Agreement between HUD and the consortium and set forth the individual consortium member's responsibilities for compliance with HUD's 2006 SHOP program.

An affiliate is defined as:

(1) A local public or private nonprofit self-help housing organization which is a subordinate organization (i.e., chapter, local, post, or unit) of a central organization and covered by the group exemption letter issued to the central organization under Section 501(c)(3) of the Internal Revenue Code; or

(2) A local public or private nonprofit self-help housing organization with which the applicant has an existing relationship (e.g., the applicant has provided technical assistance or funding to the local self-help housing organization); or

(3) A local public or private nonprofit self-help housing organization with which the applicant does not have an existing relationship, but to which the applicant will provide necessary technical assistance and mentoring as part of funding under the application.

You must carry out eligible activities or you must enter into an agreement to fund affiliates to carry out eligible activities. If you are a consortium, each of your affiliates must be linked to an individual consortium member.

Your application may not propose to fund any affiliate or consortium member that is also included in another SHOP application. You must ensure that any affiliate or consortium member under your FY 2006 application is not also seeking FY 2006 SHOP funding from another SHOP applicant. If an affiliate applies for funds through more than one applicant, it may be disqualified for any funding.

B. Cost Sharing or Matching

There is no match requirement for the SHOP funds. However, you are expected to leverage resources for the construction of self-help housing assisted with SHOP. Failure to provide documentation of leveraged resources that meet the submission requirements for firm commitments as stated in factor 4 will result in a lower application score.

C. Other

1. Eligible Activities

The costs of eligible activities may be incurred by the applicant (and by affiliates, if permitted by the applicant) after the publication date of the NOFA and charged to the SHOP grant, provided that the applicant and affiliates comply with the requirements of this NOFA (including relocation and environmental review requirements) and costs are included in the application. Applicants and affiliates incur costs at their own risk, because applicants that do not receive a SHOP grant cannot be reimbursed or reimburse affiliates.

Eligible activities are:

a. Land acquisition, including financing and closing costs, which may include reimbursing an organization, consortium, or affiliate, upon approval of any required environmental review, for non-grant amounts expended by the organization, consortium, or affiliate to acquire land before completion of the review;

b. Infrastructure improvements, including installing, extending, constructing, rehabilitating, or otherwise improving utilities and other infrastructure, including removal of environmental hazards; and

c. Administration, planning, and management development, including the costs of general management, oversight, and coordination of the SHOP grant, staff and overhead costs of the SHOP grant, costs of providing information to the public about the SHOP grant, costs of providing civil rights training to local affiliates as well as any expenses involved in affirmatively furthering fair housing, and indirect costs (such as rent and utilities) of the grantee or affiliate in carrying out the SHOP activities.

2. Threshold Requirements

HUD will not consider an application from an ineligible applicant. An applicant must meet all of the applicable threshold requirements listed in the General Section published on January 20, 2006, and the SHOP threshold requirements described below:

a. Organization and Eligibility. You must be eligible to apply under SHOP (see Section III.A.).

b. Non-Profit Status. You must describe how you qualify as an eligible applicant and provide evidence of your public or private nonprofit status, such as a current Internal Revenue Service (IRS) ruling that your organization is exempt from taxation under Section 501(c)(3) or 501(c)(4) of the Internal Revenue Code of 1986. If you are a consortium, each consortium member must submit evidence of its nonprofit status to the lead entity for inclusion in the consortium's application package.

c. Consortium Agreement. If you are a consortium, each consortium member must enter into and sign a consortium agreement for the purpose of applying for SHOP funds and carrying out SHOP activities. Your consortium agreement must be submitted as an appendix to your application.

d. Amount. The amount of SHOP funds requested must be sufficient to complete a minimum of 30 self-help housing units and may not exceed an average investment of $15,000 per unit.

e. Homebuyer Eligibility. Eligible homebuyers are low-income individuals and families (i.e., those whose incomes do not exceed 80 percent of the median income for the area, as established by HUD). You must specify the definition of “annual income” to be used in your proposed program. You may use one of the following three definitions of “annual income” to determine whether a homebuyer is income eligible under SHOP:

(1) “Annual income” as defined at 24 CFR 5.609; or

(2) “Annual income” as reported under the Census long-form for the most recent available decennial Census; or

(3) “Adjusted gross income” as defined for purposes of reporting under the IRS Form 1040 series for individual federal annual income tax purposes.

You may also adopt or develop your own definition of annual income for use in determining income eligibility under SHOP subject to review and approval by HUD. You must include your definition of “annual income” in your Program Summary.

f. Experience. You must demonstrate successful completion of at least 30 self-help homeownership units in a national or regional area within the 24-month period immediately preceding the publication of this NOFA. For dwellings to qualify as self-help homeownership units, the homebuyers must have contributed a significant amount of sweat-equity toward the construction as set forth in this section.

g. Sweat Equity. Your program must require homebuyers to contribute a minimum of 100 hours of sweat equity toward the construction or rehabilitation of their own homes and/or the homes of other homebuyers participating in the self-help housing program. In the case of a household with only one adult, the requirement is 50 hours of sweat equity toward the construction of these homes. Sweat equity includes training for construction on the dwelling units, but excludes homebuyer counseling and home maintenance training. All homebuyers must meet these minimum hourly sweat equity requirements; however, grantees must permit reasonable accommodations for persons with disabilities in order for them to meet the hourly requirements. For example, homebuyers with disabilities may work on less physical tasks or administrative tasks to meet this requirement or a volunteer(s) may enter into an agreement to substitute for the disabled person.

h. Community Participation. Your program must involve community participation in which volunteers assist in the construction or rehabilitation of dwellings. Volunteer labor is work performed by an individual without promise, expectation, or compensation for the work rendered. For mutual self-help housing programs that are assisted by the U.S. Department of Agriculture's Rural Housing Services/Rural Development under Section 523 of the Housing Act of 1949 (7 CFR Part 1944, subpart I) or which have a program design similar to the Section 523 program, the work by each participating family on other participating families' homes may count as volunteer labor. A mutual self-help housing program generally involves 4 to 10 participating families organized in a group to use their own labor to reduce the total construction cost of their homes and complete construction work on their homes by an exchange of labor with one another.

i. Eligible Activities. You must use the SHOP funds for eligible activities (see Sections III.A. and IV.E.) and carry out the activities yourself or fund affiliates to carry out the activities.

3. Threshold Submission Requirements

In order for your application to be rated and ranked, all threshold requirements must be met. Threshold requirements 2(d) through (i) above do not require separate submissions, but must be addressed under the submission requirements for the rating factors listed below in Section V, Application Review Information Criteria.

4. Other Requirements

Other requirements applicable to the SHOP program are set forth in “Additional Nondiscrimination and Other Requirements” of the General Section. The following requirements also apply to SHOP:

a. Economic Opportunities for Low- and Very Low-Income Persons (Section 3). SHOP recipients must comply with Section 3 of the Housing and Urban Development Act of 1968 (Section 3), 12 U.S.C. 170lu (Economic Opportunities for Low- and Very Low-Income Persons in Connection with Assisted Projects), and the HUD regulations at 24 CFR part 135, including the reporting requirement of subpart E. Section 3 requires recipients to ensure that to the greatest extent feasible, training, employment, and other economic opportunities will be directed to low- and very-low income persons, particularly those who are recipients of government assistance for housing, and to business concerns that provide economic opportunities to low- and very-low income persons.

b. Real Property Acquisition and Relocation. SHOP projects are subject to the Uniform Relocation Assistance and Real Property Acquisition Policies Act of 1970, as amended (Uniform Act or URA) (42 U.S.C. 4601), and the government-wide implementing regulations issued by the U.S. Department of Transportation at 49 CFR Part 24. The Uniform Act is a federal law that establishes minimum standards for federally-funded programs and projects that require the acquisition of real property (real estate) or displace persons from their homes, businesses, or farms. The Uniform Act's protections and assistance apply to the acquisition, rehabilitation, or demolition of real property for federal or federally-funded projects.

SHOP grantees and affiliates must comply with all applicable Uniform Act requirements in order to receive SHOP funds for their programs and projects; non-compliance could jeopardize SHOP funding. Real property acquisitions for a SHOP-assisted program or project conducted before completion of an environmental review and HUD's approval of a request for release of funds and environmental certification are also subject to the Uniform Act. SHOP grantees and affiliates must ensure that all such real property acquisitions comply with applicable Uniform Act requirements.

Generally, real property acquisitions conducted without the threat or use of eminent domain, commonly referred to as “voluntary acquisitions,” must satisfy the applicable requirements and criteria of 49 CFR 24.101(b)(1) through (5). Evidence of compliance with these requirements must be maintained by the affiliate and submitted to and maintained by the SHOP grantee. It is also important to note that tenants who occupy property which may be acquired through voluntary means must be fully informed as to their eligibility for relocation assistance. This includes notifying such tenants of their potential eligibility when negotiations are initiated, notifying them if they become fully eligible, and, in the event the purchase of the property will not occur, notifying them that they are no longer eligible for relocation benefits. Evidence of compliance with these requirements must be maintained by the affiliate and submitted to and maintained by the SHOP grantee.

Additional information and resources pertaining to real property acquisition and relocation for HUD-funded programs and projects are available on HUD's Real Estate Acquisition and Relocation Web site at http://www.hud.gov/relocation. You will find applicable laws and regulations, policy and guidance, publications, training resources, and a listing of HUD contacts if you have questions or need assistance.

c. Environmental Requirements. The environmental review requirements for SHOP supersede the environmental requirements in the General Section. All SHOP assistance is subject to the National Environmental Policy Act of 1969 and related federal environmental authorities and regulations at 24 CFR part 58. SHOP grant applicants are cautioned that no activity or project may be undertaken, or federal or non-federal funds or assistance committed, if the project or activity would limit reasonable choices or could produce an adverse environmental impact until all required environmental reviews and notifications have been completed by a unit of general local government, tribe, or state and until HUD approves a recipient's request for release of funds under the environmental provisions contained in 24 CFR part 58. Notwithstanding the preceding sentence, in accordance with section 11(d)(2)(A) of the Housing Opportunity Extension Act of l996 and HUD Notice CPD-01-09, an organization, consortium, or affiliate may advance non-grant funds to acquire land before completion of an environmental review and HUD's approval of a request for release of funds and environmental certification. Any advances to acquire land prior to such approval are made at the risk of the organization, consortium, or affiliate, and reimbursement from SHOP funds for such advances will depend on the result of the environmental review.

d. Statutory and Program Requirements. SHOP is governed by Section 11 of the Housing Opportunity Program Extension Act of 1996 (42 U.S.C. 12805 note) (the Extension Act), and this NOFA. There are no program regulations. You must comply with all statutory requirements applicable to SHOP as cited in Section I, Funding Opportunity Description, and the program requirements cited in this NOFA. Pursuant to these requirements, you must:

(1) Develop, through significant amounts of sweat-equity by each homebuyer and volunteer labor, at least 30 dwelling units at an average cost of no more than $15,000 per unit of SHOP funds for land acquisition and infrastructure improvements;

(2) Use your grant to leverage other sources of funding, including private or other public funds, to complete construction or rehabilitation of the housing units;

(3) Develop quality dwellings that comply with local building and safety codes and standards that will be made available to homebuyers at prices below the prevailing market price;

(4) Schedule SHOP activities to expend all grant funds awarded and substantially fulfill your obligations under your grant agreement, including timely development of the appropriate number of dwelling units. Grant funds must be expended within 24 months of the date that they are first made available for draw-down in a line of credit established by HUD for the grantee, except that grant funds provided to affiliates that develop five or more units must be expended within 36 months; and

(5) Not require a homebuyer to make an up-front financial contribution to a housing unit other than cash contributed for down payment of closing cost at the time of acquisition.

IV. Application and Submission Information

A. Address To Request Application Package

This NOFA contains all the information necessary for national and regional nonprofit organizations and consortia to submit an application for SHOP funding. This section describes how you may obtain application forms and additional information about the SHOP program NOFA. Copies of the published SHOP NOFA and related application forms for this NOFA may be downloaded from the grants.gov website at www.grants.gov/Apply. If you have difficulty accessing the information, you may receive customer support from Grants.gov by calling its help line at (800) 518-GRANTS or sending an email to support@grants.gov. If you do not have Internet access and you need to obtain a copy of this NOFA, you may contact HUD's NOFA Information Center toll-free at (800) HUD-2209, or hearing and speech challenged persons may call (800) HUD-2209 (TTY).

1. Application Kit. There is no application kit for this program. All the information you need to apply is contained in this NOFA and available at www.grants.gov/Apply. The NOFA forms are available to be downloaded from www.grants.gov/Apply. Pay attention to the submission requirements and format for submission specified for this NOFA to ensure that you have submitted all required elements of your application.

The published Federal Register document is the official document that HUD uses to solicit applications. Therefore, if there is a discrepancy between any materials published by HUD in its Federal Register publications and other information provided in paper copy, electronic copy, or at www.grants.gov, the Federal Register publication prevails. Be sure to review your application submission against the requirements in the Federal Register for this NOFA.

2. Guidebook and Further Information. See the General Section.

B. Content and Form of Application Submission

You must meet all application and submission requirements described in the General Section. Your application should consist of the items listed in the section below called Assembly Format and Content. HUD's standard forms can be found in the application found on Grants.gov or HUD's website at http://www.hud.gov/offices/adm/grants/nofa06/snofaforms.cfm.

1. Page Limits

There are page limits for responses to the five rating factors. A national or regional organization is limited to 50 pages of narrative to respond to the five rating factors. A consortium is permitted up to 10 additional pages to address the past experiences of its individual consortium members. Required appendices, forms, certifications, statements, and assurances are not subject to the page limitations. All pages must be numbered sequentially 1 through 50 or 60, for factors 1 through 5. Your application may contain only the narrative statements that address the five rating factors and the required forms, certifications, assurances, and appendices listed in Assembly Format and Content below. In responding to the five factors, information must be included in your narrative response to each factor, unless this NOFA states that it should be included as an appendix. If you are submitting material using the fax method described in the General Section, the narrative should refer to the documents being faxed as part of your narrative response to the factor. Any supplemental information not required in the narratives or appendices requested by HUD that further explains information required in the five factors will not be reviewed for consideration in the scoring of the application.

2. Assembly Format and Content

Your FY 2006 application will be comprised of an Application Overview, Narrative Statements (rating factors), Forms, and Appendices. In order to receive full consideration for funding, you should use the following checklist to ensure that all requirements are addressed and submitted with your electronic application.

a. Application Overview (Not subject to the page limitations)

__ SF-424, Application for Federal Assistance (signed by the Authorized Organization Representative (AOR) who is legally authorized to submit the application on behalf of the applicant and has been approved by the eBusiness Point of Contact to submit the application via Grants.gov. (See the General Section.)

__ SF-424 Supplement, Survey on Ensuring Equal Opportunity for Applicants.

__ Self-Help Housing Organization Qualification—Narrative describing qualification as an eligible applicant and Evidence of Nonprofit Tax Exempt Status (in accordance with Section III.C. of this NOFA).

__ Consortium Agreement, if applicable.

__ Program Summary (including definition of “annual income”).

b. Narrative Statements Addressing: (Subject to the page limitations described above.)

__ Factor 1—Capacity of the Applicant and Relevant Organizational Staff. (including organizational chart).

__ Factor 2—Need/Extent of the Problem.

__ Factor 3—Soundness of Approach.

__ Factor 4—Leveraging Resources.

__ Factor 5—Achieving Results and Program Evaluation.

c. Forms, Certifications, and Assurances: (Not subject to the page limitations.)

__ HUD-424CB, Grant Application Detailed Budget.

__ HUD-424-CBW, Grant Application Detailed Budget Worksheet.

__ SF-LLL, Disclosure of Lobbying Activities, as applicable.

__ HUD-2880, Applicant/Recipient Disclosure/Update Report.

__ HUD-2990, Certification of Consistency with the RC/EZ/EC-II Strategic Plan.

__ HUD-96011, Facsimile Transmittal (required for electronic submissions of third party documents).

__ HUD-2994-A, You Are Our Client Grant Applicant Survey (optional)

__ HUD-96010, Program Outcome Logic Model.

d. Appendices: (Not subject to the page limitations.)

__ A copy of your code of conduct (see the General Section).

__ Leveraging documentation—firm commitment letters (see factor 4).

__ Survey of potential affiliates, if applicable (see factor 2).

__ Demonstration of past performance for new applicants (see factor 5).

__ HUD-27300, Questionnaire for HUD's Initiative on Removal of Regulatory Barriers (see factor 3).

__ Evaluative criteria for Removal of Regulatory Barriers to Affordable Housing in affiliate selection process, if applicable (see factor 3).

e. Certifications and Assurances. Applicants are placed on notice that by signing the SF-424 cover page noted above in 2.a., Application Overview, the applicant is certifying to all information described in Section IV.B.2 (“Certifications and Assurances”) in the General Section.

C. Submission Date and Time

The application deadline date is May 24, 2006. The electronic application must be received and validated by Grants.gov by the application deadline date. If an applicant is granted a waiver to the electronic application submission requirement, the application must be received at the appropriate HUD Office(s) by the application deadline date (see General Section).

D. Intergovernmental Review

Executive Order 12372 review does not apply to SHOP.

E. Funding Restrictions

1. Administrative Costs

Administrative costs may not exceed 20 percent of any SHOP grant. Indirect costs may only be charged to the SHOP grant under a cost allocation plan prepared in accordance with OMB Circular A-122.

2. Pre-Agreement Costs

After the publication date of the NOFA, but before the effective date of the SHOP Grant Agreement, an applicant and affiliates, if permitted by the applicant, may incur costs that may be charged to its SHOP grant provided the costs are eligible (see Section III.C.1.) and in compliance with the requirements of this NOFA (including relocation and environmental review requirements) and the application. Applicants and affiliates incur costs at their own risk, because applicants that do not receive a SHOP grant cannot be reimbursed or reimburse affiliates.

3. Ineligible Costs

Costs associated with the rehabilitation, improvement, or construction of dwellings and any other costs not identified in Section III.C.1. are not eligible uses of program funds. Acquiring land for land banking purposes (i.e., holding land for an indefinite period) is an ineligible use of SHOP funds. Acquisition undertaken by the applicant or its affiliate before the publication date of the NOFA is not an eligible cost. SHOP funds may not be expended on a property unless its acquisition by the grantee, subgrantee, or its affiliates complies with the Uniform Relocation Assistance and Real Property Acquisition Policies Act of 1970 (URA). These requirements also apply to the reimbursement of pre-agreement costs (see Section IV.E.2).

F. Other Submission Requirements

You must meet all submission requirements described in the General Section. Refer to the General Section for detailed submission instructions, including methods and deadlines for submission.

3. No Facsimiles or Videos. HUD will not accept an entire application sent by facsimile (fax). However, third-party documents or other materials sent by facsimile in compliance with the submission requirements and received by the application submission date will be accepted. Facsimile corrections to technical deficiencies will not be accepted. Videos submitted as part of an application will not be viewed.

4. Applications must be received and validated by Grants.gov by the application deadline date.

V. Application Review Information

A. Criteria

Rating Factor 1: Capacity of the Applicant and Relevant Organizational Staff (25 Points)

This factor examines the extent to which you, as a single applicant or consortium (including individual consortium members), have the experience and organizational resources necessary to carry out the proposed activities effectively and in a timely manner. Any applicant that does not receive at least 15 points under this factor will not be eligible for funding.

In evaluating this factor, HUD will consider your recent and relevant experience in carrying out the activities you propose (including experience in developing accessible/visitable housing), and your administrative and fiscal management capability to administer the grant, including the ability to account for funds appropriately. All applicants, including individual consortium members, must have capacity and experience in administering or facilitating self-help housing. If you are sponsoring affiliate organizations that do not have experience in developing self-help housing, HUD will assess your organization's experience in providing technical assistance and the ability to mentor new affiliates.

Submission Requirements for Rating Factor 1

a. Past Experience (10 points). You must describe the past experience of your organization and key staff in carrying out self-help housing activities (specify the time frame during which these activities occurred) that are the same as, or similar to, the activities you propose for funding, and demonstrate that you have had reasonable success in carrying out and completing those activities. You must include the average number of sweat equity hours provided per homebuyer family, and the average number of volunteer labor hours provided per unit. You may demonstrate reasonable success by showing that your previous activities were carried out as proposed, consistent with the time frame you proposed for completion of all work.

b. Management Structure (12 points). You must provide a description of your organization's or consortium's management structure, including an organizational chart. You must also describe your key staff and their specific roles and responsibilities for day-to-day management of your proposed SHOP program. You must indicate if you will or will not be working with organizations that are inexperienced in carrying out self-help housing and describe how you will provide technical assistance and mentor these organizations to develop capacity either directly or indirectly.

c. Experience Developing Accessible Housing (3 points). You must demonstrate your experience in and ability to construct and alter self-help housing by describing the kinds of features that you have used to design homes in accordance with universal design and visitability standards, or otherwise make homes physically accessible. You must provide data on the number of accessible units you have completed and the time frame during which units were constructed and/or altered.

Rating Factor 2: Need/Extent of the Problem (10 Points)

This factor examines the extent to which you demonstrate an urgent need for SHOP funds in your proposed target areas based on the need for affordable housing, using quality data with source to substantiate that need.

The purpose of this factor is to make sure that funding is provided where a need for funding exists. Under this factor, you must identify the community need or needs that your proposed SHOP activities are designed to address. If you plan to select some or all affiliates after application submission, you must demonstrate how the selection of affiliates will help to address the needs identified in the proposed target areas.

Submission Requirements for Rating Factor 2

Extent of Need for Affordable Housing (10 points). You must establish the need for affordable housing and the specific need for SHOP funds in the communities or areas in which your proposed activities will be carried out. You must specifically address the need for acquisition and/or infrastructure assistance for self-help housing activities in these identified areas and how your proposed SHOP activities meet these needs. Also, to the extent information is available, you must address the need for accessible homes in the target area(s); evidence of housing discrimination in the target area(s); and any need for housing shown in the local Analysis of Impediments to Fair Housing Choice, if appropriate. Applicants that select affiliates after application submission must submit a list of affiliates they surveyed and upon which they are basing their need for SHOP funding, as well as the specific criteria to be used to select communities or projects based on need.

In reviewing applications, HUD will consider the extent, quality, and validity of the information and data submitted that addresses the need for affordable housing in the target area. Such information must include:

a. Housing market data in the proposed target areas including, but not limited to: Low-income, minority, and disability populations; number of home sales and median sales price; and homeownership, rental, and vacancy rates. This information can be obtained from state or regional housing plans, the American Housing Survey, the United States Census, Home Mortgage Disclosure Act data or other local data sources, such as Consolidated Plans, comprehensive plans, local tax assessor databases, or relevant realtor information. Data included in your application must be recent and specific to your proposed target areas; and

b. Housing problems in the proposed target areas such as overcrowding, cost burden, housing age or deterioration, low homeownership rate (especially among minority families, families with children, and families with members with disabilities), and lack of adequate infrastructure or utilities.

Rating Factor 3: Soundness of Approach (45 Points)

This factor examines the quality and soundness of your plan to carry out a self-help housing program. In evaluating this factor HUD will consider the areas described below:

a. Your proposed use of SHOP funds, including the number of units and the type(s) of housing to be constructed, and the use of sweat equity and volunteer labor; your schedule for expending funds and completing construction, including interim milestones; the proposed budget and cost effectiveness of your program; your plan to reach all potentially eligible homebuyers, including those with disabilities and others least likely to apply; and your procedures for meeting section 3 requirements.

b. How your planned activities further the five HUD policy priorities that apply specifically to SHOP in FY 2006 as described in the General Section. The policy priorities for SHOP are:

(1) Providing increased homeownership opportunities for low- and moderate-income persons, persons with disabilities, the elderly, minorities, and families with limited English proficiency;

(2) Encouraging accessible design features: Visitability in new construction and substantial rehabilitation and universal design;

(3) Providing full and equal access to grassroots, faith-based, and other community-based organizations in HUD program implementation;

(4) Participation in Energy Star; and

(5) Removal of regulatory barriers to affordable housing.

c. How you plan to meet section 3 requirements for jobs and training and contracting opportunities for SHOP-funded infrastructure improvements.

Submission Requirements for Rating Factor 3

Activities. Describe the types of activities that you propose to fund with SHOP and the proposed number of units to be assisted with SHOP funding, the housing type(s) (single family or multifamily, or both) to be assisted and the form of ownership (fee simple, condominium, cooperative, etc.) you propose to use.

a. Sweat Equity and Volunteer Labor (7 points). Describe your program's requirements for sweat equity and volunteer labor (i.e., types of tasks and numbers of hours required for both sweat equity and volunteer labor) and how you will provide reasonable accommodations for persons with disabilities by identifying sweat equity assignments that can be performed by the homebuyer regardless of the disability, such as doing administrative, clerical, organizational, or other office work or minor tasks on site. Reasonable accommodation can include sweat equity by the homebuyer that can be performed regardless of the disability or substitution of a non-homebuyer designee(s) to perform the sweat equity assignments on behalf of the homebuyer. Volunteers substituting for disabled homebuyers must enter into an agreement to complete the work on behalf of the homebuyers. Include the dollar value of both the sweat equity and volunteer labor contributions and specify the amount by which these contributions will reduce the sales price to the homebuyer. Applicants showing a larger reduction of the sales price as a result of the homebuyer's sweat equity and volunteer labor contributions will receive a higher score.

b. Funds Expenditure, Construction, and Completion Schedules (7 points). Submit a construction and completion schedule that expends SHOP funds and substantially fulfills your obligations if you are funded. You must provide a definition of “substantially fulfills” by specifically stating the percentage or number of properties that you propose to be completed and conveyed to homebuyers at the time all grant funds are expended. Your construction schedule must include the number of dwelling units to be completed within 24 months or, in the case of affiliates that develop five or more units, within 36 months, and a time frame for completing any unfinished units.

Your schedule must also include (1) milestones or benchmarks against which HUD can measure your progress in selecting local affiliates if they are not specifically identified in the application, (2) expending funds, and (3) completing acquisition, infrastructure, and housing construction activities within these schedules. These milestones or benchmarks should be established at reasonable intervals (e.g., monthly, quarterly).

c. Budget (7 points). Provide a detailed budget including a breakdown for each proposed task and each budget category (acquisition, infrastructure improvements, and administration) funded by SHOP in the HUD-424-CB and 424-CBW. If SHOP funds will be used for administration of your grant, you must include the cost of monitoring consortium members and affiliates at least once during the grant period. Your detailed budget must also include leveraged funding to cover costs of completing construction of the proposed number of units. Budget amounts on the HUD-424-CB and 424-CBW must agree with amounts stated elsewhere in the application.

d. Cost Effective (6 points). Demonstrate the extent to which the investment of SHOP funds, the contribution of sweat equity and volunteer labor, and any donations to your SHOP program (e.g. land, building materials) reduce the average sales price below the appraised value of the house or market value of comparable housing.

e. Policy Priorities (6 points). Describe how each of the five HUD policy priorities identified specifically for SHOP is furthered by your proposed activities. You will receive up to one point for each of the first four policy priorities based on how well your proposed work activities address the specific policy. You can receive up to two points for how well you address policy priority (5), removal of regulatory barriers to affordable housing, for which you must submit form HUD-27300, Questionnaire for HUD's Initiative on Removal of Regulatory Barriers. Applicants are encouraged to read HUD's notices published in the Federal Register on March 22 (69 FR 13450) and April 21 (69 FR 21663), 2004, to obtain an understanding of this policy priority and how it can impact your score. There are exceptions as provided below.

Applicants that identify affiliate organizations and jurisdictions to be served in their application to HUD should address the questions in Part A or Part B of form HUD-27300 for the jurisdiction in which the majority or plurality of services will be performed.

Applicants that do not identify affiliates and communities to be served in their application to HUD, but select affiliates competitively or through another method after application submission to HUD, may address this policy priority by including it as an evaluative criterion in their affiliate selection process. Such applicants may receive up to two points by requiring affiliate applicants for the awarded SHOP funds to complete the questions in either Part A or B, as appropriate. In order to receive points, applicants that identify affiliates after application submission must include their evaluative criterion as an appendix, and, if awarded SHOP funds in FY 2005, must demonstrate how the evaluative criteria that were included in your FY 2005 application were implemented. You must also describe how the evaluative criteria in your FY 2005 SHOP program affected or will affect the selection and funding of affiliates for FY 2006, to the extent this has been completed. The narrative for your evaluative criteria does not count against the page limits described in Section IV.B.1, Page Limits.

Applicants applying for funds for projects located in local jurisdictions and counties/parishes are invited to answer the 20 questions under Part A. An applicant that scores at least five in column 2 will receive 1 point in the NOFA evaluation. An applicant that scores 10 or more in column 2 will receive 2 points in the NOFA evaluation. The community(ies) must be identified on the form HUD-27300.

Applicants applying for funds for projects located in unincorporated areas or areas otherwise not covered in Part A are invited to answer the 15 questions in Part B. Under Part B, an applicant that scores at least four points in Column 2 will receive one point in the NOFA evaluation. An applicant that scores eight points or greater will receive a total of two points in the evaluation. The community(ies) must be identified on the form HUD-27300.

A limited number of questions on form HUD-27300 expressly request the applicant to provide brief documentation with its response. Other questions require that, for each affirmative statement made, the applicant supply a reference, Web site address, or brief statement indicating where the back-up information may be found, and a point of contact, including a telephone number or e-mail address.

f. Program Outreach (5 points). Describe materials or services that will be used to reach potential homebuyers, including persons least likely to apply. For example, what alternative formats will be used to reach persons with a variety of disabilities and what language accommodations will be made for persons with limited English proficiency.

g. Performance and Monitoring (5 points). Describe your plan for overseeing the performance of consortium members and affiliates, including a plan for monitoring each consortium member and affiliate for program compliance at least once during the term of the grant. Your plan should address when and how you will shift funds among consortium members and affiliates to ensure timely and effective use of SHOP funds within the schedule submitted for item b. above.

h. Section 3 Procedures (2 points). Under section 3 of the Housing and Urban Development Act of 1968, to the greatest extent feasible, opportunities for job training and employment arising in connection with housing rehabilitation, housing construction, or other public construction projects must be given to low- and very low-income persons in the metropolitan area (or non-metropolitan county) in which the project is located. In addition, to the greatest extent feasible, contracts for work to be performed in connection with housing rehabilitation, housing construction, or other public construction projects are given to business concerns that provide economic opportunities for low- and very low-income persons in the metropolitan area (or non-metropolitan county) in which the project is located. The regulations implementing section 3 are found at 24 CFR Part 135. Because SHOP funds may only be used for acquisition and infrastructure improvements, section 3 requirements apply only to SHOP projects for which the amount of SHOP funds for the infrastructure improvements (together with any other covered section 3 housing and community development assistance for infrastructure) meets the threshold amount of $200,000. Based on the SHOP maximum average investment of $15,000 per unit, section 3 would generally only apply to a SHOP project with at least 14 units where the entire SHOP amount (if no other covered section 3 housing and community development assistance is provided to the grantee or affiliate for infrastructure) is $200,000 or more. Regardless of whether the section 3 threshold is met, all applicants are required to describe procedures they have in place for section 3 compliance in the event that they meet the section 3 threshold in carrying out their proposed SHOP activities. You must clearly explain your procedures for complying with these requirements (1) for projects you undertake directly, and (2) for projects undertaken by affiliates. In the case of projects undertaken by affiliates, your procedures must state how you will inform affiliates of their responsibilities under section 3 and how you will monitor compliance. One point will be awarded for addressing job training and employment opportunities. One point will be awarded for addressing contracting opportunities.

Rating Factor 4: Leveraging Resources (10 Points)

This factor addresses your ability to secure other resources that can be combined with HUD's program resources to fully fund your proposed program. When combined with the SHOP grant funds, homebuyer sweat equity, and volunteer labor, your leveraged resources must be sufficient to develop the number of units proposed in your application. HUD will consider only those leveraging contributions for which current firm commitments as described in this factor are submitted. A firm commitment means a written agreement under which the applicant, a partner, or an entity agrees to perform services or provide resources for an activity specified in your application. Firm commitments in the form of cash funding (e.g., grants or loans), in-kind contributions, donated land and construction materials, and donated services will count as leverage. Leveraging does not include the dollar value of sweat equity and volunteer labor for your proposed activities. Leveraging does not include financing provided to homebuyers. However, financing provided through the U.S. Department of Agriculture's Section 502 direct loans to homebuyers for construction of their dwellings counts as leveraging for mutual self-help housing programs. Firm commitments must be substantiated by the documentation described below.

Submission Requirements for Rating Factor 4

Firm Commitments of Resources (10 points). Provide firm commitments (letters, agreements, pledges, etc.) of leveraged resources or services from the source of the commitment. In order to be considered, leveraged resources or services must be committed in writing and include your organization's name, the contributing organization's name (including designation as a federal, state, local, or private source), the proposed type of commitment, and dollar value of the commitment as it relates to your proposed activities. Each letter of commitment must be signed by an official of the organization legally able to make the commitment on behalf of the organization. See Other Submission Requirements, of the General Section regarding the procedures for submitting third-party documentation. Each letter of commitment must specifically support your FY 2006 SHOP application or specific projects in your FY 2006 application. If your organization depends upon fundraising and donations from unknown sources/providers, you must submit a separate letter committing a specific amount of dollars in fundraising to your proposed FY 2006 SHOP program. Likewise, if you have received funds from organizations and agencies from previous years that are not committed to another activity and you have the sole discretion to commit these funds to your FY 2006 SHOP program, you must submit a separate letter committing these dollars to your FY 2006 SHOP program. In all instances, the dollar amount must be stated in the letters. Letters of commitment may be contingent upon your receiving a grant award. Letters of commitment must be included as an appendix to your application, and do not count toward the page limitation noted in Section IV.B.1. Unsigned, undated, or outdated letters, letters only expressing support of your organization or its proposal, or those not specifically stating the dollar amount or linking the resources to your FY 2006 SHOP application or specific projects in your FY 2006 application do not count as firm commitments.

To receive full credit for leveraging, an applicant's leveraging resources must be clearly identified for its FY 2006 SHOP application and must total at least 50 percent of the amount shown on forms HUD-424-CB needed to complete all properties, minus the proposed SHOP grant amount, homebuyer sweat equity, and volunteer labor.

Rating Factor 5. Achieving Results and Program Evaluation (10 Points)

This factor assesses an applicant's past performance and emphasizes HUD's determination to track whether applicants meet commitments made in their applications.

a. Past Performance. For applicants that previously received SHOP grants, HUD will assess your organization's past performance based upon performance reports that demonstrate your organization's completion of eligible SHOP activities, the number of families provided housing, financial status information focusing on timely use of funds, and other program outcomes. HUD will consider whether you had funds deobligated for failure to meet your drawdown and construction schedules or funds were returned because of monitoring findings or other program deficiencies. HUD will also use monitoring reports, audit reports, and other information available to HUD in making its determination under this factor. For applicants that received SHOP grants in previous years, HUD will assess your success in meeting benchmarks in the most recent three years of participation in the program. If you are not a current SHOP grantee, you must summarize your performance in undertaking similar activities during the past three years. You must supplement your narrative with internal or external performance reports or other information that will assist HUD in making this determination, and submit it as an appendix. Supplemental information and reports from applicants that have not received SHOP grants do not count against the page limitations.

b. Logic Model. HUD requires SHOP applicants to develop an effective, quantifiable, outcome-oriented evaluation plan for measuring performance and determining whether goals have been met using the Master Logic Model for SHOP, which can be found in the download instructions portion at www.grants.gov. In preparing your logic model you must first open the form HUD-96010 and go to the instruction tab and follow the directions in the tab. “Outcomes” are benefits accruing to the families and/or communities during or after participation in SHOP. The self-help housing units developed are outputs as described under this factor, not outcomes. Applicants must clearly identify the outcomes to be achieved and measured. Examples of outcomes for SHOP include increasing the homeownership rate in a neighborhood or among low-income families by a certain percentage, increasing financial stability (e.g., increasing assets of the low-income homebuyer households through home equity accumulation or reducing total housing costs compared to rents that SHOP participants previously paid) or increasing housing stability during and beyond the grantee's period for reporting on property completions. See Reporting in Section VI.C. Outcomes must be quantifiable.

In addition, applicants must establish interim benchmarks for which outputs lead to the ultimate achievement of outcomes. “Outputs” are the direct products of the applicant's program activities. Examples of outputs for SHOP include the number of houses constructed, number of sweat equity hours, or number of homes rehabilitated. Outputs should produce outcomes for your program. Outputs must be quantifiable.

“Interim benchmarks” are steps or stages in your activities that, if reached or completed successfully, will result in outputs for your program. Examples of interim benchmarks for SHOP include income-qualifying homebuyers, obtaining building permits, or securing construction materials and equipment.

Program evaluation requires that you identify program outcomes, outputs, benchmarks, and performance indicators that will allow you to measure your performance. Performance indicators must be objectively quantifiable and measure actual achievements against anticipated achievements. Your evaluation plan must identify what you are going to measure, how you are going to measure it, and the steps you have in place to make adjustments to your work plan if performance targets are not met within established time frames. This factor reflects HUD's goal to embrace high standards of ethics, management, and accountability. Successful applicants will be required to periodically report on their progress in achieving the proposed outcomes identified in the application. Applicants should refer to the General Section for more information on the Master Logic Model.

Submission Requirements for Rating Factor 5

a. Past Performance (7 Points). For applicants that received SHOP grants in previous years, you must summarize your past performance, including any delays you encountered and the mitigating actions taken to overcome them to successfully complete your program. HUD will measure your past performance using monitoring reports, audit reports, quarterly and annual reports, disbursement data, and other information currently in-house against what you stated you would do in your previous applications and your summary. New applicants must provide a summary of your performance in carrying out self-help housing, including any delays you encountered and the mitigating actions taken to overcome them to successfully complete your program. Your narrative summary must be supported by existing internal or external performance reports or other information that will assist HUD in measuring your performance for carrying out self-help housing. The supplemental reports and information must be included as an appendix and will not count against the page limitations.

b. Program Evaluation Plan (3 Points). For FY 2006, HUD has developed an e LogicModel™ that allows the applicant to select from drop down menus the elements of their program to be captured in the Logic Model. Instructions for the eLogic Model™ are found in Tab 1 of the form HUD-96011 found in the instructions download to your electronic application on www.Grants.gov/Apply. The Master Logic Model listing also identifies the unit of measure that HUD will collect for the output and outcome selected. Applicants must identify a unit of measure and establish a goal for each output and outcome. HUD expects applicants to identify more than one output and outcome. You must summarize your program evaluation plan that measures your own program performance. Your plan must measure the performance of individual consortium members and affiliates, including the standards and measurement methods, and the steps you have in place or how you plan to make adjustments if you begin to fall short of established benchmarks and time frames. For FY2006, HUD is considering a new concept for the Logic Model. The new concept is a Return on Investment (ROI) statement. HUD will be publishing a separate notice on the ROI concept.

Review and Selection Process

1. Factors for Award Used To Evaluate Applications

HUD will evaluate all SHOP applications that successfully complete technical processing and meet threshold and submission requirements for Factors 1 through 5. The maximum number of points awarded for the rating factors is 100 plus the possibility of an additional 2 bonus points for RC/EZ/EC-II.

2. RC/EZ/EC-II Bonus Points

Applicants may receive up to 2 bonus points for eligible activities that the applicant proposes to locate in federally designated Empowerment Zones (EZs), renewal communities (RCs), or enterprise communities (ECs) designated by the United States Department of Agriculture (USDA) in Round II (EC-IIs) that are intended to serve the residents of these areas and that are certified to be consistent with the area's strategic plan or RC Tax Incentive Utilization Plan for an urban or rural renewal community designated by HUD (RC) on the strategic plan for an enterprise community designed in round II by USDA (EC-II) . For ease of reference in this notice, all of the federally designated areas are collectively referred to as “RC/EZ/EC-IIs” and the residents of these federally designated areas as “RC/EZ/EC-II residents.” The RC/EZ/EC-II certification, a valid HUD-2990 form, must be completed for an applicant to be considered for RC/EZ/EC-II bonus points. A list of RC/EZ/EC-IIs can be obtained from HUD's grants Web page at www.hud.gov/offices/adm/grants/fundsavail.cfm. Applicants can determine if their program or project activities are located in one of these designated areas by using the locator on HUD's Web site at www.hud.gov/crlocator. Copies of the certification can be found in the electronic application and on HUD's Web site at http://www.hud.gov/offices/adm/grants/nofa05/snofaforms.cfm. The certification must be completed and signed by the appropriate official in the RC/EZ/EC-II for an applicant to be considered for RC/EZ/EC-II bonus points. In addition to the RC/EZ/EC-II certification, applicants must provide the location of the EC/EZ/EC-II (name of town, city, state, or other locale) if not otherwise identified on the certification, and the number of units to be developed within the RC/EZ/EC-II in order to receive credit as noted in V.B.4, Ranking and Selection Procedures.

RC/EZ/EC-II bonus points will be awarded as follows: 2 Points to an applicant with over 25 percent of its proposed units in RC/EZ/EC-II; 1 point for 10 to 25 percent of units in RC/EZ/EC-IIs; and 0 points below 10 percent of units in RC/EZ/EC-II zones.

3. Rating

Applications that meet all threshold requirements listed in Section III.C will be rated against the criteria in Factors 1 through 5 and assigned a score. Applications that do not meet all threshold factors will be rejected and not rated.

4. Ranking and Selection Procedures

Applications that receive a total of 75 points or more (without the addition of RC/EZ/EC-II bonus points) will be eligible for selection. After adding any bonus points for RC/EZ/EC-IIs HUD will place applications in rank order. HUD will consider rank order, funds availability, and past performance in the selection and funding of applications.

5. Technical Deficiencies

After the application submission date and consistent with regulations in 24 CFR part 4, subpart B, HUD may not consider any unsolicited information you may want to provide. However, HUD may contact you to clarify an item in your application or to correct technical deficiencies. In order not to unreasonably exclude applications from being rated and ranked, HUD may contact applicants to ensure proper completion of the application and will do so on a uniform basis for all applicants. However, HUD may not seek clarification of items or responses that improve the substantive quality of your response to any rating factor.

Examples of curable (correctible) technical deficiencies include inconsistencies in the funding request, a failure to submit certifications. In each case, HUD will notify you in writing by describing the clarification or technical deficiency. See the General Section for additional information.

6. HUD's Strategic Goals to Implement HUD's Strategic Frameworks and Demonstrate Results

See the General Section for HUD's Strategic Goals.

7. Policy Priorities

Refer to the General Section for information regarding application criteria addressing HUD's policy priorities.

Note: From all applications that receive SHOP funds, HUD intends to add relevant data obtained from the “Removal of Regulatory Barriers” policy priority factor to the database on state and local regulatory reform actions maintained at the Regulatory Barrier Clearinghouse Web site at www.huduser.org.rbc/ used by states, localities, and housing providers to identify regulatory barriers and learn of exemplary local efforts at regulatory reform.

VI. Award Administration Information

A. Award Notices

1. HUD reserves the right to:

a. fund less than the amount requested by any applicant based on the application's rank, the applicant's past performance, and the amount of funds requested relative to the total amount of available funds; and/or

b. fund less than the full amount requested by any applicant to ensure a fair distribution of the funds and the development of housing on a national, geographically diverse basis as required by the statute.

HUD will not fund any portion of an application that is ineligible for funding under program threshold requirements in Section III.C. or which does not meet other threshold and pre-award requirements in Section III.C. The minimum grant award shall be the amount necessary to complete at least 30 units at an average investment of not more than $15,000 per unit or a lesser amount if lower costs are reflected in the application. If any funds remain after all selections have been made, these funds may be available for subsequent competitions.

2. Debriefing

For a period of at least 120 days, beginning 30 days after the awards for assistance are publicly announced, HUD will provide to a requesting applicant a debriefing related to its application. A debriefing request must be made in writing or by email by its authorized official whose signature appears on the SF-424 or his or her successor in the office and submitted to Ms. Lou Thompson, Office of Affordable Housing Programs, U.S. Department of Housing and Urban Development, 451 Seventh Street, SW., Room 7164, Washington, DC 20410-7000. Information provided during a debriefing will include, at a minimum, the final score you received for each rating factor, final evaluation comments for each rating factor, and the final assessment indicating the basis upon which assistance was provided or denied.

B. Administrative and National Policy Requirements

1. Grantees are required to comply with the following administrative and financial requirements: A-122 Cost Principles for Non-Profit Organizations; A-133 (Audits of States, Local Governments, and Non-Profit Organizations); and the regulations at 24 CFR part 84 (Grants and Agreements with Institutions of Higher Education, Hospitals, and other Non-Profit Organizations).

2. Copies of the OMB Circulars may be obtained from EOP Publications, Room 2200, New Executive Office Building, Washington, DC 20503, telephone (202) 395-3080 (this is not a toll-free number) or (800) 877-8339 (toll-free TTY Federal Information Relay Service) or from the Web site at www.whitehouse.gov/omb/circulars/index.html.

3. Refer to all award administration information requirements described in Section VI (“Award Administration Information”) of the General Section.

C. Reporting

Grantees are required to submit quarterly and annual (consortium members/affiliates) reports providing data on the construction status, unit characteristics, and income and racial and ethnic composition of homeowners in SHOP-funded properties. For each reporting period, as part of the required quarterly report to HUD, grant recipients must include a completed Logic Model (form HUD-96010), which updates the output and outcome achievements identified in your application with which HUD can evaluate the effectiveness of the SHOP funding. Applicants are also required to report annually their response to the management questions contained in the eLogic model ™ for the SHOP program.

VII. Agency Contact

Further Information and Technical Assistance

Before the application due date, HUD staff may provide general guidance and technical assistance about this NOFA. However, staff is not permitted to assist in preparing your application. Also, following selection of applicants, but before awards are announced, staff may assist in clarifying or confirming information that is a prerequisite to the offer of an award. You may contact Ms. Lou Thompson, SHOP Program Manager, Office of Affordable Housing Programs, U.S. Department of Housing and Urban Development, 451 Seventh Street, SW., Room 7164, Washington, DC 20410-7000, telephone (202) 708-2684 (this is not a toll-free number). This number can be accessed via TTY by calling the toll-free Federal Information Relay Service Operator at (800) 877-8339. For technical support for downloading an application or electronically submitting an application, please call Grants.gov Customer Support at 800-518-GRANTS (this is a toll-free number) or e-mail to support@grants.gov.

VIII. Other Information

A. Review Section VIII.A., B., E., F., G., and H. (“Other Information”) of the General Section, and note that these subsections are incorporated by reference into this NOFA.

B. Paperwork Reduction Act

The information collection requirements contained in this document were approved by the Office of Management and Budget (OMB) under the Paperwork Reduction Act of 1995 (44 U.S.C. 3501-3520) and assigned OMB control number 2506-0157. In accordance with the Paperwork Reduction Act, HUD may not conduct or sponsor, and a person is not required to respond to, a collection of information unless the collection displays a currently valid OMB control number. Public reporting burden for the collection of information is estimated to average 60 hours per annum per respondent for the application and grant administration. This includes the time for collecting, reviewing, and reporting the data for the application, quarterly and annual reports, and final report. The information will be used for grantee selection and monitoring the administration of funds. Response to this request for information is required in order to receive the benefits to be derived.

BILLING CODE 4210-01-P

Housing Opportunities for Persons With AIDS (HOPWA) Overview Information

A. Federal Agency Name: Department of Housing and Urban Development, Office of Community Planning and Development (CPD), Office of HIV/AIDS Housing.

B. Funding Opportunity Title: Housing Opportunities for Persons With AIDS (HOPWA).

C. Announcement Type: Initial Announcement

D. Funding Opportunity Number: The Federal Register number is: FR-5030-N-05. The OMB approval number is 2506-0133.

E. Catalog of Federal Domestic Assistance (CFDA) Numbers: 14.241 Housing Opportunities for Persons With AIDS Program.

F. Dates: The application submission date is June 13, 2006. Refer to the General Section for application submission and timely receipt requirements.

G. Additional Overview Information:

1. Purpose of the Program: To provide states and localities with the resources and incentives to devise long-term comprehensive strategies for meeting the housing needs of low-income persons with Human Immunodeficiency Virus/Acquired Immunodeficiency Syndrome (HIV/AIDS). Grant recipients will measure client outcomes to assess how housing assistance results in creating or maintaining stable housing, reduces risks of homelessness, and improves access to healthcare and other needed support. States, units of general local government, and nonprofit organizations interested in applying for funding under this grant program should carefully review the General Section and detailed information listed in this NOFA.

2. Available Funds. Approximately $10,000,000 in FY2006 funding is made available under the Department of Housing and Urban Development Appropriations Act, 2006 (Pub. L. 109-115; approved Nov. 30, 2005). Funds for the renewal of expiring HOPWA competitive grants that have successfully undertaken permanent supportive housing projects will be distributed under a separate, simplified process, described in a separate notice from this NOFA. Funds under this NOFA will be made available after those awards with the remaining funds. This notice makes available funding for two types of HOPWA competitive grants for new projects: (1) Long-term project awards for housing activities to be conducted by eligible states and units of general local government in areas that are not eligible for formula allocations or in the balance of the state areas outside of eligible metropolitan statistical areas by a governmental agency that is not eligible to receive formula grants; and (2) awards for Special Projects of National Significance (SPNS) projects that will undertake housing service delivery models to provide HOPWA clients with improved stable housing arrangements by a governmental agency or an eligible non-profit organization.

Beginning this year, the Department will advise existing grantees that provide permanent supportive housing, the procedure for qualifying for additional funds as a renewal of an expiring HOPWA grant. These projects will not be required to submit an application under this competition for a renewal grant.

3. Eligible Applicants. States, units of general local government, and nonprofit organizations are eligible to apply.

4. Match. None.

5. Authorities. HOPWA Program regulations at 24 CFR Part 574 and the AIDS Housing Opportunity Act (42 U.S.C. 12901-12912), govern the program.

Full Text of Announcement

I. Funding Opportunity Description

A. Program Description

1. Long-Term Projects in Non-Formula Areas

HUD will award funding for short-term, transitional and/or permanent supportive housing activities. These projects should improve stable housing arrangements for eligible persons who reside in areas not eligible for HOPWA formula allocations or in the balance of state areas outside of eligible metropolitan statistical areas to be undertaken by a state or unit of general local government that is not eligible for a formula allocation in federal fiscal year 2006.

2. Special Projects of National Significance (SPNS)

Special Projects of National Significance (SPNS) projects will provide assistance that stabilizes housing for eligible persons through model and/or innovative service delivery models. Consistent with the selection considerations established at 42 U.S.C. 12903(c)(3)(C), SPNS projects will demonstrate potential replicability in the larger HOPWA program.

3. Definitions for All HOPWA Grants

a. Chronically Homeless Person. An unaccompanied homeless individual with a disabling condition who has either been continuously homeless for a year or more OR has had at least 4 episodes of homelessness in the past 3 years. For this program a disabling condition is defined as a diagnosable substance abuse disorder, serious mental illness, developmental disability, or chronic physical illness or disability, including the co-occurrence of two or more of these conditions.

b. Lease or Occupancy Agreement. In establishing that an eligible person has obtained permanent supportive housing and a legal right to remain in that housing unit, the lease or occupancy agreement must be for a term of at least one year. The lease or occupancy agreement must also be automatically renewable upon expiration, except on reasonable and timely prior notice by either the tenant or the landlord. A short-term lease or lease in the name of the provider may be used to undertake transitional housing activities.

c. Non-profit Organization. Non-profit organizations include those that: (1) Are state or locally chartered; (2) Are organized under state or local laws; (3) Have no part of earnings inuring to the benefit of any member, founder, contributor or individual; (4) Have a functioning accounting system that is operated in accordance with generally accepted accounting principles, or has designated an entity that will maintain such an accounting system; and (5) Have among its purposes significant activities related to providing services or housing to persons with acquired immunodeficiency syndrome or related diseases, as clarified to include infection with the human immunodeficiency virus (HIV).

d. Permanent Supportive Housing. Housing in which the eligible person has a continuous legal right to remain in the unit and which provides the eligible person ongoing supportive services through qualified providers.

e. Transitional Housing. Housing, that will help facilitate the movement of eligible person(s) to permanent housing within 24 months.

B. Statutory and Regulatory Requirements

For more information on the HOPWA program, including eligible uses of funds, see the HOPWA program regulations at 24 CFR Part 574 and the AIDS Housing Opportunity Act (42 U.S.C. 12901-12912), which govern the program.

C. Availability of Other HOPWA Resources.

1. Formula Allocations

Applicants are advised to also consider seeking funds from the formula component of the HOPWA program and from other resources. Ninety percent of the HOPWA program is allocated by formula to eligible states and qualifying cities. In FY2006, HUD distributed $256 million in HOPWA funds by formula to the qualifying cities for 83 eligible metropolitan statistical areas (EMSAs) and to 39 eligible states for areas outside of EMSAs.

2. National HOPWA Technical Assistance

To apply for funding to serve as a provider of HOPWA technical assistance, you must submit an application for funds under the Community Development Technical Assistance (CDTA) section of the SuperNOFA. The CDTA notice makes HOPWA funds available to organizations qualified to provide technical assistance support to HOPWA grantees and project sponsors. Organizations seeking help in managing their current HOPWA project, such as advice or other help needed in planning, operating, reporting to HUD and evaluating HOPWA programs, can request technical assistance by contacting their state or area CPD office.

II. Award Information

A. Total

The total available HOPWA competitive funding in FY2006 is $28,175,000. After first awarding funds to renew existing HOPWA permanent housing projects in FY2006, HUD estimates that approximately $10,000,000 will be available for new projects.

B. Announcement of Awards

HUD anticipates that projects awarded under this Notice will be announced by August 30, 2006. It is expected that selected projects will undertake program activities under a grant agreement for a three-year operating period.

C. Minimum and Maximum Grant Award

In order to fairly distribute available funding, the conditions on grant size for award that you may receive is:

1. For program activities (e.g., activities that directly benefit eligible persons): at least $500,000 and up to $1,300,000 (e.g., activities that directly benefit eligible persons);

2. For grant administrative costs of the grantee: 3 percent of the awarded grant amount (e.g., an additional $39,000 if the maximum grant is awarded);

3. For grant administrative costs for project sponsors: 7 percent of the amounts received by the project sponsor under the grant (e.g., an additional $91,000 if the maximum grant is awarded). A grantee cannot also receive project sponsor administrative costs even when the grantee carries out the program activities directly;

4. Total maximum grant amount for all categories of grant awards under this NOFA is $1,430,000.

D. Average Grant Award

Based on the results of the 2005 HOPWA competition, the average grant award for the 35 grants selected was $1,071,459.

III. Eligibility Information

A. Eligible Applicants

1. Eligibility for Funding to Nonprofit Organizations

If you are a nonprofit organization, you must also satisfy the nonprofit requirements established in the definition for eligible nonprofit organization found in 24 CFR 574.3 and in the definitions section of this Program NOFA.

2. General Eligibility for Expiring Grant Projects

To be eligible for a new grant for an existing HOPWA project—a project that does not qualify for renewal as a permanent supportive housing project—the project must meet all program requirements. Projects that show poor performance or unresolved grants management issues up to the date of the public announcement of awards under this NOFA will not be funded. Unresolved problems may include: (1) HUD knowledge that planned activities remain significantly delayed in their implementation; (2) A significant number of planned housing units are vacant; 3. Required annual progress reports are not timely filed with HUD; 4: Unresolved actions pending under a HUD notice of default on your current grant or significant citizen complaints are unresolved or not responded to with justified reasons.

3. General Eligibility for Applicants and Sponsors

States, units of general local government, and nonprofit organizations may apply under the SPNS grants category to propose new projects or for additional funding to existing projects that do not qualify as permanent supportive housing renewal grants.

States and units of general local government may apply under the “Long-term” category, if the project entails housing activities in areas that did not receive or are not designated to receive HOPWA formula allocations in FY2006 or the government agency is not eligible to receive formula funds will serve a balance of state area outside of any EMSA. Nonprofit organizations are not eligible to apply directly for Long-term grants, but may serve as a project sponsor for an eligible state or local government applicant.

B. Cost Sharing or Matching

There are no cost sharing or matching requirements for applications under this program NOFA. However, leveraging is encouraged and addressed in Rating Factor 4 Leveraging.

C. Other Eligibility Requirements

1. Threshold Requirements for All Applications

Applicants must meet the threshold requirement identified in the General Section. HUD will also review your application to determine that you are eligible for funding, as follows:

a. Eligible Applicant.

(1) Your application is consistent with the requirements of Section III of this NOFA for eligibility based on applicant requirements, project sponsor requirements and the lack of any unresolved management issues for applicants who currently administer HOPWA grants; and

(2) Your application complies with the Dun and Bradstreet Data Universal Numbering System (DUNS). More information on the requirement of the DUNS can be found in the General Section.

b. Eligible Project Sponsors. Your application is consistent with the requirements for eligibility of project sponsors, as follows:

If the project sponsor is a nonprofit organization, it must also satisfy the nonprofit requirements established in the definition of an eligible nonprofit organization found in 24 CFR 574.3 and in the definition section of this NOFA.

2. Program Requirements

All grant recipients must also meet the following program requirements, including performance goals and operational benchmarks, and conduct project activities in a consistent and ongoing manner over the approved grant operating period. If a selected project does not meet the appropriate requirement, HUD reserves the right to cancel and/or withdraw the grant funds.

a. General Provisions. The provisions outlined within the General Section apply to the HOPWA program unless otherwise stated within this NOFA. Specifically, you are encouraged to review Section III.C, Other Requirements and Procedures Applicable to All Programs.

b. Environmental Requirements. All HOPWA assistance is subject to the National Environmental Policy Act and applicable related federal environmental authorities. While some eligible activities, such as tenant-based rental assistance, supportive services, operating costs, and administrative costs, are excluded from environmental review because of the lack of environmental impact, other activities require environmental review. All new facility-based projects must undergo an environmental review. In accordance with Section 856(h) of the AIDS Housing Opportunity Act and the HOPWA regulations at 24 CFR 574.510, environmental reviews for HOPWA activities are to be completed by responsible entities in accordance with 24 CFR Part 58. Applicants or grantees that are not a responsible entity must request the unit of general local government to perform the environmental review. HOPWA grantees and project sponsors may not commit or expend any grant or non-federal funds on project activities until HUD has approved a “Request for Release of Funds and Certification” (RROF), form HUD-7015.15, on compliance with the National Environmental Policy Act and implementing regulations at 24 CFR Part 58 (Environmental Review Procedures for Entities Assuming HUD Environmental Responsibilities) and the environmental certification from the responsible entity (other than those listed in 24 CFR 58.22(f), 58.34 or 58.35(b) for which the responsible entity documents its findings of exemption or exclusion for the environmental review record (24 CFR 58.34(b) or 24 CFR 58.35(d)). The recipient, its project sponsors and their contractors may not acquire, rehabilitate, convert, lease, repair, dispose of, demolish, or construct property for a project, or commit or expend HUD or local funds for such eligible activities, until the responsible entity (as defined in 58.2) has completed the environmental review procedures required by 24 CFR Part 58 and the environmental certification and RROF have been approved. HUD will not release grant funds if the recipient or any other party commits grant funds (i.e., incurs any costs or expenditures to be paid or reimbursed with such funds) before the recipient submits and HUD approves its RROF (where such submission is required). The recipient shall supply all available, relevant information necessary for the responsible entity to perform, for each property, any environmental review required.

c. Required HOPWA Performance Goals. Grant recipients must conduct activities consistent with their planned annual housing assistance performance output goals, objectively measure actual achievements against anticipated achievements, and report on their actual performance housing outputs and client outcomes. Applicants are required to use the HOPWA Budget Form (form HUD-40110-B) found in the instructions to the published NOFA on Grants.gov/Apply in this NOFA for recording the funding for housing assistance activities that are associated with these performance outputs, including any funding request for HOPWA funds and/or commitment to use other funds for this purpose. This form is consistent with the new Annual Progress Report that grantees will be required to complete. Applicants must establish a reasonable client outcome goal on achieving housing stability to be quantified after each year of operation to demonstrate client outcomes. HUD expects that each HOPWA grantee will show that at least half of the beneficiaries achieve stable housing in their program during the operating year, as shown by stable housing arrangements for the household at the end of each operating year. The grantee will assist in establishing a baseline on annual performance to help measure how future efforts lead to the achievement of higher levels of housing stability. On a national basis, HUD has established the goal that over 80 percent of clients will be in stable housing situations by 2008. The following performance measures must be used in your project plan and your logic model under paragraph (e):

(1) Required Output refers to the number of units of housing/households assisted during the year, as measured by the annual use of HOPWA funds. For HOPWA, the application must specify one-year goals for the number of households to be provided housing through the use of HOPWA activities for: (a) short-term rent, mortgage, and utility assistance payments to prevent homelessness of the individual or family; (b) tenant-based rental assistance; and (c) units provided in housing facilities that are being developed, leased, or operated with HOPWA funds. You should also include the projected numbers of low-income eligible households who are expected to benefit from the other types of HOPWA assistance to be provided through your project during each operating year, such as the number receiving permanent housing placement support, or supportive services.

(2) Required Outcomes refer to the number of eligible households who have been provided housing assistance (as noted above for outputs) and thereby maintain a stable living environment in housing that is safe, decent, and sanitary. The program will measure these results in annual assessments on the housing status of beneficiaries along with other outcome measures on the reduced risks of homelessness and improved access to HIV treatment and other health care and support. On a nation-wide basis, the program is expected to demonstrate stable housing results for beneficiaries through the use of annual resources with a national goal that this stable housing status be achieved by 80 percent of all HOPWA beneficiaries by 2008.

d. Optional Program Performance Goals.

In addition to required performance measures described in the paragraph above, you may include other measures or annual indicators in your project plan and in your logic model under paragraph (e).

e. HUD Logic Model. You must use the Logic Model (Form HUD-96010) in the General Section to illustrate the planning for the use of resources, project activities, required outputs and outcomes, and other grantee-identified goals, and for reporting on annual accomplishments. Applicants must make use of the required elements in paragraph (a) in this form. If you are awarded a grant under this notice, please note that the logic model form will also be used as part of your Annual Progress Report to document results obtained under your approved plans during each operating year. For FY2006, HUD is considering a new concept for the Logic Model. The new concept is a Return on Investment (ROI) statement. HUD will be publishing a separate notice on the ROI concept. Training on the logic model will be conducted via satellite broadcast and archived on HUD's Web site. The satellite broadcast and webcast date will be published on HUD's Web site. See Section VI, C Logic Model reporting requirements.

f. HOPWA Facility Use Period Requirement. Any building or structure assisted with amounts under this part will be maintained as a facility to provide assistance for eligible persons: (1) for not less than 10 years in the case of assistance involving new construction, substantial rehabilitation or acquisition of a building or structure; and (2) for not less than three years in cases involving substantial rehabilitation or repair of a building structure.

g. Execution of Grant Agreement and Obligation of Awards. HOPWA grants are obligated upon execution of the grant agreement by both parties (i.e., the recipient and HUD). Applicants selected to receive FY2006 funding must execute grant agreements as soon as practicable, but no later than six months after the notice of selection.

h. Disbursement of Funds. Grant recipients must fully expend their grant funding no later than three years following the effective date or the operation start date in the grant agreement, unless HUD has approved a one-time extension for an additional 12 months or less. A time limit on grant expenditures that is established in the National Defense Authorization Act for Fiscal Year 1991 requires the expenditure of all HOPWA funds awarded under the FY2006 Appropriations Act by September 30, 2012. After September 30, 2012, any unexpended funds shall be canceled and, thereafter, shall not be available for obligation or expenditure for any purpose.

i. Site Control through Acquisition or Lease. If you acquire or lease a site for housing activities, you are required to gain site control within one year from the date of your notice of selection by HUD.

j. Rehabilitation or New Construction. If you propose to use HOPWA funds for rehabilitation or new construction activities for housing projects, you must agree to begin the rehabilitation or construction within 18 months, and all rehabilitation or construction work must be completed within the terms of your grant agreement with HUD. Such activities will trigger certain accessibility requirements of Section 504 of the Rehabilitation Act of 1973 and/or the Design and Construction requirements of the Fair Housing Act of 1988.

k. Project Operations. If funds are used for operating costs of existing housing facilities, you must agree to begin to use these funds within six months, consistent with the terms of your grant agreement with HUD. If funds are to be used for operating costs, in connection with the new construction or substantial rehabilitation of housing facilities, the amount of funds designated for operating costs must be limited to the amount to be used during the portion of the planned three-year period for your grant agreement for which the facility will be operational and assisting eligible. Delays in the project's development activities, such as the planned completion of the construction or rehabilitation activities, could result in the loss of funds designated for operating costs, if such funds remain in excess after the authorized use period for this award. For example, if you expect to take two years to complete the rehabilitation of the facility, any operating costs could only be requested for use in the remaining one-year of the planned three-year operating period for this award.

l. Section 3 of the Housing and Urban Development Act of 1968. The applicant will comply with Section 3 of the Housing and Urban Development Act of 1968, as amended (12 U.S.C. 1701 (u), and regulations pursuant thereto (24 CFR Part 135), which require that to the greatest extent feasible opportunities for training and employment be given to lower-income residents of the project and contracts for work in connection with the project be awarded in substantial part to persons residing in the area of the project.

3. Eligible Activities

a. Proposed Project Activities. In your application, you must specify the activities and budget amounts for which HOPWA funds are being requested, consistent with the eligible activities found in the HOPWA regulations at 24 CFR 574.300. Activities must address housing needs of eligible members of the community and specify whether the project will be undertaking permanent, transitional, short-term and/or emergency housing assistance. A copy of the regulations may be downloaded from www.hud.gov/offices/cpd/aidshousing/lawsregs/index.cfm. You are encouraged to review the HOPWA regulations before seeking funding. HUD will not approve proposals that depend on a prospective determination as to how program funds will be used. For example, a proposal to establish a local request-for-proposal process to select either activities, or to select project sponsors, that have the effect of delaying the obligation of funds due to the unplanned use of HOPWA funds, will not be approved.

b. Additional Guidance on Use of Program Funds.

(1) Housing Assistance. HOPWA projects must demonstrate that housing assistance is the main focus of program activities. Please indicate if you propose to use HOPWA funds to provide permanent supportive housing (as defined in Section I.A.). If you are proposing emergency or transitional housing assistance, your plan must include linkages to permanent supportive housing. See 24 CFR 574.300(b)(8) for descriptions of appropriate operating costs for a housing project.

(2) Supportive Services. Many of the eligible persons who will be served by HOPWA may need other support in addition to housing. It is important that you design programs that enhance access to those existing mainstream resources through community wide strategies to coordinate assistance to eligible persons. These mainstream programs include: the Ryan White CARE Act; Medicaid; Children's Health Insurance Program; Temporary Assistance for Needy Families; Food Stamps; Mental Health Block Grant; Substance Abuse Block Grant; Workforce Investment Act; and the Welfare-to-Work grant program; as well as other state, local and private sources. No more than 35 percent of the proposed budget for program activities undertaken by project recipients can be designated for supportive services costs. In addition, HUD will not award funds for the acquisition, lease, rehabilitation, or new construction of a supportive services-only facility. Additional restrictions and limitations that apply to supportive services such as limitations addressing only uncompensated healthcare costs can be found at 24 CFR 574.300. HUD will not provide funds for medications or other health-care costs reasonably available from other sources. Costs for staff engaged in delivering the supportive service is part of the supportive service activity cost, and should not be listed as operating costs or “other” costs in the application's proposed HOPWA budget.

(3) Permanent Housing Placement Assistance. Permanent housing placement at § 574.300(b)(7) may also be used in connection with the provision of housing support provided under these awards and is not considered a supportive service under limitations stated in paragraph (2). Permanent housing placement costs may involve costs associated with helping eligible persons establish a new residence where ongoing occupancy is expected to continue, including rental application fees, related credit checks and reasonable security deposits necessary to move persons to permanent housing, provided such deposits do not exceed two months of rent. Leveraged resources may involve other forms of move-in support, such as essential housing supplies, smoke alarms, standard furnishings, minor repairs to the unit associated with move-in, and other incidental costs for occupancy of the housing unit. While these items are not eligible as permanent housing placement costs, grantees may make use of other leveraged funds for these costs.

(4) Other HUD-Approved Activities. You may propose other activities not already authorized at 24 CFR 574.300(b), subject to HUD's approval. Your proposal should address the expected beneficial impact of this alternative activity in addressing housing needs of eligible persons by describing the project impact and the identified performance output and client outcome measures for this activity.

IV. Application and Submission Information

A. Addresses To Request Application Package

Copies of the published NOFAs and application forms for HUD programs announced through NOFA are available at the Grants.gov Web site, http://www.grants.gov/Apply If you have difficulty accessing the information, customer support is available from Grants.gov by calling their Support Desk at (800) 518-4726 from 8 a.m.-9 p.m. eastern time or sending an email to support@grants.gov. If you do not have Internet access and need to obtain a copy of the NOFA, you can contact HUD's NOFA Information Center toll-free at (800) HUD-8929. Persons with hearing or speech impairments may also call toll-free at (800) HUD-2209.

B. Content and Form of Application Submission

By signing the SF-424, applicants are agreeing to the assurances found in the General Section. If conditionally selected for funding, the following certifications as noted must be provided prior to the signing of a grant agreement. Standard certifications and forms are found in the General Section and the HOPWA budget and certification (form HUD-40110-B), is included in the appendices in this NOFA. Copies of these forms are available from HUD's Web site at http://www.hudclips.org/sub_nonhud/html/forms.htm.

1. Forms

Applicants are requested to submit the following information:

a. Application for Federal Assistance (SF-424) (Required)

b. Survey on Ensuring Equal Opportunity for Applicants (SF-424 Supplement) (Optional).

c. Program Outcome Logic Model (HUD-96010) (Required).

d. Certification of Consistency with the Consolidated Plan (HUD-2991) (Required prior to the signing of a grant agreement).

e. Certification of Consistency with the RC/EZ/EC-II Plan (HUD-2990)—if applicable to the service area of your project (Optional).

f. Applicant/Recipient Disclosure/Update Report (HUD-2880) (required prior to the signing of a grant agreement) (Required).

g. Disclosure of Lobbying Activities (SF-LLL), if applicable (required prior to the signing of a grant agreement).

h. HOPWA Application Budget Summary, including HOPWA Applicant Certifications (form HUD-40110-B) (Required).

i. Acknowledgement of Application Receipt (HUD-2993), if applicable due to an approved waiver of the electronic submission requirement (Optional).

j. Client Comments and Suggestions (HUD-2994) (Optional).

k. Facsimile Transmittal (for electronic applications)—Form HUD-96011, if applicable due to a facsimile transmission.

2. Additional HOPWA Guidance on Forms

HOPWA Application Budget Summary (form HUD-40110-B). Do not complete the standard budget form contained in the General Section. Applicants must use this program-specific budget form (HUD-40110-B, HOPWA Budget Application Summary) that demonstrates how funds will be used for eligible activities. The HOPWA HUD-40110-B will provide a summary of the total budget for your project, the annual HOPWA amounts to be used in each of the three years of operation and description budget by project sponsor of the HOPWA funds to be used by each sponsor. On this form, you must provide a short narrative which outlines each of your requested budget line items and how the funds will be used, including the amount of requested funding by line item for you and your project sponsors.

b. Certification of Consistency with the Consolidated Plan (HUD-2991). Except as stated below, you must obtain a Consolidated Plan certification signed by the applicable state or local government official for submitting the appropriate plan for the areas in which activities are targeted. This form must be submitted to HUD prior to the signing of a grant agreement. The authorizing official from the state or local government must sign this certification. If your project will be carried out on a national basis or will be located on an Indian reservation or in one of the U.S. Territories of Guam, the Virgin Islands, American Samoa, or the Northern Mariana Islands, you are not required to include a Consolidated Plan certification from these areas with your application.

3. Application Content for Long-term and Special Projects of National Significance (SPNS) Project Applications

The review criteria for Long-term, and SPNS applications can be found in Section V.A. of this NOFA. For your narrative responses, number the pages and include a header or a footer that provides the name of the applicant or the project.

a. Executive Summary. On no more than two double-spaced pages, provide an Executive Summary of the proposed project. The summary should provide an overview of the main components of your planned HOPWA project, any special service delivery method or project purposes and the projected annual housing output for the first year of operation. In the Executive Summary, provide the name of the grantee and any project sponsors, along with contact names, phone numbers, and e-mail addresses.

For projects involving sites, (e.g., a structure where HOPWA funds will be used for construction, acquisition, rehabilitation, leasing, operating costs, and/or project-based rental assistance) provide the address of the site and describe any other resources that are needed to complete the development of this housing facility. Please identify if the site is a Confidential Site or a Public Site. (HUD will not release the address of confidential sites).

Please indicate which of the following special populations your project will serve by operating a project that intentionally targets assistance. Further, indicate the number of special population households likely to be assisted through the housing assistance planned in your project:

• Homeless persons (and of those, identify how many are chronically homeless)

• Veterans

Note: HUD will use your responses regarding special population to respond to public inquires).

b. Proof of Nonprofit Status and AIDS Purpose. Excluding situations where non-profit documentation was submitted to HUD under prior HOPWA awards and there has been no change in project sponsor(s), all conditionally selected applicants must provide a copy of the nonprofit documentation for each sponsor that is a non-profit organization consistent with the standards under paragraph (1) prior to the signing of a grant agreement. Conditionally selected applicants must also provide documentation consistent with paragraph (2) below prior to the signing of a grant agreement to demonstrate that each sponsor's organizational documents include a purpose of significant activities related to providing housing or services to persons with HIV/AIDS. For submission of the documentation in paragraphs (1) and (2) on paper forms, you should follow the directions in the General Section, with the exception of the budget forms.

(1) HUD will accept as evidence of your nonprofit status:

(a) A copy of the Internal Revenue Service (IRS) ruling providing tax-exempt status under Section 501(c) (3), (4), (6), (7), (9) or (19) of the IRS code;

(b) A ruling from the Treasury Department of the Commonwealth of Puerto Rico granting income tax exemption under section 101 of the Income Tax Act of 1954, as amended (13 LPRA 3101);

(c) Documentation that the applicant is a certified United Way agency;

(d) Copy of your most recent completed tax statement, Form IRS-990 or Form 990-EZ;

(e) All of these:

(i) a certification by the appropriate official of the jurisdiction where the nonprofit was organized that your organization was organized as a non-profit organization and is in good standing;

(ii) a certification from a designated official of the organization that no part of the net earnings of the organization inures to the benefit of any member, founder, contributor, or individual; that the organization has a voluntary board; and that the organization practices nondiscrimination in the provision of assistance in accordance with applicable program requirements; and

(iii) an opinion letter from an independent public accounting (IPA) firm that the nonprofit has a functioning accounting system that provides for each of the following:

(A) Accurate, current, and complete disclosure of the financial results of each federally funded project;

(B) Records that identify adequately the source and application of funds for federally funded activities;

(C) Effective control over and accountability for all funds, property and other assets;

(D) Comparison of outlays with budget amounts;

(E) Written procedures to minimize the time elapsing between the transfer of funds to the recipient from the U.S. Treasury and the use of funds for program purposes;

(F) Written procedures for determining reasonableness, allocable, and allowable costs; and

(G) Accounting records including cost accounting records that are supported by source documentation.

(2) We will also accept as evidence of your organization's HIV/AIDS-related purpose, a copy of the organization's articles of incorporation and by-laws, mission statement, program management plan, or other organizational policy document which evidences the organization's activities or objectives related to providing services or housing to persons with HIV/AIDS.

c. Capacity of Applicant and Project Sponsors and Relevant Organizational Experience Narrative. On no more than five double-spaced typed pages or similar chart or table for the Applicant, and no more than two double-spaced pages or similar chart or table per additional sponsor, demonstrate the extent to which you and any project sponsor(s) have the organizational resources necessary to successfully implement your proposed activities in a timely manner.

d. Need/Extent of the Problem Narrative. On no more than five double-spaced typed pages or similar chart or table define your planned service area and demonstrate the need for funding eligible activities in the area to be served.

e. Soundness of Approach: Model Qualities and Responsiveness/Coordination Narrative. On no more than ten double-spaced typed pages or similar chart or table, address the method by which your plan meets your identified needs. Demonstrate how your project will provide its planned activities through HOPWA and other resources, and how it will serve as a model with exemplary qualities to address the ongoing housing and supportive service needs of eligible persons within a replicable operational framework.

f. Documentation of Leveraged Resources. As described in paragraph 4 of this section, to receive a leverage score for your project, provide a detailed chart of commitments that you have obtained and have on file that provides evidence of your ability to secure community resources for operating and sustaining your housing project.

g. Achieving Results and Program Evaluation Narrative. To complement the use of the Logic Model form, in no more than three double-spaced typed pages or similar chart or table, provide a supplemental optional narrative that may detail or further demonstrate your commitment to ensuring that the goals that you set forth and your performance will be assessed in a clear and effective manner. Address how you will implement the HOPWA Program goals and identify the benefits or outcomes of your program including details on your activities, benchmarks, and interim activities or performance indicators shown in the Logic Model. Provide comments as may be needed on details for an evaluation plan that will objectively measure actual achievements against anticipated achievements.

4. Application Content on Leveraging for All Types of Applications

To receive consideration for leveraged resources, all types of applications must include information on the commitments from other state, local, federal, or private entities to provide additional resources in operating and sustaining your planned activities to support project beneficiaries. Other HOPWA funds, such as formula allocations, may not be used for this purpose in determining leveraging. To receive a score for leveraging, any project must provide a list in a chart with information on the nature of the secured leveraged commitments that you have in hand at the time of your application submission to HUD. You may also describe a plan for how the project will continue to operate in future years, with a decreased reliance on these federal resources.

As a change from prior year competitions, you should not submit an electronic copy or facsimile transmittal of these letters of commitment with your HOPWA application, but should use these letters or documents to report on the information requested below. The applicant must retain in its files all of the leveraging letters or documents and a conditionally-selected applicant may be required to provide HUD with a copy or other evidence of these letters or documents as part of the conditions for receiving HOPWA funds.

In the application, provide information only for contributions for which you have a written commitment in hand at the time of application. A written agreement could include signed letters, memoranda of agreement, and other documented evidence of a firm commitment for resources to be available during the operating period of your project, if selected for award. Leveraging items may include any written commitments that will be used towards your leveraging of the project, as well as any written commitments for buildings, equipment, materials, services and volunteer time. The value of commitments of land, buildings and equipment are one-time only and cannot be claimed by more than one selected project (e.g., the value of donated land, buildings or equipment claimed in 2005 and prior years for a project that was selected for funding cannot be claimed as leveraging by that project in subsequent competitions). The written commitments must be documented on letterhead stationery, signed by an authorized representative, dated and in your possession prior to the deadline for submitting your application.

The Department will periodically monitor the use of your commitments by requiring the collection of information in annual progress reports to establish that the leveraged resources are being used, as committed, in undertaking the project. Failure to provide evidence of these commitments or the related use of these additional resources in operating your project could result in a notice of default and affect the project's continued access to federal funds awarded under this NOFA.

C. Submission Dates

Application Deadline Date. Your completed application must be submitted, received and validated electronically by Grants.gov no later than 11:59:59 p.m. eastern time on the submission date for HOPWA found in the General Section. Failure to meet the appropriate submission and receipt date requirements will result in the application being ineligible for funding under this NOFA. Please follow the application submission and timely receipt requirements that are established in the General Section.

All parts of an electronic application must be submitted via the Grants.gov portal with additional documentation as called for in this NOFA provided via electronic facsimile transmittal in accordance with the requirements stated in the General Section. For electronic applications, HUD will not accept parts of an application submitted through the mail or entire applications by facsimile. For applications receiving a waiver of the electronic application submission requirements, the entire application must be submitted in hard paper copy format with the required number of copies.

D. Intergovernmental Review

The HOPWA program is not subject to Executive Order (EO) 12372, Intergovernmental Review of Federal Programs.

E. Funding Restrictions

1. Limitations on Maximum Grant Amounts

Your request for funding must be consistent with the following limitations on minimum and maximum grant amounts:

a. For program activities (e.g., activities that directly benefit eligible persons): At least $500,000 and a maximum of $1,300,000, subject to the limitations in this section;

b. For grant administrative costs of the grantee: A maximum of no more than an additional $39,000, subject to the limit on administrative costs of three percent of the amount requested for project activities in your application for grantees.

c. For grant administrative costs for project sponsors: A maximum of no more than an additional $91,000, subject to the limit on administrative costs of seven percent of the amount requested for project activities to be conducted by project sponsors in your application. (Note an applicant that will serve as a grantee, but carryout activities directly without a third-party project sponsor, cannot add amounts from this paragraph to its eligible amount under paragraph (b) above.)

d. Total for maximum grant amount: $1,430,000, as subject to applicable limitations in this section and if funds are requested for a term of less than three years, HUD reserves the right to reduce these amounts in a proportionate manner.

2. Limitation on Supportive Services

Your request for the supportive services line item in program activities must be consistent with the program limits of not more than 35 percent of the proposed budget for program activities undertaken by project recipients. Consistent with the standards on Leveraging, of this NOFA, requests for supportive services must be leveraged with commitments to provide supportive services in order to qualify an applicant for the maximum leveraging score.

3. Limitation on Prospective Determinations

HUD will not approve proposals that depend on a prospective determination as to how program funds will be used. More specifically, proposals to establish a local request-for-proposal process to select either activities or project sponsors, and other similar proposals that have the effect of delaying the obligation of funds due to the unplanned use of HOPWA funds, will not be approved.

4. Limitation on Ineligible Activities

HUD will not provide funds under this notice for the purposes of conducting resource identification activities to establish, coordinate and develop housing assistance resources, and/or technical assistance for community residence activities, since these types of activities are funded through the national HOPWA technical assistance funds being made available under the Community Development Technical Assistance (CDTA) NOFA. HUD will not provide additional funds for data collection on project outcomes; as such activities in collecting performance data and reporting to HUD are required as a central grants management function, which is already covered under administrative costs. Further, eligible HOPWA costs do not involve costs for personal items, such as grooming, clothing, pets, financial assistance, consumer credit payments, entertainment activities, personal vehicle maintenance and repairs, property taxes, condominium fees and other non-housing-related costs. Eligible costs are also subject to additional HOPWA standards at 24 CFR Part 574.

F. Other Submission Requirements.

1. Electronic Delivery

HUD requires applicants to submit applications electronically through www.grants.gov. See Section IV.F. of the General Section for instructions for submitting leveraging documentation, certifications, and other required forms.

2. Waivers to the Electronic Submission Process

Applicants may request a waiver of the electronic submission process (see the General Section for more information). Applicants who are granted a waiver must submit their applications in accordance with the requirements stated in the approval to the waiver request. Please see the General Section for detailed mailing and delivery instructions.

V. Application Review Information

A. Criteria

1. Criteria for Project Applications

a. Departmental Policy Priorities. As outlined in the General Section, HUD has identified policy priorities that project applicants are encouraged to address through their proposed project plans. HUD has identified five Departmental policy priorities as being applicable for new HOPWA projects. Applications for HOPWA funding will receive rating points for each applicable Department policy priority initiative addressed through the proposed program activities and performance goals and objectives. Applicants must demonstrate how these priorities will be addressed through the Soundness of Approach of the application as outlined under Rating Factor 3. Under the points available for Rating Factor 3, one or two Rating Points, as specified below, will be awarded for each of the following addressed priorities:

(1) In accordance with the General Section, for applicants seeking HOPWA funds for capital development activities, including rehabilitation or new construction, for one rating point under project soundness of approach, you are encouraged to institute visitability and universal design standards in these activities undertaken with HOPWA funds. Visitability standards allow a person with mobility impairments access into the home, but do not require that all features be made accessible; and such standards incorporate universal design in the construction or rehabilitation of housing undertaken with HOPWA funds. Universal design provides housing that is usable by all without the need for adaptation or specialized design.

(2) For one rating point under project soundness of approach, you are encouraged to propose projects in which the grantee, or the project sponsor(s), fulfills the policy priority for being a nonprofit grassroots community-based organization, including faith-based organizations, as defined in the General NOFA.

(3) For one rating point under project soundness of approach, you are encouraged to propose applications in which the grantee, or project sponsor(s), commits to follow the Energy Star standard in any new construction, or rehabilitation activity, or maintaining housing or community facilities to be undertaken in the proposed project with HOPWA or other funds. You are encouraged to undertake program activities that include developing energy star promotional and information materials, providing outreach to low- and moderate-income renters and buyers on the benefits and savings when using Energy Star products. The Energy Star standard is as defined in the General Section.

(4) For up to two rating points under project soundness of approach, you are encouraged to propose an application in which the grantee, or project sponsor(s), if it is a state or local government agency, as defined in the General Section, completes the regulatory barriers policy questionnaire and provides the required documentation or provides a website URL where the information can be readily found.

(5) For up to two rating points under project soundness of approach, you are encouraged to propose an application in which the grantee or project sponsor(s) demonstrate in their applications how they were incorporating Section 3 principles into their projects with goals for expanding opportunities for Section 3 residents and business concerns. As defined in Section V of the General Section, the purpose of Section 3 is to ensure that employment and other economic opportunities generated by federal financial assistance for housing and community development programs, shall, to the greatest extent feasible, be directed toward low and very-low income persons.

b. Program Policies—Target Population. Prior to the award of other projects, HUD reserves the right to select the two highest rated applications (but not any that are rated at less than 75 points) that demonstrate that the planned HOPWA activities and activities supported by leveraged funds will serve the special population of HOPWA eligible person who are chronically homeless persons with HIV/AIDS. Persons who are infected with HIV are more likely to be able to follow complex treatment regimens if they have a reliable address where they can be reached by care providers, a safe place to keep medications, refrigeration for drugs that require it, and other necessities that many of us take for granted. HUD is encouraging applications that strive to create additional models for permanent housing for eligible persons living with HIV/AIDS that are experiencing chronic homelessness. Applicants must work collaboratively with the local Continuum of Care Plans to create these models for persons living with HIV/AIDS and their families and demonstrate a plan for the integration of HOPWA activities with those systems such as the use of HMIS. HMIS participation is required for all recipients of award funding under this NOFA whose projects intentionally target HOPWA eligible persons who are homeless or chronically homeless. In a number of Continuum of Care communities, HOPWA projects are directly involved in providing outreach, assessment, housing and supportive services to HOPWA eligible persons who are homeless at the time they enter into program support. HMIS activities or the use of related information technology systems may already be operating to support the delivery of housing information services to these HOPWA clients.

c. Application Selection Process for Projects

Rating Factor 1: Capacity of the Applicant and Project Sponsors and Relevant Organizational Experience (20 Points) (Minimum for Funding Eligibility—14 Points)

Address the following factor using not more than five (5) double-spaced, typed pages or similar chart or table. For each project sponsor, you may add two additional pages. This factor addresses the extent to which you and any project sponsor have the organizational resources necessary to successfully implement your proposed activities in a timely manner. If you will be using project sponsor(s) in your project, you must identify each project sponsor in your application. HUD will award up to 20 points based on your and any project sponsor's ability to develop and operate your proposed program in relation to which entity is carrying out an activity.

1. With regard to both you and your project sponsor(s), you should demonstrate:

(a) Past experience and knowledge in serving persons with HIV/AIDS and their families;

(b) Past experience and knowledge in programs similar to those proposed in your application including HOPWA formula funding;

(c) Experience and knowledge in monitoring and evaluating program performance and disseminating information on project outcomes; and

(d) Past experience as measured by expenditures and measurable progress in achieving the purpose for which funds were provided.

2. In reviewing the elements of the paragraph above, HUD will consider:

(a) The knowledge and experience of the proposed project director and staff, including the day-to-day program manager, consultants, and contractors in planning and managing the proposed activities. You and any project sponsor will be judged in terms of recent, relevant, and successful experience of staff in undertaking eligible program activities.

(b) Your and/or the project sponsor's experience in managing complex interdisciplinary programs, especially those involving housing and community development programs directly relevant to the work activities proposed and carrying out grant management responsibilities.

(c) If you and/or the project sponsor received funding in previous years in the program area for which you seek funding, those past experiences will be evaluated in terms of the ability to attain demonstrated measurable progress in the implementation of your grant awards. Measurable progress is defined as:

(i) Meeting applicable performance benchmarks in program development and operation;

(ii) Meeting project goals and objectives, such as the HOPWA output for number of homeless assisted in comparison to the number that was planned at the time of the application;

(iii) Submitting timely performance reports; and

(iv) Expending prior funding as outlined in the existing HOPWA grant agreement with HUD with no outstanding audit or monitoring issues.

Applicants must receive a minimum of 14 points in Rating Factor 1 to be eligible for funding under this NOFA.

Rating Factor 2: Need/Extent of the Problem (15 Points)

Address the following factor using not more than five (5) double-spaced, typed pages or similar chart or table. Up to 15 points will be awarded for this factor.

a. AIDS Cases (5 Points). You must define your planned service area. HUD will obtain AIDS surveillance information pertinent to that area from the Director of the Centers for Disease Control and Prevention. Up to five points will then be awarded based on the relative numbers of AIDS cases and per capita AIDS incidence within your service area, in metropolitan areas of over 500,000 population and in areas of a state outside of these metropolitan areas, in the state for proposals involving state-wide activities, and in the nation for proposals involving nation-wide activities.

b. Description of Unmet Housing Need (10 Points). Up to ten points will be awarded based on demonstration of need for funding eligible housing activities in the area to be served. To receive the maximum points, demonstrate that substantial housing and related service needs of eligible persons and/or the target population, as outlined in Section V.A., are not being met in the project area and that reliable statistics and data sources (i.e. Census, health department statistics, research, scientific studies, and Needs Analysis of Consolidated Plan and/or Continuum of Care documentation) show this unmet need. To receive the maximum points, show that your jurisdiction's Consolidated Plan and Analysis of Impediments to Fair Housing Choice, Continuum of Care Homeless Assistance plans (if homeless persons are to be served), and comprehensive HIV/AIDS housing plans are applicable to your project and identify the level of the problem and the urgency of the need.

(1) If you apply for a SPNS grant, you must describe a housing need that is not currently addressed by other projects or programs in the area including reference to the area's existing HOPWA programs. You must further describe how the planned activity will complement these in a manner that is consistent with the community's plan for a comprehensive and coordinated approach to housing needs of persons living with HIV/AIDS which establishes stable housing for clients and helps foster greater self sufficiency and independence. Also, describe any unresolved or emerging issues and the need to provide new or alternative forms of assistance that, if provided, would enhance your area's programs for housing and related care for persons living with HIV/AIDS and their families. You must also describe how your project will enhance the community's Consolidated Plan strategies for providing affordable housing and access to related mainstream services to HOPWA eligible persons; or

(2) If you apply as a Long-term project that will operate in a non-formula area or balance of state area, you must describe the housing need that is not currently addressed by other projects or programs in the area including any HOPWA competitive grants or other HIV/AIDS housing projects and how the planned activity will complement these in a manner that is consistent with the community's plan for a comprehensive and coordinated approach to housing needs of persons living with HIV/AIDS. You must also describe any unresolved or emerging issues and/or the need to provide forms of assistance that enhances the community's strategy for providing housing and related services to eligible persons.

HUD will evaluate your presentation of statistics and data sources based on soundness, reliability, and the specificity of information to the target population and the area to be served. If you propose to serve a subpopulation of eligible persons on the basis that these persons have been traditionally and are currently underserved (e.g., persons with multiple disabilities including AIDS or chronically homeless eligible persons), your application must demonstrate the need for this targeted effort through statistics and data sources that support the need of this population in your service area. Programs may serve a qualified subpopulation of persons with AIDS based on the presence of another disability or group of disabilities, only if doing so is necessary to provide this subpopulation with as effective housing, benefits, aid, or services as that provided to others. See 24 CFR 8.4(b)(1)(iv).

Rating Factor 3: Soundness of Approach: Responsiveness, Coordination and Public Policy Priorities, and Model Qualities (45 Points)

Address this factor on not more than ten (10) double-spaced, typed pages or similar chart or table. Include the HOPWA Budget Forms found in Appendix A. This factor addresses the method by which your plan meets your identified needs. HUD will award up to 45 points (15 for responsiveness, 5 for coordination, 7 for public policy priorities, and 18 for model qualities) based on the extent to which your plan evidences a sound approach for conducting the HOPWA activities in a manner that is responsive to the needs of eligible persons and that your plan for project coordination will offer model qualities in providing supportive housing opportunities for eligible persons with access to mainstream health and human welfare services, when compared to other applications and projects funded under previous HOPWA competitions.

a. Responsiveness, Coordination, and Public Policy Priorities (25 Points). HUD will award up to 25 points (Responsiveness—15 Points and Coordination—5 Points and Public Policy Priorities—7 Points) based on how well your project plans respond to the unmet needs in housing and related supportive services for the eligible population, including target populations outlined under Section V.A. You should demonstrate the extent to which you have coordinated your activities and the activities of your project sponsors with other organizations that are not directly participating in your proposed work activities. This involves organizations with which you share common goals and objectives in assisting eligible persons. In order to ensure that resources are used to their maximum effect within the community, it is important that you demonstrate collaboration and leveraging of other resources from state, local, and private funding resources.

(1) Responsiveness (15 Points). To receive the highest rating in this element your application must address:

• The projected number of persons to be served through each activity for each year of your program;

• The projected number of housing units, by type, to be provided through your project, by year, over a 3-year period; and

• The specific organizations, either through an agreement with your organization or through funding from your project, that will provide housing, and agreements with organizations that will provide mainstream supportive services, or other activities.

Include a description of the roles and responsibilities of your project sponsors and/or other organizations within your project plan and how these will be coordinated in conducting eligible activities. To receive the maximum points for your project plan, you must explain and describe the eligible housing activities you or your project sponsor intend to conduct, where these activities will take place (either on site or at another location), and how those activities will benefit eligible persons. Please describe:

(a) Housing Activities. You must demonstrate how the emergency, transitional, or permanent housing needs of eligible persons will be addressed through one or more of the HOPWA eligible activities and through any other resources and how such activities are coordinated with other available housing assistance. Your plan for housing assistance must include:

(i) Access to permanent supportive housing for applicants. In proposing a housing project, you must describe how eligible persons will access permanent housing and/or use emergency, short-term and transitional housing support through your project and through any specific commitments with other community housing providers. If your project involves some initial emergency or transitional assistance for clients, please describe your plans to facilitate the movement of eligible persons receiving this emergency or transitional housing support to permanent housing or independent living arrangements within 24 months.

(ii) Permanent housing placement. If you use funds to help beneficiaries secure new housing units, please describe your plans to use funds and the related housing outputs for these permanent housing placement services (under that budget line item) such as costs for first month's rent and security deposits;

(iii) Description of Housing Site. You must describe any appropriate site features including use of universal design, accessibility, visitability, and access to other community amenities associated with your project.

(iv) Development and Operations Plan. You must describe a development and/or operations plan for the emergency, transitional, or permanent housing assistance you are proposing to provide. For rental assistance programs, this will include your plan for providing rental assistance, proposed housing sites if project-based, and length of stay if less than ongoing permanent supportive housing. If you are proposing to use HOPWA funds for the acquisition, rehabilitation, or new construction of a housing facility, your plan must also document that you have secured other funding sources, including plans for coordinating the use of other resources that are committed to meeting leveraging, have significant progress on an identified and secured project site(s), and must provide rehabilitation/construction timelines consistent with the three year use of grant funds. The project must be cost effective, including costs not deviating substantially from the norm in that locale for the type of structure or kind of activity. HOPWA funds are not intended for use as the initial or sole funding source for capital development housing projects.

(v) Operational Procedures. Describe your outreach, intake, engagement and assessment procedures, as well as how eligible persons will receive housing support with access to medical care and other supportive services provided by other organizations. Describe the use of housing being funded from other sources, and how your project provides for ongoing assessments of the housing service benefits received by eligible persons. Include a description of how a client moves through the housing program from outreach, intake, client assessment, the delivery of housing services, the use of emergency, transitional, or permanent housing, and when appropriate, the outplacement to more self-sufficient independent housing. If persons who are homeless are to be assisted, including persons who are chronically homeless, describe the housing activities and necessary support to identify, prioritize and respond to their supportive housing needs in coordination with other area assistance for persons who are homeless. Also address the number of permanent housing beds for the chronically homeless that would become available for occupancy during each of your project operating years.

(b) Supportive Service Activities. You must describe how the supportive service needs of eligible persons will be addressed with HOPWA assistance (subject to applicable limitations) and the use of any additional leveraged resources by describing the type of supportive services that will be offered directly by the program and/or how agreements and project plans will assure that services will be accessed and coordinated from other mainstream health and human welfare sources. Explain the connection of these services in helping eligible persons obtain and/or maintain stable housing. Supportive service costs may represent no more than 35 percent of your proposed budget for program activities. In describing your supportive services delivery plan explain:

(i) How agreements provide that eligible persons will have access to mainstream programs that offer healthcare and other supportive services;

(ii) How project plans ensure that eligible persons will participate in decision making in the project operations and management; and

(iii) Your plan for delivering supportive services through a comprehensive plan that shows how agreements provide that eligible persons access medical care and other mainstream supportive services to address their needs.

(c) Additional HOPWA Activities. You must describe your plan for utilizing other requested HOPWA funds (described at 24 CFR 574.300(b)). Explain how these activities will be integrated into your overall plan in the provision of housing and related supportive services to eligible persons.

(d) Other Approvable Activities. As authorized by statute, HUD may approve other activities that are in addition to the activities at 24 CFR574.300(b). You may propose other activities in your application, which can be undertaken only if approved by HUD due to their relevance in addressing the housing needs of eligible persons. You must describe the reason for the need to request authorization for “other activities” and the benefits likely to occur if the activities are authorized. Also address how the project would operate, or not, if such request were not approved.

(2) Coordination (5 Points). You should demonstrate the extent to which you have coordinated your activities and the activities of your project sponsors with other organizations that are not directly participating in your proposed work activities. This involves organizations for which you share common goals and objectives. You may provide information on your primary decision-making group in providing leadership to your efforts as well as other organizations participating in planning activities, such as committees, workgroups, public meetings, forums etc. and the frequency of meetings. You will be rated on the extent to which you demonstrate you have:

(a) Coordinated your proposed activities with those of other groups or organizations within the community or region prior to submission, to best complement, support, and coordinate all housing and supportive service activities including specific reference to how the proposal is coordinated with existing HOPWA programs in that area (formula and competitive) and how the planned efforts complement the existing programs;

(b) Developed your project through consultation with other stakeholders, such as organizations, groups, or consumers involved with area HIV/AIDS housing and service planning, including planning under the Ryan White CARE Act and other federal planning. The highest rated applicant will demonstrate that the project is closely and fully integrated with HUD's planning processes, such as the jurisdiction's Consolidated Planning process or the community's Continuum of Care Homeless Assistance planning process (if homeless persons are to be served by proposed activities and related use of Homeless Management Information Systems (HMIS) to coordinate benefits for clients);

(c) Coordinated with other HUD-funded programs outside of the Consolidated Planning process, for example, accessing additional housing resources through a local public housing authority; and

(d) Coordinated with mainstream resources including private, other public, and mainstream services and housing programs. To achieve the maximum points, applicants must evidence explicit agency strategies to coordinate client assistance with mainstream health, social service and employment programs for which eligible persons may benefit.

(3) Public Policy Priorities (7 points). Applications for HOPWA funding will receive rating point(s) for each applicable Department policy priority initiative addressed through the proposed program activities and performance goals and objectives. Applicants must make a specific statement on their commitment to address the priority or otherwise demonstrate how these priorities will be addressed:

(a) In accordance with the General Section, for applicants seeking HOPWA funds for capital development activities, including rehabilitation or new construction, for one rating point under project soundness of approach, your application describes the use of universal design and visitability standards in development activities undertaken with HOPWA funds and incorporate universal design in the construction or rehabilitation of housing undertaken with HOPWA funds. Visitability standards allow a person with mobility impairments access into the home, but do not require that all features be made accessible. Universal design provides housing that is usable by all without the need for adaptation or specialized design.

(b) For one rating point under project soundness of approach, your application involves participation as the grantee, or as a project sponsor(s), by a non-profit grassroots community-based organization, including faith-based organizations, as defined in the General Section.

(c) For one rating point under project soundness of approach, the grantee, or project sponsor(s), commits to promote energy efficiency by adopting or following the Energy Star standard in any new construction or rehabilitation activity or in maintaining housing or community facilities to be undertaken in the proposed project with HOPWA or other funds. The Energy Star standard is as defined in the General Section.

(d) For two rating points under project soundness of approach, your application involves an state or local government agency as the grantee, or as a project sponsor(s), and that agency completes the regulatory barriers policy questionnaire, including providing the required documentation, as defined in the General Section.

(e) For up to two rating points under project soundness of approach, your application demonstrates how you are incorporating Section 3 principles into your project with goals for expanding employment and other opportunities for Section 3 residents who are low and very-low income persons, and related business concerns, as defined in Section V of the General Section,

b. Model Qualities (18 Points). HUD will award up to 18 points based on your service delivery plan and how well it will serve as a model for a housing project during the operating period. HUD expects the proposed project to show exemplary and/or innovative qualities that address the ongoing housing needs of eligible persons by establishing or maintaining stable housing arrangements by project activities that will be undertaken within a replicable operational framework. To receive the maximum points, you must offer a housing plan that describes the following:

(1) Policy Priorities. If applicable to your application, describe how you will meet the Departmental policy priorities for assisting the special population of HOPWA eligible persons who are chronically homeless persons with HIV/AIDS. HUD is encouraging applications that strive to create additional models for permanent housing for persons living with HIV/AIDS that are experiencing chronic homelessness. Applicants addressing this population must work collaboratively with the local Continuum of Care Plans to create this permanent housing for persons living with HIV/AIDS and their families.

(2) Project Management and Oversight. Describe your method for managing and overseeing activities, including those of your organization, your project sponsor, and any other organization. Identify staff members who are responsible for management and oversight of the project and activity implementation and sustainability plans.

(3) Evaluation Plan. In addition to required HOPWA outputs and outcomes your evaluation plan should identify what you are going to measure, how you are going to measure it, the steps you have in place to make adjustments to your work plan if performance targets are not met within established timeframes, and how you plan to share successes and lessons learned in undertaking your activities with other communities.

(4) Model Features. Describe how the planned efforts for the type of proposed project, Long-term or SPNS, will represent model or exemplary qualities in service delivery, management, or other features in connection with other HOPWA funded projects in your community including any local assessment of these features. For a Long-term project, the features must involve housing activities to be undertaken in a non-formula area. A SPNS project must involve a plan and commitments to establish or maintain stable housing arrangements by showing exemplary and/or innovative qualities. If you propose a new program, or an alternative method of meeting the needs of your eligible population, describe how the innovative qualities of your activities will result in knowledge gained or lessons learned for achieving greater housing opportunities and supportive services for persons living with HIV/AIDS. HUD will rate your application higher if you provide strong evidence that your methods will yield qualities that will benefit or expand knowledge in serving eligible persons, when compared to other applications and HOPWA projects. To learn about qualities of previously funded and ongoing HOPWA projects, you may review the HOPWA Executive Summaries for HOPWA grantees at http://www.hud.gov/offices/cpd/aidshousing.

(5) Model Descriptive Budget. HUD will review your budget under the HOPWA budget form (HUD-40110-B) in describing:

(a) How each amount of requested funding for you and your project sponsors will be used and the related use of leveraged resources;

(b) How each line item will relate to your description of planned eligible HOPWA activities; and

(c) The clarity and completeness of your summary statement of the planned activities for your project by budget line item and the use of any leveraged funds or other resources by the grantee and sponsor(s).

You must complete the HOPWA Project Budget Form as described above.

Rating Factor 4: Leverage and Sustainability (10 Points) (Minimum for Funding Eligibility 1 Point)

This factor addresses your ability to secure community resources that can be combined with HUD's funds to achieve program purposes and to ensure sustainability of the housing efforts. HUD will award up to 10 points based on the extent to which resources from other state, local, federal, or private resources are listed with the required elements to demonstrate that these funds are committed at the time of application to support and sustain your project. To receive the highest leveraging points based on the amount of commitments, up to 8 points, you must provide information on the commitment of other resources that at least equal the amount of the HOPWA request for program activities (not including administrative costs) as part of your plan to operate this project over the next three year period. Applications must receive a minimum of 1 point in this Rating Factor to demonstrate the commitment of other resources to be eligible for funding under this NOFA with the standards described in Section IV(B)4 on Leveraging. Applicants will be awarded points based on the content of a list or chart for the commitments with the following information: the name and address of the organization(s) providing the commitment(s) (note if the organization will serve as a project sponsor); the type of commitment (applicant or third party cash resources, non-cash resources, volunteer time, contribution of a building, contribution of lease hold interest); the dollar value of the commitment; the date of the commitment letter or other document; the source of the funding, such as federal, state, local, private or in-kind contributions; and the organization's authorized representative's name, title, and contact information who has made this commitment. For up to two additional points, the application must address the project's sustainability as shown in a plan for obtaining and coordinating identified resources to be more financially self-sustaining. The highest rated plan will show how the project will decrease dependency on federal funding at the end of the operating period and rely more on state, local, and private funding to continue support for beneficiaries.

Factor 5: Achieving Results and Program Evaluation (Maximum 10 Points)

Address this factor in your Logic Model (and optionally in a supplemental related narrative) on not more than three additional (3) double-spaced, typed pages or similar chart or table. Under this factor, HUD will award 10 points based on how well your application demonstrates a commitment to ensuring that the goals that you set forth and your performance will be assessed in a clear and effective manner. HUD will analyze how well you have clearly implemented the required HOPWA program output and outcome goals and identified other stated benefits or outcomes of your program including your activities, benchmarks, and interim activities or performance indicators with timelines. HUD will award the highest points to applications that demonstrate an evaluation plan that will objectively measure actual achievements against anticipated achievements.

The highest rated applications will have a clear plan to address the HOPWA client outcome goals increase the amount of housing assistance provided to eligible persons, to establish or maintain housing stability, reduce the risks of homelessness for eligible persons, and improve access to healthcare and other support. The application may also optionally address other related indicators of relevant outcomes.

The highest rated applications will also have a clear plan to use the HOPWA housing output measures—the projected number of households to be assisted in HOPWA supported housing units by type (tenant-based rental assistance, STRMU payments and assistance in housing facilities) to be provided to eligible households through your project during each project-operating year. The application may also optionally address other related outputs.

Your application must include the Logic Model form (HUD-96010) to receive any points under this factor.

B. Reviews and Selection Process

1. HOPWA Project Applications

a. Threshold Reviews. HUD will review your HOPWA application to ensure that it meets the threshold requirements found in the General Section and Section III.C of this NOFA pertaining to a request for a Long-term project or a SPNS project.

b. HUD Reviews. HUD staff will conduct this review, including staff from Community Planning and Development at Headquarters and HUD's state and area Field Offices.

c. Procedures for the Rating and Selection of Applications. HUD will rate all HOPWA applications based on the factors listed above. The points awarded for the factors total 100. In addition, HUD will award two bonus points to each application that includes a valid form HUD-2990 certifying that the proposed activities/projects in the application are consistent with the strategic plan for an empowerment zone (EZ) designated by HUD or the United States Department of Agriculture (USDA), the tax incentive utilization plan for an urban or rural renewal community designated by HUD (RC), or the strategic plan for an enterprise community designated in Round II by USDA (EC-II) and that the proposed activities/projects will be located within the RC/EZ/EC-II identified above and are intended to serve the residents. A listing of the RC/EZ/EC-IIs is available on the Internet at 222.hud.gov/cr. This notice contains the certification form HUD-2990 that must be completed for the applicant to be considered for RC/EZ/EC-II bonus points. Whether your HOPWA application is conditionally selected will depend on your overall ranking compared to other applications within each of the two categories of assistance, Long-term projects or SPNS projects, and the amount of funds that are available to be awarded by this competition. Funds made available from federal Fiscal Year 2006 must first be used to fund the priority selection of expiring competitive projects that undertake permanent supportive housing activities (as a change from prior years, renewal applicants are not part of this NOFA process and will be conducted by HUD by a separate action). If any such funds remain after renewal actions are funded, then the funds will be used under this NOFA competition to fund additional projects. HUD will select applications in rank order in each category of assistance (Long-term and SPNS) to the extent that funds are available, except as outlined in this Program NOFA, where HUD reserves the right to select applications that target the priority eligible populations to ensure selection of two projects addressing the housing needs of persons who are chronically homeless. In allocating amounts to the categories of assistance, HUD reserves the right to ensure that sufficient funds are available for the selection of at least one application with the highest ranking under each category of assistance. HUD will not select an application that is rated below 75 points, nor will an application be funded if it receives a Rating Factor 1—Capacity score lower than 14 points or Rating Factor 4—Leveraging score lower than one point.

In the event of a tie between applications in a category of assistance, HUD reserves the right to break the tie by selecting the proposal that was scored higher on a rating criterion in the following order: Rating Factor 3; Rating Factor 5; Rating Factor 1; Rating Factor 2; and Rating Factor 4.

C. Anticipated Announcement and Award Dates

The anticipated announcement of the projects selected under this notice is no later than August 30, 2006.

VI. Award Administration Information

A. Award Notices

1. Applicant Notification

HUD will notify the eligible applicants of their conditional selection or rejection for awards by email or by a letter to be mailed to the applicant's authorized official at the address or email address provided in your application. For conditionally selected applicants, the CPD Division of HUD's state or area office will provide a second letter with a copy of a proposed grant agreement along with instructions on any adjustments to the grant amount requested and other conditions identified during the review for conducting planned activities and on the close out of the current grant.

2. Award Modifications

After reviewing each application, HUD reserves the right to take each of the following actions:

a. HUD reserves the right to make award adjustments as outlined in Section IV.A.2, Adjustments to Funding, of the General Section.

b. In the event that a conditionally-selected applicant is unable to meet any conditions for funding within the specified time, HUD reserves the right not to make an award to that applicant. In the event that a conditionally-selected applicant is continuing to operate under the prior grant, and has sufficient funds to continue current operations for at least six months following the date of notification of selection, HUD may take any of the following actions: (i) Follow procedures to terminate the prior grant and recapture remaining funds after this date, consistent with the terms of the applicable grant agreement and 24 CFR 574.500(c); or (ii) adjust the amount of the new award by the amount of funds remaining after this date in the prior grant.

c. In making an award to the final selected project (by order of ranking), HUD may offer less than the full amount requested by an applicant that had received sufficient points to be selected, but for which there are insufficient funds remaining to provide the full funding request. HUD may also use funds from an award reduced under item b, above, to restore amounts to a funding request that had been reduced in this competition due to the application's lower rating status;

d. If an applicant turns down an award, an award is not made, or if there are sufficient award adjustments to make additional awards feasible, HUD reserves the right to: (a) Offer an award to the next highest rated application(s) in this competition in their rank order; (b) add remaining or recaptured amounts to the funds that become available for a future competition; or (c) restore amounts to a funding request that had been reduced in this competition.

3. Applicant Debriefing

Applicants requesting to be debriefed must send a written request to: Department of Housing and Urban Development; Attention: Office of HIV/AIDS Housing; 451 Seventh Street, SW., Room 7212; Washington, DC 20401-7000. Telephone number is (202) 708-1934. Persons with hearing or speech challenges may access the above number via TTY (text telephone) by calling the Federal Information Relay Service at 800-877-8339 (this is a toll-free number). Additional information regarding debriefing can be found in the General Section.

B. Administrative and National Policy Requirements

1. Executive Order 13202, Preservation of Open Competition and Government Neutrality Toward Government Contractors' Labor Relations on Federal and Federally Funded Contract Projects. See the General Section for the information on how to meet this requirement.

2. Procurement of Recovered Materials. See the General Section for the information on how to meet this requirement.

C. Reporting

1. Six-Month Report

For any new project (i.e. a conditionally-selected applicant that has not previously received a HOPWA competitive grant), you must provide an initial report to the Field Office and HUD Headquarters on the startup of the planned activities within six months of your selection. Your report must outline your accomplishments and identify any barriers or issues for which the Department may provide assistance on the start-up on your new award.

2. Measuring Performance

You must report after each year of operation on the annual accomplishments of your projects under the HOPWA Annual Progress Report (form HUD-40110-B), comparing your results to proposed plans, including reporting under the required HOPWA Performance Goals including reporting on annual housing outputs and client outcomes in achieving housing stability, reduced risks of homelessness, and improved access to healthcare and other needed support. For each reporting period, you must provide a completed Logic Model showing progress to date against projected outputs and outcomes contained in your approved grant agreement. In addition, on an annual basis, you must respond to the management questions in the Program Logic Model found as an appendix to this program Section. HUD will use these reports and information obtained from HUD financial systems, along with any remote or on-site monitoring, to measure your progress and achievements in evaluating your performance on your HOPWA grant.

3. Beneficiary Information

HUD requires that funded recipients collect racial and ethnic beneficiary data. It has adopted the Office of Management and Budget's Standards for the collection of Racial and Ethnic Data. In view of these requirements, you should use one of the following:

• HUD-27061, Racial and Ethnic Data Reporting Form (instructions for its use) found on www.HUDclips.org;

• A comparable program form (HOPWA—Annual Performance Report (APR) form HUD-40110-C); or

• A comparable electronic data system for this purpose.

VII. Agency Contacts

A. For Further Information and Technical Assistance (TA)

For technical assistance in downloading an application package from Grants.gov/Apply, contact the Grant.gov help desk at 800-518-Grants or by sending an e-mail to support@grants.gov. For programmatic information, you may contact the HUD field office serving your area. You can find the telephone number for the State or Area Office of Community Planning and Development on HUD's Web site: www.hud.gov/offices/adm/grants/fundsavail.cfm. HUD staff may assist with program questions, but may not assist in preparing your application. Persons with hearing or speech challenges may access the above number via TTY (text telephone) by calling the toll-free Federal Information Relay Service at 800-877-8339.

B. Seeking Technical Assistance (TA) in Developing a HOPWA Application

HOPWA TA providers may not provide technical assistance in the drafting of responses to HUD's NOFA due to the unfair advantage such assistance gives to one organization over another. If HUD determines that HOPWA technical assistance has been used to draft a HOPWA application, HUD reserves that right to reject the application for funding. If, after your application has been selected for an award, HUD determines that HOPWA technical assistance was used to draft your application, the award will be withdrawn and you may be liable to return to HUD any funds already spent.

C. Satellite Broadcast

HUD will hold information broadcasts via satellite for potential applicants to learn more about the program and preparation of the application. For more information about the date and time of the broadcast, you should consult the HUD Web site at www.hud.gov/grants.

VIII. Other Information

Paperwork Reduction Act

The information collection requirements contained in this document have been approved by the Office of Management and Budget (OMB) under the Paperwork Reduction Act of 1995 (44 U.S.C. 3501-3520) and assigned OMB control number 2506-0133. In accordance with the Paperwork Reduction Act, HUD may not conduct or sponsor, and a person is not required to respond to, a collection of information unless the collection displays a currently valid OMB control number. Public reporting burden for the collection of information is estimated to average 413 hours per annum per respondent for the application and grant administration. This includes the time collecting, reviewing, and reporting the data for the application, semi-annual reports and final report. The information will be used for grantee selection and monitoring the administration of funds. Response to this request for information is required in order to receive the benefits to be derived.

BILLING CODE 4210-01-P

Assisted Living Conversion Program (ALCP) for Eligible Multifamily Housing Projects

Overview Information

A. Federal Agency Name: Department of Housing and Urban Development, Office of Housing Assistance and Grant Administration.

B. Funding Opportunity Title: The Assisted Living Conversion Program for Eligible Multifamily Projects.

C. Announcement Type: Initial announcement.

D. Funding Opportunity Number: The OMB Approval Number is: 2502-0542. The Federal Register number for this NOFA is 5030-N-18.

E. Catalog of Federal Domestic Assistance (CFDA) Number: The Assisted Living Conversion Program for Eligible Multifamily Housing Projects is 14.314.

F. Dates: Application Deadline Date: June 15, 2006.

G. Optional, Additional Overview Content Information: The purpose of this program is to provide grants for the conversion of some or all of the dwelling units in an eligible project into assisted living facilities (ALFs) for frail elderly persons. Private nonprofit owners of eligible developments interested in applying for funding under this grant program should carefully review the General Section and the detailed information listed in this NOFA. Funding will only be provided for those items related to the conversion. There is no separate Application Kit for this NOFA.

The ALCP will fund those applications that may impact federal problem solving and policymaking and that are relevant to HUD's policy priorities and annual goals and objectives. (Refer to the General Section for discussion of these priorities and annual goals and objectives.)

Full Text of Announcement

I. Funding Opportunity Description

Program Description. Assisted living facilities (ALFs) are designed to accommodate frail elderly persons and people with disabilities who need certain support services (e.g., assistance with eating, bathing, grooming, dressing, and home management activities). ALFs must provide support services such as personal care, transportation, meals, housekeeping, and laundry. Frail elderly person means an individual 62 years of age or older who is unable to perform at least three activities of daily living (ADLs) as defined by the regulations for HUD's Section 202 Program (Supportive Housing for the Elderly) at 24 CFR 891.205. Assisted living is defined in section 232(b)(6) of the National Housing Act (12 U.S.C. 1715w).

The ALCP provides funding for the physical costs of converting some or all of the units of an eligible multifamily development into an ALF, including unit configuration and related common and services space and any necessary remodeling, consistent with HUD or the state's statute/regulations (whichever is more stringent). Typical funding will cover basic physical conversion of existing project units, as well as related common and services space. There must be sufficient community space to accommodate a central kitchen or dining facility, lounges, recreation, and other multiple-areas available to all residents of the project, or office/staff spaces in the ALF. When food is prepared at an off-site location, the preparation area of the facility must be of sufficient size to allow for the installation of a full kitchen, if necessary. You must provide supportive services for the residents either directly or through a third party. Your application must include a firm commitment for the supportive services to be offered within the ALF. You may charge assisted living residents for meals and/or service fees. Residents may contract with third party agencies directly for nursing, therapy, or other services not offered by the ALF.

Authority. The Assisted Living Conversion Program is authorized by Section 202(b) of the Housing Act of 1959 (12 U.S.C. 1701q-2) and the Transportation, Treasury, Housing and Urban Development, the Judiciary, the District of Columbia, and Independent Agencies Appropriations Act, 2006, (Public Law 109-115, approved November 30, 2005) which provides $24,800,000 for the conversion of eligible projects to assisted-living or related use and for emergency repairs, and the government-wide rescissions pursuant to the Department of Defense Appropriations Act (Public Law 109-148, approved December 30, 2005). The Department has set-aside $15 million for emergency capital repairs. The eligibility requirements for obtaining funding for emergency capital repairs are described in a separate HUD Notice. Any unused funds from the emergency capital repairs set-aside will be returned to the funds allocated for eligible multifamily assisted projects.

II. Award Information

A. Available Funds

This NOFA makes available approximately $20 million including carryover funds. The funds will be used for the physical conversion of eligible multifamily assisted housing projects or portions of projects to ALFs.

The allocation formula used to fair share the $20,000,000 for the ALCP reflects demographic characteristics of age and incidence of frailty that would be expected for program participants. The FY 2006 formula consists of one data element from the 2000 decennial census: The number of non-institutional elderly population aged 75 years or older with a disability. A fair share factor for each state was developed by taking the sum of the persons aged 75 or older with a disability within each state as a percentage of the sum of the same number of persons for the total United States. The resulting percentage for each state was then adjusted to reflect the relative difference in the cost of providing housing among the states. The total of the grant funds available was multiplied by the adjusted fair share percentage for each state, and the resulting funds for each state were totaled for each Hub.

The ALCP grant funds fair share allocations, based on the formula above, to the 18 multifamily Hubs are as shown on the following chart:

B. FY 2006 Allocation

FY 2006 Allocation for the Assisted Living Conversion Program (ALCP) of Eligible Assisted Multifamily Projects
Hub | Grant authority
Boston | $1,059,150.63
Buffalo | 497,891.04
New York | 1,070,750.58
Philadelphia | 2,043,688.82
Baltimore | 798,694.18
Greensboro | 827,785.85
Atlanta | 1,573,719.90
Jacksonville | 2,115,430.48
Chicago | 1,345,332.83
Columbus | 867,687.46
Detroit | 690,950.94
Minneapolis | 656,946.67
Fort Worth | 1,837,398.85
Kansas City | 1,331,095.76
Denver | 431,846.42
Los Angeles | 1,099,430.56
San Francisco | 1,146,692.71
Seattle | 605,506.31
Total | $20,000,000.00

The ALCP Grant Agreement, when fully executed, obligates the HUD funds. This Agreement establishes the legal relationship between HUD and the ALCP award recipient. The period of performance will be based on the scope of work but shall not exceed 18 months.

III. Eligibility Information

A. Eligible Applicants

Only private nonprofit owners of eligible multifamily assisted housing developments specified in section 683(2)(B), (C), (D), (E), (F), and (G) of the Housing and Community Development Act of 1992 (Pub. L. 102-550, approved October 28, 1992) may apply for an ALCP grant.

Note: If your eligibility status changes during the course of the grant term, making you ineligible to receive the grant (e.g., prepayment of mortgage, sale/TPA of property, opting out of a Section 8 Housing Assistance Payment (HAP) contract, or the transfer of the grant to a single asset entity), HUD retains the right to terminate the grant and recover funds made available through this NOFA.

1. Ineligible Applicants

Ineligible applicants are:

a. Owners of developments designed specifically for people with disabilities.

b. Owners of Section 232 developments.

c. Property management companies and agents of property management companies.

d. Limited dividend partnerships.

e. Nonprofit Public Agencies.

f. Owners of hospitals or other health-related facility which are considered to be eleemosynary institutions.

g. Owner of an existing insured or privately owned Assisted Living Facility.

h. Owners of commercial structures.

2. Eligible Developments

Eligible projects must be owned by a private, nonprofit entity and designated primarily for occupancy by elderly persons. Projects must have been in occupancy for at least five years from the date the form HUD-92485, Permission to Occupy Project Mortgage, was approved by HUD and have completed final closing. Eligible projects may only receive one grant award. Additionally, eligible projects must meet one of the following criteria:

a. Section 202 direct loan projects with or without Section 8 rental assistance,

b. Section 202 capital advance projects receiving rental assistance under their Project Rental Assistance Contract (PRAC),

c. Section 515 rural housing projects receiving Section 8 rental assistance,

d. Other projects receiving Section 8 project-based rental assistance,

e. Projects subsidized with Section 221(d)(3) below-market interest mortgage,

f. Projects assisted under Section 236 of the National Housing Act.

B. Cost Sharing or Matching

No matching required.

C. Other

1. Eligible conversion activities are:

a. Retrofitting to meet Section 504 accessibility requirements, minimum property standards for accessibility and/or building codes and health and safety standards for ALFs in that jurisdiction. Examples are items such as addition of:

(1) Upgrading to accessible units for the ALF with moveable cabinetry, accessible appliances, sinks, bathroom and kitchen fixtures, closets, hardware and grab bars, widening of doors, etc.;

(2) An elevator or upgrades thereto;

(3) Lighting upgrades;

(4) Major physical or mechanical systems of projects necessary to meet local code or assisted living requirements;

(5) Sprinkler systems;

(6) Upgrades to safety and emergency alert systems;

(7) Addition of hallway railings; and

(8) Medication storage and workstations;

b. Retrofitting to add, modify and/or outfit common space, office or related space for ALF staff including a service coordinator and file security, and/or a central kitchen/dining facility to support the ALF function (e.g., outfit lounge/common space/dining furniture, kitchen equipment for cooking/serving and dishware).

c. Retrofitting to upgrade a regular unit to an accessible unit for a person/family with disabilities who is being displaced from an accessible unit in the portion of the project that is being converted to the ALF, where another accessible unit is not available.

d. Temporary relocation.

e. Consultant, architectural, and legal fees.

f. Vacancy payments limited to 30 days after conversion to an ALF.

g. Any excess Residual Receipts (over $500/unit) and Reserve for Replacement funds (over $1000/unit) in Project Accounts that are not approved for another use at the time of application to HUD under this NOFA are considered available funds and must be applied toward the cost of conversion activities. Before making this determination, however, HUD staff will consider the extent of repair/replacement needs indicated in the most recent Real Estate Assessment Center (REAC) physical inspection and not yet approved and any ongoing commitments such as non-grant-based service coordinator or other funding, where existing, deduct the estimated costs of such items from the reserve for replacement and residual receipts balances to determine the extent of available residual receipts and reserve for replacement funds for the ALCP.

2. Threshold Requirements. In addition to the threshold criteria outlined in the General Section, applicants must meet the following requirements to receive funding for this program.

a. Be an eligible applicant.

b. DUNS Requirement. All ALCP applicants must have a DUN and Bradstreet Universal Data Numbering Systems (DUNS) number. The DUNS number must be included in the data entry field labeled “organizational DUNS” on the form SF-424. Instructions for obtaining a DUNS number can be found at either www.hud.gov/offices/adm/grants/duns.cfm or www.Grants.gov/GetStarted.

c. You cannot request more funds than allocated for your jurisdiction. (See the allocation chart above in Section II.B.)

d. You must provide commitment and funding support letters from the appropriate funding organizations and the appropriate licensing agency(ies). HUD will reject your application if the commitment and support letter(s) from the appropriate funding organizations and the appropriate licensing agency(ies):

(1) Are not submitted by the application submission date as part of your application for financial assistance;

(2) Indicate that the ALF units, facilities, meals and supportive services to be provided are not designed to meet the special needs of the residents who will reside in the ALF as defined in this NOFA,

(3) Do not show commitment for funding the meals and supportive services proposed; or

(4) Indicate that the project as proposed will not meet the licensing requirements of the appropriate state/local agency(ies).

e. You must comply with all applicable statutory requirements specified in Section 202(b) and statutory requirements under Section 232(b)(6).

f. Minimum Size Limits for an ALF. An ALF must be economically feasible. Consistent with HUD Handbook 4600.1, CHG-1, the minimum size for an ALF is five units.

g. You must submit an original and four copies of your completed ALCP application by the deadline date, if you requested and received a waiver of the electronic submission requirement. The notification granting your waiver request will specify requirements for paper application submission.

3. Program Requirements

a. You must have a residual receipt account separate from the Reserve for Replacement account, or agree to establish this account as a condition for getting an award(s).

b. You must be in compliance with your Loan Agreement, Capital Advance Agreement, Regulatory Agreement, Housing Assistance Payment contract, Project Rental Assistance Contract, Rent Supplement or LMSA contract, or any other HUD grant or contract document.

c. If selected, you must file a form HUD-2530 for all construction contractors, architects, consultants, and service provider organizations under direct contract with you that will be engaged under this NOFA within 30 days of execution of the grant award.

d. Your project must meet HUD's Uniform Physical Conditions Standards at 24 CFR part 5, subpart G. Meeting these standards, based on the most recent REAC physical inspection report and responses thereto, means that the project, must have a “satisfactory” rating as evidenced by a score of 60 or better or a HUD-approved and on schedule repair plan for developments scoring less than 60. Additionally, the project must have no uncorrected and outstanding Exigent Health and Safety violations. Finally, the project must not have a management review with a rating of “minimally satisfactory” or “unsatisfactory” with open and unresolved findings.

e. You must submit, with your application, an agreement to pursue appropriate ALF licensing in a timely manner.

f. Meals and Supportive Services. You must develop and submit a Supportive Services Plan (SSP) for the services and coordination of the supportive services, which will be offered in the ALF to the appropriate state or local organization(s), which are expected to fund those supportive services. (See Section IV.B. below for information, which must be in the SSP.) You must submit one copy of your SSP to each appropriate state or local service funding organizations well in advance of the application deadline, for appropriate review. The state or local funding organization(s) must return the SSP to you with appropriate comments and an indication of the funding commitment, which you will then include with the application you submit to HUD.

g. Licensing Requirements. You must also submit the SSP to the appropriate organization(s), which license ALFs in your jurisdiction. The licensing agency(ies) must approve your plan, and must also certify that the ALF and the proposed supportive services identified in your SSP, are consistent with local statute and regulations and well designed to serve the needs of the frail elderly and people with disabilities who will reside in the ALF portion of your project.

h. Your ALF must be licensed and regulated by the state (or if there is no state law providing such licensing and regulation, by the municipality or other subdivision in which the facility is located). Each assisted living unit must include its own kitchen, bathroom, bedroom, living/dining area (1 bedroom unit) or kitchen, bathroom, bedroom/living/dining area (efficiency unit) and must meet the state and/or local licensing, building, zoning, and other requirements for an ALF.

i. Your ALF must be available to qualified elderly persons and persons with disabilities, consistent with the rules and payment plans of the state, who need and want the supportive services in order to remain independent and avoid premature institutionalization.

j. Your ALF's residents must be tenants or residents of the multifamily project and must comply with the requirements applicable to the project. Thus, you cannot charge additional rent over what is charged to residents in the non-ALF portion of the project. All admissions to the ALF must be through the applicable project admissions office. However, persons accepted into the ALF also must sign an ALF admissions agreement, which shall be an addendum to the applicable project lease.

k. At a minimum, your ALF must provide room, board, and continuous protective oversight (CPO). CPO involves a range of activities and services that may include such things as awareness by management and staff of the occupant's condition and location as well as an ability to intervene in a crisis for ALF occupants on a 24-hour basis. The two occupant groups in an ALF are:

(1) Independent Occupants. Awareness by management and staff of the occupant's condition and whereabouts as well as the availability of assistance for the occupants as needed.

(2) Dependent occupants. Supervision of nutrition, assistance with medication and continuous responsibility for the occupants' welfare.

l. Anyone moving into an ALF unit must agree to accept as a condition of occupancy the board and services required for the purpose of complying with state and local law and regulation. m. Your ALF must provide three meals per day.

(1) Residents whose apartments have kitchens must take at least the number of meals a day provided by the facility, per their mandatory meals requirement, or as required by state or local rules, if more stringent. If the facility does not have a mandatory meals plan, then state and local rules govern.

(2) Residents in projects which were originally constructed without kitchens in their units must take such meals as required by their mandatory meals agreement, if applicable, or by the state's mandated requirements if more stringent (e.g., two meals, two snacks daily).

In either case, ALF management must coordinate meal requirements with the needs of residents who are out part of the day (e.g., in day care). The meal program may not be operated at a profit by the project owner.

n. Priority admissions for ALF units are as follows:

(1) Current residents desiring an ALF unit and meeting the program requirements (no resident can be required to accept an ALF unit).

(2) Qualified individuals or families needing ALF services who are already on the project's waiting list;

(3) Qualified individuals or families in the community needing ALF services wanting to be added to the project's waiting list.

(4) Qualified disabled non-elderly persons needing assisted living services are eligible to occupy these units on the same basis as elderly persons, except for section 202 project rental assistance contracts (PRAC) projects.

o. The management of the project must set up a separate waiting list for ALF units. ALF units must be for eligible residents who meet the admissions/discharge requirements as established for assisted living by state and local licensing, or HUD frailty requirements under 24 CFR 891.205 if more stringent.

p. Upon receipt of a grant under this program, all project owners participating in the ALCP must provide a Declaration of Restrictive Covenants (DRC), which will be recorded with the land, to retain the low income character of the housing, and to maintain the project (including the ALF), as a moderate-, low-, or very low-income facility (as appropriate) for at least 20 years beyond the current 40-to 50-year term of the mortgage loan or capital advance.

q. The ALCP requires service coordination for linking the ALF to available services in the community for low-income persons. All projects funded under this NOFA must have sufficient service coordination in place, or request additional funds, if appropriate, to ensure that services meeting licensing requirements are available to ALF residents on an ongoing basis. Service coordination must be described in the application (see Section IV.B. of this NOFA). If you need to enhance an existing service coordination program or add one where it does not exist, you may apply for funding through the Service Coordinator NOFA, published elsewhere in the SuperNOFA. If a funds request for service coordination for the ALF and/or the whole project is included as part of this application, the Form SF-424 under Exhibit 11, must indicate the dollars requested. Do NOT attach the whole service coordinator application. You may also show evidence that funding for the enhanced service coordination is provided by other sources by indicating such funding on the form SF-424. If you are funded under this NOFA and requested new or enhanced service coordination you will be funded first under the service coordinator NOFA.

(1) The ALF must be staffed either directly or through coordination with local agencies, depending on state regulations or local requirements. These may also serve non-ALF residents of the project on a time available and appropriate fee basis.

(2) If you are a Section 202 PRAC project owner, you are not eligible to request funding under the service coordinator NOFA. Section 202 PRAC owners can pay for the service coordinator out of PRAC funds.

(3) The ALF may cater to the special needs of residents depending on their condition or diagnosis, such as Alzheimer's disease. If it does so, the design/environment of such facilities must accommodate those needs, e.g., dementia special care unit. However, the ALF cannot provide a service it is not licensed by the state or locality to provide.

(4) Owners of Section 202/PRAC projects are reminded that they may include a PRAC payment of up to $15/unit/month not to exceed 15 percent of the total program cost, consistent with 24 CFR 891.225(b)(2) to cover part of the cost of meals and/or supportive services for frail elderly residents, including residents of the ALF.

(5) Training for ALF staff is an eligible project cost under existing operating procedures. For further information on ALFs, please refer to Handbook 4600.1, CHG-1, “Mortgage Insurance for Residential Care Facilities,” Chapter 13. This Handbook and recent ALF program Notices are accessible through HUDCLIPS on HUD's Web site at http://www.hudclips.org/cgi/index.cgi. These notices are in the Handbooks and Notices—Housing Notices database. Enter only the number without the letter prefix (e.g., 99-16) in the “Document number” to retrieve the program notice.

For further guidance on service coordinators, please refer to Handbook 4381.5 REV-2, CHANGE-2, Chapter 8, “The Management Agent's Handbook,” which is also available through the HUDCLIPS database.

r. Your ALF's operation must be part of the project owner's management organization. Some or all of its functions may be contracted out. The ALF must predicate its budget on a two-tiered structure under which board and supportive service income and expenses must be maintained separately and independently from the regular income and expenses of the applicable project.

The two components of ALF costs are:

(1) Charges/payment for board, (not including rent for the unit) which may be on a sliding scale or any other equitable fee system; and

(2) Charges/payment for necessary supportive services, which may include a combination of resident fees, Medicaid and/or other third party payments.

s. Prohibition Against Lobbying Activities. The Byrd Amendment prohibits ALCP recipients of federal contracts, grants, or loans from using appropriated funds for lobbying activities. (Refer to Section III.C. of the General Section for further instructions regarding this requirement.)

t. Economic Opportunities for Low and Very Low-Income Persons (Section 3). You must comply with Section 3 of the Housing and Urban Development Act of 1968, 12 U.S.C. 1701u (Economic Opportunities for Low and Very Low-Income Persons), and implementing regulations at 24 CFR part 135. You must ensure that training, employment, and other economic opportunities shall, to the greatest extent feasible, be directed toward low- and very low-income persons, particularly those who are recipients of government assistance for housing and to business concerns which provide economic opportunities to low- and very low-income persons and including people with disabilities.

4. Additional Non-discrimination and Other Requirements. Comply with the requirements of the Fair Housing Act, Executive Order 11063, Title VI of the Civil Rights Act, the Age Discrimination Act of 1975, the affirmative fair housing marketing requirements of 24 CFR part 200, subpart M, and the implementing regulations at 24 CFR part 108, which requires that the project be marketed to those least likely to apply, including those who are not generally served by the agency administering the program, and other applicable federal, state, and local laws prohibiting discrimination and promoting equal opportunity, including affirmatively furthering fair housing, and other certifications listed in the application. (Refer to Section III.C. of the General Section for additional requirements and information.)

a. Comply with section 232 of the National Housing Act, as applicable; the Uniform Federal Accessibility Standards (24 CFR 40.7); section 504 of the Rehabilitation Act of 1973 and HUD's implementing regulations at 24 CFR part 8; and the Americans with Disabilities Act of 1990 for all portions of the development physically affected by this proposal.

b. Comply with the Davis-Bacon requirements and the Contract Work Hours and Safety Standards Act as applied to this program. While it has been determined that Davis-Bacon does not apply statutorily to the ALCP, the Department has administratively determined that Davis-Bacon standards and overtime rates in accordance with the Contract Work Hours and Safety Standards Act will be adhered to in any ALCP conversion grant in which the total cost of the physical conversion to an ALF (and including any additional renovation work undertaken at the same time) is $500,000 or more (this includes ALCP grant funds, owner funds, or any third party funds loaned or granted in support of the conversion or other renovation for the project associated with this grant), and in which the ALF portion of the project is 12 units or more.

c. Ensuring the Participation of Small Business, Small Disadvantaged Businesses, and Woman-Owned Businesses. HUD is committed to ensuring that small businesses, small disadvantage businesses, and woman-owned businesses participate fully in HUD's direct contracting and in contracting opportunities generated by HUD's financial assistance. (Refer to the General Section for further instructions regarding this requirement.)

d. Executive Order 13166, Improving Access to Persons with Limited English Proficiency (LEP). ALCP applicants must seek to improve access to persons with limited English proficiency by providing materials and information in languages other than English. Make applications and other materials available in languages other than English that are common in the community, if speakers of these languages are found in significant numbers and come into frequent contact with the program. For further guidance on serving persons with Limited English Proficiency (LEP) in HUD assisted programs, see the recently published HUD LEP guidance, 'Notice of Guidance to Federal Assistance Recipients Regarding Title VI Prohibition Against National Origin Discrimination Affecting Limited English Proficient Persons,” 68 FR 70968 (December 19, 2003) or Section III of the General Section.

e. Executive Order 13279, Equal Protection of the Laws for Faith-Based and Community Organizations. HUD has undertaken a review of all policies and regulations that have implications for faith-based and community organizations, and has established a policy priority to provide full and equal access to grassroots faith-based and other community-based organizations. (Refer to the General Section for specific instructions regarding this requirement.)

f. Accessible Technology. The Rehabilitation Act Amendments of 1998 apply to all electronic information technology (EIT) used by an ALCP recipient for transmitting, receiving, using, or storing information to carry out the responsibilities of the ALCP awards. (Refer to Section III.C. of the General Section for specific instructions regarding this requirement.)

g. Participation in HUD-Sponsored Program Evaluation. As a condition of the receipt of ALCP funds, successful applicants are required to cooperate with all HUD staff or contractors performing HUD-funded research and evaluation studies.

h. Comply with Executive Order 13202, Preservation of Open Competition and Government Neutrality toward Government Contractors' Labor Relations on Federal and Federally Funded Construction Projects. (Refer to the General Section for additional information on this requirement).

i. OMB Circulars and Government-wide Regulations Applicable to Financial Assistance. ALCP applicants are subject to the Administrative Requirements of OMB Circular A-133, Audits of States, Local Governments and Non-Profit Organizations; OMB Circular A-122, Cost Principles for Non-Profit Institutions; the administrative requirements of 24 CFR Part 84; and the procurement requirements of 24 CFR 84.44. (Refer to the General Section for additional information on this requirement).

j. Environmental Requirements. Your ALCP application is subject to the National Environmental Policy Act of 1969 and applicable related federal environmental authorities. (See 24 CFR part 50, as applicable.) An environmental review will be completed by HUD before awarding any grant under this program. ALCP projects are ‘critical actions' for purposes of 24 CFR part 55 and must comply with requirements applicable to ‘critical actions,' including floodplain management review requirements, if proposed to be carried out in the 500-year floodplain.

IV. Application and Submission Information

A. Addresses to Request Application Package

All information for requesting an application is included in this NOFA and Section IV. A. of the General Section. The application for the ALCP is available on the Internet from the grants.gov Web site at http://www.grants.gov/FIND. If you have difficulty accessing the information, you can receive customer support from Grants.gov by calling the help line at (800) 518-Grants or by sending an e-mail to support@grants.gov. If you do not have access, you may obtain an ALCP application by calling the NOFA Information Center at (voice) 800-HUD-8929 (800-483-8929). Persons with a hearing or speech impairment may call the Center's TTY number at 800-HUD-2209. Please be sure to provide your name, address (including zip code), and telephone number (including area code).

1. Multiple Applications. Owners may not submit multiple applications for the same elderly housing development. HUD will only accept one ALCP application per project.

2. For Technical Assistance. Before the ALCP application due date, HUD staff will be available to provide you with general guidance and technical assistance. However, HUD staff is not permitted to assist in preparing your application. For technical support for downloading the ALCP application or submitting the application, call the toll free Grants.gov Customer Support line at 1-800-518-Grants or send an e-mail message to support@grants.gov.

3. Satellite Broadcast. HUD will provide a satellite broadcast for potential applicants. For more information about the date and time of the broadcast, you should contact your local HUD Office or go to HUD's Web site at: www.hud.gov/webcasts/index.cfm.

B. Content and Form of Application Submission

There are eleven required exhibits under the ALCP, including prescribed forms and certifications. In cases where your articles of incorporation and by-laws have NOT changed since the project was originally approved by HUD, your signature on the SF-424 signifies that you are self-certifying to that effect—that the documents on file with HUD are current—is sufficient. Exhibits for which self-certification of currency is possible are Exhibits 2(a) and (b).

In addition to the relief of paperwork burden, you will not have to submit certain information and exhibits you have previously prepared. See individual item descriptions, below to identify such items. An example of such an item may be the FY 2006 Annual Financial Statement. Your application must include all of the information, materials, forms, and exhibits listed below (Please see the General Section for instructions on how to submit third party and other documents such as Articles of Incorporation; by-laws; copies of original plans; evidence of financial commitment; letter(s) from zoning officials; etc.):

1. Application Summary for the Assisted Living Conversion Program, Form HUD-92045.

2. Evidence that you are a private nonprofit organization or nonprofit consumer cooperative and have the legal ability to operate an ALF program, per the following:

a. Articles of Incorporation, constitution, or other organizational documents, or self-certification of these documents if there has been no change in the Articles since they were originally filed with HUD; and

b. By-laws, or self-certification of by-laws, if there has been no change in the by-laws since they were originally filed with HUD

3. A description of your community support:

a. A description of your links to the community at large and to the minority and elderly communities in particular; and

b. A description of your efforts to involve elderly persons, including minority elderly persons and persons with disabilities in:

(1) The development of the application;

(2) The development of the ALF operating philosophy;

(3) Review of the application prior to submission to HUD; and

(4) Your intent whether or not to involve eligible ALF residents in the operation of the project.

c. A description of your involvement in your community's Consolidated Planning and Analysis of Impediments to Fair Housing (AI) processes including:

(1) An identification of the lead/facilitating agency(ies) that organizes and/or administers the process;

(2) A listing of the Consolidated Plan/AI issue areas in which you participate; and

(3) The level of your participation in the process, including active involvement with any neighborhood-based organizations, associations, or any committees that support programs and activities that enhance projects or the lives of residents of the projects, such as the one proposed in your application.

If you are not currently active, describe the specific steps you will take to become active in the Consolidated Planning and AI processes. (Consult the local HUD office for the identification of the Consolidated Plan community process for the appropriate area.)

d. A description of how the assisted living facility will implement practical solutions that will result in assisting residents in achieving independent living and improved living environment.

e. A description of how you have supported state and local efforts to streamline processes and procedures in the removal of regulatory barriers to affordable housing. To obtain up to 2 points for this policy priority you must complete the Form HUD-27300, Questionnaire for HUD's Initiative on Removal of Regulatory Barriers and provide the required documentation. See Rating Factor 3 in Section V.A. of this NOFA for more details.

4. Evidence of your project being occupied for at least five years prior to the date of application to HUD.

5. A market analysis of the need for the proposed ALF units, including information from both the project and the housing market, containing:

a. Evidence of need for the ALF by current project residents:

(1) A description of the demographic characteristics of the elderly residents currently living in the project, including the current number of residents, distribution of residents by age, race, and sex, an estimate of the number of residents with frailties/limitations in activities of daily living, and an estimate of the number of residents in need of assisted living services.

(2) A description of the services currently available to the residents and/or provided on or off-site and what services are lacking;

b. Evidence of the need for ALF units by very low-income elderly and disabled households in the market area; a description of the trend in elderly and disabled population and household change; data on the demographic characteristics of the very low-income elderly in need of assisted living services (age, race, sex, household size, and tenure) and extent of residents with frailty/limitations in existing federally assisted housing for the elderly (HUD and Rural Housing Service); and an estimate of the very low-income elderly and disabled in need of assisted living taking into consideration any available state or local data.

c. A description of the extent, types, and availability and cost of alternate care and services locally, such as home health care; adult day care; housekeeping services; meals programs; visiting nurses; on-call transportation services; health care; and providers of supportive services who address the needs of the local low income population.

d. A description of how information in the community's Analysis of Impediments to Fair Housing Choice was used in documenting the need for the ALF (covering items in c. above).

6. A description of the physical construction aspects of the ALF conversion, including the following:

a. How you propose to carry out the physical conversion (including a timetable and relocation planning). Completion of the Logic Model will assist in completing your response to this Exhibit.

b. A short narrative stating the number of units, special design features, community and office space/storage, dining and kitchen facility and staff space, and the physical relationship to the rest of the project. Also, you must describe how this design will facilitate the delivery of services in an economical fashion in the most integrated setting appropriate to the needs of the participating residents with disabilities and accommodate the changing needs of the residents over at least the next 10 years.

c. A description on how the project will promote energy efficiency, including any plans to incorporate energy efficiency features in the design and operation of the ALF through the use of Energy Star labeled products and appliances. Applicants that meet this policy priority will receive two points under Rating Factor 3 in Section V.A. of this NOFA. Refer to the General Section for further information on this requirement or for further information about Energy Star see http://www.energystar.gov.

d. A copy of the original plans for all units and other areas of the development, which will be included in the conversion.

e. A description of the conversion must clearly address how the units will conform to the accessibility requirements described in the Uniform Federal Accessibility Standards (UFAS). (For example, all door openings must have a minimum clear opening of 32 inches; and, all bathrooms and kitchens must be accessible to and functional for persons in wheelchairs.)

f. Architectural sketches of the conversion to a scale of 1/4 inch to one foot that indicate the following:

(1) All doors being widened;

(2) Typical kitchen and bathroom reconfiguration: show all wheelchair clearances, wall reinforcing, grab bars, and elevations of counters and work surfaces;

(3) Bedroom/living/dining area modification, if needed;

(4) Any reconfigured common space;

(5) Added/reconfigured office and storage space;

(6) Monitoring stations, and

(7) The kitchen and dining facility.

All architectural modifications must meet section 504 and ADA requirements as appropriate.

g. A budget showing estimated costs for materials, supplies, fixtures, and labor for each of the items listed in Section IV.B.6.f, items (1) through (7), above.

h. Include firm financial commitment letters with specific dollar amounts from appropriate organization(s) for conversion needs (within the scope of the ALF conversion NOFA) which will be supported by non-HUD funding.

i. A description of any relocation of current tenants including a statement that:

(1) Indicates the estimated cost of temporary relocation payments and other related services;

(2) Identifies the staff organization that will carry out the relocation activities; and

(3) Identifies all tenants that will have to be temporarily moved to another unit within the development OR from the development during the period that the physical conversion of the project is under way.

Note: If any of the relocation costs will be funded from sources other than the ALCP grant, you must provide evidence of a firm financial commitment of these funds. When evaluating applications, HUD will consider the total cost of proposals (i.e., cost of conversion, temporary relocation, service coordinator, and other project costs).

j. Address how training, employment, and economic opportunities will be directed to low- and very low-income persons that receive government assistance for housing and to business concerns which provide economic opportunities to low- and very-low-income persons and people with disabilities.

7. A description of any retrofit or renovation that will be done at the project (with third party funds) that is separate and distinct from the ALF conversion. With such description, include as part of your application submission firm commitment letters from third party organizations in specific dollar amounts that will cover the cost of any work outside the scope of this NOFA.

8. A letter from the local zoning official indicating evidence of permissive zoning. Also, showing that the modifications to include the ALF into the project as proposed are permissible under applicable zoning ordinances or regulations.

9. A supportive services plan (SSP), a copy of which must be submitted to the appropriate state and/or local agency as instructed in Section III.C. above. For those applicants needing to contact state Medicaid offices, a list is provided on the Internet at www.cms.hhs.gov/medicaid. The SSP must include:

a. A description of the supportive services needed for the frail elderly the ALF is expected to serve. This must include at least (1) meals and such other supportive services required locally or by the state, and (2) such optional services or care to be offered on an “as needed” basis.

Examples of both mandatory and optional services (which will vary from state to state) are: Two meals and two snacks or three meals daily; 24-hour protective oversight; personal care; housekeeping services; personal counseling, and transportation.

b. A description of how you will provide the supportive services to those who are frail and have disabilities (i.e., on or off-site or combination of on or off-site), including an explanation of how the service coordination role will facilitate the adequate provision of such services to ALF residents, and how the services will meet the identified needs of the residents. Also indicate how you intend to fund the service coordinator role.

c. A description of how the operation of your ALF will work. Address: (1) General operating procedures; (2) ALF philosophy and how it will promote the autonomy and independence of the frail elderly and persons with disabilities; (3) what will the service coordination function do and the extent to which this function already exists, or will be augmented or new; (4) ALF staff training plans; and (5) the degree to which and how the ALF will relate to the day-to-day operations of the rest of the project.

d. The monthly individual rate for board and supportive services for the ALF listing the total fee and components of the total fee for the items required by state or local licensing, and list the appropriate rate for any optional services you plan to offer to the ALF residents. Provide an estimate of the total annual costs of the required board and supportive services you expect to provide and an estimate of the amount of optional services you expect to provide.

e. List who will pay for the board and supportive services and the amount. For example, include such items as:

(1) Meals by sponsors—$20

(2) Housekeeping services by the City government—$30

(3) Personal care by State Department of Health—$60

(4) Service paid for by state program—$40

(5) Fees paid by tenants—$83

The amounts and commitments from both tenants and/or providers must equal the estimated amounts necessary to cover the monthly rates for the number of people expected to be served. If you include tenant fees in the proposal, list and show any proposed scaling mechanism. All amounts committed/collected must equal the annualized cost of the monthly rates calculated by the expected percentage of units filled.

f. A support/commitment letter from EACH listed proposed funding source per paragraph e. above, for the planned meals and supportive services listed in the application. The letter must cover the total planned annual commitment (and multiyear amount total, if different), length of time for the commitment, and the amounts payable for each service covered by the provider/paying organization. There must be a letter from EACH participating organization listed in paragraph e, above.

g. A support letter from EACH governmental agency that provides licensing for ALFs in that jurisdiction.

h. A description of your relevant experience in arranging for and/or delivering supportive services to frail residents. The description should include any supportive services facilities owned/operated; your past or current involvement in any project-based programs that demonstrates your management capabilities. The description should include data on the facilities and specific meals and/or supportive services provided on a regular basis, the racial/ethnic composition of the populations served, if available, and information and testimonials from residents or community leaders on the quality of the services.

10. A description of your project's resources:

a. A copy of the most recent project Reserve and Replacement account statement, and a Reserve for Replacement analysis showing plans for its use over the next five years, and any approvals received from the HUD field office to date.

b. A copy of the most recent Residual Receipts Account statement. Indicate any approvals for the use of such receipts from the field office for over $500/unit.

c. Annual Financial Statement (AFS). If your FY2006 AFS was due to REAC more than 120 days BEFORE the due date for this application, in the interest of reducing work burden, only include the date that it was sent to REAC. If the AFS was due to REAC 120 days or less from the due date of this application, you MUST include a paper copy of your AFS.

11. Forms and Certifications. The electronic version of the NOFA contains all forms required for submitting the ALCP application. The following exhibits, forms, certifications, and assurances are required. Copies of forms denoted by (*) may be downloaded from HUD's Web site at http://www.hud.gov/offices/adm/grants/nofa06/snofaforms.cfm.

a. Form HUD-92045, Multifamily Housing Assisted Living Conversion Program Application Summary Sheet.

b. Form SF-424, Application for Federal Assistance*, and compliance with Executive Order 12372 (a certification that you have submitted a copy of your application, if required, to the state agency (Single Point of Contact) for state review in accordance with Executive Order 12372 (refer to the General Section for instructions in submitting this form).

c. SF-424 Supplement, Survey for Ensuring Equal Opportunity for Applicants*.

d. Form HUD-424-CB, Grant Applications Detailed Budget*.

e. Form HUD-424-CBW, Grant Application Detailed Budget worksheet*.

f. Form HUD-2880, Applicant/Recipient Disclosure/Update Report*, including Social Security and Employment Identification numbers. A disclosure of assistance from other government sources received in connection with the project.

g. Form HUD-2991, Certification of Consistency with the Consolidated Plan* for the jurisdiction in which the proposed ALF will be located. The certification must be made by the unit of general local government if it is required to have, or has, a complete Plan. Otherwise, the certification may be made by the state, or by the unit of general local government if the project will be located within the jurisdiction of the unit of general local government authorized to use an abbreviated strategy, and if it is willing to prepare such a Plan.

All certifications must be made by the public official responsible for submitting the plan to HUD. The certifications must be submitted by the application submission deadline date set forth herein. The Plan regulations are published in 24 CFR part 91.

h. Form HUD 2994-A, You Are Our Client Survey, optional.

i. Standard Form-LLL, Disclosure of Lobbying Activities, if applicable*.

j. Form HUD-96010, Program Outcome Logic Model*. (This is going to be in the application instructions. A version of the form for those that do not have excel will be available on the Web site.)

k. Form HUD-27300, America's Affordable Communities Initiative/Removal of Regulatory Barriers* (and supporting documentation).

l. Certification of Consistency with RC/EZ/EC-II Strategic Plan (HUD-2990), if applicable. Pm. Form HUD-96011, Facsimile Transmittal Cover Page. This form must be used as the cover page to transmit third party documents and other information as described in the General Section as part of your electronic application submittal (if applicable).

C. Submission Date and Time

1. Application Submission Date. Unless you received a waiver to the electronic application submission requirements, your completed ALCP application must be submitted through the www.grants.gov/Apply and must be received and validated by Grants.gov no later than 11:59:59 Eastern Time on the application deadline date (June 15, 2006). (Refer to Section IV. of the General Section for further instructions on the delivery and receipt of applications.

D. Intergovernmental Review

1. Executive Order 12372. ALCP applicants are subject to the Executive Order 12372 process. Refer to Section IV.D. of the General Section for instructions on the intergovernmental review process.)

2. You must submit a Supportive Services Plan (SSP) for the services and coordination of the supportive services that will be offered in the assisted living facility (ALF) to the appropriate state or local organization(s), which are expected to fund those supportive services. You must submit one copy of your SSP to each appropriate state or local service funding organizations well in advance of the application deadline, for appropriate review. The state or local funding organization(s) must return the SSP to you with appropriate comments and an indication of the funding commitment, which you will then include with the application you submit to HUD.

You must ALSO submit the SSP to the appropriate organization(s) that license ALFs in your jurisdiction. The licensing agency(ies) must approve your plan, and must also certify that the ALF and the proposed supportive services identified in your SSP, are consistent with local statute and regulations and well designed to serve the needs of the frail elderly and people with disabilities who will reside in the ALF portion of your project.

E. Funding Restrictions

1. This program does NOT cover the cost of meals and supportive services. These items must be paid for through other sources (e.g., a mix of resident fees and/or third party providers). Evidence of third party commitment(s) must be included as part of the application. The assisted living supportive services program must promote independence and provide personal care assistance based on individual needs in a home-like environment. In accordance with Section 504 of the Rehabilitation Act of 1973 and HUD's regulations at 24 CFR 8.4(d), the project must deliver services in the most integrated setting appropriate to the needs of qualified individuals with disabilities.

2. This program does not allow permanent displacement of any resident living in the project at the time the application was submitted to HUD. (HUD will only provide temporary relocation costs for current tenants if they must vacate their unit while conversion work is underway (normal temporary relocation costs include increases in rent, reconnection of telephones, moving costs, and appropriate out-of-pocket expenses).

3. Applicants will not be awarded multiple grant funds for the same elderly housing development. One project will not receive multiple awards.

4. Ineligible Activities. You may not use funds available through this NOFA to:

a. Add additional dwelling units to the existing project;

b. Pay the costs of any of the necessary direct supportive services needed to operate the ALF;

c. Purchase or lease additional land;

d. Rehabilitate (see definition at 24 CFR 891.105) the project for needs unrelated directly to the conversion of units and common space for assisted living.

e. Use the ALCP to reduce the number of accessible units in the project that are not part of the ALF.

f. Permanently displace any resident out of the project (permanent relocation is prohibited under this program)

g. Increase the management fee.

h. Cover the cost of activities not directly related to the conversion of the units and common space. (i.e., if an applicant is applying to convert 24 units on 2 floors of a 5-story elderly housing development and the inspection by the Fire Marshal reveals that sprinklers must be installed in the entire building), ALCP funds will be used only to install sprinklers for the 24 units on the 2 floors requested in the application. The cost to install sprinklers in the remaining units must be paid for out of other resources.

F. Other Submission Requirements

Application Submission and Receipt Procedures. Refer to Section IV.F. of the General Section for specific procedures for additional information on application submission requirements.

1. Electronic Delivery. ALCP applicants must submit their applications electronically through www.grants.gov/Apply, unless a waiver is granted.

a. The www.grants.gov/Apply offer a simple, unified application process. There are several steps to complete at the www.grants.gov Web site. ALCP applicants should read HUD's Federal Register Notice on Early Registration published in the Federal Register on December 9, 2005 (70 FR 73332).

b. Electronic signature. ALCP applications submitted through Grants.gov constitute submission as an electronically signed application.

2. Instructions on how to submit an electronic application to HUD via grants.gov/Apply: Grants.gov has a full set of instructions on how to apply for funds on its Web site at http://www.grants.gov/CompleteApplication.

3. Waiver of Electronic Submission Requirement. HUD will only accept electronic applications submitted through www.grants.gov unless the ALCP applicant has received a waiver.

4. Proof of Timely Submission. ALCP applicants must submit their applications to www.grants.gov in time for receipt and validation at Grants.gov by 11:59:59 p.m. eastern time on the application deadline date of June 15, 2006. Validation can take 24-48 hours so applicants should submit with ample time for the process to be completed. Applicants are also advised to submit with sufficient time to correct any deficiencies that would prevent the acceptance of your application by Grants.gov. (Refer to the General Section for specific procedures regarding proof of timely submission of applications.)

5. Hubs and Field Offices addresses. If you are granted a waiver to the electronic application submission requirement, you must submit an original and four copies of the ALCP application to the director of the appropriate HUD Multifamily Hub Office with jurisdiction over the housing development identified in your application. For your use in determining the appropriate HUD Multifamily Hub Office to which you must submit your application, see HUD's Web site at http://www.HUD.gov/offices/adm/grants/nofa06/grpalcp.cfm. The HUD Program Centers are under each Hub. If you send your application to the wrong Hub Office, it will be rejected. Therefore, if you are uncertain as to which Hub Office to submit your application, you are encouraged to contact the local HUD Office that is closest to your project's location to ascertain the Office's jurisdiction and to ensure that you submit your application to the correct local HUD Multifamily Hub Office. Paper applications must be received in the appropriate Hub Office by the application deadline date. The Department will no longer allow a 15-day grace period for receipt of applications post-marked on or before the application deadline date.

V. Application Review Information

A. Criteria

HUD will rate ALCP applications that successfully complete technical processing using the Rating Factors set forth below and in accordance with the application submission requirements identified in Section IV.B. above. The maximum number of points an application may receive under this program is 102. This includes two RC/EZ/EC-II bonus points, as described in the General Section and Section V.A. below.

1. Rating Factor 1: Capacity of the Applicant and Relevant Organizational Staff (20 Points)

This factor addresses your capacity to carry out the conversion in a timely, cost-conscious and effective manner. It also addresses your experience at providing the proposed supportive services you intend to make available at the ALF for elderly residents, especially in such areas as meals, 24-hour staffing, and on-site health care. Submit information responding to this factor in accordance with Application Submission Requirements in Sections IV. B. 6. a. and b. and 9. a. through c and h. of this NOFA.

In rating this factor, HUD will consider the extent to which your application demonstrates your ability to carry out a successful conversion of the project and to implement the plan to deliver the supportive services on a long-term basis, considering the following:

a. (9 points). The time frame planned for carrying out the physical conversion of the development to the ALF.

b. (10 points). Your past experience in providing or arranging for supportive services either on or off site for those who are frail. Examples are: Meals delivered to apartment of resident or in a congregate setting (2 points), arranging for or providing personal care (3 points), providing 24-hour staffing (1 point), providing or making available on-site preventive health care (2 points) and other support services (2 points).

c. (1 point). The Department will provide 1 point to those applicants who currently or propose to partner, fund, or subcontract with grassroots organizations. HUD will consider an organization a “grassroots organization” if the organization is headquartered in the local community and has a social services budget of $300,000 or less; or has six or fewer full-time equivalent employees. (Refer to the General Section for further information on policy priority points for activities related to grassroots organizations.)

2. Rating Factor 2: Need/Extent of the Problem (20 Points)

This factor addresses the extent to which the conversion is needed by the categories of elderly persons and persons with disabilities that the ALF is intended to serve (very low-income elderly persons and persons with disabilities who have limitations in three or more activities of daily living). The application must include evidence of current needs among project residents and needs of potential residents in the housing market area for such persons including economic and demographic information on very low-income, frail, elderly, and persons with disabilities and information on current assisted living resources in the market area.

The factor also addresses your inability to fund the repairs or conversion activities from existing financial resources. In making this determination, HUD will consider the project's financial information. Submit information responding to this factor in accordance with Application Submission Requirements in Sections IV.B.3.c., 5. a. through d., and 10. a. through c. of this NOFA. In evaluating this factor, HUD will consider:

a. (7 points). The need for assisted living among the elderly and disabled residents of the project taking into consideration those currently in need and the depth of future needs given aging in place.

b. (3 points). The need for assisted living among very low-income elderly persons and persons with disabilities in the housing market area.

c. (9 points). Insufficient funding for any needed conversion work, as evidenced by the project's financial statements and specifically the lack of excess Reserve for Replacement dollars and residual receipts. If the available Reserve for Replacement and residual receipts are less than 10 percent of the total funds needed = 9 points; if the available Reserve for Replacement and residual receipts are 10-50 percent of need = 5 points; and, if the available Reserve for Replacement and residual receipts are 51 percent or more of the total funds needed = 0 points).

d. (1 point). The Department will provide one point to those applications which establish a connection between the proposed ALF and the community's Analysis of Impediments to Fair Housing Choice (AI) or other planning document that analyzes fair housing issues and is prepared by a local planning or similar organization.

3. Rating Factor 3: Soundness of Approach (40 Points)

This factor addresses the quality and effectiveness of your proposal in addressing the proposed conversion, effectiveness of service coordination and management planning and the meals and supportive services which the ALF intends to provide, whether the jurisdiction in which the ALF is located has taken successful efforts to remove regulatory barriers to affordable housing, whether you will incorporate energy efficiency in the design and operation of the assisted living facility, provide training, employment, and economic opportunities to low- and very low-income persons, and the extent to which you have evidenced general support for conversion by participating in your community's Consolidated Planning Process, involving the residents in the planning process. There must also be a relationship between the proposed activities, the project's and the community's needs and purposes of the program funding for your application to receive points for this factor. Submit information responding to this factor in accordance with Application Submission Requirements in Sections IV.B.3.a. through c. and e., IV. B.5.e., IV.B.6.b. through e., IV. B9.a. through e., g., and h. of this NOFA. In evaluating this factor, HUD will consider the following:

a. (10 points). The extent to which the proposed ALF design will meet the special physical needs of frail elderly persons or persons with disabilities expected to be served at reasonable cost (consider the ALF design: Meets needs = 10 points; ALF design partially meets needs = 5 points; and ALF design does not meet needs = 0 points).

b. (10 points). The extent to which the ALF's proposed management and operational plan ensures that the provision of both meals and supportive services planned will be accomplished over time. (Consider ALF design/management plan: Meets needs of management operations = 10 points; ALF design/management plan partially meets needs of management operations = 5 points; and ALF design/management plan does not meet needs of management operations = 0 points.)

c. (7 points). The extent to which the proposed supportive services meet the anticipated needs of the frail elderly and disabled residents (does meet = 7 points; partially meets needs = 4 points; and, does not meet needs = 0 points); and

d. (7 points). The extent to which the service coordination function is addressed and explained as onsite and sufficient, onsite and augmented or new, and addresses the ongoing procurement of needed services for the residents of the ALF (does meet = 7 points, partially meets = 4 points, does not meet = 0 points).

e. (2 points). The steps you have taken which support State and local efforts in streamlining processes and procedures that eliminate redundant requirements, statutes, regulations and codes which impede the availability of affordable housing. To receive points for removal of regulatory barriers, applicants must include in their response the completed Questionnaire HUD Form 27300. (Refer to the General Section for further information.)

f. (2 points). Describe how you plan to incorporate energy efficiency activities in the design or the operation of the assisted living facility through the use of Energy Star labeled products and appliances.

g. (2 points). To the greatest extent feasible, describe how you propose to provide opportunities to train and employ low- and very low-income persons in the project area; and how you plan to award contracts to business concerns which provide economic opportunities to low- and very low-income persons and people with disabilities in the project area.

4. Rating Factor 4: Leveraging Resources (10 Points)

This factor addresses your ability to secure other community resources that can be combined with HUD's grant funds to achieve program purposes. For the ALCP to succeed, you must generate local funding for the necessary supportive services to operate the ALF. HUD also encourages local funding for some of the necessary conversion work, or other work needed in the project (e.g., general modernization) which is not specifically linked to the ALF).

Submit information responding to this factor in accordance with Application Submission Requirements in Section IV.B.6.h. and i., B.7., and B.9.e. through g. of this NOFA.

a. (5 points). The extent to which there are commitments for the funding needed for the meals and the supportive services planned for the ALF and that the total cost of the estimated budget of the ALF is covered. Consider 90 percent or more commitment of the total budget with no more than 10 percent for meals and services = 5 points; 80-89.9 percent with no more than 20 percent for meals and services = 4 points; 65-79.9 percent with no more than 35 percent for meals and services = 3 points; 40-64.9 percent with no more than 60 percent for meals and services = 2 points; less than 40 percent commitment of the total budget with no more than 60 percent support for meals and services = 0 points.

b. (3 points). The extent of local organizations' support, which is firmly committed to providing at least 50 percent of the total cost of ALF conversion (consider 50% or more = 3 points, 20-49.9 percent = 2 points, and under 20 percent = 0 points).

c. (2 points). The extent of local organizational support which is firmly committed to providing funds for additional repair or retrofit necessary for the project NOT specifically directed to activities eligible under this NOFA (funds firmly committed = 2 points, funds not committed = 0 points).

5. Rating Factor 5: Achieving Results and Program Evaluation (10 Points)

This factor reflects HUD's goal to embrace high standards of ethics, management and accountability. This factor emphasizes HUD's commitment to ensure that promises you make in the application are kept; and to ensure performance goals with outcomes are established and are met (refer to Section V.B. of the General Section for more detail). Outcomes may include the extent to which your project will implement practical solutions that will result in assisting residents in achieving independent living and an improved living environment, as well as the extent to which the project will be viable absent HUD funds but rely more on state, local, and private funds. Submit information responding to this factor in accordance with Application Submission Requirements in Section IV.B.3.d., 6.a. through g., and 9.a. through e. of this NOFA. Applicants must complete Form HUD-96010, Program Outcome Logic Model in responding to this Rating Factor.

a. (4 points). Describe the extent to which your conversion time frame reflects the length of time it will take to convert the units describing how residents will benefit from the conversion of the units; and how the converted units will result in ALF residents being able to age in place;

b. (2 points). Describe the extent to which your assisted living facility will implement practical solutions that will result in assisting residents in achieving independent living and improved living environment.

c. (2 points). Demonstrate how the project will be viable absent HUD funds while relying more on state, local, and private funds.

d. (2 points). Describe the extent to which the ALFs operating philosophy promotes the autonomy and independence of the frail elderly persons it is intended to serve (is fully addressed = 2 points, “no” or not addressed = 0 points).

6. Bonus Points (2 bonus points)

The project to be converted is located in an RC/EZ/EC-II area, as described in the General Section.

B. Reviews and Selection Process

1. The ALCP will fund those applications that may impact federal problem solving and policymaking and that are relevant to HUD's policy priorities and annual goals and objectives. (Refer to the General Section for discussion of these priorities and annual goals and objectives). For the Assisted Living Conversion Program, applicants who include work activities that specifically address the policy priorities of removing barriers to affordable housing and promoting energy efficiency in the design and operation of the ALF will receive additional points. For information pertaining to the removal of barriers to affordable housing see www.hud.gov/grants/index.cfm and for information about Energy Star see www.energystar.gov.

2. Review for Curable Deficiencies. You should ensure that your application is complete before submitting it to HUD electronically through the http://www.grants.gov/Apply Website. If you received a waiver of the electronic submission requirement, you must submit an original and four copies to the appropriate HUD Hub Office. Submitting fewer than the original and four copies of the application is not a curable deficiency and will cause your application to be considered non-responsive to the NOFA and returned to you.

HUD will screen all applications received by the deadline for curable deficiencies. With respect to correction of deficient applications, HUD may not, after the application due date and consistent with HUD's regulations in 24 CFR part 4, subpart B, consider any unsolicited information an applicant may want to provide. HUD may contact an applicant to clarify an item in the application or to correct curable deficiencies. Please note, however, that HUD may not seek clarification of items or responses that improve the substantive quality of a response to any rating factors. In order not to unreasonably exclude applications from being rated and ranked, HUD may contact applicants to ensure proper completion of the application and will do so on a uniform basis for all applicants. A curable deficiency is a missing Exhibit or portion of an Exhibit that will not affect the rating of the application. In each case, under this NOFA, the appropriate HUD Multifamily Hub office will notify you in writing by describing the clarification or curable deficiency. You must submit clarifications or responses to curable deficiencies in accordance with the information provided by the Hub office within 14 calendar days of the date of HUD notification. (If the due date falls on a Saturday, Sunday, or federal holiday, your correction must be received by HUD on the next day that is not a Saturday, Sunday, or federal holiday.) If the deficiency is not corrected within this time period, HUD will reject the application as incomplete, and it will not be considered for funding. The following is a list of the deficiencies that will be considered curable in ALCP applications:

Exhibits/Forms

• *Application Summary.

• *Articles of Incorporation, or certification of Articles of Incorporation.

• *By-laws, or certification of by-laws.

• Evidence of occupancy for at least five years.

• Original project plans.

• Relocation Plan.

• Evidence of Permissive Zoning.

• Form SF-424, Application for Federal Assistance.

• Form SF-424 Supplement, Survey for Ensuring Equal Opportunity for Applicants.

• Form HUD-424-CB, Grant Applications Detailed Budget.

• Form HUD-424-CBW, Grant Application Detailed Budget worksheet.

• Form HUD-2880, Applicant/Recipient Disclosure/Update Report.

• Form HUD-2991, Certification of Consistency with the Consolidated Plan.

• Form HUD-2994-A, You Are Our Client Survey, optional.

• Standard Form-LLL, Disclosure of Lobbying Activities, if applicable.

The appropriate Hub office will notify you in writing if your application is missing any of the exhibits listed above and you will be given 14 days from the date of the HUD notification to submit the information required to cure the noted deficiencies. The exhibits identified by an asterisk (*) must be dated on or before the application deadline date. If not so dated the application will be rejected.

After the completeness review, HUD staff will review your application to determine whether the application meets the threshold requirements.

3. Threshold Review. Only those ALCP applications that meet all threshold requirements will be eligible to receive an award. Applications that do not pass threshold will be rejected. (See Section III.C 2. above for threshold requirements).

4. Appeal Process. Upon rejection of an ALCP application, HUD must send a letter to the Owner outlining all reasons for rejection. The Owner has 14 calendar days from the date of the letter to appeal the rejection. If the Owner submits an appeal, which causes the rejection to be overturned, the application is then rated, ranked, and submitted to the selection panel for consideration. If the Owner does not appeal or does appeal but the rejection is not overturned, the application remains a reject.

5. Review Panels. The Office of Housing's Multifamily Hubs will establish panels to review all eligible applications that have passed threshold.

6. Rating of Applications. HUD staff teams will review and rate ALCP applications in accordance with the Ranking and Selection procedures outlined below. All applications will be either rated or technically rejected at the end of technical review. If your application meets all program eligibility requirements after completion of technical review, it will be rated according to the rating selection factors in Section V.A. above of this NOFA. HUD reserves the right to reduce the amount requested in the application if any proposed components are ineligible or if the cost of items is not deemed reasonable. HUD will not reject an ALCP application based on technical review without notifying you of that rejection with all the reasons for the rejection, and providing you an opportunity to appeal. You will have 14 calendar days from the date of HUD's written notice to appeal a technical rejection to the Multifamily Hub where the applications were sent originally. HUD staff will make a determination on an appeal before finalizing selection recommendations.

7. Ranking and Selection Procedures. Applications submitted in response to this NOFA that are eligible, pass threshold and have a total score of 75 points (or more) are eligible for ranking and selection.

a. Hub staff teams will be established for ALCP review in each Hub to do the application ratings.

b. From within rank order, Hub staff teams in each of the 18 Hubs will select the highest ranked applications from within that Hub in rank order, which can be funded from within the dollars available. Each Hub will select applications based on rank order up to and including the last application that can be funded out of each Hub's allocation. Hubs must not skip over any applications in order to select one based on the funds remaining.

c. After making the initial selections, however, Hubs may use any residual funds to select the next rank-ordered application by reducing the dollars requested by no more than 10 percent and reducing the number of units proposed, but in no case reducing the number of units below the financial threshold feasibility of five ALF units.

d. Funds remaining after these processes are completed will be returned to HUD Headquarters. HUD Headquarters will use these funds to restore units to any project reduced as a result of using the residual grant funds in a Hub. Finally, HUD will use these funds for selecting one or more additional applications based on the Hubs rating and rankings, beginning with the highest rated application within the 18 Hubs. Only one application will be selected per Hub from the national residual amount. If there are no approvable applications in other Hubs, the process will begin again with the selection of the next highest rated application within the remaining Hubs. This process will continue until all approvable applications are selected using the available remaining funds. If there is a tie score between two or more applications, and there are insufficient residual funds to cover all tied applications, HUD Headquarters staff will choose the winning application(s) by lottery and/or reduction of grant requests consistent with the instructions above.

VI. Award Administration Information

A. Award Notices

1. The Grant Agreement, and the Form HUD-1044, signed by both the Recipient and Grant Officer, shall serve as the authorizing award documents. Unsuccessful applicants will be notified, by mail, within 30 days of the announcement of the awards.

2. Adjustments to Funding. HUD will not fund any portion of your application that is not eligible for funding under specific program statutory or regulatory requirements; does not meet the requirements of this notice; or may be duplicative of other funded programs or activities. Only the eligible portion of your application will be funded.

3. Applicant Debriefing. All requests for debriefing must be made in writing and submitted to the local Hub in which you applied for assistance. Materials provided to you during your debriefing will include the final scores you received for each rating factor, final evaluator comments for each rating factor, and the final assessment indicating the basis upon which assistance was provided or denied. Information regarding this procedure may be found in the General Section.

B. Administrative and National Policy Requirements

See Section III.C. of this NOFA and the General Section.

C. Reporting

Recipients of funding under this program NOFA shall submit a progress report every six months after the effective date of the Grant Agreement. Every six months owners must report their progress in attaining the goals and objectives they proposed in their ALCP Logic Model that was included in their application. For FY2006, HUD is considering a new concept for the Logic Model. The new concept is a Return on Investment (ROI) statement. HUD will be publishing a separate notice on the ROI concept.

VII. Agency Contacts

A. For Further Information and Technical Assistance

You should contact the HUD Multifamily Hub where you will be mailing your ALCP Application. For a list of HUD Multifamily Hub Offices, see HUD's Web site at http://www.hud.gov/offices/adm/grants/fundsavail.cfm.

You also may contact Faye Norman, Housing Project Manager at (202) 708-3000, extension 2482 or Aretha Williams, Director, Grant Policy and Management Division, Room 6138 at (202) 708-3000, extension 2480 for questions regarding the ALF grant award process. These are not toll-free numbers. Ms. Norman can be reached by e-mail at Faye_ L._ Norman@hud.gov and Ms. Williams at Aretha_M._Williams@hud.gov. If you have a hearing or speech impairment, you may access the telephone number via TTY by calling the Federal Information Relay Service at 800-877-8339.

VIII. Other Information

A. Paperwork Reduction Act

The information collection requirements contained in this document have been approved by the Office of Management and Budget (OMB) under the Paperwork Reduction Act of 1995 (4 U.S.C. 3501-3520) and assigned OMB control number 2502-0542. In accordance with the Paperwork Reduction Act, HUD may not conduct or sponsor, and a person is not required to respond to, a collection of information unless the collection displays a currently valid OMB control number. Public reporting burden for the collection of information is estimated to average 2,550 hours per annum per respondent for the application and grant administration. This includes the time for collecting, reviewing, and reporting data for the application, semi-annual reports, and final report. The information will be used for grantee selection and monitoring the administration of funds. Response to this request for information is required in order to receive the benefits to be derived.

B. Appendix

Appendix 1 provides a list of HUD Multifamily Hub Offices. Appendix 1 may be found at HUD's Web site at http://www.hud.gov/offices/adm/grants/fundsavail.cfm.

BILLING CODE 4210-01-P

Service Coordinators in Multifamily Housing

Overview Information

A. Federal Agency Name: Department of Housing and Urban Development, Office of the Assistant Secretary for Housing-Federal Housing Commissioner.

B. Funding Opportunity Title: Service Coordinators In Multifamily Housing

C. Announcement Type: Initial announcement.

D. Funding Opportunity Number: The Federal Register number is FR-5030-N-26. The OMB approval number is 2502-0447.

E. Catalog of Federal Domestic Assistance (CFDA) Number: 14.191, Multifamily Housing Service Coordinators.

F. Dates: The application submission date is June 16, 2006. (All applications must be submitted and received by http://www.grants.gov no later than 11:59:59 p.m. Eastern Time on the application submission date. See submission details in the General Section.)

G. Optional, Additional Overview Information:

1. Available Funds. Approximately $51.6 million in fiscal year 2006 funds are available for the Service Coordinator program. Of these funds, approximately $10 million are available in this NOFA for funding new Service Coordinator programs.

2. Purpose of the program: The Service Coordinator program allows multifamily housing owners to assist elderly individuals and nonelderly people with disabilities living in HUD-assisted housing and in the surrounding area to obtain needed supportive services from the community, to enable them to continue living as independently as possible in their homes.

3. Eligible Applicants: Only owners of eligible multifamily assisted developments may apply.

Full Text of Announcement

I. Funding Opportunity Description

A. The Service Coordinator Program

The Service Coordinator Program provides funding for the employment and support of Service Coordinators in insured and assisted housing developments that were designed for the elderly or nonelderly persons with disabilities and continue to operate as such. Service Coordinators help residents obtain supportive services from the community that are needed to enable independent living and aging in place.

A Service Coordinator is a social service staff person hired or contracted by the development's owner or management company. The Service Coordinator is responsible for assuring that elderly residents, especially those who are frail or at risk, and those non-elderly residents with disabilities are linked to the supportive services they need to continue living independently in their current homes. All services should meet the specific desires and needs of the residents themselves. The Service Coordinator may not require any elderly individual or person with a disability to accept any specific supportive service(s).

You may want to review the Management Agent Handbook 4381.5 REVISION-2, CHANGE-2, Chapter 8 for further guidance on service coordinators. This Handbook is accessible through HUDCLIPS on HUD's Web site at http://www.hudclips.org. The Handbook is in the Handbooks and Notices—Housing Notices database. Enter the Handbook number in the “Document Number” field to retrieve the Handbook.

B. Authority

Section 808 of the Cranston-Gonzalez National Affordable Housing Act (Pub. L. 101-625, approved November 28, 1990), as amended by sections 671, 674, 676, and 677 of the Housing and Community Development Act of 1992 (Pub. L. 102-550, approved October 28, 1992), and section 851 of the American Homeownership and Economic Opportunity Act of 2000 (Pub. L. 106-569, approved December 27, 2000).

C. Definition of Terms Used in this Program NOFA

1. “Activities of daily living (ADLs)” means eating, dressing, bathing, grooming, and household management activities, as further described below:

a. Eating—May need assistance with cooking, preparing, or serving food, but must be able to feed self;

b. Bathing—May need assistance in getting in and out of the shower or tub, but must be able to wash self;

c. Grooming—May need assistance in washing hair, but must be able to take care of personal appearance;

d. Dressing—Must be able to dress self, but may need occasional assistance; and

e. Home management activities—May need assistance in doing housework, grocery shopping, laundry, or getting to and from activities such as going to the doctor and shopping, but must be mobile. The mobility requirement does not exclude persons in wheelchairs or those requiring mobility devices.

2. “At-risk elderly person” is an individual 62 years of age or older who is unable to perform one or two ADLs, as defined in the above paragraph.

3. “Frail elderly person” means an individual 62 years of age or older who is unable to perform at least three ADLs as defined in the above paragraph.

4. “People with disabilities” means those individuals who:

a. Have a disability as defined in Section 223 of the Social Security Act;

b. Have a physical, mental, or emotional impairment expected to be of long, continued, and indefinite duration that substantially impedes the individual's ability to live independently; or

c. Have a developmental disability as defined in Section 102 of the Developmental Disabilities Assistance and Bill of Rights Act of 2000, (42 U.S.C. Section 15002).

5. “Reasonable costs” mean that costs are consistent with salaries and administrative costs of similar programs in your Field office's jurisdiction.

D. Basic Qualifications of Service Coordinators and Aides

1. Service Coordinator qualifications include the following:

a. A Bachelor of Social Work or degree in Gerontology, Psychology or Counseling is preferable; a college degree is fully acceptable. You may also consider individuals who do not have a college degree, but who have appropriate work experience.

b. Knowledge of the aging process, elder services, disability services, eligibility for and procedures of federal and applicable state entitlement programs, legal liability issues relating to providing Service Coordination, drug and alcohol use and abuse by the elderly, and mental health issues.

c. Two to three years experience in social service delivery with senior citizens and/or people with disabilities. Some supervisory or management experience may be desirable if the Service Coordinator will work with aides.

d. Demonstrated working knowledge of supportive services and other resources for senior citizens and/or non-elderly people with disabilities available in the local area.

e. Demonstrated ability to advocate, organize, problem-solve, and provide results for the elderly and people with disabilities.

2. Aides working with a Service Coordinator should have appropriate education or experience in working with the elderly and/or people with disabilities. An example of an aide position could be an internship or work-study program with local colleges and universities to assist in carrying out some of the Service Coordinator's functions.

II. Award Information

A. Available Funding. The Consolidated Appropriations Act, 2006 (Pub. L. 109-115, approved November 30, 2005) provides approximately $51.6 million to fund Service Coordinators and the continuation of existing Congregate Housing Services Program (CHSP) grants. (The $51.6 million appropriation is subject to a 1 percent across-the-board rescission pursuant to Public Law 109-148.) Approximately $10 million of the available $51.6 million will be used to fund new Service Coordinator programs. The remaining amount of $51,084,000 will be used to fund one-year extensions to expiring Service Coordinator and CHSP grants.

B. Maximum Grant Award. There is no maximum grant amount. The grant amount you request will be based on the Service Coordinator's salary and the number of hours worked each week by that Service Coordinator (and/or aide). You should base your determination of the appropriate number of weekly work hours on the number of people in the development who are frail or at-risk elderly or non-elderly people with disabilities. Under normal circumstances, a full-time Service Coordinator should be able to serve about 50-60 frail or at-risk elderly or non-elderly people with disabilities on a continuing basis. Your proposed salary must also be supported by evidence of comparable salaries in your area. Gather data from programs near you to compare your estimates with the salaries and administrative costs of currently operating programs. HUD Field staff can provide you with contacts at local program sites.

C. HUD provides funding in the form of three-year grants. HUD may renew grants subject to the availability of funds and the grantee's acceptable performance and compliance with program requirements. HUD will determine performance based on the information given in the grantee's semi-annual performance reports, financial status reports, and Logic Model forms.

III. Eligibility Information

A. Eligible Applicants

1. You must meet all of the applicable threshold requirements of Section III.C of the General Section.

2. You must be an owner of a development assisted under one of the following programs:

a. Section 202 Direct Loan;

b. Project-based Section 8 (including Section 8 Moderate Rehabilitation), or

c. Section 221(d)(3) below-market interest rate, and 236 developments that are insured or assisted.

3. Additionally, developments listed in paragraph III.A.2, above, are eligible only if they meet the following criteria:

a. Have frail or at-risk elderly residents and/or non-elderly residents with disabilities who together total at least 25 percent of the building's residents. (For example, in a 52-unit development, at least 13 residents must be frail, at-risk, or non-elderly people with disabilities.)

b. Were designed for the elderly or persons with disabilities and continue to operate as such. This includes any building within a mixed-use development that was designed for occupancy by elderly persons or persons with disabilities at its inception and continues to operate as such, or consistent with title VI, subtitle D of the Housing and Community Development Act of 1992 (Pub. L. 102-550). If not so designed, a development in which the owner gives preferences in tenant selection (with HUD approval) to eligible elderly persons or nonelderly persons with disabilities, for all units in that development.

c. If FHA insured or financed with a Section 202 Direct Loan, are current in mortgage payments or are current under a workout agreement.

d. Meet HUD's Uniform Physical Conditions Standards (codified in 24 CFR part 5, subpart G), based on the most recent physical inspection report and responses thereto, as evidenced by a score of 60 or better on the last physical inspection or by an approved plan for developments scoring less than 60.

e. Are in compliance with their regulatory agreement, Housing Assistance Payment (HAP) Contract, and any other outstanding HUD grant or contract document.

f. Have no available project funds (i.e., Section 8 operating funds, residual receipts, or excess income) that could pay for a Service Coordinator program. (“Available funds” are those that require HUD approval for their use and are not needed to meet critical project needs.) Field office staff will make this determination based on financial records maintained by the Department and information provided by the applicant in the grant application.

g. You may use funds to continue a Service Coordinator program that has previously been funded through other sources. To be deemed eligible, you must provide evidence that these resources have already ended or will discontinue within six months following the application deadline date and that no other funding mechanism is available to continue the program. (This applies only to funding sources other than the subsidy awards and grants provided by the Department through program Notices beginning in FY 1992. HUD currently provides one-year extensions to these subsidy awards and grants through a separate funding action.)

4. If your eligibility status changes during the course of the grant term, making you ineligible to receive a grant (e.g., due to prepayment of mortgage, sale of property, or opting out of a Section 8 HAP contract), HUD has the right to terminate your grant.

5. Ineligible Applicants and Developments.

a. Property management companies, area agencies on aging, and other like organizations are not eligible applicants for Service Coordinator funds.

b. Developments not designed for the elderly, nonelderly people with disabilities, or those no longer operating as such;

c. Section 221(d)(4) and Section 515 developments without project-based Section 8 assistance;

d. Section 202 and 811 developments with a Project Rental Assistance Contract (PRAC). Owners of Section 202 PRAC developments may obtain funding by requesting an increase in their PRAC payment consistent with Handbook 4381.5 REVISION-2, CHANGE-2, Chapter 8;

e. Conventional public housing, as such term is defined in section 3(b) of the United States Housing Act of 1937), and units assisted by project-based Housing Choice Vouchers, as set forth in 24 CFR Part 983.

f. Renewals of existing Section 8 Service Coordinator subsidy awards or grants. HUD currently provides one-year extensions to these subsidy awards and grants through a separate funding action.

B. Cost Sharing or Matching Requirement

None required.

C. Other

1. Eligible Activities. The functions of a Service Coordinator position are considered the program's eligible activities. The major functions of the Service Coordinator include the following:

a. Refer and link the residents of the development to supportive services provided by the general community. Such services may include case management, personal assistance, homemaker, meals-on-wheels, transportation, counseling, occasional visiting nurse, preventive health screening/wellness, and legal advocacy.

b. Educate residents on service availability, application procedures, client rights, etc.

c. Establish linkages with agencies and service providers in the community. Shop around to determine/develop the best “deals” in service pricing, to assure individualized, flexible, and creative services for the involved resident. Provide advocacy as appropriate.

d. Provide case management when such service is not available through the general community. This might include evaluation of health, psychological and social needs, development of an individually tailored case plan for services, and periodic reassessment of the resident's situation and needs. Service Coordinators can also set up a Professional Assessment Committee (PAC) to assist in performing initial resident assessments. (See the guidance in the Congregate Housing Services Program (CHSP) regulations at 24 CFR 700.135 (or 1944.258 for Rural Housing developments).)

e. Monitor the ongoing provision of services from community agencies and keep the case management and provider agency current with the progress of the individual. Manage the provision of supportive services where appropriate.

f. Help the residents build informal support networks with other residents, family and friends.

g. Work and consult with tenant organizations and resident management corporations. Provide training to the development's residents in the obligations of tenancy or coordinate such training.

h. Create a directory of providers for use by both development staff and residents.

i. Educate other staff of the management team on issues related to aging in place and Service Coordination, to help them to better work with and assist the residents.

j. Provide service coordination to low-income elderly individuals or nonelderly people with disabilities living in the vicinity of an eligible development. Community residents should come to your housing development to meet with and receive service from the Service Coordinator, but you must make reasonable accommodations for those individuals unable to travel to the housing site.

2. Eligible Program Costs. a. Service Coordinator Program grant funds may be used to pay for the salary, fringe benefits, and related support costs of employing a service coordinator. Support costs may include quality assurance, training, travel, creation of office space, purchase of office furniture, equipment, and supplies, computer hardware, software, and Internet service, and indirect administrative costs.

b. You may use grant funds to pay for Quality Assurance (QA) in an amount that does not exceed ten percent of the Service Coordinator's salary. Eligible QA activities are those that evaluate your program to assure that the position and program are effectively implemented. A qualified, objective third party must perform the program evaluation work and must have work experience and education in social or health care services. Your QA activities must identify short and long term program outcomes and performance indicators that will help you measure your performance. On-site housing management staff cannot perform QA and you may not augment current salaries of in-house staff for this purpose.

c. You may propose reasonable costs associated with setting up a confidential office space for the Service Coordinator. Such expenses must be one-time only start-up costs. Such costs may involve acquisition, leasing, rehabilitation, or conversion of space. The office space must be accessible to people with disabilities and meet the Uniform Federal Accessibility Standards (UFAS) requirements of accessibility. HUD field office staff must approve both the proposed costs and activity and must perform an environmental assessment on such proposed work prior to grant award.

d. Only ALCP applicants may use funds to augment a current Service Coordinator program, by increasing the hours of a currently employed Service Coordinator, or hiring an additional Service Coordinator or aide on a part- or full-time basis. The additional hours and/or staff must work only with ALCP residents.

2. Threshold Requirements. a. At the time of submission, grant applications must contain the materials in Section IV.B.2.a and c of this NOFA in order to be considered for funding. If any of these items are missing, HUD will immediately reject your application.

b. In cases where field office staff request information in response to technical deficiencies in applications, applicants must submit the response by the designated deadline date. If requested responses are not received by this date, HUD will reject the application.

c. DUN and Bradstreet Universal Numbering System (DUNS) Number Requirement. Refer to the General Section for information regarding the DUNS requirement. You will need to obtain a DUNS number to receive an award from HUD.

3. Program Requirements. In managing your Service Coordinator grant, you must meet the requirements of this Section. These requirements apply to all activities, programs, and functions used to plan, budget, and evaluate the work funded under your program.

a. You must make sufficient separate and private office space available for the Service Coordinator and/or aides to meet with residents, without adversely affecting normal activities.

b. The Service Coordinator must maintain resident files in a secured location. Files must be accessible ONLY to the Service Coordinator, unless residents provide signed consent otherwise. These policies must be consistent with maintaining confidentiality of information related to any individual per the Privacy Act of 1974.

c. Grantees must ensure that the Service Coordinator receives appropriate supervision, training, and ongoing continuing education, consistent with statutory and HUD administrative requirements. This includes 36 hours of training in age-related and disability issues during the first year of employment, if the Service Coordinator has not received recent training in these areas, and 12 hours of continuing education each year thereafter.

d. Grantees are responsible for any budget shortfalls during the three-year grant term.

e. As a condition of receiving a grant, Section 202 developments without a dedicated residual receipts account must amend their regulatory agreement and open such an account, separate from their Reserve for Replacement account.

f. Subgrants and Subcontracts. You may directly hire a Service Coordinator or you may contract with a qualified third party to provide this service.

g. Environmental Requirements. It is anticipated that most activities under this program are categorically excluded from the National Environmental Policy Act (NEPA) and related environmental authorities under 24 CFR 50.19(b)(3), (4), (12), or (13). If grant funds will be used to cover the cost of any activities which are not exempt from environmental review requirements—such as acquisition, leasing, construction, or building rehabilitation, HUD must perform an environmental review to the extent required by 24 CFR part 50, prior to grant award. HUD Field office staff will determine the need for an environmental assessment, based on the proposed program activities.

IV. Application and Submission Information

A. Obtaining Grant Application Packages. Applicants may download the Instructions to the application found on the grants.gov Web site at http://www.Grants.gov/Apply. The instructions contain the General Section and Program Section of the published NOFA as well as forms that you must complete and attach as a zip file to your application submission. If you have difficulty accessing the information, you may call the Grants.gov Support desk toll free at 800-518-GRANTS or e-mail your questions to Support@Grants.gov. The Support Desk staff will assist you in accessing the information.

B. Content and Form of Application Submission. Your application must contain the items listed in paragraphs 1 and 2, below. These items include the standard forms listed in Section IV.B of the General Section that are applicable to this funding Notice (collectively referred to as the “standard forms”). The standard forms and other required forms are part of the electronic application found at http://www.grants.gov/Apply. The items are as follows:

1. Standard Forms. a. Application for Federal Assistance (SF-424)

b. SF-424 Supplement—Survey on Ensuring Equal Opportunity for Applicants.

c. If engaged in lobbying, the Disclosure Form Regarding Lobbying (SF-LLL).

d. Applicant/Recipient Disclosure/Update Report Form (HUD-2880).

e. Logic Model, (HUD-96010). This year HUD is providing on its Web site, at http://www.hud.gov/offices/adm/grants/fundsavail.cfm, a Master Logic model from which applicants may select the items in each column that reflect their anticipated activity outputs and outcomes and copy and paste them into the appropriate column in the Logic Model form. You must select the outputs from the master output listing that reflect your proposed program and enter the information into the output column of the form. Likewise, you must enter the appropriate outcomes in the outcome column from the output list provided. The Master Logic Model listing also identifies the unit of measure that HUD is interested in collecting for the outputs and outcomes selected. In making the selections, you must identify the appropriate predicted number of units of measure to be accomplished for each out put and outcome. Use the space next to the output and outcome to identify the anticipated units of measure. You may select multiple outputs and outcomes. See HUD's Web site for the Master Logic Model for the Service Coordinator program.

f. Acknowledgment of Application Receipt (HUD-2993), for applicants submitting paper applications only.

g. You Are Our Client Grant Applicant Survey (HUD 2994-A), optional.

h. Facsimile Transmittal Cover Page (HUD-96011), (if applicable). This form must be used as part of the electronic application to transmit third party documents and other information as described in the General Section.

2. Other Application Items. All applications for funding under the Service Coordinator Program must include the following documents and information:

a. Service Coordinator First-Time Funding Request, form HUD-91186.

b. Evidence of comparable salaries in your local area.

c. Narrative Statements Describing Your Program.

(1) Explain your method of estimating how many residents of your development are frail or at-risk elderly or non-elderly people with disabilities. Please document that individuals meeting these criteria make up at least 25 percent of your resident population. (Do not include elderly individuals or people with disabilities who do not live in the eligible developments included in your application.)

(2) Explain how you will provide on-site private office space for the Service Coordinator, to allow for confidential meetings with residents. If construction is planned, also include a plan and a cost-estimate.

(3) Your quality assurance program evaluation activities and itemized list of estimated expenses for this activity if included in your request for funding. Indicate the type of professional or entity that will perform the work if known at this time or the criteria you will use to select the provider.

(4) A description of your plan to address community resident needs, if applicable to your program.

(5) If you are applying for an ALCP grant in conjunction with your Service Coordinator application, describe how the new or additional Service Coordinator hours will support your proposed assisted living program.

Indicate if you want your Service Coordinator application entered into the lottery if your ALCP application is not selected to receive an award. In this instance, your SC application will be eligible only if the concerned housing development currently has no SC program.

d. Evidence that no project funds are available to fund a Service Coordinator program. You must include a copy of your development's most recent bank statement (or the equivalent thereof), showing the project's current residual receipts or excess income balance (if any). It is incumbent upon the applicant to demonstrate that no such project funds are available.

e. If applicable, provide evidence that prior funding sources for your development's Service Coordinator program are no longer available or will expire within six months following the application deadline date.

f. Agents may prepare applications and sign application documents if they provide authorization from the owner corporation as part of the application. In such cases, the owner corporation must be indicated on all forms and documents as the funding recipient.

(1) If an agent is preparing an electronic application for an owner, the owner must authorize the agent as the Authorized Organization Representative (AOR) in the Grants.gov Registration process. HUD will recognize this authority if the DUNS number included in the application belongs to the owner corporation and the name of the agent is listed as the AOR. Refer to Section IV.F. of the General Section for more detailed registration information.

(2) If you are applying in paper copy format, you must provide a letter from the owner authorizing the submission by the agent on their behalf.

3. Single and Joint Applications. a. Single Applications.

(1) You may submit one application that contains one or more developments that your corporation owns. Submitting one application for each project you own will increase your chances of selection in the lottery. You may also submit one application that contains multiple projects you own, to reduce preparation time and resources.

Each application must propose a stand-alone program at separate developments. The developments must all be located in the same field office jurisdiction.

(2) If you wish to apply on behalf of developments located in different field office jurisdictions, you must submit a separate application to each field office.

b. Joint Applications. You may join with one or more other eligible owners to share a Service Coordinator and submit a joint application. Small developments often join together to hire and share a part or full-time Service Coordinator and submit a joint application. If more than one owner is proposing to share a Service Coordinator, one agency must designate itself the “lead”. When the legal signatory for the owner corporation signs the application, the owner indicates agreement to administer grant funds for all the housing developments listed in the application.

4. Application Submission Requirements for ALCP Applicants. (1) If you are an ALCP applicant and you request new or additional Service Coordinator funds specifically for your proposed Assisted Living Program, you must submit an application containing all required documents listed in Section IV.B of this NOFA. You may include a copy of all standard forms submitted as part of your ALCP application.

(2) If you currently do not have a Service Coordinator working at the development proposed in your ALCP application and your ALCP application is selected to receive an award, HUD will fund a Service Coordinator to serve either ALCP residents only or all residents of the development dependent upon your request. If your development currently has a Service Coordinator, you may request additional hours for the Service Coordinator to serve the Assisted Living residents only. If you request additional hours, you must specify the number of additional hours per week and provide an explanation based on the anticipated needs of the Assisted Living residents. If you request Service Coordinator funding to serve all residents of your development, indicate whether or not your request should be entered into the national lottery if your ALCP application is not selected to receive an award. Provide this information in your related narrative, pursuant to paragraph IV.B.2.c(6) of this NOFA.

C. Submission Dates and Times. The application submission date is June 16, 2006. (All applications must be submitted and received by http://www.grants.gov no later than 11:59:59 p.m. Eastern Time on the application submission date. See submission details in the General Section.)

D. Intergovernmental Review: Not applicable to this program.

E. Funding Restrictions. 1. Alternative Funding for Service Coordinators. If your development has available Section 8 operating funds, residual receipts, or excess income (i.e. “project funds”), not needed for critical project expenses, you must use these project funds prior to receiving grant monies. Owners may submit requests to use Section 8 operating funds, residual receipts, or excess income pursuant to instructions in Housing's Management Agent Handbook 4381.5, REVISION-2, CHANGE-2, Chapter 8 and Housing Notice H 02-14. HUD field staff may approve use of these project funds at any time, consistent with current policy. You should discuss the use of project funds with your field office staff prior to submitting a grant application.

2. Ineligible Activities and Program Costs.

a. You may not use funds available through this NOFA to replace currently available funding from other sources for a Service Coordinator or for some other staff person who performs service coordinator functions.

b. Owners with existing service coordinator subsidy awards or grants may not apply for renewal or extension of those programs under this NOFA. HUD will provide extension funds through a separate funding process.

c. Non-ALCP applicants may not use funds to augment a current Service Coordinator program, by increasing the hours of a currently employed Service Coordinator, or hiring an additional Service Coordinator or aide on a part- or full-time basis. HUD will award grants only to eligible projects that do not currently have (or are served by) an SC program, regardless of the funding source used to operate the program.

d. Grant recipients may not use grant funds to pay for supervision performed by property management staff. (Management fees already pay for such supervision.)

e. Cost overruns associated with creating private office space and usual audit and legal fees are not eligible uses of grant funds.

f. The cost of application preparation is not eligible for reimbursement.

g. Grant funds cannot be used to increase a project's management fee.

h. Grant funds may not cover the cost of Service Coordinator-related training courses for members of a development's management staff who do not directly provide Service Coordination. Owners must use their management fees to pay this expense.

i. Owners/managers cannot use Reserve for Replacement funds to pay costs associated with a Service Coordinator program.

j. Congregate Housing Services Program grantees may not use these funds to meet statutory program match requirements and may not use these funds to replace current CHSP program funds to continue the employment of a service coordinator.

k. Grantees cannot use grant funds to pay PAC members for their services.

l. The grant amount allowed for QA may not exceed ten percent of the Service Coordinator's salary.

3. Prohibited Service Coordinator Functions. Service Coordinators may not perform the following activities:

a. Act as a recreational or activities director;

b. Provide supportive services directly;

c. Act as a Neighborhood Networks program director or coordinator, and

d. Perform property management work, regardless of the funding source used to pay for these activities.

F. Other Submission Requirements: 1. Application Submission and Receipt Procedures. Carefully review the procedures presented in Section IV.F of the General Section. All applicants submitting Service Coordinator applications must submit applications electronically.

2. Waiver of Electronic Submission Requirement. Please see the General Section for detailed instructions and timelines for requesting a waiver of the mandatory electronic submission requirement.

3. Application Copies. Applicants submitting electronic applications must submit just one application to http://www.grants.gov. Applicants who receive a waiver for electronic submission must submit an original and two copies to the field office with jurisdiction over the housing developments included in your application. If you send your application to the wrong local HUD Office, it will be rejected. Therefore, if you are uncertain as to which local HUD Office to submit your application, you are encouraged to contact the local HUD Office that is closest to your development's location to ensure that you submit your application to the correct local HUD Office.

4. Field Office Addresses. For a list of field office addresses, see HUD's Web site at http://www.hud.gov/local/index.cfm.

V. Application Review Information

A. Criteria

1. HUD will not award Service Coordinator Program grant funds through a rating and ranking process. Instead, the Department will hold one national lottery for all applications determined to be eligible by Multifamily Hub and Multifamily Program Centers.

2. Threshold Eligibility Review. HUD Multifamily field office staff will review applications for completeness and compliance with the eligibility criteria set forth in Section III of this NOFA. Field office staff will deem an application eligible if the electronic application was submitted and received by http://www.Grants.gov no later than 11:59:59 PM on June 16, 2006. Paper applications will be considered eligible if they are received by the field office on or before the deadline date and meet the application timely receipt requirements for paper copy submission in the General Section. To be eligible for the lottery, in addition to meeting the timely submission requirement, an applicant must meet all eligibility criteria; propose reasonable costs for eligible activities, and, if technical corrections are requested during the review process, provide the technical correction(s) by the timeframe stated in the request.

B. Review and Selection Process

1. Funding Priorities

a. Prior to the lottery, HUD will fund Service Coordinator applications submitted by FY2006 ALCP applicants, whose ALCP applications are selected for funding under that program's NOFA. HUD estimates that approximately $1 million will be used to fund ALCP Service Coordinator applications. Any funds not used by the ALCP program to fund service coordinators will be added to the funds available for the National Lottery.

b. After setting aside funds for ALCP applicants, and prior to the lottery, HUD will next fund all applications submitted by owners who are applying for grant funds to continue a currently operating program previously funded through project funds. As stated in paragraph III.A.4.f of this NOFA, such applications are eligible only if project funds are no longer available to continue the program.

2. Selection Process

a. HUD will use remaining funds to make grant awards through the use of a national lottery. A computer program performs the lottery by randomly selecting eligible applications.

b. HUD will fully fund as many applications as possible with the given amount of funds available. After all fully fundable applications have been selected by lottery, HUD may make an offer to partially fund the next application on the lottery's list, in order to use the entire amount of funds allocated. If the applicant selected for partial funding turns down the offer, HUD will make an offer to partially fund the next application on the lottery list. HUD will continue this process until an applicant accepts the partial funding offer.

3. Reduction in Requested Grant Amount. HUD may make an award in an amount less than requested, if:

a. HUD determines that some elements of your proposed program are ineligible for funding;

b. There are insufficient funds available to make an offer to fully fund the application;

c. HUD determines that reduced grant amount would prevent duplicative federal funding.

4. Corrections to Deficient Applications. Section V.B. of the General Section provides the procedures for corrections to deficient applications.

VI. Award Administration Information

A. Award Notices. HUD field staff will send, by postal or overnight mail, selection letters and grant agreements to the award recipient organization. The grant agreement is the obligating document and funds are obligated once the HUD grant officer signs the agreement. Field staff will send non-selection letters during this same period of time. If your application is rejected, field staff may notify you by letter any time during the application review process.

B. Administrative and National Policy Requirements. None.

C. Reporting. All award recipients must submit the following reports on a yearly basis:

1. Two Semi-Annual Financial Status Reports (SF-269-A), for each half-year period of the federal fiscal year;

2. Two Semi-Annual Service Coordinator Performance Reports, (HUD-92456), for each half-year period of the federal fiscal year;

3. Two completed Logic Model forms, HUD-96010, submitted as an attachment to each Semi-Annual Performance Report. The Logic Model must present performance information on a short term basis, corresponding to each six-month reporting period; on an intermediate basis, i.e. annually, and in the long-term, reporting results for the entire grant term showing progress related to program outputs and outcomes as specified in your approved Logic Model incorporated into your grant agreement. The objectives of the Service Coordinator program are to enhance a resident's quality of life and ability to live independently and to age in place. The data that HUD collects on the performance report and Logic Model measures, in a quantitative form, the grantee's success in meeting these intended program outcomes.

4. Periodic reimbursement requests (i.e., Payment Voucher, form HUD-50080-SCMF), providing program expenses for the associated time period, and submitted in accordance with the due dates stated in the grant agreement. Grantees must request grant payments directly following the end of each agreed-upon time period and the funds must reimburse those program costs already incurred.

5. If your grant includes Quality Assurance activities, you must provide a copy of at least one annual report that your QA provider submits to you each year. You must submit this copy along with the semi-annual reports that are due on October 30 of each year. The QA provider's report that you submit to HUD must include the following information: Who performed the QA work, when the review(s) was conducted, and the results of the evaluation. The results should include such information as how many residents were served, the types of services they receive, the training sessions attended by the Service Coordinator, and the extent of resident satisfaction with the program. HUD will use this report, in tandem with other reports and performance data, to determine a grantee's acceptable program performance.

VII. Agency Contacts

You may contact your local HUD field office staff for questions you have regarding this NOFA and your application. Please contact the Multifamily Housing Service Coordinator contact person in your local office. If you are an owner of a Section 515 development, contact the HUD field office that monitors your Section 8 contract. If you have a question that the field staff is unable to answer, please call Carissa Janis, Housing Project Manager; Office of Housing Assistance and Grants Administration; Department of Housing and Urban Development; 451 Seventh Street, SW., Room 6146; Washington, DC 20410-8000; (202) 708-3000, extension 2487 (this is not a toll-free number). If you are hearing- or speech-impaired, you may access this number via TTY by calling the Federal Information Relay Service at 800-877-8339.

VIII. Other Information

A. Satellite Broadcast. HUD will hold an information program for potential applicants via satellite broadcast to learn more about the program and preparation of the application. For more information about the date and time of the broadcast, you should contact your local field office staff or consult the HUD Web site at http://www.hud.gov.

B. Paperwork Reduction Act. The information collection requirements contained in this document have been approved by the Office of Management and Budget (OMB) under the Paperwork Reduction Act of 1995 (44 U.S.C. 3501-3520) and assigned OMB control number 2502-0477. In accordance with the Paperwork Reduction Act, HUD may not conduct or sponsor, and a person is not required to respond to, a collection of information unless the collection displays a currently valid OMB control number. Public reporting burden for the collection of information is estimated to average 50.25 hours per annum per respondent for the application and grant administration. This includes the time for collecting, reviewing, and reporting the data for the application, semi-annual reports and final report. The information will be used for grantee selection and monitoring the administration of funds. Response to this request for information is required in order to receive the benefits to be derived.

BILLING CODE 4210-01-P

Section 202 Supportive Housing for the Elderly Program (Section 202 Program)

Overview Information

A. Federal Agency Name: Department of Housing and Urban Development, Office of Housing

B. Funding Opportunity Title: Section 202 Supportive Housing for the Elderly

C. Announcement Type: Initial announcement.

D. Funding Opportunity Number: The Federal Register number is FR-5030-N-22. The OMB Approval Number is 2502-0267.

E. Catalog of Federal Domestic Assistance (CFDA) Number(s): 14.157, Section 202 Supportive Housing for the Elderly.

F. Dates: The application deadline date is on or before June 2, 2006. Refer to Section IV of this NOFA and to the General Section for information on electronic application submission and receipt requirements.

G. Optional, Additional Overview Content Information:

1. Purpose of the Program. This program provides funding for the development and operation of supportive housing for very low-income persons 62 years of age or older.

2. Available Funds. Approximately $443.2 mllion in capital advance funds, plus associated project rental assistance contract (PRAC) funds and any carryover funds available.

3. Types of Funds. Capital advance funds will cover the cost of developing the housing. PRAC funds will cover the difference between the HUD-approved operating costs of the project and the tenants' contributions toward rent (30 percent of their adjusted monthly income).

4. Eligible Applicants. Private nonprofit organizations and nonprofit consumer cooperatives. (See Section III.C.3.k of this NOFA for further details and information regarding the formation of the Owner corporation).

5. Eligible Activities. New construction, rehabilitation, or acquisition (with or without rehabilitation) of housing. (See Section III.C.1. below of this NOFA for further information.

6. Match Requirements. None required.

7. Local HUD Offices. The local HUD office structure, for the purpose of implementing the Section 202 program, consists of 18 Multifamily Hub Offices. Within the Multifamily Hubs, there are Multifamily Program Centers with the exception of the New York Hub, the Buffalo Hub, the Denver Hub and the Los Angeles Hub. All future references shall use the term “local HUD office” unless a more detailed description is necessary as in Limitations on Applications and Ranking and Selection Procedures, below.

Full Text of Announcement

I. Funding Opportunity Description

A. Program Description. HUD provides capital advances and contracts for project rental assistance in accordance with 24 CFR part 891. Capital advances may be used for the construction or rehabilitation of a structure, or acquisition of a structure with or without rehabilitation (including structures from the Federal Deposit Insurance Corporation (FDIC)). Capital advance funds bear no interest and are based on development cost limits in Section IV.E.3. Repayment of the capital advance is not required as long as the housing remains available for occupancy by very low-income elderly persons for at least 40 years.

PRAC funds are used to cover the difference between the tenants' contributions toward rent (30 percent of adjusted income) and the HUD-approved cost to operate the project. PRAC funds may also be used to provide supportive services and to hire a service coordinator in those projects serving frail elderly residents. The supportive services must be appropriate to the category or categories of frail elderly residents to be served.

B. Authority. The Section 202 Supportive Housing for the Elderly Program is authorized by section 202 of the Housing Act of 1959 (12 U.S.C. 1701q), as amended by section 801 of the Cranston-Gonzalez National Affordable Housing Act (Pub. L. 101-625; approved November 28, 1990); the Housing and Community Development Act of 1992 (Pub. L. 102-550; approved October 28, 1992); the Rescissions Act (Pub. L. 104-19; enacted on July 27, 1995); the American Homeownership and Economic Opportunity Act of 2000 (Pub. L. 106-569; approved December 27, 2000); the Department of Housing and Urban Development Appropriations Act, 2006 (Pub. L. 109-115; approved November 30, 2005); and the government-wide rescissions pursuant to the Department of Defense Appropriations Act, 2006 (Pub. L. 109-148; approved December 30, 2005).

C. Calculation of Fund Reservation. If selected, you will receive a fund reservation that will consist of both a reservation of capital advance funds and a reservation of three years for project rental assistance.

1. Capital Advance Funds. The reservation of capital advance funds is based on a formula which takes the development cost limit for the appropriate building type (elevator, non-elevator) and unit size(s) and multiplies it by the number of units of each size (including a unit for a resident manager, if applicable) and then multiplies the result by the high cost factor for the area. The development cost limits can be found in Section IV.E.3. of this NOFA.

2. PRAC Funds. The initial PRAC award covers three years. The amount awarded is determined by multiplying the number of revenue units for elderly persons by the appropriate operating cost standard times 3. The operating cost standards will be published by Notice.

II. Award Information

A. Available Funds. For FY2006, approximately $443,167,647 is available for capital advances for the Section 202 Supportive Housing for the Elderly Program. The Department of Housing and Urban Development Appropriations Act, 2006 (Pub. L. 109-115, approved November 30, 2005) provides $742,000,000 for capital advances, including amendments to capital advance contracts, for supportive housing for the elderly as authorized by section 202 of the Housing Act of 1959 (12 U.S.C. 1701q), as amended by section 801 of the Cranston-Gonzalez National Affordable Housing Act (Pub. L. 101-625, approved November 28, 1990), for project rental assistance, amendments to contracts for project rental assistance, and the renewal of expiring contracts for such assistance for up to a one-year term, for supportive housing for the elderly under section 202(c)(2) of the Housing Act of 1959 as well as the amount of $400,000 to be transferred to the Working Capital Fund, all of which is subject to a 1 percent across-the-board rescission pursuant to Public Law 109-148. Additionally, of the amount appropriated, approximately $51,600,000 is provided for Service Coordinators and the continuation of Congregate Services grants, up to $24,800,000 is provided for Assisted Living Conversion grants and Emergency Capital Repairs, $20,000,000 is provided for a Section 202 Demonstration Planning Grant program, and approximately $4,000,000 is provided for a Section 202 Demonstration Program for Elderly Housing for Intergenerational Families pursuant to section 203 of Public Law 108-186.

The announcement of the availability of the funds for the Service Coordinators and the continuation of Congregate Services as well as the Assisted Living Conversion program is covered elsewhere in this NOFA.

The announcement of the availability of funds for Emergency Capital Repairs, the Section 202 Demonstration Planning Grant program, and the Section 202 Demonstration Program for Elderly Housing for Intergenerational Families will be addressed in a future Federal Register.

In accordance with the waiver authority provided in the Department of Housing and Urban Development Appropriations Act, 2006, the Secretary is waiving the following statutory and regulatory provision: The term of the project rental assistance contract is reduced from 20 years to 3 years. HUD anticipates that at the end of the contract terms, renewals will be approved subject to the availability of funds. In addition to this provision, HUD will reserve project rental assistance contract funds based on 75 percent rather than on 100 percent of the current operating cost standards for approved units in order to take into account the average tenant contribution toward rent.

The allocation formula used for Section 202 reflects the “relevant characteristics of prospective program participants,” as specified in 24 CFR 791.402(a). The FY2006 formula consists of one data element from the 2000 Census: Number of one-person elderly renter households (householder age 62 and older) with incomes at or below the applicable Section 8 very low-income limit, and with housing conditions. Housing conditions are defined as paying more than 30 percent of income for gross rent, or occupying a unit lacking some or all kitchen or plumbing facilities, or occupying an overcrowded unit (1.01 persons per room or more).

Under Section 202, 85 percent of the total capital advance amount is allocated to metropolitan areas and 15 percent to nonmetropolitan areas. In addition, each local HUD office jurisdiction receives sufficient capital advance funds for a minimum of 20 units in metropolitan areas and 5 units in nonmetropolitan areas. The total amount of capital advance funds to support these minimum set-asides are subtracted from the respective (metropolitan or nonmetropolitan) total capital advance amounts available. The remainder is fair shared to each local HUD office jurisdiction whose fair share exceeds the minimum set-aside based on the allocation formula fair share factors described below.

Note: The allocations for metropolitan and nonmetropolitan portions of the local HUD office jurisdictions reflect the definitions of metropolitan and nonmetropolitan areas as of the June 2003 definitions by the Office of Management and Budget.

A fair share factor is developed for each metropolitan and nonmetropolitan portion of each local HUD office jurisdiction by dividing the number of elderly renter households in the respective metropolitan and nonmetropolitan portion of the jurisdiction by the total number of elderly rental households in the metropolitan and nonmetropolitan portions of the United States. The resulting percentage for each local HUD office jurisdiction is then adjusted to reflect the relative cost of providing housing among the local HUD office jurisdictions. The adjusted needs percentage for the applicable metropolitan or nonmetropolitan portion of each jurisdiction is then multiplied by the respective total remaining capital advance funds available nationwide. Based on the allocation formula, HUD has allocated the available capital advance funds as shown on the following chart:

FY 2006 Section 202 Allocations by Field Office
Offices | Metropolitan: Units | Metropolitan: Capital advance | Nonmetro: Units | Nonmetro: Capital advance | Totals: Units | Totals: Capital advance
Boston Hub
Boston | 129 | $15,564,417 | 5 | $601,448 | 134 | $16,165,865
Hartford | 65 | 7,946,297 | 9 | 1,052,092 | 74 | 8,998,389
Manchester | 40 | 3,881,135 | 23 | 2,157,316 | 63 | 6,038,451
Providence | 40 | 4,827,240 |  |  | 40 | 4,827,240
Total | 274 | 32,219,089 | 37 | 3,810,856 | 311 | 36,029,945
New York Hub
New York | 310 | 38,617,068 | 5 | 622,188 | 315 | 39,239,256
Buffalo Hub
Buffalo | 87 | 9,248,360 | 25 | 2,640,360 | 112 | 11,888,720
Philadelphia Hub
Charleston | 20 | 1,814,715 | 11 | 992,898 | 31 | 2,807,613
Newark | 146 | 17,993,806 |  |  | 146 | 17,993,806
Philadelphia | 126 | 14,572,884 | 18 | 2,023,930 | 144 | 16,596,814
Pittsburgh | 64 | 6,318,624 | 14 | 1,417,082 | 78 | 7,735,706
Total | 356 | 40,700,029 | 43 | 4,433,910 | 399 | 45,133,939
Baltimore Hub
Baltimore | 63 | 6,064,734 | 5 | 482,196 | 68 | 6,546,930
Washington | 60 | 6,431,887 |  |  | 60 | 6,431,887
Richmond | 58 | 5,137,294 | 15 | 1,282,127 | 73 | 6,419,421
Total | 181 | 17,633,915 | 20 | 1,764,323 | 201 | 19,398,238
Greensboro Hub
Columbia | 43 | 4,026,055 | 13 | 1,193,046 | 56 | 5,219,101
Greensboro | 64 | 7,164,349 | 29 | 3,254,193 | 93 | 10,418,542
Total | 107 | 11,190,404 | 42 | 4,447,239 | 149 | 15,637,643
Atlanta Hub
Atlanta | 66 | 5,652,196 | 20 | 1,724,942 | 86 | 7,377,138
Knoxville | 20 | 1,638,428 | 9 | 727,670 | 29 | 2,366,098
Louisville | 42 | 3,792,284 | 20 | 1,855,095 | 62 | 5,647,379
Nashville | 43 | 3,654,088 | 14 | 1,216,238 | 57 | 4,870,326
San Juan | 36 | 3,600,655 | 5 | 505,528 | 41 | 4,106,183
Total | 207 | 18,337,651 | 68 | 6,029,473 | 275 | 24,367,124
Jacksonville Hub
Birmingham | 47 | 3,868,900 | 17 | 1,367,390 | 64 | 5,236,290
Jackson | 20 | 1,607,319 | 18 | 1,413,145 | 38 | 3,020,464
Jacksonville | 186 | 15,229,308 | 12 | 950,260 | 198 | 16,179,568
Total | 253 | 20,705,527 | 47 | 3,730,795 | 300 | 24,436,322
Chicago Hub
Chicago | 150 | 17,751,418 | 23 | 2,707,777 | 173 | 20,459,195
Indianapolis | 69 | 6,295,375 | 19 | 1,696,015 | 88 | 7,991,390
Total | 219 | 24,046,793 | 42 | 4,403,792 | 261 | 28,450,585
Columbus Hub
Cincinnati | 51 | 4,627,889 | 5 | 451,086 | 56 | 5,078,975
Cleveland | 81 | 7,867,659 | 14 | 1,374,696 | 95 | 9,242,355
Columbus | 40 | 3,575,488 | 15 | 1,339,012 | 55 | 4,914,500
Total | 172 | 16,071,036 | 34 | 3,164,794 | 206 | 19,235,830
Detroit Hub
Detroit | 85 | 8,911,136 | 10 | 1,014,397 | 95 | 9,925,533
Grand Rapids | 42 | 3,774,205 | 14 | 1,291,955 | 56 | 5,066,160
Total | 127 | 12,685,341 | 24 | 2,306,352 | 151 | 14,991,693
Minneapolis Hub
Minneapolis | 63 | 6,942,229 | 23 | 2,522,537 | 86 | 9,464,766
Milwaukee | 73 | 7,717,849 | 23 | 2,469,528 | 96 | 10,187,377
Total | 136 | 14,660,078 | 46 | 4,992,065 | 182 | 19,652,143
Ft. Worth Hub
Ft. Worth | 94 | 7,432,879 | 24 | 1,909,424 | 118 | 9,342,303
Houston | 61 | 4,744,124 | 9 | 731,223 | 70 | 5,475,347
Little Rock | 20 | 1,482,881 | 17 | 1,244,128 | 37 | 2,727,009
New Orleans | 50 | 4,065,695 | 14 | 1,127,289 | 64 | 5,192,984
San Antonio | 52 | 3,896,212 | 10 | 763,615 | 62 | 4,659,827
Total | 277 | 21,621,791 | 74 | 5,775,679 | 351 | 27,397,470
Kansas City Hub
Des Moines | 20 | 1,638,428 | 20 | 1,631,262 | 40 | 3,269,690
Kansas City | 54 | 4,853,142 | 20 | 1,757,253 | 74 | 6,610,395
Oklahoma City | 38 | 3,043,259 | 16 | 1,292,764 | 54 | 4,336,023
Omaha | 20 | 1,814,715 | 14 | 1,229,339 | 34 | 3,044,054
St. Louis | 45 | 4,665,792 | 14 | 1,466,969 | 59 | 6,132,761
Total | 177 | 16,015,336 | 84 | 7,377,587 | 261 | 23,392,923
Denver Hub
Denver | 76 | 7,176,367 | 31 | 2,474,938 | 107 | 9,651,305
San Francisco Hub
San Francisco | 148 | 17,605,317 | 10 | 1,124,640 | 158 | 18,729,957
Honolulu | 20 | 3,733,128 | 5 | 933,282 | 25 | 4,666,410
Phoenix | 56 | 4,678,191 | 9 | 780,333 | 65 | 5,458,524
Sacramento | 49 | 5,819,931 | 9 | 1,082,051 | 58 | 6,901,982
Total | 273 | 31,836,567 | 33 | 3,920,306 | 306 | 35,756,873
Los Angeles Hub
Los Angeles | 235 | 26,686,926 | 5 | 567,747 | 240 | 27,254,673
Seattle Hub
Seattle | 75 | 8,227,226 | 13 | 1,398,338 | 88 | 9,625,564
Anchorage | 20 | 3,733,128 | 5 | 933,282 | 25 | 4,666,410
Portland | 55 | 5,279,867 | 18 | 1,681,124 | 73 | 6,960,991
Total | 150 | 17,240,221 | 36 | 4,012,744 | 186 | 21,252,965
National Total | 3,617 | 376,692,499 | 696 | 66,475,148 | 4,313 | 443,167,647

B. Type of Award. Capital Advance and Project Rental Assistance Contract Funds for new Section 202 applications.

C. Type of Assistance Instrument. The Agreement Letter stipulates the terms and conditions for the Section 202 fund reservation award as well as the submission requirements following the fund reservation award. The duration of the fund reservation award for the capital advance is 18 months from the date of issuance of the fund reservation.

D. Anticipated Start and Completion Date. Immediately upon your acceptance of the Agreement Letter, you are expected to begin work toward the submission of a Firm Commitment Application, which is the next application submission stage. You are required to submit a Firm Commitment Application to the local HUD office within 180 days from the date of the Agreement Letter. Initial closing of the capital advance and start of construction of the project are expected to be accomplished within the duration of the fund reservation award period as indicated in the above paragraph regarding the Type of Assistance Instrument. Final closing of this capital advance is expected to occur no later than six months after completion of project construction.

III. Eligibility Information

A. Eligible Applicants. Private nonprofit organizations and nonprofit consumer cooperatives who meet the threshold requirements contained in the General Section and Section III.C.2. of this NOFA are the only eligible applicants under this Section 202 program. Neither a public body nor an instrumentality of a public body is eligible to participate in the program.

Applicant eligibility for purposes of applying for a Section 202 fund reservation under this NOFA has not changed; i.e., all Section 202 Sponsors and Co-Sponsors must be private nonprofit organizations and nonprofit consumer cooperatives. However, the Owner corporation, when later formed by the Sponsor, may be (1) a single-purpose private nonprofit organization that has tax-exempt status under Section 501(c)(3) or Section 501(c)(4) of the Internal Revenue Code of 1986, (2) nonprofit consumer cooperative, or (3) for purposes of developing a mixed-finance project pursuant to the statutory provision under Title VIII of the American Homeownership and Economic Opportunity Act of 2000, a for-profit limited partnership with a private nonprofit organization as the sole general partner.

See Section III.C.3.b. regarding limits on the total number of units and projects for which you may apply for funding.

B. Cost Sharing or Matching. No cost sharing or match is required; however, you are required to make a commitment to cover the estimated start-up expenses, the minimum capital investment of one-half of one percent of the HUD-approved capital advance, not to exceed $10,000 or for a national Sponsor not to exceed $25,000, and any funds required in excess of the capital advance, including the estimated cost of any amenities or features (and operating costs related thereto) which are not covered by the capital advance. You make such a commitment by signing the Form HUD-92042, Sponsor's Resolution for Commitment to Project in Exhibit 8(g) of the application found in Section IV.B.

C. Other. 1. Eligible Activities. Section 202 capital advance funds must be used to finance the development of housing through new construction, rehabilitation, or acquisition with or without rehabilitation. Capital advance funds may also be used in combination with other non-Section 202 funding sources leveraged by a for-profit limited partnership (of which a single-purpose private nonprofit organization is the sole general partner) to develop a mixed-finance project, including a mixed-finance project for additional units for the elderly over and above the Section 202 units. The development of a mixed-use project in which the Section 202 units are mortgaged separately from the other uses of the structure is not considered a mixed-finance project. Project rental assistance funds are provided to cover the difference between the HUD-approved operating costs and the amount the residents pay (each resident pays 30 percent of adjusted income) as well as to provide supportive services to frail elderly residents.

Note: For purposes of approving Section 202 capital advances, HUD will consider proposals involving mixed-financing for additional units over and above the Section 202 units. However, you must obtain funds to assist the additional units with other than PRAC funds. HUD will not provide PRAC funds for non-Section 202 units.

A portion of the PRAC funds (not to exceed $15 per unit/per month) may be used to cover some of the cost of any supportive services for those frail elderly or those elderly determined to be at-risk of being institutionalized. The balance of the cost for services must be paid for from sources other than the capital advance or PRAC funds. Also, the cost of employing a service coordinator for those projects serving principally the frail elderly (when at least 25 percent of the residents will be frail or determined to be at-risk of being institutionalized) is an eligible use of PRAC funds. Section 202 projects receiving Congregate Housing Services assistance under Section 802 of the National Affordable Housing Act are not eligible to use capital advance or PRAC funds for supportive services or the cost of a service coordinator.

2. Threshold Requirements for Funding Consideration. In addition to the threshold criteria outlined in the General Section, the following threshold requirements must be met:

a. Non-Responsive Application. Your application will be considered non-responsive to the NOFA and will not be accepted for processing if you:

(1) Requested and received approval to submit a paper application and you submit less than the required number of paper copies (an original and four copies) are required. Refer to the General Section for information on application submission and receipt procedures;

(2) submit paper copies of the application if you have not received approval from HUD for a waiver of the electronic submission requirements;

(3) submit a substantially deficient application (i.e., a majority of the required exhibits, are not submitted with your application, particularly, but not limited to, those exhibits which are not curable). HUD reserves the right to determine whether your application is substantially deficient for purposes of determining whether the application is non-responsive to the NOFA. Refer to Section IV.B., Content of Form of Application Submission, for information on the required exhibits for submission with your application to ensure that your application is complete at time of submission;

(4) request more units than were allocated in either the metropolitan or nonmetropolitan allocation category to the local HUD office that will be reviewing your application or 125 units, whichever is less (see the allocation chart in Section II.A. above);

(5) request less than the minimum number of 5 units per site;

(6) request assistance for an ineligible activity as defined in Section IV.E., Funding Restrictions, of this program NOFA; or

(7) are an ineligible applicant (see Section III.A, Eligible Applicants of this program NOFA).

b. Other Criteria. (1) You, or a co-Sponsor, must have experience in providing housing or services to elderly persons.

(2) You and any co-Sponsor must be eligible private nonprofit organizations or nonprofit consumer cooperatives with tax exempt status under Internal Revenue Service code.

(3) Your application must contain acceptable evidence of the following:

(a) Evidence of Site Control. You must provide evidence of site control as described in this section and Exhibit 4(d)(i) of Section IV.B. of this NOFA).

(b) Historic Preservation. You are required to send a letter to the State/Tribal Historic Preservation Officer (SHPO/THPO) that attempts to initiate consultation with their office and requests their review of your determinations and findings with respect to the historical significance of your proposed project. A sample letter to the SHPO/THPO that you may adapt for your use, if you so choose, is available on HUD's Web site at http://www.hud.gov/offices/adm/grants/fundsavail.cfm. You must include a copy of your letter to the SHPO/THPO in your application and a statement that you have not received a response letter(s) from the SHPO/THPO or a copy of the response letter(s) received from the SHPO/THPO.

(c) Contamination. HUD must determine if a proposed site contains contamination and, if so, HUD must be satisfied that it is eliminated to the extent necessary to meet non site-specific federal, state or local health standards. You must assist HUD by doing the following:

(i) Phase I Environmental Site Assessment (ESA). You must undertake and submit a Phase I ESA, prepared in accordance with the ASTM Standards E 1527-05, as amended, completed or updated no earlier than six months prior to the application deadline date. The Phase I ESA must be completed and submitted with the application. Therefore, it is important that you start the Phase I ESA process as soon after publication of the SuperNOFA as possible. To help you choose an environmentally safe site, HUD invites you to review the documents “Choosing an Environmentally Safe Site” and “Supplemental Guidance, Environmental Information”, which are available on the HUD Web site at http://www.hud.gov/offices/adm/grants/fundsavail.cfm.

(ii) Phase II ESA. If the Phase I ESA indicates the possible presence of contamination and/or hazards, you must decide whether to continue with this site or choose another site. Should you choose another site, the same Phase I ESA process identified above must be followed for the new site. However, if you choose to continue with the original site on which the Phase I ESA indicated contamination or hazards, you must undertake a detailed Phase II ESA by an appropriate professional. In order for your application to be considered for review under this FY2006 funding competition, the Phase II must be received by the local HUD office on or before July 3, 2006.

(iii) Clean-up—If the Phase II ESA reveals site contamination, the extent of the contamination and a plan for clean-up of the site must be submitted to the local HUD office. The plan for clean-up must include a contract for remediation of the problem(s) and an approval letter from the applicable federal, state, and/or local agency with jurisdiction over the site. In order for your application to be considered for review under this FY2006 funding competition, this information must be received by the local HUD office on or before July 3, 2006. If the above information is not received by the local HUD office by that date, the application will be rejected.

Note: Clean-up could be an expensive undertaking. You must pay for the cost of any clean-up and/or remediation. If the application is approved, clean-up must be completed prior to initial closing. Completion of clean-up means that hud must be satisfied that the contamination has been eliminated to the extent necessary to meet non site-specific federal, state or local health standards, with no active or passive remediation still taking place, no capping over of any contamination, and no monitoring wells. However, it is acceptable if contamination remains solely in groundwater that is at least 25 feet below the surface.

(d) Asbestos. Asbestos is a hazardous substance commonly used in building products until the late 1970s. Therefore, you must submit one of the following with your application:

(i) If there are no pre-1978 structures on the site or if there are pre-1978 structures, that most recently consisted of solely four or fewer units of single-family housing including appurtenant structures thereto, a statement to this effect, or

(ii) If there are pre-1978 structures on the site, other than for a site that most recently consisted of solely four or fewer units of single-family housing including appurtenant structures thereto, a comprehensive building asbestos survey that is based on a thorough inspection to identify the location and condition of asbestos throughout any structures. In those cases where suspect asbestos is found, it would either be assumed to be asbestos or would require confirmatory testing. If the asbestos survey indicates the presence of asbestos or the presence of asbestos is assumed, and if the application is approved, HUD will condition the approval on an appropriate mix of asbestos abatement and an asbestos Operations and Maintenance Plan.

(4) There must be a market need for the number of units proposed in the area of the project location.

(5) You are required to include a Supportive Services Plan that describes the supportive services proposed to be provided to the anticipated occupants, including a description of the public or private funds that are expected to fund the proposed services and the manner in which the services will be provided to the proposed residents (see Exhibit 5 in Section IV.B. of this NOFA). You must not require residents to accept any supportive services as a condition of occupancy or admission.

(6) Delinquent Federal Debt. Refer to the General Section for information regarding delinquent federal debt.

3. Program Requirements. By signing Form HUD-92015-CA, Supportive Housing for the Elderly Section 202, Application for Capital Advance Summary Information, you are certifying that you will comply with all program requirements listed in the General Section as well as the following requirements:

a. Statutory and Regulatory Requirements. In addition to the statutory, regulatory, threshold and public policy requirements listed in the General Section, you must comply with all statutory and regulatory requirements listed in Sections I and III of this NOFA.

b. Application/Project Size Limits.

(1) Application Limits Applicable to Sponsors or Co-Sponsors. A Sponsor or Co-sponsor may not apply for more than 200 units of housing for the elderly in a single Hub or more than 10 percent of the total units allocated to all HUD offices. Affiliated entities (organizations that are branches or offshoots of a parent organization) that submit separate applications are considered a single entity for the purpose of this limit.

(2) Maximum Project Size. No single application may propose the development of a project for more than the number of units allocated to a local HUD office (in either the metropolitan or nonmetropolitan allocation category, depending on the location of your proposed project) or 125 units, whichever is less. For example, the local HUD office, which has jurisdiction over the area of your proposed project, was allocated 80 units (metropolitan) and 20 units (nonmetropolitan) for a total of 100 units. You cannot apply for more than 80 units if your proposed project is in a metropolitan area and no more than 20 units if the project is in a nonmetropolitan area.

(3) Minimum Project Size. The minimum number of units that can be applied for in one application is five units. If the proposed project will be a scattered-site development, the five-unit minimum requirement will apply to each site.

c. Minimum Capital Investment. If selected, you must provide a minimum capital investment of one-half of one percent of the HUD-approved capital advance amount, not to exceed $10,000 in accordance with 24 CFR 891.145, with the following exception. If you, as Sponsor or Co-Sponsor, have one or more Section 202 or one or more Section 811 project(s) under reservation, construction, or management in two or more different HUD geographical regions (Hubs), the minimum capital investment shall be one half of one percent of the HUD-approved capital advance amount, not to exceed $25,000.

d. Accessibility. Your project must meet accessibility requirements published at 24 CFR 891.120, 24 CFR 891.210, and Section 504 of the Rehabilitation Act of 1973 and its implementing regulations at 24 CFR Part 8, and, if new construction, the design and construction requirements of the Fair Housing Act and HUD's implementing regulations at 24 CFR part 100. In addition, 24 CFR 8.4(b)(5) prohibits the selection of a site or location which has the purpose or effect of excluding persons with disabilities from the federally assisted program or activity. Refer to Section V.A. below and the General Section for information regarding the policy priority of encouraging accessible design.

e. Conducting Business in Accordance with HUD Core Values and Ethical Standards. You are not subject to the requirements of 24 CFR parts 84 and 85 as outlined in the General Section, except that the disposition of real property may be subject to 24 CFR part 84. However, you are still subject to the core values and ethical standards as they relate to the conflict of interest provisions in 24 CFR 891.130. To ensure compliance with the program's conflict of interest provisions, you are required to sign a Conflict of Interest Resolution and include it in your Section 202 application. Further, if awarded a Section 202 fund reservation, the officers, directors, board members, trustees, stockholders and authorized agents of the Section 202 Sponsor and Owner entities will be required to submit to HUD individual certifications regarding compliance with HUD's conflict of interest requirements.

f. National Environmental Policy Act. You must comply with the National Environmental Policy Act of 1969 (NEPA) (42 U.S.C. 4321) and applicable related environmental authorities at 24 CFR 50.4, HUD's programmatic implementing regulations at 24 CFR part 50 and 24 CFR 891.155(b), especially, but not limited to, the provision of information to HUD at 24 CFR 50.31(b) and you must comply with any environmental “conditions and safeguards” at 24 CFR 50.3(c).

Under 24 CFR Part 50, HUD has the responsibility for conducting the environmental reviews. HUD cannot approve any site unless it first completes the environmental review. In rare cases where HUD is not able to complete the environmental review, it is due to a complex environmental issue that could not be resolved during the time period allocated for application processing. Thus, HUD requires you to attempt to obtain comments from the State/Tribal Historic Preservation Officer (see Exhibit 4(d)(ix) of Section IV.B. below) to help HUD complete the environmental review on time. It is also why HUD may contact you for additional environmental information. So that you can review the type of information that HUD needs for its preparation of the environmental review as well as the type of information requests that HUD may make to you, you are invited to go to the following Web site to view the HUD form 4128, including the Sample Field Notes Checklist, which HUD uses to record the environmental review: www.hud.gov/utilities/intercept.cfm?/offices/cpd/energyenviron/environment/compliance/forms/4128.pdf.

g. Executive Order 13202, Preservation of Open Competition and Government Neutrality Towards Government Contractors' Labor Relations on Federal and Federally Funded Construction Projects. Refer to the General Section.

h. Fair Housing Requirements. Refer to the General Section for information regarding fair housing requirements.

i. Economic Opportunities for Low and Very Low-Income Persons (Section 3). You must comply with Section 3 of the Housing and Urban Development Act of 1968, 12 U.S.C. 1701u (Economic Opportunities for Low and Very Low-Income Persons) and its implementing regulations at 24 CFR part 135. You must ensure that training, employment and other economic opportunities shall, to the greatest extent feasible, be directed toward low and very low-income persons, particularly those who are recipients of government assistance for housing and to business concerns which provide economic opportunities to low and very low-income persons. To comply with Section 3 requirements you are hereby certifying that you will strongly encourage your general contractor and subcontractors to participate in local apprenticeship programs or training programs registered or certified by the Department of Labor's Office of Apprenticeship, Training, Employer and Labor Services or recognized State Apprenticeship Agency. Although not a NOFA requirement, you are encouraged to submit with your application a description on how you plan to incorporate the Section 3 requirements into your proposed project with goals for expanding training and employment opportunities for low and very low-income (Section 3) residents as well as business concerns. You will receive up to two (2) points if you provide a description of your plans for doing so under Exhibit 3(k) of this program NOFA.

j. Design and Cost Standards. You must comply with HUD's Section 202 design and cost standards (24 CFR 891.120 and 891.210), the Uniform Federal Accessibility Standards (24 CFR 40.7), Section 504 of the Rehabilitation Act of 1973 and HUD's implementing regulations at 24 CFR part 8, and for covered multifamily dwellings designed and constructed for first occupancy after March 13, 1991, the design and construction requirements of the Fair Housing Act and HUD's implementing regulations at 24 CFR part 100, and, where applicable, the Americans with Disabilities Act of 1990.

HUD has adopted a wide-ranging energy action plan for improving energy efficiency in all program areas. As a first step in implementing the energy plan, HUD, the Environmental Protection Agency (EPA) and the Department of Energy (DoE) have signed a joint partnership to promote energy efficiency in HUD's affordable housing efforts and programs. The purpose of the Energy Star partnership is not only to promote energy efficiency of the affordable housing stock, but also to help protect the environment.

k. Formation of Owner Corporation. You must form an Owner entity (in accordance with 24 CFR 891.205) after issuance of the capital advance fund reservation and must cause the Owner entity to file a request for determination of eligibility and a request for capital advance, and must provide sufficient resources to the Owner entity to ensure the development and long-term operation of the project, including capitalizing the Owner entity at firm commitment processing in an amount sufficient to meet its obligations in connection with the project over and above the capital advance amount.

l. Davis-Bacon. You must comply with the Davis-Bacon requirements (12 U.S.C. 1701q(j)(5)) and the Contract Work Hours and Safety Standards Act in accordance with 24 CFR 891.155(d).

4. Energy Efficiency. Although it is not a requirement, you are encouraged to promote energy efficiency in design and operation of your proposed project and your application will receive one (1) point if you describe your plans for doing so in the proposed project. You are urged especially to purchase and use Energy Star-labeled products. For further information about Energy Star, see http://www.energystar.gov or call 1-888-STAR-YES (1-888-782-7937) or for the hearing-impaired, 1-888-588-9920 TTY.

IV. Application and Submission Information

Applicants are required to submit an electronic application unless they receive a waiver of the requirement. See the General Section for information on electronic application submission, procedures for requesting a waiver, and timely submission and receipt requirements.

A. Address to Request Application Package. All information required to complete and return a valid application is included in the General Section and this NOFA, including other related documents. Applicants may download the application and instructions from the Grants.gov Web site at http://www.Grants.gov./Apply. If you have difficulty accessing the information you may call the Grants.gov Support Desk toll free 800-518-GRANTS or e-mail your questions to Support@Grants.gov. See the General Section for information regarding the registration process or ask for registration information from the Grants.gov Support Desk. Copies of the General Section, this program section, and the required forms are available and may be downloaded from the Grants.gov Web site at www.Grants.gov.

You may request general information, copies of the General Section and NOFA (including related documents ), from the NOFA Information Center (800-HUD-8929 or 800-HUD-2209 (TTY)) Monday through Friday, except on federal holidays. When requesting information, please refer to the name of the program you are interested in.

B. Content and Form of Application Submission. The exhibits to be included in your application are contained in the body of this NOFA. Before preparing your application, you should carefully review the requirements of the regulations (24 CFR part 891) and general program instructions in Handbook 4571.3 REV-1, Section 202 Capital Advance Program for Housing the Elderly. Note: Section 1001 of Title 18 of the United States Code (Criminal Code and Criminal Procedure, 72 Stat. 967) applies to all information supplied in the application submission. (18 U.S.C. 1001, among other things, provides that whoever knowingly and willfully makes or uses a document or writing containing any false, fictitious, fraudulent statement or entry, in any matter within the jurisdiction of any department or agency of the United States, shall be fined not more than $10,000 or imprisoned for not more than five years, or both.)

The Application for a Section 202 Capital Advance consists of four parts with a total of eight Exhibits. Included with the eight Exhibits are prescribed forms, certifications and resolutions. The components of the Application are:

Part 1—Application Form for Section 202 Supportive Housing—Capital Advance (Exhibit 1)

Part 2—Your Ability to Develop and Operate the Proposed Project (Exhibits 2 and 3)

Part 3—The Need for Supportive Housing for the Target Population in the Area to be Served, Site Control and Suitability of Site, Adequacy of the Provision of Supportive Services and of the Proposed Project (Exhibits 4 and 5)

Part 4—General Application Requirements, Certifications and Resolutions (Exhibits 6 through 8).

The following additional information, which may assist you in preparing your application, is available on HUD's Web site at http://www.hud.gov/offices/adm/grants/fundsavail.cfm.

Listing of Local HUD Offices

Letter Requesting SHPO/THPO Review

Choosing an Environmentally Safe Site

Supplemental to Choosing an Environmentally Safe Site

Your application must include all of the information, materials, forms, and exhibits listed below (unless you were selected for a Section 202 fund reservation within the last three funding cycles). If you qualify for this exception, you are not required to submit the information described in Exhibits 2(a), (b), and (c), which are the articles of incorporation, (or other organizational documents), by-laws, and the IRS tax exemption, respectively. If there has been a change in any of these documents since your previous HUD approval, you must submit the updated information in your application. The local HUD office will verify your previous HUD approval by checking the project number and approval status with the appropriate local HUD office based on the information submitted.

In addition to this relief of paperwork burden in preparing applications, you will be able to use information and exhibits previously prepared for prior applications under Section 202, Section 811, or other funding programs. Examples of exhibits that may be readily adapted or amended to decrease the burden of application preparation include, among others, those on previous participation in the Section 202 or Section 811 programs, your experience in the provision of housing and services, supportive services plans, community ties, and experience serving minorities.

For programmatic information, you MUST contact the appropriate local HUD office about the submission of applications within the jurisdiction of that Office. A listing of the local HUD offices is available on HUD's Web site at http://www.hud.gov/offices/adm/grants/fundsavail.cfm.

Please submit your application using the following format provided in this NOFA. For applications to be submitted electronically, in which you have created files to be attached to the electronic application, you should number the pages of the attached file and include a header that identifies the exhibit that it relates to.

For applicants that have received a waiver of the electronic application submission, you must number the pages of each file, narratives and other attached files. Include the name of your organization, your DUNS number, and the exhibit number that you are responding to on the header of each document.

1. Table of Contents (This is also to be used as a checklist to assist you in submitting a complete application. For applicants who received a waiver of the electronic application submission, after your application is complete, you must insert the page number after each Exhibit or portion of the Exhibit item listed below.)

a. Part I—Application Form for Section 202 Supportive Housing—Capital Advance

(1) Exhibit 1: Form HUD-92015-CA, Supportive Housing for the Elderly:

Section 202, Application for Capital Advance Summary Information

b. Part II—Your Ability To Develop and Operate the Proposed Project

(1) Exhibit 2: Your Legal Status

(a) Articles of Incorporation (or other organizational documents);

(b) By-laws;

(c) IRS Tax Exemption Ruling.

[Exception: See exhibit to determine if you may be exempt from submitting these documents.]

(2) Exhibit 3: Your purpose, community ties and experience:

(a) Purpose(s), current activities, how long you have been in existence;

(b) Ties to the community at large, to the target population, and description of geographic areas served;

(c) Local government support for project;

(d) Letters of support for your organization and for the proposed project;

(e) Housing and/or supportive services experience;

(f) Efforts to involve target population;

(g) Description of practical solutions to be implemented;

(h) Project Development Timeline;

(i) Description of how project will remain viable, including:

(i) If service funds are depleted;

(ii) For State-funded services, if State changes policy;

(iii) If the need for project changes;

(j) Description of efforts to remove barriers to affordable housing;

(k) Description of your plans to incorporate Section 3 requirements, Economic Opportunities for Low- and Very Low-Income Persons, in proposed project (optional, but required to received up to 2 points).

c. Part III—The Need for Supportive Housing for the Target Population in the Area To Be Served, Site Control and Suitability of Site, Adequacy of the Provision of Supportive Services and of the Proposed Project

(1) Exhibit 4: Project information including:

(a) Evidence of need for project;

(b) How project will benefit target population and community;

(c) A narrative description of the project, including:

(i) Building design;

(ii) Whether and how project will promote energy efficiency;

(iii) If applicable, description of plans and actions to create a mixed-finance project for additional units and the number of additional units;

(d) Evidence of site control and permissive zoning;

(i) Site control document(s);

(ii) Evidence site is free of limitations, restrictions, or reverters;

(iii) Evidence of permissive zoning or statement of proposed action required to make project permissible;

(iv) Evidence of compliance with the Uniform Relocation Assistance and Real Property Acquisition Policies Act of 1970, as amended (URA) site notification requirement;

(v) Narrative topographical/demographic description of site/area suitability, how site will promote greater housing opportunities for minorities/target population;

(vi) Racial composition/concentration map of site;

(vii) Phase I Environmental Site Assessment;

(viii) Asbestos Statement or Survey;

(ix) Letter to State/Tribal Historic Preservation Officer (SHPO/THPO) and a statement that SHPO/THPO failed to respond to you OR a copy of the response letter received from SHPO/THPO.

(2) Exhibit 5: Supportive Services Plan:

(a) Description of services;

(b) Public/private funding sources for proposed services;

(c) Manner in which services will be provided.

d. Part IV—General Application Requirements, Certifications and Resolutions

(1) Exhibit 6: Other Applications:

(a) A list of applications, if any, you are submitting to any other local HUD Office in response to the FY 2006 Section 202 or Section 811 NOFA, and required information about each;

(b) A list of all FY 2005 and prior years Section 202 or Section 811 projects to which you are a party and the required information about each.

(2) Exhibit 7: A statement that:

(a) Identifies all persons occupying property on application submission date;

(b) Indicates estimated cost of relocation payments/other services;

(c) Identifies staff organization that will carry out relocation activities;

(d) Identifies all persons who have moved from site within past 12 months.

(3) Exhibit 8: Standard Forms, Certifications and Resolutions:

(a) Standard Form 424, Application for Federal Assistance with copy of the letter you sent to the State Point of Contact, if applicable;

(b) Standard Form 424 Supplement, Survey on Ensuring Equal Opportunity for Applicants;

(c) Standard Form LLL, Disclosure of Lobbying Activities, if applicable;

(d) Form HUD-2880, Applicant/Recipient Disclosure/Update Report;

(e) Form HUD-2991, Certification of Consistency with the Consolidated Plan;

(f) Form HUD-92041, Sponsor's Conflict of Interest Resolution;

(g) Form HUD-92042, Sponsor's Resolution for Commitment to Project;

(h) Form HUD-2990, Certification of Consistency with the RC/EZ/EC-II Strategic Plan, if applicable;

(i) Form HUD-96010, Program Outcome Logic Model;

(j) Form HUD-27300, Questionnaire for HUD's Initiative on Removal of Regulatory Barriers (optional form, but required to receive up to 2 points);

(k) Form HUD-96011, Facsimile Transmittal, must be used as the cover page to any facsimile submitted using the facsimile solution (i.e., for faxing third party letters and other documents for your electronic application in accordance with the instructions in the General Section;

(l) Form HUD-2994-A, You Are Our Client/Grant Applicant Survey (optional).

2. Programmatic Applications Requirements

a. Part I—Application Form for Section 202 Supportive Housing—Capital Advance

(1) Exhibit 1: Form HUD-92015-CA, Supportive Housing for the Elderly Section 202, Application for Capital Advance Summary Information. A copy of this form is available at the Grants.gov Web site at www.grants.gov.

b. Part II—Your Ability To Develop and Operate the Proposed Project

(1) Exhibit 2: Evidence of your legal status (Private nonprofit or nonprofit consumer cooperative (If another organization(s) is co-sponsoring the application with you, each co-Sponsor must also submit the following):

(a) Articles of Incorporation, constitution, or other organizational documents;

(b) By-laws;

(c) IRS tax exemption ruling (this must be submitted by all Sponsors, including churches).

Note: Based on a HUD review of your articles of incorporation, constitution, or other organizational documents, HUD must determine, among other things, that (1) you are an eligible private nonprofit entity and are not a public body or an instrumentality of a public body, (2) your corporate purposes are sufficiently broad to provide you the legal authority to sponsor the proposed project for the elderly, to assist the Owner, and to apply for a capital advance, (3) no part of the Sponsor's net earnings inures to the benefit of any private party, and (4) that you are not controlled by or under the direction of persons seeking to derive profit or gain therefrom.

[Exception: If you received a section 202 fund reservation within the last three funding cycles, you are not required to submit the documents described in (A), (B), and (C) above. Instead, submit the project number of the latest application and the local HUD office to which it was submitted. If there have been any modifications or additions to the subject documents, indicate such, and submit the new material.]

(2) Exhibit 3: Your purpose, community ties and experience:

(a) A description of your purpose(s), current activities, including your ability to enlist volunteers and raise private local funds, and how long you have been in existence.

(b) A description of your ties to the community in which your project will be located and to the minority and elderly communities in particular, including a description of the specific geographic area(s) in which you have served.

(c) A description of local government support for the project (including financial assistance, donation of land, provision of services, etc.).

(d) Letters of support for your organization and for the proposed project from organizations familiar with the housing and supportive services needs of the target population that you expect to serve in the proposed project.

(e) A description of your housing and/or supportive services experience. The description should include any rental housing projects and/or supportive services facilities that you sponsored, own and/or operate, your past or current involvement in any programs other than housing that demonstrates your management capabilities (including financial management) and experience, your experience in serving the target population (the elderly and/or families and minorities); and the reasons for receiving any increases in fund reservations for developing and/or operating previously funded Section 202 or Section 811 projects. The description should include data on the facilities and services provided, the racial/ethnic composition of the populations served, if available, and information and testimonials from residents or community leaders on the quality of the activities. Examples of activities that could be described include housing counseling, nutrition and food services, special housing referral, screening and information projects.

(f) A description of your efforts to involve members of the target population (elderly persons, including minority elderly persons) in the development of the application as well as your intent to involve the target population in the development and operation of the project.

(g) A description of the practical solutions you will implement which will enable residents of your project to achieve independent living. In addition, describe the educational opportunities you will provide for the residents and how you will provide them. This description should include any activities that will enhance the quality of life for the residents. And, finally, describe how your proposed project will be an improved living environment for the residents when compared to their previous place of residence.

(h) Describe your plan for completing the proposed project. Include a project development timeline which lists the major development stages for the project with associated dates that must be met in order to get the project to initial closing and start of construction within the 18-month fund reservation period as well as the full completion of the project, including final closing. Completion of Exhibit 8(i), Program Outcome Logic Model, will assist you in completing your response to this Exhibit.

(i) Describe how you will ensure that your proposed project will remain viable as housing with the availability of supportive services for the target population for the 40-year capital advance period. This description should address the measures you would take should any of the following occur:

(i) Funding for any of the needed supportive services becomes depleted;

(ii) If, for any state-funded services for your project, the state changes its policy regarding the provision of supportive services to projects such as the one you propose; or

(iii) If the need for housing for the population you will be serving wanes over time, causing vacancies in your project.

(j) A description of the successful efforts the jurisdiction in which your project will be located has taken in removing regulatory barriers to affordable housing. To obtain up to 2 points for this policy priority, you must complete the optional Form HUD-27300, “Questionnaire for HUD's Initiative on Removal of Regulatory Barriers” in Exhibit 8(j) of the application AND provide the necessary URL references or submit the documentary evidence.

(k) A description on how you plan to incorporate the Section 3 requirements into your proposed project with goals for expanding training and employment opportunities for low- and very low-income (Section 3) persons as well as business concerns. This exhibit is optional, but to obtain up to 2 points for this policy priority, you must submit this exhibit and adequately address your plans to provide opportunities to train and employ low- and very low-income residents of the project area and award substantial contracts to persons residing in the project area.

c. Part III—The Need for Supportive Housing for the Target Population, Site Control and Suitability of Site, Adequacy of the Provision of Supportive Services and of the Proposed Project

(1) Exhibit 4: Need and Project Information

(a) Evidence of need for supportive housing. Include a description of the category or categories of elderly persons the housing is intended to serve and evidence demonstrating sustained effective demand for supportive housing for that population in the market area to be served, taking into consideration the occupancy and vacancy conditions in existing federally assisted housing for the elderly (HUD and the Rural Housing Service (RHS)) e.g., public housing, state or local data on the limitations in activities of daily living among the elderly in the area; aging in place in existing assisted rentals; trends in demographic changes in elderly population and households; the numbers of income eligible elderly households by size, tenure and housing condition; the types of supportive services arrangements currently available in the area; and the use of such services as evidenced by data from local social service agencies or agencies on aging. Also, a description of how information in the community's or (where applicable) the state's Consolidated Plan, Analysis of Impediments to Fair Housing Choice (AI) or other planning document that analyzes fair housing issues was used in documenting the need for the project.

(b) A description of how the proposed project will benefit the target population and the community in which it will be located.

(c) Description of the project.

(i) Narrative description of the building design including a description of the number of units with bedroom distribution, any special design features, including any features that incorporate visitability standards and universal design, amenities, and/or commercial and community spaces, and how this design will facilitate the delivery of services in an economical fashion and accommodate the changing needs of the residents over the next 10-20 years.

Note: If the community spaces, amenities, or features do not comply with the project design and cost standards of 24 CFR 891.120(a) and (c), the special standards of 24 CFR 891.210, and the limitation on bedroom unit sizes as required by paragraph 1-11.B.4. of HUD Handbook 4571.3 REV-1, you must demonstrate your ability and willingness to contribute both the incremental development cost and continuing operating cost associated with the community spaces, amenities, or features;

(ii) Describe whether and how the project will promote energy efficiency (in accordance with the requirements set forth in Section III.C.3.j. and III.C.4.of this NOFA), including any plans to incorporate energy efficiency features in the operation of the project through the use of Energy Star labeled products and appliances and, if applicable, innovative construction or rehabilitation methods or technologies to be used that will promote efficient construction.

(iii) If you are proposing to develop a mixed-finance project by developing additional units for the elderly (i.e., in addition to the 202 units), a description of any plans and actions you have taken to create such a mixed-finance project with the use of Section 202 capital advance funds, in combination with other funding sources. Provide the number of non-Section 202 units to be included in the mixed-finance project (also provide the number of additional units in the appropriate space on Form HUD-92015-CA). Also, provide copies of any letters you have sent seeking outside funding for the non-Section 202 units and any responses thereto. You also must demonstrate your ability to proceed with the development of a Section 202 project that will not involve mixed-financing, as proposed in your application, in the event you are later unable to obtain the necessary outside funding or HUD disapproves your proposal for a mixed-finance project for additional non-Section 202 units for the elderly.

Notes: (1) A proposal to develop a mixed-finance project for additional units must occur at the application for fund reservation stage. You cannot decide after selection that you want to do a mixed-finance project for additional units. (2) Section 202 capital advance amendment money will not be approved for projects proposing mixed-financing. (3) If approved for a reservation of capital advance funds, you will be required to submit with your Firm Commitment Application, the additional documents required by HUD for mixed-finance proposals. (4) A mixed-finance project does not include the development of a mixed-use project in which the Section 202 units are mortgaged separately from the other uses of the structure.

(d) Evidence of site control and permissive zoning.

(i) Acceptable evidence of site control is limited to any one of the following:

(A) Deed or long-term leasehold which evidences that you have title to or a leasehold interest in the site. If a leasehold, the term of the lease must be at least 50 years with renewable provisions for 25 years, except for sites on Indian trust land, in which case, the term of the lease must be at least 50 years with no requirement for extensions;

(B) Contract of sale for the site that is free of any limitations affecting the ability of the seller to deliver ownership to you after you receive and accept a notice of Section 202 capital advance. (The only condition for closing on the sale can be your receipt and acceptance of the capital advance.) The contract of sale cannot require closing earlier than the Section 202 closing;

(C) Option to purchase or for a long-term leasehold, which must remain in effect for six months from the date on which the applications are due, must state a firm price binding on the seller, and be renewable at the end of the six-month period. The only condition on which the option may be terminated is if you are not awarded a fund reservation;

(D) If the site is covered by a mortgage under a HUD program, (e.g., a previously funded Section 202 or Section 811 project or an FHA-insured mortgage) you must submit evidence of site control as described above and evidence that consent to release the site from the mortgage has been obtained or has been requested from HUD (all required information in order for a decision on the request for a partial release of security must have been submitted to the local HUD office) and from the mortgagee, if other than HUD. Approval to release the site from the mortgage must be done before the local HUD office makes its selection recommendations to HUD Headquarters. Refer to Chapter 16 of HUD Handbook 4350.1 REV-1, Multifamily Asset Management and Project Servicing, for instructions on submitting requests to the local HUD office for partial release of security from a mortgage under a HUD program; or

(E) For sites to be acquired from a public body, evidence is needed that the public body possesses clear title to the site and has entered into a legally binding agreement to lease or convey the site to you after you receive and accept a notice of Section 202 capital advance. Where HUD determines that time constraints of the funding round will not permit you to obtain all of the required official actions (e.g., approval of Community Planning Boards) that are necessary to convey publicly-owned sites, you may include in your application a letter from the mayor or director of the appropriate local agency indicating that conveyance or leasing of the site is acceptable without imposition of additional covenants or restrictions, and only contingent on the necessary approval action. Such a letter of commitment will be considered sufficient evidence of site control.

(ii) Whether you have title to the site, a contract of sale, an option to purchase, or are acquiring a site from a public body, you must provide evidence (a current title policy or other acceptable evidence) that the site is free of any limitations, restrictions, or reverters which could adversely affect the use of the site for the proposed project for the 40-year capital advance period under HUD's regulations and requirements (e.g., reversion to seller if title is transferred). If the title evidence contains restrictions or covenants, copies of the restrictions or covenants must be submitted with the application. If the site is subject to any such limitations, restrictions, or reverters, the application will be rejected. Purchase money mortgages that will be satisfied from capital advance funds are not considered to be limitations or restrictions that would adversely affect the use of the site. If the contract of sale or option agreement contains provisions that allow a Sponsor not to purchase the property for reasons such as environmental problems, failure of the site to pass inspection, or the appraisal is less than the purchase price, then such provisions are not objectionable and a Sponsor is allowed to terminate the contract of sale or the option agreement.

Note: A proposed project site may not be acquired or optioned from a general contractor (or its affiliate) that will construct the Section 202 project or from any other development team member.

(iii) Evidence that the project, as proposed, is permissible under applicable zoning ordinances or regulations or a statement of the proposed action required to make the proposed project permissible and the basis for the belief that the proposed action will be completed successfully before the submission of the firm commitment application (e.g., a summary of the results of any requests for rezoning and/or the procedures for obtaining special or conditional use permits on land in similar zoning classifications and the time required for such rezoning, or preliminary indications of acceptability from zoning bodies, etc.).

(iv) Evidence of compliance with the URA requirement that the seller has been provided, in writing, with the required information regarding a voluntary, arm's length purchase transaction (i.e., (1) applicant does not have the power of eminent domain and, therefore, will not acquire the property if negotiations fail to result in an amicable agreement, and (2) of the estimate of the fair market value of the property).

Note: This information should have been provided before making the purchase offer. However, in those cases where there is an existing option or contract, the seller must be provided the opportunity to withdraw from the agreement or transaction, without penalty, after this information is provided.

(v) Narrative describing topographical and demographic aspects of the site, the suitability of the site and area (as well as a description of the characteristics of the neighborhood), how use of the site will promote greater housing opportunities for minority elderly and elderly persons with disabilities, and how use of the site will affirmatively further fair housing.

Note: You can best demonstrate your commitment to affirmatively furthering fair housing by describing how your proposed activities will assist the jurisdiction in overcoming impediments to fair housing choice identified in the applicable jurisdiction's Analysis of Impediments (AI) to Fair Housing Choice, which is a component of the jurisdiction's Consolidated Plan or any other planning document that addresses fair housing issues. The applicable Consolidated Plan and AI may be the community's, the county's, or the state's, to which input should have been provided by local community organizations, agencies in the community and residents of the community. Alternatively, a document that addresses fair housing issues and remedies to barriers to fair housing in the community that was previously prepared by a local planning, or similar organization, may be used. Applicable impediments could include the need for improved housing quality and services for elderly minority families, lack of affirmative marketing and outreach to minority elderly persons, and the need for quality eldercare services within areas of minority concentration when compared with the type and quality of similar services and housing in nonminority areas.

(vi) A map showing the location of the site, the racial composition of the neighborhood, and any areas of racial concentration.

Note: For this competition, when determining the racial and ethnic composition of the neighborhood surrounding the proposed site, use data from the 2000 Census of Population. Data from the 2000 Census may be found at: www.factfinder.census.gov/servlet/BasicFactsServlet.

(vii) A Phase I Environmental Site Assessment (ESA), in accordance with the ASTM Standards E 1527-05, as amended, must be undertaken and completed by you and submitted with the application. In order for the Phase I ESA to be acceptable, it must have been completed or updated no earlier than six months prior to the application deadline date. Therefore, it is important to start the site assessment process as soon after the publication of the NOFA as possible.

If the Phase I ESA indicates possible presence of contamination and/or hazards, you must decide whether to continue with this site or choose another site. Should you choose another site, the same Phase I ESA process identified above must be followed for the new site. If the property is to be acquired from the FDIC/RTC, include a copy of the FDIC/RTC prepared Transaction Screen Checklist or Phase I ESA and applicable documentation, per the FDIC/RTC Environmental Guidelines. If you choose to continue with the original site on which the Phase I ESA indicated contamination or hazards, you must undertake a detailed Phase II ESA by an appropriate professional. If the Phase II Assessment reveals site contamination, you must submit the extent of the contamination and a plan for clean-up of the site including a contract for remediation of the problem(s) and an approval letter from the applicable federal, state, and/or local agency with jurisdiction over the site to the local HUD office. The Phase II ESA and any necessary plans for clean-up do not have to be submitted with the application but must be received by the local HUD office by July 3, 2006. If it is not received by that date, the application will be rejected.

Note: You must pay for the cost of any clean-up or remediation, which can be very expensive. See NOTE at Section III.C.2.b.(3)(c)(iii).

(viii) You must submit one of the following:

(A) If there is no pre-1978 structures on the site or if there are pre-1978 structures, that most recently consisted of solely four or fewer units of single-family housing including appurtenant structures thereto, a statement to this effect, or

(B) If there are pre-1978 structures on the site, other than for a site that most recently consisted of solely four or fewer units of single-family housing including appurtenant structures thereto, a comprehensive building asbestos survey that is based on a thorough inspection to identify the location and condition of asbestos throughout any structures.

Note: In those cases where suspect asbestos is found, it would either be assumed to be asbestos or would require confirmatory testing. If the asbestos survey indicates the presence of asbestos, or the presence of asbestos is assumed, and if the application is approved, HUD will condition the approval on an appropriate mix of asbestos abatement and an asbestos Operations and Maintenance Plan.

(ix) The letter you sent to the State/Tribal Historic Preservation Officer (SHPO/THPO) initiating consultation with their office and requesting their review of your determinations and findings with respect to the historical significance of your proposed project, along with a statement that the SHPO/THPO failed to respond to your letter, OR the SHPO/THPO response to your letter. A sample letter that you may adapt and send to the SHPO/THPO is available on the Grants.gov Web site at www.grants.gov.

(2) Exhibit 5: Supportive Services Plan

(a) A detailed description of the supportive services proposed to be provided to the anticipated occupancy.

(b) A description of public or private sources of assistance that reasonably could be expected to fund the proposed services.

(c) The manner in which such services will be provided to such persons (i.e., on or off-site), including whether a service coordinator will facilitate the adequate provision of such services, and how the services will meet the identified needs of the residents.

Note: You may not require residents, as a condition of admission or occupancy, to accept any supportive services.

d. Part IV—General Application Requirements, Certifications and Resolutions

(1) Exhibit 6: Other Applications

(a) A list of the applications, if any, you are submitting to any other local HUD office in response to the FY2006 Section 202 or Section 811 NOFA. Indicate by local HUD office, the proposed location by city and state and the number of units requested for each application.

(b) Include a list of all FY2005 and prior years Section 202 and Section 811 capital advance projects to which you are a party. Identify each by project number and local HUD office and include the following information:

(1) Whether the project has initially closed and, if so, when;

(2) If the project was older than 24 months when it initially closed (specify how old) or if older than 24 months now (specify how old) and has not initially closed, provide the reasons for the delay in closing;

(3) Whether amendment money was or will be needed for any project in (2) above; and, (4) Those projects that have not been finally closed.

(2) Exhibit 7: A statement that:

(a) Identifies all persons (families, individuals, businesses and nonprofit organizations) by race/minority group, and status as owners or tenants occupying the property on the date of submission of the application for a capital advance.

(b) Indicates the estimated cost of relocation payments and other services.

(c) Identifies the staff organization that will carry out the relocation activities.

(d) Identifies all persons that have moved from the site within the past 12 months.

Note: If any of the relocation costs will be funded from sources other than the Section 202 capital advance, you must provide evidence of a firm commitment of these funds. When evaluating applications, HUD will consider the total cost of proposals (i.e., cost of site acquisition, relocation, construction and other project costs).

(3) Exhibit 8: Standard Forms, Certifications and Resolutions. You are required to submit completed copies of the following forms which are available on the Grants.gov Web site at http://www.grants.gov.

(a) Standard Form 424—Application for Federal Assistance, including a DUNS number, an indication of whether you are delinquent on any federal debt, and compliance with Executive Order 12372 (a certification that you have submitted a copy of your application, if required, to the State agency (Single Point of Contact/(SPOC)) for state review in accordance with Executive Order 12372). If the SPOC requires a review of your application, you must include in your Section 202 application, a copy of the cover letter sent to the SPOC. Refer to Section IV.D. of this NOFA for additional information on compliance with Executive Order 12372. Note: For Section 202 program purposes, in Item 12, Areas Affected by Project, of SF-424, provide the names of the City, County and State where the project will be located (not the largest political entities as indicated on the instructions page of SF-424).

(b) Standard Form 424 Supplement, Survey on Ensuring Equal Opportunity for Applicants. Although the information on this form will not be considered in making funding decisions, it will assist the federal government in ensuring that all qualified applicants have an equal opportunity to compete for federal funding.

(c) Standard Form LLL—Disclosure of Lobbying Activities (if applicable). A disclosure of activities conducted to influence any federal transactions.

(d) Form HUD-2880, Applicant/Recipient Disclosure/Update Report, including Social Security and Employee Identification Numbers. A disclosure of assistance from other government sources received in connection with the project.

(e) Form HUD-2991, Certification of Consistency with the Consolidated Plan (Plan) for the jurisdiction in which the proposed project will be located. The certification must be made by the unit of general local government if it is required to have, or has, a complete Plan. Otherwise, the certification may be made by the state or by the unit of general local government if the project will be located within the jurisdiction of the unit of general local government authorized to use an abbreviated strategy, and if it is willing to prepare such a Plan. All certifications must be made by a public official responsible for submitting the Plan to HUD. The certifications must be submitted as part of the application by the application submission deadline date set forth in the NOFA. The Plan regulations are published in 24 CFR part 91.

(f) Form HUD-92041, Sponsor's Conflict of Interest Resolution. A certified Board Resolution that no officer or director of the Sponsor or Owner has or will have any financial interest in any contract with the Owner or in any firm or corporation that has or will have a contract with the Owner, including a current listing of all duly qualified and sitting officers and directors by title and the beginning and ending dates of each person's term.

(g) Form HUD-92042, Sponsor's Resolution for Commitment to Project. A certified Board Resolution acknowledging responsibilities of sponsorship, long-term support of the project(s), your willingness to assist the Owner to develop, own, manage and provide appropriate services in connection with the proposed project, and that it reflects the will of your membership. Also, it shall indicate your willingness to fund the estimated start-up expenses, the Minimum Capital Investment (one-half of one-percent of the HUD-approved capital advance, not to exceed $10,000 or for national Sponsors, not to exceed $25,000), and the estimated cost of any amenities or features (and operating costs related thereto) that would not be covered by the approved capital advance.

(h) Form HUD-2990, Certification of Consistency with the RC/EZ/EC-II Strategic Plan. A certification that the project is consistent with the RC/EZ/EC-IIs strategic plan, is located within the RC/EZ/EC-II, and serves RC/EZ/EC-II residents. (This certification is not required if the project site(s) will not be located in a RC/EZ/EC-II.)

(i) Form HUD-96010, Program Outcome Logic Model. In addition to the Project Development Timeline to be submitted in Exhibit 3(h) above, the information provided in the Logic Model will be used in rating your application for Rating Factor 5, Achieving Results and Program Evaluation.

(j) Form HUD-27300, Questionnaire for HUD's Initiative on Removal of Regulatory Barriers (optional form). To receive up to 2 points, you must submit this form and provide a reference, URL or brief statement documenting the successful efforts in removing barriers to affordable housing by the jurisdiction in which your project will be located. This Questionnaire will be considered in the rating of your application for Rating Factor 3.j.

(k) Form HUD-96011, Facsimile Transmittal, is only required if you are using the facsimile method to fax third party letters and other documents for your electronic application in accordance with the instructions in the General Section.

Note: HUD will not accept entire applications by fax. If you submit the application entirely by fax, it will be disqualified.

(l) Form HUD-2994-A, You Are Our Client Grant Applicant Survey. This is an optional form, which may be used to provide suggestions and comments to the Department regarding your application submission experience.

C. Submission Dates and Time. Your application must be received and validated electronically by Grants.gov no later than 11:59:59 p.m. Eastern time on the application deadline date of June 2, 2006, unless a waiver of the electronic delivery process has been approved by HUD. Please refer to the General Section for instructions on applying for a waiver. HUD strongly recommends that applicants that are unable to submit its application electronically and must seek a waiver of the electronic grant submission requirement, submit its waiver request to the Assistant Secretary for Housing at the following address no later than 15 days before the application deadline date. Brian D. Montgomery, Assistant Secretary for Housing-Federal Housing Commissioner, Department of Housing and Urban Development, 451 Seventh Street, SW., Room 9100, Washington, DC 20410-8000.

If a waiver is granted, you must mail copies of the application so that it can be received at the appropriate local HUD office no later than 11:59:59 p.m. on the application deadline date of June 2, 2006. The letter granting the waiver will provide instructions regarding the number of copies and where the application must be sent.

D. Intergovernmental Review. 1. State Review. This funding opportunity is subject to Executive Order (EO) 12372, “Intergovernmental Review of Federal Programs.” You must contact your State's Single Point of Contact (SPOC) to find out about and comply with the state's process under EO 12372. The names and addresses of the SPOCs are listed in the Office of Management and Budget's home page at http://www.whitehouse.gov/omb/grants/spoc.html. If required by the state, the submission to the state needs to occur before the Section 202 application deadline date, but in no event later than the application deadline date. It is recommended that you provide the state with sufficient time to review the application. Therefore, it is important that you consult with the SPOC for State review timeframes and take that into account when submitting the application. If the SPOC requires a review of your application, you must include a copy of the cover letter you sent to the SPOC in Exhibit 8(a) of your Section 202 application.

2. HUD/RHS Agreement. HUD and the Rural Housing Service (RHS) have an agreement to coordinate the administration of the agencies' respective rental assistance programs. As a result, HUD is required to notify RHS of applications for housing assistance it receives. This notification gives RHS the opportunity to comment if it has concerns about the demand for additional assisted housing and possible harm to existing projects in the same housing market area. HUD will consider RHS' comments in its review and application selection process.

E. Funding Restrictions.

1. Ineligible Activities. Section 202 funds may not be used for:

a. Nursing homes;

b. Infirmaries;

c. Medical facilities;

d. Mobile homes;

e. Community centers;

f. Headquarters for organizations for the elderly;

g. Nonhousekeeping accommodations (e.g., central dining, but without private kitchens and/or bathrooms in the residential units);

h. Refinancing of sponsor-owned facilities without rehabilitation,

i. Housing that you currently own or lease that is occupied by elderly persons; and

j. Projects licensed or to be licensed as assisted living facilities.

Note: You may propose to rehabilitate an existing currently-owned or leased structure that does not already serve elderly person, except that the refinancing of any federally-funded or assisted project or project insured or guaranteed by a federal agency is not permissible under this Section 202 NOFA. HUD does not consider it appropriate to utilize scarce program resources to refinance projects that have already received some form of assistance under a federal program. (For example, Section 202 or Section 202/8 direct loan projects cannot be refinanced with capital advances and project rental assistance.)

2. Application Limits (Units/Projects). Refer to Section III.C. of this NOFA for information applicable to the limitations on the number of units you may apply for in a single application and the project sizes.

3. Development Cost Limits. a. The following development cost limits, adjusted by locality as described in Section IV.E.3.b. below must be used to determine the capital advance amount to be reserved for projects for the elderly.

Note: The capital advance funds awarded for this project are to be considered the total amount of funds that the Department will provide for the development of this project. Amendment funds will only be provided in exceptional circumstances (e.g., to cover increased costs for construction delays due to litigation or unforeseen environmental issues resulting in a change of sites) that are clearly beyond your control. Otherwise, you are responsible for any costs over and above the capital advance amount provided by the Department as well as any costs associated with any excess amenities and design features.

(1) The capital advance amount for the project attributable to dwelling use (less the incremental development cost and the capitalized operating costs associated with any excess amenities and design features and other costs you must pay for) may not exceed:

Non-elevator structures:

$42,980 per family unit without a bedroom;

$49,557 per family unit with one bedroom;

$59,766 per family unit with two bedrooms;

For elevator structures:

$45,232 per family unit without a bedroom;

$51,849 per family unit with one bedroom;

$63,049 per family unit with two bedrooms.

(2) These cost limits reflect those costs reasonable and necessary to develop a project of modest design that complies with HUD minimum property standards; the accessibility requirements of § 891.120(b); and the project design and cost standards of § 891.120 and § 891.210.

b. Increased development cost limits. (1) HUD may increase the development cost limits set forth above, by up to 140 percent in any geographic area where the cost levels require, and may increase the development cost limits by up to 160 percent on a project-by-project basis. This increase may include covering additional costs to make dwelling units accessible through rehabilitation.

Note: In applying the applicable high cost percentage, the local HUD Office may use a percentage that is higher or lower than that which is assigned to the local HUD Office if it is needed to provide a capital advance amount that is comparable to what it typically costs to develop a Section 202 project in that area.

(2) If HUD finds that high construction costs in Alaska, Guam, the Virgin Islands, or Hawaii make it infeasible to construct dwellings, without the sacrifice of sound standards of construction, design, and livability, within the development cost limits provided in sections IV.E.3.a.(1) and IV.E.3.b.(1) above, the amount of the capital advances may be increased to compensate for such costs. The increase may not exceed the limits established under this section (including any high cost area adjustment) by more than 50 percent.

4. Commercial Facilities. A commercial facility for the benefit of the residents may be located and operated in the Section 202 project. However, the commercial facility cannot be funded with the use of Section 202 capital advance or PRAC funds. The maximum amount of space permitted for a commercial facility cannot exceed 10 percent of the total project cost. An exception to this 10 percent limitation is if the project involves acquisition or rehabilitation and the additional space was incorporated in the existing structure at the time the proposal was submitted to HUD. Commercial facilities are considered public accommodations under Title III of the Americans with Disabilities Act of 1990 (ADA), and thus must comply with all the accessibility requirements of the ADA.

5. Expiration of Section 202 Funds. The Department of Housing and Urban Development Appropriations Act, 2006, requires HUD to obligate all Section 202 funds appropriated for FY 2006 by September 30, 2009. Under 31 U.S.C. Section 1551, no funds can be disbursed from this account after September 30, 2014. Under Section 202, obligation of funds occurs for both capital advances and project rental assistance upon fund reservation and acceptance. If all funds are not disbursed by HUD and expended by the project Owner by September 30, 2014, the funds, even though obligated, will expire and no further disbursements can be made from this account. In submitting an application you need to carefully consider whether your proposed project can be completed through final capital advance closing no later than September 30, 2014. Furthermore, all unexpended balances, including any remaining balance on PRAC contracts, will be cancelled as of October 1, 2014. Amounts needed to maintain PRAC payments for any remaining term on the affected contracts beyond that date will have to be funded from other current appropriations.

F. Other Submission Requirements:

1. Address for Submitting Applications. Applications must be submitted electronically through the www.grants.gov Web site, unless the applicant receives a waiver from the electronic application submission requirement. See the General Section, Application Submission and Receipt Procedures, for information on applying online. If you apply for and receive a waiver from the electronic application requirement, you must submit an original and four copies of your completed application to the Director of the appropriate local HUD office. Refer to HUD's Web site at http://www.hud.gov/offices/adm/grants/fundsavail.cfm for a listing of local HUD offices. The applications submitted electronically via www.Grants.gov will be downloaded and forwarded to the appropriate local HUD office.

2. Special Instructions for Section 202 Applications That Will Have More Than One Applicant, i.e., Co-Sponsors. The applicants must designate a single individual to act as the authorized representative for all co-Sponsors of the application. The designated authorized representative of the organization submitting the application must be registered with Grants.gov, the Federal Central Contractor Registry and with the credential provider for E-Authentication. Information on the Grants.gov registration process is found at HUD's Web site at http://www.hud.gov/offices/adm/grants/fundsavail.cfm. (Ours are clearer instructions.) When the application is submitted through Grants.gov, the name of the designated authorized representative will be inserted into the signature line of the application. Please note that the designated authorized representative must be able to make legally binding commitments for each co-Sponsor to the application.

Each co-Sponsor must complete the documents required of all co-sponsoring organizations to permit HUD to make a determination on the eligibility of the co-Sponsor(s) and the acceptability of the application based on the assistance and commitments the co-Sponsor(s) has pledged to the project. Therefore, each co-Sponsor must submit the following information using the scanning and/or faxing method described in Section IV. of the General Section: Standard Form-424, Application for Federal Assistance; Standard Form-424 Supplement, Survey on Ensuring Equal Opportunity for Applicants; Standard Form LLL, Disclosure of Lobbying Activities (if applicable); Form HUD-92015-CA, Section 202 Application for Capital Advance, Summary Information; Form HUD-92041, Sponsor's Conflict of Interest Resolution; and Form HUD-92042, Sponsor's Resolution for Commitment to Project. The forms identified above are discussed in the Program instructions package and can be downloaded from Grants.gov under the program application download at www.grants.gov. The downloaded and completed forms should be saved as separate electronic files and attached to the electronic application submission following the requirements of Section IV.

As stated in the General Section, Section IV, scanning documents to create electronic files increases the size of the file. Therefore, applicants may not submit scanned files unless using the facsimile method as stated in the General Section will not work due to the nature of the document. If the facsimile method does not work, forms and other documents from co-Sponsors may be scanned to create an electronic file and submitted as an attachment to the application. These documents should be labeled and numbered so the HUD reviewer can identify the file and its contents. If the applicant is creating an electronic file, the file should contain a header that identifies the name of the Sponsor submitting the electronic application, that Sponsor's DUNS number, and the unique ID that is found at the top of the Facsimile Transmission form found in the electronic application package. The naming convention for each electronic file should correspond to the labeling convention used in the application Table of Contents found in Section IV.B.1. of this program NOFA. For example, the organizational documents of a co-Sponsor would be included under Part II, Exhibit 2(a) of the Section 202 application.

The signed documents and other information required to be submitted with the electronic application should be transmitted via fax using Form HUD-96011, Facsimile Transmittal found in the electronic application package. Co-Sponsors should use the form HUD-96011 provided by the Sponsor that is submitting the electronic application. The submitting Sponsor should fill in the SF-424 form prior to giving the Form HUD-96011 to the co-Sponsors. By following these directions, the Form HUD-96011 will be pre-populated with the submitting Sponsor's organizational information exactly as the submitting Sponsor has provided it on the electronic application. In addition, HUD will be using the unique identifier associated to the downloaded application package as a means of matching the faxes submitted with the applications received via Grants.gov. The Facsimile Transmittal form also has space to provide the number of pages being faxed and information on the type of document. Co-Sponsors or the submitting applicant can insert the document name in the space labeled Program Component.

Note: Do not insert any additional or other cover pages as it will cause problems in electronically matching the pieces of the application.

V. Application Review Information

A. Criteria

Policy Priorities. HUD encourages applicants to undertake specific activities that will assist the Department in implementing its policy priorities and which help the Department achieve its strategic goals for FY 2006. Refer to the General Section for information regarding HUD's Strategic Goals and Policy Priorities. For the Section 202 program, applicants who include work activities that specifically address the policy priorities of encouraging accessible design features by incorporating visitability standards and universal design, removing barriers to affordable housing, promoting energy efficiency in design and operations, and expanding training and employment opportunities for low- and very low-income persons and business concerns (Section 3 requirements), will receive additional points. A Notice pertaining to the removal of barriers to affordable housing was published in the Federal Register and may be downloaded from the HUD Web site at http://www.hud.gov/offices/adm/grants/fundsavail.cfm.

Rating Factors. HUD will rate applications that successfully complete technical processing using the Rating Factors set forth below and in accordance with the application submission requirements in this NOFA. The maximum number of points an application may receive under this program is 102. This includes two (2) RC/EZ/EC-II bonus points, as described in the General Section and Section V.A.6. below.

1. Rating Factor 1: Capacity of the Applicant and Relevant Organizational Staff (23 Points)

This factor addresses the extent to which you have the organizational resources to successfully implement the proposed activities in a timely manner. Submit information responding to this factor in accordance with Application Submission Requirements in Exhibits 3(a), 3(b), 3(e), 5 and 6 of Section IV.B. of this NOFA. In rating this factor, HUD will consider the extent to which your application demonstrates your ability to develop and operate the proposed housing on a long-term basis, considering the following:

a. (13 points). The scope, extent, and quality of your experience in providing housing or related services to those proposed to be served by the project and the scope of the proposed project (i.e., number of units, services, relocation costs, development, and operation) in relationship to your demonstrated development and management capacity as well as your financial management capability.

b. (10 points). The scope, extent and quality of your experience in providing housing or related services to minority persons or minority families and your ties to the community at large and to the minority and elderly communities in particular.

(1) (5 points). The scope, extent, and quality of your experience in providing housing or related services to minority persons or minority families.

(2) (5 points). The scope, extent, and quality of your ties to the community at large and to the minority and elderly communities in particular.

To earn the maximum number of points under sub-criteria (b)(1) above, you must describe significant previous experience in providing housing and/or supportive services to minorities generally and to minority elderly in particular. For the purpose of this competition, “significant previous experience” means that the previous housing assistance or related services to minorities (i.e., the percentage of minorities being provided housing or related services in your current developments) was equal to or greater than the percentage of minorities in the housing market area where the previous housing or services occurred. To earn the maximum number of points under sub-criteria (b)(2) above, you should submit materials that demonstrate your efforts to make housing available to the community at large and the minority and elderly communities in particular and your relationships over time with the minority and elderly communities. Examples of documents that may be submitted to earn the maximum number of points under sub-criteria (b)(2) include letters of support from community leaders (including minority community leaders) that give information about the applicant's relationship over time with the community (including the minority community). You may also submit copies of your affirmative marketing plan and the advertising/outreach materials you utilize to attract minority communities (including limited English proficient communities), elderly communities and the community at large. Regarding your advertising/outreach materials, you should identify when advertising/outreach materials are circulated, whom they are circulated to, where they are circulated and how they are circulated. Descriptions of other advertising/outreach efforts to the minority (including limited English proficient communities) and elderly communities and the dates and places of such advertising/outreach efforts should also be included.

c. (^3 to ^5 points). HUD will deduct (except if the delay was beyond your control) 3 points if a fund reservation you received under either the Section 202 Program of Supportive Housing for the Elderly or the Section 811 Program of Supportive Housing for Persons with Disabilities in FY 2001 or later has been extended beyond 24 months, 4 points if beyond 36 months, or 5 points if beyond 48 months. Examples of such delays beyond your control include, but are not limited to, initial closing delays that are: (1) directly attributable to HUD, (2) directly attributable to third party opposition, including litigation, and (3) due to a disaster, as declared by the President of the United States.

d. (−3 to −5 points). HUD will deduct from 3 points to 5 points if amendment money was required in connection with a fund reservation you received under either the Section 202 Program of Supportive Housing for the Elderly or the Section 811 Program of Supportive Housing for Persons with Disabilities in FY 2001 or later based on the following.

(1) (−3 points). The amount of the amendment money required was 25% or less of the original capital advance amount approved by HUD.

(2) (−4 points). The amount of the amendment money required was between 26% and 50% of the original capital advance amount approved by HUD.

(3) (−5 points). The amount of the amendment money required was over 50% of the original capital advance amount approved by HUD.

2. Rating Factor 2: Need/Extent of the Problem (13 Points)

This factor addresses the extent to which there is a need for funding the proposed activities to address a documented problem in the target area. Submit information responding to this factor in accordance with Application Submission Requirements in Exhibits 4(a) and 4(b) of Section IV.B. of this NOFA. HUD will take into consideration the following in evaluating this factor:

The extent of the need for the project in the area based on a determination by the local HUD Office. In making this determination, HUD will consider your evidence of need in the area, as well as other economic, demographic, and housing market data available to the local HUD office. The data should include a general assessment of the current conditions in the market for the type of housing proposed, an estimate of the demand for additional housing of the type proposed in the applicable housing market area; as well as, information on the numbers and types of existing comparable federally assisted housing units for the elderly (HUD and RHS), current occupancy in such housing and recent market experience, comparable assisted housing for the elderly under construction or for which fund reservations have been issued, and, in accordance with an agreement between HUD and RHS, comments from RHS on the demand for additional comparable subsidized housing and the possible harm to existing projects in the same housing market areas. The Department will also review more favorably those applications that establish a connection between the proposed project and the community's Analysis of Impediments to Fair Housing Choice (AI) or other planning document that analyzes fair housing issues and is prepared by a local planning or similar organization. You must show how your proposed project will address an impediment to fair housing choice described in the AI or meet a need identified in the other type of planning document.

For all Section 202 projects that are determined to have sufficient demand, HUD will rate your application based on the ratio of the number of units in the proposed project to the estimate of unmet need for housing assistance by the income eligible elderly households with selected housing conditions. Unmet need is defined as the number of very low-income elderly one-person renter households age 75 and older with housing conditions problems, as of the 2000 Census minus the number of project-based subsidized rental housing units (HUD, RHS, or LIHTC) that are affordable to very low-income elderly provided in the area since 1999. Units to be occupied by resident managers are not counted. After HUD determines the estimate of unmet need and whether a connection has been made between the project and community's Consolidated Plan, Analysis of Impediments to Fair Housing Choice, or other planning document, HUD will rate your application as follows:

a. (10 points). The area of the project has an unmet needs ratio of 15 percent or less; or

(5 points). The area of the project has an unmet needs ratio of greater than 15 percent; or

(0 points). The area of the proposed project has no unmet needs for housing assistance.

b. (3 points). The extent that a connection has been established between the project and the community's Consolidated Plan, Analysis of Impediments to Fair Housing Choice (AI) or other planning document that analyzes fair housing issues and is prepared by a local planning or similar organization.

3. Rating Factor 3: Soundness of Approach (47 Points)

This factor addresses the quality and effectiveness of your proposal and the extent to which you involved elderly persons, including elderly minority persons, in the development of the application and will involve them in the development and operation of the project, whether the jurisdiction in which your project will be located has undertaken successful efforts to remove regulatory barriers to affordable housing, whether you will promote energy efficiency in the design and operation of the proposed housing, and your plans to expand economic opportunities for low- and very low-income persons as well as business concerns (Section 3 requirements). There must be a clear relationship between your proposed design, proposed activities, the community's needs and purposes of the program funding for your application to receive points for this factor. Submit information responding to this factor in accordance with Application Submission Requirements in Exhibits 3(f), 3(j), 3(k), 4(c)(i), 4(c)(ii), 4(d)(iii), 4(d)(v), 4(d)(vi), 5, and 8(j) of Section IV.B. of this NOFA. In evaluating this factor, HUD will consider the following:

a. (20 points). The proximity or accessibility of the site to shopping, medical facilities, transportation, places of worship, recreational facilities, places of employment, and other necessary services to the intended occupants; adequacy of utilities and streets; freedom of the site from adverse environmental conditions; compliance with site and neighborhood standards (24 CFR 891.125(a), (d) and (e)).

b. (−1 point). The site(s) is not permissively zoned for the intended use.

c. (10 points). The suitability of the site from the standpoints of promoting a greater choice of housing opportunities for minority elderly persons/families, and affirmatively furthering fair housing. In reviewing this criterion, HUD will assess whether the site meets the site and neighborhood standards at 24 CFR 891.125(b) and (c) by examining relevant data in your application or in the local HUD Office. Where appropriate, HUD may visit the site.

(1) The site will be deemed acceptable if it increases housing choice and opportunity by expanding housing opportunities in non-minority neighborhoods (if located in such a neighborhood). The term “nonminority area” is defined as one in which the minority population is lower than 10 percent. If the site will be in a minority neighborhood, the site will be deemed acceptable if it contributes to the revitalization of and reinvestment in the minority neighborhood, including improvement of the level, quality and affordability of services furnished to minority elderly. You should refer to the Site and Neighborhood Standards provisions of the regulations governing the Section 202 Supportive Housing for the Elderly program (24 CFR 891.125(b) and (c)) when considering sites for your project.

(2) For the purpose of this competition, the term “minority neighborhood (area of minority concentration)” is defined as one where any one of the following statistical conditions exists:

(a) The percentage of persons of a particular racial or ethnic minority is at least 20 points higher than the minority's or combination of minorities' percentage in the housing market area as a whole;

(b) The neighborhood's total percentage of minority persons is at least 20 points higher than the total percentage of minorities for the housing market as a whole; or,

(c) In the case of a metropolitan area, the neighborhood's total percentage of minority persons exceeds 50 percent of its population.

d. (2 points). The extent to which your proposed design will meet the special physical needs of elderly persons.

e. (2 points). The extent to which the proposed size and unit mix of the housing will enable you to manage and operate the housing efficiently and ensure that the provision of supportive services will be accomplished in an economical fashion.

f. (2 points). The extent to which the proposed design of the housing will accommodate the provision of supportive services that are expected to be needed, initially and over the useful life of the housing, by the category or categories of elderly persons the housing is intended to serve.

g. (3 points). The extent to which the proposed supportive services meet the identified needs of the anticipated residents and that the identified supportive services will be provided on a consistent, long-term basis.

h. (1 point). The extent to which the proposed design incorporates visitability standards and/or universal design in the construction or rehabilitation of the project. Refer to the General Section for further information.

i. (2 points). Your involvement of elderly persons, particularly minority elderly persons, in the development of the application and your intent to involve elderly persons, particularly minority elderly persons, in the development and operation of the project.

j. (2 points). The extent to which the jurisdiction in which your project will be located has undertaken successful efforts to remove regulatory barriers to affordable housing. (Note: To receive up to 2 points, the applicant must have submitted the optional Form HUD-27300, Questionnaire for HUD's Initiative on Removal of Regulatory Barriers, AND provided URL references or submitted the required documentary evidence.) Refer to the General Section for further information.

k. (1 point). The extent to which you will promote energy efficiency in the design and operation of the proposed housing. Refer to Section III.C.3.j. of this NOFA.

l. (2 points). The extent to which you have described your plans for expanding economic opportunities for low- and very-low income persons (provisions of Section 3). Note: To receive up to 2 points, the applicant must have adequately addressed the following in Exhibit 3(k) of the application. Refer to the General Section for further information.

(1) (1 point). Provide opportunities to train and employ low- and very low-income residents of the project area.

(2) (1 point). Award substantial contracts to persons residing in the project area.

4. Rating Factor 4: Leveraging Resources (5 Points)

This factor addresses your ability to secure other funding sources and community resources that can be combined with HUD's program resources to achieve program purposes. Submit information responding to this factor in accordance with Application Submission Requirements in Exhibits 3(a), 3(b), 3(c), 3(d), 3(e), and 5(b) of Section IV.B. of this NOFA.

a. (0 point). The application contains general support and/or written evidence of firm commitments towards the development and operation of the proposed project (including, financial assistance, donation of land, provision of services, etc.) from other funding sources (e.g., private local community and government sources) where the dollar value totals 5% or less of the capital advance amount as determined by HUD.

b. (1 point). The application contains written evidence of firm commitments towards the development and operation of the proposed project (including, financial assistance, donation of land, provision of services, etc.) from other funding sources (e.g., private local community and government sources) where the dollar value total between 6% and 10% of the capital advance amount as determined by HUD.

c. (2 points). The application contains written evidence of firm commitments towards the development and operation of the proposed project (including, financial assistance, donation of land, provision of services, etc.) from other funding sources (e.g., private local community and government sources) where the dollar value totals 11% and 15% of the capital advance amount as determined by HUD.

d. (3 points). The application contains written evidence of firm commitments towards the development and operation of the proposed project (including, financial assistance, donation of land, provision of services, etc.) from other funding sources (e.g., private local community and government sources) where the dollar value totals between 16% and 20% of the capital advance amount as determined by HUD.

e. (4 points). The application contains written evidence of firm commitments towards the development and operation of the proposed project (including, financial assistance, donation of land, provision of services, etc.) from other funding sources (e.g., private local community and government sources) where the dollar value totals between 21% and 25% of the capital advance amount as determined by HUD.

f. (5 points). The application contains written evidence of firm commitments towards the development and operation of the proposed project (including, financial assistance, donation of land, provision of services, etc.) from other funding sources (e.g., private local community and government sources) where the dollar value totals over 25% of the capital advance amount as determined by HUD.

5. Rating Factor 5: Achieving Results and Program Evaluation (12 Points)

This factor reflects HUD's goal to embrace high standards of ethics, management and accountability and, as such, emphasizes HUD's commitment to ensuring that you keep the promises made in your application. This factor requires that you clearly identify the benefits or outcomes of your project and develop an evaluation plan to measure performance, which includes what you are going to measure, how you are going to measure it, and the steps you will have in place to make adjustments to your project development timeline should you not be able to achieve any of the major milestones. Completion of Exhibit 8(i), Project Outcome Logic Model, will assist you in completing your response to this rating factor. This rating factor also addresses the extent to which your project will implement practical solutions that result in residents achieving independent living, educational opportunities, and improved living environments. Finally, this factor addresses the extent to which the long-term viability of your project will be sustained for the duration of the 40-year capital advance period. Submit information responding to this factor in accordance with Application Submission Requirements in Exhibits 3(e), 3(g), 3(h), 3(i), 6(b) and 8(i) of Section IV.B.

a. (5 points). The extent to which your project development timeline is indicative of your full understanding of the development process and will, therefore, result in the timely development of your project.

b. (2 points). The extent to which your past performance evidences that the proposed project will result in the timely development of the project. Evidence of your past performance could include the development of previous construction projects, including but not limited to Section 202 and Section 811 projects.

c. (2 points). The extent to which your project will implement practical solutions that will result in assisting residents in achieving independent living, educational opportunities, outreach regarding telemarketing fraud, and improved living environments.

d. (3 points). The extent to which you demonstrated that your project will remain viable as housing with the availability of supportive services for very low-income elderly persons for the 40-year capital advance period.

6. Bonus Points (2 Bonus Points)

Location of proposed site in an RC/EZ/EC-II area, as described in the General Section. Submit the information responding to the bonus points in accordance with the Application Submission Requirements in Exhibit 8(h) of Section IV.B. of this NOFA.

B. Reviews and Selection Process

1. Review for Curable Deficiencies. Upon receipt of the application by HUD staff, HUD will screen all applications to determine if there are any curable deficiencies. For applicants receiving a waiver to submit a paper application, submitting fewer than the required original and four copies of the application is not a curable deficiency and will cause your application to be considered non-responsive to the NOFA and returned to you. A curable deficiency is a missing Exhibit or portion of an Exhibit that will not affect the rating of the application. Refer to the General Section for additional information regarding procedures for corrections to deficient applications. The following is a list of the only deficiencies that will be considered curable in a Section 202 application:

Exhibit | Description
1 | Form 92015-CA (Application Form).*
2(a) | Articles of Incorporation.*
(b) | By-laws.*
(c) | IRS tax exemption ruling.*
4(c)(iii) | Description of mixed-financing plans for additional units, if applicable.
4(d)(i) | Evidence of site control.
(d)(ii) | Evidence site is free of limitations, restrictions or reverters.
(d)(iv) | Evidence of compliance with URA site notification requirement.
(d)(vii) | Phase I ESA.
(d)(viii) | Asbestos Statement or Survey.
(d)(ix) | Letter to the State/Tribal Historic Preservation Officer. (SHPO/THPO) and a statement that the SHPO/THPO failed to respond; or the Letter from the SHPO/THPO.
7 | Relocation.
8(a) | Standard Form 424, Application for Federal Assistance, Letter sent to the State Point of Contact (SPOC).*
(b) | Standard Form 424 Supplement, Survey on Ensuring Equal Opportunity for Applicants.
(c) | Standard Form LLL, Disclosure of Lobbying Activities, if applicable.
(d) | Form HUD-2880, Applicant/Recipient Disclosure/Update Report.
(e) | Form HUD-2991, Certification of Consistency with Consolidated Plan.
(f) | Form-HUD-92041, Sponsor's Conflict of Interest Resolution.
(g) | Form HUD-92042, Sponsor's Resolution for Commitment to Project.*

The local HUD office will notify you in writing if your application is missing any of the above exhibits or portions of exhibits and will provide you with a specified deadline to submit the information required to cure the noted deficiencies. The items identified by an asterisk (*) must be dated on or before the application submission date. If an Exhibit or portion of an Exhibit listed above as curable is not discovered as missing until technical processing, HUD will provide you with a deadline to cure the deficiency.

2. Rating. HUD will review and rate your application in accordance with the Reviews and Selection Process in the General Section except as described in 3. Appeal Process below. Your application will be either rated or technically rejected at the end of technical review. If your application meets all program eligibility requirements after completion of technical review, it will be rated according to the rating factors in Section V.A. above.

3. Appeal Process. HUD will not reject your application based on technical review without notifying you of the rejection with all the reasons for rejection and providing you an opportunity to appeal. You will have 14 calendar days from the date of HUD's written notice to appeal a technical rejection to the local HUD office. In HUD's review of any appeal, it should be noted that in conformance with its regulations at 24 CFR part 4, subpart B, HUD will not consider any unsolicited information that you, the applicant, may want to provide. The local HUD office will make a determination on any appeals before making its selection recommendations.

4. Ranking and Selection Procedures. Applications submitted in response to the advertised metropolitan allocations or nonmetropolitan allocations that have a total base score of 75 points or more (without the addition of RC/EC/EZ-II bonus points) and meet all of the applicable threshold requirements of the General Section and this NOFA will be eligible for selection, and HUD will place them in rank order per metropolitan or nonmetropolitan allocation. These applications, after adding any bonus points for RC/EC/EZ-II, will be selected based on rank order, up to and including the last application that can be funded out of each HUD Multifamily Program Center's metropolitan or nonmetropolitan allocation. HUD Multifamily Program Centers will not skip over any applications in order to select one based on the funds remaining. After making the initial selections in each allocation area, however, HUD Multifamily Program Centers may use remaining available funds to select the next rank-ordered application by reducing the number of units by no more than 10 percent, rounded to the nearest whole number, provided the reduction will not render the project infeasible. For this purpose, however, HUD will not reduce the number of units in projects of five units or less.

Once this process has been completed, HUD Multifamily Program Centers may combine their unused metropolitan and nonmetropolitan funds in order to select the next highest ranked application in either category, using the unit reduction policy described above, if necessary.

After the HUD Multifamily Program Centers have funded all possible projects based on the process above, combined metropolitan and nonmetropolitan residual funds from all HUD Multifamily Program Centers within each Multifamily Hub will be combined. First, these funds will be used to restore units to projects reduced by HUD Multifamily Program Centers based on the above instructions. Second, additional applications within each Multifamily Hub will be selected in Hub-wide rank order with only one application selected per HUD Multifamily Program Center. More than one application may be selected per HUD Multifamily Program Center if there are no approvable applications in other HUD Multifamily Program Centers within the Multifamily Hub. This process will continue until there are no more approvable applications within the Multifamily Hub that can be selected with the remaining funds. Applications may not be skipped over to select one based on funds remaining. However, the Multifamily Hub may use any remaining residual funds to select the next highest rated application by reducing the number of units by no more than 10 percent rounded to the nearest whole number, provided the reduction will not render the project infeasible or result in the project being less than five units.

Funds remaining after the Multifamily Hub selection process is completed will be returned to Headquarters. HUD Headquarters will use these residual funds first to restore units to projects reduced by HUD Multifamily Program Centers or Multifamily Hubs as a result of the instructions for using their residual funds. Second, HUD Headquarters will use these funds for selecting applications based on HUD Multifamily Program Centers' rankings, beginning with the highest rated application nationwide. However, after restoring units to projects where necessary, priority will be given to those applications for projects in non-metropolitan areas, if necessary to meet the statutory requirement of Section 202 of the Housing Act of 1959 pertaining to Section 202 funding in nonmetropolitan areas. Only one application will be selected per HUD Multifamily Program Center from the national residual amount. If there are no approvable applications in other HUD Multifamily Program Centers, the process will begin again with the selection of the next highest rated application nationwide. This process will continue until all approvable applications are selected using the available remaining funds. HUD Headquarters may skip over a higher-rated application in order to use as much of the available remaining funds as possible.

5. HUD Error. In the event HUD commits an error that, when corrected, would have resulted in the selection of an otherwise eligible applicant during the funding round of this NOFA, HUD may select that applicant when sufficient funds become available.

VI. Award Administration Information

A. Award Notices

1. Agreement Letter. If you are selected to receive a Section 202 fund reservation, you will receive an Agreement Letter that stipulates the terms and conditions for the Section 202 fund reservation award as well as the submission requirements following the fund reservation award. The duration of the fund reservation award for the capital advance is 18 months from the date of issuance of the fund reservation.

Immediately upon your acceptance of the Agreement Letter, you are expected to begin work towards the submission of a Firm Commitment Application, which is the next application submission stage. You are required to submit a Firm Commitment Application to the local HUD office within 180 days from the date of the Agreement Letter. Initial closing of the capital advance and start of construction of the project are expected to be accomplished within the duration of the fund reservation award. Final closing of the capital advance is expected to occur no later than six months after completion of project construction.

2. Non-Selection Letter. If your application is approvable but unfunded due to insufficient funds or receives a rating that is below the minimum threshold score established for funding eligibility, you will receive a letter to this effect.

3. Debriefing. Refer to the General Section for further information regarding debriefings, except that the request for a debriefing must be made to the Director of Multifamily Housing in the appropriate local HUD office.

B. Administrative and National Policy Requirements

1. Ensuring the Participation of Small Businesses, Small Disadvantaged Businesses, and Women-Owned Businesses. Although the Section 202 program is not subject to the provisions of 24 CFR 85.36(e) as described in the corresponding paragraph in the General Section, you are required to comply with Executive Order 12432, Minority Business Enterprise Development and Executive Order 11625, Prescribing Additional Arrangements for Developing and Coordinating a National Program for Minority Business Enterprise as they relate to the encouragement of HUD grantees to utilize minority business enterprises.

2. Acquisition and Relocation. You must comply with the Uniform Relocation Assistance and Real Property Acquisition Policies Act of 1970, as amended (49 CFR part 24, and 24 CFR 891.155(e)) (URA), which covers the acquisition of sites, with or without existing structures, and with 24 CFR 8.4(b)(5) of the Section 504 regulations which prohibits discrimination based on disability in determining the site or location of a federally-assisted facility. However, you are exempt from complying with the site acquisition requirements of the URA if you do not have the power of eminent domain and prior to entering into a contract of sale, option to purchase or any other method of obtaining site control, you inform the seller of the land in writing (1) that you do not have the power of eminent domain and, therefore, you will not acquire the property if negotiations fail to result in an amicable agreement, and (2) of the estimate of the fair market value of the property. An appraisal is not required to meet this requirement, however, your files must include an explanation (with reasonable evidence) of the basis for the estimate. Evidence of compliance with this advance notice requirement must be included in Exhibit 4(d)(iv) of your application.

3. Flood Disaster Protection Act of 1973 and Coastal Barrier Resources Act. You must comply with the requirements under the Flood Disaster Protection Act of 1973 (42 U.S.C. 4001-4128) and the Coastal Barrier Resources Act (16 U.S.C. 3601).

C. Reporting

1. The Program Outcome Logic Model (Form HUD-96010) must be completed indicating the results achieved against the proposed output goal(s) and proposed outcome(s) which you stated in your approved application and agreed upon by HUD. Based on the information you provided in the Program Outcome Logic Model, you also are required to submit to HUD a statement reporting the Return on Investment as a result of HUD's Section 202 funding award to you to develop and operate a Section 202 housing project with supportive services for the very low-income elderly. The Return on Investment requirement is a comparison of the cost of the acquisition, construction, or rehabilitation of housing with supportive services for elderly persons, including the frail elderly, 62 years of age and over, with the value of maintaining an elderly person, including a frail elderly person, in their own home and avoiding placement into a long-term care facility. These reporting requirements are to be submitted to HUD as follows:

a. Program Outcome Logic Model. You, as the Sponsor, and the Owner, when formed, are required to report annually, beginning from the date of the Agreement Letter, on the results achieved against the output goal(s) and outcome(s), which you proposed in the Program Outcome Logic Model that was submitted in your application. For FY2006, HUD is considering a new concept for the Logic Model. The new concept is a Return on Investment (ROI) statement. HUD will be publishing a separate notice on the ROI concept.

2. The Regulatory Agreement (Form HUD-92466-CA) requires the Owner of the Section 202 project to submit an annual financial statement for the project. This financial statement must be audited by an Independent Public Accountant who is a Certified Public Accountant or other person accepted by HUD and filed electronically with HUD's Real Estate Assessment Center (REAC) through the Financial Assessment Subsystem for Multifamily Housing (MF-FASS). The submission of annual financial statements is required throughout the 40-year term of the mortgage.

VII. Agency Contact(s)

For Technical Assistance. For technical assistance in downloading an application package from www.grants.gov, contact the Grants.gov help desk at 800-518-Grants or by sending an e-mail to support@grants.gov. For programmatic information, you may contact the appropriate local HUD office, or Evelyn Berry at HUD Headquarters at (202) 708-3000 (this is not a toll-free number), or access the Internet at http://www.hud.gov/offices/adm/grants/fundsavail.cfm. Persons with hearing and speech impairments may access the above number via TTY by calling the Federal Relay Service at 1-800-877-8339 (this is a toll-free number).

VIII. Other Information

A. Field Office Workshop. HUD encourages minority organizations and grassroots organizations (e.g., civic organizations, faith-communities and grassroots faith-based and other community-based organizations) to participate in this program and strongly recommends that prospective applicants attend the local HUD office workshop. At the workshops, HUD will explain application procedures and requirements, as well as address concerns such as local market conditions, building codes and accessibility requirements, contamination identification and remediation, historic preservation, floodplain management, other environmental requirements, displacement and relocation, zoning, and housing costs. If you are interested in attending the workshop, make sure that your name, address and telephone number are on the appropriate local HUD office's mailing list so that you will be informed of the date, time and place of the workshop. Persons with disabilities should call the appropriate local HUD Office to assure that any necessary arrangements can be made to enable their attendance and participation in the workshop.

If you cannot attend the workshop, call the appropriate local HUD office if you have any questions concerning the submission of applications to that particular office and to request any materials distributed at the workshop.

B. Satellite Broadcast. HUD will hold an information broadcast via satellite for potential applicants to learn more about the program and preparation of the application. It is strongly recommended that potential applicants, especially those who may be applying for Section 202 funding for the first time, tune in to this broadcast, if at all possible. Copies of the broadcast tapes are also available from the NOFA Information Center. For more information about the date and time of the broadcast, you should consult the HUD Web site at http://www.hud.gov/offices/adm/grants/fundsavail.cfm.

C. Related Programs. Funding for a related program, Section 202 Demonstration Planning Grant Program, is available to provide predevelopment grants to private nonprofit organizations and consumer cooperatives in connection with the development of housing under the Section 202 program. The announcement of the availability of funding under this program will be addressed in a separate NOFA. Also, funding was made available for the Department to carry out a Section 202 Demonstration Program for Elderly Housing for Intergenerational Families. The announcement of the availability of funds for this demonstration program will be addressed in a future Federal Register.

D. Paperwork Reduction Act. The information collection requirements contained in this document have been approved by the Office of Management and Budget (OMB) under the Paperwork Reduction Act of 1995 (44 U.S.C. 3501-3520) and assigned OMB control number 2502-0267. In accordance with the Paperwork Reduction Act, HUD may not conduct or sponsor, and a person is not required to respond to, a collection of information unless the collection displays a currently valid OMB control number. Public reporting burden for the collection of information is estimated to average 37.42 hours per annum per respondent for the application and grant administration. This includes the time for collecting, reviewing, and reporting the data for the application. The information will be used for grantee selection and monitoring the administration of funds. Response to this request for information is required in order to receive the benefits derived.

BILLING CODE 4210-01-P

Section 811 Program of Supportive Housing for Persons With Disabilities (Section 811 Program)

Overview Information

A. Federal Agency Name: Department of Housing and Urban Development, Office of Housing.

B. Funding Opportunity Title: Section 811 Supportive Housing for Persons with Disabilities.

C. Announcement Type: Initial announcement.

D. Funding Opportunity Number: OMB Approval Number: 2502-0462. The Federal Register number is: FR-5030-N-21.

E. Catalog of Federal Domestic Assistance (CFDA) Number: 14.181, Section 811 Supportive Housing for Persons with Disabilities.

F. Dates: Application deadline date: May 26, 2006. Refer to Section IV. below and the General Section for information on application submission requirements.

G. Optional, Additional Overview Content Information: 1. Purpose of the Program. This program provides funding for the development and operation of supportive housing for very low-income persons with disabilities who are at least 18 years old. If you receive funding through this program, you must assure that supportive services are identified and available.

2. Available Funds. Approximately 90.3 million in capital advance funds, plus associated project rental assistance contract (PRAC) funds and any carryover funds available.

3. Types of Funds. Capital advance funds will cover the cost of developing the housing. PRAC funds will cover the difference between the HUD-approved operating costs of the project and the tenants' contributions toward rent (30 percent of their adjusted monthly income).

4. Eligible Applicants. Nonprofit organizations that have a section 501(c)(3) tax exemption from the Internal Revenue Service. (See Section VI.B.6. below of this NOFA for further details and information regarding the formation of the Owner corporation.)

5. Eligible Activities. New construction, rehabilitation, or acquisition (with or without rehabilitation) of housing. (See Section III.C.1. below of this NOFA for further information.)

6. Match Requirements. None required.

7. Local HUD Offices. The local HUD office structure, for the purpose of implementing the Section 811 program, consists of 18 Multifamily Hub Offices. Within the Multifamily Hubs, there are Multifamily Program Centers with the exception of the New York Hub, the Buffalo Hub, the Denver Hub and the Los Angeles Hub. All future references shall use the term “local HUD office” unless a more detailed description is necessary as in Limitations on Applications and Ranking and Selection Procedures, below.

Full Text of Announcement

I. Funding Opportunity Description

A. Program Description. HUD provides capital advances and contracts for project rental assistance in accordance with 24 CFR part 891. Capital advances may be used for the construction or rehabilitation of a structure or acquisition of a structure with or without rehabilitation (including structures from the Federal Deposit Insurance Corporation (FDIC)), to be developed into a variety of housing options described in Section III.C. Capital advance funds bear no interest and are based on development cost limits in Section IV.E.3. Repayment of the capital advance is not required as long as the housing remains available for occupancy by very low-income persons with disabilities for at least 40 years. PRAC funds are used to cover the difference between the tenants' contributions toward rent (30 percent of adjusted income) and the HUD-approved cost to operate the project.

B. Authority. 42 U.S.C. 8013 (Section 811 of the Cranston-Gonzalez National Affordable Housing Act (Pub. L. 101-625, approved November 28, 1990)(NAHA), as amended by the Housing and Community Development Act of 1992) (Pub. L. 102-550, approved October 28, 1992)(HCD Act of 1992); the Rescissions Act (Pub. L. 104-19, approved July 27, 1995); the American Homeownership and Economic Opportunity Act of 2000 (Pub. L. 106-569, approved December 27, 2000) and the Department of Housing and Urban Development Appropriations Act, 2006, (Pub. L.109-115, approved November 30, 2005) and the Government-wide Rescissions pursuant to the Department of Defense Appropriations Act, 2006 (Pub. L. 109-148, approved December 30, 2005) authorized a new supportive housing program for persons with disabilities, and replaced assistance for persons with disabilities previously covered by section 202 of the Housing Act of 1959 (section 202 continues, as amended by section 801 of the NAHA, and the HCD Act of 1992, to authorize supportive housing for the elderly).

C. Eligible Occupancy. You may propose a Section 811 project to serve persons with physical disabilities, developmental disabilities, chronic mental illness, or any combination of the three as defined in 24 CFR 891.305. In addition, you may request HUD approval to restrict occupancy to a subcategory of one of these three defined categories (e.g., HIV/AIDS is a subcategory of physical disability). If restricted occupancy is approved, however, you cannot deny occupancy to any otherwise qualified person that meets the definition of the overall category of disability under which the subcategory falls.

D. Calculation of Fund Reservation. If selected, you will receive a fund reservation that will consist of both a reservation of capital advance funds and a reservation of three years for project rental assistance.

1. Capital advance funds. The reservation of capital advance funds is based on a formula which, for an independent living project (including condominiums), takes the development cost limit for the appropriate building type (elevator, non-elevator) and unit size(s) and multiplies it by the number of units of each size (including a unit for a resident manager, if applicable) and then multiplies the result by the high cost factor for the area. For a group home, the formula is based on the number of persons with disabilities in the appropriate disability category (excluding any unit for a resident manager since such a unit is already incorporated in the development cost limit) multiplied by the high cost factor for the area. The development cost limits can be found in Section IV.E.3. of this NOFA.

2. PRAC funds. The initial PRAC award covers three years. The amount awarded is determined by multiplying the number of units for residents with disabilities in an independent living project or the number of residents with disabilities in a group home by the appropriate operating cost standard times 3. The operating cost standards will be published by Notice.

II. Award Information

A. Available Funds. For FY 2006, $90,302,844 million is available for capital advances for the Section 811 Program of Supportive Housing for Persons with Disabilities. The Department of Housing and Urban Development Appropriations Act, 2006 (Pub. L. 109-115, approved November 30, 2005) provides $239,000,000 for capital advances, including amendments to capital advance contracts, for supportive housing for persons with disabilities as authorized by section 811 of the National Affordable Housing Act of 1990 (NAHA); for project rental assistance for supportive housing for persons with disabilities under section 811 of the NAHA, including amendments to contracts for such assistance and renewal of expiring contracts for such assistance for up to a one-year term and for tenant-based rental assistance contracts and renewal of expiring contracts for such assistance entered into pursuant to section 811 of the NAHA, and $400,000 to be transferred to the Working Capital Fund, all of which is subject to a 1 percent across-the-board rescission pursuant to Public Law 109-148. $5,000,000 will be provided for tenant-based rental assistance for persons with disabilities administered through public housing agencies (PHAs) and nonprofit organizations under the Mainstream Housing Opportunities for Persons with Disabilities Program and $78,300,000 will be provided for one-year renewal costs of Section 811 rental assistance.

In accordance with the waiver authority provided in the Department of Housing and Urban Development Appropriations Act, 2006, the Secretary is waiving the following statutory and regulatory provision: The term of the project rental assistance contract is reduced from 20 years to 3 years. HUD anticipates that at the end of the contract terms, renewals will be approved subject to the availability of funds. In addition to this provision, HUD will reserve project rental assistance contract funds based on 75 percent rather than on 100 percent of the current operating cost standards for approved units in order to take into account the average tenant contribution toward rent.

The allocation formula used for Section 811 reflects the “relevant characteristics of prospective program participants,” as specified in 24 CFR 791.402(a). The FY2006 formula consists of the following data element from the 2000 Census: the number of non-institutionalized persons age 16 to 64 with a disability. The data on disability status were derived from answers to a two-part question that asked about the existence of the following long-lasting conditions: (a) Blindness, deafness, or a severe vision or hearing impairment (sensory disability), and (b) a condition that substantially limits one or more basic physical activities, such as walking, climbing stairs, reaching, lifting, or carrying (physical disability); and a four-part question that asked if the individual had a physical, mental, or emotional condition lasting 6 months or more that made it difficult to perform certain activities. The four activity categories were: (a) Learning, remembering, or concentrating (mental disability); (b) dressing, bathing, or getting around inside the home (self-care disability); (c) going outside the home alone to shop or visit a doctor's office (going outside the home disability); and (d) working at a job or business (employment disability).

Under the Section 811 Program, each local HUD office jurisdiction receives sufficient capital advance funds for a minimum of 10 units. The total amount of capital advance funds to support this minimum set-aside is then subtracted from the total capital advance available. The remainder is fair shared to each local HUD office jurisdiction whose fair share would exceed the set-aside based on the allocation formula fair share factors describe below.

The fair share factors were developed by taking the count of disabilities in the data element for each state, or state portion, of each local HUD office jurisdiction as a percent of the data element from the 2000 Census, described above, for the total United States. The resulting percentage for each local HUD office is then adjusted to reflect the relative cost of providing housing among the local HUD office jurisdictions. The adjusted needs percentage for each local HUD office is then multiplied by the total amount of capital advance funds available nationwide.

The Section 811 capital advance funds have been allocated, based on the formula above, to 51 local HUD offices as shown on the following chart:

FY 2006 Section 811 Allocations for Supportive Housing for Persons With Disabilities
Offices | Units | Capital advance
Boston Hub
Boston | 20 | $2,303,897
Hartford | 10 | 1,177,474
Manchester | 10 | 937,874
Providence | 10 | 1,168,554
Total | 50 | 5,587,799
New York Hub
New York | 34 | 4,079,464
Buffalo Hub
Buffalo | 19 | 1,961,030
Philadelphia Hub
Charleston | 10 | 883,106
Newark | 22 | 2,622,563
Philadelphia | 23 | 2,599,492
Pittsburgh | 15 | 1,473,111
Total | 70 | 7,578,272
Baltimore Hub
Baltimore | 15 | 1,455,965
Richmond | 18 | 1,576,619
Washington | 15 | 1,616,012
Total | 48 | 4,648,596
Greensboro Hub
Columbia | 18 | 1,610,633
Greensboro | 24 | 2,631,484
Total | 42 | 4,242,117
Atlanta Hub
Atlanta | 24 | 1,974,924
Knoxville | 10 | 832,557
Louisville | 18 | 1,558,073
Nashville | 16 | 1,339,069
San Juan | 19 | 1,839,670
Total | 87 | 7,544,293
Jacksonville Hub
Birmingham | 18 | 1,480,947
Jackson | 16 | 1,214,171
Jacksonville | 38 | 3,021,346
Total | 72 | 5,716,464
Chicago Hub
Chicago | 28 | 3,191,666
Indianapolis | 19 | 1,720,040
Total | 47 | 4,911,706
Columbus Hub
Cincinnati | 10 | 880,132
Cleveland | 18 | 1,710,077
Columbus | 10 | 861,301
Total | 38 | 3,451,510
Detroit Hub
Detroit | 20 | 2,019,247
Grand Rapids | 15 | 1,329,464
Total | 35 | 3,348,711
Minneapolis Hub
Minneapolis | 16 | 1,708,402
Milwaukee | 17 | 1,719,424
Total | 33 | 3,427,826
Ft. Worth Hub
Ft. Worth | 30 | 2,211,919
Houston | 20 | 1,514,450
Little Rock | 15 | 1,113,202
New Orleans | 18 | 1,414,339
San Antonio | 19 | 1,400,829
Total | 102 | 7,654,739
Kansas City Hub
Des Moines | 10 | 796,877
Kansas City | 17 | 1,495,773
Oklahoma City | 16 | 1,233,530
Omaha | 10 | 883,106
St. Louis | 10 | 1,008,981
Total | 63 | 5,418,267
Denver Hub
Denver | 23 | 2,005,360
San Francisco Hub
San Francisco | 29 | 3,344,550
Honolulu | 10 | 1,784,052
Phoenix | 18 | 1,462,681
Sacramento | 16 | 1,783,920
Total | 73 | 8,375,203
Los Angeles Hub
Los Angeles | 45 | 4,986,788
Seattle Hub
Seattle | 19 | 2,018,070
Anchorage | 10 | 1,784,052
Portland | 17 | 1,562,577
Total | 46 | 5,364,699
National Total | 927 | 90,302,844

B. Type of Award. Capital Advance and Project Rental Assistance Contract Funds for new Section 811 applications.

C. Type of Assistance Instrument. The Agreement Letter stipulates the terms and conditions for the Section 811 fund reservation award as well as the submission requirements following the fund reservation award. The duration of the fund reservation award for the capital advance is 18 months from the date of issuance of the fund reservation.

D. Anticipated Start and Completion Date. Immediately upon your acceptance of the Agreement Letter, you are expected to begin work toward the submission of a Firm Commitment Application, which is the next application submission stage. You are required to submit a Firm Commitment Application to the local HUD office within 180 days from the date of the Agreement Letter. Initial closing of the capital advance and start of construction of the project are expected to be accomplished within the duration of the fund reservation award as indicated in the above paragraph regarding the Type of Assistance Instrument. Final closing of this capital advance is expected to occur no later than six months after completion of project construction.

III. Eligibility Information

A. Eligible Applicants: Nonprofit organizations with a section 501(c)(3) tax exemption from the Internal Revenue Service and who meet the threshold requirements contained in the General Section NOFA and Section III.C.2 below are the only eligible applicants for this program.

Applicant eligibility for purposes of applying for a Section 811 fund reservation under this NOFA has not changed; i.e., all Section 811 Sponsors and Co-Sponsors must be nonprofit organizations. However, the Owner corporation, when later formed by the Sponsor, may be (1) a single-purpose nonprofit organization that has tax-exempt status under Section 501(c)(3) of the Internal Revenue Code (IRS) of 1986, or (2) for purposes of developing a mixed-finance project pursuant to the statutory provision under Title VIII of the American Homeownership and Economic Opportunity Act of 2000, a for-profit limited partnership with a nonprofit organization that has tax-exempt status under Section 501(c)(3) of the IRS code as the sole general partner.

See Section IV.E.2 below regarding limits on the total number of units and projects for which you may apply for funding.

B. Cost Sharing or Matching: No cost sharing or match is required; however, you are required to make a commitment to cover the estimated start-up expenses, the minimum capital investment of one half of one percent of the HUD-approved capital advance, not to exceed $10,000, and any funds required in excess of the capital advance, including the estimated cost of any amenities or features (and operating costs related thereto) which are not covered by the capital advance. You must make such a commitment by signing the form HUD-92042, Sponsor's Resolution for Commitment to Project, in Exhibit 8(g) of the application found in Section IV.B. below.

C. Other: 1. Eligible Activities. Section 811 capital advance funds must be used to finance the development of housing through new construction, rehabilitation, or acquisition with or without rehabilitation. Capital advance funds may also be used in combination with other non-Section 811 funding sources leveraged by a for-profit limited partnership (of which a single-purpose nonprofit organization with a 501(c)(3) tax exemption is the sole general partner) to develop a mixed-finance project, including a mixed-finance project for additional units over and above the Section 811 units. The development of a mixed-use project in which the Section 811 units are mortgaged separately from the other uses of the structure is not considered a mixed-finance project. Project rental assistance funds are provided to cover the difference between the HUD-approved operating costs and the amount the residents pay (each resident pays 30 percent of adjusted income). The types of housing that can be developed with Section 811 capital advance funds include independent living projects, dwelling units in multifamily housing developments, condominium and cooperative housing and small group homes.

Note: For purposes of approving Section 811 capital advances, HUD will consider proposals involving mixed-financing for additional units over and above the Section 811 units if you have legal control of an approvable site and the additional units do not cause the project, as a whole, to exceed the project size limits if the additional units will also house persons with disabilities (unless your project will be an independent living project and you request and receive HUD approval to exceed the project size limits (See IV.B.2.c.(1)(d)(xii)). However, you must obtain funds to assist the additional units with other than PRAC funds. HUD will not provide PRAC funds for non-Section 811 units.

2. Threshold Criteria for Funding Consideration. In addition to the threshold criteria outlined in the General Section of the SuperNOFA, the following threshold requirements must be met:

a. Non-Responsive Application. Your application will be considered non-responsive to the NOFA and will not be accepted for processing if you:

(1) Submit less than the required number of copies (an original and four copies are required) if you requested and received approval for a waiver of the electronic submission requirement. Refer to the General Section for information on application submission and receipt procedures;

(2) Submit paper copies of the application if you have not received approval from HUD for a waiver of the electronic submission requirements;

(3) Submit a substantially deficient application (i.e., a majority of the required exhibits are not submitted with your application, particularly, but not limited to, those exhibits which are not curable). HUD reserves the right to determine whether your application is substantially deficient for purposes of determining whether the application is non-responsive to the NOFA. Refer to Section IV.B., Content and Form of Application Submission, for information on the required exhibits for submission with your application to ensure that your application is complete at time of submission;

(4) Request more units than were allocated to the local HUD office that will be reviewing your application (See the allocation chart in Section II.A. above);

(5) Request less than the minimum number of units for persons with disabilities in an independent living project (5 units) or a group home (2 units);

(6) Request more than the maximum number of units for a group home (6 units); or

(7) Request assistance for housing that you currently own or lease that has been occupied by people with disabilities for longer than one year prior to the application deadline date;

(8) Request assistance for an ineligible activity as defined in Section IV.E., Funding Restrictions, of this program NOFA;

(9) Are an ineligible applicant (see Section III.A., Eligible Applicants of this program NOFA).

b. Other Criteria. (1) You, or a Co-Sponsor, must have experience in providing housing or services to persons with disabilities.

(2) You and any Co-Sponsor must be eligible nonprofit organizations with tax-exempt status under Section 501(c)(3) of the Internal Revenue Service code.

(3) Your application must contain evidence of site control or the identification of a site. Section 811(d)(3) of the National Affordable Housing Act requires you to provide either evidence of site control or a reasonable assurance that you will have control of a site within six months of the date of the Agreement Letter notifying you that you have been selected to receive a Section 811 fund reservation. Accordingly, you must include in your application, the required information specified below for evidence of site control, or the required information specified below under site identification as a reasonable assurance that site control will be obtained within six months of the date of the Agreement Letter. If you submit the required information for an identified site(s), you must include a specific street address for each identified site or the application will be rejected.

(a) Evidence of Site Control—If you have control of a site at the time you submit your application, you must provide the information in Exhibit 4(d) in IV.B. of this NOFA relative to site control, or

(b) Site Identification—If you do not have site control of one or more of your sites, you must provide the information required in Exhibit 4(e) in IV.B. of this NOFA under “Identification of a Site” for any site not under control as a reasonable assurance that site control will be obtained within six months of fund reservation notification.

If your application contains evidence of site control where either the evidence or the site is not approvable, your application will not be rejected provided you indicate in your application that you are willing to seek an alternate site and provide an assurance that site control will be obtained within six months of fund reservation notification. During the selection process, all applications with acceptable evidence of site control for all proposed sites and all proposed sites that have been found approvable will be grouped in Category A. All applications that are submitted as “site identified” as well as those that are submitted with site control but the evidence of control and/or site(s) are not approvable (if the Sponsor indicates that it is willing to seek a different site if the proposed site is unapprovable) will be grouped in Category B. All applications in Category A will be selected before any applications are selected from Category B. See Section V.B.4. for further information on the selection process.

(c) Historic Preservation. If you submit an application with evidence of site control, you are required to send a letter to the State/Tribal Historic Preservation Officer (SHPO/THPO) that attempts to initiate consultation with their office and requests their review of your determinations and findings with respect to the historical significance of your proposed project. A HUD's website at http://www.hud.gov/offices/adm/grants/fundsavail.cfm contains a sample letter to the SHPO/THPO that you may adapt for your use, if you so choose. You must include a copy of your letter to the SHPO/THPO in your application. You must then also include in your application either:

(i) The response letter(s) from the SHPO/THPO, or

(ii) A statement from you that you have not received a response letter(s) from the SHPO/THPO.

(d) Contamination. HUD must determine if a proposed site contains contamination and, if so, HUD must be satisfied that it is eliminated to the extent necessary to meet non site-specific Federal, State or local health standards. If you submit an application with evidence of site control, you must assist HUD by doing the following:

(i) Phase I Environmental Site Assessment (ESA)—You must submit a Phase I ESA, prepared in accordance with the ASTM Standards E 1527-05, as amended, completed or updated no earlier than six months prior to the application deadline date, in order for the application to be considered as an application with site control. The Phase I ESA must be completed and included in your application. Therefore, it is important that you start the Phase I ESA process as soon after publication of the SuperNOFA as possible. To help you choose an environmentally safe site, HUD invites you to review the document “Choosing An Environmentally Safe Site” and “Supplemental Guidance, Environmental Information”, which are available on HUD's website at http://www.hud.gov/offices/adm/grants/fundsavail.cfm.

(ii) Phase II ESA—If the Phase I ESA indicates the possible presence of contamination and/or hazards, you must decide whether to continue with this site or choose another site. Should you choose another site, the same Phase I ESA process identified above must be followed for the new site. However, if you choose to continue with the original site on which the Phase I ESA indicated contamination or hazards, you must undertake a detailed Phase II ESA by an appropriate professional. In order for your application to be considered as an application with site control, the Phase II must be received in the local HUD office on or before the deadline date of June 26, 2006.

(iii) Clean-up—If the Phase II ESA reveals site contamination, the extent of the contamination and a plan for clean-up of the site must be submitted to the local HUD office. The plan for clean-up must include a contract for remediation of the problem(s) and an approval letter from the applicable federal, state, and/or local agency with jurisdiction over the site. In order for your application to be considered as an application with site control, this information must be received by the appropriate local HUD office on or before the application deadline date of June 26, 2006.

Note: Clean-up could be an expensive undertaking. You must pay for the cost of any clean-up and/or remediation. If the application is approved, clean-up must be completed prior to initial closing. Completion of clean-up means that hud must be satisfied that the contamination has been eliminated to the extent necessary to meet non site-specific federal, state or local health standards, with no active or passive remediation still taking place, no capping over of any contamination, and no monitoring wells. however, it is acceptable if contamination remains solely in groundwater that is at least 25 feet below the surface.

(e) Asbestos. asbestos is a hazardous substance commonly used in building products until the late 1970s. Therefore, if you submit an application with evidence of site control, you must submit one of the following with your application:

(i) If there is no pre-1978 structure on the site, a statement to this effect, or

(ii) If there is a pre-1978 structure on the site, an asbestos report which is based on a thorough inspection to identify the location and condition of asbestos throughout any structures. In those cases where suspect asbestos is found, it would either be assumed to be asbestos or would require confirmatory testing. If the asbestos report indicates the presence of asbestos or the presence of asbestos is assumed, and if the application is approved, HUD will condition the approval on an appropriate mix of asbestos abatement and an asbestos Operations and Maintenance Plan.

(4) There must be a market need for the number of units proposed in the area of the project location.

(5) Your application must contain a Supportive Services Plan and a Certification from the appropriate state or local agency that the Supportive Services Plan is well designed to address the individual health, mental health and other needs of persons with disabilities who will live in your proposed project. Exhibit 5 in Section IV.B. below outlines the information that must be in the Supportive Services Plan. You must submit one copy of your Supportive Services Plan to the appropriate State or local agency well in advance of the application submission deadline date for the state or local agency to review your Supportive Services Plan and complete the Supportive Services Certification and return it to you so that you can include it in the application you submit to HUD.

(i) HUD will reject your application if the Supportive Services Certification:

A Is not submitted with your application and is not submitted to HUD within the 14-day cure period; or

B Indicates that the provision of supportive services is not well designed to address the individual health, mental health and other needs of persons with disabilities who will live in your project; or

C Indicates that the provision of supportive services will not enhance independent living success or promote the dignity of the persons with disabilities who will live in your proposed project.

(ii) In addition, if the agency completing the certification will be a major funding or referral source for your proposed project or be responsible for licensing the project, HUD will reject your application if either the agency's Supportive Services Certification indicates—or, where the agency fails to complete item 3 or 4 of the certification, HUD determines that:

A You failed to demonstrate that supportive services will be available on a consistent, long-term basis; and/or

B The proposed housing is not consistent with state or local agency plans/policies addressing the housing needs of people with disabilities.

Any prospective resident of a Section 811 project who believes he/she needs supportive services must be given the choice to be responsible for acquiring his/her own services or to take part in your Supportive Services Plan which must be designed to meet the individual needs of each resident.

You must not require residents to accept any supportive services as a condition of occupancy or admission.

(6) Delinquent Federal Debt. Refer to the General Section for information regarding delinquent federal debt.

3. Program Requirements. By signing Form HUD-92016-CA, Supportive Housing for Persons with Disabilities Section 811, Application for Capital Advance Summary Information, you are certifying that you will comply with the program requirements listed in the General Section as well as the following requirements:

a. Statutory and Regulatory Requirements. In addition to the statutory, regulatory, threshold and public policy requirements listed in the General Section, you must comply with all statutory and regulatory requirements listed in Sections I and III of this NOFA.

b. Project Size Limits.

(1) Independent living project. The minimum number of units for persons with disabilities that can be applied for in one application is five units for persons with disabilities. All of the units are not required to be in one structure and they may be on scattered sites. The maximum number of persons with disabilities that can be housed in an independent living project on one or adjacent sites is 14 plus one additional one-or two-bedroom unit for a resident manager, if necessary. If the proposed independent living project will be located on a site already containing housing for persons with disabilities or on an adjacent site containing such housing, the total number of persons with disabilities housed in both the existing and the proposed project cannot exceed 14.

(2) Exception to project size limit for an independent living project. If you are submitting an application for an independent living project with site control, you may request an exception to the above project size limit by providing the information required in Exhibit 4(d)(xii) of Section IV.B. below NOFA.

(3) Group home. The minimum number of persons with disabilities that can reside in a group home is two, and the maximum number is six. There are no exceptions to the maximum project size limit for a group home. An additional one-bedroom unit can be provided for a resident manager. Only one person per bedroom is allowed, unless two residents choose to share one bedroom or a resident determines he/she needs another person to share his/her bedroom. If you are applying for more than one group home, they cannot be located on the same or adjacent sites.

(4) Condominium Units. Condominium units are treated the same as units in an independent living project except that you cannot request an additional condominium unit for a resident manager.

c. Minimum Capital Investment. If selected, you must provide a minimum capital investment of one-half of one percent of the HUD-approved capital advance amount, not to exceed a maximum of $10,000 in accordance with 24 CFR 891.145.

d. Accessibility. Your project must meet accessibility requirements published at 24 CFR 891.120, 24 CFR 891.310 and Section 504 of the Rehabilitation Act of 1973, and, if new construction, the design and construction requirements of the Fair Housing Act and HUD's implementing regulations at 24 CFR part 100. In addition, 24 CFR 8.4(b)(5) prohibits the selection of a site or location which has the purpose or effect of excluding persons with disabilities from the Federally assisted program or activity. Refer to Section V.A. below and the General Section for information regarding the policy priority of encouraging accessible design.

e. Conducting Business in Accordance With Core Values and Ethical Standards. You are not subject to the requirements of 24 CFR parts 84 and 85 as outlined in the General Section except for the disposition of real property, which may be subject to 24 CFR Part 84. However, you are still subject to the core values and ethical standards as they relate to the conflict of interest provisions in 24 CFR 891.130. To ensure compliance with the program's conflict of interest provisions, you are required to sign a Conflict of Interest Resolution and include it in your Section 811 application. Further, if awarded a Section 811 fund reservation, the officers, directors, board members, trustees, stockholders and authorized agents of the Section 811 Sponsor and Owner entities will be required to submit to HUD individual certifications regarding compliance with HUD's conflict of interest requirements.

f. National Environmental Policy Act. You must comply with the National Environmental Policy Act of 1969 (NEPA) (42 U.S.C. 4321) and applicable related environmental authorities at 24 CFR 50.4, HUD's programmatic implementing regulations at 24 CFR part 50 and 24 CFR 891.155(b), especially, but not limited to, the provision of information to HUD at 24 CFR 50.31(b), and you must comply with any environmental “conditions and safeguards” at 24 CFR 50.3(c).

Under 24 CFR Part 50, HUD has the responsibility for conducting the environmental reviews. HUD cannot approve any site for which you have site control unless it first completes the environmental review. In rare cases where HUD is not able to complete the environmental review, it is due to a complex environmental issue that could not be resolved during the time period allocated for application processing. Thus, if you submit an application with evidence of site control, HUD requires you to attempt to obtain comments from the State/Tribal Historic Preservation Officer (see Exhibit 4(d)(ix) of Section IV.B. below) to help HUD complete the environmental review on time. It is also why HUD may contact you for additional environmental information. So that you can review the type of information that HUD needs for its preparation of the environmental review as well as the type of information requests that HUD may make to you, you are invited to go to the following website to view the HUD form 4128, including the Sample Field Notes Checklist, which HUD uses to record the environmental review: http://www.hud.gov/utilities/intercept.cfm?/offices/cpd/energyenviron/environment/compliance/forms/4128.pdf.

g. Lead-Based Paint. You must comply with the requirements of the Lead-Based Paint Poisoning Prevention Act (42 U.S.C. 4821-4846) and implementing regulations at 24 CFR part 35.

h. Executive Order 13202, Preservation of Open Competition and Government Neutrality Towards Government Contractors' Labor Relations on Federal and Federally Funded Construction Projects. Refer to the General Section.

i. Fair Housing Requirements. Refer to the General Section.

j. Economic Opportunities for Low and Very Low-Income Persons (Section 3). You must comply with Section 3 of the Housing and Urban Development Act of 1968, U.S.C. 1701u (Economic Opportunities for Low and Very Low-Income Persons) and its implementing regulations at 24 CFR part 135. You must ensure that training, employment and other economic opportunities shall, to the greatest extent feasible, be directed toward low and very low-income persons, particularly those who are recipients of government assistance for housing and to business concerns which provide economic opportunities to low and very-low income persons. To comply with Section 3 requirements you are hereby certifying that you will strongly encourage your general contractor and subcontractors to participate in local apprenticeship programs or training programs registered or certified by the Department of Labor's Office of Apprenticeship, Training, Employer and Labor Services or recognized State Apprenticeship Agency. Although not a NOFA requirement, you are nonetheless encouraged to submit with your application a description on how you plan to incorporate the Section 3 requirements into your proposed project with goals for expanding training and employment opportunities for low and very low-income (Section 3) residents as well as business concerns. You will receive up to two (2) points if you provide a description of your plans for doing so under Exhibit 3(m) of this program NOFA.

k. Design and Cost Standards. You must comply with HUD's Section 811 project design and cost standards (24 CFR 891.120 and 891.310), the Uniform Federal Accessibility Standards (24 CFR 40.7), Section 504 of the Rehabilitation Act of 1973 and HUD's implementing regulations at 24 CFR part 8, and for covered multifamily dwellings designed and constructed for first occupancy after March 13, 1991, the design and construction requirements of the Fair Housing Act and HUD's implementing regulations at 24 CFR part 100, and, where applicable, the Americans with Disabilities Act of 1990.

HUD has adopted a wide-ranging energy action plan for improving energy efficiency in all program areas. As a first step in implementing the energy plan, HUD, the Environmental Protection Agency (EPA) and the Department of Energy (DoE) have signed a joint partnership to promote energy efficiency in HUD's affordable housing efforts and programs. The purpose of the Energy Star partnership is not only to promote energy efficiency of the affordable housing stock, but also to help protect the environment. Although it is not a requirement, you are nonetheless encouraged to promote energy efficiency in design and operations and your application will receive one (1) point if you describe your plans for doing so in the proposed project. You are especially urged to purchase and use Energy Star-labeled products. For further information about Energy Star, see http://www.energystar.gov or call 888-STAR-YES (1-888-782-7937) or for the hearing-impaired, 888-588-9920 TTY.

l. Formation of Owner Corporation. You must form an “Owner” entity (in accordance with 24 CFR 891.305) after issuance of the capital advance fund reservation and must cause the Owner entity to file a request for determination of eligibility and a request for capital advance, and must provide sufficient resources to the Owner entity to ensure the development and long-term operation of the project, including capitalizing the Owner entity at firm commitment processing in an amount sufficient to meet its obligations in connection with the project over and above the capital advance amount.

m. Davis-Bacon. You must comply with the Davis-Bacon Requirements (42 U.S.C. 8013(j)(6)) and the Contract Work Hours and Safety Standards Act in accordance with 24 CFR 891.155(d).

IV. Application and Submission Information

A. Address to Request Application Package. All information required to complete and return a valid application is included in the General Section and this NOFA, including other related documents. Copies of the General Section, this NOFA, the required forms, and other related documents are available and may be downloaded from the Grants.gov Web site at http://www.Grants.gov. Search for the program using the CFDA Number, Competition ID OR Funding Opportunity Number.

You may request general information, copies of the General Section and this NOFA (including related documents), and required forms from the NOFA Information Center (800-HUD-8929 or 800-HUD-2209 (TTY)) Monday through Friday, except on federal holidays. When requesting information, please refer to the name of the program you are interested in.

B. Content and Form of Application Submission. The exhibits to be included in your application are contained in the body of this NOFA below. Before preparing your application, you should carefully review the requirements of the regulations (24 CFR Part 891) and general program instructions in Handbook 4571.2, Section 811 Capital Advance Program for Housing Persons with Disabilities. Note: Section 1001 of Title 18 of the United States Code (Criminal Code and Criminal Procedure, 72 Stat. 967) applies to all information supplied in the application submission. (18 U.S.C. 1001, among other things, provides that whoever knowingly and willfully makes or uses a document or writing containing any false, fictitious, fraudulent statement or entry, in any matter within the jurisdiction of any department or agency of the United States, shall be fined not more than $10,000 or imprisoned for not more than five years, or both.)

The Application for a Section 811 Capital Advance consists of four parts with a total of eight Exhibits. Included with the eight Exhibits are prescribed forms, certifications and resolutions. The components of the Application are:

Part 1—Application Form for Section 811 Supportive Housing—Capital Advance (Exhibit 1).

Part 2—Your Ability to Develop and Operate the Proposed Project (Exhibits 2 and 3).

Part 3—The Need for Supportive Housing for the Target Population in the Area to be Served, Site Control and/or Identification of Site, Suitability of Site, Adequacy of the Provision of Supportive Services and of the Proposed Project (Exhibits 4 and 5).

Part 4—General Application Requirements, Certifications and Resolutions (Exhibits 6 through 8).

The following additional information, which may assist you in preparing your application, is available on HUD's Web site at http://www.hud.gov/offices/adm/grants/fundsavail.cfm.

• Listing of Local HUD Offices

• Letter Requesting SHPO/THPO Review

• Choosing an Environmental Safe Site

• Supplemental to Choosing An Environmentally Safe Site

Your application must include all of the information, materials, forms, and exhibits listed below (unless you were selected for a Section 811 fund reservation within the last three funding cycles). If you qualify for this exception, you are not required to submit the information described in Exhibit 2(a), (b), and (c), which are the articles of incorporation (or other organizational documents), by-laws, and the IRS tax exemption, respectively. If there has been a change in any of these documents since your previous HUD approval, you must submit the updated information in your application. The local HUD office will verify your previous HUD approval by checking the project number and approval status with the appropriate local HUD office based on information submitted.

In addition to this relief of paperwork burden in preparing applications, you are able to use information and exhibits previously prepared for prior applications under Section 811, Section 202, or other funding programs. Examples of exhibits that may be readily adapted or amended to decrease the burden of application preparation include, among others, those on previous participation in the Section 202 or Section 811 programs, your experience in the provision of housing and services, supportive services plans, community ties, and experience serving minorities.

For programmatic information, you MUST contact the appropriate local HUD office about the submission of applications within the jurisdiction of that Office. A listing of the local HUD offices is available on HUD's Web site at http://www.hud.gov/offices/adm/grants/fundsavail.cfm.

Please submit your application using the following format provided in this NOFA. You are strongly encouraged to submit your application electronically via Grants.gov as it is a goal of the Department to increase the number of successfully submitted electronic applications for FY 2006. For applications to be submitted electronically, in which you have created files to be attached to the electronic application, you should number the pages of the attached file and include a header that identifies the exhibit that it relates to. For applicants that received a waiver of the electronic application submission requirement, you must number the pages of each file, narratives and other attached files. Include the name of your organization and your DUNS number, and the exhibit number that you are responding to on the header of each document.

1. Table of Contents (This is also to be used as a checklist to assist you in submitting a complete application. For applicants who received a waiver of the electronic application submission, after your application is complete, you must insert the page number after each Exhibit or portion of the Exhibit item listed below.)

a. Part I—Application Form for Section 811 Supportive Housing—Capital Advance

(1) Exhibit 1: Form HUD-92016-CA, Supportive Housing for Persons with Disabilities Section 811, Application for Capital Advance Summary Information.

b. Part II—Your Ability to Develop and Operate the Proposed Project

(1) Exhibit 2: Your Legal Status:

(a) Articles of Incorporation (or other organizational documents)

(b) By-laws

(c) IRS Tax Exemption Ruling

[Exception: See Exhibit to determine if you may be exempt from submitting these documents.]

(d) The number of people on your board and the number of board members who have disabilities

(2) Exhibit 3: Your purpose, community ties, and experience:

(a) Purpose(s), current activities, how long you have been in existence

(b) Ties to the community at large, to the target population, and description of geographic areas served

(c) Local government support for project

(d) Letters of support for your organization and for the proposed project

(e) Housing and/or supportive services experience

(f) Efforts to involve target population

(g) Description of practical solutions to be implemented

(h) Project Development Timeline

(i) Description of how project will remain viable including:

(i) If service funds are depleted

(ii) For State-funded services, if State changes policy

(iii) If the need for project changes

(j) Identification/coordination with other organizations

(k) Description of consultation with Continuum of Care organizations

(l) Description of efforts to remove barriers to affordable housing

(m) Description of your plans to incorporate Section 3 requirements, Economic Opportunities for Low and Very-Low Income Persons, in proposed project (optional, but required to receive up to 2 points)

c. Part III—The Need for Supportive Housing for the Target Population in the Area To Be Served, Site Control and/or Identification of Site and Suitability of Site, Adequacy of the Provision of Supportive Services and of the Proposed Project

(1) Exhibit 4: Project information including:

(a) Evidence of need for project

(b) How project will benefit target population and community

(c) A narrative description of the project, including:

(i) Building design

(ii) Whether and how project will promote energy efficiency

(iii) If applicable, description of plans and actions to create a mixed-finance project for additional units and the number of additional units

Evidence of Site Control

(d) Evidence of site control and permissive zoning (If you do not have site control, skip to (e), Identification of a Site, below):

(i) Site control document(s)

(ii) Evidence site is free of limitations, restrictions, or reverters

(iii) Evidence of permissive zoning or statement of proposed action required to make project permissible

(iv) Evidence of compliance with the Uniform Relocation Assistance and Real Property Acquisition Policies Act of 1970, as amended (URA) site notification requirement

(v) Narrative topographical/demographic description of site/area suitability, how site will promote greater housing opportunities for minorities/target population

(vi) Racial composition/concentration map of site

(vii) Phase I Environmental Site Assessment

(viii) Asbestos Statement or Report

(ix) Letter to State/Tribal Historic Preservation Officer (SHPO/THPO) and a statement that SHPO/THPO failed to respond to you OR a copy of the response letter received from SHPO/THPO

(x) Willingness to seek an alternate site

(xi) Request for exception to project size limits (if applicable)—why site was selected and (ILP with site control only):

(A) Preference/acceptance of people with disabilities to live in proposed housing

(B) Increased number of people warranted by market conditions in area

(C) Compatibility of project with other residential development and population density of the area

(D) Increased number of people will not prohibit successful integration into the community

(E) Marketability of project in the community

(F) Project size consistent with State and/or local policies governing similar housing

(G) Willingness to have application processed at project size limit

(e) Identification of a Site:

(i) Location of site

(ii) Steps undertaken to identify site; what must be done to obtain site control

(iii) Whether site is properly zoned

(iv) Status of the sale of the site

(v) Whether the site would involve relocation

(2) Exhibit 5: Supportive Services Plan:

(a) Description of occupancy

(b) Request for approval to limit occupancy, if applicable, including:

(i) Description of population to which occupancy will be limited

(ii) Why it is necessary to limit occupancy, including:

(A) How Section 811 program goals will still be achieved

(B) Why housing and services needs cannot be met in a more integrated setting

(iii) Experience in providing housing and/or supportive services to proposed population

(iv) How you will ensure occupants will be integrated into neighborhood and community

(c) Supportive services needs of proposed population

(d) List of community service providers with letters of intent

(e) Evidence of each service provider's capability and experience

(f) Extent of State and local agency involvement in project

(g) Letter indicating your commitment to make services available or coordinate their availability

(h) How residents will be afforded employment opportunities

(i) Whether project will include manager's unit

(j) Statement that you will not condition occupancy on the resident's acceptance of supportive services

d. Part IV—General Application Requirements, Certifications and Resolutions

(1) Exhibit 6: Other Applications

(a) A list of applications, if any, you are submitting to any other local HUD Office in response to the FY 2006 Section 202 or Section 811 NOFA, and required information about each.

(b) A list of all FY 2005 and prior year Section 202 or Section 811 projects to which you are a party and the required information about each.

(2) Exhibit 7: Applies to applications with site control only a statement that:

(a) Identifies all persons occupying property on application submission date

(b) Indicates estimated cost of relocation payments/other services

(c) Identifies staff organization that will carry out relocation activities

(d) Identifies all persons who have moved from site within past 12 months

(3) Exhibit 8: Standard Forms, Certifications and Resolutions:

(a) Standard Form 424, Application for Federal Assistance with a copy of the letter you sent to the State Point of Contact, if applicable

(b) Standard Form 424 Supplement, Survey on Ensuring Equal Opportunity for Applicants

(c) Standard Form LLL, Disclosure of Lobbying Activities, if applicable

(d) Form HUD-2880, Applicant/Recipient Disclosure/Update Report

(e) Form HUD-2991, Certification of Consistency with the Consolidated Plan

(f) Form HUD-92041, Sponsor's Conflict of Interest Resolution

(g) Form HUD-92042, Sponsor's Resolution for Commitment to Project

(h) Form HUD-2990, Certification of Consistency with the RC/EZ/EC-II Strategic Plan, as applicable

(i) Form HUD-92043, Certification for Provision of Supportive Services

(j) Form HUD-96010, Program Outcome Logic Model

(k) Form HUD-27300, Questionnaire for HUD's Initiative on Removal of Regulatory Barriers, including any required documentation or URL references (optional form, but required in order to receive up to 2 policy priority points)

(l) Form HUD-96011, Facsimile Transmittal, must be used as the cover page for any facsimile submitted using the facsimile solution. See the General Section for instructions

(m) HUD-2994-A, You Are Our Client Survey (optional)

2. Programmatic Applications Requirements

a. Part I—Application Form for Section 811 Supportive Housing—Capital Advance

(1) Exhibit 1—Form HUD-92016-CA, Supportive Housing for Persons with Disabilities Section 811 Application for Capital Advance Summary Information. Found in the instruction download at http://www.grants.gov.

b. Part II—Your Ability To Develop and Operate the Proposed Project

(1) Exhibit 2—Evidence of your legal status (Nonprofit with 501(c)(3) IRS tax exemption) (If another organization(s) is co-sponsoring the application with you, each Co-Sponsor must also submit the following):

(a) Articles of Incorporation, constitution, or other organizational documents

(b) By-laws

(c) IRS tax exemption ruling (this must be submitted by all Sponsors, including churches)

Note: Based on a HUD review of your articles of incorporation, constitution, or other organizational documents, HUD must determine, among other things, that (1) you are an eligible nonprofit entity with a 501(c)(3) IRS tax exemption status, (2) your corporate purposes are sufficiently broad to provide you the legal authority to sponsor the proposed project for the disabled, to assist the Owner, and to apply for a capital advance, (3) no part of the Sponsor's net earnings inures to the benefit of any private party, and (4) that you are not controlled by or under the direction of persons seeking to derive profit or gain there from. [Exception: If you received a Section 811 Fund Reservation within the last three funding cycles, you are not required to submit the documents described in (a), (b), and (c) above. Instead, submit the project number of the latest application and the local HUD office to which it was submitted. If there have been any modifications or additions to the subject documents, indicate such, and submit the new material.]

(d) The number of people on your board and the number of board members who have disabilities.

(2) Exhibit 3—Your purpose, community ties, and experience:

(a) A description of your purpose(s), current activities, including your ability to enlist volunteers and raise private local funds and how long you have been in existence.

(b) A description of your ties to the community in which your project will be located and to the minority and disability communities in particular, including a description of the specific geographic area(s) in which you have served.

(c) A description of local government support for the project (including financial assistance, donation of land, provision of services, etc.).

(d) Letters of support for your organization and for the proposed project from organizations familiar with the housing and supportive services needs of the target population (e.g., the local center for independent living, the Statewide Independent Living Council) that you expect to serve in the proposed project.

(e) A description of your housing and/or supportive services experience. The description should include any rental housing projects (including any integrated housing developments) and/or supportive services facilities that you sponsored, own and/or operate, your past or current involvement in any programs other than housing that demonstrates your management capabilities (including financial management) and experience, your experience in serving the target population (persons with disabilities and minorities); and the reasons for receiving any increases in fund reservations for developing and/or operating previously funded Section 202 or Section 811 projects. The description should include data on the facilities and services provided, the racial/ethnic composition of the populations served, if available, and information and testimonials from residents or community leaders on the quality of the activities. Examples of activities that could be described include housing counseling, nutrition and food services, special housing referral, screening and information projects.

(f) A description of your efforts to involve members of the target population (persons with disabilities including minority persons with disabilities and persons with disabilities similar to those of the prospective residents) in the development of the application as well as your intent to involve the target population in the development and operation of the project.

(g) A description of the practical solutions you will implement which will enable residents of your project to achieve independent living and economic empowerment. In addition, describe the educational opportunities you will provide for the residents and how you will provide them. This description should include the activities you will undertake to improve computer access, literacy and employment opportunities (e.g., provide programs that can teach residents how to use computers to become educated as well as achieve economic self-sufficiency through job training and placement). And, finally, describe how your proposed project will be an improved living environment for the residents when compared to their previous place of residence.

(h) Describe your plan for completing the proposed project. Include a project development timeline which lists the major development stages for the project with associated dates that must be met in order to get the project to initial closing and start of construction within the 18-month fund reservation period as well as the full completion of the project, including final closing. Completion of Exhibit 8(j), Logic Model, will assist you in completing your response to this Exhibit.

(i) Describe how you will ensure that your proposed project will remain viable as housing with the availability of supportive services for the target population for the 40-year capital advance period. This description should address the measures you would take should any of the following occur:

(i) Funding for any of the needed supportive services becomes depleted;

(ii) If, for any state-funded services for your project, the state changes its policy regarding the provision of supportive services to projects such as the one you propose; or

(iii) If the need for housing for the population you will be serving wanes over time, causing vacancies in your project.

(j) A description of the steps you took to coordinate your application with other organizations (e.g., the local center for independent living) that will not be directly involved in your project but with which you share common goals and objectives, to complement and/or support the proposed project so that the project will provide a comprehensive and holistic solution to the needs of persons with disabilities.

(k) A description of your efforts to consult with Continuum of Care organizations in the community where the project will be located about the ways you can assist persons with disabilities who are chronically homeless as defined in the General Section.

(l) A description of the successful efforts the jurisdiction in which your project will be located has taken in removing regulatory barriers to affordable housing. To obtain up to 2 points for this policy priority, you must complete the optional Form HUD-27300, “Questionnaire for HUD's Initiative on Removal of Regulatory Barriers” in Exhibit 8(k) of the application AND provide the necessary URL references or submit the documentary evidence.

(m) A description on how you plan to incorporate the Section 3 requirements into your proposed project with goals for expanding training and employment opportunities for low and very low-income (Section 3) persons as well as business concerns. This exhibit is optional, but to obtain up to 2 points for this policy priority, you must submit this exhibit and adequately address your plans to provide opportunities to train and employ low and very low-income residents of the project area and award substantial contracts to persons residing in the project area.

c. Part III—The Need for Supportive Housing for the Target Population, Site Control and/or Identification of Site and Suitability of Site, Adequacy of the Provision of Supportive Services and of the Proposed Project

(1) Exhibit 4—Need and Project Information:

(a) Evidence of need for supportive housing. Include a description of the proposed population and evidence demonstrating sustained effective demand for supportive housing for the proposed population in the market area to be served, taking into consideration the occupancy and vacancy conditions in existing comparable subsidized housing for persons with disabilities, state or local needs assessments of persons with disabilities in the area, the types of supportive services arrangements currently available in the area, and the use of such services as evidenced by data from local social service agencies. Also, a description of how information in the community's or (where applicable) the State's Consolidated Plan, Analysis of Impediments to Fair Housing Choice (AI) or other planning document that analyzes fair housing issues was used in documenting the need for the project.

(b) A description of how the proposed project will benefit the target population and the community in which it will be located.

(c) Description of the project.

(i) Narrative description of the building(s) including the number and type of structure(s), number of units with bedroom distribution if independent living units including dwelling units in multifamily housing developments, condominiums and cooperatives, number of bedrooms if group home, number of residents with disabilities, and any resident manager per structure; identification of all commercial and community spaces, amenities or features planned for the housing and a description of how the spaces, amenities, or features will be used, and the extent to which they are necessary to accommodate the needs of the proposed residents. A narrative description of the building design (both interior and exterior), including any special design features, as well as any features that incorporate visitability standards and universal design. Also include a description of how the design of the proposed project will facilitate the integration of the residents into the surrounding community and promote the ability of the residents to live as independently as possible.

Note: If the community spaces, amenities, or features do not comply with the project design and cost standards of 24 CFR 891.120 (a) and (c), the special project standards of 24 CFR 891.310 (a), and the limitations on bedroom sizes as required by paragraph 1-11.E.2.a of HUD Handbook 4571.2 REV-1, you must demonstrate your ability and willingness to contribute both the incremental development cost and continuing operating cost associated with the community spaces, amenities, or features.

(ii) Describe whether and how the project will promote energy efficiency (in accordance with the requirements set forth in Section III.C.3.k. of this NOFA), including any plans to incorporate energy efficiency features in the operation of the project through the use of Energy Star labeled products and appliances and, if applicable, innovative construction or rehabilitation methods or technologies to be used that will promote efficient construction.

(iii) For site control applications, if you are proposing to develop a mixed-finance project by developing additional units (i.e., in addition to the 811 units), a description of any plans and actions you have taken to create such a mixed-finance project with the use of Section 811 capital advance funds, in combination with other funding sources. Provide the number of non-Section 811 units to be included in the mixed-finance project (also provide the number of additional units in the appropriate space on Form HUD-92016-CA). Also, provide copies of any letters you have sent seeking outside funding for the non-Section 811 units and any responses thereto. You must also demonstrate your ability to proceed with the development of a Section 811 project that will not involve mixed-financing, as proposed in your application, in the event you are later unable to obtain the necessary outside funding or HUD disapproves your proposal for a mixed-finance project for additional non-Section 811 units for persons with disabilities.

Notes: (1) A proposal to develop a mixed-finance project for additional units must occur at the application for fund reservation stage. You cannot decide after selection that you want to do a mixed-finance project for additional units. (2) Section 811 capital advance amendment money will not be approved for projects proposing mixed-financing. (3) If approved for a reservation of capital advance funds, you will be required to submit with your Firm Commitment Application, the additional documents required by HUD for mixed-finance proposals. (4) A mixed-finance project does not include the development of a mixed-use project in which the Section 811 units are mortgaged separately from the other uses of the structure. (5) For a Section 811 mixed-finance project, the additional units cannot cause the project to exceed the project size limit for the type of project proposed, unless you request and receive HUD approval to exceed the project size limit if the project will be an independent living project (See IV.B.2.c.(1)(d)(xii)) or the additional units will house people who do not have a disability.

(d) Evidence of site control and permissive zoning.

Note: If you are applying for Section 811 funding without control of any or all of your proposed sites, you must provide the information under (e), Identification of a Site, below for any site you are submitting without evidence of control of that site.

(i) Acceptable evidence of site control is limited to any one of the following:

(A) Deed or long-term leasehold which evidences that you have title to or a leasehold interest in the site. If a leasehold, the term of the lease must be 50 years with renewable provisions for 25 years except for sites on Indian trust land, in which case, the term of the lease must be at least 50 years with no requirements for extensions;

(B) Contract of sale for the site that is free of any limitations affecting the ability of the seller to deliver ownership to you after you receive and accept a notice of Section 811 capital advance. (The only condition for closing on the sale can be your receipt and acceptance of the capital advance.) The contract of sale cannot require closing earlier than the Section 811 closing;

(C) Option to purchase or for a long-term leasehold, which must remain in effect for six months from the date on which the applications are due, must state a firm price binding on the seller, and be renewable at the end of the six-month period. The only condition on which the option may be terminated is if you are not awarded a fund reservation;

(D) If the site is covered by a mortgage under a HUD program, (e.g., a previously funded Section 202 or Section 811 project or an FHA-insured mortgage) you must submit evidence of site control as described above AND evidence that consent to release the site from the mortgage has been obtained or has been requested from HUD (all required information in order for a decision on the request for a partial release of security must have been submitted to the local HUD office) and from the mortgagee, if other than HUD Approval to release the site from the mortgage must be done before the local HUD office makes its selection recommendations to HUD Headquarters. Refer to Chapter 16 of HUD Handbook 4350.1 Rev-1, Multifamily Asset Management and Project Servicing, for instructions on submitting requests to the local HUD Office for partial release of security from a mortgage under a HUD program; or

(E) For sites to be acquired from a public body, evidence is needed that the public body possesses clear title to the site and has entered into a legally binding agreement to lease or convey the site to you after you receive and accept a notice of Section 811 capital advance. Where HUD determines that time constraints of the funding round will not permit you to obtain all of the required official actions (e.g., approval of Community of Planning Boards) that are necessary to convey publicly-owned sites, you may include in your application a letter from the mayor or director of the appropriate local agency indicating that conveyance or leasing of the site is acceptable without imposition of additional covenants or restrictions, and only contingent on the necessary approval action. Such a letter of commitment will be considered sufficient evidence of site control.

(ii) Whether you have title to the site, a contract of sale, an option to purchase, or are acquiring a site from a public body, you must provide evidence (a current title policy or other acceptable evidence) that the site is free of any limitations, restrictions, or reverters which could adversely affect the use of the site for the proposed project for the 40-year capital advance period under HUD's regulations and requirements (e.g., reversion to seller if title is transferred). If the title evidence contains restrictions or covenants, copies of the restrictions or covenants must be submitted with the application. If the site is subject to any such limitations, restrictions, or reverters, the site will be rejected and the application will be considered a “site identified” application. Purchase money mortgages that will be satisfied from capital advance funds are not considered to be limitations or restrictions that would adversely affect the use of the site. If the contract of sale or option agreement contains provisions that allow a Sponsor not to purchase the property for reasons such as environmental problems, failure of the site to pass inspection, or the appraisal is less than the purchase price, then such provisions are not objectionable and a Sponsor is allowed to terminate the contract of sale or the option agreement.

Note: A proposed project site may not be acquired or optioned from a general contractor (or its affiliate) that will construct the Section 811 project or from any other development team member.

(iii) Evidence that the project, as proposed, is permissible under applicable zoning ordinances or regulations, or a statement of the proposed action required to make the proposed project permissible AND the basis for the belief that the proposed action will be completed successfully before the submission of the firm commitment application (e.g., a summary of the results of any requests for rezoning and/or the procedures for obtaining special or conditional use permits on land in similar zoning classifications and the time required for such rezoning, or preliminary indications of acceptability from zoning bodies, etc.).

Note: You should be aware that under certain circumstances the Fair Housing Act requires localities to make reasonable accommodations to their zoning ordinances or regulations to offer persons with disabilities an opportunity to live in an area of their choice. If you are relying upon a theory of reasonable accommodation to satisfy the zoning requirement, then you must clearly articulate the basis for your reasonable accommodation theory.

(iv) Evidence of compliance with the URA requirement that the seller has been provided, in writing, with the required information regarding a voluntary, arm's length purchase transaction (i.e., (1) applicant does not have the power of eminent domain and, therefore, will not acquire the property if negotiations fail to result in an amicable agreement, and (2) of the estimate of the fair market value of the property).

Note: This information should have been provided before making the purchase offer. However, in those cases where there is an existing option or contract, the seller must be provided the opportunity to withdraw from the agreement or transaction, without penalty, after this information is provided.

(v) Narrative describing topographical and demographic aspects of the site, the suitability of the site and area (as well as a description of the characteristics of the neighborhood), how use of the site will promote greater housing opportunities for minority persons with disabilities, and how use of the site will affirmatively further fair housing.

Note: You can best demonstrate your commitment to affirmatively furthering fair housing by describing how your proposed activities will assist the jurisdiction in overcoming impediments to fair housing choice identified in the applicable jurisdiction's Analysis of Impediments (AI) to Fair Housing Choice, which is a component of the jurisdiction's Consolidated Plan or any other planning document that addresses fair housing issues. The applicable Consolidated Plan and AI may be the community's, the county's, or the state's, to which input should have been provided by local community organizations, agencies in the community and residents of the community. Alternatively, a document that addresses fair housing issues and remedies to barriers to fair housing in the community that was previously prepared by a local planning, or similar organization, may be used. Applicable impediments could include a lack of units that are accessible to persons with disabilities, a lack of transportation services or other assistance that would serve persons with disabilities, or the need for improved quality and services for all persons with disabilities.

(vi) A map showing the location of the site, the racial composition of the neighborhood, and any areas of racial concentration.

Note: For this competition, when determining the racial and ethnic composition of the neighborhood surrounding the proposed site, use data from the 2000 Census of Population. Data from the 2000 Census may be found at http://www.factfinder.census.gov/servlet/BasicFactsServlet.

(vii) A Phase I Environmental Site Assessment (ESA), in accordance with the ASTM Standards E 1527-05, as amended, must be completed and submitted with the application. In order for the Phase I ESA to be acceptable, it must have been completed or updated no earlier than six months prior to the application deadline date. Therefore, it is important to start the site assessment process as soon after the publication of the NOFA as possible.

If the Phase I ESA indicates possible presence of contamination and/or hazards, you must decide whether to continue with this site or choose another site. Should you choose another site, the same Phase I ESA process identified above must be followed for the new site. If the property is to be acquired from the FDIC/RTC, include a copy of the FDIC/RTC prepared Transaction Screen Checklist or Phase I ESA and applicable documentation, per the FDIC/RTC Environmental Guidelines. If you choose to continue with the original site on which the Phase I ESA indicated contamination or hazards, you must undertake a detailed Phase II ESA by an appropriate professional. If the Phase II Assessment reveals site contamination, you must submit the extent of the contamination and a plan for clean-up of the site including a contract for remediation of the problem(s) and an approval letter from the applicable federal, state and/or local agency with jurisdiction over the site to the local HUD office. The Phase II ESA and any necessary plans for clean-up do not have to be submitted with the application but must be received in the local HUD office by June 26, 2006. If it is not received by that date, the site will be rejected and the application will be placed in Category B for selection purposes.

Note: You must pay for the cost of any clean-up or remediation which can be very expensive. [See NOTE at Section III.C.2.ciii.]

(viii) If you submit an application with evidence of site control, you must submit one of the following:

(A) If there is no pre-1978 structure on the site, a statement to this effect, or

(B) If there is a pre-1978 structure on the site, an asbestos report which is based on a thorough inspection to identify the location and condition of asbestos throughout any structures.

Note: In those cases where suspect asbestos is found, it would either be assumed to be asbestos or would require confirmatory testing. If the asbestos report indicates the presence of asbestos, or the presence of asbestos is assumed, and if the application is approved, HUD will condition the approval on an appropriate mix of asbestos abatement and an asbestos Operations and Maintenance Plan.

(ix) The letter you sent to the State/Tribal Historic Preservation Officer (SHPO/THPO) initiating consultation with their office and requesting their review of your determinations and findings with respect to the historical significance of your proposed project. A sample letter that you may adapt and send to the SHPO/THPO can be found on HUD's Web site at http://www.hud.gov/offices/adm/grants/fundsavail.cfm under the Section 811 Supportive Housing for Persons with Disabilities Program.

(x) The SHPO/THPO response to your letter or a statement that you have not received a response letter from the SHPO/THPO.

(xi) A statement that you are willing to seek a different site if the preferred site is unapprovable and that site control will be obtained within six months of notification of fund reservation.

(xii) If an exception to the project size limits is being requested, describe why the site was selected and demonstrate the following: (Only for applications for independent living projects and condominium units [not group homes] with site control)

(A) People with disabilities have indicated their acceptance or preference to live in housing with as many units/people as proposed for the project.

(B) The increased number of units/people is warranted by the market conditions in the area in which the project will be located.

(C) Your project is compatible with other residential development and the population density of the area in which the project is to be located.

(D) The increased number of people will not prohibit their successful integration into the community.

(E) The project is marketable in the community.

(F) The size of the project is consistent with state and/or local policies governing similar housing for the proposed population.

(G) A statement that you are willing to have your application processed at the project size limit should HUD not approve the exception.

(e) Identification of a Site. If you have identified a site, but do not have it under control, you must submit the following information:

Note: If an application is submitted without evidence of site control and does not provide a specific street address for the identified site(s) (e.g., only an indication that the project will be developed in a particular part of town but a site(s) has not been chosen) the application will be rejected.

(i) A description of the location of the site, including its street address or block and lot number(s), its unit number (if condominium), neighborhood/community characteristics (to include racial and ethnic data), amenities, adjacent housing and/or facilities, how the site will promote greater housing opportunities for minority persons with disabilities and affirmatively further fair housing. You can best demonstrate your commitment to affirmatively furthering fair housing by describing how your proposed activities will assist the jurisdiction in overcoming impediments to fair housing choice identified in the community's AI or any other planning document that addresses fair housing issues. Examples of the applicable impediments include the need for improved housing quality and services for minority persons with disabilities and the need for quality services for persons with disabilities within the type and quality of similar services and housing in minority areas.

(ii) A description of the activities undertaken to identify the site, as well as what actions must be taken to obtain control of the site, if approved for funding.

(iii) An indication as to whether the site is properly zoned. If it is not, an indication of the actions necessary for proper zoning and whether these can be accomplished within six months of fund reservation award, if approved for funding.

(iv) A status of the sale of the site.

(v) An indication as to whether the site would involve relocation.

(2) Exhibit 5—Supportive Services Plan:

Note: Your supportive services plan and the Supportive Services Certification (Exhibit 8(k)) must be sent to the appropriate state or local agency (identified by the local HUD office) far enough in advance of the application deadline date so that the agency can review the plan, complete the certification and return both to you for inclusion in your application to HUD.

(a) A detailed description of whether the housing is expected to serve persons with physical disabilities, developmental disabilities, or chronic mental illness or any combination of the three. Include how and from whom/where persons will be referred and admitted for occupancy in the project. You may, with the approval of the Secretary, restrict occupancy within housing developed under this NOFA to a subcategory of one of the three main categories of disability noted above (e.g., AIDS is a subcategory of physical disability). However, the Owner must permit occupancy by any qualified person with a disability that qualifies under the applicable main category of disability.

(b) If requesting approval to restrict occupancy, also submit the following:

(i) A description of the population of persons with disabilities to which occupancy will be limited.

(ii) An explanation of why it is necessary to restrict occupancy of the proposed project(s) to the population described in (i) above, including the following:

(A) An explanation of how restricting occupancy to a subcategory of persons with disabilities promotes the goals of the Section 811 program.

(B) An explanation of why the housing and/or service needs of this population cannot be met in a more integrated setting.

(iii) A description of your experience in providing housing and/or supportive services to proposed occupants.

(iv) A description of how you will ensure that occupants of the proposed project will be integrated into the neighborhood and community.

(c) A detailed description of the supportive service needs of the persons with disabilities that the housing is expected to serve.

(d) A list of community service providers, (including consumer-controlled providers), including letters of intent to provide services to proposed residents from as many potential providers as possible.

(e) The evidence of each service provider's capability and experience in providing such supportive services (even if you will be the service provider).

(f) Identification of the extent of state and/or local agency involvement in the project (i.e., funding for the provision of supportive services, referral of residents, or licensing the project). If there will be any state or local agency involvement, a description of the state/local agency's philosophy/policy concerning housing for the population to be served and a demonstration that your application is consistent with state and/or local agency plans and policies governing the development and operation of housing for persons with disabilities.

(g) If you will be making any supportive services available to the residents or will be coordinating the availability of any supportive services, a letter providing:

(i) A description of the supportive services that you will make available to the residents or, if you will be coordinating the availability of any supportive services, a description of the supportive service(s) and how the coordination will be implemented;

(ii) An assurance that any supportive services that you will make available to the residents will be based on their individual needs; and

(iii) A commitment to make the supportive services available or coordinate their availability for the life of the project.

(h) A description of how the residents will be afforded opportunities for employment.

(i) An indication as to whether the project will include a unit for a resident manager.

(j) A statement that you will not condition admission or occupancy on the resident's acceptance of any supportive services.

d. Part IV—General Application Requirements, Certifications and Resolutions

(1) Exhibit 6: Other Applications:

(a) A list of the applications, if any, you are submitting to any other local HUD office in response to the FY 2006 Section 202 or Section 811 NOFA. Indicate by local HUD office, the proposed location by city and state and the number of units requested for each application.

(b) Include a list of all FY2005 and prior year Section 202 and Section 811 capital advance projects to which you are a party. Identify each by project number and local HUD office and include the following information:

(1) Whether the project has initially closed and, if so, when;

(2) If the project was older than 24 months when it initially closed (specify how old) or if older than 24 months now (specify how old) and has not initially closed, provide the reasons for the delay in closing;

(3) Whether amendment money was or will be needed for any project in (2) above; and,

(4) Those projects which have not been finally closed.

(2) Exhibit 7: A statement that: (applicable to applications with site control only)

(a) Identifies all persons (families, individuals, businesses and nonprofit organizations) by race/minority group, and status as owners or tenants occupying the property on the date of submission of the application for a capital advance.

(b) Indicates the estimated cost of relocation payments and other services.

(c) Identifies the staff organization that will carry out the relocation activities.

(d) Identifies all persons that have moved from the site within the past 12 months.

Note: If any of the relocation costs will be funded from sources other than the Section 811 capital advance, you must provide evidence of a firm commitment of these funds. When evaluating applications, HUD will consider the total cost of proposals (i.e., cost of site acquisition, relocation, construction and other project costs).

(3) Exhibit 8: Certifications and Resolutions—You are required to submit completed copies of the following forms which are included either in the General Section or with this NOFA and copies of the forms are available on http://www.hud.gov/offices/adm/grants/fundsavail.cfm:

(a) Standard Form 424—Application for Federal Assistance, including a DUNS number, an indication of whether you are delinquent on any federal debt, and compliance with Executive Order 12372 (a certification that you have submitted a copy of your application, if required, to the State agency (Single Point of Contact) for state review in accordance with Executive Order 12372). If required by the State's Single Point of Contact (SPOC), a copy of your application needs to be submitted to the SPOC before the application deadline date, but in no event later than the application deadline date. Refer to the General Section and Section IV.D. of this program NOFA to find out if your State has a SPOC and additional information on compliance with Executive Order 12372.

Note: For Section 811 program purposes, item 12, Areas Affected by Project, of SF-424, provide the names of the City, County and State where the project will be located (not the largest political entities as indicated on the instructions page of SF-424).

(b) Standard Form 424 Supplement, Survey on Ensuring Equal Opportunity for Applicants. Although the information on this form will not be considered in making funding decisions, it will assist the federal government in ensuring that all qualified applicants have an equal opportunity to compete for federal funding.

(c) Standard Form LLL—Disclosure of Lobbying Activities (if applicable). A disclosure of activities conducted to influence any federal transactions.

(d) Form HUD-2880, Applicant/Recipient Disclosure/Update Report, including Social Security and Employee Identification Numbers. A disclosure of assistance from other government sources received in connection with the project.

(e) Form HUD-2991, Certification of Consistency with the Consolidated Plan (Plan), for the jurisdiction in which the proposed project will be located. The certification must be made by the unit of general local government if it is required to have, or has, a complete Plan. Otherwise, the certification may be made by the state, or by the unit of general local government if the project will be located within the jurisdiction of the unit of general local government authorized to use an abbreviated strategy, and if it is willing to prepare such a Plan. All certifications must be made by a public official responsible for submitting the Plan to HUD. The certifications must be submitted as part of the application by the application submission deadline date set forth in this NOFA. The Plan regulations are published in 24 CFR part 91.

(f) Form HUD-92041, Sponsor's Conflict of Interest Resolution. A certified Board Resolution that no officer or director of the Sponsor or Owner has or will have any financial interest in any contract with the Owner or in any firm or corporation that has or will have a contract with the Owner, including a current listing of all duly qualified and sitting officers and directors by title and the beginning and ending dates of each person's term.

(g) Form HUD-92042, Sponsor's Resolution for Commitment to Project. A certified Board Resolution acknowledging responsibilities of sponsorship, long-term support of the project(s), your willingness to assist the Owner to develop, own, manage and provide appropriate services in connection with the proposed project, and that it reflects the will of your membership. Also, it shall indicate your willingness to fund the estimated start-up expenses, the Minimum Capital Investment (one-half of one-percent of the HUD-approved capital advance, not to exceed $10,000), and the estimated cost of any amenities or features (and operating costs related thereto) that would not be covered by the approved capital advance.

(h) Form HUD-2990, Certification of Consistency with the RC/EZ/EC Strategic Plan. A certification that the project is consistent with the RC/EZ/EC-IIs strategic plan, is located within the RC/EZ/EC-II, and serves RC/EZ/EC-II residents. (This certification is not required if the project site(s) will not be located in an RC/EZ/EC-II.) A copy of the RC/EZ/EC-II Certification form is contained in the online application; and

(i) Form HUD-92043, Certification for Provision of Supportive Services. A certification from the appropriate state or local agency (identified in the application or obtained from the local HUD office), indicating whether the:

(i) Provision of supportive services is well designed to serve the needs of persons with disabilities the housing is expected to serve;

(ii) The provision of supportive services will enhance independent living success and promote the dignity of those who will access your proposed project;

(iii) Supportive services will be available on a consistent, long-term basis; and

(iv) Proposed housing is consistent with state or local plans and policies addressing the housing needs of people with disabilities if the state or local agency will provide funding for the provision of supportive services, refer residents to the project or license the project. (The name, address, and telephone number of the appropriate agency can also be obtained from the appropriate local HUD Office.)

(j) Form HUD-96010, Program Outcome Logic Model. In addition to the Project Development Timeline to be submitted in Exhibit 3(h) above, the information provided in the Logic Model will be used in rating your application for Rating Factor 5, Achieving Results and Program Evaluation.

(k) Form HUD-27300, Questionnaire for HUD's Initiative on Removal of Regulatory Barriers (optional form). To receive up to 2 points, you must submit this form and provide a reference, URL or brief statement documenting the successful efforts in removing barriers to affordable housing by the jurisdiction in which your project will be located. This Questionnaire will be considered in the rating of your application for Rating Factor 3.j.

(l) Form HUD-96011, Facsimile Transmittal to be used for faxing third party letters and other documents for your electronic applications in accordance with the instructions in the General Section.

Note: HUD will not accept entire applications by fax. If you submit the application entirely by fax, it will be disqualified.

(m) Form HUD-2994-A, You Are Our Client Survey. This is an optional form that may be used to provide suggestions and comments to the Department regarding your application submission experience.

C. Submission Dates and Time. Your application must be received and validated electronically by Grants.gov no later than 11:59:59 PM eastern time on the application deadline date of May 26, 2006, unless a waiver of the electronic delivery process has been approved by HUD. Please refer to the General Section for instructions on applying for a waiver. If you are seeking a waiver of the electronic submission requirement, you must submit the waiver request to the following HUD official and address: Brian D. Montgomery, Assistant Secretary for Housing-Federal Housing Commissioner, Department of Housing and Urban Development, 451 Seventh Street, SW., Room 9100, Washington, DC 20410-8000, Telephone Number: (202) 708-2601. Applicants that are granted a waiver of the electronic submission requirement will not be afforded additional time to submit their applications. Therefore, HUD strongly recommends that you submit your waiver request to the above address approximately 15 days before the application deadline date. If a waiver is granted, you may submit copies of the application through the United States Postal Service or other type of mail service so that it can be received at the appropriate local HUD office no later than 11:59:59 p.m. on the application deadline date of May 26, 2006. The letter granting the waiver will provide instructions regarding the number of copies and where they must be sent. HUD will accept hand delivery of applications.

D. Intergovernmental Review. 1. State Review. This funding opportunity is subject to Executive Order (EO) 12372, “Intergovernmental Review of Federal Programs.” You must contact your State's Single Point of Contact (SPOC) to find out about and comply with the state's process under EO 12372. The names and addresses of the SPOCs are listed in the Office of Management and Budget's Web site at http://www.whitehouse.gov/omb/grants/spoc.html. If required by the state, the submission to the state needs to occur before the Section 811 application deadline date, but in no event later than the application deadline date. It is recommended that you provide the state with sufficient time to review the application. Therefore, it is important that you consult with the SPOC for state review time frames and take that into account when submitting the application. If the SPOC requires a review of your application, you must include a copy of the cover letter you sent to the SPOC in Exhibit 8(a) of your Section 811 application.

2. HUD/RHS Agreement. HUD and the Rural Housing Service (RHS) have an agreement to coordinate the administration of the agencies' respective rental assistance programs. As a result, HUD is required to notify RHS of applications for housing assistance it receives. This notification gives RHS the opportunity to comment if it has concerns about the demand for additional assisted housing and possible harm to existing projects in the same housing market area. HUD will consider RHS comments in its review and application selection process.

E. Funding Restrictions: 1. Ineligible Activities. Section 811 funds may not be used for any of the following:

a. Supportive Services

b. Housing that you currently own or lease that has been occupied by people with disabilities for longer than one year prior to the application deadline date;

c. Nursing homes, infirmaries and medical facilities;

d. Transitional housing;

e. Mobile homes;

f. Intermediate care facilities;

g. Assisted living facilities;

h. Community centers, with or without special components for use by persons with disabilities;

i. Sheltered workshops and centers for persons with disabilities;

j. Headquarters for organizations for persons with disabilities; and

k. Refinancing of Sponsor-owned facilities without rehabilitation.

Note: You may propose to rehabilitate an existing currently-owned or leased structure (if the structure already serves persons with disabilities, it cannot have operated as housing for persons with disabilities for longer than one year prior to the application deadline date); however, the refinancing of any federally funded or assisted project or project insured or guaranteed by a federal agency is not permissible under this Section 811 NOFA. HUD does not consider it appropriate to utilize scarce program resources to refinance projects that have already received some form of assistance under a federal program or that have been operating as housing for persons with disabilities for longer than one year prior to the application deadline date. (For example, Section 202, Section 202/8 or Section 202/PAC direct loan projects cannot be refinanced with capital advances and project rental assistance.)

2. Application Limits (Units/Projects). A Sponsor or Co-Sponsor may not apply for more than 70 units of housing or 4 projects (whichever is less) for persons with disabilities in a single Hub or more than 10 percent of the total units allocated to all local HUD offices. Affiliated entities (organizations that are branches or offshoots of a parent organization) that submit separate applications are considered a single entity for the purpose of these limits. In addition, no single application may propose more units in a given local HUD office than allocated for the Section 811 program in that local HUD office. If the proposed project will be an independent living project, your application must request at least five units for persons with disabilities, not necessarily in one structure. If your proposed project will be a group home, you must request at least two units for persons with disabilities per group home. If your proposed project will be a combination of an independent living project and a group home, your application must request at least the minimum number of units for each project type (i.e., 5 units for an independent living project and 2 units for a group home).

3. Development Cost Limits. a. The following development cost limits, adjusted by locality as described in Section IV.E.3.b. below must be used to determine the capital advance amount reserved for projects for persons with disabilities.

Note: The capital advance funds awarded for this project are to be considered the total amount of funds that the Department will provide for the development of this project. Amendment funds will only be provided in exceptional circumstances (e.g., to cover increased costs for construction delays due to litigation or unforeseen environmental issues resulting in a change of sites) that are clearly beyond your control. Otherwise, you are responsible for any costs over and above the capital advance amount provided by the Department as well as any costs associated with any excess amenities and design features.

(1) For independent living projects and dwelling units in multifamily housing developments, condominium and cooperative housing: The capital advance amount for the project attributable to dwelling use (less the incremental development cost and the capitalized operating costs associated with any excess amenities and design features and other costs you must pay for) may not exceed:

Non-elevator structures:

$42,980 per family unit without a bedroom

$49,557 per family unit with one bedroom

$59,766 per family unit with two bedrooms

$76,501 per family unit with three bedrooms

$85,225 per family unit with four bedrooms

For elevator structures:

$45,232 per family unit without a bedroom

$51,849 per family unit with one bedroom

$63,049 per family unit with two bedrooms

$81,563 per family unit with three bedrooms

$89,531 per family unit with four bedrooms

(2) For group homes only (the development cost limits are capped by type of occupancy and number of person with disabilities):

Type of Disability
Residents | Physical/developmental | Chronic mental illness
2 | $172,303 | $166,325
3 | 185,287 | 178,860
4 | 198,273 | 189,995
5 | 211,257 | 201,130
6 | 224,228 | 212,265

(3) These cost limits reflect those costs reasonable and necessary to develop a project of modest design that complies with HUD minimum property standards; the minimum group home requirements of 24 CFR 891.310(a) (if applicable); the accessibility requirements of 24 CFR 891.120(b) and 891.310(b); and the project design and cost standards of 24 CFR 891.120. b. Increased development cost limits.

(1) HUD may increase the development cost limits set forth above, by up to 140 percent in any geographic area where the cost levels require, and may increase the development cost limits by up to 160 percent on a project-by-project basis. This increase may include covering additional costs to make dwelling units accessible through rehabilitation.

Note: In applying the applicable high cost percentage, the local HUD office may use a percentage that is higher or lower than that which is assigned to the local HUD office if it is needed to provide a capital advance amount that is comparable to what it typically costs to develop a Section 811 project in that area.

(2) If HUD finds that high construction costs in Alaska, Guam, the Virgin Islands or Hawaii make it unfeasible to construct dwellings, without the sacrifice of sound standards of construction, design, and livability, within the development cost limits provided in Section IV.E.3.a.(1) and IV.E.3.b.(1) above, the amount of capital advances may be increased to compensate for such costs. The increase may not exceed the limits established under this section (including any high cost area adjustment) by more than 50 percent.

(3) For group homes only, local HUD offices may approve increases in the development cost limits in Section IV.E.3.a.(2), above, in areas where you can provide sufficient documentation that high land costs limit or prohibit project feasibility. An example of acceptable documentation is evidence of at least three land sales that have actually taken place (listed prices for land are not acceptable) within the last two years in the area where your project is to be built. The average cost of the documented sales must exceed ten percent of the development cost limit for your project in order for an increase to be considered.

4. Commercial Facilities. A commercial facility for the benefit of the residents may be located and operated in the Section 811 project. However, the commercial facility cannot be funded with the use of Section 811 capital advance or PRAC funds. The maximum amount of space permitted for a commercial facility cannot exceed 10 percent of the total project cost. An exception to this 10 percent limitation is if the project involves acquisition or rehabilitation and the additional space was incorporated in the existing structure at the time the proposal was submitted to HUD. Commercial facilities are considered public accommodations under Title III of the Americans with Disabilities Act of 1990 (ADA), and thus must comply with all the accessibility requirements of the ADA.

5. Expiration of Section 811 Funds. The Department of Housing and Urban Development Appropriations Act, 2006, requires HUD to obligate all Section 811 funds appropriated for FY 2006 by September 30, 2009. Under 31 U.S.C. 1551, no funds can be disbursed from this account after September 30, 2014. Under Section 811, obligation of funds occurs for both capital advances and project rental assistance upon fund reservation and acceptance. If all funds are not disbursed by HUD and expended by the project Owner by September 30, 2014, the funds, even though obligated, will expire and no further disbursements can be made from this account. In submitting an application, you need to carefully consider whether your proposed project can be completed through final capital advance closing no later than September 30, 2014. Furthermore, all unexpended balances, including any remaining balance on PRAC contracts, will be cancelled as of October 1, 2014. Amounts needed to maintain PRAC payments for any remaining term on the affected contracts beyond that date will have to be funded from other current appropriations.

F. Other Submission Requirements: 1. Address for Submitting Applications. Applications must be submitted electronically through the http://www.Grants.gov Web site, unless the applicant receives a waiver from the electronic submission requirement. See the General Section for information on applying online and requesting a waiver from the electronic application requirement. The applications submitted electronically via Grants.gov will be downloaded and forwarded to the appropriate local HUD Office for processing and review. If you apply for and receive a waiver from the electronic application requirement, you must submit an original and four copies of your completed application to the Director of the appropriate local HUD office. Refer to HUD's website at http://www.hud.gov/offices/adm/grants/fundsavail.cfm for a listing of local HUD offices. The applications submitted electronically via http://www.Grants.gov will be downloaded and forwarded to the appropriate local HUD office.

2. For Section 811 applications that have more than one applicant, i.e., Co-Sponsors. The applicants must designate a single individual to act as the authorized representative for all Co-Sponsors of the application. The designated authorized representative of the organization submitting the application must be registered with Grants.gov, the Federal Central Contractor Registry and with the credential provider for E-Authentication. Information on the Grants.gov registration process is found at http://www.grants.gov/GetStarted. When the application is submitted through Grants.gov, the name of the designated authorized representative will be inserted into the signature line of the application. Please note that the designated authorized representative must be able to make legally binding commitments for each Co-Sponsor to the application.

Each Co-Sponsor must complete the documents required of all co-sponsoring organizations to permit HUD to make a determination on the eligibility of the Co-Sponsor(s) has pledged to the project. Therefore, each Co-Sponsor must submit the following information using the scanning and/or faxing method described in Section IV. of the General Section: Standard Form 424, Application for Federal Assistance; Standard Form 424 Supplement, Survey for Ensuring Equal Opportunity for Applicants; Standard Form LLL, Disclosure of Lobbying Activities (if applicable); Form HUD-92016-CA, Section 811 Application for Capital Advance, Summary Information; Form HUD-92041, Sponsor's Conflict of Interest Resolution; Form HUD-92042, and Sponsor's Resolution for Commitment to Project. The forms identified above are discussed in the Program instructions package and can be downloaded from HUD's Website at http://www.hud.gov/offices/adm/grants/nofa06/snofaforms.cfm. The downloaded and completed forms should be saved as separate electronic files and attached to the electronic application submission following the requirements of Section IV.

As stated in Section IV of the General Section, scanning documents to create electronic files increases the size of the file. Therefore, applicants may not submit scanned files unless using the facsimile method as stated in the General Section. If the facsimile method does not work, forms and other documents from Co-Sponsors may be scanned to create an electronic file and submitted as an attachment to the application. These documents should be labeled and numbered so the HUD reviewer can identify the file and its contents. If the applicant is creating an electronic file, the file should contain a header that identifies the name of the Sponsor submitting the electronic application, that Sponsor's DUNS Number, and the unique ID that is found at the top of the Facsimile Transmission form found in the electronic application package. The naming convention for each electronic file should correspond to the labeling convention used in the application Table of Contents found in Section IV.B.1. of this NOFA. For example, the organizational documents of a Co-Sponsor would be included under Part II, Exhibit 2(a) of the Section 811 application.

The signed documents and other information required to be submitted with the electronic application should be transmitted via fax, using Form HUD-96011, Facsimile Transmittal as the cover page to the facsimile. The Form HUD-96011 is found in the electronic application package. Co-Sponsors should use the Form HUD-96011 provided by the Sponsor that is submitting the electronic application. The submitting Sponsor should fill in the SF 424 form prior to giving the Form 96011 to the Co-Sponsors. By following these directions, the Form HUD-96011 will be pre-populated with the submitting Sponsor's organizational information exactly as the submitting Sponsor has provided it on the electronic application. In addition, HUD will be using the unique identifier associated to the downloaded application package as a means of matching the faxes submitted with applications received via Grants.gov. The Facsimile Transmittal form also has space to provide the number of pages being faxed and information on the type of document. Co-Sponsors or the submitting applicant can insert the document name in the space provided labeled Program Component and should ensure that the form that is used is the cover sheet to the facsimile transmittal.

Do not insert any additional or other cover pages as it will cause problems in electronically matching the pieces of the application.

V. Application Review Information

A. Criteria

Policy Priorities. HUD encourages applicants to undertake specific activities that will assist the Department in implementing its policy priorities and which help the Department achieve its strategic goals for FY2006. Refer to the General Section for information regarding HUD's Strategic Goals and Policy Priorities. For the Section 811 program, applicants who include work activities that specifically address the policy priorities of encouraging accessible design features by incorporating visitability standards and universal design, ending chronic homelessness, removing barriers to affordable housing, promoting energy efficiency in design and operations, and expanding training and employment opportunities for low and very low-income persons and business concerns (Section 3 requirements) will receive additional points. A Notice pertaining to the removal of barriers to affordable housing was published in the Federal Register and may be downloaded from the HUD website at http://www.hud.gov/offices/adm/grants/fundsavail.cfm.

Rating Factors. HUD will rate applications that successfully complete technical processing using the Rating Factors set forth below and in accordance with the application submission requirements in this NOFA. The maximum number of points an application may receive under this program is 102. This includes two (2) RC/EZ/EC-II bonus points, as described in the General Section of the SuperNOFA and Section V.A.6 below.

1. Rating Factor 1: Capacity of the Applicant and Relevant Organizational Staff (28 Points). This factor addresses the extent to which you have the organizational resources to successfully implement the proposed activities in a timely manner. Submit information responding to this factor in accordance with Application Submission Requirements in Exhibits 3(a), 3(b), 3(e), 5 and 6 of Section IV.B. of this NOFA. In rating this factor, HUD will consider the extent to which your application demonstrates your ability to develop and operate the proposed housing on a long-term basis, considering the following:

a. (13 points) The scope, extent, and quality of your experience in providing housing or related services to those proposed to be served by the project and the scope of the proposed project (i.e., number of units, services, relocation costs, development, and operation) in relationship to your demonstrated development and management capacity as well as your financial management capability.

b. (10 points) The scope, extent, and quality of your experience in providing housing or related services to minority persons or minority families and your ties to the community at large and to the minority and disability communities in particular.

(1) (5 points) The scope, extent, and quality of your experience in providing housing or related services to minority persons or families.

(2) (5 points) The scope, extent, and quality of your ties to the community at large and to the minority and disability communities in particular.

To earn the maximum number of points under subcriteria (b)(1) above, you must describe significant previous experience in providing housing and/or supportive services to minorities generally and to minority persons with disabilities, in particular. For the purpose of this competition, “significant previous experience” means that the previous housing assistance or related services to minorities, i.e., the percentage of minorities being provided housing or related services in your current developments, was equal to or greater than the percentage of minorities in the housing market area where the previous housing or services occurred. To earn the maximum number of points under subcriteria (b)(2) above, you should submit materials that demonstrate your efforts to make housing available to the community at large and the minority and disability communities in particular and your relationships over time with the community, including the minority and disability communities. Examples of documents that may be submitted to earn the maximum number of points under subcriteria (b)(2), include letters of support from community leaders (including minority and disability community leaders) that give information about applicant's relationship over time with the community (including the minority and disability community). You may also submit copies of your affirmative marketing plan and the advertising/outreach materials you utilize to attract minority communities (including limited English proficient communities), disabled community and the community at large. Regarding your advertising/outreach materials, you should identify when advertising/outreach materials are circulated, whom they are circulated to, where they are circulated, and how they are circulated. Descriptions of other advertising/outreach efforts to the minority (including limited English proficient communities) and disabled communities and the dates and places of such advertising/outreach efforts should also be included.

c. (−3 to −5 points) HUD will deduct (except if the delay was beyond your control) 3 points if a fund reservation you received under either the Section 811 program of Supportive Housing for Persons with Disabilities or the Section 202 program of Supportive Housing for the Elderly in FY2000 or later has been extended beyond 24 months, 4 points if beyond 36 months, and 5 points if beyond 48 months. Examples of delays beyond your control include, but are not limited to, initial closing delays that are: (1) directly attributable to HUD, (2) directly attributable to third party opposition, including litigation, and (3) due to a disaster, as declared by the President of the United States.

d. (−3 to −5 points). HUD will deduct from 3 points to 5 points if amendment money was required in connection with a fund reservation you received under either the Section 202 Program of Supportive Housing for the Elderly or the Section 811 Program of Supportive Housing for Persons with Disabilities in FY 2001 or later based on the following.

(1) (−3 points). The amount of the amendment money required was 25% or less of the original capital advance amount approved by HUD.

(2) (−4 points). The amount of the amendment money required was between 26% and 50% of the original capital advance amount approved by HUD.

(3) (−5 points). The amount of the amendment money required was over 50% of the original capital advance amount approved by HUD.

e. (5 points) You have experience in developing integrated housing and/or the proposed project will be an integrated housing model (e.g., condominium units scattered within one or more buildings or non-contiguous independent living units on scattered sites).

2. Rating Factor 2: Need/Extent of the Problem (13 Points). This factor addresses the extent to which there is a need for funding the proposed activities to address a documented problem in the target area. Submit information responding to this factor in accordance with Application Submission Requirements in Exhibits 4(a) and 4(b) of Section IV.B. of this NOFA. HUD will consider the following in evaluating this factor:

The extent of the need for the project in the area based on a determination by the local HUD office. In making this determination, HUD will consider your evidence of need in the area, as well as other economic, demographic, and housing market data available to the local HUD office. The data should include a general assessment of the current conditions in the market for the type of housing proposed, an estimate of the demand for additional housing of the type proposed in the applicable housing market area; as well as, information on the numbers and types of existing comparable subsidized housing for persons with disabilities, current occupancy in such housing and recent market experience, comparable subsidized housing for persons with disabilities under construction or for which fund reservations have been issued, and, in accordance with an agreement between HUD and RHS, comments from RHS on the demand for additional comparable subsidized housing and the possible harm to existing projects in the same housing market area. The Department also will review more favorably those applications which establish a connection between the proposed project and the community's Analysis of Impediments to Fair Housing Choice (AI) or other planning document that analyzes fair housing issues and is prepared by a local planning or similar organization. You must show how the proposed project will address an impediment to fair housing choice described in the AI or meet a need identified in the other type of planning document.

If a determination has been made that there is sufficient sustainable long-term demand for additional supportive housing for persons with disabilities in the area to be served, the project is to be awarded 10 points. If not, the project is to be awarded 0 points. No other point values are allowed.

3. Rating Factor 3: Soundness of Approach (42 Points). This factor addresses the quality and effectiveness of your proposal, the extent to which you involved persons with disabilities, including minority persons with disabilities, in the development of the application and will involve them in the development and operation of the project, the extent to which you coordinated your application with other organizations, including local independent living centers, with which you share common goals and objectives and are working toward meeting these objectives in a holistic and comprehensive manner, whether you consulted with Continuum of Care organizations to address efforts to assist persons with disabilities who are chronically homeless as defined in the General Section, whether the jurisdiction in which your project will be located has undertaken successful efforts to remove regulatory barriers to affordable housing, whether you will promote energy efficiency in the design and operation of the proposed housing, and your plans to expand economic opportunities for low and very low-income persons as well as business concerns (Section 3). There must be a clear relationship between the proposed design, the proposed activities, the community's needs and purposes of the program funding for your application to receive points for this factor. Submit information responding to this factor in accordance with Application Submission Requirements in Exhibits 2(d), 3(f), 3(j), 3(k), 3(l), 3(m), 4(c)(i), 4(c)(ii), 4(d)(iii), 4(d)(v), 4(d)(vi), 4(e)(i), 5, and 8(l) of Section IV.B. of this NOFA. In evaluating this factor, HUD will consider the following:

a. (14 points) Site approvability—The proximity or accessibility of the site to shopping, medical facilities, transportation, places of worship, recreational facilities, places of employment, and other necessary services to the intended occupants; adequacy of utilities and streets, and freedom of the site from adverse environmental conditions (based on site visit for site control projects only); and compliance with site and neighborhood standards in 24 CFR 891.125(a), (d), and (e) and 24 CFR 891.320. Sites where amenities are accessible other than by project residence or private vehicle will be rated more favorably;

b. (−1 point) One or more of your proposed sites is not permissively zoned for the intended use.

c. (10 points) The suitability of the site from the standpoints of promoting a greater choice of housing opportunities for minorities and persons with disabilities and affirmatively furthering fair housing. In reviewing this criterion, HUD will assess whether the site meets the site and neighborhood standards at 24 CFR 891.125(b) and (c) by examining relevant data in your application or in the local HUD office. If appropriate, HUD may visit the site.

(1) The site will be deemed acceptable if it increases housing choice and opportunity by expanding housing opportunities in non-minority neighborhoods (if located in such a neighborhood). The term “non-minority area” is defined as one in which the minority population is lower than 10 percent. If the site will be in a minority neighborhood, the site will be deemed acceptable if it contributes to the revitalization of and reinvestment in the minority neighborhood, including improvement of the level, quality and affordability of services furnished to minority persons with disabilities. You should refer to the Site and Neighborhood Standards provisions of the regulations governing the Section 811 Supportive Housing Program (24 CFR 891.125(b) and (c)) when considering sites for your projects.

(2) For the purpose of this competition, the term “minority neighborhood (area of minority concentration)” is defined as one where any one of the following statistical conditions exists:

(a) The percentage of persons of a particular racial or ethnic minority is at least 20 points higher than the minority's or combination of minorities' percentage in that housing market as a whole;

(b) The neighborhood's total percentage of minority persons is at least 20 points higher than the total percentage of minorities for the housing market area as a whole; or

(c) In the case of a metropolitan area, the neighborhood's total percentage of minority persons exceeds 50 percent of its population.

d. (2 points) Site and Neighborhood Standards and Persons with Disabilities: The extent to which the proposed design of the project (exterior and interior) and its placement in the neighborhood will meet the individual needs of the residents and will facilitate their integration into the surrounding community and promote their ability to live as independently as possible.

e. (1 point) The extent to which the proposed design incorporates visitability standards and universal design in the construction or rehabilitation of the project. Refer to the General Section for further information.

f. (4 points) Your board is comprised of persons with disabilities.

g. (3 points) You involved persons with disabilities (including minority persons with disabilities) in the development of the application, and will involve persons with disabilities (including minority persons with disabilities) in the development and operation of the project.

h. (2 points) The extent to which you coordinated your application with other organizations (including local independent living centers; a list of such can be obtained from the local HUD office) that will not be directly participating in your project, but with which you share common goals and objectives and are working toward meeting these goals and objectives in a holistic and comprehensive manner.

i. (1 point) You consulted with the Continuum of Care organizations in the community in which your proposed project will be located and have developed ways in which the proposed project will assist persons with disabilities who have been experiencing chronic homelessness become more productive members of society. Refer to the General Section for further information.

j. (2 points) The extent to which the jurisdiction in which your project will be located has undertaken successful efforts to remove regulatory barriers to affordable housing. (NOTE: To receive up to 2 points, the applicant must have submitted the optional Form HUD-27300, Questionnaire for HUD's Initiative on Removal of Regulatory Barriers, AND provided URL references or submitted the required documentary evidence.)

k. (1 point) The extent to which you will promote energy efficiency in the design and operation of the proposed housing. (NOTE: Optional, but to receive the 1 point, the applicant must have adequately addressed their plans to promote energy efficiency in the design and operation of the proposed project.) Refer to Section III.C.3.k. of this NOFA.

l. (2 points). The extent to which you have described your plans for expanding economic opportunities for low and very low-income persons (provisions of Section 3). NOTE: To receive up to 2 points, the applicant must have adequately addressed the following in Exhibit 3(m) of the application. Refer to the General Section for further information.

(1) (1 point). Provide opportunities to train and employ low and very low-income residents of the project area.

(2) (1 point). Award substantial contracts to persons residing in the project area.

4. Rating Factor 4: Leveraging Resources (5 Points). This factor addresses your ability to secure other funding sources and community resources that can be combined with HUD's program resources to achieve program purposes. Submit information responding to this factor in accordance with Application Submission Requirements in Exhibits 3(a), 3(b), 3(c), 3(d), 3(e), and 5(f) of Section IV.B. of this NOFA.

a. (0 point). The application contains general support and/or written evidence of firm commitments towards the development and operation of the proposed project (including, financial assistance, donation of land, provision of services, etc.) from other funding sources (e.g., private local community and government sources) where the dollar value totals 5% or less of the capital advance amount as determined by HUD.

b. (1 point). The application contains written evidence of firm commitments towards the development and operation of the proposed project (including, financial assistance, donation of land, provision of services, etc.) from other funding sources (e.g., private local community and government sources) where the dollar value totals between 6% and 10% of the capital advance amount as determined by HUD.

c. (2 points). The application contains written evidence of firm commitments towards the development and operation of the proposed project (including, financial assistance, donation of land, provision of services, etc.) from other funding sources (e.g., private local community and government sources) where the dollar value totals between 11% and 15% of the capital advance amount as determined by HUD.

d. (3 points). The application contains written evidence of firm commitments towards the development and operation of the proposed project (including, financial assistance, donation of land, provision of services, etc.) from other funding sources (e.g., private local community and government sources) where the dollar value totals between 16% and 20% of the capital advance amount as determined by HUD.

e. (4 points). The application contains written evidence of firm commitments towards the development and operation of the proposed project (including, financial assistance, donation of land, provision of services, etc.) from other funding sources (e.g., private local community and government sources) where the dollar value totals between 21% and 25% of the capital advance amount as determined by HUD.

f. (5 points). The application contains written evidence of firm commitments towards the development and operation of the proposed project (including, financial assistance, donation of land, provision of services, etc.) from other funding sources (e.g., private local community and government sources) where the dollar value totals over 25% of the capital advance amount as determined by HUD.

5. Rating Factor 5: Achieving Results and Program Evaluation (12 Points). This factor reflects HUD's goal to embrace high standards of ethics, management and accountability and, as such, emphasizes HUD's commitment to ensuring that you keep the promises made in your application. This factor requires that you clearly identify the benefits or outcomes of your project and develop an evaluation plan to measure performance, which includes what you are going to measure, how you are going to measure it, and the steps you will have in place to make adjustments to your project development timeline should you not be able to achieve any of the major milestones. Completion of Exhibit 8(j), Program Outcome Logic Model, will assist you in completing your response to this rating factor. This rating factor also addresses the extent to which your project will implement practical solutions that result in residents achieving independent living, economic empowerment, educational opportunities and improved living environments. Finally, this factor addresses the extent to which the long-term viability of your project will be sustained for the duration of the 40-year capital advance period. Submit information responding to this factor in accordance with Application Submission Requirements in Exhibits 3(e), 3(g), 3(h), 3(i), 6(b), and 8(k) of Section IV.B. of this NOFA.

a. (5 points) The extent to which your project development timeline is indicative of your full understanding of the development process and will, therefore, result in the timely development of your project.

b. (2 points) The extent to which your past performance evidences that the proposed project will result in the timely development of the project. Evidence of your past performances could include the development of previous construction projects, including but not limited to Section 202 or Section 811 projects.

c. (2 points) The extent to which your project will implement practical solutions that will result in assisting residents in achieving independent living, economic empowerment, educational opportunities, and improved living environments (e.g., activities that will improve computer access, literacy and employment opportunities).

d. (3 points) The extent to which you demonstrated that your project will remain viable as housing with the availability of supportive services for very low income persons with disabilities for the 40-year capital advance period.

6. Bonus Points (2 bonus points) Location of proposed site in an RC/EZ/EC-II area, as described in the General Section. Submit the information responding to the bonus points in accordance with the Application Submission Requirements in Exhibit 8(i) of Section IV.B. of this NOFA.

B. Reviews and Selection Process: 1. Review for Curable Deficiencies. Upon receipt of the application by HUD staff, HUD will screen all applications to determine if there are any curable deficiencies. For applicants receiving a waiver to submit a paper application, submitting fewer than the required original and four copies of the application is not a curable deficiency and will cause your application to be considered non-responsive to the NOFA and returned to you. A curable deficiency is a missing Exhibit or portion of an Exhibit that will not affect the rating of the application. Refer to the General Section for additional information regarding procedures for corrections to deficient applications. The following is a list of the only deficiencies that will be considered curable in a Section 811 application:

Exhibit | Description
1 | Form 92016-CA (Application Form)*.
2(a) | Articles of Incorporation*.
2(b) | By-laws*.
2(c) | IRS tax exemption ruling*.
4(d)(i) | Evidence of site control.
4(d)(ii) | Evidence site is free of limitations, restrictions or reverters.
4(d)(iv) | Evidence of compliance with URA site notification requirement.
4(d)(vii) | Phase I ESA.
4(d)(viii) | Asbestos Statement or Survey.
4(d)(ix) | Letter to the State/Tribal Historic Preservation Officer (SHPO/THPO) and a statement that the SHPO/THPO failed to respond OR the letter from the SHPO/THPO.
4(d)(x) | Willingness to seek an alternate site.
4(d)(xi) | Exception to project size limit.
4(e)(ii) | Steps undertaken to identify site.
4(e)(iv) | Status of the sale of the site.
4(e)(v) | Whether the site would involve relocation.
5 | Supportive Services Plan.
7 | Relocation.
8(a) | Standard Form 424, Application for Federal Assistance, Letter sent to the State Point of Contact (SPOC)*.
8(b) | Standard Form 424 Supplement, Survey on Ensuring Equal Opportunity for Applicants Standard Form LLL, Disclosure of Lobbying Activities (if applicable).
8(c) | Form HUD-2880, Applicant/Recipient Disclosure/Update Report.
8(d) | Form HUD-2991, Certification of Consistency with Consolidated Plan.
8(e) | Form HUD-92041, Sponsor's Conflict of Interest Resolution.
8(f) | Form HUD-92042, Sponsor's Resolution for Commitment to Project*.
8(g) | Form HUD-92043, Supportive Services Certification.
8(i) |

The local HUD office will notify you in writing if your application is missing any of the above exhibits or portions of exhibits and will provide you with a specified deadline to submit the information required to cure the noted deficiencies. The items identified by an asterisk (*) must be dated on or before the application submission date. If an Exhibit or portion of an Exhibit listed above as curable is not discovered as missing until technical processing, HUD will provide you with a deadline to cure the deficiency.

2. Rating. HUD will review and rate your application in accordance with the Reviews and Selection Process in the General Section except as described in “3. Appeal Process” below. Your application will be either rated or technically rejected at the end of technical review. If your application meets all program eligibility requirements after completion of technical review, it will be rated according to the rating factors in Section V.A. above.

3. Appeal Process. HUD will not reject your application based on technical review without notifying you of the rejection with all the reasons for rejection and providing you an opportunity to appeal. You will have 14 calendar days from the date of HUD's written notice to appeal a technical rejection to the local HUD office. In HUD's review of any appeal, it should be noted that in conformance with its regulations at 24 CFR part 4, subpart B, HUD will not consider any unsolicited information that you, the applicant, may want to provide. The local HUD office will make a determination on any appeals before making its selection recommendations.

4. Ranking and Selection Procedures. Applications that have a total base score of 75 points or more (without the addition of RC/EC/EZ-II bonus points) and meet all of the applicable threshold requirements in the General Section and this NOFA will be eligible for selection and will be placed in rank order in two categories; Category A and Category B. Category A will consist of approvable applications that contain acceptable evidence of control of all proposed sites and all proposed sites have been found approvable. Category B will consist of the following approvable applications: (a) Those that were submitted with identified sites; (b) those that were submitted with evidence of site control where the evidence and/or any of the proposed sites were found unapprovable provided you indicate your willingness to locate another site(s) should the proposed site(s) be found unapprovable; and (c) those that were submitted with a combination of sites under control and identified sites. Each HUD Multifamily Program Center will select applications, after adding any bonus points for RC/EC/EZ-II, based on rank order, from Category A first that most closely approximates the capital advance authority available in its allocation. If capital advance authority remains after selecting all approvable applications from Category A, each HUD Multifamily Program Center shall then select applications, in rank order, from Category B that most closely approximates the capital advance authority remaining in its allocation. HUD Multifamily Program Centers will not skip over any applications in order to select one based on the funds remaining. After making the initial selections from the applicable category, however, HUD Multifamily Program Centers may use remaining available funds to select the next rank-ordered application in that category by reducing the number of units by no more than 10 percent, rounded to the nearest whole number, provided the reduction will not render the project unfeasible. For this purpose, however, HUD will not reduce the number of units in projects of five units or less.

After the HUD Multifamily Program Centers have funded all possible projects based on the process above, residual funds from all HUD Multifamily Program Centers within each Multifamily Hub will be combined. First, these funds will be used to restore units to projects reduced by HUD Multifamily Program Centers based on the above instructions. Second, additional approvable applications within each Multifamily Hub will be selected in Hub-wide rank order, first from Category A, and if sufficient funds remain, from Category B, with only one application selected per HUD Multifamily Program Center. More than one application may be selected per HUD Multifamily Program Center if there are no approvable applications in other HUD Multifamily Program Centers within the Multifamily Hub. This process will continue until there are no more approvable applications within the Multifamily Hub that can be selected with the remaining funds. Applications may not be skipped over to select one based on funds remaining. However, the Multifamily Hub may use any remaining residual funds to select the next rank-ordered application in the applicable category by reducing the number of units by no more than 10 percent rounded to the nearest whole number, provided the reduction will not render the project infeasible or result in the project being less than 5 units.

Funds remaining after the Multifamily Hub selection process is completed will be returned to Headquarters. HUD Headquarters will use these residual funds first to restore units to projects reduced by HUD Multifamily Program Center or Multifamily Hub as a result of the instructions for using their residual funds. Second, HUD Headquarters will use these funds for selecting applications based on HUD Program Centers' rankings, beginning with the highest rated application nationwide in Category A. Only one application will be selected per HUD Multifamily Program Center in Category A from the national residual amount. Headquarters may skip over a higher rated Category A application to ensure that only one application is selected from each HUD Multifamily Program Center. This process will continue until the remaining available funds are used to select Category A applications, to the maximum extent possible. If all Category A applications are selected, Category B applications will then become eligible for selection in rank order, beginning with the highest rated application. Only one Category B application per HUD Multifamily Program Center will be selected from the remaining national residual amount. Headquarters may skip over a higher rated Category B application in order to ensure that only one application is selected from each HUD Multifamily Program Center. This process will continue until the remaining available funds are used to select approvable applications. If there are no approvable applications in Category A in other HUD Multifamily Program Centers, then the next highest rated application in Category B in another HUD Multifamily Program Center will be selected.

5. HUD Error. In the event HUD commits an error that, when corrected, would have resulted in the selection of an otherwise eligible applicant during the funding round of this NOFA, HUD may select that applicant when sufficient funds become available.

VI. Award Administration Information

A. Award Notices

1. Agreement Letter. If you are selected to receive a Section 811 fund reservation, you will receive an Agreement Letter that stipulates the terms and conditions for the Section 811 fund reservation award as well as the submission requirements following the fund reservation award. The duration of the fund reservation award for the capital advance is 18 months from the date of issuance of the fund reservation.

Immediately upon your acceptance of the Agreement Letter, you are expected to begin work towards the submission of a Firm Commitment Application, which is the next application submission stage. You are required to submit a Firm Commitment Application to the local HUD office within 180 days from the date of the Agreement Letter. Initial closing of the capital advance and start of construction of the project are expected to be accomplished within the duration of the fund reservation award. Final closing of the capital advance is expected to occur no later than six months after completion of project construction.

2. Non-selection Letter. If your application is approvable but unfunded due to insufficient funds or receives a rating that is below the minimum threshold score established for funding eligibility, you will receive a letter to this effect.

3. Debriefing. Refer to the General Section for further information regarding debriefings except that the request must be made to the Director of Multifamily Housing in the appropriate local HUD office.

B. Administrative and National Policy Requirements

1. Ensuring the Participation of Small Businesses, Small Disadvantaged Businesses, and Women-Owned Businesses. Although the Section 811 program is not subject to the provisions of 24 CFR 85.36(e) as described in the corresponding paragraph in the General Section you are required to comply with Executive Order 12432, Minority Business Enterprise Development and Executive Order 11625, Prescribing Additional Arrangements for Developing and Coordinating a National Program for Minority Business Enterprise as they relate to the encouragement of HUD grantees to utilize minority business enterprises.

2. Acquisition and Relocation. You must comply with the Uniform Relocation Assistance and Real Property Acquisition Policies Act of 1970, as amended (49 CFR part 24 and 24 CFR part 891.155(e)) (URA), which covers the acquisition of sites, with or without existing structures, and with 24 CFR 8.4(b)(5) of the Section 504 regulations which prohibits discrimination based on disability in determining the site or location of a federally-assisted facility. However, you are exempt from complying with the site acquisition requirements of the URA if you do not have the power of eminent domain and prior to entering into a contract of sale, option to purchase or any other method of obtaining site control, you inform the seller of the land in writing: (1) That you do not have the power of eminent domain and, therefore, you will not acquire the property if negotiations fail to result in an amicable agreement, and (2) of the estimate of the fair market value of the property. An appraisal is not required to meet this requirement; however, your files must include an explanation (with reasonable evidence), of the basis for the estimate. Evidence of compliance with this advance notice requirement must be included in Exhibit 4(d)(iv) of your application.

3. Flood Disaster Protection Act of 1973 and Coastal Barriers Resources Act. You must comply with the requirements under the Flood Disaster Protection Act of 1973 (42 U.S.C. 4001-4128) and the Coastal Barrier Resources Act (16 U.S.C. 3601).

C. Reporting

The Program Outcome Logic Model (Form HUD-96010) must be completed indicating the results achieved against the proposed output goal(s) and proposed outcome(s) which you stated in your approved application and agreed upon by HUD. Based on the information you provided in the Program Outcome Logic Model. These reporting requirements are to be submitted to HUD as follows:

Program Outcome Logic Model. You, as the Sponsor, and the Owner, when formed, are required to report annually, beginning from the date of the Agreement Letter, on the results achieved against the output goal(s) and outcome(s), which you proposed in the Program Outcome Logic Model that was submitted in your application. For FY2006, HUD is considering a new concept for the Logic Model. The new concept is a Return on Investment (ROI) statement. HUD will be publishing a separate notice on the ROI concept.

2. The Regulatory Agreement (Form HUD-92466-CA) requires the Owner of the Section 811 project to submit an annual financial statement for the project. This financial statement must be audited by an Independent Public Accountant who is a Certified Public Accountant or other person accepted by HUD and filed electronically with HUD's Real Estate Assessment Center (REAC) through the Financial Assessment Subsystem for Multifamily Housing (MF-FASS). The submission of annual financial statements is required throughout the 40-year term of the mortgage.

VII. Agency Contact(s)

Technical Assistance. For technical assistance in downloading an application package from www.grants.gov/Apply, contact the Grants.gov help desk at 800-518-Grants or by sending an email to support@grants.gov.

Programmatic Information. For programmatic information, you may contact the appropriate local HUD office, or Frank Tolliver at HUD Headquarters at (202) 708-3000 (this is not a toll-free number), or access the Internet at: http://www.hud.gov/offices/adm/grants/fundsavail.cfm. Persons with hearing and speech impairments may access the above number via TTY by calling the toll-free Federal Relay Service at 800-877-8339.

VIII. Other Information

A. Field Office Workshop. HUD encourages minority organizations and grassroots organizations (e.g., civic organizations, faith-communities and grassroots faith-based and other community-based organizations) to participate in this program and strongly recommends prospective applicants attend the local HUD office workshop. At the workshops, HUD will explain application procedures and requirements, as well as address concerns such as local market conditions, building codes and accessibility requirements, contamination identification and remediation, historic preservation, floodplain management, other environmental requirements, displacement and relocation, zoning, and housing costs. If you are interested in attending the workshop, make sure that your name, address and telephone number are on the appropriate local HUD office's mailing list so that you will be informed of the date, time and place of the workshop. Persons with disabilities should call the appropriate local HUD office to assure that any necessary arrangements can be made to enable their attendance and participation in the workshop.

If you cannot attend the workshop, call the appropriate local HUD office if you have any questions regarding the submission of applications to that particular office and to request any materials distributed at the workshop.

B. Satellite Broadcast. HUD will hold an information broadcast via satellite for potential applicants to learn more about the program and preparation of the application. It is strongly recommended that potential applicants, especially those who may be applying for Section 811 funding for the first time, tune in to this broadcast, if at all possible. Copies of the broadcast tapes are also available from the NOFA Information Center. For more information about the date and time of the broadcast, you should consult the HUD website at: http://www.hud.gov/offices/adm/grants/fundsavail.cfm.

C. Related Programs. Section 811 funding for tenant-based assistance is administered by public housing agencies and nonprofit organizations through the Mainstream Housing Opportunities for Persons with Disabilities Program.

D. Paperwork Reduction Act. The information collection requirements contained in this document have been approved by the Office of Management and Budget (OMB) under the Paperwork Reduction Act of 1995 (44 U.S.C. 3501-3520) and assigned OMB control number 2502-0462. In accordance with the Paperwork Reduction Act, HUD may not conduct or sponsor, and a person is not required to respond to, a collection of information unless the collection displays a currently valid OMB number. Public reporting burden for the collection of information is estimated to average 35.92 hours per annum per respondent for the application and grant administration. This includes the time for collecting, reviewing, and reporting the data for the application. The information will be used for grantee selection and monitoring the administration of funds. Response to this request for information is required in order to receive the benefits derived.

BILLING CODE 4210-01-C

Continuum of Care (COC) Program

Overview Information

A. Federal Agency Name: Department of Housing and Urban Development, Office of Community Planning and Development.

B. Funding Opportunity Title: Funding Availability for Continuum of Care (CoC) Homeless Assistance Programs.

C. Announcement Type: Initial Announcement.

D. Funding Opportunity Number: The Federal Register number is FR-5030-N-32. The OMB Approval number is pending.

E. Catalog of Federal Domestic Assistance (CFDA) Numbers:

1. 14.235, Supportive Housing Program (SHP)

2. 14.238, Shelter Plus Care (S+C) and

3. 14.249, Section 8 Moderate Rehabilitation Single Room Occupancy (SRO).

F. Dates: Application Deadline Date: Applications should be submitted no later than May 25, 2006. Please see Section IV of this NOFA for application submission and timely receipt requirements.

G. Additional Overview Content Information: 1. Purpose of the Programs: The purpose of the CoC Homeless Assistance Programs is to assist homeless persons to move to self-sufficiency and permanent housing.

2. Available Funds: Approximately $1.2 billion is available for funding.

3. Eligible Applicants: The program summary chart in Section III.A.3 identifies the eligible applicants for each of the three programs under the CoC Homeless Assistance Programs.

4. Match: Matching funds are required from local, state, federal or private resources.

Full Text of Announcement

I. Funding Opportunity Description

A. Program Description

1. Overview. The purpose of the CoC Homeless Assistance Programs is to reduce the incidence of homelessness in CoC communities by assisting homeless individuals and families to move to self-sufficiency and permanent housing. CoCs and their projects that sustain current successful interventions and advance the goals of ending chronic homelessness will be scored higher.

2. The authorizing legislation and implementing regulations for all programs covered by this NOFA are outlined on the chart in Section III.A.3.

3. Changes for 2006. This list includes all major changes to the CoC NOFA:

a. Chart format—The 2006 CoC application has eliminated many required narratives and replaced them with tables that gather the same or similar information. This will reduce the time that CoCs and project sponsors will need to fill out the application, and it prepares for an electronic application in 2007. Because of the chart format, there is no longer a page limit on Exhibit 1. Tables have replaced narratives in the following areas of Exhibit 1:

(1) The CoC's planning process;

(2) The CoC's past performance in addressing chronic homelessness, and long-term strategy for ending chronic homelessness;

(3) The CoC's coordination with other state and local plans;

(4) The community's methods for conducting the unsheltered count, collecting annual data for the Housing Inventory Chart and Populations and Subpopulations Chart, and describing the basis for its determination of unmet need;

(5) The CoC's project review and selection process; and

(6) The CoC's progress and strategies for implementation of an HMIS in the community.

b. The 2006 application has consolidated Exhibits 2, 2R, 3, 3R, and 4 into a single Exhibit 2. This streamlined format will make it easier for project sponsors to complete the required forms.

c. Exhibit 1 has been reorganized into four major divisions: Part I: CoC Organizational Structure, Part II: CoC Housing and Service Needs, Part III: CoC Strategic Planning, and Part IV: CoC Performance. Scoring of these sections will allocate 8, 12, 10, and 18 points to each part, respectively.

d. Checkboxes regarding the frequency of meetings in the new “Groups and Meetings Chart” in Exhibit 1 (CoC-C) replace the required listing of all CoC meeting dates.

e. A new chart in Exhibit 1, “CoC Governing Process” focuses on the planning and decision-making structure of the CoC. HUD has requested that Congress pass legislation to consolidate the three CoC programs, and additional governance is intended to help CoCs implement this new legislation.

f. The Project Leveraging Chart (CoC-S) in Exhibit 1 chart requires that CoCs enter a single number—the total leveraging amount requested by all projects on the priority chart. Each project will now submit specific leveraging amounts and details in Exhibit 2.

g. The Chronic Homeless Progress Chart (CoC-V) in Exhibit 1 emphasizes HUD's goal to end chronic homelessness by asking CoCs to provide information on funding of beds for the chronically homeless.

h. The CoC 10-Year Plan Chart in Exhibit 1 eliminates narrative discussion of long-term planning and replaces it with a chart containing five HUD/national objectives. The chart is called the CoC 10-Year Plan, Objectives, and Action Steps Chart. CoCs will list their action steps and measurable achievements for 1, 5, and 10 years with respect to these objectives.

i. The Achievements Chart (CoC-U) in Exhibit 1 requires CoCs to report on their achievements with respect to their 2005 goals. In the 2007 application, CoCs will be reporting on their achievements with respect to the five HUD/national objectives and action steps contained in the 2006 application.

j. The CoC Section 3 Employment Policy Chart (CoC-AB) in Exhibit 1 requires CoCs to identify the employment policies of projects in the Continuum to whom Section 3 of the Housing and Urban Development Act of 1968 applies.

k. Housing Emphasis points will be calculated using Shelter Plus Care renewal amounts as well as the housing activities in transitional and other permanent housing requests.

l. HUD has streamlined this NOFA and removed those portions not immediately pertaining to the selection process. These include: program requirements upon conditional award (relating to coordination of mainstream resources and prevention strategies/discharge policies); renewals of Shelter Plus Care SRO projects expiring in 2006; and information about Annual Progress Reports. These sections are now located on the HUD web site at: www.hud.gov.

m. The “Questions and Answers Supplement” contains additional information and should be thoroughly reviewed. It is now available on the web at www.hud.gov/offices/adm/grants/fundsavail.cfm.

4. Developing and Coordinating CoC Systems: Developing a CoC system should be an inclusive process that brings together participants from the state, local, private and nonprofit sectors to reduce homelessness. This NOFA emphasizes HUD's determination to integrate and align plans, including U.S. Interagency Council on Homelessness-sponsored jurisdictional state and city ten-year plans (jurisdictional ten-year plans) and Consolidated Plans, into the CoC plans. These plans serve as the vehicle for a community to comprehensively identify each of its needs and to coordinate a plan of action for addressing them. For a community to successfully address the complex and interrelated problems related to homelessness, the community must marshal its varied resources—community and economic development resources, social service resources, business, health care, philanthropy, law enforcement, and housing and homeless assistance resources—and use them in a coordinated and effective manner.

5. CoC Components. A CoC system consists of five basic components, as follows:

a. A system of outreach, engagement, and assessment for determining the needs and conditions of an individual or family who is homeless, and necessary support to identify, prioritize, and respond to persons who are chronically homeless;

b. Emergency shelters with appropriate supportive services to help ensure that homeless individuals and families receive adequate emergency shelter and referral to necessary service providers or housing search counselors;

c. Transitional housing with appropriate supportive services to help homeless individuals and families prepare to make the transition to permanent housing and independent living; and

d. Permanent housing, or permanent supportive housing, to help meet the long-term needs of homeless individuals and families.

e. Prevention strategies play an integral role in a community's plan to eliminate homelessness by effectively intervening for persons in public systems—e.g., corrections, foster care, mental health, and other institutions—so that they do not enter the homeless system. By law, prevention activities are ineligible activities in the three programs for which funds are awarded in this competition but are eligible for funding under the Emergency Shelter Grants block grant program.

6. CoC Planning Process. A CoC system is developed through a community-wide or region-wide process involving nonprofit organizations (including those representing persons with disabilities), government agencies, public housing agencies, community and faith-based organizations, other homeless providers, service providers, housing developers, private health care organizations, businesses and business associations, law enforcement and corrections agencies, school systems, private funding providers, and homeless or formerly homeless persons. A CoC system should address the specific needs of each homeless subpopulation: those experiencing chronic homelessness, veterans, persons with serious mental illnesses, persons with substance abuse issues, persons with HIV/AIDS, persons with co-occurring diagnoses (may include diagnoses of multiple physical disabilities or multiple mental disabilities or a combination of these two types), victims of domestic violence, youth, and any others. To ensure that the CoC system addresses the needs of homeless veterans, it is particularly important that you involve veteran service organizations with specific experience in serving homeless veterans.

7. CoC Funding is provided through the programs briefly described below. Please refer to the CoC Homeless Assistance Programs Chart in Section III.A.3 for a more detailed description of each program:

a. The Supportive Housing Program (SHP) provides funding for the development of transitional and permanent supportive housing and services that help homeless persons transition from homelessness to living as independently as possible. Some services are also funded to assist in achieving the goal of self-sufficiency.

b. The Shelter Plus Care (S+C) Program provides funding for rental assistance and requires grantees to identify service dollars. This gives applicants flexibility in devising appropriate housing and supportive services for homeless persons with disabilities.

c. The Section 8 Moderate Rehabilitation Single Room Occupancy (SRO) Program provides rental assistance on behalf of homeless individuals in connection with the moderate rehabilitation of SRO dwellings.

8. Glossary of Terms. a. Applicant. An entity that applies to HUD for funds. See the CoC Homeless Assistance Programs Chart in Section III.A.3 for a list of entities that are eligible. An applicant must submit a SF-424. If selected for funding, the applicant becomes the grantee and is responsible for the overall management of the grant, including drawing grant funds and distributing them to project sponsors. The applicant is also responsible for supervision of project sponsor compliance with grant requirements. The applicant may also be a project sponsor.

b. Applicant Certification. The form, required by law, in which an applicant certifies that it will adhere to certain statutory requirements, such as the Civil Rights Act of 1964.

c. Chronically Homeless Person. An unaccompanied homeless individual with a disabling condition who has either been continuously homeless for a year or more OR has had at least four (4) episodes of homelessness in the past three (3) years. A disabling condition is defined as “a diagnosable substance use disorder, serious mental illness, developmental disability, or chronic physical illness or disability, including the co-occurrence of two or more of these conditions.” In defining the chronically homeless, the term “homeless” means “a person sleeping in a place not meant for human habitation (e.g., living on the streets) or in an emergency homeless shelter.”

d. Consolidated Plan. A long-term housing and community development plan developed by state and local governments and approved by HUD. The Consolidated Plan contains information on homeless populations and should be coordinated with the CoC plan. It can be a source of information for the Unmet Need sections of the Housing Activities Chart. The plan contains both narratives and maps, the latter developed by localities using software provided by HUD.

e. Consolidated Plan Certification. The form, required by law, in which a state or local official certifies that the proposed activities or projects are consistent with the jurisdiction's Consolidated Plan and, if the applicant is a state or unit of local government, that the jurisdiction is following its Consolidated Plan.

f. Continuum of Care (CoC). A collaborative funding approach that helps communities plan for and provide a full range of emergency, transitional, and permanent housing and service resources to address the various needs of homeless persons.

g. Continuum of Care Hold Harmless Amount. This is the total of the one-year amount of all SHP projects eligible for renewal. CoCs shall receive the higher of: (1) The preliminary pro rata need (PRN) or (2) the CoC hold harmless amount. CoCs receiving the CoC hold harmless amount have the opportunity to reallocate their PRN funds in order to create new permanent supportive housing projects.

h. Current Inventory. A complete listing of the community's existing beds and supportive services.

i. Homeless Management Information Systems (HMIS). An HMIS is a computerized data collection application designed to capture client-level information over time on the characteristics and service needs of men, women, and children experiencing homelessness, while also protecting client confidentiality. It is designed to aggregate client-level data to generate an unduplicated count of clients served within a community's system of homeless services. An HMIS may also cover a statewide or regional area, and include several CoCs. The HMIS can provide data on client characteristics and service utilization.

j. Homeless Person means a person sleeping in a place not meant for human habitation or in an emergency shelter; and a person in transitional housing for homeless persons who originally came from the street or an emergency shelter. For a more detailed discussion, see the Questions and Answers Supplement available on the web at www.hud.gov/offices/adm/grants/fundsavail.cfm. The programs covered by this NOFA are not for populations who are at risk of becoming homeless.

k. NOFA. Notice of Funding Availability, published in the Federal Register to announce available funds and application requirements.

l. Private Nonprofit Status. Private nonprofit status is documented by submitting either: (1) A copy of the Internal Revenue Service (IRS) ruling providing tax-exempt status under Section 501(c)(3) of the IRS Code; or (2) documentation showing that the applicant is a certified United Way agency; or (3) a certification from a designated official of the organization that no part of the net earnings of the organization inures to the benefit of any member, founder, contributor, or individual; that the organization has a voluntary board; that the organization practices nondiscrimination in the provision of assistance; and that the organization has a functioning accounting system that provides for each of the following (mention each in the certification):

(1) Accurate, current and complete disclosure of the financial results of each federally sponsored project.

(2) Records that identify adequately the source and application of funds for federally sponsored activities.

(3) Effective control over and accountability for all funds, property and other assets.

(4) Comparison of outlays with budget amounts.

(5) Written procedures to minimize the time elapsing between the transfer of funds to the recipient from the U.S. Treasury and the use of the funds for program purposes.

(6) Written procedures for determining the reasonableness, allocability and allowability of costs.

(7) Accounting records, including cost accounting records, which are supported by source documentation.

m. Project Sponsor. The organization that is responsible for carrying out the proposed project activities. A project sponsor does not submit a SF-424, unless it is also the applicant. To be eligible to be a project sponsor, you must meet the same program eligibility standards as applicants do, as outlined in Section III.A.3, except in the Sponsor-based rental assistance (SRA) component of the S+C Program. Eligible sponsors for the SRA component are statutorily precluded from applying for S+C funding.

n. Public Nonprofit Status. Public nonprofit status is documented for community mental health centers by including a letter or other document from an authorized official stating that the organization is a public nonprofit organization.

o. SF 424. The application cover sheet required to be submitted by applicants requesting HUD Federal Assistance.

p. Safe Haven. A Safe Haven is a form of supportive housing funded and administered under the Supportive Housing Program serving hard-to-reach homeless persons with severe mental illness and other debilitating behavioral conditions who are on the streets and have been unwilling or unable to participate in supportive services. Safe Havens may be transitional supportive housing, or permanent supportive housing if it has the characteristics of permanent housing and requires participants to sign a lease.

q. Samaritan Housing Initiative. The Samaritan Initiative (formerly known as the Permanent Housing Bonus) will be integrated into this NOFA as part of the larger CoC process and is only for projects serving exclusively chronically homeless persons. It is 15 percent of a CoC's preliminary pro rata need amount or $6 million, whichever is less. Applicants may use no more than 20 percent of this bonus for case management costs to enable program participants to remain successfully housed. See Section V.A.2.b(3) for additional information on this subject.

9. Applicant Roles and Responsibilities. An applicant will be responsible for the overall management and administration of a particular grant, including drawing down the grant funds from HUD, distributing them to the project sponsors, overseeing project sponsors, reporting to HUD, providing performance data to the CoC for community-level analysis, and collecting information to provide the CoC with counts of the homeless through HMIS. Applicants can submit applications for projects on behalf of project sponsors, who will actually carry out the proposed project activities. Applicants can also carry out their own projects. In these cases, the applicant is responsible for both administering and managing a grant (as the grantee) and carrying out the project activities (as the project sponsor).

II. Award Information

A. Amount Allocated. Approximately $1.2 billion is available for this CoC competition in FY 2006. Any unobligated funds from previous CoC competitions or additional funds that may become available as a result of deobligations or recaptures from previous awards or budget transfers may be used in addition to FY 2006 appropriations to fund applications submitted in response to this NOFA. The FY 2006 HUD Appropriations Act requires HUD to obligate all CoC homeless assistance funds by September 30, 2008. These funds will remain available for expenditure for five (5) years following that date. The only exception is that $20 million will remain available until expended for 10-year term projects.

1. Distribution of Funds: HUD will not specify amounts for each of the three programs. Instead, the distribution of funds among the three programs will depend largely on locally determined priorities and overall demand.

a. Permanent Housing Requirement. Local priorities notwithstanding, the FY 2006 HUD Appropriations Act requires that not less than 30 percent of this year's Homeless Assistance Grants (HAG) appropriation, excluding amounts provided for one-year renewals under the Shelter Plus Care Program, must be used for permanent housing projects for all homeless populations.

b. Chronic Homelessness Requirement. The Administration has established as a policy priority the goal of ending chronic homelessness. CoCs are strongly encouraged to use the funds available in this NOFA to target persons experiencing chronic homelessness in their communities. HUD encourages communities to select projects that will contribute to the achievement of this important goal. The CoC strategy to end chronic homelessness is now referred to as the CoC Ten-Year Plan (see Chart N in Exhibit 1), and the 2006 application adds annual action plans and performance measures into the plan. CoCs should integrate their CoC 10-year plans with other plans, including jurisdictional ten-year plans and applicable Consolidated Plans. To work towards this goal, HUD is targeting the Samaritan Initiative for projects that exclusively serve individuals who are experiencing chronic homelessness. In addition, at least 10 percent of the appropriation will be awarded to new or renewal, transitional or permanent housing projects where at least 70 percent of the project's clients are expected to be chronically homeless (as defined by HUD) immediately prior to entry into the project. Housing projects include: SHP transitional housing, permanent housing and Safe Havens; S+C; and SRO projects. Since the housing funding allocation set-aside requirements are expected to continue in future competitions and may affect project funding selections, you are strongly encouraged to begin planning for new housing projects, particularly those serving individuals experiencing chronic homelessness, and include them as part of your submission in this competition. See Sections V.B.3.a and V.B.3.b of this NOFA for additional information on the permanent housing and chronic homeless requirements.

c. Lower-rated SHP Renewals. HUD reserves the authority to conditionally select for one year of funding lower-rated eligible SHP renewal projects that are assigned 40 need points in a CoC application receiving at least 25 points under the CoC scoring factor that would not otherwise receive funding for these projects. (See Sections V.A.2.a and V.A.2.b of this NOFA for information on project rating and scoring.) Therefore, the projects must receive a minimum score of 65 points. Although these lower-rated SHP renewal projects will have scored below the otherwise recognized funding line, their funding allows homeless persons to continue to be served and move towards self-sufficiency. Not renewing these projects would likely result in the closure of these projects and displacement of the homeless people being served.

2. Prioritizing Projects for Funding. Project priority decisions are best made by members of the local community, including local government and community and faith-based organizations, which represent the various economic, housing and social resources within that community. For example, if HUD has funds available only to award 8 of 10 proposed projects, then it will award funding to the first 8 eligible projects listed, except as may be necessary to achieve the 30 percent overall permanent housing and the 10 percent chronic homelessness requirements; see Sections V.B.3.a. and V.B.3.b. of this NOFA for additional information. In such cases, higher priority non-permanent housing projects may be de-selected to fund lower priority permanent housing projects and housing projects predominantly serving those persons experiencing chronic homelessness.

3. Grant Term. See chart in Section III.A.3. of this NOFA for information on the term of assistance for each of the three CoC programs covered in this NOFA.

III. Eligibility Information

A. Eligible Applicants

1. Eligible applicants for each program are those identified in the following chart.

2. Renewal Applicants. As a project applicant, you are eligible to apply for renewal of a grant only if you have executed a grant agreement for the project directly with HUD for SHP or S+C programs under a CoC NOFA. If you are a project sponsor or sub-recipient who has not signed such an agreement, you are not eligible to apply for renewal of these projects.

3. Continuum of Care Homeless Assistance Programs
Elements | Supportive housing | Shelter plus care | Section 8 SRO
Authorizing legislation | Subtitle C of Title IV of the McKinney-Vento Homeless Assistance Act, 42 U.S.C. 11381 | Subtitle F of Title IV of the McKinney-Vento Homeless Assistance Act, 42 U.S.C. 11403 | Section 441 of the McKinney-Vento Homeless Assistance Act, 42 U.S.C. 11401.
Implementing regulations | 24 CFR part 583 | 24 CFR part 582 | 24 CFR part 882, subpart H, except that all persons receiving rental assistance must meet the McKinney-Vento definition of homelessness.
Eligible applicant(s) | • States | • States | • PHAs
| • Units of general local government | • Units of general local government | • Private nonprofit organizations.
| • Special purpose units of government, e.g. PHAs | • PHAs
| • Private nonprofit organizations
| • Community Mental Health Centers that are public nonprofit organizations
Eligible components | • Transitional housing | • Tenant-based housing | • SRO housing
| • Permanent housing for disabled persons only | • Sponsor-based housing • Project-based housing
| • Supportive services not in conjunction with supportive housing | • SRO-based housing
| • Safe Havens
| • Innovative supportive housing
| • Homeless Mngt. Info. System (HMIS)
Eligible activities See footnotes 1, 2 and 3 | • Acquisition • Rehabilitation | • Rental assistance | • Rental assistance.
| • New construction
| • Leasing
| • Operating costs
| • Supportive services
Eligible populations See footnote 2 | • Homeless individuals and families | • Homeless disabled individuals • Homeless disabled individuals & their families | • Homeless individuals.
Populations given special consideration | • Homeless persons with disabilities • Homeless families with children | Homeless persons who are seriously mentally ill Have chronic problems with alcohol and/or drugs | N/A.
|  | Have AIDS & related diseases
Initial term of assistance | 2 or 3 years for new SHP | 5 years: TRA, SRA, and PRA without rehab | 10 years.
| 1, 2 or 3 years for new HMIS | 10 years: SRO, and PRA with rehab
Footnote 1: Homeless prevention activities are statutorily ineligible under these programs.
Footnote 2: Persons at risk of homelessness are statutorily ineligible for assistance under these programs.
Footnote 3: Acquisition, construction, rehabilitation, leasing, and operating costs for emergency shelters are statutorily ineligible for assistance under Shelter Plus Care and Section 8 SRO.

B. Matching (Cost Sharing)

You must match Supportive Housing Program funds provided for acquisition, rehabilitation, and new construction with an equal amount of cash from other sources. Since SHP by statute can pay no more than 75 percent of the total operating budget for supportive housing, you must provide at least a 25 percent cash match of the total annual operating costs. In addition, for all SHP funding for supportive services and Homeless Management Information Systems (HMIS) you must provide a 25 percent cash match. This means that of the total supportive services budget line item, no more than 80 percent may be from SHP grant funds. The cash source may be your agency, other Federal programs, state and local governments, or private resources.

You must match rental assistance provided through the Shelter Plus Care Program in the aggregate with supportive services. Shelter Plus Care requires a dollar for dollar match; the recipient's match source can be cash or in kind.

Documentation of the match requirement must be maintained in the grantee's financial records on a grant-specific basis.

C. Other

1. Eligible Activities. Eligible activities for the SHP, S+C, and SRO Programs are outlined in the preceding CoC Homeless Assistance Programs Chart at Section III.A.3.

2. Threshold Requirements.

a. Project Eligibility Threshold. HUD will review projects to determine if they meet the following eligibility threshold requirements. If HUD determines that these standards are not met by a specific project or activity, the project or activity will be rejected from the competition.

(1) Applicants and sponsors must meet the eligibility requirements of the specific program as described in program regulations and provide evidence of eligibility and appropriate certifications as specified by the attachments in Section VIII.

(2) The population to be served must meet the eligibility requirements of the specific program as described in the program regulations, and the application must clearly establish eligibility of program participants to be served pertaining to homelessness and disability status.

(3) The only persons who may be served by new and renewal permanent housing projects are those who come from the streets, emergency shelters, or transitional housing who originally came from the streets or emergency shelter. As participants leave currently operating projects, participants who meet this new eligibility standard must replace them.

(4) Projects that involve rehabilitation or new construction must meet the accessibility requirements of Section 504 of the Rehabilitation Act of 1973, the design and construction requirements of the Fair Housing Act and the accessibility requirements of the Americans with Disabilities Act, as applicable.

(5) The project must be cost-effective, including costs associated with construction, operations and supportive services with such costs not deviating substantially from the norm in that locale for the type of structure or kind of activity.

(6) For those applicants applying for the Innovative component of SHP, whether or not a project is considered innovative will be determined on the basis that the particular approach proposed is new and can be replicated.

(7) Renewal applications should be submitted as part of a CoC application, and must either be listed on the priority list or accompanied by a certification from the CoC saying that they have determined that the project is still needed.

(8) Under the Sponsor-based rental assistance S+C component, an applicant must subcontract the funding awarded with an eligible sponsor: a private nonprofit organization or a community mental health agency established as a public nonprofit organization, that owns or leases the housing where participants will reside.

(9) For the Section 8 SRO program, only individuals meeting HUD's definition of homeless are eligible to receive rental assistance. Therefore, any individual occupying a unit at commencement of the unit's rehabilitation will not receive rental assistance if they return to their unit (or any other) upon completion of its rehabilitation.

(10) Applicants agree to participate in a local HMIS system when it is implemented in their community.

b. Project Quality Threshold. HUD will review projects to determine if they meet the following quality threshold requirements with clear and convincing evidence. A S+C or SHP project renewal will be considered as having met these requirements through its previously approved grant application unless information to the contrary is received. The housing and services proposed must be appropriate to the needs of the program participants and the community. HUD will assess the following:

(1) The type, scale and general location of the housing fit the needs of the participants and that the housing is readily accessible to community amenities.

(2) That all of the proposed participants come from the streets, homeless shelters or transitional housing for homeless persons.

(3) The type, scale and location of the supportive services fit the needs of the participants and the mode of transportation to those services is described.

(4) The specific plan for ensuring clients will be individually assisted to obtain the benefits of the mainstream health, social service, and employment programs for which they are eligible is provided.

(5) How participants are helped to obtain and remain in permanent housing is described.

(6) How participants are assisted to both increase their incomes and live independently using mainstream housing and service programs is described.

(7) Applicants and sponsors must evidence satisfactory performance for existing grant(s).

c. Project Renewal Threshold. Your local needs analysis process must consider the need to continue funding for projects expiring in calendar year 2007. HUD will not fund competitive renewals out of order on the priority list except as may be necessary to achieve the 30 percent overall permanent housing requirement and the 10 percent requirement for individuals experiencing chronic homelessness requirement. It is important that SHP renewals and S+C non-competitive renewals meet minimum project eligibility, capacity and performance standards identified in this NOFA or they will be rejected from consideration for either competitive or non-competitive funding.

d. Civil Rights Thresholds: Applicants and the project sponsors must be in compliance with the threshold requirements of the General Section.

3. Program Requirements.

a. Projects funded under this NOFA shall operate in a fashion that complies with applicable civil rights laws and Executive Orders, including the requirement to Affirmatively Further Fair Housing (AFFH), and does not deprive any individual of any right protected by the Fair Housing Act (42 U.S.C. 3601-19), Section 504 of the Rehabilitation Act of 1973 (29 U.S.C. 794), the Americans with Disabilities Act of 1990 (42 U.S.C. 12101 et seq.), Title VI of the Civil Rights Act of 1964 (42 U.S.C. 2000d), Section 109 of Title I of the Housing and Community Development Act of 1974 (42 U.S.C. 5309), or the Age Discrimination Act of 1975 (42 U.S.C. 6101).

b. Local Resident Employment. To the extent that any housing assistance (including rental assistance) funded through this NOFA is used for housing rehabilitation (including reduction and abatement of lead-based paint hazards, but excluding routine maintenance, repair, and replacement) or housing construction, then it is subject to section 3 of the Housing and Urban Rehabilitation Act of 1968, and the implementing regulations at 24 CFR part 135. Section 3, as amended, requires that economic opportunities generated by certain HUD financial assistance for housing and community development programs shall, to the greatest extent feasible, be given to low- and very low-income persons, particularly those who are recipients of government assistance for housing, and to businesses that provide economic opportunities for these persons.

c. Relocation. The SHP, S+C, and SRO programs are subject to the requirements of the Uniform Relocation Assistance and Real Property Acquisition Policies Act of 1970, as amended (URA). These requirements are explained in HUD Handbook 1378, Tenant Assistance, Relocation and Real Property Acquisition. Also see General Section.

d. Environmental Reviews. All CoC assistance is subject to the National Environmental Policy Act and applicable related Federal environmental authorities. Conditional selection of projects under the CoC Homeless Assistance competition is subject to the environmental review requirements of 24 CFR 582.230, 583.230 and 882.804(c), as applicable. The recipient, its project partners and their contractors may not acquire, rehabilitate, convert, lease (under S+C/TRA where participants are required to live in a particular structure or area as described in Section III.C.3.h(3)(a)), repair, dispose of, demolish or construct property for a project under this CoC NOFA, or commit or expend HUD or local funds for such eligible activities, until the responsible entity has completed the environmental review procedures required by Part 58 and the environmental certification and Request for Release of Funds (RROF) have been approved or HUD has performed an environmental review under Part 50 and the recipient has received HUD approval of the property. The expenditure or commitment of Continuum of Care assistance or nonfederal funds for such activities prior to this HUD approval may result in the denial of assistance for the project under consideration.

e. CoC Geographic Area. In deciding what geographic area you will cover in your CoC strategy, you should be aware that the single most important factor in being awarded funding under this competition will be the strength of your CoC strategy when measured against the CoC rating factors described in this NOFA. When you determine what jurisdictions to include in your CoC strategy area, include only those jurisdictions that are fully involved in the development and implementation of the CoC strategy.

The more jurisdictions you include in the CoC strategy area, the larger the pro rata need share that will be allocated to the strategy area (as described in Section V.B.2.b. of this NOFA). If you are a rural county, you may wish to consider working with larger groups of contiguous counties to develop a region-wide or multi-county CoC strategy covering the combined service areas of these counties. The areas covered by CoC strategies should not overlap.

f. Expiring/Extended Grants. If your SHP or S+C Program grant will be expiring in calendar year 2007, or if your S+C Program grant has been extended beyond its original five-year term and is projected to run out of funds in FY 2007, you may apply as a renewal under this CoC NOFA to get continued funding.

g. Participation in Energy Star. In keeping with the Administration's policy priority of promoting energy efficient housing while protecting the environment, applicants applying for new construction or rehabilitation funding, who maintain housing or community facilities or provide services in those facilities, are encouraged to promote energy efficiency and are specifically encouraged to purchase and use Energy Star-labeled products. All applicants must complete the questions on the Energy Star Chart (Chart CoC-AA) in Exhibit 1. Refer to the General Section for detailed information about this requirement.

h. Program-Specific Requirements. Please be advised that where an applicant for the SHP funding is a state or unit of general local government that utilizes one or more nonprofit organizations to administer the homeless assistance project(s), administrative funds provided as part of the SHP grant must be passed on to the nonprofit organization(s) in proportion to the administrative burden borne by them for the SHP project(s). HUD will consider states or units of general local government that pass on at least 50 percent of the administrative funds made available under the grant as having met this requirement. This requirement does not apply to either the SRO Program, since only PHAs administer the SRO rental assistance, or to the S+C Program, since paying the costs associated with the administration of these grants is ineligible by regulation.

HUD will not award funds to rehabilitate leased property. In addition, SHP funds may not be used to lease units or structures owned by the project sponsor, the selectee, or their parent organizations. This includes organizations that are members of a general partnership where the general partnership owns the structure.

(1) SHP—New Projects:

(a) Please note that the grant term for new SHP projects is two (2) or three (3) years.

(b) HUD will require recordation of a HUD-approved use and repayment covenant (a form may be obtained from your field office) for all grants of funds for acquisition, rehabilitation or new construction. The covenant will enforce the use and repayment requirements found at section 423(b)(1) and (c) of the McKinney-Vento Act and must be approved by HUD counsel before execution and recordation. Proof of recordation must be provided to HUD counsel before funds for rehabilitation or new construction may be drawn down.

(c) All project sponsors must meet applicant eligibility standards as described in Section III.A.3. As in past years, HUD will review sponsor eligibility as part of the threshold review process. Project sponsors for new projects are required to submit evidence of their eligibility with the application (See Section IV.B.1.b.(3)(a) and Section I.A.8.n).

(2) SHP—Renewal Projects.

(a) For the renewal of a SHP project, you may request funding for one (1), two (2) or three (3) years.

(b) The total request for each renewable project cannot exceed the Average Yearly Amount received in your current grant for that project. Within that total request, the administrative amount must be the exact amount awarded in the previous grant. An exception to this rule is grants being renewed whose original expiring award included “hard” development costs (acquisition, new construction, and rehab): these must, in the current competition, recalculate their administrative allocation not to exceed five percent of the Average Yearly Amount of the activities being renewed. To calculate administrative amounts for activities in all new projects and renewal projects with these “hard” development costs, calculate the subtotal of all requested amounts for activities. Administrative costs cannot exceed 5% of this subtotal. For example, if a project requests $60 for supportive services and $40 for operating expenses, the maximum amount of administration dollars the project can request is $5. Only leasing, operating, supportive services, and administration costs may be renewed. Applicants proposing both to renew an existing project and to expand the number of units or number of participants receiving services in that grant must submit a new project proposal for the expansion portion of the project. HMIS activities being renewed should be included on the HMIS budget chart.

(c) HUD will recapture SHP grant funds remaining unspent at the end of the previous grant period when it renews a grant.

(3) S+C—New Projects.

(a) A project may not include more than one component, e.g., combining Tenant-based Rental Assistance (TRA) with Sponsor-based Rental Assistance (SRA) is prohibited within the same grant. Under the TRA component, in order to help provide supportive services or for the purposes of controlling housing costs, a grantee may require participants to live in a particular structure for the first year of assistance or to live in a particular area for the entire rental assistance period. Where this option is exercised, an environmental review and clearance must be performed prior to any commitment to lease a particular structure or unit for participant occupancy as described in Section III.C.3.d, Environmental Reviews.

(b) S+C/SRO Component. If you are a state or a unit of general local government, you must subcontract with a public housing agency to administer the S+C assistance. Also, no single project may contain more than 100 units.

(c) S+C SRA Component. Project sponsors must submit proof of their eligibility to serve as a project sponsor.

(4) S+C Renewal Projects. HUD encourages the consolidation of appropriate S+C renewal grants when the grants are under the same grantee, same component and expire in the same year. However, renewal requests for expiring S+C grants that have not yet been combined should still be listed individually on the CoC priority list and will be awarded as individual renewal grants. Where the grantee wishes to consolidate the renewal grants, this action will be subsequently accomplished by the field office at the point of renewal grant agreement execution. The field office will receive instructions for this process in the S+C Operating Procedures guidance for 2006 awards.

(a) For the renewal of a S+C project, including S+C SROs, the grant term will be one (1) year, as specified by Congress. For the renewal of S+C rental assistance that is Tenant-based (TRA), Sponsor-based (SRA), Project-based (PRA), or Single Room Occupancy-based (SRO), you may request up to the amount determined by multiplying the number of units under lease at the time of your application for renewal funding by the applicable 2006 Fair Market Rent(s) by 12 months. Current FMRs can be found at www.hudclips.org. For S+C grants having been awarded one year of renewal funding in 2005, the number of units requested for renewal this year must not exceed the number of units funded in 2005. As is the case with SHP, HUD will recapture S+C grant funds remaining unspent at the end of the previous grant period when it renews a grant. The one-year term of non-competitively awarded S+C renewal projects may not be extended.

(b) Under the FY 2006 HUD Appropriations Act, eligible S+C Program grants whose terms are expiring in 2007 and S+C Program grants that have been extended beyond their original five-year terms but which are projected to run out of funds in 2007, will be renewed for one year provided that they are determined to be needed by the CoC, either as evidenced by their inclusion on the priority chart or as accompanied by a certification from the CoC. These projects must also demonstrate that their applicant and sponsor meet eligibility, capacity and performance requirements described in Section V.A.1 of this NOFA. Non-competitive S+C renewals should be submitted by the application deadline. These S+C renewal projects will not count against a continuum's pro rata need amount, but, if listed on the CoC Priority Chart, should be numbered, continuing the priority sequence. On the other hand, no community hold harmless amount will be computed for any CoC using S+C renewal amounts since these projects are being funded outside of the competition.

(5) Section 8 Moderate Rehabilitation SRO Program—New Projects. As an applicant, the following limitations apply to the Section 8 SRO program:

(a) SRO assistance may not be provided to more than 100 units in any structure.

(b) Under 24 CFR 882.802, applicants that are private nonprofit organizations must subcontract with a public housing agency to administer the SRO assistance.

(c) Under 24 CFR 882.802, rehabilitation must involve a minimum expenditure of $3,000 for a unit, including its prorated share of work to be accomplished on common areas or systems, to upgrade conditions to comply with HUD's physical condition standards in 24 CFR part 5, subpart G.

(d) Under section 441(e) of the McKinney-Vento Act and 24 CFR 882.805(d)(1), HUD publishes the SRO per unit rehabilitation cost limit each year to take into account changes in construction costs. This cost limitation applies to eligible rehabilitation costs that may be compensated for in the Housing Assistance Payments (HAP) contract rents. For purposes of Fiscal Year 2006 funding, the cost limitation is raised from $20,000 to $20,500 per unit to take into account increases in construction costs during the past 12-month period.

(e) The SRO Program is subject to the Federal standards at 24 CFR part 882, subpart H.

(f) Individuals assisted through the SRO Program must meet the definition of homeless individual found at section 103 of the McKinney-Vento Act.

(g) Resources outside the program pay for the rehabilitation, and rehabilitation financing. The rental assistance covers operating expenses of the SRO housing, including debt service for rehabilitation financing. Units may contain food preparation or sanitary facilities or both.

(6) Section 8 Moderate Rehabilitation SRO Program—Renewals. This program section of the NOFA is not applicable to the renewal of funding under the Section 8 SRO program. The renewal of expiring Section 8 SRO projects is not part of the competitive CoC NOFA process. Rather, expiring Section 8 SROs will be identified at the beginning of the applicable year by the public housing agency and HUD field office. One-year renewal funds for expiring Section 8 SRO HAP contracts will be provided by HUD under a separate, non-competitive process. For further guidance on Section 8 SRO renewals, please contact your local HUD field office.

i. Timeliness Standards. As an applicant, you are expected to initiate your approved projects promptly in accordance with Section VI.A of this NOFA. In addition, HUD will take action if you fail to satisfy the following timeliness standards:

(1) SHP: HUD will deselect your award if you do not demonstrate site control within one (1) year of the date of your grant award letter, as required by the McKinney-Vento Act (see 42 USCs 11386(a)(3)) and implemented in program regulations at 24 CFR 583.320(a). Subsequent loss of site control beyond the 12-month statutory limit will be cause for cancellation of the award and recapture of funds. HUD may deobligate SHP funds if the following additional timeliness standards are not met:

(a) You must begin construction activities within eighteen (18) months of the date of HUD's grant award letter and complete them within thirty-six (36) months after that notification.

(b) For activities that cannot begin until construction activities are completed, such as supportive service or operating activities that will be conducted within the building being rehabilitated or newly constructed, you must begin these activities within three (3) months after you complete construction.

(c) You must begin all activities that may proceed independent of construction activities, including HMIS, within twelve (12) months of the date of HUD's grant award letter. HUD may reduce a grant agreement term to one (1) year where implementation delays have reduced the amount of funds that reasonably can be used in the original term.

(2) S+C Except SRO Component. HUD may deobligate S+C funds if you do not meet the following timeliness standards:

(a) For Tenant-based Rental Assistance, for Sponsor-based Rental Assistance, and for Project-based Rental Assistance without rehabilitation, you must start the rental assistance within twelve (12) months of the date of HUD's grant award letter.

(b) For Project-based Rental Assistance with rehabilitation, you must complete the rehabilitation within twelve (12) months of the date of HUD's grant award letter.

(3) Section 8 Moderate Rehabilitation SRO Program and SRO Component of the S+C Program. For projects carried out under the Section 8 SRO program and the SRO component of the S+C program, the rehabilitation work must be completed and the HAP contract executed within twelve (12) months of execution of the Annual Contributions Contract. HUD may reduce the number of units or the amount of the annual contribution commitment if, in HUD's determination, the Public Housing Agency fails to demonstrate a good faith effort to adhere to this schedule.

IV. Application and Submission Information

A. Application Package. A checklist of forms needed to complete the application is provided, as described in Section VIII below. Exhibits 1, 2, and the Applicant Certifications are attachments. The Exhibits, Geographic Codes, Initial Pro Rata Need Amounts, Applicant Certifications, and the Questions and Answers Supplement can be accessed at http://www.hud.gov/offices/adm/grants/fundsavail.cfm. An applicant may also obtain a copy of the General Section and this NOFA by calling the NOFA Information Center at 1-800-HUD-8929 (voice) (this is a toll free number) or you may download it from the website at http://www.grants.gov. Please note that all sections of the General Section are critical and must be carefully reviewed to ensure your application can be considered for funding.

B. Content and Form of Application Submission. The only option for submitting a viable application under this NOFA is to submit the entire Continuum of Care application, with all of its projects, together in a single package mailed to HUD. Each application will consist of one Continuum of Care Exhibit and submissions from one or more applicants and project sponsors. Although HUD will accept an application for a project exclusive of participation in any community-wide or region-wide CoC development process, projects will receive few, if any, points under the CoC rating factors and are very unlikely to be funded. Please note that Exhibits 1 and 2 should only include the actual application questions and responses being provided and should not include the HUD application instructions or any blank tables and charts. The General Section contains certifications that the applicant will comply with fair housing and civil rights requirements, program regulations, and other Federal requirements, and (where applicable) that the proposed activities are consistent with the HUD-approved Consolidated Plan of the applicable state or unit of general local government. Section IV of Exhibit 2 of this NOFA contains program-specific Applicant Certifications.

1. Application Submission Requirements:

a. A completed application will include one Exhibit 1 (CoC) and any number of Exhibits 2, depending on the number of projects and type of programs proposed for funding. For example, if your CoC were proposing five SHP Renewal projects and one S+C New project, then you would submit one Exhibit 1 and six Exhibits 2, filling out the applicable charts in Exhibit 2 for each project. Refer to Assembly Order below for full assembling instructions.

b. Assembly Order: Each CoC must submit the entire CoC application, with all of its parts, in a single package to HUD. There are three separate sections to a CoC submission: the CoC Exhibit 1, all applicant documentation, and all project documentation. The application must be assembled in the following order:

(1) Section I—Exhibit 1 Narrative and Charts:

(a) Exhibit 1, the CoC plan with all charts completed as applicable.

(b) HUD-27300, Questionnaire for HUD's Initiative on Removal of Regulatory Barriers;

(c) HUD 2993, Acknowledgment of Application Receipt; and

(d) HUD 2994, Client Comments and Suggestions (optional).

(2) Section II—Applicant Documentation:

(a) SF-424 Application for Federal Assistance. Submit one SF-424 for each applicant in the Continuum. Attached to each SF-424 must be a list of all the applicant's projects in priority number order, with project name and requested amount. Each SF-424 must also include the applicant's DUNS number. Please see the General Section for more information on obtaining a DUNS number. The SF-424 SUPP, Survey on Ensuring Equal Opportunity for Applicants, is for private nonprofit applicants only and completion/submission of this survey is voluntary. Additionally, each applicant must attach the following documentation (i-v) to its SF-424:

(i) Documentation of Applicant Eligibility. Only applicants for new projects must include documentation of eligibility as defined in the chart in Section III.A.3. Also, see Section I.A.8.l. & m. of this NOFA for information on the documentation required to validate non-profit status.

(ii) SF-LLL, Disclosure of Lobbying Activities, where applicable.

(iii) Applicant Code of Conduct. (New applicants and applicants awarded HUD funding prior to 2006 who have not previously submitted a Code of Conduct).

(iv) HUD 40090-4, Applicant Certifications, located in Section IV of Exhibit 2.

(3) Section III—Project Documentation: Each project applying under Exhibit 2 must be submitted in its priority list order with all Exhibit 2 required forms completed for every project. The following documentation must be included after each project submission:

(a) Documentation of Sponsor Eligibility. Only sponsors for new projects must include documentation of eligibility as defined in the chart in Section III.A.3. See also Section I.A.8.n. for information on the documentation required to validate sponsor eligibility.

(b) HUD-96010, Logic Model (for Logic Model instructions, see the General Section of the NOFA and pages included with the Exhibit 2 instructions);

(c) HUD-2880, Applicant/Recipient Disclosure/Update Report;

(d) HUD-2991, Certification of Consistency with the Consolidated Plan; and

(e) SF 424-SUPP, Survey on Ensuring Equal Opportunity for Applicants (for private nonprofit applicants only—completion of survey is voluntary).

2. Assembly Format:

a. The standard font that should be used for narratives is Times New Roman, size 12 (pitch). Number all pages within each exhibit sequentially and insert tabs marking each exhibit.

b. Please use a two-hole punch to insert holes at the top of your application.

c. Please do not bind your application, since this impedes processing.

C. Submission Dates and Times: 1. Application Deadline Date. Your completed application should be submitted on or before May 25, 2006 to the addresses shown below. HUD will not accept faxed or hand delivered applications.

a. Timeliness. Your application will be considered filed in a timely manner if your application is postmarked on or before 11:59:59 p.m. on the application deadline date and received by HUD on or within fifteen (15) days of the application deadline date. Applicants may use any type of mail service provided by the USPS to have their application package delivered to HUD in time to meet the timely submission requirements. Applicants using the United States Postal Service (USPS) must obtain and save a Certificate of mailing showing the date when you submitted your application. The Certificate of Mailing will be your documentary evidence that your application was timely filed. If your application is sent by overnight delivery or express mail, other than the United States Postal Service, your application will be timely filed if it is placed in transit with the overnight/express mail service on or before the application submission date. Applicants should retain a receipt from these services showing that it was submitted for delivery by the application submission date and time.

b. Field Office Copies. The HUD Field Office must also receive one copy of your application, with the same due date and timely filing requirements as described in Section IV.C.1.a above. In the rare event that a CoC's entire application is not received at HUD Headquarters on time, HUD may similarly request proof that the Headquarters and Field Office copy was filed on time and, if so, may use the copy received by the Field Office for review.

D. Intergovernmental Review. Not applicable.

E. Funding Restrictions. Funding Restrictions are outlined in Sections V.B.3.a and V.B.3.b.

F. Other Submission Requirements: 1. Addresses for Submitting Applications:

a. To HUD Headquarters. Once you have downloaded the forms from the web site and completed the application and all documentation, submit your original completed application (the application with the original signed documentation) and one additional copy of Exhibit 1 only to: HUD Headquarters, Robert C. Weaver Building, 451 Seventh Street, SW, Room 7270, Washington, DC 20410, Attention: Continuum of Care Programs.

b. To the Appropriate CPD Field Office. Also submit one copy of your completed application to the Community Planning and Development Division of the appropriate HUD Field Office for your jurisdiction. Please see the following web site for Field Office addresses: http://www.hud.gov/localoffices.cfm.

2. Security Procedures. HUD recommends that applications be mailed or shipped express using the United States Postal Service (USPS). However, applications shipped via United Parcel Service (UPS), FedEx, DHL, or Falcon Carrier will also be accepted. Due to HUD security regulations, no other delivery service is permitted into HUD Headquarters without escort. You must, therefore, use one of the four carriers listed above.

V. Application Review Information

A. Criteria. Your application will receive a higher score under the CoC scoring factors if the application demonstrates the achievement of four basic goals:

—One, that you have successfully identified and developed partnerships with nonprofit organizations (including those representing persons with disabilities), government agencies, public housing agencies, faith-based and other community-based organizations, other homeless providers, housing developers and service providers, private businesses and business associations, law enforcement agencies, funding providers, and homeless or formerly homeless persons, and that your CoC structure and decision-making processes are inclusive of all of these parties. Also, other jurisdictional ten-year plans within your CoC's geographic area must be integrated with the CoC plan;

—Two, that you have created, maintained, and built upon a community-wide inventory of housing and services for homeless families and individuals (both HUD and non-HUD funded); identified the full spectrum of needs of homeless families and individuals; and coordinated efforts to fill gaps between the current inventory and existing needs. This coordinated effort must appropriately address all aspects of the continuum, especially permanent housing;

—Three, that you have instituted a CoC-wide strategy to achieve the CoC's goals, especially to end chronic homelessness. This can be accomplished through careful planning, coordination with other state and local plans, and through leveraging resources from multiple sources; and

—Four, that your Continuum is working toward the HUD/national performance objectives (the objectives listed in Section VI.B.1 below and on Chart N in Exhibit 1, the new CoC 10-Year Plan, Objectives, and Action Steps Chart), that you are reporting on progress toward the CoC's goals, and that you are coordinating homeless assistance with mainstream health, social services, and employment programs.

1. Applicant and sponsor eligibility, capacity and performance. HUD will review applications to ensure that the applicant and project sponsor meet the eligibility and capacity standards outlined in this section. If HUD determines these standards are not met, the project will be rejected from the competition. The eligibility, capacity and performance standards are as follows:

a. You must be eligible to apply for the specific program.

b. You must demonstrate ability to carry out the project(s). With respect to each proposed project, this means that, in addition to knowledge of and experience with homelessness in general, the organization carrying out the project, its employees, or its partners, must have the necessary experience and knowledge to carry out the specific activities proposed, such as housing development, housing management, and service delivery.

c. If you or the project sponsor is a current or past recipient of assistance under a HUD McKinney-Vento Act program, there must have been no delay in meeting applicable program timeliness standards unless HUD determines the delay in project implementation is beyond your or the project sponsor's control, there are no serious unresolved HUD monitoring finding, and no outstanding audit finding of a material nature regarding the administration of the program.

2. Review, Rating and Conditional Selection. HUD will use the same review, rating, and conditional selection process for all three programs (SHP, S+C and SRO). The standard factors for award identified in the General Section have been modified in this NOFA as described below. Only the factors described in this NOFA—Continuum of Care and Need—will be used to assign points. Parts 2a and 2b in this section describe selection factors. Up to 100 points will be assigned using these factors, including rating points for HUD's policy priority of ending chronic homelessness; and the policy priority for removing regulatory barriers to affordable housing (see Section V.A.3.a. and V.A.5. below on both policy priorities). There are no bonus points for proposing projects in an RC/EZ/EC-IIs.

a. Continuum of Care. HUD will award up to 60 points as follows:

(1) Organizational Structure: HUD will award up to 8 points based on the extent to which your application demonstrates:

(a) The existence of a coordinated, inclusive, and outcome-oriented community process, including organizational structure(s) and decision-making processes for developing and implementing a CoC strategy;

(b) That this process includes nonprofit organizations (such as veterans service organizations, organizations representing persons with disabilities, faith-based and other community-based organizations, and other groups serving homeless and other low-income persons), state and local governmental agencies, public housing agencies, housing developers and service providers, school systems, law enforcement, hospital and medical entities, funding providers, local businesses and business associations, and homeless or formerly homeless persons; and

(c) That the CoC has a process in place to achieve fair and impartial project review and selection, with representation and input from diverse parties such as those outlined under Criteria for Application Review.

(2) CoC Housing and Service Needs: HUD will award up to 12 points based on the extent to which your application demonstrates:

(a) That a well-defined and comprehensive strategy has been developed which addresses the components of a CoC system (i.e., outreach, intake and assessment; emergency shelter; transitional housing; permanent supportive housing; permanent supportive housing, and prevention), and that the strategy has been designed to serve all homeless subpopulations in the community (e.g., seriously mentally ill, persons with multiple diagnoses, veterans, persons with HIV/AIDS), including those persons living in emergency shelters, supportive housing for homeless persons, or in places not designed for, or ordinarily used as, a regular sleeping accommodation for human beings. Having high-quality data is important, and your application in this section must demonstrate the CoC's data collection methods.

(b) HMIS Implementation. Of these 12 points, HUD will award up to 5 points based upon the extent to which your application demonstrates progress in the planning, implementation and operation of an HMIS system covering at a minimum all street outreach, emergency shelters and transitional housing programs so that a reliable, unduplicated count of homeless persons on the street and in shelters may be conducted.

(3) CoC Strategic Planning: HUD will award up to 10 points based on the extent to which your application demonstrates:

(a) The existence of a performance-based 10-year strategy for ending chronic homelessness that establishes specific action steps to achieve the five objectives listed in Chart N, the CoC 10-Year Plan, Objectives, and Action Steps Chart, with measurable achievements. It should be integrated with other ten-year plans in the community to eliminate chronic homelessness (if applicable), the local HUD Consolidated Plan, and other state and local plans related to homelessness;

(b) Your Continuum's progress in working with the appropriate local government entity to develop and implement a discharge policy for persons leaving publicly funded institutions or systems of care (such as health care facilities, foster care or other youth facilities, or correction programs and institutions) in order to prevent such discharge from immediately resulting in persons entering the homeless system;

(c) Proposes projects that are consistent with identified unmet needs and correctly completes the priority chart (note: if you do not provide a Project Priority Chart in Exhibit 1, all proposed projects may lose up to 30 points of the 40-point Need total);

(d) Provides estimates of renewal funds needed through 2011 for SHP and S+C projects; and

(e) Demonstrates leveraging of funds requested under this NOFA with other resources, including private, other public, and mainstream services and housing programs, for proposed projects and ongoing efforts (Leveraging Supplemental Resources).

(4) CoC Performance: HUD will award up to 18 points based upon the CoC's progress in reducing homelessness, including chronic homelessness. Please note that HUD will award at least a minimum score in this section to continuums located in areas affected by Hurricanes Katrina and Rita that President Bush has declared to be major disaster areas under Title IV of the Robert T. Stafford Act, as follows: for each completed chart in Part IV, CoC Performance, CoCs in these areas will receive no less than one half of the full points allotted. CoC Performance will be measured by demonstrating:

(a) That the CoC has taken specific action steps and made progress toward achieving its goals;

(b) That the CoC has increased the number of permanent housing beds for the chronically homeless and made progress toward eliminating chronic homelessness;

(c) Program participants' success in moving to and maintaining permanent housing as reported in the most recent APR;

(d) The extent to which participants successfully become employed and access mainstream programs. These measures emphasize HUD's determination to assess grantees' performance in the prior program year and to determine if they are meeting the overall goal of the homeless assistance grants under which they are funded. Both housing and supportive services only projects will be assessed, using the data submitted in Exhibit 1, Charts W and X;

(e) That the CoC has no unexecuted grants;

(f) That projects within the CoC have policies and practices in place to hire low and very low-income employees and subcontractors, under Section 3 of the Housing and Urban Development Act of 1968 (HUD will award up to 2 points for this chart, within the 18 points for this rating factor); and

(g) Removal of Regulatory Barriers to Affordable Housing: As provided for in the General Section, HUD will award up to 2 points, within the 18 points for this rating factor, based on the extent that the CoC's application demonstrates a local plan and/or existing policy to remove regulatory barriers to the production of affordable housing. Applicable activities include the support of state and local efforts to streamline processes, eliminate redundant requirements, statutes, regulations, and codes that impede the availability of affordable housing. The response (one questionnaire per CoC) should be submitted for consideration as a completed HUD Form 27300, Questionnaire for HUD's Initiative on Removal of Regulatory Barriers. The Continuum should submit the questionnaire for the local jurisdiction where the majority of its CoC assistance will be provided. Please identify the name of the jurisdiction reported on the top of the first page of the returned questionnaire. This questionnaire can be found in the attachments to the General Section and should be submitted with Exhibit 1.

(5) Emphasis on Housing Activities: HUD will award up to 12 points based upon the relationship between funds requested for housing activities (i.e., transitional and permanent) and funds requested for supportive service activities among projects assigned 40 need points (including S+C renewals). Points will be awarded on a sliding scale with the Continuums with the highest percentage of approvable requests for funds for housing activities receiving the highest points. HUD will count as housing activity all approvable requests for funds for rental assistance and approvable requests for funds for acquisition, rehabilitation, construction, leasing and operations when used in connection with housing. HMIS costs and administrative costs will be excluded from this calculation.

b. Need: HUD will award up to 40 points for need. There is a three-step approach to determining the need scores to be awarded to projects.

(1) Step 1—HUD's Determination of preliminary pro rata need: To determine the homeless assistance need of a particular jurisdiction, HUD will use nationally available data, including the following factors as used in the Emergency Shelter Grants (ESG) program; data on poverty, housing overcrowding, population, age of housing, and growth lag. Applying those factors to a particular jurisdiction provides an estimate of the relative need index for that jurisdiction compared to other jurisdictions applying for assistance under this NOFA.

(2) Step 2—Determining CoC hold harmless pro rata need: In CoCs where the total amount needed to fund, for one year, all SHP grants eligible for renewal in this competition exceeds the preliminary pro rata need amount for that CoC, the CoC will receive this higher amount, referred to as the CoC hold harmless amount. This adjustment was formerly known as the renewal bonus. SHP grants eligible for renewal are those that expire between January 1, 2007 and December 31, 2007. No adjustment will be made for S+C renewals. To provide communities with maximum flexibility in addressing current needs, CoCs have the discretion to not fund or to reduce one or more SHP renewal project applications and still receive the benefit of the hold harmless amount if the CoC proposes to use that amount of reduced renewal funds for new permanent supportive housing projects. Please be advised that the new projects (and the renewal dollars attached) proposed through this reallocation are subject to the competitive process, i.e., the CoC must score above the national funding line for the projects to be funded.

(3) Step 3—Samaritan Housing Initiative: Formerly referred to as the Permanent Housing Bonus, this special incentive to promote permanent supportive housing for the chronically homeless is provided to CoC systems that place an eligible, new permanent supportive housing project in the number one priority position on the priority list. If the number one priority project qualifies as an eligible, new permanent housing project exclusively serving the chronically homeless, then the full amount of that project's eligible housing activities, up to a maximum 15 percent of the CoC's preliminary pro rata need, will be added to the pro rata need amount for the Continuum. The only eligible activities that will be counted toward this bonus are housing activities and for SHP, case management, and administration. Applicants may use no more than 20 percent of this bonus for case management costs. Please note: any amount of the proposed project that exceeds the limitations described above will be applied against the pro rata need for the CoC. For the SHP program, housing activities are acquisition, new construction, rehabilitation, leasing of housing and operating costs when used in connection with housing. S+C and SRO rental assistance are defined as housing activities and are eligible under the incentive as well. HMIS costs will be excluded from this calculation.

The dollar amount determined after application of each of these steps, as applicable, is referred to as the “final pro rata need amount.” Please be advised that the final funding amount awarded to Shelter Plus Care or Section 8 SRO projects may be different from the requested amount due to changes in the FMRs. HUD will apply FMR changes after selection.

(4) Awarding need points to projects: Once HUD establishes the final pro rata need, HUD will apply it against the priority project list in the application. Starting from the highest priority project, HUD will proceed down the list to award need points to each project. Any project not falling fully within the 40 point need range will receive 10 need points. Thereafter, HUD will proceed further down the priority project list and award 10 points for need to each project if it falls fully within the “second level” of pro rata need amount for that CoC. The “second level” is the amount between the pro rata need and twice the pro rata need for the CoC. Remaining projects each receive 5 points. If the projects for the Continuum are not prioritized, then all projects will receive 0 points for Need.

B. Reviews and Selection Process. 1. Review, Rating and Ranking. HUD may employ rating panels to review and rate applications. See the General Section for more information on rating panels. Two types of reviews will be conducted—threshold review and selection factor (CoC and Need) rating. Applicant and Sponsor Eligibility and Capacity as well as Project Eligibility and Project Quality are threshold reviews. Threshold reviews are explained in Section III.C.2 of this NOFA, which covers eligible applicants and projects. HUD will add the score for the CoC to the Need score to obtain a total score for each project. The projects will then be ranked nationally from highest to lowest according to the total combined score.

2. Conditional Selection and Adjustments to Funding.

a. Conditional Selection. Whether a project is conditionally selected, as described in Section VI.A, will depend on its overall ranking compared to others, except that HUD reserves the right to select lower rated eligible projects in order to meet the 30 percent overall permanent housing requirement, as well as the 10 percent chronic homeless requirement. Projects that are included in the 10 percent chronic homeless requirement may also be part of the 30 percent overall permanent housing requirement. (See Section V.B.3 below for additional selection considerations regarding these requirements.)

When insufficient funds remain to fund all projects in the competition having the same total score, HUD will first fund permanent housing projects if necessary to achieve the 30 percent overall permanent housing requirement. HUD will then fund non-permanent housing, safe haven-TH and transitional housing projects that predominantly serve individuals experiencing chronic homelessness in order to achieve the 10 percent chronic homeless requirement. HUD will then break ties among the remaining projects with the same total score by comparing scores received by the projects for each of the following scoring factors, in the order shown: Need, Overall CoC score, CoC Organizational Structure, CoC Housing and Service Needs, CoC Strategic Planning, CoC Performance, CoC Supplemental Resources, Housing Emphasis and Performance. The final tie-breaking factor is the priority number of the competing projects on the applicable CoC priority list(s).

HUD has determined that the Congressional goal of enhancing homeless data collection at the CoC level is best achieved by assisting CoCs seeking dedicated Homeless Management Information Systems (HMIS) to receive Supportive Housing Program funds. To this end, HUD reserves the right to fund for at least one year lower rated eligible dedicated HMIS projects receiving 40 need points and at least 25 Continuum points.

b. Adjustments to Funding: HUD has determined that geographic diversity is an appropriate consideration in selecting homeless assistance projects in the competition. HUD believes that geographic diversity can be achieved best by awarding grants to as many CoCs as possible. To this end, in instances where any of the 50 States, the District of Columbia, the Commonwealth of Puerto Rico, Guam, the Northern Mariana Islands, the Virgin Islands, and American Samoa does not have at least one funded CoC, HUD reserves the right to fund eligible project(s) receiving 40 Need points in the CoC with the highest total score in that jurisdiction. To qualify for funding, the total score for these first-level projects on the CoC priority list must be at least 65 points. In the case of two or more CoCs with the same total score, HUD will use the tie-breaking rules described above. In addition, if the highest priority project passing threshold requirements within a CoC fails to meet the criteria for receiving 40 Need points, HUD reserves the right to reduce the total requested amount for that project to allow it to qualify for 40 Need points. If you do not submit clear project priority designations for the Continuum or if HUD, at its sole discretion, cannot determine the CoC's priority designations, then HUD will give all such projects 0 Need points. If the CoC requests a new permanent housing project as the highest priority, and HUD determines that it is not a permanent housing project, HUD reserves the right to not award funds to that project rather than reclassify the component. The intent of this provision is to preserve PRN for lower ranking projects. Finally, if the total amount that would be awarded for first level projects in a CoC exceeds the final pro rata need amount for that CoC, the lowest priority first level project being selected for funding will be reduced to the amount that is wholly within the higher need level. HUD may otherwise adjust funding of applications in accordance with the provisions of the General Section.

In addition, HUD reserves the right to ensure that a project that is applying for, and eligible for, selection under this competition is not awarded funds that duplicate activities. If the geography included in your CoC strategy substantially overlaps that of another application, projects within the CoC application that receive the highest CoC score will be eligible for up to 40 Need points. Projects in the competing CoC application with the lower CoC score will receive 0 need points. In no case will the same geographical area be used more than one time in assigning Need points. The local HUD Field Office can help you determine if any of the areas proposed for inclusion by your CoC system is also likely to be claimed under another CoC system in this competition.

3. Additional Selection Considerations. HUD also will apply the limitations on funding described below in making conditional selections.

a. Thirty Percent Permanent Housing Requirement. In accordance with the appropriation for homeless assistance grants in the Fiscal Year 2006 HUD Appropriations Act, HUD will use not less than 30 percent of the total FY 2006 Homeless Assistance Grants appropriation, excluding amounts provided for renewals under the S+C Program, to fund projects that meet the definition of permanent housing. Projects meeting the definition of permanent housing for this purpose are:

(1) New and renewal projects under the SHP that are designated as either permanent housing for homeless persons with disabilities or Safe Haven projects designated as having the characteristics of permanent housing for homeless persons with disabilities, including having leases with all program participants. All such permanent housing projects chosen for this purpose must have received at least 10 Need points, and must be submitted as part of a CoC application receiving at least 25 points under the CoC scoring factor. However, no CoC applicant may receive more than 30 percent of its pro rata need, up to $3 million, for “second-level” permanent housing projects assigned 10 Need points that are selected for funding under this procedure. (See Section V.A.2.b (4) for definition of “second-level.”) HUD will award no less than 30 percent of the total FY 2006 Homeless Assistance Grants appropriation, excluding amounts for S+C renewals, for permanent housing projects unless an insufficient number of approvable permanent housing projects are submitted. In order to meet this permanent housing funding requirement and stay within the total funding amount available, initially selected Supportive Service Only (SSO) and non-permanent housing projects will be deselected if necessary to add an adequate number of permanent housing projects, even if they are lower scoring housing projects. HUD will, if necessary, first proceed to de-select new SSO projects initially selected, starting with lowest scoring new projects and proceeding to higher scoring new SSO projects initially selected. If the funding line is still exceeded, HUD will proceed to de-select the lowest scoring new non-permanent housing projects initially selected and proceed to higher scoring new non-permanent housing projects. Finally, if the funding line is still exceeded HUD will proceed to de-select SSO and then other non-permanent housing renewal projects until all selected projects are within the funding line.

(2) New S+C projects; and

(3) SRO projects.

b. Ten Percent Housing for Chronic Homeless Requirement: HUD has implemented a requirement that at least 10 percent of the appropriation must be awarded for projects predominantly serving individuals experiencing chronic homelessness. To be considered predominantly serving chronically homeless people, at least 70 percent of the persons served in this project must meet HUD's definition of chronic homelessness. Permanent housing, transitional and safe haven housing projects, whether new or renewal, that commit to predominantly serving persons experiencing chronic homelessness will be counted for this purpose. To meet this requirement, HUD will also include permanent housing projects selected for the 30 percent requirement that predominantly serve chronically homeless persons. S+C renewals will then be screened to count projects predominantly serving chronically homeless persons. If the 10 percent requirement is not yet met, permanent, transitional and safe haven housing projects below the funding line that predominantly serve chronically homeless persons will also be selected to achieve this requirement.

c. Distribution of Selections: In accordance with section 429 of the McKinney-Vento Act, HUD will award Supportive Housing Program funds as follows: Not less than 25 percent for projects that primarily serve homeless families with children; not less than 25 percent for projects that primarily serve homeless persons with disabilities; and not less than 10 percent for supportive services not provided in conjunction with supportive housing. After projects are rated and ranked, based on the factors described above, HUD will determine if the conditionally selected projects achieve these minimum percentages. If not, HUD will skip higher-ranked projects in order to achieve these minimum percentages.

In accordance with section 463(a) of the McKinney-Vento Act, at least 10 percent of S+C funds will be awarded for each of the four components of the program: Tenant-based Rental Assistance; Sponsor-based Rental Assistance; Project-based Rental Assistance; and Single Room Occupancy (provided there are sufficient numbers of approvable projects to achieve these percentages). After projects are rated and ranked, based on the factors described above, HUD will determine if the conditionally selected projects achieve these minimum percentages. If necessary, HUD will skip higher-ranked projects in order to achieve these minimum percentages.

In accordance with section 455(b) of the McKinney-Vento Act, no more than 10 percent of the assistance made available for S+C in any fiscal year may be used for programs located within any one unit of general local government. In accordance with section 441(c) of the McKinney-Vento Act, no city or urban county may have SRO Section 8 projects receiving a total of more than 10 percent of the assistance made available under this program. HUD is defining the 10 percent availability this fiscal year as $10 million for S+C and $10 million for Section 8 SRO. However, if the amount awarded under either of these two programs exceeds $100 million, then the amount awarded to any one unit of general local government (for purposes of the S+C Program) or city or urban county (for the purposes of the Section 8 SRO Program) cannot exceed 10 percent of the actual total amount awarded for that program.

Lastly, HUD reserves the right to reduce the amount of a grant if necessary to ensure that no more than 10 percent of assistance made available under this NOFA will be awarded for projects located within any one unit of general local government or within the geographic area covered by any one Continuum of Care. If HUD exercises a right it has reserved under this NOFA, that right will be exercised uniformly across all applications received in response to this NOFA.

4. Corrections to Deficient Applications. The General Section provides the procedures for corrections to deficient applications.

VI. Award Administration Information

A. Award Notices

1. Action on Conditionally Selected Applications. HUD will notify conditionally selected applicants in writing. HUD may subsequently request them to submit additional project information, which may include documentation to show the project is financially feasible; documentation of firm commitments for cash match; documentation showing site control; information necessary for HUD to perform an environmental review; a copy of your Code of Conduct; and such other documentation as specified by HUD in writing to the applicant, that confirms or clarifies information provided in the application. HUD will notify SHP, SRO, S+C and S+C/SRO applicants of the deadline for submission of such information. If an applicant is unable to meet any conditions for fund award within the specified timeframe, HUD reserves the right not to award funds to the applicant and add them to funds available for the next competition for the applicable program.

2. Applicant Debriefing: See the General Section for applicant debriefing procedures.

3. Appeals Process: Applicants may appeal the results of HUD's review and selection process if they believe a HUD error has occurred. Appeals must be submitted in writing to the Assistant Secretary for Community Planning and Development and must state what HUD error the applicant believes has occurred.

B. Administrative and National Policy Requirements

1. Administrative and Other Program Requirements. a. The Government Performance and Results Act (GPRA) require Federal agencies to measure the performance of their programs. HUD captures this information not only from monitoring visits and APRs, but also on the data gathered in annual competitions. For example, the description of methods used in determining the project priority order submitted in Exhibit 1, CoC-Q, Project Priorities Chart, provides verification that projects are performing satisfactorily and are effectively addressing the needs for which they were designed. HUD's homeless assistance programs are measured in 2006 by the objective to “end chronic homelessness and to move homeless families and individuals to permanent housing.” This objective has a number of measurable indicators, five of which relate directly to the Continuum of Care homeless assistance programs. These five indicators are:

(1) At least 390 functioning CoC communities will have a Homeless Management Information System (HMIS) in 2005. This information is collected via Exhibit 1, Chart CoC-M, HMIS Charts;

(2) The percentage of formerly homeless individuals who remain housed in HUD permanent housing projects for at least 6 months will be at least 71 percent. Stability in this permanent housing is addressed in Exhibit 1, Chart CoC-W, CoC Housing Project Performance Chart;

(3) The percentage of homeless persons who have moved from HUD transitional housing into permanent housing will be at least 61 percent. The success of transitional housing is addressed in Exhibit 1, Chart CoC-W, CoC Housing Project Performance Chart; and

(4) The employment rate of persons exiting HUD homeless assistance projects will be at least 11 percentage points higher than the employment rate of those entering. Obtaining employment is addressed in Exhibit 1, Chart CoC-X, CoC Mainstream Programs and Employment Project Performance Chart.

b. To achieve this objective and each of these measurable indicators, HUD needs your community's help. The emphasis in this year's competition on housing chronically homeless persons, using HUD funds for transitional and especially permanent housing, helping clients access mainstream service programs and jobs, and implementing HMIS are all aligned with this GPRA objective and its performance indicators.

c. Executive Order 13202, “Preservation of Open Competition and Government Neutrality Towards Government Contractors' Labor Relations on Federal and Federally Funded Construction Projects.” Please see the General Section for further information.

d. Procurement of Recovered Materials. Please see the General Section for further information.

e. Please reference the General Section of the NOFA for other administrative requirements.

2. Sanctions. Should HUD determine, in its sole discretion, that sufficient evidence exists to confirm that the entity responsible for convening and managing the CoC process in a community has failed to follow locally established or accepted procedures governing the conduct of that process or has failed to provide for a fair process, including a project priority selection process that gives equal consideration to projects proposed by nonprofit organizations, HUD reserves the authority to impose sanctions up to and including a prohibition on that entity and the individuals comprising that entity from participating in that capacity in the future. In making this determination, HUD will consider as evidence court proceedings and decisions, or the determinations of other independent and impartial review bodies. This authority cannot be exercised until after a description of procedural safeguards, including an opportunity for comment and appeal, and the specific process and procedures for imposing a prohibition or debarment, have been published in the Federal Register.

C. Reporting

Once conditionally selected applications advance to full award and execution of a grant agreement, grantees are required to submit an Annual Progress Report (APR) and a completed Logic Model showing outputs and outcomes achieved for the year to both HUD Headquarters and the respective Field Office each year. In addition, grantees must also respond to the management questions contained in the Logic Model.

For FY2006, HUD is considering a new concept for the Logic Model. The new concept is a Return on Investment statement. HUD will be publishing a separate notice on the ROI concept.

Also, Grantees who expend $500,000 or more in a year in Federal awards are reminded they must have a single or program-specific audit for that year in accordance with the provisions of 24 CFR 45 and OMB Circular No. A-133.

VII. Agency Contacts

A. For Further Information. You may contact the HUD Field Office serving your area, at the telephone number shown in the General Section, or you may contact the NOFA Information Center at 1-800-483-8929 or by Internet at: http://www.hud.gov. Individuals who are hearing- or speech-impaired should use the Information Relay Service at 1-800-877-8339 (these are toll-free numbers).

B. For Technical Assistance. Before the application deadline, HUD staff will be available to provide you with general guidance. HUD staff, however, cannot provide you with guidance in actually preparing your application. HUD Field Office staff also will be available to help you identify organizations in your community that are involved in developing the CoC system. Following conditional selection of applications, HUD staff will be available to assist selected applicants in clarifying or confirming information that is a prerequisite to the offer of a grant agreement or Annual Contributions Contract by HUD. However, between the application deadline and the announcement of conditional selections, HUD will accept no information that would improve the substantive quality of your application pertinent to HUD's funding decision.

C. Satellite Broadcast. HUD will hold one or more information broadcasts via satellite for potential applicants to learn more about the program and preparation of the application. Viewing of these broadcasts, which will provide critical information on the application process, is highly recommended. For more information about the date and time of the broadcast, you should consult the HUD Web site at http://www.hud.gov.

VIII. Other Information

A. Paperwork Reduction Act

The information collection requirements contained in this document have been submitted for approval by the Office of Management and Budget (OMB) under the Paperwork Reduction Act of 1995 (44 U.S.C. 3501-3520) and OMB approval is pending. In accordance with the Paperwork Reduction Act, HUD may not conduct or sponsor, and a person is not required to respond to, a collection of information unless the collection displays a currently valid OMB control number. Public reporting burden for the collection of information is estimated to average 200 hours per annum per respondent for the application and grant administration. This includes the time for collecting, reviewing, and reporting the data for the application, semi-annual reports and final report. The information will be used for grantee selection and monitoring the administration of funds. Response to this request for information is required in order to receive the benefits to be derived.

B. Attachments. This final section lists the attachments that are critical to the application process. Please see Section IV.B.1.b of this NOFA for a complete description of the forms and certifications required and the order of assembly. In addition to applicant and sponsor documentation of eligibility, please provide:

1. Forms to complete for Exhibit 1, Continuum of Care.

Form HUD-40090-1—Exhibit 1, Continuum of Care Application. All of the following charts comprise this form:

A: CoC Lead Organization Chart

B: CoC Geography Chart

C: CoC Groups and Meetings Chart

D: CoC Planning Process Organizations Chart

E: CoC Governing Process Chart

F: CoC Project Review and Selection Chart

G: Written Complaints Chart

H: CoC Services Inventory

I: Housing Inventory Charts

J: Housing Inventory Data Sources and Methods Chart

K: CoC Point-in-Time Homeless Population and Subpopulations Chart

L: CoC Homeless Population and Subpopulations Data Sources and Methods Chart

M: CoC HMIS Charts

N: CoC 10-Year Plan, Objectives, and Action Steps Chart

O: CoC Discharge Planning Policy Chart

P: CoC Coordination Chart

Q: CoC Project Priorities Chart

R: CoC Pro Rata Need (PRN) Reallocation Chart

S: CoC Project Leveraging Chart

T: CoC Current Funding and Renewal Projections Chart

U: CoC Achievements Chart

V: CoC Chronic Homeless (CH) Progress Chart

W: CoC Housing Performance Chart

X: Mainstream Programs and Employment Project Performance Chart

Y: Enrollment and Participation in Mainstream Programs Chart

Z: Unexecuted Grants Awarded Prior to the 2005 CoC Competition Chart

AA: CoC Participation in Energy Star Chart

BB: Section 3 Employment Policy Chart

Form HUD-27300—Questionnaire for HUD's Initiative on Removal of Regulatory Barriers

Form HUD-2993—Acknowledgment of Application Receipt

Form HUD-2994—Client Comments and Suggestions

2. Forms to complete for each applicant. These include:

SF-424—Application for Federal Assistance

HUD-40090-4—Applicant Certifications (located at the end of Exhibit 2)

Form HUD-2880—Applicant/Recipient Disclosure/Update Report

SF-424 SUPP—Voluntary Survey on Ensuring Equal Opportunity

3. Forms to complete for each project (Exhibit 2). These include:

Form HUD-40090-2—Exhibit 2, Continuum of Care Project Application

Form HUD-96010—Logic Model

Form HUD-2991—Certification of Consistency with the Consolidated Plan

Note: This year, the Questions and Answers Supplement can be accessed at: http://www.hud.gov/offices/adm/grants/fundsavail.cfm.

[FR Doc. 06-1869 Filed 3-7-06; 8:45 am]

BILLING CODE 4210-01-P